DEPARTMENT OF LABOR

Employee Benefits Security Administration

29 CFR Parts 2520 and 2590

DEPARTMENT OF THE TREASURY

Internal Revenue Service

26 CFR Part 301

PENSION BENEFIT GUARANTY CORPORATION

29 CFR Part 4065

RIN 1210-AB63

Proposed Revision of Annual Information Return/Reports

AGENCY: Employee Benefits Security Administration, Labor, Internal Revenue Service, Treasury, Pension Benefit Guaranty Corporation.

ACTION: Notice of proposed forms revisions.

SUMMARY: This document contains proposed changes to the Form 5500 Annual Return/Report forms, including the Form 5500, Annual Return/Report of Employee Benefit Plan (Form 5500 Annual Return/Report), and the Form 5500-SF, Short Form Annual Return/Report of Small Employee Benefit Plan (Form 5500-SF). The annual returns/reports are filed for employee pension and welfare benefit plans under the Employee Retirement Income Security Act of 1974 (ERISA) and the Internal Revenue Code (Code). The proposed revisions in this Notice reflect efforts of the Department of Labor, the Internal Revenue Service, and the Pension Benefit Guaranty Corporation (collectively Agencies) to improve employee benefit plan reporting for filers, the public, and the Agencies by modernizing financial information filed regarding plans; updating fee and expense information on plan service providers with a focus on harmonizing annual reporting requirements with the Department of Labor's final disclosure requirements enhancing mineability of data filed on annual return/reports; requiring reporting by all group health plans covered by Title I of ERISA, including adding a new Schedule J (Group Health Plan Information); and improving compliance under ERISA and the Code through selected new questions regarding plan operations, service provider relationships, and financial management of the plan. These revisions, which are being proposed in conjunction with a recompete of the ERISA Filing and Acceptance System (EFAST2) contract, if adopted, generally would apply for plan years beginning on or after January 1, 2019. EFAST2 is expected to begin processing the Plan Year 2019 Form 5500 Annual Return/Report beginning January 1, 2020. The proposed revisions would affect employee pension and welfare benefit plans, plan sponsors, administrators, and service providers to plans subject to annual reporting requirements under ERISA and the Code.

DATES: Written comments must be received by the Department of Labor on or before October 4, 2016.

ADDRESSES: To facilitate the receipt and processing of written comment letters on the proposed regulation, EBSA encourages interested persons to submit their comments electronically. You may submit comments, identified by RIN 1210-AB63, by any of the following methods:

Federal eRulemaking Portal: http://www.regulations.gov.

Follow instructions for submitting comments.

Email: e-ORI@dol.gov. Include RIN 1210-AB63 in the subject line of the message.

Mail: Office of Regulations and Interpretations, Employee Benefits Security Administration, Attn: RIN 1210-AB63; Annual Reporting and Disclosure, Room N-5655, U.S. Department of Labor, 200 Constitution Avenue NW., Washington, DC 20210.

Hand Delivery/Courier: Office of Regulations and Interpretations, Employee Benefits Security Administration, Attn: RIN 1210-AB63; Annual Reporting and Disclosure, Room N-5655, U.S. Department of Labor, 200 Constitution Avenue NW., Washington, DC 20210.

Instructions: All comments received must include the agency name and Regulatory Identifier Number (RIN) for this rulemaking (RIN 1210-AB63). Persons submitting comments electronically are encouraged not to submit paper copies. All comments received will be made available to the public, posted without change to http://www.regulations.gov and http://www.dol.gov/ebsa, and made available for public inspection at the Public Disclosure Room, N-1513, Employee Benefits Security Administration, U.S. Department of Labor, 200 Constitution Avenue NW., Washington, DC 20210, including any personal information provided.

FOR FURTHER INFORMATION CONTACT: Mara S. Blumenthal, Employee Benefits Security Administration (EBSA), U.S. Department of Labor, (202) 693-8523, for questions relating to changes to the Form 5500, Form 5500-SF, Schedules A, C, D, G, and H, as well as the general reporting requirements under Title I of ERISA; Suzanne Bach, EBSA, U.S. Department of Labor, 202-693-8440, for questions relating to the collection of group health plan information; Leslie Larson, Internal Revenue Service (IRS), at the IRS taxpayer assistance answering service at 1-877-829-5500 (a toll-free number), for questions relating to Schedule R, Schedule E, as well as the general reporting requirements under Internal Revenue Code (Code); Steven Klubock, IRS, at 1-877-829-5500, for IRS questions relating to the Schedules MB and SB; and Grace Kraemer or Theresa Anderson, Pension Benefit Guaranty Corporation (PBGC), (202) 326-4000 for questions relating to Schedules MB and SB of the Form 5500, and Lines 14 and 19 of Schedule R, as well as questions relating to the general reporting requirements under Title IV of ERISA. For further information on an item not mentioned above, contact Ms. Blumenthal. The telephone numbers referenced above are not toll-free numbers, except as otherwise provided.

Customer service information: Individuals interested in obtaining information from the DOL concerning Title I of ERISA may call the EBSA Toll-Free Hotline at 1-866-444-EBSA (3272) or visit the DOL's Web site (www.dol.gov/ebsa).

SUPPLEMENTARY INFORMATION:

Sections 101 and 104 of Title I and section 4065 of Title IV of the Employee Retirement Income Security Act of 1974 (ERISA) and sections 6057(b), 6058(a), and 6059(a) of the Internal Revenue Code of 1986 (Code), and related regulations, impose annual reporting and filing obligations on pension and welfare benefit plans, as well as on certain other entities. Plan administrators, employers, and others generally satisfy these annual reporting obligations by filing the Form 5500, Annual Return/Report of Employee Benefit Plan together with any required schedules and attachments (Form 5500 Annual Return/Report), or Form 5500-SF, Short Form Annual Return/Report of Small Employee Benefit Plan (Form 5500-SF).¹ Specifically, filing of the Form 5500 or, for eligible filers the Form 5500-SF, with any required schedules and attachments in accordance with the instructions and related regulations, constitutes compliance under Title I of ERISA with the applicable limited exemption, alternative method of compliance, and simplified reporting prescribed in 29 CFR 2520.103-1, et seq. Such filings will also satisfy an applicable plan administrator's annual reporting obligation under section 4065 of Title IV of ERISA. Filing of a Form 5500 or Form 5500-SF, together with the required attachments and schedules in accordance with the instructions, by plan administrators, employers, and certain other entities also satisfies the annual filing and reporting requirements under Code sections 6057(b), 6058(a) and 6059(a).²

¹ Certain one-participant plans and foreign plans that are not subject to the requirements of section 104(a) of ERISA are required to file Form 5500-EZ with the IRS on paper, or voluntarily file electronically using Form 5500-SF to satisfy certain annual reporting and filing obligations imposed by the Code. Beginning with the 2015 plan year, however, some filers are required to file their annual returns electronically using Form 5500-SF instead of filing a paper Form 5500-EZ if the filer is required to file at least 250 returns of any type with the IRS. See Treasury Regulations section 301.6058-2 for more information on mandatory electronic filing of employee retirement benefit plan returns.

² Some filing requirements under these provisions are not within the scope of this Notice. For example, multiple employer welfare arrangements and certain entities claiming exception are required to file with the DOL the Form M-1 (Report for Multiple Employer Welfare Arrangements (MEWAs) and Certain Entities Claiming Exception (ECEs)).

The Form 5500 Annual Return/Report serves as the principal source of information and data available to the DOL, the IRS, and the PBGC (collectively the Agencies) concerning the operations, funding, and investments of approximately 806,000 pension and welfare benefit plans. These plans cover roughly 143 million workers, retirees, and dependents of private sector pension and welfare plans ³ with estimated assets of $8.7 trillion.⁴ Accordingly, the Form 5500 Annual Return/Report is essential to each Agency's enforcement, research, and policy formulation programs. They are also an important source of information and data for use by other federal agencies, Congress, and the private sector in assessing employee benefit, tax, and economic trends and policies. The Form 5500 Annual Return/Report also serves as the primary means by which the operations of plans can be monitored by plan participants and beneficiaries and by the general public.

³ Source: U.S. Department of Labor, EBSA calculations using the March 2014 Current Population Survey Annual Social and Economic Supplement and the 2013 Medical Expenditure Panel Survey.

⁴ EBSA projected ERISA covered pension, welfare, and total assets based on the 2013 Form 5500 Annual Return/Report filings with the U.S. Department of Labor (DOL), reported SIMPLE assets from the Investment Company Institute (ICI) Report: The U.S. Retirement Market, Second Quarter 2015, and the Federal Reserve Statistical Release Z.1 Financial Accounts of the United States (Sept. 18, 2015).

Generally, the Agencies have conducted a notice and comment rulemaking initiative to implement significant overhauls of the structure of the forms and schedules coincident with changes to the EFAST system. Past revisions to the forms and schedules have addressed changes to applicable law, changes in employee benefit plans and financial markets, and corresponding shifts in agency priorities and needs. The Agencies have also made changes to reduce costs and make filing and processing more efficient. In interim years, the Agencies have made other discrete changes as set forth annually in the “Changes to Note” section in the instructions, some of which have involved targeted rulemaking activity to implement reporting changes required by law.⁵ The Agencies' last major tri-agency revision to the Form 5500 Annual Return/Report was proposed in 2006, 71 FR 41615 (Jul. 21, 2006), and finalized in 2007, effective for the 2009 form series. 72 FR 64731 (Nov. 16, 2007).

⁵ See, e.g., Revisions to Annual Return/Report—Multiple-Employer Plans, Interim Final Rule, 79 FR 66617 (Nov. 10, 2014); Filings Required of Multiple Employer Welfare Arrangements and Certain Other Related Entities, Final Rule, 78 FR 13781 (Mar. 1, 2013).

This forms revision proposal generally is being coordinated with a recompete of the contract for the ERISA Filing Acceptance System II (EFAST2)—the wholly electronic system operated by a private-sector contractor for the processing of Form 5500 Annual Return/Report. The majority of proposed forms revisions are currently targeted for implementation in the Plan Year 2019 Form 5500 Annual Return/Report. Development of EFAST changes pursuant to a new contract could begin in spring 2018, with processing under the new contract starting on January 1, 2020. However, this planned implementation timeline may be impacted if there are modifications to the recompete contract acquisition plan. As a result, some forms revisions may be implemented in earlier or later form years, including but not limited to the IRS and PBGC changes for 2016 as shown in the proposed data elements in Appendix A. To the extent changes are made separately from a more general implementation of the proposed revisions, the Agencies will seek appropriate clearance under the Paperwork Reduction Act of 1995 (PRA) to implement the changes in connection with any given year's forms.

The Agencies expect that the EFAST2 recompete would continue to deliver a user-friendly Web site, filing applications and web services, and contact center services similar to what is currently being provided. The existing EFAST2 web-based filing search application is expected to be enhanced and provided by EBSA. The Agencies expect that EFAST2 would continue to have the same or improved functionality and web services and is expected primarily to rely on existing EFAST2 software, components and logic. EFAST2 would continue to include a user-friendly web portal that provides registration, filing submission, filing acceptance, filing data dissemination, and help desk services.

As part of the comprehensive review of how well the Form 5500 Annual Return/Report serves to implement the existing employee benefit plan filing requirements under Titles I and IV of ERISA and under the Code, the Agencies have considered intervening changes to the legal and regulatory environment for employee benefit plans, plan sponsors, plan service providers and others since the last major revision of the Form 5500 Annual Return/Report. This includes implementation of the Dodd-Frank Wall Street Reform and Consumer Protection Act, Public Law 111-203, 124 Stat. 1376, (Jul. 21, 2010); statutory changes to ERISA and the Code relating to defined benefit pension plans in the Moving Ahead for Progress in the 21st Century Act (MAP 21) (Pub. L. 112-141); the Cooperative and Small Employer Charity Pension Flexibility Act (CSEC Act) (Pub. L. 113-98); the Highway and Transportation Funding Act (HATFA) (Pub. L. 113-159); the Multiemployer Pension Reform Act of 2014, Division O of the Consolidated and Further Continuing Appropriations Act, 2015, (Pub. L. 113-235) (MPRA), and various regulatory actions adopted by the Agencies since the last major changes to the forms and instructions, including the DOL's final regulations at 29 CFR 2550.404a-5, 404c-5, and 408b-2.

In addition, the enactment of the Patient Protection and Affordable Care Act (Affordable Care Act) ⁶ expanded DOL's already growing oversight responsibilities with respect to the provision of group health benefits to workers in private sector employer-sponsored plans that provide group health benefits (also referred to herein as “group health plans”). In that regard, the DOL has re-evaluated the existing reporting scheme for group health plans, which scheme was established well before the enactment of the Health Insurance Portability and Accountability Act of 1996, Public Law 104-191, 110 Stat. 1936 (Aug. 21, 1996); Title I of the Genetic Information Nondiscrimination Act of 2008, Public Law 110-233, 122 Stat. 881 (May 21, 2008); the Mental Health Parity Act of 1996, Public Law 104-204, 110 Stat. 2944 (Sept. 26, 1996) and the Mental Health Parity and Addiction Equity Act of 2008, Public Law 110-343, 122 Stat. 3881 (Oct. 3, 2008); the Newborns' and Mothers' Health Protection Act of 1996, Public Law 104-204, 110 Stat. 2935 (Sept. 26, 1996); the Women's Health and Cancer Rights Act of 1998, Public Law 105-277, 112 Stat. 2681-436 (Oct. 21, 1998); and Michelle's Law, Public Law 110-381, 122 Stat. 4081 (Oct. 9, 2008), as well as the Affordable Care Act.

⁶ The Patient Protection and Affordable Care Act, Public Law 111-148, was enacted on March 23, 2010, and the Health Care and Education Reconciliation Act of 2010, Public Law 111-152, was enacted on March 30, 2010. These statutes generally are collectively known as the “Affordable Care Act.”

After reviewing the existing reporting scheme and the DOL's experience with oversight and enforcement, the DOL determined that, in order for it to more effectively fulfill its responsibilities under the expanded requirements under these laws, all plans that provide group health benefits should be subject to some level of annual reporting, with a focus on compliance issues. As described in more detail below, under the proposal, those plans that provide group health benefits that are already required to file a Form 5500 Annual Return/Report—generally all large plans and small plans that are funded with a trust or that are otherwise not eligible for the annual reporting relief for unfunded and insured plans—would have to file group health plan information on a new separate schedule (Schedule J (Group Health Plan Information)), as well as complete those elements of the Form 5500 and schedules that those plans are already required to complete, as modified by this proposal. Plans that provide group health benefits that have fewer than 100 participants currently exempt from filing an annual report under 29 CFR 2520.104-20 because they are either completely “unfunded” or partially insured and partially unfunded now would be required to file a Form 5500 (except for those questions applicable only to pension plans) and the new Schedule J. Under the proposal, plans that provide group health benefits that have fewer than 100 participants that currently are exempt from annual reporting under 29 CFR 2520.104-20 because they are fully insured would be required to file with answers to certain questions on the Form 5500 and the Schedule J.

Certain information collection requirements imposed under the Code, but not required under ERISA, had to be removed from the Form 5500 Annual Return/Report when DOL implemented its EFAST2 electronic filing requirement beginning with the 2009 Form 5500 Annual Return/Report. The Code did not permit the IRS to mandate electronic filing of “IRS-only” components of the Form 5500 Annual Return/Report with respect to filers of fewer than 250 returns, and regulations did not mandate such electronic filing with respect to any filers. Specifically, Schedules E, P, SSA, and T were not included in the 2009 Form 5500 Annual Return/Report. Some of those information collection requirements can now be added back to the Form 5500 Annual Return/Report. On September 29, 2014, the Treasury Department issued final regulations under Code sections 6058 and 6059 mandating electronic filing of the Form 5500 Annual Return/Report (including actuarial schedules) for certain filers. T.D. 9695, 79 FR 58256 (Sept. 29, 2014). In general, 26 CFR 301.6058-2 provides that, in order to satisfy the filing requirements of Code section 6058, a Form 5500 Annual Return/Report must be filed electronically if the filer is required to file at least 250 returns of any type during the calendar year that includes the first day of the applicable plan year. Similarly, 26 CFR 301.6059-2 provides in general that, in order to satisfy the filing requirements of Code section 6059, actuarial reports filed with a Form 5500 Annual Return/Report must be filed electronically by filers required to file at least 250 returns during that calendar year. The regulations are generally effective for plan years beginning on or after January 1, 2015, but only for filings with a filing deadline (not taking into account filing extensions) after December 31, 2015.

Finally, the Agencies took into account recommendations in reports from the Government Accountability Office (GAO), the DOL's Office of Inspector General (DOL-OIG), the United States Treasury Inspector General for Tax Administration (TIGTA), and the ERISA Advisory Council that have been issued since the last major revision of the Form 5500 Annual Return/Report information collection requirements in connection with the 2009 return/report. See, e.g., U.S. Gov't Accountability Office, GAO-10-54, Private Pensions: Additional Changes Could Improve Employee Benefit Plan Financial Reporting (2009) (available at www.gao.gov/assets/300/298052.pdf); U.S. Gov't Accountability Office, GAO-14-441, Private Pensions: Targeted Revisions Could Improve Usefulness of Form 5500 Information (2014) (available at www.gao.gov/products/GAO-14-441); 2013 ERISA Advisory Council Report: Private Sector Pension De-risking and Participant Protections, Dep't of Labor, (available at www.dol.gov/ebsa/publications/2013ACreport2.html); Dep't of Labor Office Of Inspector Gen., 05-14-003-12-12, EBSA Could Improve Its Usage of Form 5500 Data (2014) (available at www.oig.dol.gov/public/reports/oa/2014/05-14-003-12-121.pdf); U.S. Gov't Accountability Office, GAO-14-92, Private Pensions: Clarity of Required Reports and Disclosures Could Be Improved (2013) (available at www.gao.gov/assets/660/659211.pdf); U.S. Gov't Accountability Office, GAO-14-92, Private Pensions: Clarity Of Required Reports And Disclosures Could Be Improved, Report to Congressional Requesters (2013) (available at www.gao.gov/assets/660/659211.pdf); U.S. Dep't of Labor Office of Inspector Gen., 09-13-001-12-121, Employee Benefits Security Administration Needs to Provide Additional Guidance And Oversight to ERISA Plans Holding Hard-to-Value Alternative Investments (2013) (available at www.oig.dol.gov/public/reports/oa/2013/09-13-001-12-121.pdf); U.S. Gov't Accountability Office, GAO-12-665, Private Sector Pensions: Federal Agencies Should Collect Data and Coordinate Oversight of Multiple-employer Plans (2012) (available at www.gao.gov/assets/650/648285.pdf); U.S. Dep't of Labor Office Of Inspector Gen., 09-12-002-12-121, Changes Are Still Needed In The ERISA Audit Process To Increase Protections For Employee Benefit Plan Participants (2012) (available at www.oig.dol.gov/public/reports/oa/2012/09-12-002-12-121.pdf); U.S. Gov't Accountability Office, GAO-12-325, 401(K) Plans: Increased Educational Outreach and Broader Oversight May Help Reduce Plan Fees (2012) (available at www.gao.gov/products/GAO-12-325); U.S. Gov't Accountability Office, GAO-08-692, Defined Benefit Plans: Guidance Needed to Better Inform Plans of the Challenges and Risks of Investing in Hedge Funds and Private Equity (2012) (available at www.gao.gov/products/GAO-08-692); Treasury Inspector Gen. for Tax Administration, The Employee Plans Function Should Continue Its Efforts to Obtain Needed Retirement Plan Information (2011) (available at www.treasury.gov/tigta/auditreports/2011reports/201110108fr.pdf); 2011 ERISA Advisory Council Report: Hedge Funds and Private Equity Investments, Dep't of Labor, (available at www.dol.gov/ebsa/publications/2011ACreport3.html); 2013 ERISA Advisory Council Report: Locating Missing and Lost Participants, Dep't of Labor, (available at www.dol.gov/ebsa/publications/2013ACreport3.html#2); 2010 ERISA Advisory Council Report: Employee Benefit Plan Auditing and Financial Reporting Models, Dep't of Labor, (available at www.dol.gov/ebsa/publications/2010ACreport2.html); 2008 ERISA Advisory Council Report: Working Group on Hard-to-Value Assets and Target Date Funds, Dep't of Labor, (available at www.dol.gov/ebsa/publications/2008ACreport1.html.)

The DOL also is publishing elsewhere in today's Federal Register a Notice of Proposed Rulemaking with proposed amendments to the annual reporting regulations at Part 2520 of Chapter XXV of Title 29 of the Code of Federal Regulations to implement certain proposed Form 5500 Annual Return/Report changes under Title I of ERISA. To avoid unnecessary duplication of effort, public comments submitted in response to this Notice of Proposed Forms Revisions will be treated as public comments on the Notice of Proposed Rulemaking to the extent they include information relevant to the proposed regulatory amendments.

Although the Agencies' historical practice of undertaking major updates of the Form 5500 Annual Return/Report generally has coincided with the move to and upgrades of the EFAST processing system, the Agencies also engage in an annual update process of the forms, schedules, and instructions. Some annual changes that are anticipated to be implemented by the IRS and the PBGC in connection with the 2016 plan year forms are discussed below. Those changes and other annual updates have involved, or may in the future involve, separate public notice and comment processes, for example, under the Paperwork Reduction Act (PRA). The Agencies intend that any annual update changes adopted during the pendency of the changes proposed in this Notice will be incorporated into what is published as part of the Notice of Final Forms Revisions as part of this process.⁷

⁷ Minor changes not requiring notice and comment rulemaking or system changes or changes required by enactment of new laws may also be made between the publication of the Notice of Final Forms Revisions and the date when the revised forms, schedules, and instructions are available for e-filing through EFAST2.

As with previous major forms revisions cycles, the Agencies anticipate actively engaging in outreach and education regarding the forms revisions well in advance of the plan year for which the majority of the revisions would be effective.

II. Appendices

A. Data Elements for Forms and Schedules

Appendix A shows the questions/data elements that are on each form and schedule in the line-by-line sequence the items would appear on that form and schedule, as well as newly “structured” attachments, rather than showing mock-ups of “final” forms, schedules, and structured attachments. The Agencies expect that the final forms and schedules will have substantially the same format as the existing forms and schedules.⁸ The lists of data elements for each individual form, schedule, and “structured” attachment to the Schedule H, show all of the questions that would appear on that form, schedule, or attachment—current questions, renumbered questions, revised questions, and new questions. The data elements are numbered in the sequence that the Agencies would expect to use in the final version of the forms and schedules. Next to the data elements, the Agencies have, to the extent feasible, indicated in brackets:

⁸ The Agencies intend to publish mock-ups of the forms on the DOL's Web site as part of the third party software developer certification process and in furtherance of public education efforts about the changes to be implemented.

(1) “[Current]” if it is the same question with the same line number on both the proposal and the current form or schedule; ⁹ “[Current (2016)]” indicates IRS changes and/or PBGC changes that would first be made part of the forms and schedules for the 2016 form year, respectively.

⁹ The Agencies used the 2015 forms, schedules, and instructions as the “current” form version. With respect to IRS-only changes, the changes for 2016 that appear in the notice published by the IRS under the PRA, 81 FR 18687 (Mar. 31, 2016), are used in the proposed data elements and instructions and are so labeled, instead of showing the changes in the information collection under the Code that appear on the 2015 Form 5500 series, which the IRS has directed filers not to answer. See IRS Compliance Questions on the 2015 Form 5500 Series Returns (https://www.irs.gov/Retirement-Plans/IRS-Compliance-Questions-on-the-2015-Form-5500-Series-Returns).

(2) “[Current Line X]” if the item is already on the form or schedule, but is renumbered in the proposal, to show where the item appears on the current form or schedule;

(3) “[Current with revisions]” to indicate, with a short explanation, that the item is already on the form or schedule, but would be revised; and

(4) “[New]” if the item is a new question or new to that form or schedule.

Dates generally are shown in the data element sheets (as well as the instructions) as “20XX” for the Form filing year; “20XX-1” for the prior year, etc.

The Agencies believe this approach of showing the intended changes to the wording of the data elements, but not providing a “mock up” of the forms and schedules, will reduce costs associated with publication of the proposed form changes in the Federal Register and provide greater flexibility for the related EFAST2 development processes. The Agencies also believe that this approach (i.e., taking the questions out of the disclosable form structure), gives a better opportunity to review the format, sequencing, and grouping of how the information would be asked and entered on each of the forms and schedules and how it ultimately could potentially be better presented for disclosure purposes. The Agencies seek comments on whether reordering or regrouping questions on the Form 5500 and schedules could enhance presentation of the information for disclosure purposes or minimize burden from a data-gathering, data-entry, recordkeeping, or other perspective, as well as suggestions on the structure or appearance of the forms as both on-line and printed documents.

B. Proposed Instructions for Form 5500 Annual Return/Report

Appendix B to this document shows the proposed instructions for the Form 5500 and its schedules. The proposed instructions include possible additional instructions and definitions for existing line items, as well as instructions for new items, and the proposed instructions reflect the elimination of current instructions for existing line items or schedules that would be deleted under the proposal. The Agencies expect that the revised instructions for the year in which the majority of the proposed forms changes are implemented, which will be generally coincident with the contracting and procurement process for EFAST2, will also reflect changes in intervening years, changes to law, and any needed additional clarifications and interpretations to the instructions for existing and proposed line items, as well as changes made in response to comments on the proposal. For ease of use by the different types of filers and to eliminate the need for the footnotes and exceptions in the current single “Quick Reference Chart,” the Agencies propose separate charts for the various types of filers (pension plans, direct filing entities (DFEs), group health plans, and welfare plans other than group health plans). These charts appear at the end of Appendix B (Form 5500 Annual Return/Report Instructions). The Agencies believe this proposed change should help filers focus on the specific requirements applicable to the type of plan or entity for which the Form 5500 Annual Return/Report is being filed.

OMB Control Numbers, PRA Notice, and up to date Business Codes are not shown here, but will continue to be included in both the Form 5500 Annual Return/Report and Form 5500-SF instructions published on the EFAST2 Web site for the form year(s) in which the changes are implemented.

C. Proposed Instructions for Form 5500-SF

Appendix C to this document shows the proposed instructions for the Form 5500-SF.

III. Request for Comments

The Agencies believe that the modernization and restructuring of the Form 5500 Annual Return/Report being proposed in this Notice would support the Agencies' ability to implement strong and effective enforcement programs and better respond to inquiries from plan participants and beneficiaries, employers, other plan sponsors, and the public regarding employee benefit plans. Further, the Agencies believe that the proposed revisions would help them more effectively develop and implement regulations and other compliance assistance guidance, and use data for purposes of economic research, policy formulation, and monitoring benefits related developments and activities among ERISA-covered employee benefit plans.

The Agencies generally invite comments and suggestions as to other alternative solutions and whether and how such alternatives would be more, or less, beneficial compared to the proposed changes to the forms, schedules, and instructions. Commenters are asked to take into account the costs and burdens to plans, participants and beneficiaries, plan fiduciaries, plan service providers, and other affected parties, in commenting on the proposed annual reporting changes, including any suggested alternatives.

The request for comments includes areas on the existing forms, schedules, and instructions that the Agencies have not proposed changing, but which may benefit from further guidance, especially with regard to how an existing provision or instruction would apply for a particular segment of the filing population.

IV. Discussion of Proposed Changes

The proposed revisions in this Notice reflect priorities of and efforts by the DOL, IRS, and PBGC to improve reporting for filers and the public, other governmental users, as well as the Agencies by: (1) Modernizing financial information filed regarding plans; (2) updating fee and expense information on plan service providers, with a focus on harmonizing annual reporting requirements with the DOL's final disclosure requirements at 29 CFR 2550.408b-2; (3) enhancing mineability of data filed on annual return/reports; (4) requiring reporting by all group health plans covered by Title I of ERISA, including adding a new Schedule J (Group Health Plan Information); and (5) improving compliance under ERISA and the Code through selected new questions regarding plan operations, service provider relationships, and financial management of the plan. The changes in this proposal to the forms, schedules, instructions, and DOL regulatory exemptions and requirements are intended to further these objectives.

A. Modernize Financial and Plan Operations Information

An overriding objective of these proposed forms revisions is to modernize the Form 5500 Annual Return/Report financial information collection so that the presentation of plan trust financial and balance sheet information better reflects the investment portfolios and asset management practices of employee benefit plans. The basic objective of general purpose financial reporting is to provide information about the reporting entity for the Agencies' enforcement, research, and policy formulation programs; to assist other federal agencies, Congress, and the private sector in assessing employee benefit, tax, and economic trends and policies; and to assist plan participants and beneficiaries and the general public in better monitoring the activities and investments of employee benefit plans.

The financial statements contained in the current Schedule H (Large Plan Financial Information) and Schedule I (Small Plan Financial Information) are based on data elements that have remained largely unchanged since the Form 5500 Annual Return/Report was established in 1975. Over the past four decades, the U.S. private pension system has shifted from defined benefit (DB) pension plans toward defined contribution (DC) pension plans, often participant-directed 401(k)-type DC pension plans. The financing of retirement benefits has changed dramatically coincident with the shift from DB to DC pension plans. In 1978, when legislation was enacted authorizing 401(k) plans that allow employees to contribute to their own retirement plan on a pre-tax basis, participants contributed only 29 percent of the contributions to DC pension plans and only 11 percent of total contributions to both DB and DC pension plans. “In the years following 1978, employee contributions to DC pension plans steadily rose to a peak of approximately 60 percent in 1999, where it has remained.” See Dep't of Labor, Private Pension Plan Bulletin Abstract of 2012 Form 5500 Annual Reports, at 1 (2015). Simultaneously, the number of single-employer DB pension plans has decreased from 92,000 in 1990 to just under 29,000 single-employer pension plans in 2009. See U.S. Gov't Accountability Office, GAO-09-291, Defined Benefit Pensions: Survey Results of the Nation's Largest Private Defined Benefit Plan Sponsors Highlights (2009) (available at http://www.gao.gov/new.items/d09291.pdf).

The shift from DB pension plans to DC pension plans has led to increased responsibility for participants to manage their own retirement savings, which includes having to select among investment options in their retirement plans. See Private Pension Plan Bulletin Abstract Of 2012 Form 5500 Annual Reports, at 2 (Of the 516,000 section 401(k)-type plans in 2012, 87.8 percent allowed participants to direct investment of all of their assets, and 3.1 percent allowed participants to direct investment of a portion of their assets.) The need for more relevant and comparable financial information is not limited to 401(k) and other DC pension plans; it also extends to DB pension plans. Reports from GAO, the DOL-OIG, the ERISA Advisory Council, and the TIGTA also have focused on the need for increased transparency and accountability generally in connection with employee benefit plan investments in hard-to-value and alternative assets, as well as assets held through pooled investment vehicles.

1. Changes to Schedule H (Financial Information)—Balance Sheet and Income Statement

Section 103 of ERISA requires plans to include in their annual report a statement of assets and liabilities of the plan, aggregated by categories and reported at current value. It also requires plans to report a statement of earnings (losses) and expenses. Although the Form 5500 Annual Return/Report has undergone major revisions since its initial implementation in 1975, there has been little change to the basic balance sheet and income statement information on the Form 5500 Annual Return/Report since the return/report was first established. Under the proposal, Schedule H, Parts I and II, would retain the essential asset/liability and income/expense structure of the current reporting requirement. The Agencies are proposing, however, to modify the asset breakouts on the balance sheet component of the Schedule H to enable more accurate and detailed reporting on the types of assets held by a plan, including alternative investments, hard-to-value assets, and investments through collective investment vehicles. The proposed changes take into account the fact that many of these more sophisticated and complex investments do not fit neatly into any of the existing reporting categories. As a result, filers inconsistently report on the various existing categories, and important financial information is obscured by consolidation of many diverse investments into the catch-all “other” category on the balance sheet on the Schedule H. The proposal would also update the income/expense statement of the Schedule H to get a better picture of earnings and expenses associated with plan investments and operations.

In addition to the Agencies' assessment that Form 5500 Annual Return/Report financial reporting would benefit from improved transparency and accountability, the proposal to change the asset categories on the Schedule H balance sheet is supported by recent reports from both the GAO and the DOL-OIG. The GAO has noted that the plan asset categories on the Schedule H are not representative of current plan investments and provide little insight into the investments themselves, the level of associated risk, or the structures of these investments. GAO-14-441, Private Pensions: Targeted Revisions Could Improve Usefulness of Form 5500 Information, at 11-12. The proposed changes to the Schedule H also are consistent with the DOL-OIG recommendation that the Form 5500 Annual Return/Report be revised to improve reporting of hard-to-value and alternative investments. U.S. Dep't of Labor Office of Inspector Gen., 09-13-001-12-121, Employee Benefits Security Administration Needs to Provide Additional Guidance And Oversight to ERISA Plans Holding Hard-To-Value Alternative Investments, at 4, 19.

Accordingly, the Agencies are proposing the following changes to the Schedule H balance sheet and income statement. Current Line 1a, “total noninterest bearing cash,” would be reported as a breakout element under General Investments. This would also result in Line 1b “Receivables” and Line 1c “General Investments” being renumbered as Lines 1a and 1b respectively. Participant loans would continue to be reported as a separate line item, but would be reported as a breakout element under renumbered Line 1a as a “receivable” rather than under its current reporting classification under the heading “General Investments.” This change is responsive to amendments made to “Generally Accepted Accounting Principles” (GAAP) by the Financial Accounting Standards Board (FASB), which required participant loans to be classified as notes receivable from participants. See Financial Accounting Standards Board, No. 2010-25, Plan Accounting—Defined Contribution Pension Plans (Topic 962) (2010). As notes receivable, participant loans would continue to be reported at their unpaid principal balance plus any accrued but unpaid interest.

Under proposed Line 1b (currently Line 1c) “General Investments,” the Agencies would add both new categories and new breakouts within existing categories. Cash and cash equivalents would be the first category under “General Investments.” As indicated above, “noninterest bearing cash (such as cash on hand or cash in a non-interest bearing checking account)” would no longer be separated from “General Investments.” Instead it would be a sub-breakout under “cash and cash equivalents.” The category would also have sub-breakouts for interest bearing cash (assets that earn interest in a financial institution account such as interest bearing checking accounts, passbook savings accounts, or money market bank deposit accounts). While the breakouts are new, the information is already required to be reported on current Line 1c(1).

The next category under “General Investments,” would continue to be for reporting “Debt Interests/Obligations.” The Form 5500 Annual Return/Report currently provides little in the way of detail or transparency about the range of plan investments in bonds, loans, and other debt instruments and obligations. For example, a single line item for “other loans” on the Schedule H currently covers, as indicated in the Form 5500 Annual Return/Report instructions, the value of loans for construction, securities loans, commercial and/or residential mortgage loans that are not subject to Code section 72(p), and other miscellaneous loans. See, e.g., 2015, Schedule H, Form 5500 Annual Return/Report Instructions.

The general debt heading, as proposed, would keep the existing breakout for corporate debt instruments. Breakouts under that category, however, would be investment grade debt and high-yield debt, rather than “preferred” and “all other,” as on the current Schedule H. This change is intended to have the Schedule H financial information for all reporting plans regarding corporate debt instruments correspond to the more detailed financial information on Schedule R for defined benefit pension plans that have 1,000 participants or more. In addition, U.S. government securities would be broken out from other government securities. The instructions for the current forms advise filers to report such investments on the Schedule H financial statements in “Other” debt instruments. This proposal, however, includes more investment categories on the Schedule H to improve transparency from the current “other” categories. For example, there would be a breakout for other loans (other than loans to participants), exchange traded notes, and asset backed securities (other than real estate),¹⁰ and debt obligations associated with real property would be reported under the real property category, rather than generally under “Other Debt Obligations.” Thus, with respect to reporting such leveraged or collateralized transactions on the balance sheet portion of Schedule H, filers would be advised in the instructions to account for such transactions in the appropriate asset category in accordance with the individual characteristics of the investment.

¹⁰ The SEC similarly is working towards more transparency with regard to some of these assets. See Securities and Exchange Commission, Asset-backed Securities Disclosure and Registration, 79 FR 57,184 (Sept. 24, 2014). FINRA has also published an Investor Alert related on exchange traded notes to increase investor awareness of the associated risks. See Exchange-Traded Notes: Avoid Unpleasant Surprises, FINRA, www.finra.org/Investors/ProtectYourself/InvestorAlerts/TradingSecurities/P131262. See also U.S. Gov't Accountability Office, GAO-12-324, Recent Developments Highlight Challenged Of Hedge Fund And Private Equity Investing (2012) (discussing plan investment in distressed debt).

The next category under “General Investments” would continue to be “Corporate Stocks.” Under the corporate securities category, filers would still distinguish between “preferred” and “common” stock for reporting direct holdings of corporate securities. There would be new breakouts, however, for “publicly traded” and “non-publicly traded” securities under both the “preferred” and “common” stock elements. This proposed change is intended to present a more complete picture of plan investments in hard-to-value assets.

The existing reporting line items for certain collective investment vehicles that are treated as holding plan assets under the DOL's plan asset regulation at 29 CFR 2510.3-101 (i.e., bank common or collective trusts (CCTs), insurance company pooled separate accounts (PSAs), entities meeting the conditions of DOL regulation 29 CFR 2510.103-12 (103-12 IEs), and master trusts) generally would be retained, but grouped together for reporting under a new category entitled “Eligible Pooled Investment Funds (Other Than Registered Investment Companies).” To increase transparency and improve the quality of data collected across various components of the Form 5500 Annual Return/Report, the proposal would significantly reconfigure existing reporting of assets held through the various types of pooled investment vehicles that have plan assets.

Under the proposal, a plan's investments in CCTs and PSAs would be reported in the aggregate on single line items for each vehicle type on the Schedule H Line 1b balance sheet information regardless of whether the CCT or PSA files a Form 5500 Annual Return/Report as a DFE. This is a change from the current rule that has filers break out the underlying assets in the respective line items on the Schedule H balance sheet under “general investments” if the CCT or PSA has not filed a Form 5500 Annual Return/Report and in the aggregate on the CCT or PSA line if the Form 5500 Annual Return/Report has been filed. Instead, as discussed in more detail below, the Line 4i(1) Schedule of Assets held for Investment of either the plan or the CCT or PSA, depending on whether the CCT or PSA has filed, would be where the breakout of underlying assets would be reported.

With respect to 103-12 IE reporting on Schedule H, the proposal generally continues the existing reporting requirements. Specifically, similar to the requirements for plans that invest in CCTs and PSAs, a plan that invests in an entity that files as a 103-12 IE would, in identifying each individual 103-12 IE on the Line 4i Schedules of Assets, have to include the value of the plan's investment in each 103-12 IE.

Reporting regarding investments in master trusts by plans and reporting by master trusts, as described in more detail below, would be substantially revised, including reporting on the plan's asset and liability statements on Schedule H, Part I. Specifically, as they did prior to 1999, plans would report their total holdings in master trusts on Schedule H, Line 1b, on an aggregate basis, and the reporting concept of the master trust investment account (MTIA) would be eliminated. The participating plans' fractional interest in the various holdings of the master trust (which currently are reflected in the MTIA Form 5500 Annual Return/Report) now would be shown on the various plans' Schedule H, Line 4i(1) Schedule of Assets Held for Investment at End of Year and Line 4i(2) Schedule of Assets Disposed of During the Plan Year, as well as on the filings by the master trust itself.

The DOL views the proposed changes to annual reporting regarding these pooled investment vehicles as important and necessary in light of the large amount of plan assets (an estimated $1.1 trillion) held by CCTs, PSAs, master trusts, and 103-12 IEs. See U.S. Gov't Accountability Office, GAO 12-121, Limited Scope Audits Provide Inadequate Protections To Retirement Plan Participants, at 1 (2014).

As part of the focus on better reflecting and understanding how plans are investing, the Agencies also propose to replace the single line existing category entitled “Value of Interest in Funds Held in Insurance General Accounts (Unallocated Contracts)” by adding breakouts of various types of unallocated contracts. The proposal would add to the existing general category breakouts for deposit administration, immediate participation guarantees, guaranteed investment contracts, and “other” unallocated insurance contracts. These classes of contracts parallel the existing Schedule A reporting on insurance contracts with unallocated funds. Comments are specifically solicited on whether this breakout is sufficient or whether the value of investments in other or additional classes of insurance contracts, such as variable annuity contracts,¹¹ should be listed on the Schedule H.

¹¹ As discussed below, the proposal would add new questions to Schedule A regarding variable annuities.

The Agencies are also proposing changes to the existing category entitled, “Partnership/Joint Venture Interests.” To clarify the reporting of these general partnership and joint venture investments, new sub-categories are being added to report the value of interest in “limited partnerships,” “venture capital operating companies (VCOCs),” “private equity,” “hedge funds,” and “other partnership/joint venture interests.” The Agencies' proposal was informed by the GAO's findings that there was a need for more detail on plan investment in hedge funds and private equity funds due to substantial increases in the percentage of plans investing in hedge funds and private equity. U.S. Gov't Accountability Office, GAO-12-324, Recent Developments Highlight Challenges With Hedge Fund And Private Equity Investing, at 19 (2012). In making this recommendation, GAO acknowledged that although there is no universally accepted definition, the term “hedge fund” is commonly used to describe pooled investment vehicles that are privately organized and administered by professional managers who engage in active trading of various types of securities, commodity futures, options contracts, and other investment vehicles, including relatively illiquid and hard-to-value investments. Similarly, “private equity fund” is commonly used to describe privately managed pools of capital that invest in companies that typically are not listed on a stock exchange. See, e.g., 2011 ERISA Advisory Council Report: Hedge Funds and Private Equity Investments (noting that plan sponsors have increased investment of defined benefit pension plan assets in hedge funds and/or private equity funds due to the need to increase diversification, decrease volatility, and enhance the plan's overall performance). The Agencies specifically invite comments on whether these definitions are adequate for purposes of Form 5500 Annual Return/Report financial reporting.

In addition, because investments in the “Partnership/Joint venture interests” may or may not be holding plan assets under the DOL's plan asset regulation at 29 CFR 2510.3-101, the Agencies are proposing an off-balance sheet item in this category where filers would indicate the total value of such investments that are plan asset vehicles and those that are not.

The real estate category on the Schedule H balance sheet would be expanded and include sub-categories to include investments in particular types of assets or pooled investment funds designed to invest primarily in real estate or real estate mortgages. In the Agencies' view, the current reporting requirements do not accurately reveal the extent and type of a plan's real estate and related holdings. The proposed new breakouts are: Developed real property (other than employer real property), undeveloped real property (other than employer real property), real estate investment trusts (REITs), mortgage-backed securities (including collateralized mortgage obligations (CMOs)), real estate operating companies (REOCs), and “Other” real estate related investments. Adding these breakouts is consistent with the Agencies' objective of improving reporting on investments that constitute alternative or hard-to-value assets. See OECD/IOPS Good Practices on Pension Funds' Use of Alternative Investments and Derivatives, OECD, (available at http://www.oecd.org/finance/private-pensions/oecdiopsgoodpracticesonpensionfundsuseofalternativeinvestmentsandderivatives.htm.) Creating more specific categories also should help address concerns about inconsistencies in real property reporting cited by the report, GAO Targeted Revisions Could Improve Usefulness Of Form 5500 Information, at 10.

A significant new reporting category is for investments in derivatives. The sub-categories in the derivatives category would be futures, forwards, options, swaps, and “Other.” As in the other general categories, filers would enter a description for assets listed as “Other.” Obtaining more specific information about the extent to which plans are engaged in hedging or in the listed types of derivative transactions would help address concerns raised by the GAO about limitations on usefulness of data on investments in derivatives under the current reporting structure. See generally U.S. Gov't Accountability Office, GAO-08-692, Defined Benefit Plans: Guidance Needed To Better Inform Plans Of The Challenges And Risks Of Investing In Hedge Funds And Private Equity, at 25, 42-43 (expressing specific concerns about the way in which pension plans report investments in derivatives and suggesting that plan sponsors are currently reporting these types of investments in various different categories on the Schedule H, limiting the usefulness of the data.)

The Agencies are also proposing a new category for foreign investments with breakouts to separately report holdings of foreign equities and debt interests. The Agencies propose that, for this reporting purpose, foreign equities would include American Depository Receipts, U.S.-traded foreign stocks and stocks traded on foreign markets. Foreign debt would include both long-term and short-term foreign debt investments, but would not include for purposes of a Form 5500 Annual Return/Report such foreign securities held through U.S. registered investment funds or exchange traded funds, CCTs, PSAs, 103-12 IEs, or master trusts. There also would be subcategories for foreign real estate, currency, and “Other,” with a description required for anything reported in the “Other” category.

The Agencies also are proposing a new asset category on the Schedule H, “Tangible Personal Property,” which category currently appears on the Schedule I, but not on the Schedule H. Under the proposal, the Schedule H would list on its face the main types of assets as reportable in this category, i.e. direct investments in tangible personal property, with sub-categories for collectibles, precious metals, and “Other.” There would also be a separate breakout category for commodities, which would be divided into “Precious Metals” and “Other.” Moving this category from the Schedule I to the Schedule H for all filers required to complete the Schedule H, including former Schedule I filers, would add transparency to these plan investment holdings. To the extent plans have direct investments in tangible personal property and commodities (as opposed to futures contracts or exchange traded funds), they are likely to be reported unhelpfully from a transparency perspective as “Other” on the existing Schedule H.

Finally, the Agencies propose making reporting more transparent for assets held through participant-directed brokerage accounts. The proposal generally follows the same breakout requirements as the current rules. The current rules provide that assets held through participant-directed brokerage accounts may be reported either: (1) As individual investments in the applicable asset and liability categories in Part I and the income and expense categories in Part II, or (2) by including on the “Other” lines (Line 1c(15) on the balance sheet and 2c on the income statement) the total aggregate value of the assets and the total aggregate investment income (loss) before expenses, provided the assets are not loans, partnership or joint venture interests, real property, employer securities, or investments, including derivatives, that could result in a loss in excess of the account balance of the participant or beneficiary who directed the transaction. Under the proposal, filers would provide the total current value of all assets held through participant-directed brokerage accounts, except there would be separate sub-totals for brokerage account investments in tangible personal property, loans, partnership or joint venture interests, real property, employer securities, and investments that could result in a loss in excess of the account balance of the participant or beneficiary who directed the transaction. The current Form 5500 Annual Return/Report reporting rules already require that these types of assets be reported separately from other participant-directed brokerage account assets, similar to the reporting rules for investments in CCTs and PSAs that do not file their own Form 5500 Annual Return/Report. On the proposed Line 4i Schedules of Assets, assets held through a participant-directed brokerage account would be permitted to be reported in the aggregate as a single asset held directly by the plan. The broker would be identified as the issuer/borrower/etc. In the element requiring the filer to indicate on what line the assets were reported on Line 1b, the filer would enter all the subcategories for types of investments held through a participant-directed brokerage account.

The Agencies considered requiring filers to break out all assets held through a participant-directed brokerage account on the Line 4i Schedules of Assets. The Agencies also considered continuing to require filers to break out those specific assets that are currently required to be broken out on Line 1c. For example, the Agencies considered requiring a breakout of information on whether participants are investing in alternative and hard-to-value assets through participant-directed brokerage accounts. The Agencies determined, on balance, considering the benefits to the information and the relative potential burden, that having on the proposed balance sheet (Line 1b) a general breakout of asset types held through participant-directed brokerage accounts would be sufficient, and that details of each individual asset so held would not be required.

The proposal to continue to allow filers to report assets held in participant-directed brokerage accounts in the aggregate is intended to be responsive to comments on the DOL's Request for Information, Question 38, 79 FR 49469, 49473 (Aug. 14, 2014) (RFI), which specifically asked whether changes should be made to the Schedule H to require more detail about investments made through brokerage windows. While some commenters on the RFI thought it made sense for the DOL to consider changes to the Form 5500 Annual Return/Report with respect to brokerage windows, others were concerned about the burden and costs such changes would impose on sponsors and participants and were unclear about the relative benefit of more information. The Agencies do not believe that there would be a substantial additional burden imposed by requiring aggregate participant-directed brokerage account assets to be reported separately instead of the current practice of reporting such assets in the catch-all “Other” category. Similarly, the Agencies believe that there would not be a substantial burden change in the proposed requirement to break out, on the Line 4i Schedules of Assets, the types of investments held in participant-directed brokerage accounts that are not eligible for aggregated reporting under current annual reporting rules.

One of the goals of the proposed change is to get better information on securities lending ¹² practices and how they impact plan finances and operations. As indicated in the Financial Stability Oversight Council's (FSOC) Annual Report for 2014 (available at http://www.treasury.gov/initiatives/fsoc/Documents/FSOC%202014%20Annual%20Report.pdf), the global value of securities loans was approximately $1.8 trillion in 2013. Pension plans are a large segment of the entities engaged in such transactions. Accordingly, the Agencies believe that more precise information is needed to understand how these transactions impact plans and how plans fit into the overall markets. The Agencies explored adding new breakout line items on the asset/liability and income expense statements to identify in more detail securities lending transactions. It is the understanding of the Agencies, however, that filers are reporting securities lending arrangements and similar transactions on the financial statements in various different ways, depending on whether the plan is borrowing or lending securities and the structure of the arrangement or transaction, including transactions such as repurchase agreements and sell/buy-back transactions where, technically, the plan no longer owns the securities. Accordingly, the Agencies believe that the best way to get information on securities financing transactions, without creating particularized line items that might not work for all types of transactions, is to instruct filers to report assets in the appropriate categories on the Schedule H and then identify the transactions in response to the newly proposed compliance questions. The new compliance question would ask whether the plan has investment acquisitions that are leveraged, including assets subject to collateralized lending activities (e.g., securities lending arrangements, repurchase agreements (repos), etc.). If “Yes,” the plan would be required to identify whether the plan engaged in securities lending arrangements, including repurchase agreements or sell/buy-backs, or other transactions that subjected plan assets to a mortgage, lien, or other security interest, and to describe the arrangement. The plan would then have to report, as a total, the amount of cash obligated in connection with collateralized lending activities at end of year, the value of securities obligated in connection with collateralized lending activities at end of year, the value of other assets obligated in connection with collateralized lending activities at end of year, and the approximate ratio of collateralized/leveraged investments to total plan assets at end of year. The Agencies specifically request comments on whether there could be effective breakout line items on the balance sheet that would more clearly show assets that are subject to securities lending or similar arrangements or whether there are specific instructions that would be helpful for filers to know where to categorize the various components of such transactions on both the balance sheet and earnings statements on the Schedule H.

¹² The term “securities loans” generally refers to the collateralized loan of a security from one party to another. Such a loan can have a pre-specified term, such as one business day, one week, or one month, or it can be “open.” An open loan is ongoing until one of the parties to the trade decides to end it.

Under the “Income and Expense” statement in Part II of the Schedule H, the Agencies propose retaining the same basic structure for reporting income as on the current Schedule H, but with additional breakout categories. Notably, the “interest” income category includes a new breakout for government securities other than U.S. government securities, and the unrealized appreciation (depreciation) of assets category would be broken out to report separately partnership/joint venture interests, commodities investments, derivatives, employer securities, foreign investments (other than those held through U.S. registered investment funds), and employer real property, in addition to the existing breakouts for real estate, CCTs, PSAs, MTIAs, 103-12 IEs, and registered investment companies. These proposed changes are intended to better support investment monitoring by asset class and provide more consistent data for research and policy purposes.

The proposal would also add new breakout categories to the “Administrative Expenses” category of the Income and Expenses section of the balance sheet. The Agencies have determined that to get a better picture of plan expenses, particularly those related to service providers, more detail in this category is warranted. Accordingly, data elements would be added for “Salaries and allowances,” “Independent Qualified Public Accountant (IQPA) Audit fees,” “Recordkeeping and Other Accounting Fees,” “Bank or Trust Company Trustee/Custodial Fees” “Actuarial fees” “Legal fees,” “Valuation/appraisal fees,” and “Trustee fees/expenses (including travel, seminars, meetings.” ¹³

¹³ Other than IQPA Audit Fees and Bank or Trust Company Trustee/Custodial Fees, these questions were on the Form 5500 prior to 1999. See 1998 Form 5500, Line 32(g).

The Agencies are also proposing to change administrative expense reporting to identify when participant accounts are charged directly. The Agencies believe that this information is important to better understand how compensation arrangements impact participants, especially in defined contribution pension plans. The Agencies considered requiring filers to break out direct expenses on a service provider by service provider basis on Schedule C to show how and when they are charged to participant accounts rather than at the plan level. To minimize reporting burden under the proposal, however, the information would be reported only in the aggregate. Therefore, instead of requesting this information on the Schedule C, the Agencies have proposed revising the expense information on Schedule H. Specifically, the “Total” administrative expense line item on Schedule H would now require that administrative expenses charged directly against participant accounts be separately reported from those direct expenses charged to other plan asset sources. Filers would separate transaction-based charges to individual participant accounts and plan level expenses apportioned among participant accounts. With respect to the latter, filers would indicate whether the expenses were apportioned per capita, pro rata by account balance, or “Other” apportionment method that they would describe. This would give the Agencies and other users of the Form 5500 Annual Return/Report data a better idea of how and when participants are being charged administrative expenses, which is particularly important for defined contribution pension plans.

2. Proposed Changes to Schedule H, Line 4i Schedules of Assets

As indicated above, the proposed modernization of the financial reporting required on the Schedule H would include structural, data element, and instruction changes to the Line 4i Schedules of Assets. The current Line 4i Schedules (“Schedule of Assets Held for Investment at End of Year” and “Schedule of Assets Acquired and Disposed Within Year”) are required under section 103 of ERISA to be included in the annual report, as currently implemented in the DOL's regulations at 29 CFR 2520.103-11.¹⁴ These schedules are filed by plans required to file the Schedule H and by certain DFEs. The schedules are a central element of the financial disclosure structure of ERISA because they are the only place in the Form 5500 Annual Return/Report where plans are required to list individual plan investments, identified by major characteristics, such as issue, maturity date, rate of interest, cost, and current value. Accordingly, these schedules are the only part of the Form 5500 Annual Return/Report that can be used to evaluate the year-to-year performance of a plan's individual investments. The reported information, however, suffers from several shortcomings.

¹⁴ To see the proposed changes to the DOL's regulations to implement these data element and instruction revisions, please see the DOL's Notice of Proposed Rulemaking—Annual Reporting, published elsewhere today in the Federal Register.

Perhaps most fundamentally, this information currently is not reported in a data-capturable format. Thus, although an image or picture of the attachments that are currently filed as non-standard attachments to filers' electronic Form 5500 Annual Return/Report filings is available through the EFAST2 public disclosure function, it is not viewable as part of the Schedule H, nor is the information included in the data sets that DOL prepares from the return/report filing data and publishes on its Web site (www.dol.gov/ebsa/foia/foia-5500.html). Also, the Line 4i Schedules of Assets are not always found in the same place in each Form 5500 Annual Return/Report filing. For example, the Line 4i Schedules of Assets are often incorporated in the larger audit report of the plan's IQPA that itself is filed as a nonstandard attachment to the Form 5500 Annual Return/Report.¹⁵ The schedules also do not require standardized methods for identifying and describing assets on the Line 4i Schedules of Assets. Under the current reporting rules, the same stock or mutual fund may be identified with various different names or by use of different abbreviations. The creation of more detailed and structured Line 4i Schedules of Assets is a specific recommendation of both the DOL-OIG and the GAO. See DOL Inspector Gen. EBSA Needs To Provide Additional Guidance And Oversight To ERISA Plans Holding Hard-To-Value Alternative Investments, at 4-5; GAO Private Pensions: Targeted Revisions Could Improve Usefulness of Form 5500 Information, at 37.

¹⁵ See EFAST2 FAQ 24a, (available at www.dol.gov/ebsa/faqs/faq-EFAST2.html) (advising filers of options in EFAST2 for filing the accountant's opinion and accompanying financial statements, indicating that they do not need to be “tagged” separately for filing purposes.)

The first proposed improvement would require filers to complete standardized Line 4i Schedules of Assets in a data-capturable format. The Agencies anticipate that EFAST2 would have separate “structured” locations for entering the data into the Form 5500 Annual Return/Report filing, using a standardized format that would enable incorporation of the Line 4i Schedules of Assets information into the datasets that EFAST and EBSA make available from each year's Form 5500 Annual Return/Report and Form 5500-SF filings and enable DOL to more readily disclose the information, as required under Title I of ERISA.

As under the current reporting structure, there would continue to be two separate schedules of assets.¹⁶ The first would be the existing Schedule of Assets Held for Investment at End of Year. The second would modify the existing “Schedule of Assets Acquired and Disposed of Within Year” to a “Schedule of Assets Disposed of During the Plan Year.” The objective of the current Schedule of Assets Acquired and Disposed of Within Year was to ensure that the Form 5500 Annual Return/Report (which generally captures financial information at the beginning and the end of the plan year) captured information on assets that may not have been held either at the beginning of the year or end of year because they were bought and sold within the same year. That structure, however, suffers from a significant gap in information about alternative investments and hard-to-value assets because neither of the current Schedules of Assets provides information on the sale of such assets if purchased in one year and sold in the middle of a subsequent year. The change in the Schedule of Assets Disposed of During the Plan Year to cover all investment assets disposed of during the plan year would close that gap, while continuing to capture transactions that involve the purchase and sale of investment assets within the same plan year.

¹⁶ The current Line 4i question generally asks whether the plan held assets for investment, referring to both Schedules of Assets. Because all filers, except filers for terminated plans, answer “Yes” to indicate that they have assets held at end of year, answers to the current question do not reveal whether the plan also had assets acquired and disposed of during the plan year. The proposal would separate the question into two parts: Line 4i(1) asking whether the plan held investments at the end of the year; and Line 4i(2) asking whether the plan disposed of assets during the plan year. If the answer was “Yes” to either question, the corresponding Schedule of Assets would need to be attached.

Both of the proposed Line 4i Schedules of Assets would continue to require filers to enter, as applicable, the existing data elements (1) identifying the issuer, borrower, lessor, or similar party; (2) describing the investment and identifying, as applicable, the issue, maturity date, rate of interest, par, or maturity value, including whether the asset/investment is subject to surrender charge; (3) reporting the cost of the asset; and (4) reporting the current value of the asset.

A new data element on the Line 4i(1) Schedule of Assets Held for Investment would require the filer to indicate whether the plan or reporting DFE held the investments directly, through a master trust, CCT, PSA, or a 103-12 IE. If the assets are held through a DFE, the filer (whether a plan or an investing DFE) would be required to list each DFE as an investment and enter for each DFE in which the filer was invested, the name, employer identification number (EIN), and plan number (PN) used by the DFE on its own Form 5500. If a PSA or CCT in which the reporting plan or DFE invests has not filed a Form 5500 Annual Return/Report, the filer would have to check a box to indicate that the CCT or PSA has not filed a Form 5500 Annual Return/Report, and the investing plan or DFE would have to break out the underlying assets of the CCT or PSA on its own Line 4i(1) Schedule of Assets Held for Investment at End of Year. This aspect of the proposal is intended better to coordinate the information currently reported by plans and investing DFEs on Schedule D and on the Line 4i(1) Schedule of Assets Held for Investment at End of Year.

The current instructions tell filers to use an asterisk to identify investments that involved a party-in-interest on the Line 4i Schedule of Assets Held for Investment at End of Year. Review of Form 5500 Annual Return/Report data, however, suggests that many filers may not be aware of the requirement, which is currently explained only in the instructions for Schedule H of the Form 5500 Annual Return/Report. Identification of the involvement of a party-in-interest, therefore, has been inconsistent and incomplete. To address the issue, the proposal would replace the current requirement to include an asterisk with a check box to indicate whether the investment involved a party-in-interest.

To indicate the type of asset generally, filers generally would be required to indicate on the Line 4i Schedule of Assets the category under which the value of the asset was included on the Schedule H asset statement (proposed Line 1b), or if held through a CCT or PSA that has not filed, where the individual assets would have been included on Line 1b if not held through the CCT or PSA.

The proposal would add to the Line 4i(1) Schedule of Assets Held for Investment at End of Year a requirement to report investment identifiers such as CUSIP (Committee on Uniform Securities Identification Procedures), CIK (Central Index Key), and LEI (Legal Entity Identifier), if applicable, for each asset. Filers would also be expected to provide any other uniform number applicable to the entity or asset being reported, such as the Financial Instrument Global Identifier (FIGI), which is now coming into more common usage.¹⁷ The use of CUSIP in particular has been recognized by the GAO as a way to improve end-users' ability to aggregate analyses of the information contained on the Schedules of Assets. GAO Private Pensions: Targeted Revisions Could Improve Usefulness Of Form 5500 Information, at 17.

¹⁷ See U.S. Bank Adopts Bloomberg's New Industry-standard for Trustee Reporting, Bloomberg, (available at http://www.bloomberg.com/company/announcements/u-s-bank-adopts-bloombergs-new-industry-standard-for-trustee-reporting/) (reporting that U.S. Bank is the first corporate trustee to adopt Bloomberg's transparent, open-source methodology.)

The Agencies recognize that some identifiers, particularly the LEI, are not yet widely used. The LEI is included in the proposal in anticipation of increased use by the time the rule becomes final. The LEI is intended to identify legally distinct entities that engage in a financial transaction. It has support from both industry and government agencies who view having a universal identifier of parties to financial transactions, such as the LEI, as an important response to the 2008 financial crisis and the best way to track and understand the true nature of risk exposures across the financial system. See, e.g., Statement on Legal Entity Identification for Financial Contracts, 75 FR 74146, 74147 (Nov. 30, 2010) (noting that precise and accurate identification of legal entities engaged in financial transactions is important to private markets and government regulation); Executive Office of the President of the United States, Nat'l Science and Technology Council, Smart Disclosure and Consumer Decision-making: Report of the Task Force on Smart Disclosure, at 13 (2013) (noting that the Administration is working to promote a LEI system). The use of LEI to identify pension plan transactions is particularly important because pension plan investments make up a large percentage of all investment assets and, as previously discussed, plans are increasingly invested in alternative investments that involve complicated financial structures and transactions.

Under the proposal, filers would continue to be required to set forth the current value of each investment asset listed on the Line 4i Schedules of Assets. To improve reporting on hard-to-value assets where the current value is by definition not readily available, filers would be required to check a box for each individual investment listed to indicate whether the asset is “hard-to-value.” This requirement is meant to supplement the current compliance question on the Schedule H that asks whether the plan held any investment assets whose value was not readily determinable on an established market or set by a third party independent appraisal. See, e.g., 2015 Form 5500 Annual Return/Report Instructions for Schedule H. The aggregate compliance question, by itself, does not provide particularly useful information on hard-to-value assets. An examination of Form 5500 Annual Return/Report filings suggests substantial non-compliance or inaccurate reporting in the ways plans answer the question. See also DOL-OIG EBSA Needs To Provide Additional Guidance And Oversight To ERISA Plans Holding Hard-To-Value Alternative Investments, at 4-5, 18, and 19 (recognizing that the Form 5500 Annual Return/Report has a “limited ability to capture information on hard-to-value investments” and recommending that EBSA “improve Form 5500 [Annual Return/Report] data collection, analysis, and targeting of plans with hard-to-value investments.”). The Agencies believe that the requirement for filers to indicate for each specific investment asset whether the asset is hard-to-value is in keeping with the goals of obtaining better information regarding plan assets.

The instructions would also include a clearer definition of hard-to-value assets for this purpose. Specifically, assets that are not listed on any national exchanges or over-the-counter markets, or for which quoted market prices are not available from sources such as financial publications, the exchanges, or the National Association of Securities Dealers Automated Quotations System (NASDAQ), would be required to be identified as hard-to-value assets on the Line 4i Schedules of Assets. CCTs and PSAs that are invested primarily in hard-to-value assets must themselves be identified as hard-to-value assets, regardless of whether they are valued at least annually. Similar to the existing treatment in the instructions for registered investment companies, CCTs, and PSAs under the current rules, those registered investment companies, CCTs, and PSAs that are valued at least annually and are invested primarily in assets that are listed on any national exchanges or over-the-counter markets, or for which quoted market prices are available from sources such as financial publications, the exchanges, or the NASDAQ, however, would not need to be identified as hard-to-value assets on the Line 4i Schedules of Assets.

A non-exhaustive list of examples of assets that would be required to be identified as hard-to-value on the proposed Schedules of Assets includes: Non-publicly traded securities, real estate, private equity funds; hedge funds; and real estate investment trusts (REITs). The Agencies believe this definition is generally consistent with the FASB audit and accounting requirements defining assets with a readily determinable fair value. See, e.g., FASB Accounting Standards Codification TM (ASC) (Topic 820).

As discussed above, filers generally would be permitted to aggregate participant-directed brokerage account reporting on the Line 4i Schedules of Assets by indicating the value of all the brokerage account investments as a single entry (identifying the brokerage account information). In the element requiring filers to indicate the location where the asset was aggregated for purposes of balance sheet reporting on Line 1b, the filer would have to indicate all of the following applicable categories of investments: Tangible personal property, loans, partnership or joint venture interests, real property, employer securities, investments that could result in a loss in excess of the account balance of the participant or beneficiary who directed the transaction, and any asset that would be categorized as “Other.”

For the second of the Line 4i Schedules of Assets, which would correlate under the proposal to Schedule H, Line 4i(2), as noted above, the Agencies propose to change “Schedule of Assets Acquired and Disposed Within Year” to “Schedule of Assets Disposed of During the Plan Year.” Filers currently report some information regarding the disposal of hard-to-value assets and alternative investments either on the Schedule H, Line 4i Schedule of Assets if the assets were both acquired and disposed of during the plan year, or, if the value of the transaction was five percent or more of total plan assets, on the Schedule H, Line 4j “Schedule of Reportable Transactions.” The Agencies believe, however, that requiring reporting of hard-to-value assets and alternative investments acquired in one year and disposed of in another year, including investments that fall under the five percent limit of Line 4j,¹⁸ would provide the Agencies with a more complete report of the plan's annual investments. The limitations on what assets need to be reported on the Schedule of Assets Disposed of During the Plan Year would remain unchanged from the current exceptions from reporting on the Schedules of Assets not held at the end of the plan year. Thus, the following would continue to be excluded from the Line 4i(2) Schedule of Assets Disposed of During the Plan Year:

¹⁸ Title I of ERISA contemplates reporting transactions involving three percent or more of plan assets. ERISA section 103(b)(3)(H). By prior rulemaking, the DOL has limited that reporting requirement to transactions involving five percent or more of plan assets. The Agencies continue to believe that generally keeping the limit at transactions involving five percent or more of plan assets, with this change to the Line 4i schedules, will provide sufficient information about significant transactions during the plan year.

1. Debt obligations of the U.S. or any U.S. agency.

2. Interests issued by a company registered under the Investment Company Act of 1940 (e.g., a mutual fund).

3. Bank certificates of deposit with a maturity of one year or less.

4. Commercial paper with a maturity of 9 months or less if it is valued in the highest rating category by at least two nationally recognized statistical rating services and is issued by a company required to file reports with the Securities and Exchange Commission under section 13 of the Securities Exchange Act of 1934.

5. Participations in a bank common or collective trust (CCT).

6. Participations in an insurance company pooled separate account (PSA).

7. Securities purchased from a broker-dealer registered under the Securities Exchange Act of 1934 and either: (1) Listed on a national securities exchange and registered under section 6 of the Securities Exchange Act of 1934 or (2) quoted on NASDAQ.

Likewise, assets disposed of during the plan year would continue to exclude any investment that was not held by the plan on the last day of the plan year if that investment is reported in the annual report for that plan year in any of the following schedules:

1. The schedule of loans or fixed income obligations in default required by Schedule G, Part I;

2. The schedule of leases in default or classified as uncollectible required by Schedule G, Part II;

3. The schedule of nonexempt transactions required by Schedule G, Part III; or

4. The schedule of reportable transactions required by Schedule H, line 4j.

The new proposed Line 4i(2) Schedule of Assets Disposed of Within Year, generally would have the same data elements as the current Schedule of Assets Acquired and Disposed of Within Year. To implement the change in the schedule from “acquired and disposed of during the plan year” to “disposed of during the plan year,” however, filers would have to indicate the acquisition date. Basic parallel changes would be made to the Line 4i(2) Schedule to keep it generally consistent with the Line 4i(1) Schedule.

Under the proposal, the Line 4j Schedule of Reportable (5%) Transactions would remain essentially unchanged. The current schedule of reportable transactions requires the filer to include information on the identity of the party involved in the reportable transaction or series of transactions. Consistent with the Line 4i Schedules of Assets, a checkbox is being added to this schedule to indicate whether the reportable transaction or series of transactions involved a person known to be a party-in-interest. Under the proposal, the Line 4j Schedule of Reportable (5%) Transactions would be structured in a standard format for data input and collection purposes; filers would not be able to use a nonstandard attachment.

3. Proposed Changes to DFE Reporting

As described in parts A.1 and A.2 above in the context of the new Schedule H balance sheet information and the updated schedules of assets, respectively, the proposal includes changes as to what information about DFEs and their underlying investments needs to be reported by both the plan and the DFE. The proposal includes correlative changes to the Schedule D that are described below, including the elimination of the requirement of plans to complete Schedule D. The Agencies considered a number of alternatives in developing a proposal to address problems and concerns with regard to the consistency and quality of the reporting of assets held through collective investment vehicles, including DFEs. The Agencies considered whether both DFEs and plans should be required, on their Line 4i Schedule of Assets, to show the underlying investments of DFEs. The Agencies also considered eliminating filings for PSAs, CCTs, and 103-12 IEs and simply requiring plans to report on the Line 4i Schedules of Assets the plan's proportionate share of each of the underlying assets held by each PSA, CCT, or 103-12 IE in which the plan is invested. The Agencies invite comments on the most effective and efficient way to address the inconsistent and limited reporting of information invested through DFEs. The Agencies are particularly interested in information on how investments in DFEs relate to investment alternatives in participant-directed accounts and how much of the underlying assets of DFEs consist of hard-to-value and alternative investments.

This revised reporting structure for both the Schedule H and the Line 4i Schedules of Assets for reporting investments through pooled investment vehicles is intended to enable the Agencies, plan fiduciaries and service providers, and other users of the data to have a better and more complete picture of the investments of plans. For nearly 44 percent of all assets held by large pension plans, the public information on plans' investments on the Form 5500 Annual Return/Report is limited to the class of the pooled investment arrangements rather than the financial class of the underlying investments (including hard-to-value and alternative investments). See Dep't of Labor, 2010 Form 5500 Direct Filing Entity Bulletin: Abstract of 2010 Form 5500 Annual Reports (2013), at 6. The proposed changes to reporting information about assets held through DFEs on the Line 4i Schedules of Assets, as well as the proposed changes to the Schedule H balance sheet information, is also supported by the GAO's recommendation that the Agencies take steps to reduce the difficulty associated with matching a plan's investments with those reported in the DFE's filing. GAO Private Pensions: Targeted Revisions Could Improve Usefulness of Form 5500 Information, at 14-15.

The proposed filing requirements for master trusts, CCTs and PSAs, 103-12 IEs, group insurance arrangements (GIAs), and the plans that invest through these vehicles and the proposed revisions to Schedule D reporting are described more fully below.

a. DFE Reporting—Master Trusts

Some plans participate in certain trusts, accounts, and other investment arrangements that file the Form 5500 Annual Return/Report as a DFE. In general, a master trust for Form 5500 Annual Return/Report filing purposes is a trust maintained by a bank or similar institution to hold the assets of more than one plan sponsored by a single employer or by a group of employers under common control. Unlike CCTs and PSAs, not every plan participating in the master trust necessarily has a proportionate share of all of the assets of the master trust. To get information about each plan's holdings within the master trust, the annual return/report has historically asked for information about so-called MTIAs. The Agencies understand that the MTIA reporting requirements are unique to the Form 5500 Annual Return/Report, do not fully correspond to actual trust accounting practices used for master trusts, and may not be well understood or consistently complied with by plans that use master trusts for investment and reinvestment of assets. Accordingly, the proposal would eliminate MTIA reporting and replace it with what is intended to be a simpler approach.

Under the MTIA reporting concept, each pool of assets held in a master trust is treated as a separate MTIA if: (1) Each plan that has an interest in the pool has the same fractional interest in each of the assets in the pool as its fractional interest in the pool, and (2) each such plan cannot dispose of its interest in any asset in the pool without disposing of its interest in the pool. Under this test, it is possible for a single asset to be an MTIA if ownership of the asset meets the above test. Currently, a separate Form 5500 Annual Return/Report must be filed for each MTIA, among other things, listing the underlying assets of the MTIA on Schedule H and the aggregate value of each investing plan's ownership interest in the MTIA on Schedule D. The filing of each MTIA is deemed to be part of the Form 5500 Annual Return/Report of the investing plan, and the plan administrator is, therefore, ultimately responsible for MTIAs filing their Form 5500 Annual Return/Report, even if the bank or other third party is the person that files for the MTIA.

According to GAO, MTIAs account for roughly 20.4% of the total assets of large defined contribution pension plans. See Private Pensions: Targeted Revisions Could Improve Usefulness Of Form 5500 Information, at 14. Accuracy of filings showing investments in master trusts (regardless of reporting structure) is therefore important to have a complete picture of plan investments. To facilitate consistent reporting, the Agencies now propose to eliminate the concept of a separate MTIA filing as part of the changes to Schedules D and H and the Line 4i Schedules of Assets. Prior to 1999, master trusts were required to file the Form 5500 Annual Return/Report; information about MTIAs was provided in an attachment to the consolidated master trust filing. See, e.g., 1998 Form 5500 Annual Return/Report and Instructions. Under the proposal, master trust filing would return to something closer to the pre-1999 structure.

Specifically, a Form 5500 Annual Return/Report would be required to be filed for each master trust in which a plan has an interest. The master trust, like a MTIA under the current rules, would be required to include as part of its Form 5500 Annual Return/Report, a Schedule D to list all participating plans. The Schedule D listing of participating plans would include the requirement to report the total value of each participating plan's investment assets in the master trust. Plans would report their investments in master trusts in detail on their Schedule H, Line 4i(1) Schedule of Assets Held for Investment at End of Year, including the name and EIN of the master trust used on the master trust's Form 5500 Annual Return/Report. Plans would also list the aggregate value of their investment in master trusts on the Schedule H balance sheet.

The proposal also would change the instructions to address what the Agencies understand to be inconsistency in the way master trust expenses are reported. Specifically, under the proposal, the master trust's report would include expenses that are allocable equally to all plans investing in the master trust. All other expenses would have to be allocated to the individual participating plans and reported at the individual plan level.

Finally, the regulations and instructions would provide that to be a master trust for reporting purposes, either the master trust must operate on a calendar year or the master trust and all of the plans invested in the master trust must operate on the same fiscal year. Where the master trust is on a calendar year and a participating plan on a fiscal year other than a calendar year, similar to Schedule A reporting of insurance contracts, the information reported by the plan would be for the master trust year ending within the plan year.

The combined changes for reporting by both investing plans and master trusts on both the Schedule H balance sheet and the Line 4i Schedules are intended better to effectuate the purposes underlying the current combination of MTIA, Schedule H (including the Line 4i Schedules), and Schedule D reporting. This should make it easier to understand the finances of the master trust as a whole, as well as the finances of the plans investing through a master trust. The Agencies invite comments to provide alternative suggestions on how to improve the transparency and accuracy of reporting plans' proportionate ownership of interests in assets held through a master trust.

b. DFE Reporting—CCTs and PSAs

As with the existing rules, under the proposal, a Form 5500 Annual Return/Report may be, but is not required to be, filed for a CCT or a PSA. The proposal would change the filing requirements with respect to CCTs and PSAs as follows. As discussed above, regardless of whether a CCT or PSA in which the plan invests files a Form 5500 Annual Return/Report as a DFE, the plan would report the interests in the CCT or PSA on the CCT or PSA line of the Schedule H balance sheet (Part I, Line 1b), although there would be breakouts within those categories to give a general idea of the types of assets held through the CCT or PSA. The changes should result in a clearer statement of total plan assets invested through these collective investment vehicles.

The current requirement to break out the assets of non-filing CCTs or PSAs would be retained, but the proposal would shift the details of the underlying investments to the newly structured Line 4i(1) Schedule of Assets. Under the proposed revisions, investing plans, on their own Line 4i Schedules of Assets, would be required to list each underlying investment, identifying that the investment was held through a non-filing CCT or PSA, including the CCT's or PSA's name and other identifying information, as well as the information on the underlying asset.¹⁹

¹⁹ As discussed above, if the CCT or PSA files a Form 5500 Annual Return/Report, the holdings in the CCT or PSA could be listed on the plan's Line 4i(1) Schedule of Assets at the CCT/PSA level (corresponding to the breakout categories on the balance sheet statement). Thus, the PSA or CCT filing of a Form 5500 Annual Return/Report, including the Line 4i(1) Schedule of Assets Held for Investment, would relieve each participating plan from reporting detailed information regarding the underlying investments.

In this regard, the Agencies note that under current DOL regulations CCTs and PSAs are required to provide information about the underlying assets of the CCT or PSA to participating plans and provide plans with relief from reporting the underlying assets of the CCT or PSA if the CCT or PSA files the Form 5500 Annual Return/Report, but that CCTs and PSAs are not required themselves to file the Schedules of Assets. The regulation would be amended to provide that plans are relieved from breaking out the individual assets on the Schedule H, Line 4i Schedules of Assets, if the CCT or PSA instead files its own Form 5500, including the Schedule H and the Schedule of Assets Held for Investment. Also, the regulation would indicate that providing the information needed for a plan to complete the Line 4i Schedules of Assets constitutes compliance with the requirement to transmit information regarding the assets held by the CCT or PSA. With this change, information regarding the underlying investments of CCTs and PSAs, which have been provided only to plan fiduciaries, will now be part of the annual return/report data set; it will be filed either by the participating plans or by the CCT or PSA.

c. DFE Reporting—103-12 IE

The DOL's regulation at 29 CFR 2520.103-12 provides that an entity in which two or more unrelated plans invest that is not a CCT, PSA, or master trust, and which is deemed to hold plan assets under the DOL's regulations at 29 CFR 2510.3-101 that voluntarily chooses to file a Form 5500 Annual Return/Report for itself on behalf of its investing plans, is treated as a “103-12 IE” filing entity for Form 5500 Annual Return/Report reporting purposes. Under the proposal, reporting for these pooled investment vehicles generally remains unchanged, except to the extent that the data elements for the existing forms and schedules have changed for all filers. For a plan to be able to report investments in such entities as a single investment on the balance sheet portion of Schedule H, as under the current reporting rules, the entity in which the plan invested would have to complete its own Form 5500, together with a Schedule H and Line 4i Schedules of Assets, as well as Schedules A, C, D, G, as revised in the proposal, and the entity's own IQPA report. Under the proposal, similar to reporting assets held through participant-directed brokerage accounts, filers would have to indicate all the Line 1b balance sheet breakout categories for types of underlying investment of each 103-12 IE, but would not have to identify each individual investment.

d. DFE Reporting—GIAs

The reporting requirements for GIAs would generally remain unchanged, except GIAs would be subject to the same changes in reporting as comparable welfare plans, including the new requirements for welfare plans that provide health benefits. As under the current rules, welfare plans that are fully insured, including group health plans, would still have the exemption from filing the Form 5500 Annual Return/Report if they participate in a GIA that has filed its Form 5500 Annual Return/Report. GIAs would continue to be required to file all the same forms, schedules, and attachments as a large group health plan funded with a trust. GIAs that provide group health coverage would be required to file a separate Schedule J for each separate employer's participating plan.

e. DFE Reporting—Changes to Schedule D

The Agencies propose to continue the Schedule D requirement for DFEs in which plans invest, but not for plans participating in DFEs. DFEs would continue to report identifying information about the participating plan and the dollar value of each investing plan's interests in the DFE as of the end of the DFE reporting year. Participating plans, because they would now be reporting detailed information about investments in DFEs on their Line 4i Schedules of Assets, would no longer have to complete the Schedule D.

4. Better Information on Plan Terminations, Mergers, and Consolidations

The Agencies propose revisions to existing Schedule H and Form 5500-SF questions on plan terminations, mergers, and consolidations. First, the Agencies propose expanding the question that asks whether the plan has adopted a resolution to terminate so that it also asks for the effective date of the plan termination, the year in which assets were distributed to plan participants and beneficiaries, and whether the plan transferred assets or liabilities to another plan.

Second, the proposal would add a question asking filers to indicate whether another plan transferred assets or liabilities to the reporting plan (other than pursuant to a direct rollover). If the plan received a transfer of assets or liabilities from another plan, the filer would be asked to provide the date and type of transfer (merger, consolidation, spinoff, other). This new information is intended to provide better information on transfers of participant benefit obligations over the years.

Third, if the plan is a defined contribution pension plan that terminated and transferred plan assets to a financial institution and established accounts in the name of missing participants, the filer would be asked to provide the name and EIN of the financial institution, the date the assets were transferred to the institution, the number of accounts established, and the total amount transferred. Although the question would not ask the filer to identify individual affected participants or beneficiaries, this requirement is designed to help missing participants locate information about their accounts, in some cases years after the plan termination when the plan or plan sponsor may no longer exist or have records of the accounts it established. Asking for information about accounts created for missing participants after plan termination would also be responsive to the ERISA Advisory Council's recommendations that the DOL use the Form 5500 Annual Return/Report to obtain more consistent reporting on accounts that hold missing participant plan assets. See 2013 ERISA Advisory Council Report: Locating Missing and Lost Participants, Dep't of Labor (available at www.dol.gov/ebsa/publications/2013ACreport3.html#2).

In this 2013 report, the Advisory Council noted that another issue with “lost” or “missing” participants for ongoing plans as well as terminating plans, especially 401(k) plans, is “uncashed” checks, particularly checks sent to participants who have left employment where the Code permits the plan to “cash out” the participant. Id. The report noted that a plan was not necessarily able to tell whether uncashed checks were sent to the wrong address (a “lost” or “missing” participant issue) or whether a participant received the check but had not cashed it. To get better information about the magnitude of the problem with respect to defined contribution pension plans and to make plan fiduciaries aware that they should, at a minimum, have procedures in place to verify that a participant's address is good before a check is mailed and to keep track of the number of uncashed checks and the amount involved, the proposal would also add to both the Schedule H and the Form 5500-SF a compliance question for defined contribution pension plans asking whether there were any uncashed checks at the end of the plan year. If there were any uncashed checks at the end of the year, filers would be required to report how many uncashed checks there were and the total dollar value of the uncashed checks. Defined contribution pension plan filers would also be asked to describe briefly in an open text field the procedures that they followed to verify a participant's address and with respect to monitoring the uncashed checks. The proposed instructions provide that for Form 5500 Annual Return/Report reporting purposes, an uncashed check is one that is no longer negotiable or is subject to limited payability.

In proposing to add a compliance question instead of telling filers how to account for the assets associated with uncashed checks on the Schedule H, the Agencies recognize that the ERISA Advisory Council indicated that there are questions regarding how the underlying assets represented by uncashed checks should be reported on the Form 5500 Annual Return/Report. Because of the variety of situations that might result in uncashed checks and the different ways uncashed checks might be accounted for in an ongoing plan, the Agencies have chosen to add a compliance question, leaving flexibility in the balance sheet reporting on Schedule H and on the Form 5500-SF and, where applicable, the IQPA report.

The ERISA Advisory Council and some of the witnesses who testified recommended that the DOL publish guidance to advise plan fiduciaries how to handle uncashed checks, among other issues regarding missing or lost participants and beneficiaries and how to address the assets associated with those participants or beneficiaries. In making this recommendation, it was recognized that there was a tension between the mandatory distribution requirements under the Code and fiduciary responsibilities. In the absence of further guidance with regard to how to handle uncashed checks, the DOL notes (as stated above) that plans should at least have policies and procedures in place to verify participant addresses, for searching for missing participants and for fiduciaries to keep track of or be made aware of the number of uncashed checks and the total value of such checks that remained uncashed at the end of the plan year. Depending on the type of plan, the terms of the plan, and the status of the plan sponsor, there may be actions needed to satisfy fiduciary obligations with regard to benefit payments.

5. Changes to Financial Reporting for Small Plans

a. Changes to Form 5500-SF

In general, small plans that are invested only in “eligible” plan assets and otherwise meet the existing requirements for eligibility to file the Form 5500-SF would continue to be able to file the Form 5500-SF.²⁰ Welfare plans with fewer than 100 participants that do not provide group health benefits and that are required to file an annual return/report and that meet the eligibility requirements for the Form 5500-SF will still be able to use the Form 5500-SF to satisfy their filing requirement. Welfare plans with fewer than 100 participants that provide group health benefits are not eligible to use the Form 5500-SF.²¹ For Form 5500-SF filers, there would be a modest additional breakout on the balance sheet information to give a basic picture of the types of eligible assets in which Form 5500-SF eligible small plans are invested. Specifically, filers would have to categorize the plans' investments into one of the following categories: (1) Cash/cash equivalents; (2) money market funds; (3) publicly traded stock (preferred/common); (4) publicly traded bonds, including government securities; (5) interests in registered investment companies (mutual funds, unit investment trusts, closed end funds); (6) interests in PSAs; (7) interests in CCTs; and (8) interests in insurance policies/contracts other than PSAs, e.g. annuity contracts. In contrast to the Schedule H balance sheet financial breakout categories, there would be no “Other” category for the balance sheet financials on the Form 5500-SF. If a small plan were to be invested in any assets other than those in the eight listed categories, it would not be eligible to file the Form 5500-SF.

²⁰ The Form 5500-SF was developed and adopted for 2009 Form 5500 Annual Return/Report in part to provide a simplified report required under the Pension Protection Act of 2006. The DOL continues to believe, as discussed when implementing the 2009 forms revisions, 72 FR 64731 (Nov. 16, 2007), that the requirement in the PPA to provide “'simplified” reporting for plans with fewer than 25 participants is satisfied by making available the simplified reporting in the 5500-SF only to those plans invested in eligible assets—generally easy to value assets. Section 1103(b) of the Pension Protection Act of 2006, (PPA) 120 Stat. 780, 1057, requires the Secretary of the Treasury/IRS and the Secretary of Labor to provide for the filing of a simplified annual return for any retirement plan which covers fewer than 25 participants on the first day of the plan year and which (1) meets the minimum coverage requirements of section 410(b) of the Internal Revenue Code without being combined with any other plan of the business that covers the employees of the business; (2) does not cover a business that is a member of an affiliated service group, a controlled group of corporations, or a group of businesses under common control; and (3) does not cover a business that uses the services of leased employees (within the meaning of section 414(n) of the Code). The PPA provision does not include specific requirements as to the form or content of the simplified filing.

²¹ Currently welfare plans with fewer than 100 participants, including those that provide group health benefits, that are not exempt from the requirement to file an annual return/report (e.g., those that are funded with a trust) are permitted to file the Form 5500-SF, if otherwise eligible.

As discussed in more detail below, the proposal would eliminate the current Form 5500 and Form 5500-SF line items that require the filer to input “plan characteristics codes” onto the form from a list in the instructions. Instead, the filer would complete a series of separate questions. In general, those changes involve requesting information about plan characteristics as a series of “Yes”/“No” and check box questions to make the forms easier to complete, make the forms more straightforward as a disclosure document, and improve the quality of the data. In addition, as with Form 5500 Schedule H filers, the proposal would require that the Form 5500-SF filed for a participant-directed individual account plan must include an electronic copy of the comparative chart of designated investment alternatives (DIAs) currently required to be provided to participants of such plans under 29 CFR 2550.404a-5. The Agencies believe that although this information would not be filed in a data captured structure and, thus, would not be as readily data mineable, attaching the already required 404a-5 comparison chart would allow participants and beneficiaries in participant-directed individual account plans to access the most recent and prior year comparative charts through the EFAST Form 5500 Annual Return/Report public disclosure feature. It would also enable the Agencies to monitor more effectively compliance by participant-directed individual account plans with this important disclosure requirement. It also would provide important information regarding investment features and investment fees and expenses. We also understand that private third parties would be able to use the copies of the comparative charts to develop more individualized tools to help plan sponsors, plan fiduciaries, and participants and beneficiaries evaluate and compare their plans' investment options. The Agencies believe that a requirement that the plan administrator of a participant-directed individual account plan attach an electronic copy of an existing document should be less burdensome than adding new questions that would require the same data to be entered onto the form or schedules to collect the information. The Agencies seek comment as to whether there would be any real additional burden, other than transition costs to move to the new method, to enter the data in a structured format rather than attaching a copy of the existing document.

b. Changes to Filing Exemptions and Requirements for Small Plans Not Eligible To File the Form 5500-SF

As discussed above, various oversight and advisory bodies have identified a significant need for better information regarding employee benefit plan investments, in particular regarding plans invested in hard-to-value and alternative investments. In that regard, the Agencies are proposing a number of changes for small plans that are not Form 5500-SF eligible filers. First, the Schedule I would be eliminated. Like the Form 5500-SF, the Schedule I does not require small plan filers to provide detailed plan asset information. Since small plan filers are the majority of annual return/report filers overall (taking into account both Form 5500-SF and Form 5500 filers), this shortcoming impairs the utility of the Form 5500 Annual Return/Report as a tool to obtain a meaningful picture of small plan investments in hard-to-value and other assets. As the GAO has noted, the limited financial information provided on the Schedule I creates a challenge for participants, beneficiaries, oversight agencies, researchers, and other users of the Form 5500 or Form 5500 data. GAO Targeted Revisions Could Improve Usefulness of Form 5500 Information, at 18. Accordingly, under the proposed change, small plans that are not eligible to file the Form 5500-SF and that currently file the Schedule I would be required to complete the Schedule H and the applicable Line 4i Schedules of assets. Small plans with simple investment portfolios would not see a significant increase in their annual reporting burden. Although this would result in additional reporting details for those small plans with complex portfolios that include hard-to-value or alternative investments, the Agencies believe that such small plans should have more transparent financial statements. In light of changes in the financial environment and increasing concern about investments in hard-to-value assets and alternative investments, the Agencies continue to believe that requiring small plans invested in such assets to report separate financial information regarding hard-to-value investments is important for regulatory, enforcement, and disclosure purposes. Although such small plans would be required to complete the Schedule H instead of the Schedule I, including the Line 4i(1) and 4i(2) Schedules of Assets, to minimize increased burden, small plans that meet the specified requirements, as they can under the current rules, would continue to be eligible for a waiver of the annual examination and report of an independent qualified public accountant (IQPA) under 29 CFR 2520.104-46. As is currently the case, under the proposal, all welfare plans with fewer than 100 participants that are required to file an annual return/report are eligible for a waiver of the annual examination and report of an IQPA under 29 CFR 2520.104-46(b)(2).

The Agencies are also proposing to change the rules for determining when a plan is exempt from the requirement to include an IQPA report with its filing. In that regard, the Agencies are proposing to add to the Form 5500 a new question, for defined contribution pension plans only, asking for the number of participants with account balances at the beginning of the plan year. Defined contribution pension plans would determine whether they have to file as a large plan and whether they have to attach an IQPA report based on the number of participants with account balances as of the beginning of the plan year, as reported on the face of the Form 5500 or Form 5500-SF. Currently, the IQPA requirement is based on the total number of participants (including those eligible but not participating in a Code section 401(k) or 403(b) plan) at the beginning of the plan year. With the changes in the reporting requirements for small plans (for example, the elimination of the Schedule I), this would minimize burden, but would still provide a picture of the types of investments and fees of small plans (plans with fewer than 100 participants that have an account balance) without requiring them to cover the cost of an audit. For first plan year filings, the plan would have to have fewer than 100 participants with account balances both at the beginning of the plan year and the end of the plan year.

The proposal would also require a Schedule C to be filed by small pension plans that are not eligible to file the Form 5500-SF, small welfare plans that provide group health benefits that are not unfunded or insured (e.g., funded using a trust), and other small welfare plans that are not unfunded or insured plans and are not eligible to file the Form 5500-SF. Currently, only large plans must file a Schedule C, thus excluding a large portion of plans from having to disclose service provider fees. The Agencies recognize the burdens small plans face in complying with disclosure obligations, but requiring certain small plans to file a Schedule C would address some of the GAO's concerns that not all critical information on indirect compensation is being reported to the Agencies. See GAO Targeted Revisions Could Improve Usefulness of Form 5500 Information, at 25-26 (“Given these various exceptions to fee reporting requirements, Schedule C may not provide participants, the government, or the public with information about a significant portion of plan expenses and limits the ability to identify fees that may be questionable.”). In addition, the rule would better align financial information reporting with recently adopted disclosure rules to broaden the fees that are reported by the affected plans. Id. at 50.

6. New Information on Employer Matching Contributions, Employee Participation Rates, and Plan Design for Defined Contribution Pension Plans

The Agencies are proposing changes that are intended to collect better information on pension plan coverage and performance as retirement savings vehicles. The focus is on participant-directed defined contribution pension plans, which are becoming the primary source of retirement savings for many of America's workers. Specifically, the proposal would add new questions to the Form 5500, Form 5500-SF, and Schedule R on participation, contributions, and asset allocation by age, and participant-level diversification. The questions ask for the number of participants making catch-up contributions, investing in default investment options, maximizing the employer match, and deferring compensation. Also, questions would be added to the Form 5500 and Form 5500-SF to collect information on the number of participants in defined contribution pension plans with account balances as of the beginning of the plan year and on the number of participants that terminated employment during the plan year that had their entire account balance distributed. There are also new questions about whether the plan uses a default investment alternative for participants who fail to direct assets in their account and which type of investment alternative is used.

7. Changes to Reporting on Schedule G (Financial Transaction Schedules)

The proposal would reconfigure Schedule G's reporting to require more uniform and detailed information on loans, fixed income obligations, and leases in default, including swaps/options and derivative transactions. By creating specific data elements on the existing Schedule G line items for plans to identify specifically swaps and options that would otherwise generically have been reported as loans or fixed income obligations in default or uncollectible, the proposed Schedule G is intended to provide a more complete picture of issues of default, uncollectibility, or conflict of interest (nonexempt) transactions with respect to plan investment in these types of hard-to-value assets.

8. Re-introduction of Schedule E To Improve Information on Employee Stock Ownership Plans (ESOPs)

Prior to 2009, the Schedule E (ESOP Annual Information) was an IRS component of the Form 5500 Annual Return/Report used to collect information regarding ESOPs. As with the other “IRS-only” schedules that are part of the Form 5500 Annual Return/Report, the Schedule E was removed from the 2009 Form 5500 Annual Return/Report when DOL mandated electronic filing of the Form 5500 Annual Return/Report as part of EFAST2 due to statutory limits on the IRS's authority to mandate electronic filing of such information for filers of fewer than 250 returns. A limited number of the questions on the Schedule E were moved to the Schedule R beginning with the 2009 Form 5500 Annual Return/Report. The Schedule R is not an “IRS-only” schedule nor were the questions that were moved to the Schedule R IRS-only. Accordingly, filing of the current ESOP information on the Schedule R was subject to DOL's electronic filing mandate under Title I of ERISA.

The Agencies propose to bring back to the Form 5500 Annual Return/Report a revised version of the Schedule E, which now generally would be required reporting under both Title I of ERISA and the Code and thus would be open to public inspection. The new version would include some of the questions on the pre-2009 Schedule E, revisions to other questions, and additional new questions. The questions moved to the Schedule R for the 2009 revisions would be removed from the Schedule R and instead be included on the new and revised Schedule E. The Agencies believe the use of a single schedule for all ESOP questions would simplify the filing of Form 5500 Annual Return/Report for both ESOP and non-ESOP filers. In addition, a single schedule for ESOPs would also be a more effective and efficient information collection tool for the Agencies.

The questions on the proposed Schedule E are divided into sections based on whether the ESOP stock was acquired by a securities acquisition loan, whether the stock is readily tradable on an established securities market (including stock acquired by securities acquisition loans), whether the ESOP has an outstanding securities acquisition loan, and some miscellaneous questions.

Part I of the proposed Schedule E would apply only if the ESOP acquired common or preferred stock with the proceeds of a securities acquisition loan. Several questions relate to the valuation of the stock acquired by the ESOP and, in particular, cases where a premium is paid for a controlling interest in a company where, in fact, a controlling interest is not acquired. Questions would also be included regarding the release of common stock from a suspense account and its allocation. For example, a question would ask for the method used when stock is released from the suspense account (similar to Line 5 of the 2008 Schedule E) in accordance with Treasury regulations. See 26 CFR 54.4975-7(b)(8). As with Line 4 of the 2008 Schedule E, the proposed Schedule E would also ask if the ESOP holds preferred stock and further ask for the method by which the preferred stock is convertible into common stock.

Part II of the proposed Schedule E would ask questions related to compliance issues when stock that is not readily tradable on an established securities market is acquired by an ESOP. Specifically, with respect to each acquisition of stock, the proposed schedule would ask for information on the relationship of the seller of the stock to the plan or to the employer, and whether the seller is a party-in-interest or a disqualified person under the prohibited transaction rules of Title I of ERISA and the Code, respectively. Further, the proposed schedule would ask for the total consideration paid and the date of the transaction. The proposed schedule would also ask if the stock was valued by an independent appraiser and, if not, the identity of the person who valued the stock. Lastly, Part II would ask for the valuation method(s) used to value the stock. Each of these questions would assist the Agencies in identifying possible issues in the acquisition of stock, including whether the stock was properly valued and whether a prohibited transaction may have occurred.

Part III of the proposed Schedule E asks questions applicable to ESOPs with outstanding securities acquisition loans. Unlike the 2008 Schedule E which only asked whether the ESOP had a securities acquisition loan, the proposed Schedule E would ask for more information regarding these loans. The proposed schedule asks for basic information regarding the amount and date of the loan, as well as the interest rate on the loan. In order to address possible prohibited transactions and situations where the ESOP may have paid too much for the stock, the proposed Schedule E also would ask for the lender's relationship to the plan and the plan sponsor, whether the lender is a disqualified person or a party-in-interest, and whether the loan was guaranteed by a disqualified person or a party-in-interest. Part III also would ask questions regarding whether the loan is in default and whether the loan has been refinanced. A loan that is in default raises issues as to whether the plan sponsor is making substantial and recurring payments to the ESOP and whether the ESOP has been terminated, in which case all of the ESOP shares should be distributed.

Part IV of the proposed Schedule E would include miscellaneous questions. Specifically, to address compliance concerns under Title I of ERISA, the proposed schedule would ask whether employee elective deferrals were used to satisfy any securities acquisition loan. With the exception of the elective deferral question, which addresses a DOL compliance issue and not an issue under the Code, the Part IV questions are carried over from the 2008 Schedule E and continue to address significant compliance issues under the Code, including whether the amount of the dividend is reasonable and whether the requirements of 26 CFR 1.404(k)-3T are satisfied. Specifically, the proposed Schedule E would ask whether the ESOP is maintained by an S corporation and whether there are any disqualified persons under Code section 409(p)(4) (lines 1a and 1b of the 2008 Schedule E), whether any unallocated securities (or proceeds from unallocated securities) were used to repay an exempt loan (Line 6 of the 2008 Schedule E), and whether the plan sponsor paid dividends deductible under Code section 404(k) (Line 2b of the 2008 Schedule E). This last question is further broken down on the proposed schedule to include information as to the amount of the deduction, the dividend rate, and whether the dividends were used to reacquire stock held by the ESOP.

As described above, several of the questions on the proposed Schedule E would be IRS-only questions. These questions are subject to the electronic filing rules imposed by Treasury regulations, but they are not subject to the DOL electronic filing mandate. The IRS-only questions would be identified on the Schedule E itself or in the Schedule E instructions. Accordingly, although filers would be required to answer most questions on the proposed Schedule E electronically using EFAST2, some filers who are not subject to the IRS electronic filing requirements and elect not to answer the questions through EFAST2 would have the option of answering the IRS-only questions on the IRS's Form 5500 SUP “Annual Return of Employee Benefit Plan Supplemental Information,” which is a separate paper based IRS-only information collection system maintained by the IRS outside of the EFAST2 system.

B. Improve Fee and Service Provider Transparency (Schedules C and H)

The Agencies continue to make efforts to improve the reporting and disclosure of service provider compensation. The key focus of the proposed changes in this regard is to harmonize Form 5500, Schedule C, reporting of indirect compensation with the disclosures required under the DOL's final regulation under Title I of ERISA on service provider compensation at 29 CFR 2550.408b-2. As discussed above in the section on small plan reporting changes, the proposal would also expand Schedule C reporting to those pension plans required to file the Form 5500, regardless of size.²² The current Form 5500, Schedule C indirect compensation reporting rules, including the exception from reporting of “eligible indirect compensation,” were implemented for the 2009 forms. See 72 FR 74731 (Nov. 16, 2007). Those changes were part of a three-pronged regulatory initiative that included the DOL's plan-level disclosure regulations under 29 CFR 2550.408b-2 and participant-level disclosure regulations under 29 CFR 2550.404a-5. At the time the Schedule C rules were finalized, the 408b-2 disclosure regulations had not yet been promulgated. Some elements of the Schedule C, for example, the eligible indirect compensation provisions, were adopted in light of the fact that it was not certain at the time what the 408b-2 final rule would require. Those provisions were also meant to respond to concerns from the regulated community, especially large service providers with many ERISA-covered plan clients, about having to create two different record-keeping systems to meet the various requirements of Form 5500 Annual Return/Report and 408b-2 disclosures should the later promulgated 408b-2 provisions differ from the Form 5500 Annual Return/Report reporting requirements on indirect compensation. With the service provider disclosure rules now final at 29 CFR 2550.408b-2, the Agencies are proposing various changes to the Schedule C to better harmonize it with the disclosure requirements under the 408b-2 final rule.

²² Form 5500-SF filers would not be required to file the Schedule C, but small defined contribution pension plans filing the Form 5500-SF, as well as any defined contribution pension plans required to file the Form 5500, Schedule H, would be required to attach the comparison chart required to be disclosed to participants and beneficiaries under the DOL's regulation at 29 CFR 2550.404a-5. Form 5500-SF filers also would continue to be required to answer a question on total insurance fees and commissions, that parallels the total insurance fee and commission question on Schedule A.

First, the Schedule C would be changed to require reporting of indirect compensation only for “covered” service providers and for compensation that is required to be disclosed, as defined in 29 CFR 2550.408b-2(c)(1). The Agencies expect that this change would improve Schedule C reporting because it would essentially require the pension plan administrator to report the actual compensation paid to or received by covered service providers based on the expected compensation included in the 408b-2 disclosures that the service provider furnished to the plan as part of the process of establishing and maintaining the service contract or arrangement with the plan. The instructions similarly have been clarified to track more closely the language of the 408b-2 regulation.

In making this an across-the-board Schedule C change to provide for consistency in the annual return/report requirements, the Agencies recognize that the changes proposed to the Schedule C would also apply to certain welfare plans that are not subject to the 408b-2 regulation. The principal consequence of the proposed changes for those welfare plans is to narrow the classes of service providers that would be required to be reported and more clearly define the types of compensation that must be reported on the Schedule C. Thus, we believe that the proposed changes will be improvement for welfare plan reporting.

Another key element of the proposed changes to Schedule C consistent with the final regulations at 29 CFR 2550.408b-2 is the elimination of the reporting concept of “eligible indirect compensation.” Under the current reporting rules, the types of indirect compensation that can be treated as “eligible indirect compensation” are fees or expense reimbursement payments charged to investment funds and reflected in the value of the investment or return on investment of the participating plan or its participants, finder's fees, “soft dollar” revenue, float revenue, and/or brokerage commissions or other transaction-based fees for transactions or services involving the plan that were not paid directly by the plan or plan sponsor (whether or not they are capitalized as investment costs). Under the current requirements, rather than disclosing the identity of the service provider and reporting information about the services provided and compensation received by the service provider, the plan administrator must merely confirm that the plan received certain written disclosures that describe: (1) The existence of the indirect compensation; (2) the services provided for the indirect compensation or the purpose for payment of the indirect compensation; (3) the amount (or estimate) of the compensation or a description of the formula used to calculate or determine the compensation; and (4) the identity of the party or parties paying and receiving the compensation. The GAO has been critical of the concept of “eligible indirect compensation” and other limitations on Schedule C reporting of indirect compensation received by plan service providers. See GAO Private Pensions: Additional Changes Could Improve Employee Benefit Plan Financial Reporting. In its response published with that report, the DOL generally agreed that reporting indirect compensation on Schedule C should be coordinated with the implementation of new requirements in the then proposed regulation under section 408(b)(2) of ERISA. Part of the reason for the concept of eligible indirect compensation was the timing of the move to the electronic filing system and attendant forms changes relative to the timing of the 408b-2 regulation. There is no counterpart to “eligible indirect compensation” under 29 CFR 2550.408b-2. In this regard, the proposed Schedule C would eliminate current Line 1 (which enables plans to acknowledge that they had service providers that received only eligible indirect compensation). Current Line 2, used for reporting both direct and indirect compensation, would be made new Line 1. To effectuate the elimination of the “eligible indirect compensation” reporting concept, there would no longer be a corresponding element to current Line 2(f), which asks whether a listed service provider that received other direct or indirect compensation also received eligible indirect compensation.

In changing the reporting requirements to better track the 408b-2 regulation, the Agencies recognize that part of the reason for having developed the concept of “eligible indirect compensation” was concern expressed by commenters that it would be difficult to generate specific dollar amounts at the plan level, especially in the case of omnibus level charges. In that regard, the proposed Schedule C instructions borrow from instructions in the Schedule A on determining plan-level allocation of insurance contract fees and commissions. Specifically, the Schedule C instructions permit any reasonable method of allocation to be used to estimate plan level fees for the Schedule C, provided the method is disclosed to the plan administrator. This approach provides a substantial amount of flexibility for service providers in determining the amounts to report. The DOL invites comments on this proposed method for plan level allocation of indirect compensation generated at an “omnibus” level, including whether there are particular types of indirect compensation for which it would be unduly expensive or burdensome to report a dollar amount or estimate at the plan level.

To further conform the Schedule C reporting rules to the disclosure requirements in 29 CFR 2550.408b-2, filers would be required to report “covered” service providers who have received $1,000 or more in total direct and indirect compensation (i.e., money or anything else of monetary value in connection with services rendered to the plan or the person's position with the plan during the plan year, including payments from participants' accounts). As on the current Schedule C, plans would only need to report other service providers (e.g., an accountant that received only direct compensation) who received $5,000 or more in direct compensation in connection with services rendered to the plan or the person's position with the plan during the plan year, including payments from participants' accounts.

To make reporting of the information specific to each service provider more straightforward, instead of having repeating line items on Schedule C, the proposal would have filers use a separate Schedule C for each service provider required to be reported. With this formatting change, the proposed Line 1 of the Schedule C generally would retain the same identifying elements as the current Line 2, with the following changes. Similar to the proposal to amend the regulation at 2550.408b-2, see 79 FR 13949, 13962 (Mar. 14, 2014), this proposal seeks to add to Schedule C a requirement to report contact information for service providers that are not natural persons. Filers would be required to identify a person or office, including contact information, that the plan administer may contact with regard to the information required to be disclosed on the Schedule C.

The proposal would also clarify and expand the existing question that asks the filer to indicate generally whether the service provider has a relationship to the employer, an employee organization, or a person known to be a party-in-interest. The proposal would now state that filers should indicate any relationship of the service provider to the plan, for example, employer, plan sponsor, plan sponsor employee, plan employee, named fiduciary, employee organization, and “Other,” with a description. With the prevalence of revenue sharing arrangements, the Agencies believe that better information on the relationship between service providers and the plan, various fiduciaries and parties-in-interest, including relationships among plan service providers, is important to understand the relationship between compensation and services to the plan. Under the proposal, filers would be required on Schedule C, as in the 408b-2 disclosures for pension plans, to indicate (by checking a box) whether the service providers receiving compensation are fiduciaries within the meaning of section 3(21) of ERISA.

As noted in the GAO report, GAO Private Pensions: Targeted Revisions Could Improve Usefulness Of Form 5500 Information, some filers have expressed confusion about how to answer the current question which requires filers to identify both service and fee codes in the same line item, despite the instruction that requires entering all codes that apply. To address this concern and to improve quality of the data, the proposal clarifies the required reporting on the types of services provided and the types of compensation received by individual service providers by separating the existing compound question into two separate reporting elements, one line item to indicate service codes and the other to indicate compensation codes. To minimize both burden and potential confusion, filers would need to report service codes for all service providers, regardless of the type of compensation received, but would only have to indicate compensation codes for indirect compensation.

A new service type would be added for information technology/computer support. “Information technology/computer support,” for the purposes of Line 1c, would include computer office automation, information processing, local and wide area network support, services supporting hardware, software, telecommunications systems, including automated telephone response systems and systems security.

The proposed Schedule C instructions would continue to permit filers to offset from the total amounts of direct compensation the amounts received from a so-called ERISA recapture or ERISA budget account or similar account. Because filers are permitted to report a net figure, however, it is not possible to determine whether such an account has been used. With the increasing use of such accounts, see generally Advisory Opinion 2013-03A (Jul. 3, 2013), DOL believes it is important for the Form 5500 to indicate whether such accounts are being used as part of the plan's fee and revenue sharing structures. The proposal thus includes a “Yes”/“No” question on Schedule C's revised Line 1, to ask whether any such account or arrangement has been used by the plan during the plan year.

The proposal would also add a question asking whether the service provider arrangement includes recordkeeping services to a plan without explicit compensation for some or all of such recordkeeping services or with compensation for such recordkeeping offset or rebated in whole or in part based on other compensation received by the service provider, or an affiliate or subcontractor. If so, the filer would be required, using the same methodology used in the service provider's estimate of the cost to the plan of recordkeeping services, to enter as a dollar figure the amount of compensation the service provider received for recordkeeping services. The Agencies believe that this information will better enable a cost comparison in an environment where there are different fee structures and methods of calculating compensation.

The proposed Line 1 would also include a data element that asks whether the service provider listed on the Schedule C was also identified on Schedule A as having received insurance fees and commissions. Filers are not required to report on Schedule C insurance fees and commissions that are already reported on Schedule A. The question is designed to help users of the Form 5500 Annual Return/Report data identify service providers where some fees and commissions are reported on Schedule A and some on Schedule C.

In the proposed Line 2, filers would report direct compensation paid to the service provider by the plan. The Agencies considered having filers break out payments as follows: Direct payments by a plan out of a plan account, charges to a plan forfeiture account, charges to fee recapture accounts, charges to a plan trust account before allocations to individual participant accounts, direct charges to individual participant accounts, and “Other,” with a description. Rather than requiring that detailed breakout on the Schedule C, the Agencies concluded that they could still obtain a better picture of how the plan pays direct compensation by instead adding a breakout of how participant accounts are charged to the Schedule H “Administrative Expense” line and requiring information regarding recapture accounts in the form of a “Yes/No” question on Schedule C.

On proposed Line 3, filers would report the total amount of compensation received by the covered service provider identified in Line 1a in connection with services provided to the plan from sources other than the plan or plan sponsor, including charges against plan investments. The amount of compensation reported would include compensation received by an affiliate or subcontractor in connection with the services rendered to the plan, where the compensation is reported as part of a bundled service arrangement. Total indirect compensation would now be required to be reported as a dollar amount. The Agencies recognize that service providers accustomed to disclosing fees by way of a formula may not be able to quantify exactly the dollar amount of the compensation received during the plan year. Thus, although a dollar amount would be required, the proposal would permit reporting an estimated dollar amount. If the dollar amount is an estimate, the filer still would be required to indicate that a formula was used in determining the actual compensation paid to or received by the service provider. As with the current Line 3, filers would continue to identify the source(s) of the indirect compensation received by the covered service provider identified in Line 1, and would also identify the type of fee or compensation. For each source, filers would be required to enter a dollar figure or estimate of the amount of compensation, and, if a formula was used to calculate an estimate, a description of the formula.

To increase overall fee transparency, as well as to identify potential conflicts of interest in related party transactions, a new question would be added that would require filers to indicate whether the arrangement with each covered service provider required to be reported on Schedule C involved any related party compensation. If “Yes,” the filer would be required to indicate the services for which the compensation was paid, the names of the payor(s) and recipient(s) of such compensation, status as an affiliate or subcontractor (indicated by checkbox), and the amount of the compensation.

To further ensure consistency between 29 CFR 2550.408b-2 and Schedule C, the proposed rule would also modify the instructions. The instructions, as proposed, would increase the threshold for reporting non-monetary compensation in Schedule C from $100 to $250. A corresponding change also would be made to the Schedule A instructions for reporting fees and commissions.

The proposed instructions also would clarify the requirements for reporting the travel or educational expenses of plan employees or trustees, including reimbursement, on both Schedule C and Schedule H. This clarification is being made in response to requests for further guidance following the issuance of Supplemental FAQs About the 2009 Schedule C (available at http://www.dol.gov/ebsa/faqs/faq-sch-C-supplement.html). The FAQs state that for Schedule C purposes, reportable compensation includes money and other things of value, such as gifts and trips, received directly or indirectly by a person from the plan in connection with services rendered to the plan or the person's position in the plan. In addition, they explain that disbursements to a plan trustee for transportation, lodging, meals, and similar expenses incurred while engaging in official plan business are considered reportable compensation. The requests for clarification argued that the DOL should not treat as reportable compensation expense reimbursements that are not treated as taxable under the Code by the IRS.

The DOL continues to believe that getting information on the value of trustee expenses, including expense reimbursement, is important for compliance purposes. It is persuaded, however, that amounts that are not taxable to the trustee need not be identified as “indirect” compensation. Therefore, the instructions would be clarified to provide that trustee and employee expense reimbursements are required to be reported on Schedule C only if the amounts are taxable compensation for trustees or employees. Should trustees receive from the plan travel, education, conferences or similar expenses, or reimbursements therefore, that exceed the limits under the Code, they would have to include them as threshold expenses for Schedule C and include the “fee code” for “reimbursement” when identifying trustee compensation. For reporting those amounts paid for or reimbursed by the plan regardless of whether they are taxable to the trustee, a proposed new breakout line item under the “administrative expenses” category would be added to Schedule H to report aggregate plan expenditures on trustee travel, meetings, education and similar expenses, whether paid directly by the plan or as a reimbursement to trustees.²³ Non-monetary compensation in the form of travel, conferences, entertainment, etc., provided by parties other than the plan, that is not de minimis, as defined in the instructions, would continue to be reportable indirect compensation.

²³ The proposed question is similar to a question that was on the Form 5500 prior to 1999. See 1998, Form 5500, Line 32g(8).

The proposed Schedule C still would ask filers to identify service providers who fail or refuse to provide information to the filer, including a description of the information that the service provider failed or refused to provide. The instructions would continue to provide that filers, before identifying a fiduciary or covered service provider as a person who failed or refused to provide information on indirect compensation, should contact the fiduciary or service provider to request the necessary information. For these purposes, if a “covered” service provider has failed or refused to provide information regarding indirect compensation, that service provider would be presumed to meet the $1,000 reporting threshold.

The Agencies also continue to believe that it is important to have filers identify the termination of service providers on the annual return/report. That question, however, would be moved to the Schedule H from the Schedule C to associate it with a new compliance question, described below, asking whether any service providers were terminated. Although it would be moved to the Schedule H, the proposal would remain substantially unchanged, retaining the requirement to provide information for all terminated accountants and actuaries regardless of the reason for termination because of the importance of the involvement of actuaries and accountants in the preparation of the annual return/report. The proposal would change the questions to add a check box for the filer to indicate whether it was an accountant or actuary that was terminated. The instructions for this section would also be updated to provide a “Tip” stating that if the only reason for a change of appointment of an enrolled actuary was a temporary leave of absence due to non-work circumstances of the enrolled actuary, the filer would so indicate in the “explanation” field.

Along with moving the existing Schedule C question on termination of actuaries and accountants to the Schedule H, the proposal would also add a question on the Schedule H regarding the termination of any service provider for a material failure to meet the terms of a service arrangement or failure to comply with Title I of ERISA, including the failure to provide required disclosures under 29 CFR 2550.408b-2. Although not requiring identification of all service providers in all circumstances, the Agencies believe that there are service providers other than actuaries or accountants, such as fiduciaries, recordkeepers, third party administrators, and custodians who play a sufficiently important role in plan operations that information on their termination is significant. The Agencies specifically seek comments on whether the proposed new question should be limited to a narrower class of service providers or specific termination circumstances.

C. Better Quality, Accessibility, and Usability of Data (Data Mineability)

Another key component of the proposal is to make the Form 5500 Annual Return/Report more data mineable and accessible for research, policy analysis, and enforcement purposes. EBSA is responsible for collecting the Form 5500 Annual Return/Report, in part, to fulfill the statutory requirements under Sections 104 and 106 of ERISA, which require that DOL make annual reports filed under Title I of ERISA available to the public. Section 504 of the Pension Protection Act of 2006, Public Law 109-280 (PPA), requires DOL to display certain annual report information on the Internet within 90 days after filing. EBSA must also make the data from all of the reports filed under Title I of ERISA available to those seeking the information under the Freedom of Information Act (FOIA). EBSA fulfills its FOIA responsibilities by making the Form 5500 Annual Return/Report data available for downloading in bulk (see http://www.dol.gov/ebsa/foia/foia.html). These bulk data files, which EBSA updates at the end of each month with the Form 5500 Annual Return/Report data collected during that month, are downloaded by private-sector organizations that, in some cases, also make the data available on the Internet. Thus, most returns/reports are currently open to public inspection, and the contents are public information subject to publication on the Internet.

Mandatory e-filing, which was implemented for the 2009 Form filing year, starting January 1, 2010, has changed both the regulated community's and the government's ability to use the Form 5500 Annual Return/Report data. The data sets developed from e-filing information has been helping researchers, businesses, and other plan professionals. The Form 5500 Annual Return/Report data sets can be one of the major building blocks for a private organization to use in developing information for employees and employers on plan administration. In addition, the government can provide much more timely and complete data as a result of e-filing more cost effectively. For instance, the data sets are posted on the Internet and updated monthly. In addition, the images of the filings (facsimiles) and the scanned and uploaded attachments are made available at no cost to the requester. As indicated in the White House Report of the Task Force on Smart Disclosure, in commenting on the Form 5500 Annual Return/Report, “[s]mart disclosure is also helping employers and employees make decisions about 401(k) and other workplace retirement plans. These data sets can help employees better understand their retirement options and employers better understand the quality of the plans they offer, with the help of third parties that analyze the data.” Id. at 13. The SEC has also acknowledged the importance of innovative approaches to data collection and use, citing its enhanced data mining as the basis for improvements in its enforcement efforts. See New Investigative Approaches and Innovative Use of Data and Analytical Tools Help Drive Successful Enforcement Year, SEC, (available at http://www.sec.gov/News/PressRelease/Detail/PressRelease/1370543184660).

The Agencies generally plan to continue the data publication processes currently in place and provide an even more robust Form 5500 Annual Return/Report web-based search application. This application would allow users to develop more custom queries to better target desired data. Further, this enhanced dissemination service would include options to download data in various machine-readable and open formats (such as Excel or comma separated value [CSV] files), as specified in the President's Open Data policy. Expanding the downloadable options would facilitate researching and comparing plan information. The dissemination could also support predefined queries presented in a dashboard format to graphically illustrate individual plan performance as well as performance in comparison to plans of similar size or features. Part of the goal of the proposal is to change the structure of the data filed as part of the Form 5500 Annual Return/Report in order to facilitate those applications and expand the use and usefulness of the Form 5500 Annual Return/Report data generally, as well as to make the Form 5500 Annual Return/Report a better disclosure tool.²⁴

²⁴ The Agencies believe that the proposed changes intended to improve the quality of the data, for example, eliminating compound questions, using simpler language, moving attachments into text fields that show on the face of the form or schedule when completed, and adding more definitions and instructions, would also help make the Form 5500 Annual Return/Report a more readable disclosure document. The GAO has recommended broadly that the Agencies work to improve the clarity of required disclosures. See generally GAO Private Pensions: Clarity of Required Reports and Disclosures Could Be Improved.

1. Structured Data Attachments

A critical way in which the Agencies propose to enhance the mineability of the Form 5500 Annual Return/Report data is by structuring and standardizing the schedules required to be attached to the form. Currently, for example, the Line 4i attachments to Schedule H (Schedule of Assets Held for Investment at End of Year, Schedule of Assets Disposed of During Plan Year and the Schedule of Reportable Transactions) cannot be searched electronically because they currently are not filed in a standardized electronic format. As a result, policymakers, the Agencies, and the public have difficulty accessing key information about the plan's investments. The Agencies' proposal to standardize the Schedule H, Line 4i Schedules of Investments is intended to be responsive to the OIG's recommendation that the Agencies create a searchable reporting format for the Schedule H, Line 4i Schedules of Assets and otherwise increase the accessibility of Form 5500 Annual Return/Report information, particularly information on hard-to value assets and multiple-employer plans. See DOL-OIG EBSA Needs to Provide Additional Guidance and Oversight to ERISA Plans Holding Hard-To-Value Alternative Investments, at 17. See also Private Pensions: Targeted Revisions Could Improve Usefulness of Form 5500 Information, at 37; see also U.S. Gov't Accountability Office, GAO-12-665, Federal Agencies Should Collect Data And Coordinate Oversight of Multiple Employer Plans (2012), at 30.

Other currently unstructured data or new elements would also be collected as structured data under the proposal, including the lists of employers participating in multiple-employer and controlled group plan members required to be attached to the Form 5500 Annual Return/Report or Form 5500-SF; the Schedule H, Line 4a Schedule of Delinquent Contributions; and the Line 4j Schedule of Reportable Transactions. The proposal also would eliminate the instructions for Schedule A that permit filing as an attachment “appropriate schedules of current rates filed with the appropriate state insurance department or by providing a statement regarding the basis of the rates in an attachment, in lieu of completing information on “Contracts With Allocated Funds.” The instructions would instead direct the filer to enter a statement regarding the basis of the rates into an open text field on the Schedule A. Information on contracts with allocated contracts would therefore be completed on the Schedule A as structured data. The Agencies specifically invite comments as to whether entering a statement in an open text field on the Schedule A, relative to attaching a rate schedule(s) or statement regarding the basis of the rates, would create a significant burden or make it difficult to provide accurate information.

2. Move Information Collection From Attachments to Open Text Fields on Face of Forms and Schedules

This proposal also increases the accessibility of data by replacing some of the attachments to the schedules with text fields. Similar to the proposed specific data elements for the Schedule H Line 4i Schedules, which replace the existing suggested format for an unstructured attachment, the Agencies believe that shifting to use of text fields on the face of the schedules instead of having information be supplied in non-standard attachments concentrates information on the Form 5500 and the schedules and thus improves data mineability. For the Schedule G (Financial Transaction Schedules), the nonspecific requirement to provide “detailed descriptions” in an open text field, including a variety of elements to report loans and leases in default or uncollectible, has been replaced with individual questions on each of the elements originally required to be in the detailed description. In addition, attachments to the Schedule G in the form of “Overdue Loan Explanation” and “Overdue Lease Explanation” for loans and leases that are overdue or uncollectible would be replaced with open data fields on the face of the Schedule G. The purpose of these changes would be to standardize the information, to make the data less subject to individual variation where unwarranted, to simplify reporting on the Schedule G transactions for filers, and to make it easier to search and use the data.

The Agencies also are proposing expanded data elements on the actuarial schedules (Schedules MB and SB), including information previously reported on PDF attachments. Under the proposal, single-employer and multiemployer plans that are currently required to provide a Schedule of Active Participant Data as a PDF attachment would be required to input the data into Schedules MB and SB. Supplemental information required by enrolled actuaries who have not fully reflected regulatory requirements under ERISA or the Code in completing the Schedule MB or SB would be reported on the schedules rather than on PDF attachments. A number of questions on the Schedule SB would be required to be reported on the schedule rather than on PDF attachments. This would include reporting of information on the plan's late election to apply funding balances to quarterly installments; an adjustment to the amount of the credit balance reported in the prior year in the first year a plan is subject to the minimum funding requirements of Code section 430 or ERISA section 303; use of multiple mortality tables and substitute mortality tables; a change in non-prescribed actuarial assumptions and a method change for the current plan year; and a schedule of amortization bases.

The Agencies also propose to consolidate certain data reported on the Schedule SB on PDF or other similar attachments. The discounted employer contribution PDF attachment would be consolidated with the list of contributions currently included on the Schedule SB. Also, for plans in at-risk status for the current plan year, the PDF attachment describing the at-risk assumptions for the assumed form of payment would be consolidated with the attachment describing the other actuarial assumptions. Withdrawal liability payments will be reported separately from plan year contributions on the Schedule MB. In addition, for both Schedules SB and MB, the schedule of all amortization bases currently filed as a PDF attachment would be consolidated with the schedule of new amortization bases.

New questions would be added requiring multiemployer plans and single-employer plans that input data into the Schedule of Active Participant Data to report on the Schedules MB and SB the average age of active participants, and the average credited service of active participants as of the valuation date. Also, multiemployer plans and single-employer plans that have retired participants and beneficiaries as of the valuation date and terminated vested participants as of the valuation date would be required to input data into two new schedules on Schedules MB and SB—the Schedule of Retired Participants and Beneficiaries Receiving Payment Data and the Schedule of Terminated Vested Participant Data. This information on retired participants and beneficiaries and terminated vested participants would be reported according to age bracket, but information would not be required to be reported for an age grouping consisting of 10 or fewer participants. Additionally, all plans would report the average age and average in-pay annual benefit for retired participants and beneficiaries receiving payment. Plans with terminated vested participants would report the average age and average annual benefit, and assumed form of payment and the assumed first age of payment.

Expanding the data elements to require that new information and information previously reported on PDF attachments be reported in a data mineable format would allow for more refined projections of the financial positions of multiemployer and single-employer plans. This is especially critical for PBGC's multiemployer program, as well as for its single-employer program. Information reported in a data mineable format would also facilitate more refined projections and calculations for individual plans. Computer programs could be written to read the data and provide estimated funding calculations and projections for plans. This would provide information essential to the Agencies' enforcement efforts and for their ability to target plans with likely compliance issues. Furthermore, the availability of the data would assist private-sector auditors and auditors in validating a plan actuary's calculations.

The data would also provide new opportunities for research. Currently, there is no source of system-wide data on defined benefit pension plan participants with age, service, and average benefit levels. The availability of such data would allow for more refined projections of future coverage and benefits adequacy for plan participants and beneficiaries. As more of this data is collected over the years, the data could be analyzed to identify trends in plan coverage and benefits. Also, proposed system-wide changes in legislation and regulations could be more effectively modeled.

As discussed in more detail below, the Agencies also propose to allow the plan actuary to sign Schedules MB and SB electronically. The plan actuary can access the EFAST2 Web site at www.efast.dol.gov to register for electronic credentials to sign or submit filings.

3. Plan Characteristics Codes and Other Identifying Codes Replaced With Yes/No Questions and Checkboxes on Face of Forms

In addition, the use of “codes” appearing in the instructions would be limited and refined to the extent feasible. New “Yes”/“No” and check box questions would replace most Form 5500 and Form 5500-SF questions that currently require filers to list Plan Characteristics Codes. These changes are intended to refine how data will be collected and overlay all of the other changes being proposed here. On the Schedule C, rather than entering, multiple codes to identify both types of fees/compensation and kinds of services, the filer would check as many boxes as are applicable to indicate all types of services for each provider identified. In another element that is for reporting only sources of compensation from parties other than the plan or plan sponsor, filers will separately indicate all types of fees/compensation. This is intended to improve the quality of the data, and make the Schedule C easier to read from a disclosure perspective. It is also intended to address concerns raised by the GAO about the fee and service codes. See GAO Private Pensions: Targeted Revisions Could Improve Usefulness of Form 5500 Information, at 27. Comments are specifically invited regarding whether additional or different types of services or fees should be listed in order to improve the picture of service providers to the plan.

4. Compound Questions Separated

The Agencies would separate out reporting for the various types of direct filing entities to make clearer what the precise reporting requirements are for each type of entity. They would also clarify the instructions to the forms and schedules by separating compound questions. In this regard, the Agencies recognize that putting one question on each line rather than asking filers to complete multiple subsections, while streamlining the completion process, would nevertheless make some schedules appear longer, even though no additional information is actually required to be reported. This is particularly evident for Schedules C and G, both of which currently contain multiple compound questions.

5. More Detailed Identifiers, Instructions, and Definitions

The proposal adds clarifying definitions and instructions to improve the consistency of responses. For example, the proposal clarifies conventions for identifying filers by name and identifying number(s). The proposal also requires plans to use legal entity and other industry and regulatory identifiers whenever possible. These changes are intended to help the Agencies compare plan participation, investment options, and investment performance from year-to-year. It should also help mitigate confusion about the legal entities with which the plan transacts. These changes are intended to address the concerns raised by the GAO in recommending that “the Agencies develop a central repository for Employer Identification Numbers (EINs) and Plan Numbers (PNs) for filers and service providers to improve the comparability of form data across filings.” GAO Private Pensions: Targeted Revisions Could Improve Usefulness of Form 5500 Information, at 37.

The proposal would add more explicit instructions, for example, on reporting delinquent participant contributions and completing the Line 4i Schedules of Assets. In addition, because filers would be asked to identify plan characteristics and type through questions on the face of the Form 5500/5500-SF instead of using codes in the instructions, there are proposed instructions for various questions in this information category. These definitional changes and additions are intended to help ensure that data would be reported consistently and would be more accessible, thus improving the usefulness of the data.

D. New Group Health Plan Reporting Requirements and Information

The DOL proposes to expand reporting to all employee benefit plans providing group health benefits, including plans that claim grandfathered status and retiree-only plans.²⁵ Currently, generally most plans that provide group health benefits that have fewer than 100 participants meet the conditions in existing regulations at 29 CFR 2520.104-20 to be exempt from the requirement to file the Form 5500 Annual Return/Report because they are fully insured, unfunded, or a combination of unfunded and insured.²⁶ Although there may be sources of aggregate estimates regarding group health plans, the current lack of plan level information for employee benefit plans that provide group health benefits, especially those that have fewer than 100 participants, complicates not only DOL's ability to enforce regulations, but also diminishes the effectiveness and efficacy of EBSA's ability to develop health care regulations. The Affordable Care Act also requires the Secretary of Labor to provide Congress with an annual report, see, e.g., “Self-Insured Health Benefit Plans 2015,” ²⁷ containing general information on self-insured employee health benefit plans and financial information regarding employers that sponsor such plans. That report is supposed to be based on data contained in the Form 5500 Annual Return/Report. However, as noted above, many self-insured health benefit plans currently are not required to file annually with the DOL and, even for those that do file, the Form 5500 Annual Return/Report currently collects only limited information.

²⁵ All “group health plans” that meet the definition in 733(a) of the Act, including plans that claim “grandfathered” status under 29 CFR 2950.715-1251, would be required to file a Form 5500 and applicable schedules, including the proposed Schedule J, regardless of whether such plans are exempt from certain market reform requirements under ERISA § 732(a) (exemption for certain small group health plans that have less than two participants who are current employees) or ERISA § 733(c) (group health plans consisting solely of excepted benefits). Employee welfare benefit plans as defined in ERISA § 3(1) that do not meet the definition of “group health plan” under 733 of the Act (i.e., they do not provide medical care) are not subject to the proposed enhanced reporting requirements applicable to group health plans.

²⁶ ERISA 733(a) defines a “group health plan” as “. . . an employee welfare benefit plan to the extent that the plan provides medical care (as defined in paragraph (2) and including items and services paid for as medical care) to employees or their dependents (as defined under the terms of the plan) directly or through insurance, reimbursement, or otherwise.” (Emphasis added). ERISA 3(1) defines an “employee welfare benefit plan” as “any plan, fund or program which was . . . established or maintained by an employer or by an employee organization . . . to the extent that such plan, fund or program was established or is maintained for the purpose of providing for its participants or their beneficiaries . . . medical, surgical, or hospital care or benefits.”

²⁷ Available on the DOL's Web site at: https://www.dol.gov/ebsa/pdf/ACASelfFundedHealthPlansReport2015.pdf.

To remedy this information gap, under the proposal, all ERISA-covered plans that provide group health benefits, regardless of size, and regardless of whether funded with a trust, unfunded, or a combination unfunded/insured, would be required to file a Form 5500 Annual Return/Report, including the new Schedule J (Group Health Plan Information), as well as any other applicable schedules. However, small, fully-insured group health plans would be required to only answer a limited number of questions on the Form 5500 and the new Schedule J. The current exemptions from financial reporting on Schedule H, G, and C for insured plans, unfunded plans, and plans that are combination of unfunded/insured that meet the requirements of 29 CFR 2520.104-44 would continue to apply for all welfare plans, including group health plans, regardless of size.²⁸ The current exemption from financial reporting on Schedule G for welfare plans that cover fewer than 100 participants as set forth in 29 CFR 2520.104-46 would also continue to apply.

²⁸ Currently, welfare plans that are unfunded, fully-insured, or a combination of unfunded and insured are required to file the Form 5500, including Schedule A “Insurance Information” if applicable, but, under 29 CFR 2520.104-44, the plan is not required to engage an independent qualified public accountant and need not complete Schedules C or H. The proposal would not change these reporting provisions. Similarly, the exemption in 29 CFR 2520.104-20 from filing any Form 5500 for fully insured, unfunded, or combination small welfare plans that are not group health plans is also not being changed in this proposal.

Currently plans that provide group health benefits that have fewer than 100 participants that are not unfunded or insured (e.g., funded using a trust) are not exempt under 29 CFR 2520.104-20 from the requirement to file a Form 5500 Annual Return/Report and are not exempt from the financial reporting requirements under 29 CFR 2520.104-44. These plans generally file either the Form 5500-SF or the Form 5500 and the Schedule H or Schedule I, including financial and compliance information. Under the proposed rule, plans that provide group health benefits that have fewer than 100 participants that are not unfunded or insured (e.g., funded using a trust) would be required to complete the Schedule H (because Schedule I is being removed and group health plans are not permitted to use Form 5500-SF), as well as Schedule C, if applicable. However, unless such a plan is invested in alternative or hard-to-value assets, completing the Schedule H would only modestly expand the current financial and compliance reporting for the affected small welfare plans. Requiring reporting on Schedule H by these plans with fewer than 100 participants that provide group health benefits would ensure that such plans are filing at least as much financial and compliance information as other small welfare plans (those that do not provide group health benefits) that are not unfunded or insured (e.g., funded using a trust), for which the reporting requirements remain largely unchanged.²⁹

²⁹ The proposal does not change the current eligibility requirements for small welfare plans that are not group health plans to use Form 5500-SF.

As indicated above, small, fully insured group health plans would be required to answer only certain questions on the Form 5500 and on the Schedule J. This limited filing, which would be similar in scope to the limited pension plan reporting for plans established under section 408 of the Code that requires such plans to complete certain Form 5500 questions and no schedules, see, e.g., 2015 Form 5500 Instructions, Limited Pension Plan Reporting, is intended to serve as an annual registration statement with basic identifying and insurance information. The DOL considered whether to have small, fully insured group health plans file a separate registration statement either annually or based on certain events following the establishment of the plan (e.g., initial, final, change in insurance carrier). However, we believe that it will be less burdensome to have such plans file limited information through EFAST2, using the Form 5500, particularly for those small employers that already use the system to report for their pension plans. Comments are specifically solicited in this regard.

In addition, sections 2715A and 2717 of the Public Health Service Act (PHS Act), as added by the Affordable Care Act, established new reporting requirements for non-grandfathered group health plans and health insurance issuers offering non-grandfathered group or individual health insurance coverage.³⁰ The DOL is considering whether a group health plan could satisfy its reporting obligations under PHS Act section 2715A and 2717, as incorporated into section 715(a)(1) of ERISA, by filing a completed Form 5500 and Schedule J, and providing that information to the parties as required under PHS Act section 2715A and 2717 (generally HHS, DOL, Treasury, State insurance commissioners, enrollees and the public).³¹ Much of the information required to be reported under PHS Act sections 2715A and 2717, for example, data on enrollment, claims payment policies and practices, and claims denials is information that is to be included in the proposed Schedule J. In an effort to reduce duplicative reporting and the attendant costs to plans subject to ERISA, the DOL is specifically soliciting comments on the feasibility of such an approach as a means of compliance with PHS Act sections 2715A and 2717 as incorporated into section 715(a)(1) of ERISA.³²

³⁰ Section 2715A of the PHS Act extends the transparency reporting provisions set forth in section 1311(e)(3) of the Affordable Care Act (applicable to issuers of “qualified health plans” offered through Exchanges) to non-grandfathered group health plans and health insurance issuers offering non-grandfathered group or individual health insurance coverage. In particular, section 1311(e)(3) of the Affordable Care Act requires disclosure of: claims payment policies and practices, periodic financial disclosures, and information on enrollment, disenrollment, number of denied claims, rating practices, out-of-network cost-sharing and payments, rights under title I of the Affordable Care Act, and other information as determined appropriate by the Secretary of Health and Human Services Section 2717 of the PHS Act requires non-grandfathered group health plans and health insurance issuers offering non-grandfathered group or individual health insurance coverage to report on quality of care metrics, for example, reporting on effective case management, care coordination, chronic disease management, and medication and care compliance initiatives. Although sections 2715A and 2717 of the PHS Act do not apply to grandfathered group health plans, the proposal is to require all group health plans subject to ERISA, including grandfathered group health plans, to file Schedule J.

³¹ Nonfederal governmental plans (as defined in PHS Act section 2791(d)(8)(C)) and health insurance issuers (as defined in PHS Act section 2791(b)(2) and ERISA section 733(b)(2)) are not required to file annual reports pursuant to ERISA sections 103 or 104. Accordingly, any reporting required of such plans and issuers to satisfy PHS Act sections 2715A and 2717 will be addressed separately by HHS in future rulemakings and/or guidance.

³² Sections 2715A and 2717 of the PHS Act are also incorporated into section 9815(a)(1) of the Code. The Treasury Department and the IRS intend to publish proposed regulations in 26 CFR 54.9815-2715A and 54.9815-2717 clarifying that group health plans required to file an annual report pursuant to section 104 of ERISA that comply with the reporting requirements in 29 CFR 2520.103-1 (including filing any required schedules to the annual report) would satisfy the reporting requirements of sections 2715A and 2717 of the PHS Act, as incorporated in the Code. Group health plans that are not required to file an annual report pursuant to section 104 of ERISA but that are subject to sections 2715A and 2717 of the PHS Act as incorporated in the Code, will not be required to do any reporting to comply with sections 2715A and 2717 of the PHS Act, as incorporated in the Code, unless and until the Treasury Department and the IRS issue subsequent further guidance or rulemaking regarding any such reporting by such plans.

1. New Schedule J (Group Health Plan Information)

The proposed Schedule J (Group Health Plan Information) would report information about group health plan operations and ERISA compliance, plus compliance with certain provisions of the Affordable Care Act.³³ Group health plans that are part of a GIA and subject to the exemption from filing under 29 CFR 2520.104-43 would not be required to file the Schedule J. A GIA's Form 5500 Annual Return/Report filing, however, would have to include a separate Schedule J for each group health plan participating in the GIA.

³³ The Schedule J does not relate to the employer shared responsibility provisions under section 4980H of the Code, the related reporting requirements under section 6056 of the Code, or the reporting requirements for providers of minimum essential coverage under section 6055 of the Code.

The proposed Schedule J would collect information on the characteristics of the plan that is providing group health benefits, including the approximate number of participants and beneficiaries covered under the plan at the end of the plan year, and the number of persons offered and receiving coverage under the plan through COBRA, Consolidated Omnibus Budget Reconciliation Act of 1985 (Pub. L. 99-272, 100 Stat. 82), 29 U.S.C. 1161, et seq., whether the plan offers coverage for employees, spouses, children, and/or retirees, and what type of group health benefits are offered under the plan, for example, medical/surgical, pharmacy or prescription drug, mental health/substance use disorder, wellness program, preventive care, vision, dental, or various other types of benefits. With respect to the collection of COBRA coverage information, the DOL requests comments regarding the costs and feasibility of providing this data, whether the proposed data elements would effectively show the annual take up rate and the total number of participants electing COBRA coverage, and whether any additional data elements regarding COBRA coverage would be helpful for the regulated community to evaluate COBRA's impact on plans and participants.

The DOL also proposes that plans that provide group health benefits provide information on whether their health plan funding and benefit arrangement is through a health insurance issuer and whether benefits are paid through a trust or from the general assets of the employer. Schedule J would also ask whether there were participant and/or employer contributions.³⁴ With respect to plans that use a prototype health insurance policy or arrangement (sometimes referred to as “off-the-shelf” plans/policies), the DOL is also requesting that such plans provide, if applicable, the relevant unique identifying information (such as a state assigned policy identification number) of the prototype/off-the-shelf policy or arrangement. The DOL requests comments on this proposed data element and whether there are specific health insurance policy identification systems employed by States or issuers that would most accurately and cost effectively provide information about usage of such policies to provide plan benefits.

³⁴ For purposes of Schedule J reporting, “participant contributions” include all elective contributions under a cafeteria plan (arrangement under Code section 125.).

Additionally, plans that provide group health benefits are asked to report whether one or more of the plan's benefit package options are claiming grandfathered status under the Affordable Care Act,³⁵ whether the plan is a high deductible health plan,³⁶ a health flexible spending account (FSA) (or includes a health FSA as a component), or a health reimbursement arrangement (HRA) ³⁷ (or includes an HRA as a component). Please note that due to PHS Act section 2711 (prohibition on annual dollar limits) and 2713 (preventive services requirements), HRAs that are subject to the market reforms (that is, those that cover two or more active employees and do not consist solely of excepted benefits) are considered to comply with the annual dollar limit prohibition and preventive service requirement if the HRA is “integrated” with another group health plan that complies with the annual dollar limit prohibition and the preventive services requirement.³⁸

³⁵ “Grandfathered” health plans generally are those that were in existence on March 23, 2010, and haven't been changed in ways that substantially cut benefits or increase costs for participants. For regulations addressing grandfathered status, see 29 CFR 2950.715-1251.

³⁶ A “high deductible health plan” is defined under section 223(c)(2) of the Code and generally is a plan that has a higher annual deductible than a typical health insurance plan and a maximum limit on the sum of the annual deductible and out-of-pocket medical expenses that an enrollee must pay for covered expenses.

³⁷ An HRA typically consists of a promise by an employer to reimburse medical expenses, including insurance premiums, for the year up to a certain amount, with unused amounts available to reimburse medical expenses in future years. See IRS Notice 2002-45.

³⁸ An HRA is a group health plan and is subject to the market reforms, including the prohibition of annual dollar limits for essential health benefits and the requirement to provide coverage of certain recommended preventive services without cost sharing. Regulations addressing these annual and lifetime limit prohibitions state that a stand-alone HRA offered to active employees violates these prohibitions but that an “integrated” HRA does not violate the annual limits prohibition, as long as other group health plan coverage offered with the integrated HRA complies with the market requirements. See 80 FR 72192 at 72261 (Nov. 18, 2015) and DOL Technical Release 2013-03 (Sept. 13, 2013) for a description of the lifetime and annual limit requirements applicable to HRAs, including the “integration” requirements.

The proposed Schedule J also would ask whether the plan received rebates, refunds, or reimbursements from a service provider such as a medical loss ratio (MLR) rebate under the Affordable Care Act and offset rebates from favorable claims experience. If so, filers would be required to report the type of service provider, the amount received and how the rebates were used (e.g., returned to participants, premium holiday, payment of benefits, or other). In addition, the proposed Schedule J would request that group health plans identify any service providers to the plan (not already reported on Schedule A (Insurance Information) or Schedule C (Service Provider Information)) by providing the name, address, telephone number, employer identification number, and, if applicable, the National Insurance Producer Registry—National Producer Number (NPN) as established by the National Association of Insurance Commissioners (NAIC). Such service providers include a third party administrator/claims processor, including an issuer subject to an “administrative services only (ASO)” contract, mental health benefits manager, wellness program manager,³⁹ substance use disorder benefits manager, pharmacy benefit manager/drug provider, or independent review organization. Schedule J also asks for the total premium payment made for any “stop loss” coverage, as well as information on the attachment points of coverage, individual claim limits, and/or the aggregate claim limit contained in the policy.

³⁹ A “wellness program” is defined in 29 CFR 2590.702(f) to include “any program designed to promote health or prevent disease” and includes programs that condition benefits (including cost-sharing mechanisms) or the premium or employer contribution amounts on an individual satisfying a standard that is related to a health factor as well as those programs that do not include conditions for obtaining a reward that are based on an individual satisfying a standard that is related to a health factor.

For group health plans that are not required to complete a Schedule H (generally, fully insured, unfunded plans, or combination insured/unfunded plans), the proposal would require that information regarding employer and participant contributions be reported on the Schedule J, including employer contributions received, participant contributions received, employer contributions receivable, participant contributions receivable, other contributions received or receivable (including non-cash contributions) and the total of all contributions. Filers would also be required to report whether there was a failure to timely transmit participant contributions to the plan.

The proposed Schedule J also would seek claims payment data, including information on how many post-service benefit claims (benefit claims) were submitted during the plan year, how many benefit claims were approved during the plan year, how many benefit claims were denied during the plan year,⁴⁰ how many benefit claim denials were appealed during the plan year, how many appealed claims were upheld as denials, how many were payable after appeal, and whether there were any claims for benefits that were not adjudicated within the required timeframes. The proposed Schedule J would also seek data on how many pre-service claims were appealed during the plan year, and how many of those appeals were upheld during the plan year as denials and how many were approved during the plan year after appeal. With respect to group health plans, the DOL claims procedure regulation subdivides claims for benefits into various categories, including pre-service and post-service claims. A pre-service claim is defined as any claim for a benefit under a group health plan with respect to which the terms of the plan condition receipt of the benefit, in whole or in part, on approval of the benefit in advance of obtaining medical care. A post-service claim is defined as any claim for a benefit under a group health plan that is not a pre-service claim. See 29 CFR 2560.503-1(m). As used throughout this proposal, “claims” includes both pre-service and post-service claims.

⁴⁰ A denial as referenced in this notice is given the same meaning as “adverse benefit determination” as defined in 29 CFR 2560.503-1(m)(4). Accordingly, a denial or adverse benefit determination is a denial, reduction, or termination of, or a failure to provide or make payments (in whole or in part) for, a benefit, including any such denial, reduction, termination, or failure to provide or make payment that is based on a determination of a participant's or beneficiary's eligibility to participate in a plan, and including, with respect to group health plans, a denial, reduction, or termination of, or a failure to provide or make payment (in whole or in part) for, a benefit resulting from the application of any utilization review, as well as a failure to cover an item or service for which benefits are otherwise provided because it is determined to be experimental or investigational or not medically necessary or appropriate.

In addition, plans would be asked to report whether the plan was unable to pay claims at any time during the plan year and, if so, the number of unpaid claims. Plans would also be asked to report the total dollar amount of claims paid during the plan year, and if the plan provides benefits through an insurance policy, to identify any delinquent payments to the insurance carrier within the time required by the carrier, and whether any delinquencies resulted in a lapse in coverage. The proposal would add a similar question to Schedule A; delinquencies identified on Schedule A would not need to be reported again on Schedule J.

In an effort to collect more robust data on claims adjudication practices and policies, the DOL is considering, in addition to the information requested in the new Schedule J, whether to require plans to report more information on denied claims, such as the dollar amount of claims that were denied during the plan year, the denial code, and/or whether the claims were for mental health and substance use disorder benefits or for medical/surgical benefits. Proposed Schedule J requires plans to report the dollar value of claims paid during the plan year. Analyzing this data in terms of claims adjudication practices would be limited if the dollar amount of claims denied during a plan year is not also reported. The DOL understands, however, that reporting information on denied claims may present definitional and data classification challenges, e.g., possible need for a more uniform classification of denial codes for Form 5500 Annual Return/Report reporting than may currently be in place across plans and issuers. In addition, there may be a need to establish a uniform measure for “dollar amount,” for example, should it be based on a provider's point-of-service fees, the schedule of fees the plan has negotiated with service providers, Medicare reimbursement rates, or state-published prevailing fees, or some other “reasonable” method for determining the dollar amount of denied claims. Therefore, the DOL is specifically seeking public comments on whether this is reasonable information to collect and, if so, the methodology a plan would employ to determine and report the “dollar amount of claims denied” during a plan year, denial code, and type of claim. Further, as noted above, the Notice of Proposed Rulemaking that is being published with this Notice includes proposed conforming amendments in 29 CFR 2590.715-2715A and 29 CFR 2590.715-2717 to clarify that compliance with the proposed annual reporting requirements by plans subject to ERISA that provide group health benefits would satisfy the reporting requirements under PHS Act sections 2715A and 2717 incorporated in ERISA through ERISA section 715(a)(1). The DOL is specifically seeking public comments in this Notice on the proposed annual reporting requirements for plans that provide group health benefits, including the new Schedule J, in light of the Supreme Court's recent decision in Gobeille v. Liberty Mutual Insurance Co., 136 S.Ct. 936 (2016).

The proposed Schedule J would also request compliance information from plans providing group health benefits. The proposed compliance section of the Schedule J asks if all plan assets were held in trust, held by an insurance company qualified to do business in a State, or as insurance contracts or policies issued by such an insurance company consistent with section 403 of ERISA and 29 CFR 2550.403a-1 and 2550.403b-1, whether plan assets are not held in trust based on reliance on Technical Release 92-01, whether the plan's summary plan description (SPD) and summaries of any material modifications (SMM), and summary of benefits and coverage (SBC) are in compliance with the applicable content requirements, whether coverage provided by the plan is in compliance with applicable federal laws and the DOL's regulations thereunder, which may include the portability and nondiscrimination provisions of the Health Insurance Portability and Accountability Act of 1996, Title I of the Genetic Information Nondiscrimination Act of 2008, the Mental Health Parity Act of 1996, the Paul Wellstone and Pete Domenici Mental Health Parity and Addiction Equity Act of 2008, the Newborns' and Mothers' Health Protection Act of 1996, the Women's Health and Cancer Rights Act of 1998, Michelle's Law, and the Affordable Care Act. The DOL believes that self-reporting compliance information will help inform future compliance studies. Furthermore, the DOL believes that the inclusion of such compliance questions will encourage plans to evaluate whether or not they meet the group health plan requirements of ERISA, potentially increasing the voluntary compliance by ERISA plans.

Finally, the DOL would move the current questions on the Form 5500 that ask all welfare plans to report on whether they are subject to, and if so, have complied with the Form M-1 filing requirements, to the Schedule J.⁴¹ This would limit these questions to welfare plans that provide group health benefits. Form 5500/Schedule J filers that must file the Form M-1 would not be required to answer on the Schedule J those compliance questions answered on the Form M-1.

⁴¹ Multiple Employer Welfare Arrangements that provide health benefits must file the M-1 with the Department. The M-1 questions, which would be unchanged under the proposal, ask whether the plan was subject to the Form M-1 filing requirements during the plan year, whether the plan is currently in compliance with the Form M-1 filing requirements, and for the filer to provide the Receipt Confirmation Code for the most recent Form M-1 that was required to be filed under the Form M-1 filing requirements.

2. Limited Form 5500 Annual Return/Report Reporting for Small, Fully Insured Group Health Plans

The DOL proposes to eliminate the current exemption from filing for small, fully insured group health plans and proposes to require only a very limited Form 5500/Schedule J filing. As noted above, the DOL has not previously collected annual report data on small welfare plans that qualify for the exemption under the regulations at 29 CFR 2520.104-20. For small fully insured plans that provide health benefits, the DOL is proposing to replace that exemption with a new limited exemption as an alternative form of reporting. Specifically, these small plans would be required to complete Lines 1-5, i.e. basic identifying information, on the Form 5500, and Lines 1-8 on Schedule J, i.e., basic participation, coverage, insurance company, and benefit information. Requiring small, fully insured plans that provide group health benefits to file very rudimentary identifying and health benefit and coverage information would ensure that the DOL obtains basic information on all ERISA covered group health plans. Because these small, fully insured group health plans are subject to separate regulatory oversight indirectly by reason of state insurance regulation of the insurance provider and insurance contract, the DOL is seeking only basic plan and insurance information to be filed annually and is not seeking the broader Schedule J annual information requested of small self-insured and large plans regarding plan administration and benefits.

This information would allow the DOL to track total health plan counts, and coordinate its enforcement efforts relating to plans providing benefits through common issuers. For example, fully-insured plans using the same insurance provider often have documents containing provisions that are similar. Through these new filings, the DOL would be able to better identify those plans that may be affected by noncompliant provisions and better coordinate its enforcement efforts with affected service providers and other Federal and State agencies. Also, this information would enhance the DOL's policy analysis and research with respect to participant trends.

E. Proposed Changes To Enhance Compliance and Oversight

One of the critical purposes of the Form 5500 Annual Return/Report is to promote compliance both by requiring plan administrators to review particular aspects of plan operations in order to meet their annual reporting requirement and by enabling the Agencies to review basic plan compliance issues in an efficient manner. Accordingly, the Agencies propose adding a series of compliance questions on the Form 5500 and on the Form 5500-SF, and also the Form 5500-SUP for those filers who are not subject to the IRS electronic filing mandate in 26 CFR 301.6058-2 and elect to answer these questions on a paper return.

1. IRS-Only Changes

a. IRS-Only Questions for 2016 Plan Years and Form 5500-SUP

For certain years prior to 2009, the Schedules E, P, SSA, and T were required to be filed to meet annual return requirements under the Code and IRS regulations, but they were not information collections of the DOL or the PBGC. The DOL electronic filing mandate applied beginning with the 2009 Form 5500 Annual Return/Report and resulted in the last of these “IRS-only” schedules being dropped from the Form 5500 Annual Return/Report because the IRS could not mandate that these schedules be filed electronically. As “IRS-only” schedules, they were not covered by the DOL electronic filing requirement. Accordingly, with the exception of a limited number of questions on the Schedule E that were relocated to the Schedule R, the questions on these schedules were no longer included on the Form 5500 Annual Return/Report. The questions were either eliminated altogether or, in the case of questions on the Schedule SSA, added to a new IRS form, Form 8955-SSA, Annual Registration Statement Identifying Separated Participants With Deferred Vested Benefits. The 2011 TIGTA report, The Employee Plans Function Should Continue Its Efforts to Obtain Needed Retirement Plan Information, notes that the lack of information contained on Schedules E, P, and T can negatively impacts the IRS's ability to effectively focus on specific factors of noncompliance when selecting retirement plans for examination. This lack of information may result in the IRS selecting relatively compliant plans, which increases the burden on these plans and affects the IRS's ability to identify and focus on potentially noncompliant plans. This could result in participants receiving an incorrect amount of benefits. The IRS has decided to make changes to the Form 5500 Annual Return/Report to address these issues.

The IRS added IRS-only compliance questions to the 2015 Form 5500 and the 2015 Form 5500-SF, but subsequently directed filers not to answer the questions for 2015. The IRS is modifying some of these questions and intends to make these IRS-only questions mandatory on the 2016 Form 5500 and Form 5500-SF. See the Federal Register Notice “Proposed Collection; Comment Request for the Annual Return/Report of Employee Benefit Plan” published by the IRS on March 31, 2016 (81 FR 18687). Other IRS-only questions may be added prior to the form year in which the EFAST2 contract recompete and other forms revisions are implemented. Regardless of the timing of implementation of any of the IRS-only questions on the annual return, any comments received in response to this notice with respect to these questions will be considered in future revisions of these forms.

The IRS added to the 2016 forms and schedules various questions related to common compliance problems that will make it easier for the IRS to administer the filing program. Two of the IRS-only questions added for 2016 are questions that were optional on the 2014 Form 5500 and 2014 Form 5500-SF. Both 2014 forms request information regarding the preparer of the annual return/report and the plan's trust. IRS intends that both the 2016 Form 5500 and the 2016 Form 5500-SF include a box in the signature block of the form for information regarding the preparer's name and address. Similarly, line 6 of both Schedules H and I of the 2016 Form 5500 Annual Return/Report, and line 14 of the 2016 Form 5500-SF, would request information regarding the name of the plan's trust, the trust's employer identification number (EIN), the name of the trustee or custodian, and the trustee or custodian's telephone number. This information will enable the IRS to more efficiently monitor the compliance of the retirement plan trusts exempt from tax under Code section 501(a).

The IRS also included several other compliance questions on the 2016 Forms 5500 and 5500-SF that are addressed in the 2014 Forms 5500 and 5500-SF and that require entry of plan characteristics codes. The IRS has found that characteristic codes result in inadequate responses and are commonly misunderstood by filers, and believes it would be better to enhance these codes with separate questions. For example, the IRS replaced characteristic code 2J, which identifies the plan as including a cash or deferred arrangement under Code section 401(k), with a line item on the 2016 Forms 5500 and 5500-SF. Similarly, Code 3D, a characteristic code that currently applies to pre-approved pension plans, is replaced with a separate line item on the 2016 Forms 5500 and 5500-SF.

The IRS also added two questions for 2016 that were questions on the Schedule T, Qualified Pension Plan Coverage Information, before it was eliminated. Specifically, line 4b of the Schedule T asked if the employer aggregated plans in testing whether the plan satisfied the nondiscrimination and coverage tests of Code sections 401(a)(4) and 410(b). Also, line 4f of the Schedule T asked whether the plan satisfied the coverage requirements of Code section 410(b) on the basis of either the ratio percentage test or the average benefit test. These questions were added to the 2016 Forms 5500 and 5500-SF. These questions are helpful to the IRS when performing pre-audit analysis and allowed the IRS to narrow any inquiries when information was requested from the plan. The return of these questions also reflects the elimination of optional coverage and nondiscrimination demonstrations in the IRS determination letter process. See Rev. Proc. 2015-6, 2015-1 I.R.B. 198 and Announcement 2011-82, 2011-52 I.R.B. 1052.

The IRS also added other IRS-only questions to the 2016 Forms 5500 and 5500-SF in order to address various compliance issues. Specifically, there are new questions as to whether the plan sponsor used the design-based safe harbor rules, the current year ADP test, or prior year ADP test for nonhighly compensated employees in accordance with 26 CFR 1.401(k)-2(a)(2)(iii) to satisfy the nondiscrimination requirements of Code sections 401(k)(12), (13). The IRS also added questions as to whether the employer is an adopter of a master and prototype plan or a volume submitter plan that is subject to a favorable opinion or advisory letter from the IRS, and the date of that favorable letter. This question will help determine the plan's remedial amendment period and remedial amendment cycle under Code section 401(b) and Rev. Proc. 2007-44, 2007-28 I.R.B. 54 (as modified by Rev. Proc. 2008-56, 2008-2 C.B. 826; and Rev. Proc. 2009-36, 2009-2 C.B.304); Notice 2009-97, 2009-2 C.B. 972; and Notice 2010-48, 2010-27 I.R.B. 9. The IRS added a similar question for individually-designed plans as to whether an individually designed plan received a favorable determination letter from the IRS. The IRS has found that issues have arisen regarding the failure of plan sponsors to make timely amendments to their plan document to reflect changes in the law.

The IRS also added a question to the 2016 Forms 5500 and 5500-SF as to whether any distributions during the plan year were made to an employee who attained age 62 and had not separated from service for defined benefit plans or money purchase pension plans. The IRS has found various qualification and taxability issues related to such distributions.

Those filers who are required by the electronic filing regulations to file the Form 5500 Annual Return/Report electronically will be required to answer these IRS compliance questions electronically using EFAST2 for the 2016 and later plan years. The IRS will provide a paper-only form containing these IRS compliance items for use by filers who are not subject to the electronic filing requirements of the Treasury regulations and who elect not to answer the questions through EFAST2. A draft of the paper-only form, Form 5500-SUP, Annual Return of Employee Benefit Plan Supplemental Information, was released for public comment in October, 2014. The 2016 Form 5500-SUP is expected to be modified to reflect the changes proposed for 2016 plan year.

b. IRS-Only Questions for Later Plan Years

In addition to the questions the IRS included on the 2016 Forms 5500 and 5500-SF, the IRS proposes to add new questions for later plan years. Some of these additional questions were previously included on the 2008 Schedule E (ESOP Annual Information). Specifically, Line 1a of the 2008 Schedule E asked whether the ESOP is maintained by an S corporation and, if so, whether any prohibited allocations were made to any disqualified persons. Line 2b of the Schedule E asked whether the employer maintaining the ESOP paid dividends deductible under Code section 404(k). Line 4 of the 2008 Schedule E asked if the ESOP held any preferred stock and under what formula that preferred stock was convertible into common stock. Line 6 of the 2008 Schedule E asked if any unallocated securities were used to pay an exempt loan and, if so, asked for the method used. Line 16 of the 2008 Schedule E asked if the employer made payments in redemption of stock held by an ESOP to terminating participants and deducted them under Code section 404(k). All of these questions will be added to the new Schedule E, ESOP Annual Information. The IRS notes that any questions added to the proposed Schedule E with respect to Code section 404(k) will be included pursuant to Code section 6047(e) rather than Code section 6058 (the section pursuant to which the other IRS-only question are included on the Form 5500). Thus, the disclosure rules of Code section 6104(b) are not applicable and a separate process will need to be in place so that any information provided with respect to Code section 404(k) will be compliant with the appropriate disclosure rules.

The IRS also proposes to add three questions to the Forms 5500 and 5500-SF that will insure that the filers are aware of certain Code requirements in areas where the IRS has found significant noncompliance. In the first area, the IRS proposes to add a question for defined benefit pension plans as to whether the plans comply with the participation requirements of Code section 401(a)(26). In the second, the IRS proposes to ask whether minimum required distributions were made to 5% owners in accordance with Code section 401(a)(9). This question addresses issues as to the qualification of the plan, the taxability of distributions, and the possible imposition of excise taxes under Code section 4974. In the third, the IRS proposes to add a question as to whether hardship distributions were made during the plan year for a section 401(k) plan. The IRS has found various qualification and taxability issues related to such distributions.

The IRS also proposes to add a question to the Forms 5500 and 5500-SF as to whether the plan provides for designated Roth contributions under Code section 402A. The question would identify plans that have added Roth contribution features. Designated Roth contributions and Roth conversions add a new layer of recordkeeping and tax reporting for plan administration, and the IRS has found various issues related to recordkeeping and reporting.

As noted previously, because the plan characteristics codes sometimes provide inadequate responses and are commonly misunderstood by filers, the IRS proposes to replace these codes with separate questions to the Forms 5500 and 5500-SF. For example, the IRS proposes to replace characteristic codes 2L and 2M regarding Code sections 403(b)(1) and 403(b)(7) arrangements with separate line items. Also, characteristic code 1I currently applies to frozen defined benefit pension plans that do not provide any new benefit accruals as of the last day of the plan year. Neither the Form 5500 nor the Form 5500-SF, however, currently requests similar information regarding frozen defined contribution pension plans. The IRS proposes to add a question to these forms for defined contribution pension plans asking whether the plans are frozen.

The IRS also proposes to add a line item to the Forms 5500 and 5500-SF for plans electing non-church plan status under Code section 410(d). 26 CFR 1.410(d)-1(c)(3) provides that a plan administrator may elect non-church plan status by attaching a statement to the Form 5500 Annual Return/Report. Although such statements can be attached to the EFAST2 filing as a PDF, the proposed change would facilitate the process by which the IRS determines which plans have elected non-church plan status and thus allow the IRS to apply the appropriate criteria in determining compliance.

There also is a new IRS question on the Schedule H and Form 5500-SF regarding unrelated business taxable income (UBTI) under Code sections 511 and 512. Although qualified plans are generally required to report UBTI on Form 990-T, Exempt Organization Business Income Tax Return, the IRS has found it difficult to get timely information regarding this taxable income.

Lastly, a trustee's signature would be added in the trustee information section on the Schedule H and the Form 5500-SF. The signature is intended to satisfy the requirements under Code section 6033(a) for an annual information return from every Code section 401(a) organization exempt from tax under Code section 501(a). As discussed in more detail below, because this is an IRS-only signature, filers who file fewer than 250 returns during the year will be able to satisfy this signature requirement by filing the Form 5500-SUP.

c. New Schedule for IRS-Only Compliance Questions

As noted above, the IRS proposes to add various IRS-only questions to the Form 5500 Annual Return/Report and to the Form 5500-SF and also issue a Form 5500-SUP for those filers who are not subject to the IRS electronic filing mandate in 26 CFR 301.6058-2 and elect to answer these questions on a paper return. These new IRS-only compliance questions do not apply to welfare plans. With respect to the Form 5500 and the Form 5500-SF, the IRS is considering whether these questions should be added to these forms individually based on subject matter or whether they should be added collectively on a single IRS-only schedule. If the questions are added individually, they would appear on the forms and schedules based on subject matter. Thus, for example, ESOP questions would appear on a new Schedule E while other compliance questions may appear on Form 5500-SF and revised Schedules H, MB, R, and SB. On the other hand, if these IRS compliance questions are added collectively, they would appear on a completely new IRS-only schedule. Comments are specifically requested as to whether a separate schedule that would include all of the IRS-only questions should be made part of the Form 5500 Annual Return/Report

2. New Schedule H and Form 5500-SF Compliance Questions

An area of particular recent focus for DOL has been compliance with ERISA section 411. Accordingly, the proposal would add a new question under Part IV of Schedule H asking whether any person disqualified under ERISA section 411 was permitted to serve the plan. ERISA section 411 disqualifies people who have been convicted of certain crimes from serving as an administrator, fiduciary, officer, trustee, custodian, counsel, agent, employee, consultant, or adviser of any employee benefit plan for a specified period. The statute also prohibits people who are currently disqualified from representing a plan in any capacity, and from having any decision-making authority or custody or control of the monies, funds, assets, or property of an employee benefit plan. This proposed question on disqualification would facilitate competent plan administration and improve due diligence by encouraging the plan administrator to determine whether any of the plan's fiduciaries, employees, and service providers potentially participated in an act prohibited by ERISA section 411.

Another proposed compliance question, which also supports the Agencies' goals in obtaining better information on investments and related fees for defined contribution pension plans, involves whether the plan is a participant-directed account plan, and, if so, whether the plan provided participants with the fee disclosures required by 29 CFR 2550.404a-5. As discussed earlier with respect to the Form 5500-SF, the proposal also requires administrators to attach the comparison chart to Schedule H. These questions would help plan administrators comply with 29 CFR 2550.404a-5. This proposed question is also responsive to the GAO's recommendation that the Agencies seek specific information on QDIAs. GAO Targeted Revisions Could Improve Usefulness of Form 5500 Information, at 18. A plan that is a participant-directed account plan also must report the number of DIAs under the plan, the number of DIAs that are index funds, and whether a designated investment manager (DIM) was made available to participants and beneficiaries. These new questions appear on both Schedule H and on the Form 5500-SF.

The proposal also would add a new compliance question asking whether the employer sponsoring the plan paid administrative expenses that were not reported as service provider compensation on Schedule C or a plan administrative expense on Schedule H. Where the only compensation received by a service provider in connection with a plan is direct payment from the plan sponsor, the information is not required to be reported on Schedule C. To minimize burden, while still providing a clearer picture on the Form 5500 Annual Return/Report of all service providers to plans, regardless of who pays those service providers, the Agencies are proposing only to ask whether the plan has any such service providers rather than require identification and other Schedule C information for such service providers. The Agencies are requesting comments on whether there should be a minimum threshold compensation amount for this question and, if so, what the amount should be.

The proposal also would add a question asking whether the plan sponsor or its affiliates provided any services to the plan in exchange for direct or indirect compensation. This information would help the Agencies obtain a complete picture of the relationship between the plan and the plan sponsor, including the extent to which the sponsor may also be acting as a fiduciary or service provider. An affirmative answer may indicate potential conflicts of interest and would be useful for DOL enforcement.

Another proposed compliance question would require filers to indicate whether the plan had any leveraged investment acquisitions, the total amount of those acquisitions, and the ratio of the leveraged investments to total plan assets. In addition to helping ensure that the plan administrator has a complete picture of the potential risk and reward associated with the plan's assets, these questions would improve the Agencies' understanding of plan operations. Plans with a high ratio of leveraged investments, such as options, futures, and margin-type investments, may be at greater risk. By identifying these plans, the Agencies would be better able to target and track performance of high-risk plans. This question would only be added to the Schedule H, and not the Form 5500-SF. Leveraged investments are not “eligible plan assets” for purposes of the Form 5500-SF. Small plans that have such investments must file the Form 5500.

In the existing section regarding the IQPA report, filers would be required to indicate whether the accountant orally or in writing communicated various governance issues discovered during the audit, including errors or irregularities, illegal acts, material internal control weaknesses, and the existence of plan qualification issues. This question is intended to enhance compliance by highlighting the existing duty of the plan administrator to read and review the audit report and, if necessary, to engage in a discussion with the auditor about the report's contents. In addition to helping the plan administrator ensure that the audit is comprehensive, the answers to these questions would provide participants with information about potential problems with the management of plan assets. Also, in situations where the plan administrator reports that the auditor has identified problems with the audit, the Agencies would have an opportunity to conduct a closer review of the plan's finances.

In addition to the existing question asking whether the IQPA has relied on the limited scope audit provisions in 29 CFR 2520.103-8, the proposal would require filers to attach the certification of investment information created by certain banks or insurance companies to ensure the plan is qualified to be subject to a limited scope audit. This change would also encourage plan administrators to maintain documentation consistent with the limited scope audit requirements. The change is being made in conjunction with revisions to the DOL's regulation at 29 CFR 2520.103-8 to set forth specific requirements for the attachment, including the requirement that the certification appear on a separate document from the list of plan assets covered by the certification, which list generally would be required to be reported on the Schedule H, Line 4i Schedules of Assets, using the structured data entry format through EFAST.

The required attachment of the proposed, updated certification would also make the Agencies' review of limited scope audits more robust by enabling them to follow up on plans that use the limited scope exemption but fail to attach the necessary certification. See DOL-OIG: Changes Are Still Needed in the ERISA Audit Process to Increase Protections for Employee Benefit Plan Participants at 17 (EBSA should improve the quality of its audit documentation reviews by adding procedures to ensure that “all plan assets are either certified by a qualifying financial institution or tested by the IQPA”). Obtaining the certification would also allow EBSA to better determine which of the plan's assets are subject to a limited scope audit and which require a full IQPA report. Id. at 4 (“EBSA's review guide did not specifically address audits in which the plan custodian certified some, but not all, plan assets in limited scope audits.”)

The Agencies also propose standardizing information reported on Schedule H, Line 4a, to foster filers' compliance with regulations and guidance governing delinquent participant contributions and loan repayments. Under the proposed changes, filers would complete a standardized, structured attachment that includes information about whether the correction of the delinquency was made within or outside of the Voluntary Fiduciary Correction Program (VFCP) and Prohibited Transaction Exemption 2002-51. As under the current requirements, filers must continue to report the deficiency until correction is made. The proposed changes also facilitate accurate reporting by requiring the delinquent contribution information to be included in supplemental schedules. Including such information in supplemental schedules would help ensure that IQPAs address delinquent contributions and loan repayments in their audit reports, consistent with generally accepted auditing standards.

The proposal also includes new questions on Schedule G (Financial Transaction Schedules). To gather additional information about the plan's transactions and relationships, especially nonexempt prohibited transactions, the Agencies propose asking for more detailed information about the nature of nonexempt prohibited transactions engaged in by the plan. In addition to the current requirement to provide the name and contact information for the parties involved with the nonexempt transaction, and their relationship to the plan, employer, employee organization, plan sponsor, or other party-in-interest, the proposal asks filers to check a box indicating the nature of the nonexempt transaction. The check boxes generally follow the prohibitions of ERISA section 406 and Code section 4975 and include, for example, sale of any property to/from the plan, exchange of any property, lease of any property to/from the plan, lending of money to/from the plan, other extension of credit to/from the plan, furnishing of goods to/from the plan, etc. The proposal also asks a new question about whether the transaction is discrete or ongoing and whether the transaction has been fully corrected, either through or outside of the VFCP. The proposal also asks for the date the transaction was fully corrected, a description of the corrective action and whether, if a nonexempt transaction occurred with respect to a disqualified person, and the person was notified, a Form 5330 was filed with the IRS to pay the excise tax on the transaction.

The proposal would add new line items on Schedule A for reporting whether any premium payments were overdue and, if so, the amount delinquent, and whether there was a policy or contract reported on the Schedule that was issued by an insurance company wholly owned by the plan or the plan sponsor. An affirmative answer to questions on delinquent premium payments and whether the plans holds a contract issued by an insurance company that is wholly owned by the plan or plan sponsor would alert DOL to potential insurance cancellation and other conflict of interest issues.

The DOL issued new guidance in 2015 regarding economically targeted investments (ETIs) made by ERISA-covered retirement plans. ETIs are investments that are selected for benefits they create in addition to the investment return to the employee benefit plan investor. The DOL previously addressed issues relating to ETIs in Interpretive Bulletin 94-1, 29 CFR 2509.94-1 (IB 94-1) and Interpretive Bulletin 2008-1, 29 CFR 2509.08-1 (IB 2008-1). IB 94-1 had corrected a misperception that investments in ETIs are incompatible with ERISA's fiduciary obligations. On October 17, 2008, the department replaced IB 94-1 with IB 2008-01. However, the DOL concluded that in the seven years since its publication, IB 2008-01 had unduly discouraged fiduciaries from considering ETIs and environmental, social and governance (“ESG”) factors under appropriate circumstances, and issued Interpretive Bulletin 2015-01, 29 CFR 2509.2015-1 (IB-2015-1).

IB-2015-1 confirmed the DOL's longstanding view from IB 94-1 that fiduciaries may not accept lower expected returns or take on greater risks in order to secure collateral benefits, but may take such benefits into account as “tiebreakers” when investments are otherwise equal with respect to their economic and financial characteristics. IB-2015-1 also acknowledges that ESG factors may have a direct relationship to the economic and financial value of an investment. When they do, these factors are more than just tiebreakers, but rather are proper components of the fiduciary's analysis of the economic and financial merits of competing investment choices. Changes in the financial markets, particularly improved metrics and tools allowing for better analyses of investments, are enabling plan fiduciaries to make better and more evidence-based decisions on ETIs and ESG factors in evaluating the merits of competing investment choices. Some private sector sources are developing structured ESG research data for evaluating corporate performance. The DOL is interested in public comments, including analysis on costs and benefits, on whether collecting information related to ETI and ESG investment activities of ERISA-covered plans on the Form 5500, such as whether plans incorporate ESG factors into their investment analysis, would add value to this growing data source and allow ERISA fiduciaries to more easily consider the role ESG factors could or should play in their investment decisions. The DOL requests comments regarding the best way to use the Form 5500 to collect information with respect to ESG investment activities that is standardized, comparable, and reliable For example, public companies are already subject to requirements to disclose material risks, including relevant risks associated with climate change, per Securities and Exchange Commission Interpretation: Commission Guidance Regarding Disclosure Related to Climate Change [Release Nos. 33-9106; 34-61469; FR-82]. The DOL specifically requests comments on whether we could use the SEC disclosure requirements for public companies as a basis for a Form 5500 information collection.

3. Schedules MB and SB—New Questions and Identifying Information for Attachments

The Agencies are proposing to add new questions to the actuarial schedules (Schedules MB and SB) to enhance compliance. On the Schedule SB, reporting of the target normal cost would be revised to separate out the plan-related expenses. By requiring this breakdown, the Agencies and other users of Schedule SB data such as firms conducting actuarial research would be able to more accurately project liabilities and future required contributions.

The Agencies also propose to add a new question to the Schedule SB to require single-employer plans with 500 or more participants as of the valuation date to report projections of expected benefit payments to be paid for the entire plan (not including expected expenses) for each of the next ten plan years starting with the plan year to which the filing relates. For this purpose the plan would assume that there were no additional accruals, experience (e.g., termination, mortality, and retirement) consistent with the plan's valuation assumptions, and that no new entrants would be covered by the plan. The requirement would not be applicable to plans with fewer than 500 participants as of the valuation date. This information would enable the Agencies to determine how much of a plan's assets are needed to pay benefits to participants. This information would also help in assessing the adequacy of current assets and contributions to satisfy the disclosed benefit commitments. In March 2015, PBGC asked OMB to approve, and in June 2015, OMB approved adding a similar question for the 2015 Schedule MB, to be reported on a PDF attachment. The Agencies are now proposing that the question be added to the Schedule MB itself.

4. Form 5500 and Form 5500-SF PBGC Compliance Questions

For 2016, PBGC is proposing to add a question to the existing question on Schedules H and I, Line 5c, that asks, if a plan is a defined benefit plan, whether it is covered by the PBGC insurance program. The new question would ask filers that checked the box “Yes” to enter the My PAA generated confirmation number for the PBGC premium filing for this plan year. In this proposal, PBGC is proposing moving the questions to the Form 5500 and Form 5500-SF. In comparing Form 5500 Annual Return/Report data to PBGC premium filing data, the agency has found PBGC-covered plans for which no premiums have been paid and filers incorrectly claiming that they have PBGC-covered plans. By requiring reporting of the My PAA generated confirmation number on the Form 5500 and Form 5500-SF, PBGC will be better able to match Form 5500 Annual Return/Report filings to PBGC premium filings, bring in new premium filings, as well as improve the data collected on the Forms. Also, for the 21st Century initiative changes, the Agencies are proposing to move Line 5c on Schedule H and I to Line 9a(4) of the Form 5500 and Line 12a(4) of the Form 5500-SF. The new question described above about PBGC premium filings would be added to these lines.

F. Miscellaneous Technical and Conforming Changes for Forms and Instructions

Various other technical and conforming changes to the forms, schedules, and instructions are being proposed as part of the substantial restructuring of the Form 5500 Annual Return/Report described in this notice. Several of the more significant of these changes are as follows.

On both the Form 5500 and the Form 5500-SF, filers that check the “single-employer plan” box in accordance with the instructions, but which have multiple employers obligated to contribute to the plan that are members of a controlled group, would be required to file an attachment identifying the participating employers. This requirement would be similar to the requirement, effective with the 2014 annual return/report forms, to attach a list of participating employers with a good faith percentage of the contributions to the plan of each participating employer, for plans that file as “multiple-employer” plans. To implement ERISA section 103(g) resulting from the Cooperative and Small Employer Charity Pension Flexibility Act (CSEC Act), Public Law 113-97, 128 Stat. 1101 (April 7, 2014), the DOL published an interim final rule in November 2014, 79 FR 66617 (Nov. 10, 2014). The DOL intends that the CSEC Act reporting changes will be made final effective with the implementation of final forms revisions following this proposal. Under the CSEC Act interim final rule, filers that check the “multiple-employer plan” box are required to provide a list of participating employers and a good faith estimate of the percentage of total contributions made by each participating employer during the plan year. The DOL received four comments on the interim final rule and six additional comments on an emergency PRA submission published separately.

A central concern of the commenters is that the list of participating employers is essentially the client list developed by entities that sponsor multiple-employer plans for professional employer organizations (PEOs) or other associations. The commenters asserted that the publication of the participating employer information could negatively affect their business model by enabling competitors to target client employers. These commenters suggested that the DOL could not implement the CSEC Act law change by asking for the required information to be reported on the Form 5500 because the list of employers is proprietary information. Certain commenters suggested, in the alternative, that if the information was required to be reported, it should not be publicly disclosed. One commenter suggested that the DOL should not apply the requirement to defined contribution or welfare plans because the CSEC legislation focused on ERISA minimum funding requirements which do not apply to the majority of defined contribution pension plans or to any group health and welfare plans. That commenter suggested that the DOL could instead obtain the participating employer information through the use of its subpoena authority or could limit the requirement by providing an alternate method of compliance. The commenter also suggested allowing plans that are multiple employer welfare arrangements (MEWAs) that fund benefits through VEBAs to satisfy the employer list requirement by submitting the VEBA information and either removing the contribution requirement entirely or clarifying that the filers need only include gross contribution information rather than break out the information by employers and employees.⁴²

⁴² The DOL notes that the CSEC Act reporting requirements only apply to multiple-employer plans and thus the requirement only applies to those MEWAs that are in fact plans. Individual plans participating in a non-plan MEWA must file their own Form 5500 Annual Return/Report unless otherwise exempt.

The DOL has considered these comments but has decided not to make changes to the multiple-employer plan reporting requirements described in the interim final rule. The CSEC Act makes provision of participating employer information a reporting requirement under section 103 of ERISA. Section 104(a)(1) of ERISA provides generally that the contents of the annual report must be open for public inspection. The DOL continues to believe that the reporting requirements made effective for the 2014 form year by the interim final rule are a reasonable and appropriate way to implement Congress's directive in the CSEC Act.

Furthermore, the Agencies believe that this information is important for plan oversight, research, and enforcement purposes. Because participating employers generally are not otherwise identified on the Form 5500 or its schedules,⁴³ the Agencies have no other information on the number or identity of participating employers in multiple-employer plans. The Agencies also believe that similar information would be helpful for participating members of a plan that covers members of a controlled group that files under the reporting rules as a “single-employer” plan. Accordingly, under the proposal, a new check box would be added for a plan to identify that it covers members of a controlled group. Plans checking that box would be required to provide the same basic identifying and contribution information as are multiple-employer plans under the CSEC Act changes.

⁴³ In a requirement added under the PPA, filers are required to provide certain information on Schedule R, for each employer that contributed more than 5% of total contributions to a multiemployer defined benefit pension plan during the plan year (measured in dollars).

The Form 5500, as proposed, would ask filers to identify and provide contact information for the “named fiduciary” under ERISA section 3(21). The Agencies note that as for any other address and identifying information required on the annual return/report, named fiduciary addresses and phone numbers (and those of the employer and plan administrator) should be the actual addresses and phone numbers for those entities/individuals and not the address of a service provider or entity that is completing the filing. This has been an area of inaccurate data entry as the entity that fills out the form has not always entered correct data in correct boxes. As a result, the data is misleading for participants and beneficiaries and for the Agencies.

New breakout questions would be added to both the Form 5500 and the Form 5500-SF, for defined contribution pension plans to report the number of participants with account balances as of the beginning of the plan year; the number of participants that made contributions during the plan year; and the number of participants that terminated employment during the plan year that had their entire account balance distributed.

The following new information would also be required to be reported on the Form 5500 or Form 5500-SF in the questions that are intended to replace the current plan characteristics code structure:

1. The current requirement for defined benefit pension plans to identify whether the filing is for a frozen plan would be extended to defined contribution pension plans.

2. Defined contribution pension plans would now be required to identify whether the plan is a SIMPLE 401(k) plan under Code sections 401(k)(11) and 401(m)(10).

3. Defined contribution pension plans would now be required to identify whether the plan has a designated Roth feature.

4. Defined contribution pension plans that have participant-directed brokerage accounts would now be required to enter the number of participants using such accounts during the plan year.

5. Defined contribution pension plans would have to indicate whether the plan has an intended qualified default investment alternative(s) (QDIA) and, if so, to indicate the type(s) of alternative(s).

6. Pension plans would be required to report if the plan is an eligible combined plan under Code section 414(x).

7. Pension plans would be required to report if a rollover from a plan was used to start up the business sponsoring the plan (a Rollovers as Business Start-Ups or ROBS transaction).

8. Pension plans would be required to report if the plan is electing church plan status under Code Section 410(d).

9. Defined contributions pension plans would be required to indicate whether they provide financial education and/or financial advice for participants.

10. Plans would be required to report if the plan provides long term care insurance.

11. On the Form 5500, plans that provide group health benefits would have to indicate, more specifically, whether they provide medical/surgical benefits, pharmacy or prescription drug benefits, mental health/substance use disorder benefits, wellness program, preventive care services, emergency services, and pregnancy benefits.

The signature section on the Form 5500 would be revised to add a checkbox to indicate whether the plan is a Taft-Hartley plan and to provide a dedicated signature area for both a “management” and a “labor” trustee.

In addition to the changes described above, the Schedule A and its instructions would be clarified to specify that the plan is required to report the insurance carrier's NAIC “Company Code,” when reporting the “NAIC number.” Plans that provide group health benefits through an insurance contract would also be required to provide the insurance carrier's required health plan identification number (HPID) under the Health Insurance Portability and Accountability Act of 1996 (HIPAA). Schedule J would require filers to provide the NAIC Producer Code if there is a stop loss policy associated with the plan's obligation to pay health benefits. The Agencies invite comment on whether a particular NAIC type number or other identifying number, as well as the HPID, would be best to produce the most consistent and accurate identifier of insurance companies required to be identified on the Form 5500 Annual Return/Report.

On new Line 2 of the Schedule A, plans would be required to report if the policy or contract was issued by an insurance company that is wholly owned by the plan or the plan sponsor.

The current questions and instructions on Schedule A for persons covered under an insurance contract that reported on Schedule A would be clarified and expanded. The instructions are clarified to make explicit that the existing requirement to report the approximate number of persons includes participants, beneficiaries, and dependents covered under the contract. For welfare benefit contracts, the question has also been particularized to require the approximate number of persons covered for each type of benefit.

To improve the data, there would be new checkboxes on the Schedule A to enable filers to indicate whether the contract covered accidental death and disability (AD&D) or long term care insurance. The existing element on the Schedule A to identify that plan assets are in insurance company “pooled separate accounts” would be broken into “pooled separate accounts” and “other” separate accounts. If “other,” filers would be required to enter a description of the separate account. Plans that provide life insurance would be required to indicate, on Schedule A, whether a life insurance contract is “term life” or “other.” If the life insurance contract is other than “term life,” the filer would continue to have to enter a description.

The Schedule C instructions with regard to exceptions for reporting employees whose compensation is less than $25,000 would be clarified to provide that, for Schedule C purposes, compensation does not include the employer portion of FICA and FUTA taxes as part of the total compensation of an employee. It does, however, include salary, bonuses, overtime, and all indirect compensation from persons other than the plan received in connection with the person's position with the plan or services provided to the plan. As discussed above, the instructions would be modified to specify that expenses for travel, education, conferences, meals, etc., whether paid directly by the plan or reimbursed to the employee, have to be included in determining total compensation of plan employees, but only if such payments would be reportable as taxable income to the employee.

As with similar clarifying changes to Schedule C and the Schedule H, Line 4i Schedules of Assets, plans would now be required to report on Schedule A the relationship to the plan, employer, employee organization, sponsor, fiduciary, or other party-in-interest of the agent, broker, or other person to whom commissions or fees were paid.

When reporting on Schedule A that an insurance company failed to provide the information needed to complete the annual return/report, if it is “fee and commission” information that is not provided, then filers would only need to check a box to so indicate. Filers would continue to have a place to describe other types of information.

In addition to the changes described above to the Schedule H, filers would be required to report, in the existing section on the IQPA report on the Schedule H, the state in which the IQPA report was issued.

The existing questions for Form 5500 Annual Return/Report filers to indicate plan funding and benefit arrangements would be added to the Form 5500-SF.

In response to the concerns of certain practitioners regarding their ability to comply with filing requirements where PBGC has trusteed a plan and there is no longer a plan administrator to complete the filing or the ability to pay a service provider for the work necessary to fulfill the filing obligation, the Agencies are proposing to simplify the final filing requirements for plans trusteed by PBGC that have 500 or fewer participants.

Specifically, the question on whether the plan has come under the trusteeship of the PBGC would be moved from current plan characteristic code 1H on the Form 5500 and part of Line 4k on the Schedule H and Line 13b on the Form 5500-SF to a checkbox on Part I of the Form 5500. Form 5500 Annual Return/Report filers that, as of the date the return/report is filed but not later than the due date of the return/report with automatic extension, have been trusteed by PBGC under section 4041(c) or 4042 of ERISA, would be required to check that box and enter the date of PBGC trusteeship in the space provided. Plans with 500 or fewer participants (see Part II, Line 6, asking for participant count) that check this box would be required to complete all of Part I and Lines 1, 2, 3, 6, 9a(3) and 9a(4) of Part II; this would be the last Form 5500 Annual Return/Report they would need to file. Form 5500 Annual Return/Report filers with plans with more than 500 participants (in Part II, Line 6) would be required to complete the Form 5500 in the same manner as they have in the past and would need to file a Form 5500 for a following short plan year (depending on when the plan was trusteed).

Similarly, Form 5500-SF filers with plans that, as of the date the return/report is filed but not later than the due date of the return/report with automatic extension, have been trusteed by PBGC under section 4041(c) or 4042 of ERISA, would be required to check a box in Part 1A and enter the date of PBGC trusteeship in the space provided. Plans that check this box would be required to complete all of Part I and Lines 1, 2, 3, 5 (if applicable), 6, 9a(3) and 9a(4) of Part II.

The proposal to simplify final filing requirements is limited to PBGC-trusteed plans with 500 or fewer participants for a number of reasons. PBGC generally needs the information contained in the final annual return/report to calculate its claims for underfunding and unpaid minimum funding contributions, to prepare its financial statements, and to value participant benefits. Larger plans tend to have more complex asset structures and include hard-to-value assets, while smaller plans are more likely to lack the resources needed to meet their actuarial and filing obligations for the final plan year and final short plan year. It has been primarily representatives of small plans that have contacted PBGC and DOL to request relief from filing requirements for PBGC-trusteed plans.

In PBGC's experience, larger plans usually comply with the filing requirement for the final plan year and the final short plan year. The companies that maintain these larger plans typically build the cost of plan administration into their balance sheets, even if the plan is terminated in an involuntary or distress termination. Moreover, in PBGC's experience, for most larger plans, the cost of filing the annual return/report is paid from plan assets. Even when paid by the plan sponsor, PBGC believes that the cost of filing for a larger plan is a relatively insignificant component of the sponsor's overall business expenses.

PBGC also believes that exempting larger plans from completing certain schedules or sections of the annual return/report would not result in a meaningful cost savings to the plan sponsor and could result in the inability to compile important information in the event that the plan is terminated. An involuntary or distress termination involves a complex actuarial and economic analysis by PBGC that may continue for a year or more and does not always result in termination. The process of preparing the annual return/report continues through and beyond the plan year. PBGC believes that limiting the reporting obligations for larger plans anticipating termination might cause a plan to stop the ongoing process that culminates with the filing, even though a termination is not ultimately approved. This would significantly impair PBGC's actuarial and financial analysis for the ongoing plan.

The Agencies also propose to accept the electronic-signature by the plan actuary on the Schedules MB and SB, and the electronic-signature by the plan trustee for trust information on the Form 5500-SF and Schedule H. The plan actuary or plan trustee can access the EFAST2 Web site at www.efast.dol.gov to register for electronic credentials to sign or submit filings. If a plan actuary or a plan trustee chooses not to sign electronically, then the actuary or trustee must sign the schedule or Form, and an electronic reproduction must be attached to the Form 5500 or Form 5500-SF. This electronic reproduction must be labeled “Trustee Signature” for trust information on the Schedule H or Form 5500-SF, and “Actuary Signature” for the plan actuary on the Schedule MB or SB, and must be included as a Portable Document Format (PDF) attachment or any alternative electronic attachment allowable under EFAST2, if it is not electronically signed.

G. Electronic Filing of Certain IRS-Only Forms

The Agencies propose to enable filers to file IRS Forms 5500-EZ and 5558 through EFAST by creating an electronic version of each of these forms. The Agencies believe that the anticipated increase in electronic filing resulting from the creation of an electronic version of these forms would have various beneficial effects. For example, the electronic filing of these forms would benefit the filers and the Agencies by reducing errors that are more likely to occur during the manual preparation and processing of paper returns and reports. Electronic filing also results in faster settling of accounts and better customer service. See Private Pensions: Targeted Revisions Could Improve Usefulness of Form 5500 Information.

1. Form 5500-EZ

The Form 5500-EZ, Annual Return of One-Participant (Owners and Their Spouse) Retirement Plan, is generally used by one-participant plans and certain foreign plans to satisfy their filing requirements with the IRS under Code section 6058. The Form 5500-EZ is currently filed on paper with the IRS. Although the Form 5500-EZ cannot currently be filed electronically, one-participant plans and foreign plans (beginning with the 2014 plan year) may elect to electronically file the Form 5500-SF using the EFAST2 system instead of filing the paper Form 5500-EZ with the IRS. One-participant plans and foreign plans that file the Form 5500-SF rather than file the Form 5500-EZ are required to complete only certain lines on the Form 5500-SF. These lines are the same as, or are similar to, lines on the Form 5500-EZ. Accordingly, one-participant plans and foreign plans filing the Form 5500-SF are required to answer only those questions they would have been required to answer if they had filed the Form 5500-EZ. The IRS's electronic filing mandate regulation described above applies to filers of the Form 5500-EZ as well as to filers of Form 5500 and Form 5500-SF. One-participant plans and foreign plans that file at least 250 returns during the applicable calendar year generally are therefore now required to file the Form 5500-SF electronically using the EFAST2 system beginning with the 2015 plan year. See T.D. 9695, 79 FR 58256 (Sept. 29, 2014).

The IRS proposes to provide an electronic version of the Form 5500-EZ to be filed on the EFAST2 system. This electronic version would be in addition to the paper version. Accordingly, except to the extent they are subject to the electronic filing mandate, one-participant plans and foreign plans subject to the filing requirements of the Code would be able to elect to file either the paper version of the Form 5500-EZ with the IRS or file the electronic version through EFAST2. These filers would no longer be allowed to file the Form 5500-SF. One-participant plans and foreign plans that are required by 26 CFR 301.6058-2 to file electronically would be required to file the electronic version of the Form 5500-EZ.

Currently, less than 15 percent of one-participant plans file the electronic Form 5500-SF instead of the paper Form 5500-EZ. The IRS believes that creating an electronic version of the Form 5500-EZ to replace the Form 5500-SF for one-participant and foreign plans would encourage these filers to file electronically because they would no longer need to deal with the longer Form 5500-SF and its instructions. The IRS further believes that filers would be more likely to file an electronic Form 5500-EZ instead of a Form 5500-SF because, unlike when filing the Form 5500-SF, they would not need to make a separate determination as to which questions to answer. As with any Form 5500-SF currently filed by a one-participant plan for purposes of the Code, the information filed on the electronic version of the Form 5500-EZ on the EFAST2 system will not be published by the DOL on the Internet.

2. Form 5558

Filers may currently obtain a one-time extension of time to file a Form 5500 Annual Return/Report and a Form 8955-SSA, by filing IRS paper Form 5558, Application for Extension of Time To File Certain Employee Plan Returns, on or before the normal due date of the return/report. The IRS proposes to create an electronic version of the Form 5558 to be processed through EFAST2, which would enable filers to use the same system to request an extension that they use to file Form 5500 Annual Return/Report. The electronic filing of this form would benefit the filers and the Agencies by reducing errors that are more likely to occur during the manual preparation and processing of paper returns and reports. Electronic filing also results in faster settling of accounts and better customer service. Under this proposal, the paper Form 5558 would continue to be filed with the IRS by those filers who wish to file the Form 5558 on paper.

The Form 5558 is also currently used for extensions of time to file Form 5330, Return of Excise Taxes Related to Employee Benefit Plans. It is anticipated that the extension of time to file Form 5330 could not be filed electronically using EFAST. The Form 5330 is used to report various violations of the Code related to retirement plans and requires a payment of excise taxes to the IRS. The instructions to the Form 5558 state that any tax due to be paid under the Form 5330 must be paid with the Form 5558 and that interest is charged on taxes not paid by the due date even if an extension of time to file is granted. Accordingly, the IRS proposes to create a new paper form for extensions of time to file the Form 5330. It is anticipated that this new extension form would have provisions similar to those in the Form 5558 to the extent they apply to the Form 5330.

H. Regulations Relating to the Proposed Form

As noted above, certain amendments to the annual reporting regulations are necessary to accommodate some of the proposed revisions to the forms. The DOL is publishing separately today in the Federal Register proposed amendments to the DOL's annual reporting regulations. That document includes a discussion of the findings required under sections 104 and 110 of ERISA that are necessary for the DOL to adopt the Form 5500 Annual Return/Report, including the Form 5500-SF, if revised as proposed herein, as an alternative method of compliance, limited exemption, and/or simplified report under the reporting and disclosure requirements of Part 1 of Subtitle B of Title I of ERISA.

I. Paperwork Reduction Act Statement

As part of continuing efforts to reduce paperwork and respondent burden, the general public and Federal agencies are invited to comment on proposed and/or continuing collections of information in accordance with the Paperwork Reduction Act of 1995 (PRA) (44 U.S.C. 3506(c)(2)(A)). This helps to ensure that requested data will be provided in the desired format, reporting burden (time and financial resources) will be minimized, collection instruments will be clearly understood, and the impact of collection requirements on respondents is properly assessed. Currently, the DOL is soliciting comments concerning the proposed revision of the Form 5500 Annual Return/Report, which is an information collection request subject to the PRA. A copy of the ICR may be obtained by contacting the person listed in the PRA Addressee section below.

The DOL has submitted a copy of the proposed forms revisions to the Office of Management and Budget (OMB) in accordance with 44 U.S.C. 3507(d) for its review of the DOL's information collection. The IRS and the PBGC intend to submit separate requests for OMB review and approval based upon the final forms revisions. The DOL and OMB are particularly interested in comments that:

• Evaluate whether the proposed collection of information is necessary for the proper performance of the functions of the Agencies, including whether the information will have practical utility;

• Evaluate the accuracy of the estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Written comments must be submitted to the office shown in the PRA Addressee within 75 days of publication of the Notice of Proposed Forms Revision to ensure their consideration.

PRA Addressee: Address requests for copies of the ICR to G. Christopher Cosby, Office of Policy and Research, U.S. Department of Labor, Employee Benefits Security Administration, 200 Constitution Avenue NW., Room N-5718, Washington, DC 20210. Telephone: (202) 693-8410; Fax: (202) 219-4745; Email: ebsa.opr@dol.gov. These are not toll-free numbers. ICRs submitted to OMB also are available at http://www.RegInfo.gov.

Type of Review: Revision of a currently approved collection.

Agencies: Employee Benefits Security Administration (OMB Control No. 1210-0110); Internal Revenue Service (OMB Control No. 1545-1610); Pension Benefit Guaranty Corporation (OMB Control No. 1212-0057).

Title: Form 5500 Series.

Affected Public: Individuals or households; Business or other for-profit; Not-for-profit institutions.

Form Number: DOL/IRS/PBGC Form 5500 and Schedules.

Total Respondents: The total number of annual Form 5500 filers will be approximately 2.97 million.

Total Responses: See “Total Respondents” Above.

Frequency of Response: Annually.

Estimated Total Burden Hours: 1.52 million.

Estimated Time per Response, Estimated Burden Hours, Total Annual Burden: See below for each Agency.

Total Annualized Costs: $667.7 million.

The Agencies' burden estimation methodology excludes certain activities from the calculation of “burden.” If the activity is performed for any reason other than compliance with the applicable federal tax administration system or the Title I annual reporting requirements, it was not counted as part of the paperwork burden. For example, most businesses or financial entities maintain, in the ordinary course of business, detailed accounts of assets and liabilities, and income and expenses for the purposes of operating the business or entity. These recordkeeping activities were not included in the calculation of burden because prudent business or financial entities normally have that information available for reasons other than federal tax or Title I annual reporting. Only time for gathering and processing information associated with the tax return/annual reporting systems, and learning about the law, was included. In addition, an activity is counted as a burden only once if performed for both tax and Title I purposes. The Agencies also have designed the instruction package for the Form 5500 Annual Return/Report so that filers generally will be able to complete the Form 5500 Annual Return/Report by reading the instructions without needing to refer to the statutes or regulations. The Agencies, therefore, have included in their PRA calculations a burden for reading the instructions and find there is no recordkeeping burden attributable to the Form 5500 Annual Return/Report.

The DOL solicits comments regarding whether or not any recordkeeping beyond that which is usual and customary is necessary to complete the Form 5500 Annual Return/Report. Comments are also solicited on whether the Form 5500 Annual Return/Report instructions are generally sufficient to enable filers to complete the Form 5500 Annual Return/Report without needing to refer to the statutes or regulations.

J. Paperwork and Respondent Burden

Estimated time needed to complete the forms listed below reflects the combined requirements of the IRS, the DOL, and the PBGC. The times will vary depending on individual circumstances. The estimated average times are:

| Pension plans: Large | Pension plans: Small, ineligible for 5500-SF | Pension plans: Small, eligible for 5500-SF
Form 5500 | 1 hr, 52 min | 1 hr, 20 min
Schedule A | 2 hr, 55 min | 2 hr, 55 min
Schedule MB | 8 hr, 27 min | 7 hr, 28 min | 7 hr, 28 min.
Schedule SB | 6 hr, 38 min | 6 hr, 49 min | 6 hr, 49 min.
Schedule C | 3 hr, 28 min | 3 hr, 20 min
Schedule E | 3 hr, 18 min | 3 hr, 18 min
Schedule G | 13 hr, 51 min
Schedule H | 11 hr, 50 min | 8 hr, 12 min
Schedule R | 1 hr, 54 min | 1 hr, 6 min
Form 5500-SF |  |  | 2 hr, 54 min.

| Welfare plans that include health benefits: Large | Welfare plans that include health benefits: Small, unfunded, combination unfunded/fully insured, or funded with a trust | Welfare plans that include health benefits: Small, fully-insured
Form 5500 | 1 hr, 46 min | 1 hr, 15 min
Schedule A | 3 hr, 42 min | 2 hr, 45 min
Schedule C | 4 hr, 25 min | 4 hr, 25 min
Schedule G | 11 hr, 4 min
Schedule H | 12 hr, 46 min | 8 hr, 41 min
Schedule J | 3 hr, 30 min | 3 hr, 30 min
Subset of Form 5500 and Schedule J |  |  | 20 min.

| Welfare plans that do not include health benefits: Large | Welfare plans that do not include health benefits: Small, ineligible for 5500-SF | Welfare plans that do not include health benefits: Small, eligible for 5500-SF
Form 5500 | 1 hr, 46 min | 1 hr, 15 min
Schedule A | 3 hr, 42 min | 2 hr, 45 min
Schedule C | 4 hr, 25 min | 4 hr, 25 min
Schedule G | 11 hr, 4 min
Schedule H | 12 hr, 46 min | 8 hr, 41 min
Form 5500-SF |  |  | 2 hr, 54 min.

| Direct filing entities: Master trusts | Direct filing entities: CCTs | Direct filing entities: PSAs | Direct filing entities: 103-12 IEs | Direct filing entities: GIAs
Form 5500 | 1 hr, 51 min | 1 hr, 31 min | 1 hr, 25 min | 1 hr, 42 min | 1 hr, 29 min.
Schedule A | 2 hr, 56 min | 2 hr, 50 min | 2 hr, 49 min | 2 hr, 53 min | 3 hr, 6 min.
Schedule C | 3 hr, 43 min | 1 hr, 18 min | 41 min | 2 hr, 41 min | 1 hr, 52 min.
Schedule D | 45 min | 24 min | 17 min | 33 min | 29 min.
Schedule G | 12 hr, 46 min |  |  | 9 hr, 20 min
Schedule H | 12 hr, 19 min | 11 hr, 47 min | 11 hr, 43 min | 12 hr, 16 min | 12 hr, 1 min.

The aggregate hour burden for the Form 5500 Annual Return/Report (including schedules and short form) is estimated to be 1.52 million hours annually. The hour burden reflects filing activities carried out directly by filers. The cost burden is estimated to be $667.7 million annually. The cost burden reflects filing services purchased by filers. Presented below is a chart showing the total hour and cost burden of the revised Form 5500 Annual Return/Report separately allocated across the DOL and the IRS. There is no separate PBGC entry on the chart because, as explained below, its share of the paperwork burden is very small relative to that of the IRS and the DOL.

Agency |  | Pension plans: Large | Pension plans: Small | Welfare plans: Large | Welfare plans: Small | Total: Large | Total: Small | Total: DFEs | Total
DOL | Hours 000s | 323 | 251 | 133 | 294 | 457 | 545 | 32 | 1,034
| $MM | $80.4 | $103.6 | $118.2 | $181.4 | $198.6 | $285.0 | $6.4 | $490.0
IRS | Hours 000s | 196 | 222 | 12 | 35 | 208 | 257 | 18 | 484
| $MM | $42.9 | $111.3 | $2.1 | $16.9 | $45.0 | $128.2 | $2.9 | $176.1

The paperwork burden allocated to the PBGC includes a portion of the general instructions, basic plan identification information, a portion of Schedule MB, a portion of Schedule SB, a portion of Schedule H, and a portion of Schedule R. The PBGC's Estimated Share of Total Form 5500 Annual Return/Report Burden is: 1,300 Hours and $1.6 million per year.

APPENDIX A

1. Form 5500—Annual Return/Report of Employee Benefit Plan

2. Form 5500-SF—Annual Return Report of Small Employee Benefit Plan

3. Schedule A—Insurance Information

4. Schedule C—Service Provider Information

5. Schedule D—DFE/Participating Plan Information

6. Schedule E—ESOP Information

7. Schedule G—Financial Transaction Schedules

8. Schedule H—Financial Information

9. Schedule H, Line 4a Schedule of Delinquent Participant Contributions

10. Schedule H, Line 4i(1) Schedule of Assets Held for Investment at End of Year

11. Schedule H, Line 4i(2) Schedule of Assets Disposed of During the Plan Year

12. Schedule H, Line 4j Schedule of Reportable Transactions

13. Schedule J—Group Health Plan Information

14. Schedule MB—Multiemployer Defined Benefit Pension Plan Actuarial Information and Certain Money Purchase Plan Information

15. Schedule R—Retirement Plan Information

16. Schedule SB—Single Employer Defined Benefit Pension Plan Actuarial Information

Form 5500 (Annual Return/Report of Employee Benefit Plan)

Part I Annual Report Identification Information [Same As Current Part I Except As Indicated]

For calendar plan year 20XX or fiscal plan year beginning DD/MM/20XX and ending DD/MM/20XX+1

A [Current A, Except as indicated in boxes (3) and (5)] This return/report is for (check the correct box; for DFE's check the DFE type):

(1) ☐ a single-employer plan

(2) ☐ a multiple-employer plan (not multiemployer) (Filers checking this box must attach a list of participating employer information in accordance with the form instructions)

(3) ☐ [New] a plan for a controlled group of corporations, a group of trades or businesses under common control, or an affiliated service group (see instructions) (Filers checking this box must attach a list of controlled group member information in accordance with the form instructions)

(4) ☐ a multiemployer plan

(5) ☐ [Puts DFE checkboxes on face of Form 5500 instead of entering “Codes” From Instructions] a direct filing entity (DFE). Check DFE type (see instructions):

☐ Master Trust

☐ CCT

☐ PSA

☐ 103-12 IE

☐ GIA

B [Current, Except Adds Box (5)] This return/report is (check as applicable) (see instructions):

(1) ☐ the first return/report

(2) ☐ an amended return/report

(3) ☐ the final return/report

(4) ☐ a short plan year return/report (less than 12 months)

(5) ☐ [Current PCC 1H and part of current Schedule H, Line 4k for PBGC-trusteed plans revised to include date of trusteeship] a plan trusteed by PBGC.

Filers checking this box, enter date of trusteeship. (Filers checking box B(5) for plans that have 500 or fewer participants at the beginning of the plan year need to complete only certain line items on the Form 5500). (See instructions)

C [Current] If the plan is a collectively-bargained plan, check here ☐

D [Current] Check applicable box if filing under an extension or through the DFVC Program:

(1) ☐ Form 5558

(2) ☐ automatic extension

(3) ☐ special extension (enter description)

(4) ☐ the DFVC program

Part II Basic Plan Information Enter all requested information. (You must use the same plan/DFE name, PN, and EIN as in the previous year's annual return/report, except as provided in Line 5.)

1a [Current] Name of Plan

1b [Current] Three-digit plan number (PN)

1c [Current] Effective date of plan

2a [Current] Plan sponsor's name (employer, if for a single-employer plan) and address; include room or suite number, city or town, state or province, country, and ZIP or foreign postal code (if foreign, see instructions)

2b(1) [Current] Plan sponsor's Employer Identification Number (EIN)

(2) [New] Plan sponsor's legal entity identifier (LEI) if available (see instructions)

2c [Current] Sponsor's telephone number

2d [Current] Business code (see instructions)

3a [Current] Plan administrator's name and address

[Current] ☐ Check if same as Plan Sponsor Name ☐ Check if same as Plan Sponsor Address

3b [Current] Administrator's EIN

3c [Current] Administrator's telephone number

4a [New] Named Fiduciary's name and address (see instructions).

☐ Check if same as Plan Sponsor Name

☐ Check if same as Plan Sponsor Address

4b [New] Named Fiduciary's EIN

4c [New] Named Fiduciary's telephone number

5 [Current Line 4, except as indicated] If the name, EIN or LEI of the plan sponsor has changed since the last return/report filed for this plan, enter the name, EIN, LEI, and the plan number from the last return/report:

5a Sponsor's Name

5b(1) EIN

(2) [new] LEI if available

5c Plan Number

6 [Current Line 5] Total number of participants at the beginning of the plan year

7 [Current Line 6, Except 7g(1), (3), and (4) now added] Number of participants (welfare plans complete only Lines 7a(1), 7(a)(2), 7b, 7c, 7d, and 7g(3)).

7a(1) Total number of active participants at the beginning of the plan year

(2) Total number of active participants as of the end of the plan year

7b Retired or separated participants receiving benefits as of the end of the plan year

7c Other retired or separated participants entitled to future benefits as of the end of the plan year

7d Subtotal. Add Lines 7a(2), 7b, and 7c.

7e Deceased participants whose beneficiaries are receiving or are entitled to receive benefits as of the end of the plan year

7f Total. Add Lines 7d and 7e

7g If you are filing for defined contribution pension plan, you must complete Line 7g(1)-(4). Welfare plans complete only Line 7g(3). Defined benefit pension plans skip to Line 7h.

(1) [New] Number of participants with account balances as of the beginning of the plan year

(2) [Current Line 6g] Number of participants with account balances as of the end of the plan year

(3) [New] Number of participants that made contributions during the plan year

(4) [New] Number of participants that terminated employment during the plan year that had their entire account balance distributed as of the end of the plan year

7h Number of participants that terminated employment during the plan year with accrued benefits that were less than 100% vested:

8 [Current Line 7] Enter the total number of employers obligated to contribute to the plan (only multiemployer plans complete this item)

9a [Current Line 8 Plan Characteristics Codes Entered In A List From Instructions Now Separate Questions on Face of Form] Check the appropriate box to indicate the type of plan. If the plan provides pension benefits, answer the applicable 9a questions below. See the instructions for additional details. (Plans that provide only welfare benefits check the box for “Welfare plan” and then skip to question 9b.)

☐ [New] Defined benefit pension plan

☐ [New] Defined contribution pension plan

☐ [New] Welfare plan

9a(1) Check the appropriate box(es) to indicate how the benefits are calculated (Defined benefit pension plans only)

☐ [Current PCC 1A] Benefits are primarily pay related

☐ [Current PCC 1B] Benefits are primarily flat dollar (includes dollars per year of service)

☐ [Current PCC 1C] Cash balance plan

☐ [Current PCC 1C] Pension equity plan (PEP)

☐ [Current PCC 1C] Other hybrid plan

☐ [Current PCC 1D] Floor-offset plan

9a(2) Does your plan have any of the Internal Revenue Code arrangements listed below? (Defined benefit pension plans only).

Yes ☐ No ☐

If “Yes”, check all that apply.

[Current PCC 1E] ☐ Code Section 401(h) arrangement

[Current PCC 1F] ☐ Code Section 414(k) arrangement

9a(3) [Current PCC 1H] Is this a defined benefit pension plan that was terminated and closed out for PBGC purposes? (See instructions.)

Yes ☐ No ☐

9a(4) [Current Schedule H, Line 5c, revised to add a new sentence at the end on PBGC premium filings. For 2016, PBGC proposed that the new sentence be added to Line 5c of the Schedule H] If the plan is a defined benefit pension plan, is it covered under the PBGC insurance program (see ERISA section 4021)?

☐ Yes ☐ No ☐ Not determined

If “Yes” is checked, enter the My PAA confirmation number from the PBGC premium filing for this plan year. (See instructions.)

9a(5) [Current PCC 1I] Is this a frozen pension benefit plan? (Both defined benefit and defined contribution pension plans must answer this question.)

☐ Yes ☐ No

9a(6) [Current PCC 1D and 2D; new requirement to enter name of other plan or arrangement] Are plan benefits subject to offset for retirement benefits provided in another plan or arrangement of the employer?

☐ Yes ☐ No

If “Yes” enter name, EIN, and LEI of the sponsor and PN of the other plan or arrangement

9a(7) If this is a defined contribution pension plan, indicate the type(s) of plan (check all that apply):

☐ [Current PCC 2E] Profit-sharing plan

☐ [Current PCC 2I] Stock bonus plan

☐ [Current PCC 2C] Money purchase plan

☐ [Current PCC 2B] Target benefit plan

☐ [Current PCC 2D] Offset plan

9a(8) If this is a defined contribution pension plan, check the appropriate box(es) to indicate the type(s) of arrangements under which the plan operates for purposes of the Code (check all that apply):

☐ [Current PCC 2J] Code section 401(k) arrangement

☐ [Current PCC 2K] Code section 401(m) arrangement

☐ [New] SIMPLE 401(k) plan under Code sections 401(k)(11) and 401(m)(10)

☐ [New] Safe harbor 401(k) plan under Code sections 401(k)(12) and 401(m)(11)

☐ [New] Safe harbor 401(k) plan using automatic contribution arrangements under Code sections 401(k)(13) and 401(m)(12)

☐ [Current PCC 2N] Code section 408 accounts or annuities

☐ [Current PCC 2L] Code section 403(b)(1) arrangement

☐ [Current PCC 2M] Code section 403(b)(7) arrangement

9a(9) If this is a defined contribution pension plan, check all the appropriate box(es) to indicate all type(s) of features your plan has.

☐ [Current PCC 2S] Automatic Enrollment

☐ [New] Designated ROTH

☐ [Current PCC 2A] Age/service weighted or new comparability or similar plan

☐ [New] Financial education for participants

☐ [New] Financial advice for participants

☐ [New] Other (specify)

9a(10) Is this a participant-directed defined contribution pension plan? ☐ Yes ☐ No

If “Yes,” check all that apply:

☐ [Current PCC 2F] ERISA section 404(c) plan

☐ [Current PCC 2G] Total participant-directed account plan

☐ [Current PCC 2H] Partial participant-directed account plan

☐ [Current PCC 2R] Participant-directed brokerage accounts.

If you check this box, enter the number of participants using the participant-directed brokerage account(s)

9a(11) [Current PCC 2T; new breakouts to indicate types of default accounts] Does the plan have default investment alternatives that are intended to be qualified default investment alternatives (QDIA) (see instructions) for participants who fail to direct assets in their account?

☐ Yes ☐ No

If “Yes,” check all applicable boxes to indicate type(s) of QDIA.

☐ Target date/life cycle fund

☐ Fixed income

☐ Money market or equivalent (under 29 CFR 2550.404c-5(e))

☐ Balanced fund

☐ Professionally managed account

☐ Other (specify)

9a(12) [New] Is this an Eligible Combined Plan under Code section 414(x)?

☐ Yes ☐ No

9a(13) [New] Check this box if a rollover from a plan (including an individual retirement plan) was used to start up the business (ROBS) sponsoring this plan: ☐

9a(14) If this is a profit sharing or money purchase plan combined with an ESOP, or a plan requiring that all or part of employer contributions be invested and held, at least for a limited period, in employer securities check all that apply. (You must attach a Schedule E if the plan is an ESOP or has ESOP features).

☐ [Current PCC 2P] Leveraged ESOP

☐ [Current PCC 2O] ESOP other than a leveraged ESOP

☐ [Current PCC 2Q] ESOP of an S corporation

☐ [Current PCC 3I] Other plan requiring that all or part of employer contributions be invested and held, at least for a limited period, in employer securities

9a(15) Other Pension Benefit Features (Check all that apply):

☐ [Current PCC 3D; 2016 Schedule R Line 17a] IRS Pre-approved plan.

If you check this box enter:

(1) most recent adoption date

(2) the IRS opinion or advisory letter's serial number.

☐ [Current PCC 3B] Plan covering self-employed individuals

☐ [Current PCC 3C] Plan not intended to be qualified under Internal Revenue Code

☐ [Current PCC 3D-breakout] Master and prototype (M&P) plan

☐ [Current PCC 3D-breakout] Volume submitter plan

☐ [New] Plan sponsor(s) received services of leased employees

☐ [Current PCC 3J] U.S.-based plan that covers residents of Puerto Rico and is qualified under both Code section 401 and section 1165 of Puerto Rico Code

☐ [New] Electing church plan under Code Section 410(d).

9b [Current Line 8b; now multiple questions instead of plan characteristic codes entered in a list from instructions; PCC 4T, and 4U eliminated] If the plan provides welfare benefits, complete Lines 9b(1)-9b(4). Plans that do not provide any welfare benefits skip to question 10.

9b(1) [Modification and expansion of current PCC 4A, 4D, 4E] Does the plan provide health, dental, or vision coverage?

☐ Yes ☐ No

If “Yes,” check all that apply:

☐ [New Breakout of current PCC 4A] medical/surgical benefits

☐ [New Breakout of current PCC 4A] pharmacy or prescription drug benefits

☐ [New Breakout of current PCC 4A] mental health/substance use disorder benefits

☐ [New Breakout of current PCC 4A] wellness program

☐ [New Breakout of current PCC 4A] preventive care services

☐ [New Breakout of current PCC 4A] emergency services

☐ [New Breakout of current PCC 4A] pregnancy benefits

☐ [Current PCC 4E] vision

☐ [Current PCC 4D] dental

9b(2) Does the plan provide disability benefits?

☐ Yes ☐ No

If “Yes,” check all that apply.

☐ [Current PCC 4F] Temporary disability (accident and sickness)

☐ [Current PCC 4H] Long-term disability

9b(3) Does the plan provide welfare benefits other than health, dental, vision, or disability?

☐ Yes ☐ No

If “Yes,” check all that apply.

☐ [Current PCC 4B] Life insurance

☐ [Current PCC 4L] Death benefits (include travel accident but not life insurance)

☐ [New] Long term care insurance

☐ [Current PCC 4J] Apprenticeship and training

☐ [Current PCC 4C] Supplemental unemployment

☐ [Current PCC 4K] Scholarship (funded)

☐ [Current PCC 4G] Prepaid legal

☐ [Current PCC 4I] Severance pay

☐ [Current PCC 4P] Taft-Hartley Financial Assistance for Employee Housing Expenses

☐ [Current PCC 4Q] Other (Enter description.)

9b(4) If the plan is a welfare plan that does not provide health benefits, check the appropriate box to indicate whether the plan will stop or stopped filing in an earlier year in reliance on 29 CFR 2520.104-20. (If the plan provided group health benefits, it is not eligible for the limited exemption in 29 CFR 2520.104-20 and must file a Form 5500 Annual Return/Report in accordance with the instructions annually, regardless of plan size.)

☐ [Current PCC 4R] Unfunded, fully insured, or combination unfunded/fully insured welfare plan that does not provide health benefits that will not file an annual report for next plan year pursuant to 29 CFR 2520.104-20. (Plans that check this box should not check “final return/report” in Part I, Box B.)

☐ [Current PCC 4S] Unfunded, fully insured, or combination unfunded/fully insured welfare plan that does not provide health benefits that stopped filing annual reports in an earlier plan year pursuant to 29 CFR 2520.104-20. (Plans that check this box should not check “first return/report” in Part I, Box B.)

10a [Current Line 9a] Plan funding arrangement (Check all that apply.)

(1) ☐ Insurance

(2) ☐ Code section 412(e)(3) insurance contracts

(3) ☐ Trust

(4) ☐ General assets of the sponsor

10b [Current Line 9b] Plan benefit arrangement (Check all that apply.)

(1) ☐ Insurance

(2) ☐ Code section 412(e)(3) insurance contracts

(3) ☐ Trust

(4) ☐ General assets of the sponsor

11 [Current Line 10, Except check box added for Schedule E and Schedule J and Eliminated For Schedule I] Check all applicable boxes in 11a and 11b to indicate which schedules are attached, and, where indicated, enter the number attached. (See instructions).

11a Pension Schedules

(1) ☐ Schedule R (Retirement Plan Information)

(2) ☐ Schedule E (Employee Stock Ownership Plan Information)

(3) ☐ Schedule MB (Multiemployer Defined Benefit Plan and Certain Money Purchase Plan Actuarial Information)—signed by the plan actuary

(4) ☐ Schedule SB (Single-Employer Defined Benefit Plan Actuarial Information)—signed by the plan actuary

11b General Schedules

(1) ☐ Schedule H (Financial Information)

(2) ☐ Schedule A (Insurance Information) Enter number of Schedules A attached (See instructions.)

(3) ☐ Schedule C (Service Provider Information) Enter number of Schedules C attached (See instructions.)

(4) ☐ Schedule D (DFE/Participating Plan Information)

(5) ☐ Schedule G (Financial Transaction Schedules)

(6) ☐ Schedule J (Group Health Plan Information)

[Current Part III Form M-1 information moved to Schedule J]

[JURAT and SIGNATURE BLOCK to appear on first page, as with current form]

CAUTION: A penalty for the late or incomplete filing of this return/report will be assessed unless reasonable cause is established.

Under penalties of perjury and other penalties set forth in the instructions, I declare that I have examined this return/report, including accompanying schedules, statements and attachments, as well as the electronic version of this return/report, and to the best of my knowledge and belief, it is true, correct, and complete.

SIGN HERE Signature of plan administrator

Enter Date:

Enter name of individual signing as plan administrator

SIGN HERE Signature of employer/plan sponsor

☐ [New] Check here if two signatures for Taft-Hartley plan

(1) Management trustee signature (2) Labor trustee signature

Enter Date:

Enter name(s) of individual(s) signing as employer or plan sponsor

SIGN HERE Signature of DFE

Enter Date:

Enter name of individual signing as DFE

Preparer's name (including firm name, if applicable) and address; include room or suite number.

Preparer's telephone number

Line A(2) Schedule

Complete as many entries as needed to report the required information for all participating employers.

Multiple-Employer Plan Participating Employer Information (Heading for this chart must include Name of Plan, and EIN/PN as shown on the Form 5500)
(a) Name of participating employer | (b) EIN | (c) Percent of Total Contributions.
(a) Name of participating employer | (b) EIN | (c) Percent of Total Contributions.

Line A(3) Schedule

Complete as many entries as needed to report the required information for all participating employers.

Controlled Group Plan Member Information (Heading for this chart must include Name of Plan, and EIN/PN as shown on the Form 5500). Complete elements (a), (b), and (c) to provide the name, EIN, and percent of total contributions of each controlled group member.)
(a) Name of controlled group member | (b) EIN | (c) Percent of Total Contributions.
(a) Name of controlled group member | (b) EIN | (c) Percent of Total Contributions.

Form 5500-SF (Short Form Annual Return/Report of Small Employee Benefit Plan)

Part I Annual Report Identification Information [Same As Current Part I, Except New Box A(3)]

For calendar plan year 20XX or fiscal plan year beginning DD/MM/20XX and ending DD/MM/20XX+1

A [Current except as shown] This return/report is for:

(1) ☐ a single-employer plan

(2) ☐ a multiple-employer plan (not multiemployer) (Filers checking this box must attach a list of participating employer information in accordance with the form instructions)

(3) ☐ [New] a plan of a controlled group of corporations, group of trades or businesses under common control, or an affiliated service group (see instructions) (Filers checking this box must attach a list of controlled group member information in accordance with the form instructions)

(4) ☐ a one-participant plan

(5) ☐ foreign plan

B [Current] This return/report is (check as applicable) (see instructions):

(1) ☐ the first return/report

(2) ☐ the final return/report

(3) ☐ an amended return/report

(4) ☐ a short plan year return/report (less than 12 months)

(5) ☐ [Part of current Line 13b for PBGC-trusteed plans revised to include date of trusteeship] A plan trusteed by PBGC. Filers checking this box, enter the date of trusteeship __/__/__.

(If you checked box B(5), you only need to complete only certain line items. (See Instructions.)

C [Current] Check the applicable box if filing under an extension or through the DFVC Program:

(1) ☐ Form 5558

(2) ☐ automatic extension

(3) ☐ special extension (enter description)

(4) ☐ DFVC program

Part II Basic Plan Information—Enter all requested information [Same As Current Part II (Lines 1-6), except as shown] (You must use the same plan name, PN, and EIN as in the previous year's annual return/report, except as provided in Line 5.)

1a Name of Plan

1b Three-digit plan number (PN)

1c Effective date of plan

2a [Current except as shown] Plan sponsor's name (employer, if for a single-employer plan) and address; include room or suite number, city or town, state or province, country, and ZIP or foreign postal code (if foreign, see instructions)

2b(1) Plan sponsor's Employer Identification Number (EIN)

(2) [New] Plan sponsor's legal entity identifier (LEI) if available (see instructions)

2c Sponsor's telephone number

2d Business code (see instructions)

3 [Current except as shown] Plan administrator's name and address

☐ Check if same as Plan Sponsor Name

☐ Check if same as Plan Sponsor Address

3a Plan Administrator's Name and address

3b Administrator's EIN

3c Administrator's telephone number

4a [New] Named Fiduciary's name and address (see instructions).

☐ Check if same as Plan Sponsor Name

☐ Check if same as Plan Sponsor Address

4b [New] Named Fiduciary's EIN

4c [New] Named Fiduciary's telephone number

5 [Current Line 4 except to add LEI] If the name, EIN, or LEI of the plan sponsor has changed since the last return/report filed for this plan, enter the name, EIN, LEI, and the plan number from the last return/report:

5a Sponsor's Name

5b(1) EIN

(2) [New] LEI (if available)

5c Plan Number

6 [Current Line 5] Total number of participants at the beginning of the plan year

7 [Current Line 6] Number of participants (welfare plans complete only Lines 7a(1), 7a(2), 7b, 7c, and 7d).

7a(1) [Current Line 5d(1)] Total number of active participants at the beginning of the plan year

(2) [Current Line 5d(2)] Total number of active participants as of the end of the plan year

7b [New] Retired or separated participants receiving benefits as of the end of the plan year

7c [New] Other retired or separated participants entitled to future benefits as of the end of the plan year

7d [New] Subtotal. Add Lines 7a(2), 7b, and 7c

7e [New] Deceased participants whose beneficiaries are receiving or are entitled to receive benefits as of the end of the plan year

7f [New] Total. Add Lines 7d and 7e

7g If you are filing for defined contribution pension plan, you must complete Line 7g(1)-(4). Welfare plans complete only Line 7g(3). Defined benefit pension plans skip to Line 7h.

(1) [New] Number of participants with account balances as of the beginning of the plan year

(2) [Current Line 5c] Number of participants with account balances as of the end of the plan year

(3) [New] Number of participants that made contributions during the plan year

(4) [New] Number of participants that terminated employment during the plan year that had their entire account balance distributed as of the end of the plan year

7h [Current Line 5e] Number of participants that terminated employment during the plan year with accrued benefits that were less than 100% vested

Part III—Form 5500-SF Eligibility Information [New “Part” title for existing eligibility questions]

8a [Current Line 6a] Were all of the plan's assets during the plan year invested in eligible assets? (See instructions.)

☐ Yes ☐ No

8b [Current Line 6b] Are you claiming a waiver of the annual examination and report of an independent qualified public accountant (IQPA) under 29 CFR 2520.104-46? (See instructions on waiver eligibility and conditions.)

☐ Yes ☐ No

8c [New] Did the plan provide group health benefits?

☐ Yes ☐ No

If you answered “No” to Line 8a or 8b, or “Yes” to Line 8c, the plan cannot use Form 5500-SF and must instead file the Form 5500 and any required Schedules and attachments.

Part IV—Financial Information [Current Part III, with new breakouts]

9 [Current Line 7] Plan Assets and Liabilities [Columns for (a) Beginning of Year (BOY) and (b) End of Year (EOY) Values for 9a-9d]

9a [Current Line 7a] Total plan assets

9b [Current Line 7b] Total plan liabilities

9c [Current Line 7c] Net plan assets (subtract Line 9b from Line 9a)

10 [Current Line 8] Income, Expenses, and Transfers for this Plan Year

10a [Current Line 8a] Contributions

(1) Received or receivable in cash from:

(A) [Current Line 8a(1)] Employers

(B) [Current Line 8a(2)] Participants

(2) [Current Line 8a(3)] Others (including rollovers from IRAs/other plans)

10b [Current Line 8b] Other income (loss)

10c [Current Line 8c] Total income (add Lines 10a(1)(A) and (B), 10a(2), 10b and 10c)

10d [Current Line 8d] Benefits paid (including direct rollovers and insurance premiums to provide benefits)

10e [Current Line 8e] Certain deemed and/or corrective distributions (see instructions)

10f [Current Line 8f] Administrative service providers (salaries, fees, commissions)

10g [Current Line 8g] Other expenses

10h [Current Line 8h] Total expenses (add Lines 10e, 10f, 10g, and 10h)

10i [Current Line 8i] Net income (loss) (subtract Line 10h from Line 10d)

10j [Current Line 8j] Transfers to (from) the plan (see instructions)

11 [New] Specific Assets [Columns for (a) Beginning of Year (BOY) and (b) End of Year (EOY) Values] [New]

11a Cash/cash equivalents

11b [New] Securities, except employer securities, traded on a public exchange

(1) Stock

(2) Bonds

(3) Other

11c [New breakout] Government securities issued by the United States or a State

11d [New] Interests in registered investment companies (Mutual funds, Unit Investment Trusts, Closed End Funds)

11e [New] Interests in insurance company pooled separate accounts (PSAs)

11f [New] Interests in insurance investment and annuity contracts (other than PSAs)

11g [New] Interests in bank common collective trusts (CCTs)

11h [New] Interests in bank investment contracts (other than CCTs)

11i [New] Participant loans

Part V—Plan Characteristics Information [Current Part IV]

12a [Current Line 8a; Now multiple questions instead of Plan Characteristic Codes (PCC) entered in a list from Instructions] Check the appropriate box to indicate the type of plan. If the plan provides pension benefits, answer the applicable 12a questions below; see the instructions for additional details. (Plans that provide only welfare benefits check the box for “Welfare Plan” and then skip to question 12b.)

☐ Defined benefit pension plan

☐ Defined contribution pension plan

☐ Welfare plan

12a(1) Check the appropriate box(es) to indicate how the benefits are calculated (Defined benefit pension plans only.)

☐ [Current PCC 1A] Benefits are primarily pay related

☐ [Current PCC 1B] Benefits are primarily flat dollar (includes dollars per year of service)

☐ [Current PCC 1C breakout] Cash balance plan

☐ [Current PCC 1C breakout] Pension equity plan (PEP)

☐ [Current PCC 1C breakout] Other hybrid plan

☐ [Current PCC 1D] Floor-offset plan

12a(2) Does your plan have any of the Internal Revenue Code arrangements listed below? Check all that apply. Defined benefit pension plans only)

☐ [Current PCC 1F] Code Section 414(k) arrangement

12a(3) [Current PCC 1H] Is this a defined benefit pension plan that was terminated and closed out for PBGC purposes (see instructions)?

☐ Yes ☐ No

12a(4) [Current Line 6c, revised to add a new sentence at the end on PBGC premium filings. For 2016, PBGC proposed that the new sentence be added to Line 5c of the Schedule H] If the plan is a defined benefit pension plan, is it covered under the PBGC insurance program (see ERISA section 4021)?

☐ Yes ☐ No ☐ Not determined

If “Yes” is checked, enter the My PAA confirmation number from the PBGC premium filing for this plan year. (See instructions)

12a(5) [Current PCC 1I expanded to include DC as well as DB pension plans] Is this a frozen pension benefit plan? (Both defined benefit and defined contribution pension plans must answer this question.)

☐ Yes ☐ No

12a(6) [Current PCC 1D and 2D; new requirement to provide identifying information about sponsor of other plan or arrangement] Are plan benefits subject to offset for retirement benefits provided in another plan or arrangement of the employer?

☐ Yes ☐ No

If “Yes,” enter name, EIN, and LEI of sponsor and PN of other plan or arrangement

12a(7) If this is a defined contribution pension plan, indicate the type(s) of plan (check all that apply):

☐ [Current PCC 2E] Profit-sharing plan

☐ [Current PCC 2I] Stock bonus plan

☐ [Current PCC 2C] Money purchase plan

☐ [Current PCC 2B] Target benefit plan

☐ [Current PCC 2D] Offset plan

12a(8) If this is a defined contribution pension plan, check the appropriate box(es) to indicate the type(s) of arrangements under which the plan operates for purposes of the Code (check all that apply):

☐ [Current PCC 2J] Code section 401(k) arrangement

☐ [Current PCC 2K] Code section 401(m) arrangement

☐ [New] SIMPLE 401(k) plan under Code sections 401(k)(11) and 401(m)(10)

☐ [New] Safe harbor 401(k) plan under Code sections 401(k)(12) and 401(m)(11)

☐ [New] Safe harbor 401(k) plan using automatic contribution arrangements under Code sections 401(k)(13) and 401(m)(12)

☐ [Current PCC 2N] Code section 408 accounts or annuities

☐ [Current PCC 2L] Code section 403(b)(1) arrangement

☐ [Current PCC 2M] Code section 403(b)(7) arrangement

12a(9) If this is a defined contribution pension plan, check the appropriate box(es) to indicate the type(s) of features your plan has:

☐ [Current PCC 2S] Automatic Enrollment

☐ [New] Designated ROTH

☐ [Current PCC 2A] Age/service weighted or new comparability or similar plan

☐ [New] Financial education for participants

☐ [New] Financial advice for participants

☐ [New] Other (specify)

12a(10) If this a participant-directed defined contribution pension plan, check all that apply:

☐ [Current PCC 2F] ERISA section 404(c) plan

☐ [Current PCC 2G] Total participant-directed account plan

☐ [Current PCC 2H] Partial participant-directed account plan

☐ [Current PCC 2R] Participant-directed brokerage accounts. If you check this box, enter the number of participants using the participant-directed brokerage account(s)

12a(11) [New] (A) Does the plan have default investment alternatives that are intended to be qualified default investment alternatives (QDIA) (see instructions) for participants who fail to direct assets in their account?

☐ Yes ☐ No

(B) If “Yes,” indicate type(s) of QDIA (Check all that apply)

☐ Target date/life cycle fund

☐ Fixed income

☐ Money market or equivalent (under 2550.404c-5(e))

☐ Balanced/target allocation fund

☐ Professionally managed account

☐ Other (specify)

12a(12) [New] Is this an Eligible Combined Plan under Code section 414(x)?

☐ Yes ☐ No

12a(13) [New] Check this box if a rollover from a plan (including an individual retirement plan) was used to start up the business (ROBS) sponsoring this plan: ☐

12a(14) Other Pension Benefit Features (check all that apply):

☐ [Current PCC 3D; 2016 Line 17a] IRS Pre-approved plan. If you check this box enter: (1) most recent adoption date and (2) the IRS opinion or advisory letter's serial number

☐ [Current PCC 3B] Plan covering self-employed individuals

☐ [Current PCC 3C] Plan not intended to be qualified under Internal Revenue Code

☐ [Current PCC 3D-breakout] Master and prototype (M&P) plan

☐ [Current PCC 3D-breakout] Volume submitter plan

☐ [New] Plan sponsor(s) received services of leased employees

☐ [Current PCC 3J] U.S.-based plan that covers residents of Puerto Rico and is qualified under both Code section 401 and section 1165 of Puerto Rico Code

☐ [New] Electing church plan under Code Section 410(d)

12b If the plan provides welfare benefits, complete Lines 12b(1)-(3). Plans that do not provide any welfare benefits skip to question 13.

12b(1) Does the plan provide disability benefits?

☐ Yes ☐ No

If “Yes,” check all that apply.

☐ [Current PCC 4F] Temporary disability (accident and sickness)

☐ [Current PCC 4H] Long-term disability

12b(2) Does the plan provide welfare benefits other than disability?

☐ Yes ☐ No

If “Yes,” check all that apply.

☐ [Current PCC 4B] Life insurance

☐ [Current PCC 4L] Death benefits (include travel accident but not life insurance)

☐ [New] Long term care insurance

☐ [Current PCC 4J] Apprenticeship and training

☐ [Current PCC 4C] Supplemental unemployment

☐ [Current PCC 4K] Scholarship (funded)

☐ [Current PCC 4G] Prepaid legal

☐ [Current PCC 4I] Severance pay

☐ [Current PCC 4P] Taft-Hartley Financial Assistance for Employee Housing Expenses

☐ [Current PCC 4Q] Other (Enter description. Caution: If the plan provides health benefits, you must file the Form 5500.)

12b(3) If the plan is a welfare plan that does not provide health benefits, check the appropriate box to indicate whether the plan will stop or stopped filing in an earlier year in reliance on 29 CFR 2520.104-20. (If the plan provided group health benefits, it is not eligible for the exemption in 29 CFR 2520.104-20 and must file a return/report annually, regardless of plan size.)

☐ [Current PCC 4R] Unfunded, fully insured, or combination unfunded/fully insured welfare plan that will not file an annual report for next plan year pursuant to 29 CFR 2520.104-20. (Plans that check this box should not check “final return/report” in Part I, Box B.)

☐ [Current PCC 4S] Unfunded, fully insured, or combination unfunded/fully insured welfare plan that stopped filing annual reports in an earlier plan year pursuant to 29 CFR 2520.104-20. (Plans that check this box should not check “first return/report” in Part I, Box B.)

13a [New; taken from current Form 5500 Line 9a] Plan funding arrangement (check all that apply)

(1) ☐ Insurance

(2) ☐ Code section 412(e)(3) insurance contracts

(3) ☐ Trust

(4) ☐ General assets of the sponsor

13b [New to Form 5500-SF; current Form 5500 Line 9b] Plan benefit arrangement (check all that apply)

(1) ☐ Insurance

(2) ☐ Code section 412(e)(3) insurance contracts

(3) ☐ Trust

(4) ☐ General assets of the sponsor

Part VI—Plan Operations Compliance Questions [Current Part V]

During the plan year:

14a [Current Line 10a revised] Was there a failure to transmit to the plan any participant contributions or repayments as of the earliest date on which such contributions can reasonably be segregated from the employer's general assets as described in 29 CFR 2510.3-102? Continue to answer “Yes” for any prior year failures until fully corrected. (See instructions and DOL's Voluntary Fiduciary Correction Program.)

☐ Yes ☐ No Amount

14b [Current Line 10b] Were there any nonexempt prohibited transactions with any party-in-interest? (Do not include transactions reported on Line 14a.)

☐ Yes ☐ No Amount

14c [Current Line 10c revised] Was this plan covered by one or more fidelity bonds naming the plan as insured that provide coverage for losses due to fraud or dishonesty by persons who handle plan funds or other property?

☐ Yes ☐ No Amount

14d [Current Line 10d] Did the plan have a loss, whether or not reimbursed by a fidelity bond covering the plan, that was caused by fraud or dishonesty?

☐ Yes ☐ No Amount

14e [Current Line 10e] Were any fees or commissions paid to any brokers, agents, or other persons by an insurance carrier, insurance service, or other organization that provides some or all of the benefits under the plan?

☐ Yes ☐ No Amount

14f [Current Line 10f] Has the plan failed to provide any benefit when due under the plan?

☐ Yes ☐ No Amount

14g [Current Line 10h] If this is an individual account plan, was there a blackout period? (See 29 CFR 2520.101-3.)

☐ Yes ☐ No

14h [Current Line10i] If 14h was answered “Yes,” check the box if you either provided the required notice or one of the exceptions to providing the notice applied under 29 CFR 2520.101-3:

☐ Yes ☐ No

14i [New] Is this a participant-directed individual account plan (e.g., a 401(k)-type or 403(b) defined contribution pension plan), subject to the requirements in 29 CFR 2550.404a-5 to disclose plan and investment related information to participants and beneficiaries?

☐ Yes ☐ No

14j [New] If you answered “Yes” to Line 14i, did the plan provide participants and beneficiaries the plan and investment disclosures required under 29 CFR 2550.404a-5?

☐ Yes ☐ No

If you answered “Yes,” you must attach the investment option comparative chart or charts that were used to satisfy the disclosure requirement in 29 CFR 2550.404a-5(d)(2).

14k [New] If you answered “Yes,” to Line 14i, enter the number of designated investment alternatives (DIAs) available under the plan and indicate the number of DIAs that are index funds. Also, check all that apply to indicate the types of DIAs available under the plan:

☐ Domestic Stock/Equity

☐ Bond/income

☐ Balanced/target allocation

☐ Money Market

☐ Target date/Lifecycle

☐ International/Global Stock/Equity

☐ Sector/economy segment

☐ Other funds (Describe)

14l [New] If you answered “Yes,” to Line 14j, did the plan make available to participants and beneficiaries a designated investment manager (DIM)?

☐ Yes ☐ No

If “Yes,” enter name of DIM.

14m [New] If you answered “Yes,” to Line 14j, did the plan make available to participants and beneficiaries any brokerage window, self-directed brokerage account or similar plan arrangements that enabled participants to select investments beyond those designated by the plan?

☐ Yes ☐ No

If you answered “Yes” to Line 14m, enter the number of participants that utilized the account or arrangement and the total amount held in such account(s):

14n [New] Did the plan trust incur unrelated business taxable income (UBTI)?

☐ Yes ☐ No ☐ NA

If “Yes”, enter amount.

14o [New] Did any employer or employer organization sponsoring the plan pay any of the administrative expenses of the plan that were not reported on Line 10g?

☐ Yes ☐ No

14p [New] Did any person who is disqualified under ERISA Section 411, serve or was permitted to serve the plan in any capacity?

☐ Yes ☐ No

14q [New] Did the plan sponsor or its affiliates provide any services to the plan in exchange for direct or indirect compensation?

☐ Yes ☐ No

14r [New] Have any of the plan's service providers been terminated for a material failure to meet the terms of a service arrangement or failure to comply with Title I of ERISA, including the failure to provide required disclosures under 29 CFR 2550.408b-2?

☐ Yes ☐ No

If “Yes,” complete elements (1)-(7) to identify the service provider.

(1) Name:

(2) EIN:

(3) Enter applicable service code from Line 2c(1) for describe services provided to plan:

(4) Address:

(5) Telephone:

(6) Explanation of reason for termination:

(7) ☐ Check if termination was due to failure to provide required disclosures under 29 CFR 2550.408b-2.

14s [New (based on 1998 Line 8a)] Is the plan's summary plan description (SPD), including any summary descriptions of modifications, in compliance with the content requirements in 29 CFR 2520.102-3? (See instructions.)

☐ Yes ☐ No

14t [New] If this is an individual account plan, were there any checks to participants or beneficiaries that were uncashed as of the end of the plan year? ☐ Yes ☐ No. If “Yes,” complete 14t(1)-(4)

(1) Enter number of uncashed checks

(2) Enter total value of uncashed checks

(3) Describe the procedures followed by the plan to verify a participant's or beneficiary's address before a check was mailed.

(4) Describe the procedures followed by the plan to monitor uncashed checks, including steps to locate “missing” participants.

Part VII—Pension Funding Compliance [Current Part VI Renumbered]

15 [Current Line 11] Is this a defined benefit pension plan subject to minimum funding requirements? (If “Yes,” see instructions and complete Schedule SB (Form 5500) and line 14a below)

☐ Yes ☐ No

15a [Current Line 11a] Enter the unpaid minimum required contribution for all years from Schedule SB (Form 5500) Line 44.

16 [Current Line 12] Is this a defined contribution pension plan subject to the minimum funding requirements of section 412 of the Code or section 302 of ERISA?

☐ Yes ☐ No.

If “Yes,” complete Line 15a or Lines 15b, 15c, 15d, and 15e below, as applicable.

16a If a waiver of the minimum funding standard for a prior year is being amortized in this plan year, see instructions, and enter the date of the letter ruling granting the waiver:

If you completed Line 16a, complete Lines 3, 9, and 10 of Schedule MB (Form 5500), and skip to line 20.

16b Enter the minimum required contribution for this plan year.

16c Enter the amount contributed by the employer to the plan for this plan year:

16d Subtract the amount in Line 16c from the amount in Line 16b. Enter the result (enter a minus sign to the left of a negative amount):

16e Will the minimum funding amount reported on Line 16d be met by the funding deadline?

☐ Yes ☐ No ☐ N/A

Part VIII Plan Termination Information—[Current Part VII Revised and Expanded]

17a [Current Line 13a; Revised to Ask About Any Resolution to Terminate] Has a resolution to terminate the plan been adopted in any plan year?

☐ Yes ☐ No If “Yes,” complete Line 17a(1)-(3) below:

(1) [New] Effective date of plan termination

(2) [New] Year the plan assets were distributed to plan participants and beneficiaries

(3) [Current Line 13a] Enter the amount of plan assets that reverted to the employer this year:

17b [Part of current Line 13b with a new subpart to report the year.] Were all the plan assets distributed to participants or beneficiaries?

☐ Yes ☐ No

17c [Current Line 13c] Transfer to other plans. If this plan transferred assets or liabilities to another plan since the 20XX-1 filing provide the following information with respect to each plan to which the assets or liabilities were transferred. Complete as many entries as needed to identify all transfers.

(1) [Current 13c(2)] EIN

(2) [Current 13c(3)] PN

(3) [New] Date of transfer

(4) [Current 13c(1)] Name of Plan:

(5) [New] Type of transfer:

☐ Merger

☐ Consolidation

☐ Spinoff

☐ Other (Describe)

(6) [Part of current Line 13b] Were all plan assets transferred to another plan?

☐ Yes ☐ No

17d [New] Transfers from other plans. If another plan transferred assets or liabilities to this plan since the 20XX-1 filing, or in the case of a first plan filing, transferred assets or liabilities in conjunction with the creation of this new plan, provide the following information with respect to each plan from which assets or liabilities were transferred:

(1) EIN

(2) PN

(3) Date of transfer

(4) Name of Plan:

(5) Type of transfer: Type of transfer:

☐ Merger

☐ Consolidation

☐ Spinoff

☐ Other ([New] Describe)

17e [New] Terminated Defined Contribution Pension Plans: Transfers to Financial Institution. Did this plan, as part of the procedures for terminating the plan, transfer plan assets to interest bearing federally insured bank accounts in the name of missing participants?

☐ Yes ☐ No

If “Yes,” complete elements (1)-(5). List each financial institution where plan assets were transferred. You must continue reporting this information until the final return/report is filed for the plan.

(1) Financial Institution's Name

(2) Financial Institution's EIN

(3) Date of transfer

(4) Number of accounts established

(5) Total amount transferred

Part IX—Trustee Information—[Current Part III But Not Optional; see IRS Federal Register Notice “Proposed Collection; Comment Request for the Annual Return/Report of Employee Benefit Plan”]

18a [Current Line 14a] Name of Trust

18b [Current Line14b] Trust EIN

18c [New] Name of Trustee/Custodian Check ☐ if custodian

18d [New] Trustee's or custodian's telephone number

[New—intended to be electronic signature] Date and Signature of Trustee/Custodian

SIGN HERE Signature of plan trustee or custodian:

Enter Date:

Enter name of individual signing as trustee or custodian

Part X IRS Compliance Questions [See IRS Federal Register Notice “Proposed Collection; Comment Request for the Annual Return/Report of Employee Benefit Plan”]

19a [2016 Line 15a] Is this plan a 401(k) plan?

☐ Yes ☐ No

If “No,” skip b.

19b [2016 Line 15b] How did the plan satisfy the nondiscrimination requirements for employee deferrals under section 401(k)(3)? Check all that apply

☐ Design-based safe harbor method

☐ “Prior year” ADP test

☐ “Current year” ADP test

☐ N/A

20a [2016 Line 16a] What testing method was used to satisfy the coverage requirements under section 410(b) for the plan year. Check all that apply:

☐ Ratio percentage test

☐ Average benefit test

☐ N/A

20b [2016 Line 16b] Did the plan satisfy the coverage and nondiscrimination requirements of sections 410(b) and 401(a)(4) for the plan year by combining this plan with any other plan under the permissive aggregation rules?

☐ Yes ☐ No

21 [New] If this is a defined benefit pension plan, does the plan comply with Code section 401(a)(26) participation requirements?

☐ Yes ☐ No

22a [2016 Line 17b] If the plan is a master and prototype plan (M&P) or volume submitter plan that received a favorable IRS opinion letter or advisory letter, enter the date of the letter __/__/__ and the serial number.

22b [2016 Line 17d] If the plan is an individually-designed plan that received a favorable determination letter from the IRS, enter the date of the most recent determination letter _/_/__.

23a [2016 Line 19] If this is a section 401(k) plan, were hardship distributions made during the plan year?

☐ Yes ☐ No

23b [2016 Line 19] If this is a defined benefit plan or a money purchase pension plan, did the plan make any distributions during the plan year to employees who have attained age 62 and who were not separated from service when the distributions were made? ☐ Yes ☐ No

24 [New] Were required minimum distributions made to 5% owners who have attained age 70½ (regardless of whether or not retired) as required under section 401(a)(9)(C)?

☐ Yes ☐ No ☐ N/A

25 [New] As of the last day of the plan year, has the plan ceased to permit contributions and prohibit entry by new participants?

☐ Yes ☐ No

[JURAT and SIGNATURE BLOCK to appear on first page, as with current form] CAUTION: A penalty for the late or incomplete filing of this return/report will be assessed unless reasonable cause is established.

Under penalties of perjury and other penalties set forth in the instructions, I declare that I have examined this return/report, including accompanying schedules, statements and attachments, as well as the electronic version of this return/report, and to the best of my knowledge and belief, it is true, correct, and complete.

SIGN HERE Signature of plan administrator:

Enter Date:

Enter name of individual signing as plan administrator

SIGN HERE Signature of employer/plan sponsor:

Enter Date:

Enter name(s) of individual(s) signing as employer or plan sponsor

[New] Trustee Signature for Purposes of the Code:

SIGN HERE Signature of plan trustee or custodian:

Enter Date:

Enter name of individual signing as trustee or custodian

Preparer's name (including firm name, if applicable) and address; include room or suite number.

Preparer's telephone number

Line A(2) Schedule

Complete as many entries as needed to report the required information for all participating employers.

Multiple-Employer Plan Participating Employer Information
[Insert Name of Plan, and EIN/PN as shown on the Form 5500]
(d) Name of participating employer | (e) EIN | (f) Percent of Total Contributions.
(d) Name of participating employer | (e) EIN | (f) Percent of Total Contributions.

Line A(3) Schedule

Complete as many entries as needed to report the required information for all participating employers.

Controlled Group Plan Member Information
[Heading for this chart must include Insert Name of Plan, and EIN/PN as shown on the Form 5500]
[Complete elements (a), (b), and (c) to provide the name, EIN, and percent of total contributions of each controlled group member]
(d) Name of controlled group member | (e) EIN | (f) Percent of Total Contributions.
(a) Name of controlled group member | (b) EIN | (c) Percent of Total Contributions.

Schedule A—Insurance Information

[Current Identifying Information] For calendar plan year 20XX or fiscal plan year beginning DD/MM/20XX and ending DD/MM/20XX+1

A Name of Plan

B Three-digit plan number (PN)

C Plan sponsor's name as shown on Line 2a of Form 5500

D Employer Identification Number of plan sponsor (EIN)

Part I—Information Concerning Insurance Contract Coverage. Provide information for each contract on a separate Schedule A. Individual contracts grouped as a unit in Parts II and III can be reported on a single Schedule A.

1. Coverage and General Information:

a. [Current 1a] Name of insurance carrier:

b. [Current 1b] EIN of insurance carrier:

c. [More Specific Than Current 1c By Requiring “Company” Code Instead of NAIC Code Generally] NAIC Company Code

d. [Current 1d] Contract or policy identification number:

e. [New] Health plan identification number (HPID) (if subject to the Health Insurance Portability and Accountability Act (HIPAA))

[Current Line 1e moved as breakout by benefit type in new Line 9]

f. [Current 1(f) and (g)] Policy or contract year (1) beginning ___(2) ending ___

2. [New] Was the policy or contract issued by an insurance company that is wholly owned by the plan or the plan sponsor?

☐ Yes ☐ No

[Current 2 Moved to New Part IV]

Part II—Investment and Annuity Contract Information. [Current Part II] Where individual contracts are provided, the entire group of such individual contracts with each carrier may be treated as a unit for purposes of this report.

3. [Current Line 4] Current value of plan's interest under this contract in the general account at contract year end.

4. [Current Line 5, with PSAs. “Other” and Variable Annuity Contracts broken out; new to provide information on variable annuity contract features] Current value of plan's interest under this contract in separate accounts and variable annuities at contract year end.

☐ Pooled separate accounts

☐ Other separate accounts

☐ Variable annuities. If you check this box, indicate whether the variable annuity contact has any of the following (check all that apply):

(i) Types of subaccounts:

☐ Domestic Stock/Equity

☐ Bond/income

☐ Balanced/target allocation

☐ Money Market

☐ Target date/Lifecycle

☐ International/Global Stock/Equity

☐ Sector/economy segment

☐ Other subaccounts (Describe)

(ii) Features

☐ Death benefit

☐ Guaranteed living benefit

☐ Other (specify)

5. [Current Line 6] Contracts With Allocated Funds:

a. State the basis of premium rates

b. Premiums paid to carrier

c. Premiums due but unpaid at the end of the year

d. If the carrier, service, or other organization incurred any specific costs in connection with the acquisition or retention of the contract or policy:

(i) Enter amount

(ii) Specify the nature of the costs

e. Type of contract:

(i) ☐ Individual policies

(ii) ☐ Group deferred annuity

(iii) ☐ Other (specify)

f. If contract purchased, in whole or in part, to distribute benefits from a terminating plan, check here: ☐

6. [Current Line 7] Contracts With Unallocated Funds (Do not include portions of these contracts maintained in separate accounts)

a. Type of contract:

(1) ☐ Deposit administration

(2) ☐ Immediate participation guarantee

(3) ☐ Guaranteed investment

(4) ☐ Other (specify)

b. Balance at the end of the previous year

c. Additions:

(1) Contributions deposited during the year

(2) Dividends and credits

(3) Interest credited during the year

(4) Transferred from separate account

(5) Other (specify)

(6) Total additions

d. Total of balance and additions (add Lines 8b and 8c(6))

e. Deductions:

(1) Disbursed from fund to pay benefits or purchase annuities during year

(2) Administration charge made by carrier

(3) Transferred to separate account

(4) Other (specify)

(5) Total deductions

f Balance at the end of the current year (subtract Line 8e(5) from Line 8d)

Part III Welfare Benefit Contract Information [Current Part III, Except As Noted By Line] If more than one contract covers the same group of employees of the same employer(s) or members of the same employee organizations(s), the information may be combined for reporting purposes if such contracts are experience-rated as a unit. Where contracts cover individual employees, the entire group of such individual contracts with each carrier may be treated as a unit for purposes of this report.

7. [Current Line 8 Combined With Current Line 1e Broken Out By Benefit Type; AD&D and Long Term Care Are New Breakouts] Benefit type. Check all applicable boxes and enter approximate number of persons covered at end of contract year by benefit type. (See instructions)

Columns for the following questions for “Benefit Type” and for “Approximate number of persons covered for each benefit listed”

a ☐ Health (other than dental or vision)

b ☐ Dental

c ☐ Vision

d ☐ Life insurance: [new breakout]☐ term ☐ other (specify)

e ☐ Temporary disability (accident and sickness)

f ☐ Long-term disability

g ☐ Supplemental unemployment

h ☐ Prescription drug

i ☐ [New] Accidental death and disability

j ☐ [New] Long term care insurance

k ☐ Other (specify)

8 [Current Line 8i, j, k, l, m] Type of Contract. (Check applicable box.)

a ☐ Stop-loss (large deductible)

b ☐ HMO contract

c ☐ PPO contract

d ☐ Indemnity contract

e ☐ Other (specify)

9 [Current Line 9, Including Subparts] Experience-rated contracts:

9a Premiums:

(1) Amount received

(2) Increase (decrease) in amount due but unpaid

(3) Increase (decrease) in unearned premium reserve

(4) Earned ((1) + (2)−(3))

9b Benefit charges

(1) Claims paid

(2) Increase (decrease) in claim reserves

(3) Incurred claims (add (1) and (2))

(4) Claims charged

9c Remainder of premium:

(1) Retention charges (on an accrual basis)

(A) Commissions

(B) Administrative service or other fees

(C) Other specific acquisition costs

(D) Other expenses

(E) Taxes

(F) Charges for risks or other contingencies

(G) Other retention charges

(H) Total retention

(2) Dividends or retroactive rate refunds. Check here to indicate whether these amounts were:

☐ Paid in cash, or ☐ credited.

9d Status of policyholder reserves at end of year:

(1) Amount held to provide benefits after retirement

(2) Claim reserves

(3) Other reserves

9e Dividends or retroactive rate refunds due. (Do not include amount entered in Line 9c(2).)

10. [Current Line 10, Including Subparts] Nonexperience-rated contracts:

10a. Total premiums or subscription charges paid to carrier

10b. If the carrier, service, or other organization incurred any specific costs in connection with the acquisition or retention of the contract or policy, other than reported in Part IV, Line 13 (Fee and Commission Information) report amount:

10c [Part of Current Line 10b] Specify nature of costs of amount reported on line 10b:

11 [New]

a Were there any premium payment delinquencies for premiums due but unpaid during the year?

☐ Yes ☐ No If “Yes,” enter number of times delinquent and for each delinquency enter the number of days delinquent.

b If you answered “Yes” to line 11a, indicate whether any premium delinquency resulted in a lapse in coverage. If you answered “No” to line 11a, enter “N/A”

☐ Yes ☐ No ☐ N/A.

Part IV Fee and Commission Information

12 [Current Line 2] Insurance fee and commission information. Enter in Line 12 the total fees and total commissions paid in connection with the insurance carrier and contract entered in Line 1. List the agents, brokers, and other persons in descending order of the amount paid.

12a Total amount of commissions paid.

12b Total amount of fees paid

13 [Current Line 3] Persons receiving commissions and fees. (Complete as many entries as needed to report all persons).

13a [Current 3a] Name and address of the agent, broker, or other person to whom commissions or fees were paid.

13b [New] Relationship to plan, employer, employee organization, sponsor, fiduciary, or other party-in-interest

13c [Current 3b] Amount of sales and base commissions paid

13d [Current 3c] Amount of fees and other commissions paid

13e [Current 3d] Purpose of fees and other commissions paid

13f [Current 3e] Organization code (see instructions)

Part V Provision of Information [current Part IV]

14a [Current Line 11] Did the insurance company fail to provide any information necessary to complete Schedule A?

☐ Yes ☐ No

14b [Current Line 12, Except Checkbox Added for “Fee and Commission” and “Other” Instead of Just Open Text Field] If the answer to Line 14a is “Yes,” specify the information not provided: ☐ Fee and commission information ☐ Other (specify)

Schedule C (Service Provider Information) [NEW FORMAT WHERE SEPARATE SCHEDULE C IS FILED FOR EACH SERVICE PROVIDER RATHER THAN SINGLE SCHEDULE C FILED THAT COVERS MULTIPLE SERVICE PROVIDERS]

[Current header and identifying information] For calendar plan year 20XX or fiscal plan year beginning DD/MM/20XX and ending DD/MM/20XX+1

A Name of plan

B Three-digit plan number [PN]

C Plan sponsor's name as shown on Line 2a of Form 5500

D Employer Identification Number (EIN)

[New (Revision of current indirect compensation reporting language to harmonize with 29 CFR 2550.408b-2)] You must complete a separate Schedule C, in accordance with the instructions, for (1) each covered service provider who received $1,000 or more in total direct and indirect compensation (i.e., money or anything else of monetary value) in connection with services rendered to the plan or the person's position with the plan during the plan year, including payments from participants' accounts and (2) other persons who received $5,000 or more in direct compensation in connection with services rendered to the plan or the person's position with the plan during the plan year, including payments from participants' accounts.

A “covered service provider” for Schedule C reporting purposes includes: (1) ERISA fiduciary service providers to the plan or to a “plan asset” vehicle in which the plan invests; (2) investment advisers registered under Federal or State law; (3) persons who provide recordkeeping or brokerage services to a participant-directed individual account plan in connection with designated investment alternatives (e.g., a “platform provider”); or (4) providers of one or more of the following services to the plan who received compensation from parties other than from the plan or plan sponsor in connection with such services: accounting, auditing, actuarial, banking, consulting, custodial, insurance, investment advisory, legal, recordkeeping, securities or other investment brokerage, third party administration, or valuation services.

[Deleted—Current Line 1 “Information on Persons Receiving Only Eligible Indirect Compensation”]

Part I Service Provider Information

1 [Current Line 2, except as indicated] Information on Service Providers Receiving Compensation in Connection with Services Rendered to the Plan or Their Position with the Plan.

1a [Current Line 2a, but adds requirement to give contact information for service providers that are natural persons] Enter name, EIN and address for the service provider. For a self-employed individual that does not have an EIN, you may enter “None” instead of an EIN. If the service provider identified is not an individual, in addition to the name, EIN and address of the entity, provide the name of and address for an individual or office that the plan would contact for information about the service arrangement. (See instructions.)

(1) Name of Service Provider

(2) EIN

(3) LEI (if available)

(4) Address

(5) Name of Contact

(6) Address of Contact

1b [Current Line 2c, except refers to relationship to plan rather than employer, plan sponsor or person known to be party-in-interest, and enumerates types of parties-in-interest instead of having all but the employer or employee organization to be reported as “other” person known to be a party-in-interest] Indicate whether the person identified in Line 1a has one of the following relationships to the plan. Check “not applicable” if the service provider does not have one of the listed relationships:

(1) ☐ Employer

(2) ☐ Plan Sponsor

(3) ☐ Named fiduciary

(4) ☐ Plan Sponsor Employee

(5) ☐ Plan Employee

(6) ☐ Employee Organization

(7) ☐ Other party-in-interest (describe)

(8) ☐ Not applicable

1c [Current Line 2b (“Service codes” only)] Check the appropriate box(es) to identify all services provided by the person identified in Line 1a:

(1) ☐ Plan Administrator

(2) ☐ Contract Administrator/third party administrator

(3) ☐ Trustee (discretionary)

(4) ☐ Trustee (directed)

(5) ☐ Investment management

(6) ☐ Recordkeeping and information management (computing, tabulating, data processing, etc.)

(7) ☐ Claims Processing

(8) ☐ Custodial (securities)

(9) ☐ Custodial (other than securities)

(10) ☐ Insurance agents and brokers

(11) ☐ Insurance services

(12) ☐ Real estate brokerage

(13) ☐ Securities brokerage

(14) ☐ Investment advisory (participants)

(15) ☐ Investment advisory (plan)

(16) ☐ Consulting (other than investment advice/management) (Enter description)

(17) ☐ Valuation (appraisals, etc.)

(18) ☐ Accounting (including auditing)

(19) ☐ Actuarial

(20) ☐ Form 5500 Annual Return/Report preparation

(21) ☐ Legal

(22) ☐ Participant loan processing

(23) ☐ Participant communication

(24) ☐ Information technology/computer support

(25) ☐ Copying and duplicating

(26) ☐ Other services (Describe)

1d [New] Check here ☐ if the person identified on Line 1a was a fiduciary within the meaning of section 3(21) of ERISA at any time during the plan year.

1e [New] Was the person identified in Line 1a also identified on Schedule A filed for this plan year as having received insurance fees and commissions?

☐ Yes ☐ No

1f [New] Did the service provider arrangement include use of an ERISA recapture, ERISA budget, or similar account during the plan year?

☐ Yes ☐ No

1g(1) [New] Did the service provider arrangement include recordkeeping services to a pension plan without explicit compensation for some or all of such recordkeeping services or with compensation for such recordkeeping offset or rebated in whole or in part based on other compensation received by the service provider, or an affiliate or subcontractor? Only pension plans answer line 1g(1) and 1g(2).

☐ Yes ☐ No

1g(2) [New] If you answered “Yes” to line 1g(1), using the same methodology used in the service provider's estimate of the cost to the plan of recordkeeping services, enter as a dollar figure the amount of compensation the service provider received for recordkeeping services.

2 [Current Line 2d] Direct Compensation Paid by or Charged to Plan. Enter the total amount of direct payments by the plan to the person identified in Line 1a. If none, enter “-0-”.

3 [Current Line 2(g) and Line 3 revised] Indirect compensation received by covered service providers from sources other than the plan or plan sponsor, including charges against plan investments.

[Current Lines 2f and 2h eliminated]

3a [Current Line 2(g) as revised because “eligible indirect compensation” concept eliminated] Total amount of compensation received by the covered service provider identified in Line 1a in connection with services provided to the plan from sources other than the plan or plan sponsor, including charges against plan investments. Include compensation received by an affiliate or subcontractor in connection with the services rendered to the plan. Do not include here related party compensation paid among the person, affiliate or subcontractor reported on Line 4. (See instructions)

3b [Current Line 3] For compensation reported on Line 3a, identify each source from whom the person identified in Line 1a received compensation. (See instructions). Complete as many entries as needed to report the required information for each source.

(1) Enter name

(2) EIN

(3) LEI (if available)

(4) Enter as a dollar figure the amount or estimate of compensation received from the source identified in Line 3b(1).

(5) Check the appropriate box(es) to identify all type(s) of fees/compensation received by the provider identified in Line 1a from the source identified in Line 3b(1).

(A) ☐ Investment management fees

(B) ☐ Sales loads (front end and deferred)

(C) ☐ Account maintenance fees

(D) ☐ “Soft dollars” commissions

(E) ☐ Securities brokerage commissions and fees

(F) ☐ Shareholder servicing fees

(G) ☐ Sub-transfer agency (subaccounting) fees

(H) ☐ Finders' fees/placement fees

(I) ☐ Distribution (12b-1) fees

(J) ☐ Insurance brokerage commissions and fees

(K) ☐ Insurance mortality and expense charges

(L) ☐ Insurance wrap fees

(M) ☐ Termination fees (surrender charges, etc.)

(N) ☐ Float revenue

(O) ☐ Non-monetary compensation (Enter description)

(P) ☐ Commissions other than securities and insurance (e.g., real estate commissions)

(Q) ☐ Recordkeeping fees

(R) ☐ Other fees/compensation (Enter description)

(6) If the amount of compensation reported in Line 3b(4) was an estimate based on a formula, check here ☐ and enter a description of the formula used to determine the service provider's eligibility for or the amount of the compensation.

4a [New] Did the service arrangement involve any related party compensation? (See instructions). If the answer to Line 4a is “Yes,” complete Line 4b(1)-(4)

4b(1) Describe the services for which the compensation was paid

(2) Enter names of

(A) the payor and

(B) the recipient of the compensation

(3) Identify status as an ☐ affiliate or ☐ subcontractor

(4) Enter the amount of the compensation

Part II Service Providers Who Fail or Refuse to Provide Information [Current Part II; because a separate Schedule C would be provided for each service provider, no need to provide the name and EIN of the service provider who failed or refused to provide information; current Lines 4a and 4b eliminated]

5a [Current Line 4] Check this box if the service provider failed or refused to provide the information necessary to complete this Schedule.

5b [Current Line 4c] Describe the information that the service provider failed or refused to provide.

Schedule D

[Current header and identifying information] For calendar plan year 20XX or fiscal plan year beginning DD/MM/20XX and ending DD/MM/20XX+1

A Name of plan

B Three-digit plan number (PN)

C Plan or DFE sponsor's name as shown on Line 2a of Form 5500:

D Employer Identification Number (EIN)

[Current Part I eliminated]

[Current Part II, with added items for dollar value of investing plan/DFE interest as of end of reporting DFE year and check box whether DFE had investors other than plans covered by Title I of ERISA that file the Form 5500 Annual Return/Report].

1 Information on Participating Plans (to be completed by DFEs) Complete as many entries as needed to report all participating plans.

1a Plan name (as shown on Line 1a of the plan's most recent Form 5500/Form 5500-SF):

1b Name of plan sponsor (as shown on line 2a of the plan's most recent Form 5500/Form 5500-SF):

1c(1) EIN of sponsor of investing plan (as shown on Line 2b of the plan's most recent Form 5500/Form 5500-SF)

1(c)(2) PN of investing plan (as shown on Line 1b of the plan's most recent Form 5500/Form 5500-SF)

1d [New] Dollar value of investing plan/DFE interest at end of reporting DFE year:

1e [New] If the DFE had investors other than plans that are required to file the Form 5500 or Form 5500-SF (see instructions), check here ☐.

Schedule E (ESOP Annual Information)

Heading [Change from 2008 to list DOL and IRS/Treasury instead of just Treasury/IRS]

[Change from 2008 to add Title I Authority to Code Authority]—This schedule is required to be filed under section 104 of the Employee Retirement Income Security Act of 1974 (ERISA) and sections 6058(a) and 6047(e) of the Internal Revenue Code (the Code).

[Change from 2008, which specified Schedule E NOT Open to Public Inspection] Disclosure: This Form is Open to Public Inspection.

[2008 Basic Identifying Information] For calendar plan year 20XX or fiscal plan year beginning DD/MM/20XX and ending DD/MM/20XX+1

A Name of plan:

B Plan number

C Plan sponsor's name as shown on Line 2a of Form 5500

D EIN

Part I Employer Stock Acquired with a Securities Acquisition Loan [New]—Complete this Part only if the ESOP had an outstanding securities acquisition loan within the meaning of Code section 4975(d)(3) and ERISA section 408(b)(3) during the plan year.

Common Stock

1a [New] Enter the number of common shares of employer stock held in the ESOP at the end of the plan year.

1b [New] Enter percent of issued and outstanding common stock held in the ESOP at the end of the plan year.

1c [Current Schedule R, Line 12] Are the shares readily tradable on an established securities market? ☐ Yes ☐ No

1d [New] Enter number of allocated common shares at the end of the plan year.

1e [New] Enter number of unallocated common shares at the end of the plan year.

1f [2008 Schedule E, Line 5] If common stock was released from a loan suspense account, indicate the methods used:

☐ Principal and interest

☐ Principal only

☐ Other (Describe method):

Preferred Stock

1g [2008 Schedule E, Line 4] Did the ESOP hold preferred stock at the end of the plan year?

☐ Yes ☐ No

1h [New breakout] If convertible based on a ratio, enter ratio.

1i [New breakout] If convertible by some other method, describe the method of conversion.

Part II [New breakout] Employer Stock Acquired Complete this Part only if the ESOP acquired during the plan year employer securities not readily tradable on an established securities market. Complete as many entries as necessary to report each separate transaction.

2a [New] Enter seller's relationship to plan, employer, or other party-in-interest (if no relationship, enter “unrelated third party”)

2b [New] Is seller a party-in-interest? ☐ Yes ☐ No

2c [New] Enter total consideration paid for stock

2d [New] Enter date of transaction

2e [New] Check the applicable box and enter the identifying information if an independent fiduciary, trustee, or investment manager approved the transaction

☐ Trustee

☐ Investment Manager

☐ Independent fiduciary

Name

Street Address

City

State

Zip Code

EIN

2f [New] Identify the independent appraiser that valued the employer securities. (If an independent appraiser did not value the employer securities, enter “None.” CAUTION: See Code section 401(a)(28)(C) if you enter “None.”)

Name

Street Address

City

State

Zip Code

EIN

2g [New] What valuation approach was used to value the stock acquired? (Check all that apply.)

☐ Asset

☐ Income

☐ Market

☐ Book Value

☐ Other (Enter description):

Part III Securities Acquisition Loans [2008 Schedule E, Line 2a, with new breakouts as indicated]—Complete this Part only if the ESOP had outstanding securities acquisition loans within the meaning of Code section 4975(d)(3) and ERISA section 408(b)(3) during the plan year. Complete as many entries as necessary to report all outstanding loans.

3a [New breakout] Lender's relationship to plan, employer, or other party-in-interest (if no relationship, enter “unrelated third party”)

3b [New breakout] ☐ Check box if lender is a party-in-interest?

3c [New breakout] Is the loan guaranteed by a party-in-interest?

☐ Yes ☐ No

3d [New breakout] Enter original amount of loan

3e [2008 Schedule E, Line 9a] Enter date of loan

3f [New breakout] Enter interest rate (if variable enter terms)

3g [New breakout] Is the loan in default?

☐ Yes ☐ No If “Yes,” enter the amount overdue.

3h [New breakout] (1) Was the loan refinanced or amended during the plan year?

☐ Yes ☐ No

If “Yes,” complete Line 3h(2) and (3)

(2) Enter date of amendment or refinancing.

(3) Enter the outstanding balance at date of refinancing or amendment

Part IV Other General Information

4a [New] Were employee elective deferrals used to satisfy any securities acquisition loan?

☐ Yes ☐ No

4b [2008 Schedule E, Lines 1a and 1b] If the ESOP is maintained by an S corporation, are there any disqualified persons as described in Code section 409(p)(4)?

☐ Yes ☐ No

4c [2008 Schedule E, Line 6] Were unallocated securities or proceeds from the sale of unallocated securities used to repay any exempt loan (within the meaning of Code section 4975(d)(3) and ERISA section 408(b)(3))?

☐ Yes ☐ No

If “Yes,” attach a description of the transaction.

4d [2008 Schedule E, Line 2b] Did the employer maintaining the ESOP pay dividends (deductible under Code section 404(k)) on the employer's stock held by the ESOP during the employer's tax year in which the plan year ends?

☐ Yes ☐ No

If “Yes,” answer (d)(1)-(3).

(1) What was the amount of the deduction taken?

(2) What was the dividend rate?

(3) Did the employer make payments in redemption of stock held by an ESOP to ESOP participants and deduct them under Code section 404(k)(1)?

☐ Yes ☐ No

Schedule G—Financial Transactions

[Current header and identifying information] For calendar plan year 20XX or fiscal plan year beginning DD/MM/20XX and ending DD/MM/20XX+1

[Identification information same as current Schedule G]

A Name of plan

B Three-digit plan number (PN)

C Plan sponsor's name as shown on Line 2a of Form 5500

D Employer Identification Number (EIN)

Part I. [Current Part I] Schedule of Loans or Fixed Income Obligations in Default or Classified as Uncollectible

1 [Current Line 1] Schedule of Loans in Default or Classified as Uncollectible. Complete as many entries as needed to report all loans in default or classified as uncollectible. (See Instructions.)

1a [Current Part I(b)] Identity and address of obligor

Name

Street Address

City

State

Zip Code

1b [New Breakout] Relationship to plan. (Check all boxes that apply.) Obligor is a:

☐ [New breakout] participant

☐ [Current Part I(a)] party-in-interest (e.g. employer, employee organization, employee of the plan, or other party-in-interest)

Enter description of the relationship (If no relationship exists, enter “unrelated third party”)

1c [Part of Current Part I(c)] Check to indicate whether the loan is:

☐ in default

☐ uncollectible

1d [Current Part I(d)] Enter original amount of loan

1e [Part of Current Part I(c)] Enter original interest rate. If variable, describe terms.

1f [Part of Current Part I(c)] Date of loan origination

1g [Part of Current Part I(c)] Maturity date

1h (1) [Part of Current Part I(c)] Was the loan secured by collateral? ☐ Yes ☐ No If “Yes,” complete elements (2) and (3).

(2) [New breakout] Was the security interest perfected? ☐ Yes ☐ No

(3) [Part of Current Part I(c)] Enter a description of collateral and value of collateral:

Collateral type

Collateral value

1i [Part of Current Part I(c)] Scheduled payment frequency (e.g., monthly, annually). Enter description

1j [Current Part I(e) and (f)] Amount received during reporting year:

Principal

Interest

1k [Current Part I(h) and (i)] Amount overdue:

Principal

Interest

1l [Current instructions require an attachment with this information]. Enter a description of what steps the plan administrator has taken or will be taking to collect overdue amounts for each loan listed.

2 Schedule of Fixed Income Obligations in Default or Classified as Uncollectible. [Breaks out fixed income obligations from loans; current Schedule G has filers completing same elements for both loans and fixed income obligations.] Complete as many entries as needed to report all fixed income obligations in default or classified as uncollectible. (See Instructions.)

2a [Current Part I(b)] Identity and address of obligor

Name

Street Address

City

State

Zip Code

2b [Current Part I(a)] Check ☐ if party-in-interest (e.g. employer, employee organization, employee of the plan, or other party-in-interest) was involved in the transaction.

[New breakout] Enter description of the relationship. If no relationship exists, enter “unrelated third party.”

2c [Part of current Part I(c)] Check to indicate whether the fixed income obligation is:

☐ in default

☐ uncollectible

2d [New breakout; part of description in current Part I(c)] Check applicable boxes to indicate the nature of the fixed income obligation:

☐ Bond

☐ Option

☐ Swap

☐ Future contract

☐ Forward contract

☐ Other (Enter description)

2e [Part of current Part I(c)] Date of issuance

2f [Part of current Part I(c)] Maturity date

2g [Part of current Part I(c)] Enter coupon yield or interest rate

2h [Current Part I(e)] Principal amount of fixed income obligation

2i [Current Part I(h) and (i)] Amount overdue:

Principal

Interest

2j [Current instructions require an attachment with this information] Enter a description of what steps the plan administrator has taken or will be taking to collect overdue amounts for each fixed income obligation listed.

Part II Schedule of Leases in Default or Classified as Uncollectible. Complete as many repeating entries as needed to report all leases in default or classified as uncollectible. (See instructions.)

3a [Current Part II(b)] Identity and address of lessor/lessee:

Name

Street Address

City

State

Zip Code

3b [Current Part II(a) and (c)] Relationship to plan, employer, employee organization, or other party-in-interest (if no relationship, enter “unrelated third party”). Check to indicate whether lessor/lessee is ☐ party-in-interest and enter description of relationship (including whether plan is lessor or lessee):

3c [Part of current Part II] Overdue Lease Explanation. Check to indicate whether the lease is in ☐ default ☐ uncollectible.

3d [Part of current Part II(d)] Enter the address of the leased property:

Street Address

City

State

Zip Code

3e [Part of current Part II(d)] Enter date of lease origination

3f [Current Part II(e)] Original cost of leased property

3g [Current Part II(f)] Current value of leased property at time of lease

3h [Current Part II(g)] Gross rental receipts during the plan year

3i [Current Part II(h)] Expenses paid during the plan year

3j [Current Part II(i)] Net receipts

3k [Part of current Part II(d)] Scheduled payment frequency (e.g., monthly, annually)

3l [Part of current Part II(d)] Lease expiration date

3m [Current Part II(j)] Amount in arrears

3n [Current instructions require an attachment with this information]. Enter an explanation of what steps the plan administrator has taken or will be taking to collect overdue amounts for each lease listed.

Part III Nonexempt Transactions. Complete as many entries as needed to report all nonexempt transactions.

CAUTION: If a nonexempt prohibited transaction occurred with respect to a disqualified person, the disqualified person should generally file a Form 5330 with the IRS to pay the excise tax on the transaction.

Line 4 [Current Part III(a)]

4a Name and address of party-in-interest (or parties in interest, if multiple) involved in the nonexempt prohibited transaction:

Name

Street Address

City

State

Zip Code:

4b [Current Part III(b)] Relationship to plan, employer, employee organization, plan sponsor, fiduciary, or other party-in-interest

4c [Revision of Current Part III(c), but current requirement to provide a description of transaction replaced with checkboxes; written description only required for “other”] Type of nonexempt transaction (Check all that apply):

☐ Sale of any property to/from the plan

☐ Exchange of any property

☐ Lease of any property to/from the plan

☐ Lending of money to/from the plan

☐ Other extension of credit to/from the plan

☐ Furnishing of goods to/from the plan

☐ Furnishing of services to/by the plan

☐ Furnishing of facilities to/by the plan

☐ Other transfer to a party-in-interest, of any income or assets of the plan

☐ Other use by or for the benefit of a party-in-interest, of any income or assets of the plan

☐ Acquisition, on behalf of the plan, of any employer security or employer real property in violation of ERISA 407(a)

☐ Acting in a fiduciary's individual or any other capacity in any transaction involving the plan on behalf of a party (or represent a party) whose interests are adverse to the interests of the plan or the interests of its participants and beneficiaries

☐ A receipt of any consideration for his or her personal account by a party-in-interest who is a fiduciary from any party dealing with the plan in connection with a transaction involving the income or assets of the plan

☐ Other (enter description)

4d [New] Check the appropriate box (see instructions) to describe nature of transaction:

☐ Discrete

☐ Ongoing

4e [Part of current Part III (c)] Date of the transaction or, if ongoing, date of first instance

4f [Part of current Part III (c)] Amount involved in nonexempt transaction

4g [Current Part III (j)] Net gain (or loss) on the transaction

4h [New] Has the transaction been fully corrected (see instructions)? ☐ Yes ☐ No

If “Yes”, check the correct box below and complete (i) and (j):

☐ Transaction corrected outside VFCP

☐ Transaction corrected through the VFCP

☐ Transaction pending correction through VFCP

4i [New] If the transaction was fully corrected, enter the date the transaction was fully corrected: MM/DD/20YY

4j [New] If the nonexempt transaction was corrected enter a description of the corrective action (i.e. reversal, disgorgement, loan repaid, payment to plan, etc.)

4k [New] If the nonexempt transaction occurred with respect to a disqualified person, and the person was notified, was a Form 5330 filed with the IRS?

☐ Yes

☐ No

☐ Unknown

☐ Not required-VFCP

☐ Disqualified person was not notified

Schedule H—Financial Information

[Current header and identifying information] For calendar plan year 20XX or fiscal plan year beginning DD/MM/20XX and ending DD/MM/20XX+1

A Name of Plan

B Three-digit plan number (PN)

C Plan sponsor's name as shown on line 2a of Form 5500

D Employer Identification Number of plan sponsor (EIN)

Part I Asset and Liability Statement

1. [Current Line 1, except reference to “MTIA” changed to “Master Trust;” changes to individual data elements as indicated] Current value of plan assets and liabilities at the beginning and end of the plan year. Combine the value of plan assets held in more than one trust. Report the value of the plan's interest in a commingled fund containing the assets of more than one plan on a line-by-line basis unless the value is reportable on Lines 1b(5)-1b(8). Do not enter the value of that portion of an insurance contract which guarantees, during this plan year, to pay a specific dollar benefit at a future date. Round off amounts to the nearest dollar. Master trusts, CCTs, PSAs, and 103-12 IEs do not complete Lines 1a(1), (2) and (3), 1g, 1h, and 1i. CCTs, PSAs, and 103-12 IEs also do not complete Lines 1(c)(1) and (2) and 1d. (See instructions.)

Assets [Columns for (a) Beginning of Year (BOY) and (b) End of Year (EOY) Values]

[Current Line 1a Moved to Line 1b(1)]

1a [Current 1b] Receivables (less allowance for doubtful accounts):

(1) [Current 1b(1)] Employer contributions

(2) [Current 1b(2)] Participant contributions

(3) [Current 1c(8)] Notes receivable from participants (participant loans)

(4) [Current 1b(3)] Other

1b [Current 1c; with changes as indicated] General investments—

(1) [Current 1a] Total noninterest-bearing cash

(2) [Current 1c(1) with new breakouts])

(A) Interest-bearing cash

(B) Certificates of deposit

(C) Money market accounts

(3) [New breakouts] Debt interests/obligations (other than employer securities, participant loans, and foreign investments)

(A) [Current 1c(2)] U.S. Government securities

(B) [New] Other government securities

(C) [Current 1c(3) Corporate debt instruments (other than employer securities)

(i) Investment grade

(ii) High-yield debt

(D) [New] Exchange Traded Notes

(E) [New] Asset backed securities (other than real estate)

(F) [New and Partial Current 1c(7)] Other debt interests

(4) [Current 1c(4)] Corporate stocks (other than employer securities and foreign investments):

(A) [New breakout] Publicly traded

(i) Preferred

(ii) Common

(B) [New breakout] Non-publicly traded

(i) Preferred

(ii) Common

(5) [Current 1c(13)] Registered investment companies (Mutual funds, Unit Investment Trusts, Closed End Funds)

(6) [New breakout] Eligible Pooled Investment Vehicles (other than registered investment companies)

(A) [Current 1c(10] Total value of interest in pooled separate accounts (PSA)

(B) [Current 1c(9)] Total value of interest in common collective trusts (CCT)

(C) [Current 1c(12)] Value of interest in 103-12 investment entities (103-12 IEs) (See instructions)

(D) [Current 1c(11)] Total value of interest in master trusts

(7) [Current 1c(14)] Value of interest in funds held in insurance general account (unallocated contracts)

(A) [New breakout] Deposit administration

(B) [New breakout] Immediate participation guarantee

(C) [New breakout] Guaranteed investment contracts

(D) [New breakout] Other unallocated insurance contracts (Describe)

(8)(A) [Current 1c(5)] Partnership/joint venture interests

(i) [New breakout] Value of interest in limited partnerships

(ii) [New breakout] Value of interest in venture capital operating companies (VCOC)

(iii) [New breakout] Private equity

(iv) [New breakout] Hedge funds

(v) [New breakout] Other partnership/joint venture interests (Describe)

(B) [New sub-part question not part of sum on balance sheet]

(i) Total partnership/joint venture interests that do not hold plan assets under the DOL's plan asset regulation at 29 CFR 2510.3-101.

(ii) Total partnership/joint venture interests that hold plan assets under the DOL's plan asset regulation at 29 CFR 2510.3-101.

(9) [Current 1c(6)] Real Estate Investments (other than employer real property and foreign investments)

(A) [New breakout] Developed real property (other than employer real property)

(B) [New breakout] Undeveloped real property (other than employer real property)

(C) [New breakout] Publicly Traded Real Estate Investment Trusts (REITs)

(D) [New breakout] Non-Publicly Traded Real Estate Investment Trusts (REITs)

(E) [New breakout] Mortgage-Backed Securities (Including Collateralized Mortgage Obligations)

(F) [New breakout] Real Estate Operating Company (REOC)

(G) [New breakout] Other real estate related investments (Describe)

(10) [New breakout] Commodities (direct investments)

(A) [New breakout] Precious metals

(B) [New breakout] Other (Describe)

(11) [New breakout] Derivatives

(A) [New breakout] Futures

(B) [New breakout] Forwards

(C) [New breakout] Options

(D) [New breakout] Swaps

(E) [New breakout] Other (Describe, e.g., collateralized debt obligations other than real estate)

(12) [Current 3g on Schedule I] Tangible Personal Property (including collectibles)

(13) [New breakout] Foreign investments (Other than those held through registered investment companies or eligible pooled investment vehicles)

(A) Equities

(B) Debt interests

(C) Real estate

(D) Currency

(E) Other (Describe)

(14) [New breakout] Value of assets held in participant-directed brokerage accounts (See instructions)

(A) Tangible personal property

(B) Loans

(C) Partnership or joint venture interests

(D) Real property

(E) Employer securities

(F) Investments that could result in a loss in excess of the account balance of the participant or beneficiary who directed the transaction, including derivatives

(G) Other (including cash/cash equivalents, registered investment companies, corporate equities, corporate debt instruments)

1c [Current 1d except breakout for non-publicly traded stock and debt] Employer-related investments

(1) Employer securities

(A) Publicly traded stock

(B) Non-publicly traded stock

(C) Publicly traded debt instruments

(D) Non-publicly traded debt

(2) Employer real property

1d [Current 1e] Buildings and other property used in plan operation

1e [Current 1c(15)] Other ([New] Describe)

1f [Current 1f] Total assets (Add Lines 1a through 1e.)

Liabilities [Columns for (a) BOY (b) EOY Values]

1g [Current 1g] Benefit claims payable

1h [Current 1h] Operating payables

1i [Current 1i] Acquisition indebtedness

1j [Current 1j] Other liabilities

1j(1) [New] Enter description

1k [Current 1k] Total liabilities (add all amounts in Lines 1g through 1j)

Net Assets

1l [Current] Net assets (subtract Line 1k from Line 1f)

Part II Income and Expense Statement

2 [Current 2] Plan income, expenses, and changes in net assets for the year. Include all income and expenses of the plan, including any trust(s) or separately maintained fund(s) and any payments/receipts to/from insurance carriers. Round off amounts to the nearest dollar. Master trusts, CCTs, PSAs, and 103-12 IEs do not complete Lines 2a, 2b, 2e, 2f, and 2g.

2a [Current 2a] Contributions—

(1) Received or receivable in cash from:

(A) Employers

(B) Participants

(C) Others (including rollovers from IRAs/other plans)

(2) Noncash contributions

(3) Total contributions. Add Lines 2a(1)(A), (B), (C), and Line 2a(2).

2b [Current 2b(1)(E) with new breakouts] Interest on notes receivable from participants (participant loans)

(1) Received in cash

(2) Receivable in cash

(3) Total. Add Lines 2b(1) and 2b(2).

2c [Current 2b with new breakouts] Earnings on investments. Provide the total of all earnings by asset type including interest, dividends, gain (loss) on sale of property, unrealized appreciation (depreciation), net investment gain (loss), as appropriate for asset type. Report on Lines 2c(1)(A) and 2(c)(2)(A), respectively, interest and dividends on debt and equity instruments held directly by the plan.

(1) Interest on debt instruments/obligations

(A) Interest bearing cash (including money market and certificates of deposit)

(B) U.S. government securities

(C) Other government securities

(D) Corporate debt instruments

(E) Loans (other than to participants)

(F) Other

(G) Total interest. Add Line 2c(1)(A) through (F)

(2) Dividends (other than employer securities)

(A) Preferred stock

(B) Common stock

(C) Registered investment company shares (e.g., mutual funds)

(D) Total dividends. Add Line 2c(2)(A) through (C).

(3) Rents

(4) Net gain (loss) on sale of assets

(A) Aggregate proceeds

(B) Aggregate carrying amount (see instructions)

(C) Subtract Line 2c(4)(B) from Line 2c(4)(A) and enter result

(5) Unrealized appreciation (depreciation) of assets

(A) Real estate

(B) Partnership/joint venture interests that do not hold plan assets

(C) Commodities (direct investments)

(D) Derivatives

(E) Employer securities

(F) Foreign investments (other than those held through U.S. registered investment funds)

(G) Employer real property

(H) Other (Describe)

(6) Pooled Investment Vehicles

(A) Net investment gain (loss) from common/collective trusts

(B) Net investment gain (loss) from pooled separate accounts

(C) Net investment gain (loss) from master trusts

(D) Net investment gain (loss) from 103-12 investment entities

(E) Net investment gain (loss) from registered investment companies (e.g., mutual funds)

2d [Current 2d] Total income. Add all income amounts in column (b).

Expenses—[Current]

2e [Current 2e] Benefit payment and payments to provide benefits:

(1) Directly to participants or beneficiaries

(A) [New breakout from current 2d(1)] Direct rollovers

(B) [New] Hardship distributions made from a section 401(k) plan

(C) [Current 2016 Line 4o] Distributions to employees who have attained age 62 and who were not separated from service when the distributions were made for a defined benefit plan or a money purchase pension plan

(D) [Current 2e(1) except rollovers no longer reported in other] Other

(2) [Current] To insurance carriers for the provision of benefits

(3) [Current] Other

(4) [Current] Total benefit payments. Add Lines 2e(1) through (3).

2f [Current] Corrective distributions (See instructions.)

2g [Current] Certain deemed distributions of participant loans (See instructions.)

2h [Current] Interest expense

2i [Current 2i with new breakouts as indicated] Administrative expenses:

(1) [New Breakout (1998 Line 32g(1)] Salaries and allowances

(2) [Current 2i(2)] Contract administrator fees

(3) [Current 2i(3)] Investment advisory and management fees

(4) [New Breakout] IQPA Audit fees

(5) [New based on 1998 Line 32g(2)] Recordkeeping and other accounting fees

(6) [New Breakout] Bank or Trust Company Trustee/Custodial Fees

(7) [New Breakout (1998 Line 32g(3))] Actuarial fees

(8) [New Breakout (1998 Line 32g(6))] Legal fees

(9) [New Breakout (1998 Line 32g(7))] Valuation/appraisal fees

(10) [New Breakout (1998 Line 32g(8))] Trustee fees/expenses (including travel, seminars, meetings, etc.)

(11) [Current 2i(4)] Other

(12) [12(C) is Current 2i(5); (A) and (B) are new breakouts] Total administrative expenses

(A) Total paid by the plan, except charges directly against participant accounts

(B) Total payments charged directly against participant accounts

(i) Transaction-based charges to individual participant accounts

(ii) Plan level expenses apportioned among participant accounts

(iii) Indicate how apportioned:

☐ per capita

☐ pro rata by account balance

☐ other (describe):

(C) Total. (The amount shown in (C) should be the total of elements (A) and (B). Element (C) should also be the same as the total of Lines 2i(1) through (11).)

2j [Current 2j] Total expenses. Add all expense amounts in column (b) (EOY) and enter total.

Net Income and Reconciliation

2k [Current] Net income (loss). Subtract Line 2j from Line 2d.

2l [Current] Transfers of assets—

(1) [Current 2l(1)] Transfers to this plan. Total at EOY

(2) [Current 2l(2)] Transfers from this plan. Total at EOY

Part III Accountant's Opinion.

Subject to certain exceptions, the administrator of an employee benefit plan who files a Schedule H must engage an Independent Qualified Public Accountant (IQPA) pursuant to ERISA section 103(a)(3)(A) and 29 CFR 2520.103-1(b). This requirement also applies to a Form 5500 Annual Return/Report filed for a 103-12 IE and for a GIA (see 29 CFR 2520.103-12 and 29 CFR 2520.103-2). The IQPA's report must be attached to the Form 5500 Annual Return/Report when a Schedule H is attached unless you check Line 3h(1), (2), (3), or (4) on the Schedule H. An IQPA Report generally consists of an Accountant's Opinion, Financial Statements, Notes to the Financial Statements, and Supplemental Schedules.

3 [Current] Complete Lines 3a through 3g if the opinion of an IQPA is attached to this Form 5500 Annual Return/Report. Complete Line 3h if an opinion is not attached.

3a [Current] The attached opinion of an IQPA for this plan is (see instructions):

(1) ☐ Unqualified

(2) ☐ Qualified

(3) ☐ Disclaimer

(4) ☐ Adverse

3b [Current question; new requirement to attach certification(s)] Did the IQPA perform a limited scope audit pursuant to 29 CFR 2520.103-8 and/or 103-12(d)?

☐ Yes ☐ No

If “Yes” you must attach a copy of the certification(s). (Although you must attach a copy of the certification(s), you do not need to include any attachments to the certification itemizing the assets to which the certification(s) apply.)

3c [Current] Enter the name and EIN of the IQPA (or accounting firm) below:

(1) Name

(2) EIN

(3) Name of audit engagement partner

3d [New] Identify the state in which the opinion was issued

3e [New] Did you review and discuss the IQPA report with the accountant?

☐ Yes ☐ No

3f [New] Did the accountant advise you whether the IQPA report, including the financial statements and/or notes required to be attached to this return/report or the IQPA's communications with those charged with governance (SAS 114 and 115), disclosed any of the following (check all that apply):

(1) ☐ Errors or irregularities

(2) ☐ Illegal acts

(3) ☐ Material internal control weaknesses

(4) ☐ A loss contingency indicating that assets are impaired or a liability incurred

(5) ☐ That the plan sponsor may not be a going concern

(6) ☐ The existence of plan qualification issues pursuant to the Internal Revenue Code

(7) ☐ Any unusual or infrequent events or transactions occurring subsequent to the plan year end that might significantly affect the usefulness of the financial statements in assessing the plan's present or future ability to pay benefits (explain)

3g [New] Did your IQPA have a peer review performed in accordance with their state's requirements?

☐ Yes ☐ No

If “Yes,” complete elements (1) through (5).

(1) Name of peer reviewer

(2) Year of their last peer review

(3) Rating received in their last peer review report

(4) Number of years that the peer reviewer has been the firm's peer reviewer

(5) Whether the peer review covered employee benefit plans

3h [Current 3d] The opinion of an IQPA is not attached because (check appropriate box):

(1) ☐ This form is filed for a CCT, PSA, or master trust.

(2) ☐ Pursuant to 29 CFR 2520.104-50, the IQPA report will be attached to the next Form 5500 Annual Return/Report.

(3) ☐ The IQPA report was not completed in time. If you check this box, you must explain the reason for the failure to comply with the IQPA requirement in a timely fashion and indicate date by which an amended filing will be made with an IQPA report.

(4) [Current 4k on Schedule I] ☐ The plan is a small plan and is eligible to claim a small plan audit waiver of the annual examination and report of an IQPA under the conditions set forth in 29 CFR 2520.104-46. (See instructions). In addition to meeting other conditions in 29 CFR 2520.104-46, in order to be a small plan for this purpose, the plan must have fewer than 100 participants as of the beginning of the plan year as reported on Form 5500 or be eligible to claim small plan status under 29 CFR 103-1(d) and had 120 or fewer participants as of the beginning of the plan year. Defined benefit pension plans and welfare plans use the number reported on Form 5500, Line 6 for this measure. Defined contribution pension plans use the number reported on Form 5500, Line 7g(1). (See instructions.)

Part IV Compliance Questions

Employee benefit plans must complete all lines that apply. Employee benefit plans must complete all lines that apply. Small employee benefit plans that were eligible for and claimed the small plan audit waiver by checking Line 3g(4), must complete all elements in Part IV, except such small plans do not need to attach Schedules G or the Line 4j Schedule of Reportable Transactions, even if they answer “Yes” to Lines 4b, 4c, 4d, or 4j. CCTs and PSAs complete only Line 4i(1). Master trusts and 103-12 IEs complete only Lines 4b, 4c, 4d, 4i, 4j, and 4s. GIAs complete only Lines 4b, 4c, 4d, 4i, 4j, and 4k.

During the plan year:

4a [Current; but would require use of specified structured data format to complete and file Line 4a schedule] Was there a failure to transmit to the plan any participant contributions or repayments as of the earliest date on which such contributions can reasonably be segregated from the employer's general assets as described in 29 CFR 2510.3-102?? (See instructions). Continue to answer “Yes” for any prior year failures until fully corrected. (See instructions and DOL's Voluntary Fiduciary Correction Program.) If you answered “Yes,” you must complete the Line 4a schedule to provide details about the failure to transmit, including any corrective action taken.

☐ Yes ☐ No Amount

4b [Current] Were any loans by the plan or fixed income obligations due the plan in default as of the close of the plan year or classified during the year as uncollectible? Disregard participant loans secured by the participant's account balance. If you answered “Yes,” see instructions for requirements to attach Schedule G (Form 5500) Part I. Small plans that were eligible for and claimed the small plan audit waiver under 29 CFR 2520.104-46 do not need to attach Schedule G Part I.

☐ Yes ☐ No Amount

4c [Current] Were any leases to which the plan was a party in default or classified during the year as uncollectible? If you answered “Yes,” see instructions for requirements to attach Schedule G (Form 5500) Part II. Small plans that were eligible for and claimed the small plan audit waiver under 29 CFR 2520.104-46 do not need to attach Schedule G Part II.

☐ Yes ☐ No Amount

4d [Current] Were there any nonexempt prohibited transactions with any party-in-interest? (Do not include transactions reported on Line 4a. If you answered “Yes,” see instructions for requirements to attach Schedule G (Form 5500) Part III. Small plans that were eligible for and claimed the small plan audit waiver under 29 CFR 2520.104-46 do not need to attach Schedule G Part III.

☐ Yes ☐ No Amount

4e [Current Line 4e revised] Was this plan covered by one or more fidelity bonds naming the plan as insured that provide coverage for losses due to fraud or dishonesty by persons who handle plan funds or other property? (See instructions.)

☐ Yes ☐ No Amount

4f [Current] Did the plan have a loss, whether or not reimbursed by the plan's fidelity bond, that was caused by fraud or dishonesty?

☐ Yes ☐ No Amount

4g [Current Line 4g revised] Did the plan hold any assets that either did not have a readily determinable fair value or were not valued by an independent third party appraiser? (See instructions)

☐ Yes ☐ No Amount

4h [Current] Did the plan receive any noncash contributions whose value was neither readily determinable on an established market nor set by an independent third party appraiser?

☐ Yes ☐ No Amount

4i [Current Line 4i; Except would now break out question into 4i(1) and 4i(2) and require use of specified structured data format to complete and file Schedules of Assets]

(1) Did the plan have assets held for investment at the end of the year? If “Yes,” you must complete the Line 4i(1) Schedule of Assets Held for Investment at End of Year.

☐ Yes ☐ No

(2) Did the plan have assets held for investment that were sold or otherwise disposed of during the plan year (see instructions)? If “Yes,” you must complete the Line 4i(2) Schedule of Assets Disposed of During the Plan Year.

☐ Yes ☐ No

4j [Current, but would require use of specified structured data format to complete and file Line 4j Schedule of Reportable Transactions] Were any plan transactions or series of transactions in excess of 5% of the current value of plan assets? If “Yes,” you must complete the Schedule of Reportable Transactions. (See instructions). Small plans that were eligible for and claimed the small plan audit waiver do not need to attach the Line 4j Schedule of Reportable Transactions.

☐ Yes ☐ No

[Part of current Line 4k moved to Form 5500; part moved to Part V of Schedule H]

4k [Current 4l] Has the plan failed to provide any benefit when due under the plan?

☐ Yes ☐ No Amount

4l [Current 4m] If this is an individual account plan, was there a blackout period? (See instructions and 29 CFR 2520.101-3.)

☐ Yes ☐ No Amount

4m [Current 4n] If you answered “Yes” to Line 4l, check the “Yes” box here if you either provided the required notice or one of the exceptions to providing the notice applied under 29 CFR 2520.101-3.

☐ Yes ☐ No

4n [New] Is this a participant-directed individual account plan (e.g., a 401(k)-type or 403(b) defined contribution pension plan), subject to the requirements in 29 CFR 2550.404a5 to disclose plan and investment related information to participants and beneficiaries?

☐ Yes ☐ No

4o [New] If you answered “Yes” to Line 4n, did the plan provide participants and beneficiaries the plan and investment disclosures required under 29 CFR 2550.404a-5?

☐ Yes ☐ No

If you answered “Yes,” you must attach the investment option comparative chart or charts that were used to satisfy the disclosure requirement in 29 CFR 2550.404a-5(d)(2).

4p [New] If you answered “Yes,” to Line 4n, enter the number of designated investment alternatives (DIAs) available under the plan and indicate the number of DIAs that are index funds. Also, check all that apply to indicate the types of DIAs available under the plan:

☐ Domestic Stock/Equity

☐ Bond/income

☐ Balanced/target allocation

☐ Money Market

☐ Target date/Lifecycle

☐ International/Global Stock/Equity

☐ Sector/economy segment

☐ Other funds (Describe)

4q [New] If you answered “Yes,” to Line 4n, did the plan make available to participants and beneficiaries a designated investment manager (DIM)?

☐ Yes ☐ No Enter name of DIM.

4r [New] If you answered “Yes,” to Line 4n, did the plan make available to participants and beneficiaries any brokerage window, self-directed brokerage account or similar plan arrangements that enabled participants to select investments beyond those designated by the plan?

☐ Yes ☐ No

If you answered “Yes” to Line 4r, enter the number of participants that utilized the account or arrangement

4s [New] Did the plan trust incur unrelated business taxable income (UBTI)?

☐ Yes ☐ No ☐ NA

If “Yes,” enter amount,

4t [New] Were all plan assets valued at least annually at fair market value?

☐ Yes ☐ No

4u [New] Did any employer sponsoring the plan pay any of the administrative expenses of the plan that were not reported on Schedule H, Line 2i?

☐ Yes ☐ No

4v [New] Did any person who is disqualified under ERISA Section 411, serve or was permitted to serve the plan in any capacity?

☐ Yes ☐ No

4w [New] Does the plan have investment acquisitions that are leveraged, including assets subject to collateralized lending activities (e.g., securities lending arrangements, repurchase agreements (repos), etc.)?

☐ Yes ☐ No If “Yes,” you must complete Lines 4w(1), (2), and (3).

(1) Check box to indicate type of activity:

☐ securities lending, including repurchase agreements or sell/buy-backs

☐ other, e.g., transactions that subjected plan assets to a mortgage, lien, or other security interest (describe)

(2) (A) amount of cash obligated in connection with collateralized lending activities at end of year

(B) value of securities obligated in connection with collateralized lending activities at end of year

(C) other assets obligated in connection with collateralized lending activities at end of year

(3) approximate ratio of collateralized/leveraged investments to total plan assets at end of year

4x [New] Did the plan sponsor or its affiliates provide any services to the plan in exchange for direct or indirect compensation?

☐ Yes ☐ No

4y [New (based on 1998 Line 8a)] Is the plan's summary plan description (SPD), including any summary descriptions of modifications, in compliance with the content requirements in 29 CFR 2520.102-3? (See instructions.)

☐ Yes ☐ No

4z [New] If this is an individual account plan, were there any checks to participants or beneficiaries that were uncashed as of the end of the plan year? ☐ Yes ☐ No. If “Yes,” complete 4z(1)-(4)

(1) Enter number of uncashed checks

(2) Enter total value of uncashed checks

(3) Describe the procedures followed by the plan to verify a participant's or beneficiary's address before a check was mailed.

(4) Describe the procedures followed by the plan to monitor uncashed checks, including steps to locate “missing” or “lost” participants.

Part V Termination Information on Accountants, Enrolled Actuaries and Other Service Provider

(See Instructions.) (Complete as many entries as needed.)

5 [Current Part III of Schedule C except adds check boxes to element (c)] Has any accountant or actuary been terminated? ☐ Yes ☐ No If “Yes, complete elements (a)-(f).

5a Name

5b EIN

5c [Current element (c), but adds check boxes to distinguish between accountant and actuary] Position and title (See instructions.)

☐ Accountant

☐ Actuary

5d Address

5e Telephone

5f Explanation of reason for termination

6 [New] Have any of the plan's service providers, other than an accountant or actuary who has been identified in Line 5, been terminated for a material failure to meet the terms of a service arrangement or failure to comply with Title I of ERISA, including the failure to provide required disclosures under 29 CFR 2550.408b-2? ☐ Yes ☐ No If “Yes,” complete elements (a)-(e) to identify the service provider.

6a Name

6b EIN

6c Address

6d Telephone

6e Explanation of reason for termination

6f ☐ Check if termination was due to failure to provide required disclosures under 29 CFR 2550.408b-2.

Part VI Plan Termination Information

7a [Revised to ask about any resolution to terminate regardless of when adopted] Has a resolution to terminate the plan been adopted? You must continue to report a pending resolution until the plan terminates and is no longer filing the Form 5500 Annual Return/Report. (See instructions.)?

☐ Yes ☐ No If “Yes,” complete Line 7a(1)-(3) below:

(1) [New] Effective date of plan termination:

(2) [New] Year the plan assets were distributed to plan participants and beneficiaries:

(3) [Current 5a] The amount of plan assets that reverted to the employer this year

7b [Current 5b] Transfer to other plans. Did this plan transfer assets or liabilities to another plan since the (20XX-1) filing?

☐ Yes ☐ No If “Yes,” complete elements (1)-(5) to provide the following information with respect to each plan to which the assets or liabilities were transferred. Complete as many entries as needed to identify all transfers.

(1) [Current 5b(2)] EIN

(2) [Current 5b(3)] PN

(3) [New] Date of transfer:

(4) [Current 5b(1)] Name of Plan (Use name on transferee plan's Form 5500 Annual Return/Report filing.):

(5) [New] Type of transfer:

☐ Merger

☐ Consolidation

☐ Spinoff

☐ Other (Describe)

(6) [Part of current Line 4k] Were all plan assets transferred to another plan? ☐ Yes ☐ No

[Current 5c moved to Form 5500]

7c [New] Transfers from other plans. Did another plan transferred assets or liabilities to this plan since the (20XX-1) filing, or in the case of a first plan filing, transfer assets or liabilities in conjunction with the creation of this new plan?

☐ Yes ☐ No If “Yes,” provide the following information with respect to each plan from which assets or liabilities were transferred:

(1) EIN

(2) PN

(3) Date of transfer

(4) Name of Plan (Use name on transferor Plan's Form 5500 Annual Return/Report filing.):

(5) Type of transfer:

☐ Merger

☐ Consolidation

☐ Spinoff

☐ Other (Describe)

7d [New] Terminated Defined Contribution Pension Plans: Transfers to Financial Institution. Did this plan, as part of the procedures for terminating the plan, transfer plan assets to interest bearing federally insured bank accounts in the name of missing participants? ☐ Yes ☐ No If “Yes,” complete elements (1)-(5). List each financial institution where plan assets were transferred. You must continue reporting this information until the final return/report is filed for the plan.

(1) Financial Institution's Name

(2) Financial Institution's EIN

(3) Date of transfer

(4) Number of accounts established

(5) Total amount transferred

7e [Part of current Line 4k with a new subpart to report the year.] Were all the plan assets distributed to participants or beneficiaries? ☐ Yes ☐ No

Part VI—Trustee Information—[Current Part V but proposed no longer optional starting 2016 See IRS Federal Register Notice “Proposed Collection; Comment Request for the Annual Return/Report of Employee Benefit Plan”]

8 Complete as many entries as needed to identify all trusts holding plan assets. Do not include trusts that are part of pooled investment funds that hold the assets of two or more unrelated plans.

8a [Current] Name of Trust

8b [Current] Trust EIN

8c [New] Name of Trustee/Custodian

(1) [New] Trustee/Custodian Address

(2) [New] Telephone Number

(3) [New—intended to be electronic signature] Date and Signature of Trustee/Custodian:

Trustee Signature for Purposes of the Code

SIGN HERE Signature of plan trustee or custodian:

Enter Date:

Enter name of individual signing as trustee or custodian:

Schedule H Line 4a—Schedule of Delinquent Participant Contributions
(a) Amount remitted late to plan during plan year | (b) Amount due, but unremitted during the plan year | (c) Number of contribution cycles involved (number of payrolls) | (d)(1) Amount corrected in VFCP (2) Amount not corrected under PTE 2002-51 | (e) Amount pending correction in VFCP | (f) Amount corrected outside VFCP | (g) Check here if participant loan repayments are included: ☐ | (h) For any amount reported in Element (d), did you file your IRS Form 5330 and pay applicable excise taxes? ☐ Yes ☐ No | (i)(1) If reporting for a multiemployer plan, amount, if any, determined during the plan year to be uncollectible (2) Explain what steps were taken to collect overdue amounts

Line 4i(1) Schedule of Assets Held for Investment at End of Year (Complete as many entries in each element as needed to identify all assets held for investment at end of year)

(a) Assets Held directly by the plan (including assets held through an participant-directed brokerage window) For each asset which the plan holds for investment purposes that is not a type of assets required to be listed in (b) through (e) below, complete elements (i)-(vii).: (i) Check if issuer, borrower, lessor or similar party is party-in- interest ☐ | (a) Assets Held directly by the plan (including assets held through an participant-directed brokerage window) For each asset which the plan holds for investment purposes that is not a type of assets required to be listed in (b) through (e) below, complete elements (i)-(vii).: (ii) Name of issuer, borrower, lessor, or similar party | (a) Assets Held directly by the plan (including assets held through an participant-directed brokerage window) For each asset which the plan holds for investment purposes that is not a type of assets required to be listed in (b) through (e) below, complete elements (i)-(vii).: (iii) Is the asset a hard-to-value asset? ☐ Yes ☐ No | (a) Assets Held directly by the plan (including assets held through an participant-directed brokerage window) For each asset which the plan holds for investment purposes that is not a type of assets required to be listed in (b) through (e) below, complete elements (i)-(vii).: (iv) CUSIP, CIK, LEI, NAIC Company Code, other registration number: | (a) Assets Held directly by the plan (including assets held through an participant-directed brokerage window) For each asset which the plan holds for investment purposes that is not a type of assets required to be listed in (b) through (e) below, complete elements (i)-(vii).: (v) Cost | (a) Assets Held directly by the plan (including assets held through an participant-directed brokerage window) For each asset which the plan holds for investment purposes that is not a type of assets required to be listed in (b) through (e) below, complete elements (i)-(vii).: (vi) Indicate Sch. H, Line 1b asset category. | (a) Assets Held directly by the plan (including assets held through an participant-directed brokerage window) For each asset which the plan holds for investment purposes that is not a type of assets required to be listed in (b) through (e) below, complete elements (i)-(vii).: (vii) Description of investment, including, as applicable, share class, maturity date, rate of interest, par or maturity value, including whether asset/investment is subject to surrender charge. See instructions for reporting assets held through a participant-directed brokerage account.

(b) Investments in Master Trust (repeat as many entries as needed to identify holdings in master trusts) For each master trust in which the plan invested, break out plan's interest in each asset in the master trust(s) in elements (i)-(viii). Do not include master trust holdings in which the plan has no interest.: (i) Enter name, EIN/PN of sponsor of master trust used on master trust's Form 5500.: (ii) Check if issuer, borrower, lessor or similar party is party-in- interest ☐ | (b) Investments in Master Trust (repeat as many entries as needed to identify holdings in master trusts) For each master trust in which the plan invested, break out plan's interest in each asset in the master trust(s) in elements (i)-(viii). Do not include master trust holdings in which the plan has no interest.: (i) Enter name, EIN/PN of sponsor of master trust used on master trust's Form 5500.: (iii) Name of issuer, borrower, lessor, or similar party (See instructions) | (b) Investments in Master Trust (repeat as many entries as needed to identify holdings in master trusts) For each master trust in which the plan invested, break out plan's interest in each asset in the master trust(s) in elements (i)-(viii). Do not include master trust holdings in which the plan has no interest.: (i) Enter name, EIN/PN of sponsor of master trust used on master trust's Form 5500.: (iv) Is the asset a hard-to-value asset? ☐ Yes ☐ No | (b) Investments in Master Trust (repeat as many entries as needed to identify holdings in master trusts) For each master trust in which the plan invested, break out plan's interest in each asset in the master trust(s) in elements (i)-(viii). Do not include master trust holdings in which the plan has no interest.: (i) Enter name, EIN/PN of sponsor of master trust used on master trust's Form 5500.: (v) Enter all that apply: EIN, CUSIP, CIK, LEI, NAIC Company Code, other registration number: | (b) Investments in Master Trust (repeat as many entries as needed to identify holdings in master trusts) For each master trust in which the plan invested, break out plan's interest in each asset in the master trust(s) in elements (i)-(viii). Do not include master trust holdings in which the plan has no interest.: (i) Enter name, EIN/PN of sponsor of master trust used on master trust's Form 5500.: (vi) Cost | (b) Investments in Master Trust (repeat as many entries as needed to identify holdings in master trusts) For each master trust in which the plan invested, break out plan's interest in each asset in the master trust(s) in elements (i)-(viii). Do not include master trust holdings in which the plan has no interest.: (i) Enter name, EIN/PN of sponsor of master trust used on master trust's Form 5500.: (vii) Indicate Sch. H, Line 1b asset category | (b) Investments in Master Trust (repeat as many entries as needed to identify holdings in master trusts) For each master trust in which the plan invested, break out plan's interest in each asset in the master trust(s) in elements (i)-(viii). Do not include master trust holdings in which the plan has no interest.: (i) Enter name, EIN/PN of sponsor of master trust used on master trust's Form 5500.: (viii) Description of investment, including, as applicable, share class, maturity date, rate of interest, par or maturity value, including whether asset/investment is subject to surrender charge.

(c) Investments in PSAs and CCTs (repeat as many entries as needed to identify holdings in PSAs and CCTs) If the PSA filed a Form 5500, complete elements (i)-(vii) indicating the value of the plan's shares in the PSA or CCT. For PSAs or CCTs that have not filed a Form 5500, break out plan's proportionate interest in each asset in the PSA of CCT in elements (i)-(ix) and include the name and identifying numbers for the non-filing CCT or PSA, as well a description of the asset held through the non-filing CCT or PSA.: (i) Enter name, EIN/PN of sponsor of CCT/PSA.: (iii) Did the PSA or CCT filed a Form 5500 Yes ☐ No ☐ | (c) Investments in PSAs and CCTs (repeat as many entries as needed to identify holdings in PSAs and CCTs) If the PSA filed a Form 5500, complete elements (i)-(vii) indicating the value of the plan's shares in the PSA or CCT. For PSAs or CCTs that have not filed a Form 5500, break out plan's proportionate interest in each asset in the PSA of CCT in elements (i)-(ix) and include the name and identifying numbers for the non-filing CCT or PSA, as well a description of the asset held through the non-filing CCT or PSA.: (i) Enter name, EIN/PN of sponsor of CCT/PSA.: (iv) Name of issuer, borrower, lessor, or similar party (see Instructions) | (c) Investments in PSAs and CCTs (repeat as many entries as needed to identify holdings in PSAs and CCTs) If the PSA filed a Form 5500, complete elements (i)-(vii) indicating the value of the plan's shares in the PSA or CCT. For PSAs or CCTs that have not filed a Form 5500, break out plan's proportionate interest in each asset in the PSA of CCT in elements (i)-(ix) and include the name and identifying numbers for the non-filing CCT or PSA, as well a description of the asset held through the non-filing CCT or PSA.: (i) Enter name, EIN/PN of sponsor of CCT/PSA.: (v) Is the asset a hard-to-value asset? ☐ Yes ☐ No | (c) Investments in PSAs and CCTs (repeat as many entries as needed to identify holdings in PSAs and CCTs) If the PSA filed a Form 5500, complete elements (i)-(vii) indicating the value of the plan's shares in the PSA or CCT. For PSAs or CCTs that have not filed a Form 5500, break out plan's proportionate interest in each asset in the PSA of CCT in elements (i)-(ix) and include the name and identifying numbers for the non-filing CCT or PSA, as well a description of the asset held through the non-filing CCT or PSA.: (i) Enter name, EIN/PN of sponsor of CCT/PSA.: (vi) ) Enter all that apply: EIN, CUSIP, CIK, LEI, NAIC Company Code: Other registration number: | (c) Investments in PSAs and CCTs (repeat as many entries as needed to identify holdings in PSAs and CCTs) If the PSA filed a Form 5500, complete elements (i)-(vii) indicating the value of the plan's shares in the PSA or CCT. For PSAs or CCTs that have not filed a Form 5500, break out plan's proportionate interest in each asset in the PSA of CCT in elements (i)-(ix) and include the name and identifying numbers for the non-filing CCT or PSA, as well a description of the asset held through the non-filing CCT or PSA.: (ii) Check if issuer, borrower, lessor or similar party is party-in-interest ☐: (vii) Cost | (c) Investments in PSAs and CCTs (repeat as many entries as needed to identify holdings in PSAs and CCTs) If the PSA filed a Form 5500, complete elements (i)-(vii) indicating the value of the plan's shares in the PSA or CCT. For PSAs or CCTs that have not filed a Form 5500, break out plan's proportionate interest in each asset in the PSA of CCT in elements (i)-(ix) and include the name and identifying numbers for the non-filing CCT or PSA, as well a description of the asset held through the non-filing CCT or PSA.: (ii) Check if issuer, borrower, lessor or similar party is party-in-interest ☐: (viii) Indicate Sch. H, Line 1b asset category | (c) Investments in PSAs and CCTs (repeat as many entries as needed to identify holdings in PSAs and CCTs) If the PSA filed a Form 5500, complete elements (i)-(vii) indicating the value of the plan's shares in the PSA or CCT. For PSAs or CCTs that have not filed a Form 5500, break out plan's proportionate interest in each asset in the PSA of CCT in elements (i)-(ix) and include the name and identifying numbers for the non-filing CCT or PSA, as well a description of the asset held through the non-filing CCT or PSA.: (ii) Check if issuer, borrower, lessor or similar party is party-in-interest ☐: (ix) Description of investment, including, as applicable, share class, maturity date, rate of interest, par or maturity value, including whether asset/investment is subject to surrender charge.

(d) Investments in 102-12 Investment Entities (repeat as many entries as needed to identify holdings in 103-12 IEs). For each 103-12IE in which the plan invested, complete elements (i)-(vii) indicating the value of the plan's shares in the in each 103-12IE in elements (i)-(viii).: (i)Enter name, EIN of provider of the 103-12 IE.: (iii) Name of issuer, borrower, lessor, or similar party (See instructions) | (d) Investments in 102-12 Investment Entities (repeat as many entries as needed to identify holdings in 103-12 IEs). For each 103-12IE in which the plan invested, complete elements (i)-(vii) indicating the value of the plan's shares in the in each 103-12IE in elements (i)-(viii).: (i)Enter name, EIN of provider of the 103-12 IE.: (iv) Is the asset a hard-to-value asset? ☐ Yes ☐ No | (d) Investments in 102-12 Investment Entities (repeat as many entries as needed to identify holdings in 103-12 IEs). For each 103-12IE in which the plan invested, complete elements (i)-(vii) indicating the value of the plan's shares in the in each 103-12IE in elements (i)-(viii).: (i)Enter name, EIN of provider of the 103-12 IE.: (v) Enter all that apply: EIN, CUSIP, CIK, LEI, NAIC Company Code: Other registration number: | (d) Investments in 102-12 Investment Entities (repeat as many entries as needed to identify holdings in 103-12 IEs). For each 103-12IE in which the plan invested, complete elements (i)-(vii) indicating the value of the plan's shares in the in each 103-12IE in elements (i)-(viii).: (i)Enter name, EIN of provider of the 103-12 IE.: (vi) Cost | (d) Investments in 102-12 Investment Entities (repeat as many entries as needed to identify holdings in 103-12 IEs). For each 103-12IE in which the plan invested, complete elements (i)-(vii) indicating the value of the plan's shares in the in each 103-12IE in elements (i)-(viii).: (i)Enter name, EIN of provider of the 103-12 IE.: (vii) Indicate Line 1b asset category. | (d) Investments in 102-12 Investment Entities (repeat as many entries as needed to identify holdings in 103-12 IEs). For each 103-12IE in which the plan invested, complete elements (i)-(vii) indicating the value of the plan's shares in the in each 103-12IE in elements (i)-(viii).: (ii) Check if issuer, borrower, lessor or similar party is party-in-interest ☐: (viii) Description of investment, including, as applicable, share class, maturity date, rate of interest, par or maturity value, including whether asset/investment is subject to surrender charge.

Line 4i(2) Schedule of Assets Disposed of During the Plan Year [Current elements of Schedule of Assets Acquired and Disposed of During Plan Year; element (b) currently unlettered] (Complete as many entries as necessary to identify all assets sold during plan year

(a) Enter name, EIN of issuer, borrower, lessor, or similar party: (c) Check if asset was acquired during plan year ☐ | (a) Enter name, EIN of issuer, borrower, lessor, or similar party: (d) Enter all that apply: EIN, CUSIP, CIK, LEI, NAIC Company Code, Other registration number: | (a) Enter name, EIN of issuer, borrower, lessor, or similar party: (e) Sch. H, Line 1b category | (a) Enter name, EIN of issuer, borrower, lessor, or similar party: (f) Cost | (b) Check if issuer, borrower, lessor or similar party is party-in-interest ☐: (g) Selling price | (b) Check if issuer, borrower, lessor or similar party is party-in-interest ☐: (h) Expenses incurred with disposal of asset | (b) Check if issuer, borrower, lessor or similar party is party-in-interest ☐: (i) Net gain (loss) on transaction | (b) Check if issuer, borrower, lessor or similar party is party-in-interest ☐: (j) Description of investment, including maturity date, rate of interest, collateral, par, or maturity value

Schedule H, Line 4j—Schedule of Reportable Transactions [Current Line 4j Schedule, except (a) is new and remaining elements are re-lettered in sequence] Complete as many repeating elements as necessary to identify all reportable transactions.

(a) Check here if transaction involved a person/entity known to be party-in-interest ☐: (e) Selling price | (b) Identity of party involved: (f) Lease rental | (c) Description of asset (include interest rate and maturity in case of a loan): (g) Expense incurred with transaction (including all fees) | (c) Description of asset (include interest rate and maturity in case of a loan): (h) Cost of asset | (d) Purchase price: (i) Current value of asset on transaction date

[New Schedule] Schedule J (Form 5500)—Group Health Plan Information

For calendar plan year 20XX or fiscal plan year beginning DD/MM/20XX and ending DD/MM/20XX+1

A Name of plan

B Three-digit plan number (PN)

C Plan sponsor's name as shown on Line 2a of Form 5500

D Employer Identification Number (EIN)

Plans that have fewer than 100 participants at the beginning of the plan year and are fully insured (see instructions) complete only basic identifying information and Part I, Lines 1-8. GIAs must complete a separate Schedule J for each participating plan.

Part I—Group Health Plan Characteristics

1 Approximate number of persons (including participants, beneficiaries and dependents of participants) covered under the plan at the end of the plan year?

2 The plan offers health coverage to the following (check all that apply):

☐ employees

☐ spouses

☐ children

☐ retirees

☐ retirees only

3 Indicate which of the following types of benefit(s) and design characteristics are included under the plan. (Check all that apply):

☐ medical/surgical benefits

☐ mental health/substance use disorder benefits

☐ pharmacy or prescription drug benefits

☐ wellness program

☐ preventive care services

☐ emergency services

☐ pregnancy benefits

☐ vision

☐ dental

4 Health funding and benefit arrangement (check all that apply):

4a(1)(a) ☐ health insurance issuer. If you check this box, enter name(s), EIN, and National Insurance Product Registry Number of insurance carriers providing benefits under the plan.

4a(1)(b) If the health funding or benefit arrangement is through a prototype/off-the-shelf insurance product, enter the identification number of the prototype/off-the-shelf insurance product.

4a(1)(c) Please check whether one or both of the following are used to pay premiums:

☐ employer contributions

☐ participant contributions

4a(2) ☐ benefits paid from general assets of the employer

☐ employer contributions

☐ participant contributions

4a(3) ☐ trust

☐ employer contributions

☐ participant contributions

5 Check all that apply to the plan:

☐ one or more benefit package options claiming grandfathered status under the Affordable Care Act

☐ high deductible health plan

☐ health reimbursement arrangement (HRA) or plan includes an HRA

☐ health flexible spending account (FSA) or plan includes an FSA

6a How many persons were offered COBRA benefits during the plan year?

6b Of the persons counted in line 6a, how many persons elected COBRA benefits?

6c How many persons were receiving coverage under the plan through COBRA during the plan year?

7a Did the plan or plan sponsor receive any rebates, reimbursement, or refunds other than those reported on Schedule A from service providers during the plan year? ☐ Yes ☐ No If “Yes,” you must complete Line 7b. If “No,” skip to Line 8.

7b(1) If you answered “Yes” to Line 7a, enter separately the amount and date received of each rebate, reimbursement, or refund. For each rebate, reimbursement, or refund listed, complete elements 7b(2) and 7b(3).

(2) Type of service provider that provided each rebate, reimbursement, or refund

☐ health insurance issuer

☐ third-party administrator

☐ pharmacy benefit manager

☐ other (specify)

(3) How each rebate, reimbursement, or refund was used (Check all that apply):

☐ amount returned to participants

☐ premium holiday

☐ payment of benefits

☐ other

8a If any benefits were provided pursuant to an insurance policy that was not reported on Schedule A, were there any premium payment delinquencies for premiums due but unpaid during the year? ☐ Yes ☐ No If “Yes,” enter number of times delinquent and for each delinquency enter the number of days delinquent

8b If you answered “Yes” to line 8a, indicate whether any premium delinquency resulted in a lapse in coverage. If you answered “No” to line 8a, enter “N/A”. ☐ Yes ☐ No ☐ N/A

Part II—Service Provider and Stop Loss Insurance Information

(Repeat as many line entries as necessary to report all service providers under each category that have not already been reported on Schedule A or Schedule C.)

9 Third Party Administrator/Claims Processor, including a health insurance issuer subject to an “administrative services only (ASO)” or other agreement: ☐ N/A

a Name, address and telephone number

b EIN

c NAIC NPN

d If third party administrator/claims processing or similar services are being provided to the plan through a prototype/off-the-shelf ASO arrangement, enter the identification number of such insurance product

10 Mental Health Benefits Manager: ☐ N/A

a Name, address and telephone number

b EIN

c NAIC NPN

11 Substance Use Disorder Benefits Manager: ☐ N/A

a Name, address and telephone number

b EIN

c NAIC NPN

12 Pharmacy Benefit Manager/Drug Provider: ☐ N/A

a Name, address and telephone number

b EIN

c NAIC NPN

13 Independent Review Organization: ☐ N/A

a Name, address and telephone number

b EIN

c NAIC NPN

14 Wellness Program Manager: ☐ N/A (may be the same contact information for wellness program required under 29 CFR 2590.702(f)(2)(v)).

a Name, address and telephone number

b EIN

c NAIC NPN

15 Was there a stop loss policy associated with the plan's obligation to pay health benefits? If so, complete the following (Include information on all stop loss policies issued in connection with plan benefits, including policies with the employer/plan sponsor as the insured).

a Name of insurance carrier

b EIN

c NAIC NPN

d Total premium

e Attachment point of coverage

Individual attachment point of coverage (if applicable)

Aggregate attachment point of coverage (if applicable)

f Claim Limit

Individual claim limit (if applicable)

Aggregate claim limit (if applicable)

g Policy or contract year from ____ to ____.

h Check this box if the employer/plan sponsor is the insured ☐

Part III—Financial Information.

Plans that complete Schedule H skip to Part IV.

16 Contributions received during the plan year or receivable as of end of plan year:

a Employer contributions received

b Employer contributions receivable

c Participant contributions received

d Participant contributions receivable

e Other contributions received or receivable (including non-cash)

f Total contributions. Add Lines 16 a-e.

17 Was there a failure to transmit to the plan any participant contributions or repayments as of the earliest date on which such contributions can reasonably be segregated from the employer's general assets as described in 29 CFR 2510.3-102? ☐ Yes ☐ No

Part IV—Health Benefit Claims Processing and Payment.

18a Enter the number of post-service benefit claims submitted during the plan year.

(1) How many of those claims were approved during the plan year?

(2) How many of those claims were denied during the plan year?

(3) How many of those claims were pending at the end of the plan year?

18b Enter the number of post-service benefit claim denials appealed during the plan year.

(1) How many of those appeals were upheld during the plan year as denials?

(2) How many of those appeals were overturned and approved during the plan year after appeal?

18c Enter the number of pre-service benefit claims appealed during the plan year.

(1) How many of those appeals were upheld during the plan year as denials?

(2) How many of those appeals were approved during the plan year after appeal?

19 Were there any claims for benefits or appeals of adverse benefit determinations that were not adjudicated within the required timeframes? ☐ Yes ☐ No. If “Yes,” enter

(1) Number of claims

(2) Number of appeals

20 Did the plan fail to pay any claims during the plan year within one (1) month of being approved for payment? ☐ Yes ☐ No If “Yes,” enter the

(1) Number of claims not paid within one (1) month

(2) Total amount not paid within one (1) month

(3) Number of claims not paid within three (3) months or longer

21 Total dollar amount of benefits paid pursuant to claims during the plan year.

Part V—Compliance Information. [Current Form 5500 Part III; the move limits plans required to complete this part to those providing health benefits] Plans that file the Form M-1, skip questions 24-30.

22a Were all plan assets held in trust, held by an insurance company qualified to do business in a State, or as insurance contracts or policies issued by such an insurance company? (See section 403 of ERISA and 29 CFR 2550.403a-1 and 2550.403b-1)?

☐ Yes ☐ No If you check “No,” you must complete Line 22b.

22b Check all that apply and enter an explanation if checking “Other”:

☐ Plan assets not held in trust based on reliance on Technical Release 92-01

☐ Other (explain)

23 Are the plan's summary plan description (SPD), including any summary descriptions of modifications, and summary of benefits and coverage (SBC) in compliance with the applicable content requirements? (See instructions.)

23a Summary Plan Description (SPD): ☐ Yes ☐ No

23b Summary of Benefits and Coverage (SBC) ☐Yes ☐No

24 Is the coverage provided by the plan in compliance with the provisions of the Health Insurance Portability and Accountability Act of 1996, as incorporated in ERISA, and the Department's regulations thereunder?

☐ Yes ☐ No ☐ N/A

25 Is the coverage provided by the plan in compliance with the provisions of Title I of the Genetic Information Nondiscrimination Act of 2008 as incorporated in ERISA, and the Department's regulations issued thereunder?

☐ Yes ☐ No ☐ N/A

26 Is the coverage provided by the plan in compliance with the Mental Health Parity Act of 1996 and the Paul Wellstone and Pete Domenici Mental Health Parity and Addiction Equity Act of 2008 and the Department's regulations issued thereunder?

☐ Yes ☐ No ☐ N/A

27 Is the coverage provided by the plan in compliance with the Newborns' and Mothers' Health Protection Act of 1996 and the Department's regulations issued thereunder?

☐ Yes ☐ No ☐ N/A

28 Is the coverage provided by the plan in compliance with the Women's Health and Cancer Rights Act of 1998?

☐ Yes ☐ No ☐ N/A

29 Is the coverage provided by the plan in compliance with Michelle's Law?

☐ Yes ☐ No ☐ N/A

30 Is the coverage provided by the plan in compliance with the Affordable Care Act and the Department's regulations issued thereunder?

☐ Yes ☐ No ☐ N/A

31a Was the plan subject to the Form M-1 filing requirements during the plan year? (See instructions and 29 CFR 2520.101-2.) ☐ Yes ☐ No If “Yes” is checked, complete Lines 31b and 31c.

31b Is the plan currently in compliance with the Form M-1 filing requirements? (See instructions and 29 CFR 2520.101-2.) ☐ Yes ☐ No

31c Enter the Receipt Confirmation Code for the 20XX Form M-1 annual report. If the plan was not required to file the 20XX Form M-1 annual report, enter the Receipt Confirmation Code for the most recent Form M-1 that was required to be filed under the Form M-1 filing requirements. (Failure to enter a valid Receipt Confirmation Code will subject the Form 5500 Annual Return/Report filing to rejection as incomplete.)

Receipt Confirmation Code

Schedule MB—Multiemployer Defined Benefit Plan and Certain Money Purchase Plan Actuarial Information

[Current header and identifying information] For calendar plan year 20XX or fiscal plan year beginning DD/MM/20XX and ending DD/MM/20XX+1

A Name of Plan

B Three-digit plan number (PN)

C Plan sponsor's name as shown in Line 2a of the Form 5500 or 5500-SF

D Employer Identification Number (EIN)

E Type of plan: (1) ☐ Multiemployer Defined Benefit (2) ☐ Money Purchase (see instructions)

1 [Current]

1a Enter the valuation date:

1b Assets:

(1) Current value of assets

(2) Actuarial value of assets for funding standard account

1c(1) Accrued liability for plan using immediate gain method

1c(2) Information for plans using spread gain methods:

(a) Unfunded liability for methods with bases

(b) Accrued liability under entry age normal method

(c) Normal cost under entry age normal method

1c(3) Accrued liability under unit credit cost method

1d Information on current liabilities of the plan:

(1) Amount excluded from current liability attributable to pre-participation service (see instructions)

(2) “RPA '94” information:

(a) Current liability

(b) Expected increase in current liability due to benefits accruing during the plan year

(c) Expected release from “RPA `94” current liability for the plan year

(3) Expected plan disbursements for the plan year

2 [Current] Operational information as of the beginning of this plan year:

a Current value of assets (see instructions)

| (1) Number of participants | (2) Current liability
b “RPA `94” current liability/participant count breakdown
(1) For retired participants and beneficiaries receiving payment
(2) For terminated vested participants
(3) For active participants
(a) Non-vested benefits
(b) Vested benefits
(c) Total active
(4) Total

c If the percentage resulting from dividing Line 2a by Line 2(b)(4), column (2), is less than 70%, enter such percentage.

3 [Current, except report withdrawal liability payments separately from employer contributions and there is minor re-wording of Lines 3(b) and (c).] Contributions made to the plan for the plan year by employer(s) including withdrawal liability payments and contributions to the plan made by employees:

3 Contributions made to the plan for the plan year by employer(s) including withdrawal liability payments and contributions to the plan made by employees:: (a) Date (MM-DD-YYYY) | 3 Contributions made to the plan for the plan year by employer(s) including withdrawal liability payments and contributions to the plan made by employees:: (b) Contribution amount paid by employers | 3 Contributions made to the plan for the plan year by employer(s) including withdrawal liability payments and contributions to the plan made by employees:: (c) Withdrawal liability payments | 3 Contributions made to the plan for the plan year by employer(s) including withdrawal liability payments and contributions to the plan made by employees:: (d) Contribution amount paid by employees
Totals:

4 Information on plan status:

4a [Current] Funded percentage for monitoring plan's status (Line 1b(2) divided by Line 1c(3))

4b [Current] Enter code to indicate plan's status (see instructions for attachment of supporting evidence of plan's status). If code is “N,” go to Line 5.

4c [Current] Is the plan making the scheduled progress under any applicable funding improvement or rehabilitation plan? ☐ Yes ☐ No

4d [Current] If the plan is in critical status or critical and declining status, were any benefits reduced (see instructions)? ☐ Yes ☐ No

4e [Current] If Line 4d is “Yes,” enter the reduction in liability resulting from the reduction in benefits (see instructions), measured as of the valuation date.

4f [Current] If the rehabilitation plan projects emergence from critical status or critical and declining status, enter the plan year in which it is projected to emerge.

If the rehabilitation plan is based on forestalling possible insolvency, check here ☐ and enter the plan year in which insolvency is expected.

5 [Current instructions and for 2016 as data element, except prior Line 5i (Reorganization) is deleted and Lines 5j-n are renumbered to reflect MPRA 2014 changes] Actuarial cost method used as the basis for the plan year's funding standard account computations (check all that apply):

5a ☐ Attained age normal

5b ☐ Entry age normal

5c ☐ Accrued benefit (unit credit)

5d ☐ Aggregate

5e ☐ Frozen initial liability

5f ☐ Individual level premium

5g ☐ Individual aggregate

5h ☐ Shortfall

5i [Current Line 5j] ☐ Other (specify):

5j [Current Line 5k] If box h is checked, enter period of use of shortfall method

5k [Current Line 5l] Has a change been made in funding method for this plan year? ☐ Yes ☐ No

5l [Current Line 5m] If Line 5k is “Yes,” was the change made pursuant to Revenue Procedure 2000-40 or other automatic approval? ☐ Yes ☐ No

5m [Current Line 5n] If Line 5k is “Yes,” and line l is “No,” enter the date (MM/DD/YYYY) of the ruling letter (individual or class) approving the change in the funding method.

6 [Current—except that Lines 6(g)(2) and 6(h)(2) with check boxes are added to be answered if a statement showing the actuary's estimate of the rate of return (actuarial or market value) and calculation of the rate is attached.] Checklist of certain actuarial assumptions:

7 [Current except that information on amortization charges and credits that was previously reported for Lines 9c and 9h as an attachment would be reported on Line 7 of the form.]

Amortization Bases (This will have a variable number of repeating rows; but typically fewer than 50): (1) Type of base | Amortization Bases (This will have a variable number of repeating rows; but typically fewer than 50): (2) Outstanding balance of remaining payments | Amortization Bases (This will have a variable number of repeating rows; but typically fewer than 50): (3) Valuation date base was established | Amortization Bases (This will have a variable number of repeating rows; but typically fewer than 50): (4) Years remaining in amortization period | Amortization Bases (This will have a variable number of repeating rows; but typically fewer than 50): (5) Amortization amount
Totals:

8 Miscellaneous information:

8a [Current] If a waiver of a funding deficiency has been approved for this plan year, enter the date (MM/DD/YYYY) of the letter ruling granting the approval.

8b(1)(a) [Current] Is the plan required to provide a projection of expected benefit payments? ☐ Yes ☐ No

8b(1)(b) [Current except moved to the face of the form] If 8b(1)(a) is “Yes,” complete the schedule below:

Plan Year | Schedule of Projection of Expected Annual Benefit Payments
Current plan year
Current plan year plus 1
Etc.
Current plan year plus 9

8b(2)(a) [Current] Is the plan required to provide a Schedule of Active Participant Data ? (see instructions) ☐ Yes ☐ No

8b(2)(b) [Current except moved to the face of the form] If 8b(2)(a) is “Yes,” complete the schedule below and items 8b(2)(c) and 8b(2)(d).

8b(2)(c) [New] Average age of active participants as of the valuation date

8b(2)(d) [New] Average credited service of active participants as of the valuation date

8b(3)(a) [New] Is the plan required to provide a Schedule of Retired Participants and Beneficiaries Receiving Payment Data? (See the instructions) ☐ Yes ☐ No

8b(3)(b) [New] If 8b(3)(a) is “Yes,” complete the schedule below and items 8b(3)(c) and 8b(3)(d).

Schedule of Retired Participants and Beneficiaries Receiving Payment Data
Attained Age | Number | Average Annual In-Pay Benefit Amount
Under 55
55 to 59
Etc.
90 and up

8b(3)(c) [New] Average Age for Retired Participants and Beneficiaries as of the valuation date

8b(3)(d) [New] Average Annual In-Pay Benefit for Retired Participants and Beneficiaries as of the valuation date

8b(4)(a) [New] Is the plan required to provide a Schedule of Terminated Vested Participant Data? (See the instructions) ☐ Yes ☐ No

8b(4)(b) [New] If 8b(4)(a) is “Yes,” complete the schedule below and items 8b(4)(c) through 8b(4)(f).

Schedule of Terminated Vested Participant Data
Attained Age | Number | Average Annual Benefit Amount
Under 25
25 to 29
Etc.
70 and up

8b(4)(c) [New] Average age of terminated vested participants as of the valuation date

8b(4)(d) [New] Average annual benefit of terminated vested participants as of the valuation date

8b(4)(e) [New] Assumed form of payment shown

8b(4)(f) [New] Assumed age of first payment for benefits shown

8c [Current] Are any of the plan's amortization bases operating under an extension of time under section 412(e) (as in effect prior to 2008) or section 431(d) of the Code? ☐ Yes ☐ No

8d [Current] If Line 8c is “Yes,” provide the following additional information:

(1) Was an extension granted automatic approval under section 431(d)(1) of the Code? ☐ Yes ☐ No

(2) If Line 8d(1) is “Yes,” enter the number of years by which the amortization period was extended.

(3) Was an extension approved by the Internal Revenue Service under section 412(e) (as in effect prior to 2008) or 431(d)(2) of the Code? ☐ Yes ☐ No

(4) If Line 8d(3) is “Yes,” enter the number of years by which the amortization period was extended (not including the number of years in Line (2))

(5) If Line 8d(3) is “Yes,” enter the date of the ruling letter approving the extension

(6) If Line 8d(3) is “Yes,” is the amortization base eligible for amortization using interest rates applicable under section 6621(b) of the Code for years beginning after 2007? ☐ Yes ☐ No

8(e) [Current] If box 5h is checked or Line 8c is “Yes,” enter the difference between the minimum required contribution for the year and the minimum that would have been required without using the shortfall method or extending the amortization base(s).

Line 9 [Current, except a check box is added to Line 9f to be answered if an explanation of a prior year credit balance/funding deficiency discrepancy is attached.]

10 [Current] Contribution necessary to avoid an accumulated funding deficiency (see instructions)

11 [Current] Has a change been made in the actuarial assumptions for the current plan year?

If “Yes,” see instructions. ☐ Yes ☐ No

Statement by Enrolled Actuary [Current, except that information previously reported on an attachment per the instructions will be reported on the Schedule.] To the best of my knowledge, the information supplied in this schedule and accompanying schedules, statements, and attachments, if any, is complete and accurate. Each prescribed assumption was applied in accordance with applicable law and regulations. In my opinion, each other assumption is reasonable (taking into account the experience of the plan and reasonable expectations) and such other assumptions, in combination, offer my best estimate of anticipated experience under the plan.

Signature of actuary

Date

Type or print name of actuary

Most recent enrollment number

Firm name

Telephone number (including area code)

Address of firm

If the actuary has not fully reflected any regulation or ruling promulgated under the statute in completing this schedule, provide the information requested in the instructions in this line and check here ☐

SCHEDULE R (Form 5500) Retirement Plan Information

[Current header and identifying information] For calendar plan year 20XX or fiscal plan year beginning DD/MM/20XX and ending DD/MM/20XX+1

A Name of plan

B Three-digit plan number (PN)

C Plan sponsor's name as shown on line 2a of Form 5500

D Employer Identification Number (EIN)

Part I Distributions.

All references to distributions relate only to payments of benefits during the plan year.

1 [Current] Total value of distributions paid in property other than in cash or the forms of property specified in the instructions

2 [Current] Enter the EIN(s) of payor(s) who paid benefits on behalf of the plan to participants or beneficiaries during the year (if more than two, enter EINs of the two payors who paid the greatest dollar amounts of benefits):

EIN(s):

Profit-sharing plans, ESOPs, and stock bonus plans, skip Line 3.

3 [Current Line 3, with new breakout numbers for active, terminated vested, retired]Number of participants (living or deceased) whose benefits were distributed in a single sum, during the plan year

[Columns for (1) number of participants/(2) payment of annuities/(3) payment of lump sums]

Active

Terminated Vested

Retired

4 [New] Were required minimum distributions made to 5% owners who have attained age 70 ½ (regardless of whether or not retired) as required under section 401(a)(9) of the Internal Revenue Code? ☐ Yes ☐ No ☐ N/A

Part II Funding Information

(If the plan is not subject to the minimum funding requirements of section of 412 of the Internal Revenue Code or ERISA section 302, skip this Part)

5 [Current Line 4] Is the plan administrator making an election under Code section 412(d)(2) or ERISA section 302(d)(2)? ☐ Yes ☐ No ☐ N/A

If the plan is a defined benefit pension plan, go to Line 9.

6 [Current Line 5] If a waiver of the minimum funding standard for a prior year is being amortized in this plan year, see instructions and enter the date of the ruling letter granting the waiver.

If you completed Line 6, complete Lines 3, 9, and 10 of Schedule MB and do not complete the remainder of this schedule.

7a [Current Line 6] Enter the minimum required contribution for this plan year (include any prior year accumulated funding deficiency not waived).

7b [Current] Enter the amount contributed by the employer to the plan for this plan year

7c [Current] Subtract the amount in Line 7b from the amount in Line 7a. Enter the result (enter a minus sign to the left of a negative amount)

If you completed line 7c, skip Lines 9 and 10.

8 [Current Line 7] Will the minimum funding amount reported on Line 7c be met by the funding deadline? ☐ Yes ☐ No ☐ N/A

9 [Current Line 8] If a change in actuarial cost method was made for this plan year pursuant to a revenue procedure or other authority providing automatic approval for the change or a class ruling letter, does the plan sponsor or plan administrator agree with the change?

☐ Yes ☐ No ☐ N/A

Part III Determination and Amendment

10 [Current Line 9] If this is a defined benefit pension plan, were any amendments adopted during this plan year that increased or decreased the value of benefits? If “Yes,” check the appropriate box. If no, check the “No” box”: ☐ Increase ☐ Decrease ☐ Both ☐ No

11a [Current 2016 Line 22a] If the plan is a master and prototype plan (M&P) or volume submitter plan that received a favorable IRS opinion letter or advisory letter, enter the date of the letter _/_/_ and the serial number ___

11b [Current 2016 Line 22b] If the plan is an individually-designed plan that received a favorable determination letter from the IRS, enter the date of most recent determination letter: _/_/_.

[Current Part IV ESOPs—moved to new Schedule E]

Part IV [current Part V] Additional Information for Multiemployer Defined Benefit Pension Plans

12 [Current Line 13] Enter the following information for each employer that contributed more than 5% of total contributions to the plan during the plan year (measured in dollars). See instructions. Complete as many entries as needed to report all applicable employers.

a Name of contributing employer

b EIN

c Dollar amount contributed by employer

d Date collective bargaining agreement expires (If employer contributes under more than one collective bargaining agreement, check box ☐ and see instructions regarding required attachment. Otherwise, enter the applicable date.)

e Contribution rate information (If more than one rate applies, check this box ☐ and see instructions regarding required attachment. Otherwise, complete Lines 12e(1) and 12e(2).)

(1) Contribution rate (in dollars and cents)

(2) Base unit measure:

☐ Hourly

☐ Weekly

☐ Unit of production

☐ Other (specify)

13 [Current Line 14] Enter the number of participants on whose behalf no contributions were made by an employer as an employer of the participant for:

a The current year

b The plan year immediately preceding the current plan year

c The second preceding plan year

14. [Current Line 15] Enter the ratio of the number of participants under the plan on whose behalf no employer had an obligation to make an employer contribution during the current plan year to:

a The corresponding number for the plan year immediately preceding the current plan year

b The corresponding number for the second preceding plan year

15 [Current Line 16] Information with respect to any employers who withdrew from the plan during the preceding plan year:

a Enter the number of employers who withdrew during the preceding plan year:

b If Line 15a is greater than 0, enter the aggregate amount of withdrawal liability assessed or estimated to be assessed against such withdrawn employers.

16 [Current Line 17] If assets and liabilities from another plan have been transferred to or merged with this plan during the plan year, check box and see instructions regarding supplemental information to be included as an attachment. ☐

Part V [Current Part VI] Additional information for Single-Employer and Multiemployer Defined Benefit Pension Plans

17 [Current Line 18] If any liabilities to participants or their beneficiaries under the plan as of the end of the plan year consist (in whole or in part) of liabilities to such participants and beneficiaries under two or more pension plans as of immediately before such plan year, check box and see instructions regarding supplemental information to be included as an attachment. ☐

18 [Current Line 19] If the total number of participants is 1,000 or more, complete Lines (a) through (c)

a Enter the percentage of plan assets held as:

Stock:

Investment-Grade Debt:

High-Yield Debt:

Real Estate:

Other:

b Provide the average duration of the combined investment-grade and high-yield debt:

☐ 0-3 years

☐ 3-6 years

☐ 6-9 years

☐ 9-12 years

☐ 12-15 years

☐ 15-18 years

☐ 18-21 years

☐ 21 years or more

c What duration measure was used to calculate Line 18(b)?

☐ Effective duration ☐ Macaulay duration ☐ Modified duration ☐ Other (specify)

Part VI [New Part; all of these questions on IRS List for 2015 changes and published in draft on the IRS's Form 5500-SUP]

Nondiscrimination and Coverage

19a If this is a section 401(k) plan, check the correct box to indicate how the plan is intended to satisfy the nondiscrimination requirements for employee deferrals and employer matching contributions (as applicable) under section 401(k)(3) and 401(m)(2)?

☐ Design-based safe harbor method ☐ ADP/ACP test ☐ Both

b If the ADP test is used, did the plan perform ADP testing for the plan year using the “current year testing method” for nonhighly compensated employees (Treas. Reg. sections 1.401(k)-2(a)(2)(ii) ☐ Yes ☐ No

20a Check the box to indicate the method used by the plan to satisfy the coverage requirements under section 410(b): ☐ ratio percentage test ☐ average benefit test ☐ N/A

b Does the plan satisfy the coverage and nondiscrimination tests of sections 410(b) and 401(a)(4) by combining this plan with any other plans under the permissive aggregation rules?

☐ Yes ☐ No

21 If this is a defined benefit pension plan, does the plan comply with Code section 401(a)(26) participation requirements?

☐ Yes ☐ No

Part VII [New Part/New Questions]

Participation Information in Defined Contribution Pension Plans (Only defined contribution pension plans need to complete this Part.)

22a Were employees participating in the plan eligible to receive employer contributions even if they did not make any elective deferrals?

☐ Yes ☐ No If “Yes,” answer Line 22b.

22b Check the appropriate box to indicate how the employer's contribution is calculated and enter the percent or dollar amount or other formula:

☐ % of a participant's compensation (provide percentage)

☐ $ per participant (provide amount)

☐ Other (specify)

23a Does the plan provide for employer matching contributions contingent on employee elective deferrals? ☐ Yes ☐ No If “Yes,” answer Line 23b-d.

23b Check the appropriate box and enter the percentage, amount or formula to indicate the minimum elective deferrals necessary to qualify for an employer matching contribution (if there is no minimum, check “other” and enter “none”):

☐ % of a participant's contribution up to a limit (provide percentage)

☐ $ per participant (provide amount)

☐ Other (specify)

23c Check the appropriate box and enter the percentage, amount or other formula to indicate the maximum employer matching contribution under the terms of the plan.

☐ % of a participant's compensation (provide percentage)

☐ $ per participant (provide amount)

☐ Other (Specify)

23d Enter the number of participants making sufficient elective deferrals to receive the maximum employer match.

24a Does the plan have automatic enrollment? ☐ Yes ☐ No If “Yes,” answer Lines 24b(1)-(3).

24b (1) Enter the default elective deferral as a percentage of a participant's compensation in the first year after a participant is automatically enrolled?

(2) Does the plan have automatic escalation, assuming a participant has made no active elections? ☐ Yes ☐ No If “Yes,” enter the maximum elective deferral as a percentage of a participant's compensation.

(3) Enter the number of participants that have not made any investment decisions and remain in the plan's default investment account(s):

25 Enter the number of participants making catch-up contributions.

Schedule SB—Single-Employer Defined Benefit Plan Actuarial Information

[Current header and identifying information] For calendar plan year 20XX or fiscal plan year beginning DD/MM/20XX and ending DD/MM/20XX+1

A Name of Plan

B Three-digit plan number (PN)

C Plan sponsor's name as shown in Line 2a of the Form 5500 or 5500-SF

D Employer Identification Number (EIN)

E Type of plan: ☐ Single ☐ Multiple-A ☐ Multiple-B

F Prior year plan size: ☐ 100 or fewer ☐ 101-500 ☐ More than 500

Part I Basic Information

1 [Current] Enter the valuation date:

2 [Current] Assets:

a Market value

b Actuarial value

3 [Current] Funding target/participant count breakdown | 3 [Current] Funding target/participant count breakdown: (1) Number of participants | 3 [Current] Funding target/participant count breakdown: (2) Vested Funding Target | 3 [Current] Funding target/participant count breakdown: (3) Total Funding Target
a For retired participants and beneficiaries receiving payment
b For terminated vested participants
c For active participants
d Total

4 Current, except that allocation of total must be completed by participant groups and formatting (1), (2), etc. changed to conform to other tables on the form.] If the plan is in at-risk status, check the box and complete Lines (a) through (d) ☐

| (1) Funding target disregarding prescribed at-risk assumptions | (2) Funding target reflecting at-risk assumptions, but disregarding transition rule for plans that have been in at-risk status for fewer than five consecutive years and disregarding loading factor
a For retired participants and beneficiaries receiving payment
b For terminated vested Participants
c For active participants
Total

5 [Current] Effective interest rate __%

6 Target normal cost [Current, except allocation of plan-related expenses separated from the target normal cost.].

a [New allocation] Target normal cost (without plan expenses)

b [New allocation] Plan-related expenses

c Total [Reflects current Line 6]

Part II Beginning of Year Carryover and Prefunding Balances

14 [Current instructions for Line 7 with minor rewording, checkbox added] If Line 7 does not equal Line 13 from the prior year, provide an explanation in this line and check here ☐

15 [Current instructions for Line 8 with minor rewording, checkbox added] If Line 8 reflects a late election to apply the balances to quarterly installments, provide an explanation in this line and check here ☐

16 [Current instructions for Line 9 with minor rewording, checkbox added] If Line 9 has been adjusted so that it does not match the amount for the pre-effective date plan year, provide an explanation in this line and check here ☐

Part III Funding Percentages

17 [Current Line 14] Funding target attainment percentage __%

18 Adjusted funding target attainment

a [Current Line 15] Adjusted funding target attainment percentage __%

b [Current instructions for Line 15 with minor rewording, checkbox added] If an attachment is included reconciling differences between valuation results and amounts used to calculate the AFTAP, check here ☐

19 [Current Line 16] Prior year's funding percentage for purposes of determining whether carryover/prefunding balances may be used to reduce current year's funding requirement __%

20 [Current Line 17] If the current value of the assets of the plan is less than 70 percent of the funding target, enter such percentage __%

Part IV Contributions and Liquidity Shortfalls

21 [Current line 18 and line 19 attachment] Contributions made to the plan by employer(s) and employees:: (a): Date (MM/DD/YYYY) | 21 [Current line 18 and line 19 attachment] Contributions made to the plan by employer(s) and employees:: (b): Amount paid by employer(s) | 21 [Current line 18 and line 19 attachment] Contributions made to the plan by employer(s) and employees:: (c): Plan year to which contribution applies | 21 [Current line 18 and line 19 attachment] Contributions made to the plan by employer(s) and employees:: (d): Interest rate to adjust employer contributions | 21 [Current line 18 and line 19 attachment] Contributions made to the plan by employer(s) and employees:: (e): Number of days to discount employer contributions | 21 [Current line 18 and line 19 attachment] Contributions made to the plan by employer(s) and employees:: (f): Discounted/increased employer contributions at valuation date | 21 [Current line 18 and line 19 attachment] Contributions made to the plan by employer(s) and employees:: (g): Allocation to contributions in line 22 | 21 [Current line 18 and line 19 attachment] Contributions made to the plan by employer(s) and employees:: (h): Amount paid by employees
Total

22 [Current Line 19] Discounted employer contributions—see instructions for small plans with a valuation date after the beginning of the year:

a Contributions allocated toward unpaid minimum required contributions for prior years

b Contributions made to avoid restrictions adjusted to valuation date

c Contributions allocated toward minimum required contribution for current year adjusted to valuation date

23 [Current Line 20, except new checkbox added to Line 23c.] Quarterly contributions and liquidity shortfalls:

a Did the plan have a “funding shortfall” for the prior year? ☐ Yes ☐ No

b If Line 23a is “Yes,” were required quarterly installments for the current year made in a timely manner? ☐ Yes ☐ No

c [Minor rewording of the question and new check box added] If Line 23a is “Yes,” see instructions. If a liquidity requirement certification is attached, complete the following table as applicable and check here ☐:

Liquidity shortfalls as of the end of quarter of this plan year: (1) 1st | Liquidity shortfalls as of the end of quarter of this plan year: (2) 2nd | Liquidity shortfalls as of the end of quarter of this plan year: (3) 3rd | Liquidity shortfalls as of the end of quarter of this plan year: (4) 4th

Part V Assumptions Used to Determine Funding Target and Target Normal Cost —

24 [Current Line 21] Discount rate:

a Segment rates:: 1st segment: % | a Segment rates:: 2nd segment: % | a Segment rates:: 3rd segment: % | a Segment rates:: ☐ N/A, full yield curve used
% | % | %

b Applicable month (enter code)

25 [Current Line 22] Weighted average retirement age

26 [Current Line 23] Mortality Table(s):

26a Mortality table(s) (see instructions) ☐ Prescribed—combined ☐ Prescribed separate ☐ Substitute

26b [Attachment to current Line 23, new checkbox added.] If more than one mortality table was used, provide an explanation in this line describing the mortality table used for each population and the size of that population and check here. ☐

26c [Attachment to current Line 23, new checkbox added.] If substitute mortality tables are used, provide in this line of a summary of plan populations for which substitute mortality tables are used, plan populations for which the prescribed tables are used, and the last plan year for which IRS approval of the substitute mortality tables applies and check here ☐.

Part VI Miscellaneous Items

27 [Current Line 24] Has a change been made in the non-prescribed actuarial assumptions for the current plan year? If “Yes,” see instructions regarding required attachment ☐ Yes ☐ No.

28 [Current Line 25, minor rewording, new checkbox added.] If a method change has been made for the current plan year, provide a description of the change in this line and check here. ☐

29 Participant schedules

29a(i) [Current Line 26] Is the plan required to provide a Schedule of Active Participant Data? (See instructions) ☐ Yes ☐ No

a(ii) [Current Line 26 instructions moved to the face of the form] If 29a(i) is “Yes,” complete the schedule below and items 29a(iii) and (iv). If the plan is hard frozen and average annual accrued benefit data is entered instead of average compensation data, check this box ☐ (see instructions)

a(iii) [New] Average age of active participants as of the valuation date

a(iv) [New] Average credited service of active participants as of the valuation date

29b(i) [New] Is the plan required to provide a Schedule of Retired Participants and Beneficiaries Receiving Payment Data?(See instructions) ☐ Yes ☐ No.

b(ii) [New] If 29b(i) is “Yes,” complete the schedule below and items 29b(iii) and b(iv).

Schedule of Retired Participants and Beneficiaries Receiving Payment Data
Attained Age | Number | Average Annual In-Pay Benefit Amount
Under 55
55 to 59
Etc.
90 and up

b(iii) [New] Average Age for Retired Participants and Beneficiaries as of the valuation date

b(iv) [New] Average Annual In-Pay Benefit for Retired Participants and Beneficiaries as of the valuation date

29c(i) [New] Is the plan required to provide a Schedule of Terminated Vested Participant Data? (See the instructions) ☐ Yes ☐ No

c(ii) [New] If c(i)(a) is “Yes,” complete the schedule below and items c(iii) through c(vi).

Schedule of Terminated Vested Participant Data
Attained Age | Number | Average Annual In-Pay Benefit Amount
Under 25
25 to 29
Etc.
70 and up

c(iii) [New] Average age of terminated vested participants as of the valuation date

c(iv) [New] Average annual benefit of terminated vested participants as of the valuation date

c(v) [New] Assumed form of payment shown

c(vi) [New] Assumed age of first payment for benefits shown

30a [New] Is the plan required to provide a projection of expected benefit payments? (see instructions) ☐ Yes ☐ No

b [New] If “Yes,” complete the schedule below:

Plan Year | Schedule of Projection of Expected Annual Benefit Payments
Current plan year
Current plan year plus 1
Etc.
Current plan year plus 9 |

31 [Current Line 27] If the plan is subject to the alternative funding rules, enter applicable code and see instructions regarding attachment

Part VII Reconciliation of Unpaid Minimum Required Contributions For Prior Years

32 [Current Line 28] Unpaid minimum required contributions for all prior years

33 [Current Line 29; reference updated] Discounted employer contributions allocated toward unpaid minimum required contributions from prior years [Current Line 19a] (Line 22a)

34 [Current Line 30; references updated] Remaining amount of unpaid minimum required contributions [Current Line 28 minus Line 29] (Line 32 minus Line 33)

Part VIII Minimum Required Contribution For Current Year

35 [Current Line 31] Target normal cost and excess assets (see instructions):

a [Current Line 6] Target normal cost (Line 6c)

b [Current] Excess assets, if applicable, but not greater than Line 35a

36 [Current Line 32]

Amortization Installments | Outstanding balance | Installment
a Net shortfall amortization installment
b Waiver amortization installment

[Current attachment] Schedule of Amortization Bases

Amortization installments: (i) Type of base | Amortization installments: (ii) Present value of remaining installments | Amortization installments: (iii) Valuation date base was established | Amortization installments: (iv) Years remaining in amortization period | Amortization installments: (v) Current year installment
Total

37 [Current Line 33] If a waiver has been approved for this plan year, enter the date of the ruling letter granting approval (Month/Day/Year) and the waived amount

38 [Current Line 34; reflects renumbering of references] Total funding requirement before reflecting carryover/prefunding balances [Current Lines 31a−31b + 32a + 32b −33] (Lines 35a−35b + 36a + 36b−37)

| Carryover balance | Prefunding balance | Total balance
39 [Current Line 35] Balances elected for use to offset funding requirement.

40 [Current Line 36; reflects renumbering of references] Additional cash requirement [Current Line 34 minus Line 25] (Line 38 minus Line 39)

41 [Current Line 37; reflects renumbering of reference] Contributions allocated toward minimum required contribution for current year adjusted to valuation date [Current Line 19c] (Line 22c)

42 [Current Line 38; reflects renumbering of references] Present value of excess contributions for current year (see instructions)

a Total [Current Line 37 over Line 36] (excess, if any, of Line 41 over Line 40)

b Portion included in [Current Line 38a] Line 42a attributable to use of prefunding and funding standard carryover balances

43 [Current Line 39; reflects renumbering of references] Unpaid minimum required contribution for current year [Current Line 36 over Line 37] (excess, if any, of Line 40 over Line 41)

44 [Current Line 40; reflects renumbering of references] Unpaid minimum required contributions for all years

Part IX Pension Funding Under Pension Relief Act of 2010 (See Instructions)

45 [Current Line 41; reflects renumbering of references] If an election was made to use PRA 2010 funding relief for this plan:

a Schedule elected ☐ 2 plus 7 years ☐ 15 years

b Eligible plan year(s) for which the election in [Current Line 41a] Line 45a was made ☐ 2008 ☐ 2009 ☐ 2010 ☐ 2011

46 [Current Line 42] Amount of acceleration adjustment

47 [Current Line 43] Excess installment acceleration amount to be carried over to future plan years

Statement by Enrolled Actuary—Current—except that information previously reported on an attachment per the instructions will be reported on the Schedule.

To the best of my knowledge, the information supplied in this schedule and accompanying schedules, statements, and attachments, if any, is complete and accurate. Each prescribed assumption was applied in accordance with applicable law and regulations. In my opinion, each other assumption is reasonable (taking into account the experience of the plan and reasonable expectations) and such other assumptions, in combination, offer my best estimate of anticipated experience under the plan.

Signature of actuary

Date

Type or print name of actuary

Most recent enrollment number

Firm name

Telephone number (including area code)

Address of firm

If the actuary has not fully reflected any regulation or ruling promulgated under the statute in completing this schedule, provide the information requested in the instructions in this line and check here ☐

APPENDIX B

20XX Instructions for Form 5500 Annual Return/Report of Employee Benefit Plan

Code section references are to the Internal Revenue Code unless otherwise noted. ERISA refers to the Employee Retirement Income Security Act of 1974.

EFAST2 Processing System

Under the computerized ERISA Filing Acceptance System (EFAST2), you must electronically file your 20XX Form 5500. Your Form 5500 entries will be initially screened electronically. For more information, see the instructions for Electronic Filing Requirement and the EFAST2 Web site at www.efast.dol.gov. You cannot file a paper Form 5500 Annual Return/Report by mail or other delivery service.

About the Form 5500

The Form 5500, Annual Return/Report of Employee Benefit Plan, including all required schedules and attachments (Form 5500 Annual Return/Report), is used to report information concerning employee benefit plans and Direct Filing Entities (DFEs). Any administrator or sponsor of an employee benefit plan subject to ERISA must file information about each benefit plan every year (pursuant to Code section 6058 and ERISA sections 104 and 4065). Some plans participate in certain trusts, accounts, and other investment arrangements that file the Form 5500 Annual Return/Report as DFEs. See Who Must File and When To File.

The Internal Revenue Service (IRS), Department of Labor (DOL), and Pension Benefit Guaranty Corporation (PBGC) have consolidated certain returns and report forms to reduce the filing burden for plan administrators and employers. Employers and administrators who comply with the instructions for the Form 5500 generally will satisfy the annual reporting requirements for the DOL under Title I of ERISA and for PBGC under Title IV of ERISA and for the IRS under Code sections 6057(b), 6058, and 6059.

Defined contribution and defined benefit pension plans may have to file additional information with the IRS, including Form 5330, Return of Excise Taxes Related to Employee Benefit Plans, Form 5310-A, Notice of Plan Merger or Consolidation, Spinoff, or Transfer of Plan Assets or Liabilities; Notice of Qualified Separate Lines of Business, and Form 8955-SSA, Annual Registration Statement Identifying Separated Participants with Deferred Vested Benefits. See www.irs.gov for more information.

Plans covered by the PBGC have special additional requirements, including premiums and reporting certain transactions directly with that agency. See PBGC's Web site (www.pbgc.gov/practitioners/) for information on premium payments and reporting and disclosure.

Each Form 5500 must accurately reflect the characteristics and operations of the plan or arrangement being reported. The requirements for completing the Form 5500 will vary according to the type of plan or arrangement. The section What To File summarizes what information must be reported for different types of plans and arrangements. The Quick Reference Charts of Form 5500, Schedules and Attachments for (1) Pension Plans; (2) Direct Filing Entities (Other than GIAs); (3) Group Health Plans (and GIAs Providing Group Health Benefits); and (4) Welfare Plans Other Than Group Health, at the end of these instructions, give a brief guide to the annual return/report requirements of the 20XX Form 5500 for the various types of plans and other entities filing a Form 5500 Annual Return/Report. See also the “Troubleshooters Guide to Filing the ERISA Annual Reports” available on www.dol.gov/ebsa, which is intended to help filers comply with the Form 5500 and Form 5500-SF annual reporting requirements and avoid common reporting errors.

The Form 5500 must be filed electronically as noted above. See Section 3—Electronic Filing Requirement and the EFAST2 Web site at www.efast.dol.gov. Your Form 5500 entries will be initially screened electronically. Your entries must satisfy this screening for your filing to be received. Once received, your form may be subject to further detailed review, and your filing may be rejected based upon this further review.

ERISA and the Code provide for the assessment or imposition of penalties for not submitting the required information when due. See Penalties.

Annual reports filed under Title I of ERISA must be made available by plan administrators to plan participants and beneficiaries and by the DOL to the public pursuant to ERISA sections 104 and 106. Pursuant to Section 504 of the Pension Protection Act of 2006 (PPA) Pub. L. 109-280, this availability for defined benefit pension plans must include the posting of the Form 5500, Schedule SB or MB, and all of the Schedule SB or MB attachments on any plan sponsor intranet Web site (or Web site maintained by the plan administrator on behalf of the plan sponsor) that is used for the purpose of communicating with employees and not the public. Section 504 also requires DOL to display such information on DOL's Web site within 90 days after the filing of the plan's annual return/report. To see plan year 2009 and later forms, including actuarial information, see www.dol.gov/ebsa. See www.dol.gov/ebsa/actuarialsearch.html for plan year 2008 and short plan year 2009 actuarial information filed under the previous paper-based system.

Changes to Note

[The instructions for the year in which the revisions are implemented will include such items in the “Changes to Note” section.]

Table of Contents

[The Instructions will continue include a Table of Contents in substantially the same format as the existing Table of Contents, updated as required.]

How To Get Assistance

If you need help completing this form or have related questions, call the EFAST2 Help Line at 1-866-GO-EFAST (1-866-463-3278) (toll-free) or access the EFAST2 or IRS Web sites. The EFAST2 Help Line is available Monday through Friday from 8:00 a.m. to 8:00 p.m., Eastern Time.

You can access the EFAST2 Web site 24 hours a day, 7 days a week at www.efast.dol.gov to:

• File the Form 5500-SF or Form 5500, and any needed schedules or attachments.

• Check on the status of a filing you submitted.

• View filings posted by EFAST2.

• Register for electronic credentials to sign or submit filings.

• View forms and related instructions.

• Get information regarding EFAST2, including approved software vendors.

• See answers to frequently asked questions about the Form 5500-SF, the Form 5500 and its schedules, and EFAST2.

• Access the main EBSA and DOL Web sites for news, regulations, and publications.

You can access the IRS Web site 24 hours a day, 7 days a week at www.irs.gov to:

• View forms, instructions, and publications.

• See answers to frequently asked tax questions.

• Search publications on-line by topic or keyword.

• Send comments or request help by email.

• Sign up to receive local and national tax news by email.

You can order other IRS forms and publications at the IRS Web site at www.irs.gov/orderforms. You can order EBSA publications by calling 1-866-444-EBSA (3272).

Section 1: Who Must File

A return/report must be filed every year for every pension benefit plan, welfare benefit plan, and for every entity that files as a DFE as specified below (pursuant to Code section 6058 and ERISA sections 104 and 4065). If you are a small plan (generally under 100 participants at the beginning of the plan year), that does not provide group health benefits, you may be eligible to file the Form 5500-SF instead of the Form 5500. For more information, see the instructions to the Form 5500-SF.

Pension Benefit Plan

All pension benefit plans covered by ERISA must file an annual return/report except as provided in this section. The return/report must be filed whether or not the plan is “tax-qualified,” benefits no longer accrue, contributions were not made this plan year, or contributions are no longer made. Pension benefit plans required to file include both defined benefit plans and defined contribution plans.

The following are among the pension benefit plans for which a return/report must be filed.

1. Profit-sharing plans, stock bonus plans, money purchase plans, 401(k) plans, etc.

2. 403(b) plans subject to Title I of ERISA. For more information regarding filing requirements for these annuity arrangements under Code section 403(b)(1) and custodial accounts established under Code section 403(b)(7) for regulated investment company stock, see Field Assistance Bulletins 2009-02 and 2010-01.

3. Individual retirement accounts (IRAs) established by an employer under Code section 408(c).

4. Church pension plans electing coverage under Code section 410(d).

5. Pension benefit plans that cover residents of Puerto Rico, the U.S. Virgin Islands, Guam, Wake Island, or American Samoa. This includes a plan that elects to have the provisions of section 1022(i)(2) of ERISA apply.

6. Plans that satisfy the Actual Deferral Percentage requirements of Code section 401(k)(3)(A)(ii) by adopting the “SIMPLE” provisions of section 401(k)(11).

See What To File for more information about what must be completed for pension plans.

Do Not File a Form 5500 Annual Return/Report for a Pension Benefit Plan That Is Any of the Following:

1. An unfunded excess benefit plan. See ERISA section 4(b)(5).

2. An annuity or custodial account arrangement under Code sections 403(b)(1) or (7) not established or maintained by an employer as described in DOL Regulation 29 CFR 2510.3-2(f).

3. A Savings Incentive Match Plan for Employees of Small Employers (SIMPLE) that involves SIMPLE IRAs under Code section 408(p).

4. A simplified employee pension (SEP) or a salary reduction SEP described in Code section 408(k) that conforms to the alternative method of compliance in 29 CFR 2520.104-48 or 2520.104-49. A SEP is a pension plan that meets certain minimum qualifications regarding eligibility and employer contributions.

5. A church pension benefit plan not electing coverage under Code section 410(d).

6. A pension plan that is maintained outside the United States primarily for the benefit of persons substantially all of whom are nonresident aliens. However, certain foreign plans are required to file the Form 5500-EZ with the IRS or may file the Form 5500-SF electronically with EFAST2. See the instructions to the Form 5500-EZ for the filing requirements. For more information, go to www.irs.gov/ep or call 1-877-829-5500.

7. An unfunded pension plan for a select group of management or highly compensated employees that meets the requirements of 29 CFR 2520.104-23, including timely filing of a registration statement with the DOL.

8. An unfunded dues financed pension benefit plan that meets the alternative method of compliance provided by 29 CFR 2520.104-27.

9. An individual retirement account or annuity not considered a pension plan under 29 CFR 2510.3-2(d).

10. A governmental plan.

11. A “one-participant plan,” as defined below. However, certain one-participant plans are required to file the Form 5500-EZ, Annual Return of One-Participant (Owners and Their Spouses) Retirement Plan with the IRS or, may file the Form 5500-SF, Short Form Annual Return/Report of Employee Benefit Plan, electronically with EFAST2. For this purpose, a “one-participant plan” is:

a. A pension benefit plan that covers only an individual or an individual and his or her spouse who wholly own a trade or business, whether incorporated or unincorporated; or

b. A pension benefit plan for a partnership that covers only the partners or the partners and the partners' spouses.

See the instructions to the Form 5500-EZ and the Form 5500-SF for filing requirements. For more information, go to www.irs.gov/ep or call 1-877-829-5500.

Welfare Benefit Plan

Plans that Provide Health Benefits (Group Health Plans)

All employee benefit plans covered by Title I of ERISA that provide group health benefits consisting of medical care as defined in section 733(a)(2) of ERISA are required to file a Form 5500 Annual Return/Report, unless specifically exempt below, regardless of the plan size or type of funding.

MEWA Reminders: The administrator of a group health plan required to file a Form M-1, Report for Multiple Employer Welfare Arrangements (MEWAs) and Certain Entities Claiming Exception (ECEs), must also file the Form 5500 Annual Return/Report for the group health plan. The administrator of a group health plan that provides benefits wholly or partially through a Multiple Employer Welfare Arrangement (MEWA) as defined in ERISA section 3(40) must file a Form 5500 Annual Return/Report, unless the plan is part of a Group Insurance Arrangement (GIA) that files a Form 5500 Annual Return/Report as a DFE on behalf of all the participating plans.

Welfare Benefit Plans Other Than Group Health Plans

All welfare benefit plans covered by ERISA that do not provide health benefits consisting of medical care as defined in section 733(a)(2) of ERISA are required to file a Form 5500, except as provided in this section. Welfare benefits other than group health include disability, life insurance, apprenticeship and training, scholarship funds, severance pay, etc. See What To File for more information.

[CAUTION] If the plan provides both health benefits and other types of benefits, then it is subject to the filing requirements for a plan that provides health benefits, including the requirement that all such plans file the Form 5500 regardless of size.

Do Not File a Form 5500 Annual Return/Report for a Welfare Benefit Plan That Is Any of the Following:

1. A welfare benefit plan that does not provide health benefits and that covered fewer than 100 participants as of the beginning of the plan year and is unfunded, fully insured, or a combination of insured and unfunded, as specified in 29 CFR 2520.104-20.

Note. To determine whether the plan covers fewer than 100 participants for purposes of this filing exemption for insured, unfunded and combination insured/unfunded welfare plans that do not provide health benefits, see instructions for Lines 6 and 7 on counting participants in a welfare plan. See also 29 CFR 2510.3-3(d).

a. An unfunded welfare benefit plan has its benefits paid as needed directly from the general assets of the employer or employee organization that sponsors the plan. Plans that are NOT unfunded include those plans that received employee (or former employee) contributions during the plan year and/or used a trust or separately maintained fund (including a Code section 501(c)(9) trust) to hold plan assets or act as a conduit for the transfer of plan assets during the year. A welfare benefit plan with employee contributions that is associated with a cafeteria plan under Code section 125 may be treated for annual reporting purposes as an unfunded welfare plan if it meets the requirements of DOL Technical Release 92-01, 57 FR 23272 (June 2, 1992) and 58 FR 45359 (Aug. 27, 1993). The mere receipt of COBRA contributions or other after-tax participant contributions (e.g., retiree contributions) by a cafeteria plan would not by itself affect the availability of the relief provided for cafeteria plans that otherwise meet the requirements of DOL Technical Release 92-01. See 61 FR 41220, 41222-23 (Aug. 7, 1996).

b. A fully insured welfare benefit plan has its benefits provided exclusively through insurance contracts or policies, the premiums of which must be paid directly to the insurance carrier by the employer or employee organization from its general assets or partly from its general assets and partly from contributions by its employees or members (which the employer or employee organization forwards within three (3) months of receipt). The insurance contracts or policies discussed above must be issued by an insurance company or similar organization that is qualified to do business in any state.

c. A combination unfunded/insured welfare benefit plan has its benefits provided partially as an unfunded plan and partially as a fully insured plan. An example of such a plan is a welfare benefit plan that provides disability benefits as in a above and life insurance benefits as in b above. See 29 CFR 2520.104-20.

2. A welfare benefit plan maintained outside the United States primarily for persons substantially all of whom are nonresident aliens.

3. A governmental plan.

4. An unfunded or insured welfare benefit plan maintained for a select group of management or highly compensated employees, which meets the requirements of 29 CFR 2520.104-24.

5. An employee benefit plan maintained only to comply with workers' compensation, unemployment compensation, or disability insurance laws.

6. A group health plan or other welfare benefit plan that participates in a group insurance arrangement (GIA) that files a Form 5500 Annual Return/Report on behalf of the group health plan or other welfare benefit plan as specified in 29 CFR 2520.103-2. See 29 CFR 2520.104-43.

7. An apprenticeship or training plan meeting all of the conditions specified in 29 CFR 2520.104-22.

8. An unfunded dues financed welfare benefit plan that does not provide health benefits exempted by 29 CFR 2520.104-26.

9. A church plan under ERISA section 3(33).

10. A welfare benefit plan that covers only an individual or an individual and his or her spouse who wholly own a trade or business, whether incorporated or unincorporated, or that covers only the partners or the partners and the partners' spouses. See 29 CFR 2510.3-3(b).

Direct Filing Entity (DFE)

Some plans participate in certain trusts, accounts, and other investment arrangements that file the Form 5500 Annual Return/Report as a DFE in accordance with the Direct Filing Entity (DFE) Filing Requirements. A Form 5500 Annual Return/Report must be filed for a master trust. A Form 5500 Annual Return/Report is not required but may be filed for a common/collective trust (CCT), a pooled separate account (PSA), an investment entity that hold plan assets permitted under 29 CFR 2520.103-12(103-12 IE), or a group insurance arrangement (GIA). Plans that participate in CCTs, PSAs, 103-12 IEs, or GIAs that file as DFEs, however, generally are eligible for certain annual reporting relief. For reporting purposes, a CCT, PSA, 103-12 IE, or GIA is not considered a DFE unless a Form 5500 and all required attachments are filed for it in accordance with the Direct Filing Entity (DFE) Filing Requirements.

Note. Special requirements also apply to Schedules D and H attached to the Form 5500 filed by plans participating in master trusts, CCTs, PSAs, and 103-12 IEs. See these schedules and their instructions.

Section 2: When To File

Plans and GIAs. File 20XX returns/reports for plan and GIA years that began in 20XX. All required forms, schedules, statements, and attachments must be filed by the last day of the 7th calendar month after the end of the plan or GIA year (not to exceed 12 months in length) that began in 20XX. If the plan or GIA year differs from the 20XX calendar year, fill in the fiscal year beginning and ending dates in the space provided.

Short Years. For a plan year of less than 12 months (short plan year), file the form and applicable schedules by the last day of the 7th calendar month after the short plan year ends or by the extended due date, if filing under an authorized extension of time. Fill in the short plan year beginning and ending dates in the space provided and check the appropriate box in Part I, Line B, of the Form 5500. For purposes of this return/report, the short plan year ends on the date of the change in accounting period or upon the complete distribution of assets of the plan. Also see the instructions for Final Return/Report to determine if “the final return/report” box in Line B should be checked.

DFEs other than GIAs. File 20XX returns/reports no later than 9½ months after the end of the DFE year that ended in 20XX. A Form 5500 Annual Return/Report filed for a DFE must report information for the DFE year (not to exceed 12 months in length). If the DFE year differs from the 20XX calendar year, fill in the fiscal year beginning and ending dates in the space provided.

Notes. (1) If the filing due date falls on a Saturday, Sunday, or Federal holiday, the return/report may be filed on the next day that is not a Saturday, Sunday, or Federal holiday. (2) If the 20XX+1 Form 5500 is not available before the plan or DFE filing is due, use the 20XX Form 5500 and enter the 20XX+1 fiscal year beginning and ending dates on the line provided at the top of the form.

Extension of Time To File

Using Form 5558

A plan or GIA may obtain a one-time extension of time to file a Form 5500 Annual Return/Report (up to 2½ months) by filing IRS Form 5558, Application for Extension of Time To File Certain Employee Plan Returns, on or before the normal due date (not including any extensions) of the return/report. You MUST file Form 5558 with the IRS. Approved copies of the Form 5558 will not be returned to the filer. A copy of the completed extension request must, however, be retained with the filer's records.

File Form 5558 with the Department of the Treasury, Internal Revenue Service Center, Ogden, UT 84201-0045.

Using Extension of Time To File Federal Income Tax Return

An automatic extension of time to file the Form 5500 Annual Return/Report until the due date of the federal income tax return of the employer will be granted if all of the following conditions are met:

(1) the plan year and the employer's tax year are the same;

(2) the employer has been granted an extension of time to file its federal income tax return to a date later than the normal due date for filing the Form 5500 Annual Return/Report; and

(3) a copy of the application for extension of time to file the federal income tax return is maintained with the filer's records. An extension granted by using this automatic extension procedure CANNOT be extended further by filing a Form 5558, nor can it be extended beyond a total of 9½ months beyond the close of the plan year.

Note. An extension of time to file the Form 5500 Annual Return/Report does not operate as an extension of time to file a Form 5500 Annual Return/Report filed for a DFE (other than a GIA), to file PBGC premiums or annual financial and actuarial reports (if required by section 4010 of ERISA) or to file the Form 8955-SSA (Annual Registration Statement Identifying Separated Participants with Deferred Vested Benefits) (required to be filed with the IRS under Code section 6057(a)).

Other Extensions of Time

The IRS, DOL, and PBGC may announce special extensions of time under certain circumstances, such as extensions for Presidentially-declared disasters or for service in, or in support of, the Armed Forces of the United States in a combat zone. See www.irs.gov, www.efast.dol.gov, and www.pbgc.gov/practitioners for announcements regarding such special extensions. If you are relying on one of these announced special extensions, check the appropriate box on Form 5500, Part I, Line D, and enter a description of the announced authority for the extension.

Delinquent Filer Voluntary Compliance (DFVC) Program

The DFVC Program facilitates voluntary compliance by plan administrators who are delinquent in filing annual reports under Title I of ERISA by permitting administrators to pay reduced civil penalties for voluntarily complying with their DOL annual reporting obligations. If the Form 5500 is being filed under the DFVC Program, check the appropriate box in Form 5500, Part I, Line D, to indicate that the Form 5500 is being filed under the DFVC Program. See www.efast.dol.gov for additional information.

Plan administrators are reminded that they can use the online calculator available at www.dol.gov/ebsa/calculator/dfvcpmain.html to compute the penalties due under the program. Payments under the DFVC Program also may be submitted electronically. For information on how to pay DFVC Program payments online, go to www.dol.gov/ebsa.

[CAUTION] Filers who wish to participate in the DFVC Program for plan years prior to 20XX-3 must use the 20XX version of Form 5500 or, if applicable, Form 5500-SF. Use the Form 5500 Version Selection Tool available at www.efast.dol.gov for further information.

Section 3: Electronic Filing Requirement

Under the computerized ERISA Filing Acceptance System (EFAST2), you must file your 20XX Form 5500 Annual Return/Report electronically. You may file online using EFAST2's web-based filing system or you may file through an EFAST2-approved vendor. Detailed information on electronic filing is available at www.efast.dol.gov. For telephone assistance, call the EFAST2 Help Line at 1-866-GO-EFAST (1-866-463-3278). The EFAST2 Help Line is available Monday through Friday from 8:00 a.m. to 8:00 p.m., Eastern Time.

[CAUTION] Annual returns/reports filed under Title I of ERISA must be made available by plan administrators to plan participants and beneficiaries and by the DOL to the public pursuant to ERISA sections 104 and 106. Even though the Form 5500 Annual Return/Report must be filed electronically, the administrator must keep a copy of the Form 5500, including schedules and attachments, with all required signatures on file as part of the plan's records and must make a paper copy available upon request to participants, beneficiaries, and the DOL as required by section 104 of ERISA and 29 CFR 2520.103-1. Filers may use electronic media for record maintenance and retention, so long as they meet the applicable requirements.

Generally, questions on the Form 5500 relate to the plan year entered at the top of the first page of the form. Therefore, answer all questions on the 20XX Form 5500 with respect to the 20XX plan year unless otherwise explicitly stated in the instructions or on the form itself.

Your entries must be in the proper format in order for the EFAST2 system to process your filing. For example, if a question requires you to enter a dollar amount, you cannot enter a word. Your software will not let you submit your return/report unless all entries are in the proper format. To reduce the possibility of correspondence and penalties:

• Complete all lines on the Form 5500 unless otherwise specified. Also complete and attach, as required, applicable schedules and attachments.

• Do not enter “N/A” or “Not Applicable” on the Form 5500 Annual Return/Report unless specifically permitted. “Yes” or “No” questions on the forms and schedules cannot be left blank, unless specifically permitted. Answer either “Yes” or “No,” but not both.

All schedules and attachments to the Form 5500 must be properly identified, and must include the name of the plan or DFE, EIN, and plan number (PN) as found on the Form 5500, lines, 1a, 2b, and 1b, respectively. At the top of each attachment, indicate the schedule and line, if any to which the attachment relates.

Check your return/report for errors before signing or submitting it to EFAST2. Your filing software or, if you are using it, the EFAST2 web-based filing system will allow you to check your return/report for errors. If, after reasonable attempts to correct your filing to eliminate any identified problem or problems, you are unable to address them, or you believe that you are receiving the message in error, call the EFAST2 Help Line at 1-866-GO-EFAST (1-866-463-3278) or contact the service provider you used to help prepare and file your annual return/report.

Once you complete the return/report and finish the electronic signature process, you can electronically submit it to EFAST2. When you electronically submit your return/report, EFAST2 is designed to immediately notify you if your submission was received and whether the return/report is ready to be processed by EFAST2. If EFAST2 does not notify you that your submission was successfully received and is ready to be processed, you will need to take steps to correct the problem or you may be deemed a non-filer subject to penalties from DOL, IRS, and/or PBGC.

Once EFAST2 receives your return/report, the EFAST2 system should be able to provide a filing status within 20 minutes. The person submitting the filing should check back into the EFAST2 system to determine the filing status of your return/report. The filing status message will include a list of filing errors or warnings that EFAST2 may have identified in your filing. If EFAST2 did not identify any filing errors or warnings, EFAST2 will show the filing status of your return/report as “Filing_Received.” Persons other than the submitter can check whether the filing was received by the system by calling the EFAST2 Help Line at 1-866-GO-EFAST (1-866-463-3278) and using the automated telephone system.

To reduce the possibility of correspondence and penalties from the DOL, IRS, and/or PBGC, you should do the following: (1) Before submitting your return/report to EFAST2, check it for errors, and (2) after you have submitted it to EFAST2, verify that you have received a filing status of “Filing Received” and attempt to correct and resolve any errors or warnings listed in the status report. For more information on whether the filing must be corrected and resubmitted or corrected as an amended filing, go to the EFAST2 Web site at www.efast.dol.gov, Frequently Asked Questions (FAQs), or call the EFAST2 Help Line at 1-866-GO-EFAST (1-866-463-3278).

Note. Even after being received by the EFAST2 system, your return/report filing may be subject to further detailed review by DOL, IRS, and/or PBGC, and your filing may be deemed deficient based upon this further review. See Penalties on Page X.

[CAUTION] Do not enter social security numbers in response to questions asking for an employer identification number (EIN). Because of privacy concerns, the inclusion of a social security number or any portion thereof on the Form 5500 or on a schedule or attachment that is open to public inspection may result in the rejection of the filing. If you discover a filing disclosed on the EFAST2 Web site that contains a social security number, immediately call the EFAST2 Help Line at 1-866-GO-EFAST (1-866-463-3278).

Employers without an EIN must apply for one as soon as possible. The EBSA does not issue EINs. To apply for an EIN from the IRS:

• Mail or fax Form SS-4, Application for Employer Identification Number, obtained at the IRS Web site at www.irs.gov.

• Call 1-800-829-4933 to receive your EIN by telephone.

• Select the Online EIN Application link at www.irs.gov. The EIN is issued immediately once the application information is validated. (The online application process is not yet available for corporations with addresses in foreign countries).

[CAUTION] Do not attach a copy of the annual registration statement (IRS Form 8955-SSA) identifying separated participants with deferred vested benefits, or a previous year's Schedule SSA (Form 5500) to your 20XX Form 5500 Annual Return/Report. The annual registration statement must be filed directly with the IRS and cannot be attached to a Form 5500 Annual Return/Report submission with EFAST2.

Amended Return/Report

File an amended return/report to correct errors and/or omissions in a previously filed annual return/report for the 20XX plan year. The amended Form 5500 and any amended schedules and/or attachments must conform to the requirements in these instructions. See the DOL Web site at www.efast.dol.gov for information on filing amended returns/reports for prior years.

[TIP] Check the Line B(2) box for “an amended return/report” if you filed a previous 20XX annual return/report that was given a “Filing_Received,” “Filing_Error,” or “Filing_Stopped” status by EFAST2. Do not check the Line B box for “an amended return/report” if your previous submission attempts were not successfully received by EFAST2 because of problems with the transmission of your return/report. For more information, go to the EFAST2 Web site at www.efast.dol.gov or call the EFAST2 Help Line at 1-866-GO-EFAST (1-866-463-3278).

Final Return/Report

If all assets under the plan (including insurance/annuity contracts) have been distributed to the participants and beneficiaries or legally transferred to the control of another plan, and when all liabilities for which benefits may be paid under a welfare benefit plan have been satisfied, check the final return/report box in Part I, Line B(3) at the top of the Form 5500. Do not mark the final return/report box if you are reporting participants and/or assets at the end of the plan year. If a trustee has been appointed for a terminated defined benefit pension plan pursuant to ERISA section 4042, the last plan year for which the return/report must be filed is the year in which the trustee is appointed. If you are in this situation, you may contact DOL at PBGCTrusteedPlan@dol.gov. See specific instructions for Part I, Line B(5) for the simplified filing requirements for plans with 500 or fewer participants.

Examples:

Mergers/Consolidations

A final return/report should be filed for the plan year (12 months or less) that ends when all plan assets were legally transferred to the control of another plan.

[TIP] Remember to identify, on Schedule H, Line 5, the plan to which assets were transferred. The transferee plan must also report the merger/consolidation on its own Form 5500, Schedule H Line 5.

Pension and Welfare Plans That Terminated Without Distributing All Assets

If the plan was terminated, but all plan assets were not distributed, a return/report must be filed for each year the plan has assets. The return/report must be filed by the plan administrator, if designated, or by the person or persons who actually control the plan's assets/property.

Group Health Plans and Other Welfare Plans Still Liable To Pay Benefits

A welfare plan cannot file a final return/report if the plan is still liable to pay benefits for claims that were incurred prior to the termination date, but not yet paid. See 29 CFR 2520.104b-2(g)(2)(ii).

Signature and Date

For purposes of Title I of ERISA, the plan administrator is required to file the Form 5500. If the plan administrator does not sign a filing, the filing status will indicate that there is an error with your filing, and your filing will be subject to further review, correspondence, rejection, and civil penalties. The plan administrator must electronically sign the Form 5500 Annual Return/Report or 5500-SF submitted to EFAST2.

Note. If the plan administrator is an entity, the electronic signature must be in the name of a person authorized to sign on behalf of the plan administrator.

[CAUTION] After submitting your filing, you must check the Filing Status. If the filing status is “Processing Stopped,” it is possible your submission was not sent with a valid electronic signature as required, and depending on the error, may be considered not to have been filed. By looking closer at the Filing Status, you can see specific error messages applicable to the transmitted filing and determine whether it was sent with a valid electronic signature and what other errors may need to be corrected.

Authorized Service Provider Signatures. If the plan administrator elects to have a service provider who manages the filing process for the plan get EFAST2 signing credentials and submit the electronic Form 5500 Annual Return/Report for the plan:

(1) the service provider must receive specific written authorization from the plan administrator to submit the plan's electronic filing;

(2) the plan administrator must manually sign a paper copy of the electronically completed Form 5500 Annual Return/Report, and the service provider must include a PDF copy of the manually signed Form 5500 as an attachment to the electronic Form 5500 Annual Return/Report submitted to EFAST2;

(3) the service provider must communicate to the plan administrator any inquiries received from EFAST2, DOL, IRS or PBGC regarding the filing;

(4) the service provider must communicate to the plan administrator that, by electing to use this option, the image of the plan administrator's manual signature will be included with the rest of the return/report posted by the Labor Department on the Internet for public disclosure; and

(5) the plan administrator must keep the manually signed copy of the Form 5500, with all required schedules and attachments, as part of the plan's records. For more information on the electronic signature option, see the EFAST2 All-Electronic Filing System FAQs at www.dol.gov/ebsa/faqs/faq-EFAST2.html.

[CAUTION] Service providers should consider implications of IRS tax return preparer rules.

Note. The Code permits either the plan sponsor/employer or the administrator to sign the filing. However, any Form 5500 Annual Return/Report that is not electronically signed by the plan administrator will be subject to rejection and civil penalties under Title I of ERISA.

For DFE filings, a person authorized to sign on behalf of the DFE must sign for the DFE.

The Form 5500 Annual Return/Report must be filed electronically and signed. To obtain an electronic signature, go to www.efast.dol.gov and register in EFAST2 as a signer. You will be provided with a UserID and PIN. Both the UserID and PIN are needed to sign the Form 5500. The plan administrator must keep a copy of the Form 5500, including schedules and attachments with all required signatures on file as part of the plan's records. See 29 CFR 2520.103-1.

Electronic signatures on annual returns/reports filed under EFAST2 are governed by the applicable statutory and regulatory requirements.

Preparer Information

Enter the “Preparer's name (including firm's name, if applicable), address, and telephone number” at the bottom of the first page of Form 5500. A preparer is any person who prepares an annual return/report for compensation, or who employs one or more persons to prepare the annual return/report for compensation. If the person who prepared the annual return/report is not the employer named in Line 2a or the plan administrator named in Line 3a, you must name the person on this line. If there are several people who prepare Form 5500 and applicable schedules, please name the person who is primarily responsible for the preparation of the annual return/report.

Note. You must complete preparer information if you are required to file at least 250 returns of any type with the IRS during the calendar year. However, if you are a small filer (files fewer than 250 returns of any type with the IRS during the calendar year), and you do not enter preparer information on the Form 5500, then you must file the paper Form 5500-SUP with the IRS. See the Treasury regulations on “Employee Retirement Benefit Plan Returns Required on Magnetic Media” (See 79 FR 58256 at http://federalregister.gov/a/2014-23161) and Instructions for Form 5500-SUP for more information.

Change in Plan Year

Generally, only defined benefit pension plans need to get approval for a change in the plan year. See Code section 412(d)(1). However, under Rev. Proc. 87-27, 1987-1 C.B. 769, these pension plans may be eligible for automatic approval of a change in plan year. If a change in plan year for a pension or welfare benefit plan creates a short plan year, file the form and applicable schedules by the last day of the 7th calendar month after the short plan year ends or by the extended due date, if filing under an authorized extension of time. Fill in the short plan year beginning and ending dates in the space provided in Part I and check the appropriate box in Part I, Line B of the Form 5500. For purposes of this return/report, the short plan year ends on the date of the change in accounting period or upon the complete distribution of assets of the plan. Also, see the instructions for the Final Return/Report to determine if “Final Return/Report” in Line B should be checked.

Penalties

Plan administrators and plan sponsors must provide complete and accurate information and must otherwise comply fully with the filing requirements. ERISA and the Code provide for the DOL and the IRS, respectively, to assess or impose penalties for not giving complete and accurate information and for not filing complete and accurate statements and returns/reports. Certain penalties are administrative (i.e., they may be imposed or assessed by one of the governmental agencies delegated to administer the collection of the annual return/report data). Others require a legal conviction.

Administrative Penalties

Listed below are various penalties under ERISA and the Code that may be assessed or imposed for not meeting the annual return/report filing requirements. Generally, whether the penalty is under ERISA or the Code, or both, depends upon the Agency for which the information is required to be filed. One or more of the following administrative penalties may be assessed or imposed in the event of incomplete filings or filings received after the due date unless it is determined that your failure to file properly is for reasonable cause:

1. A penalty of up to $1,100 a day (or higher amount if adjusted pursuant to the Federal Civil Penalties Inflation Adjustment Act of 1990, as amended) for each day a plan administrator fails or refuses to file a complete and accurate report. See ERISA section 502(c)(2) and 29 CFR 2560.502c-2.

2. A penalty of $25 a day (up to $15,000) for not filing returns for certain plans of deferred compensation, trusts and annuities, and bond purchase plans by the due date(s). See Code section 6652(e).

3. A penalty of $1,000 for each failure to file an actuarial statement (Schedule MB (Form 5500) or Schedule SB (Form 5500)) required by the applicable instructions. See Code section 6692.

Other Penalties

1. Any individual who willfully violates any provision of Part 1 of Title I of ERISA shall on conviction be fined not more than $100,000 or imprisoned not more than 10 years, or both. See ERISA section 501.

2. A penalty up to $10,000, five (5) years imprisonment, or both, may be imposed for making any false statement or representation of fact, knowing it to be false, or for knowingly concealing or not disclosing any fact required by ERISA. See section 1027, Title 18, U.S. Code, as amended by section 111 of ERISA.

Section 4: What To File

The Form 5500 Annual Return/Report reporting requirements vary depending on whether the Form 5500 is being filed for a “large plan,” a “small plan,” and/or a DFE, and on the particular type of plan (e.g., group health plan, welfare plan other than group health, defined benefit pension plan, defined contribution pension plan) or the kind of DFE involved (i.e. common/collective trust (CCT), pooled separate account (PSA), master trust, 103-12 investment entity (103-12 IE), or group insurance arrangement (GIA). The instructions below provide detailed information about each of the Form 5500 schedules and which plans and DFEs are required to file them.

The schedules are grouped in the instructions by type: (1) Pension Benefit Schedules; and (2) General Schedules (including the new Schedule J (Group Health Plan Information). Each schedule is listed separately with a description of the subject matter covered by the schedule and the plans and DFEs that are required to file the schedule.

Filing requirements also are listed by type of filer: (1) Filing Requirements for Pension Benefit Plan; (2) Filing Requirements for Plans Providing Group Health Benefits; (3) Filing Requirements for Welfare Benefit Plan Other Than Group Health; and (4) DFE Filing Requirements. For each filer type, there is a list of the schedules that must be filed with the Form 5500 (including where applicable, separate lists for large plan filers, small plan filers, and different types of DFEs). The filing requirements also are summarized at the end of these instructions in a series of “Quick Reference Charts of Form 5500, Schedules, and Attachments” for the various types of filers.

Generally, a return/report filed for a pension benefit plan or welfare benefit plan other than a group health plan that covered fewer than 100 participants as of the beginning of the plan year should be completed following the requirements below for a “small plan,” and a return/report filed for a plan that covered 100 or more participants as of the beginning of the plan year should be completed following the requirements below for a “large plan.”

Use the number of participants required to be entered in Line 6 of the Form 5500 to determine whether a plan is a “small plan” or “large plan.”

Exceptions:

(1) 80-120 Participant Rule: If the number of participants reported at the beginning of the year was between 80 and 120 (inclusive), and a Form 5500 Annual Return/Report or Form 5500-SF was filed for the prior plan year, you may elect to complete the return/report in the same category (“large plan” or “small plan”) as was filed for the prior return/report. Thus, if a Form 5500-SF or a Form 5500 Annual Return/Report was filed for the 20XX-1 plan year as a small plan, and the plan either had fewer than 100 participants as of the beginning of the plan year as reported on Form 5500 Annual Return/Report or the plan is eligible to claim small plan status under 29 CFR 103-1(d) and had 120 or fewer participants as of the beginning of the plan year, you may elect to complete the 20XX Form 5500 and schedules in accordance with the instructions for a small plan, including for eligible filers, filing the Form 5500-SF instead of the Form 5500. Defined benefit pension plans, welfare plans, and defined contribution pension plans that check the “first plan” year box use the number reported on Form 5500, Line 6 for this measure. Defined contribution pension plans use the number reported on Form 5500, Line 7g(1)).

(2) Short Plan Year Rule: If the plan had a short plan year of seven (7) months or less for either the prior plan year or the plan year being reported on the 20XX Form 5500, an election can be made to defer filing the accountant's report in accordance with 29 CFR 2520.104-50. If such an election was made for the prior plan year, the 20XX Form 5500 must be completed following the requirements for a large plan, including the attachment of the Schedule H and the accountant's reports, regardless of the number of participants entered in Part II, Line 6 for defined benefit pension plans, welfare plans, and defined contribution pension plans that check the “first plan” year box, or Line 7g(1) for defined contribution pension plans.

Form 5500 Schedules

Pension Schedules

Schedule R (Retirement Plan Information) is required for both tax-qualified and nonqualified pension benefit plan unless otherwise specified under Limited Pension Plan Reporting. For additional information, see the Schedule R instructions.

Schedule MB (Multiemployer Defined Benefit Plan and Certain Money Purchase Plan Actuarial Information) is required for most multiemployer defined benefit pension plans and for defined contribution pension plans that currently amortize a waiver of the minimum funding requirements specified in the instructions for the Schedule MB. For additional information, see the instructions for the Schedule MB and the Schedule R.

Schedule SB (Single-Employer Defined Benefit Plan Actuarial Information) is required for most single-employer defined benefit pension plans, including multiple-employer defined benefit pension plans. For additional information, see the instructions for the Schedule SB.

Schedule E (ESOP Annual Information) is required for all pension benefit plans with ESOP benefits. For additional information, see the Schedule E instructions.

General Schedules

Schedule H (Financial Information) is required for pension benefit plans and welfare benefit plans that are not eligible to file the Form 5500-SF and for all DFE filings. All plans and DFEs required to file the Schedule H are also generally required to attach to the Form 5500 Annual Return/Report a “Schedule of Assets Held for Investment At End of Year,” and, if applicable, a “Schedule of Assets Disposed of During the Plan Year,” a “Schedule of Reportable Transactions,” and a “Schedule of Delinquent Participant Contributions.” For additional information, see the Schedule H instructions.

Large employee benefit plans, 103-12 IEs, and GIAs filing the Schedule H are generally required to engage an independent qualified public accountant (IQPA) and attach a report of the IQPA pursuant to ERISA section 103(a)(3)(A).

Small employee benefit plans are not required to attach a report of the IQPA if they meet the conditions for eligibility for a waiver of the audit requirements as set forth in 2520.104-46. For these purposes, defined benefit pension plans, welfare plans, and defined contribution pension plans that check the “first plan” year box use the participant count on Line 6, and defined contribution pension plans can use the participant count on Line 7g(1).

Exceptions: Insured, unfunded, or combination unfunded/insured welfare plans including group health plans, as described in 29 CFR 2520.104-44(b)(1), and certain pension plans and arrangements, as described in 29 CFR 2520.104-44(b)(2) and in Limited Pension Plan Reporting, are exempt from completing the Schedule H.

Schedule A (Insurance Information) is required if any benefits under an employee benefit plan are provided by an insurance company, insurance service or other similar organization, or through a managed care organization or a health maintenance organization. This includes investment contracts with insurance companies, such as guaranteed investment contracts, pooled separate accounts, and variable annuities. Schedule A is not required for fully insured group health plans with fewer than 100 participants. For additional information, see the Schedule A instructions.

Note. Do not file Schedule A for Administrative Services Only (ASO) contracts. You do not file Schedule A for a plan if a Schedule A is filed for the contract as part of the Form 5500 Annual Return/Report filed directly by a master trust or 103-12 IE in which that plan invested/participated during the plan year.

Schedule C (Service Provider Information) is generally required for all pension plans filing the Form 5500, master trusts, 103-12 IEs, and GIAs to report the information required for: (1) each covered service provider who received $1,000 or more in total direct and indirect compensation (i.e., money or anything else of monetary value in connection with services rendered to the plan or the person's position with the plan during the plan year) and (2) other persons who received $5,000 or more in direct compensation in connection with services rendered to the plan or the person's position with the plan during the plan year. For additional information, including the definition of a “covered service provider,” see the Schedule C instructions. Schedule C is also required for welfare benefit plans, including group health plans, unless the plan is exempt under 29 CFR 2520.104-44 from completing the accountant's report requirement and completing Schedule H.

Schedule D (DFE/Participating Plan Information) Schedule D is required when the Form 5500 is filed for a DFE. For additional information, see the Schedule D instructions.

Schedule G (Financial Transaction Schedules) is required for a large plan, master trust, 103-12 IE, or GIA when Schedule H (Financial Information) lines 4b, 4c, and/or 4d are checked “Yes.” Part I of the Schedule G reports loans or fixed income obligations in default or classified as uncollectible. Part II of the Schedule G reports leases in default or classified as uncollectible. Part III of the Schedule G reports nonexempt transactions. For additional information, see the Schedule G instructions.

[CAUTION] An unfunded, fully insured, or combination unfunded/insured welfare plan with 100 or more participants exempt under 29 CFR 2520.104-44 from completing Schedule H must still complete Schedule G, Part III, to report nonexempt transactions.

Schedule J (Group Health Plan Information). All plans that provide group health benefits must complete the Schedule J (Group Health Plan Information) to report coverage, participation, claims, benefit, and other group health information. Small, fully insured plans only need to complete lines 1-8.

Filing Requirements

Pension Benefit Plans

Pension benefit plan filers must complete the Form 5500 Annual Return/Report, including the signature block and, unless otherwise specified, attach the following schedules and information:

Small Pension Plan

The following schedules (including any additional information required by the instructions to the schedules) must be attached to a Form 5500 filed for a small pension plan that is neither exempt from filing nor is filing the Form 5500-SF:

1. Schedule A (as many as needed), to report insurance, annuity, and investment contracts held by the plan.

2. Schedule C (as many as needed) to report information on service providers who received compensation at or above the applicable $1,000 and $5,000 thresholds.

3. Schedule H, to report plan financial information, unless exempt. See Limited Pension Plan Reporting.

4. Schedule MB or SB, to report actuarial information, if applicable.

5. Schedule R, to report retirement plan information, if applicable.

[CAUTION] Unless you have checked Schedule H, Line 3h(4) to indicate that the plan has fewer than 100 participants and is claiming a small plan audit waiver of the annual examination and report of an IQPA under 29 CFR 2520.104-46, you must attach the report of the independent qualified public accountant (IQPA) or check Schedule H, Line 3h(2) to indicate that the plan is eligible and elects to defer attaching the IQPA's opinion pursuant to 29 CFR 2520.104-50 in connection with a short plan year of seven months or less.

Large Pension Plan

The following schedules (including any additional information required by the instructions to the schedules) must be attached to a Form 5500 filed for a large pension plan:

1. Schedule A (as many as needed), to report insurance, annuity, and investment contracts held by the plan.

2. Schedule C (as many as needed) to report information on service providers who received compensation at or above the applicable $1,000 and $5,000 thresholds.

3. Schedule G, to report loans or fixed income obligations in default or determined to be uncollectible as of the end of the plan year, leases in default or classified as uncollectible, and nonexempt transactions, i.e., file Schedule G if Schedule H (Form 5500) lines 4b, 4c, and/or 4d are checked “Yes.”

4. Schedule H, to report financial information, unless exempt. See Limited Pension Plan Reporting.

5. Schedule MB or SB, to report actuarial information, if applicable.

6. Schedule R, to report retirement plan information, if applicable.

Eligible Combined Plans

Section 903 of PPA established rules for a new type of pension plan, an “eligible combined plan,” effective for plan years beginning after December 31, 2009. See Code section 414(x) and ERISA section 210(e). An eligible combined plan consists of a defined benefit pension plan and a defined contribution pension plan that includes a qualified cash or deferred arrangement under Code section 401(k), with the assets of the two plans held in a single trust, but clearly identified and allocated between the plans. The eligible combined plan design is available only to employers that employed an average of at least two, but not more than 500 employees, on business days during the calendar year preceding the plan year as of which the eligible combined plan is established and that employs at least two employees on the first day of the plan year that the plan is established. Because an eligible combined plan includes both a defined benefit pension plan and a defined contribution pension plan, the Form 5500 filed for the plan must include all the information, schedules, and attachments that would be required for either a defined benefit pension plan (such as a Schedule SB) or a defined contribution pension plan.

Limited Pension Plan Reporting

The pension benefit plans or arrangements described below are eligible for limited annual reporting:

1. IRA Plans: A pension plan using individual retirement accounts or annuities (as described in Code section 408) as the sole funding vehicle for providing pension benefits need complete only Form 5500, Part I and Part II, lines 1 through 4, and 9a(8) (check the box for “Code section 408 accounts and annuities on Form 5500).

2. Fully Insured Pension Plan: A pension benefit plan providing benefits exclusively through an insurance contract or contracts that are fully guaranteed and that meet all of the conditions of 29 CFR 2520.104-44(b)(2) during the entire plan year must complete all the requirements listed under this Pension Benefit Plan Filing Requirements section, except that such a plan is exempt from attaching Schedule H, and an independent qualified public accountant's opinion, and from the requirement to engage an IQPA.

[CAUTION] A pension benefit plan that has insurance contracts of the type described in 29 CFR 2520.104-44 as well as other assets must complete all requirements for a pension benefit plan, except that the value of the plan's allocated contracts (see below) should not be reported in Part I of Schedule H. All other assets should be reported on Schedule H and any other required schedules. If Schedule H is filed, attach an accountant's report in accordance with the Schedule H instructions.

Note. For purposes of the annual return/report and the alternative method of compliance set forth in 29 CFR 2520.104-44, a contract is considered to be “allocated” only if the insurance company or organization that issued the contract unconditionally guarantees, upon receipt of the required premium or consideration, to provide a retirement benefit of a specified amount. This amount must be provided to each participant without adjustment for fluctuations in the market value of the underlying assets of the company or organization, and each participant must have a legal right to such benefits, which is legally enforceable directly against the insurance company or organization. For example, deposit administration, immediate participation guarantee, guaranteed investment contracts, and variable annuities are NOT allocated contracts for Form 5500 Annual Return/Report purposes.

Welfare Benefit Plans that Provide Group Health Benefits

Large group health plans must follow the filing rules for large welfare plans and also must file the Schedule J (Group Health Plan Information).

Small group health plans that are unfunded or a combination of unfunded and insured file the complete Form 5500 and the complete Schedule J and Schedule A, if applicable. Small group health plans that are fully insured need only complete Lines 1-5 of the Form 5500 and Lines 1-8 of the Schedule J (and they do not complete Schedule A). Small group health plans that are funded with a trust generally follow the rules for large group health plans funded with a trust (except small welfare plans are not required to complete Schedule G or the other separate schedules listed in 29 CFR 2020.104-46(c)).

Other Welfare Benefit Plans

Welfare benefit plans that do not provide group health benefits must complete the Form 5500 Annual Return/Report, including the signature block and, unless otherwise specified, attach the following schedules and information:

Small Welfare Plan

The following schedules (including any additional information required by the instructions to the schedules) must be attached to a Form 5500 filed for a small welfare plan that is neither exempt from filing the annual return/report nor filing the Form 5500-SF:

1. Schedule A (as many as needed), to report insurance contracts held by the plan.

2. Schedule H to report plan financial information, unless exempt.

3. Schedule C (as many as needed) to report information on service providers who received compensation at or above the applicable $1,000 and $5,000 thresholds, unless exempt.

Large Welfare Plan

The following schedules (including any additional information required by the instructions to the schedules) must be attached to a Form 5500 filed for a large welfare plan:

1. Schedule A (as many as needed), to report insurance and investment contracts held by the plan.

2. Schedule C (as many as needed) to report information on service providers who received compensation at or above the applicable $1,000 and $5,000 thresholds, unless exempt.

3. Schedule G, to report loans or fixed income obligations in default or determined to be uncollectible as of the end of the plan year, leases in default or classified as uncollectible, and nonexempt transactions, i.e., file Schedule G if Schedule H (Form 5500) lines 4b, 4c, and/or 4d are checked “Yes” or if a large welfare plan that is not required to file a Schedule H has nonexempt transactions.

4. Schedule H, to report financial information, unless exempt.

[TIP] Attach the report of the independent qualified public accountant (IQPA) identified on Schedule H, Line 3c, unless Line 3e(2) or (3) is checked. Neither Schedule H nor an IQPA's opinion is required to be attached to a Form 5500 filed for an unfunded, fully insured or combination unfunded/insured welfare plan that meets the requirements of 29 CFR 2520.104-44. However, Schedule G, Part III, must be attached to the Form 5500 to report any nonexempt transactions for a large welfare plan. A large welfare benefit plan that uses a “voluntary employees' beneficiary association” (VEBA) under Code section 501(c)(9) is generally not exempt from the requirement of engaging an IQPA.

Direct Filing Entity (DFE) Filing Requirements

Only one Form 5500 Annual Return/Report should be filed for each DFE for all plans participating in the DFE; however, the Form 5500 filed for the DFE, including all required schedules and attachments, must report information for the DFE year (not to exceed 12 months in length) that ends with or within the participating plan's year.

Any Form 5500 filed for a DFE is an integral part of the annual return/report of each participating plan, and the plan administrator may be subject to penalties for failing to file a complete annual report unless both the DFE's Form 5500 and the plan's Form 5500 are properly filed. The information required for a Form 5500 Annual Return/Report filed for a DFE varies according to the type of DFE. The following paragraphs provide specific guidance for the reporting requirements for each type of DFE.

Master Trust

The administrator filing a Form 5500 Annual Return/Report for an employee benefit plan is required to file or have a designee file a Form 5500 for each master trust in which the plan participated at any time during the plan year. For reporting purposes, a “master trust” is a trust for which a regulated financial institution (as defined below) serves as trustee or custodian (regardless of whether such institution exercises discretionary authority or control with respect to the management of assets held in the trust), and in which assets of more than one plan sponsored by a single employer or by a group of employers under common control are held.

“Common control” is determined on the basis of all relevant facts and circumstances (whether or not such employers are incorporated).

A “regulated financial institution” means a bank, trust company, or similar financial institution that is regulated, supervised, and subject to periodic examination by a state or federal agency. A securities brokerage firm is not a “similar financial institution” as used here. See DOL Advisory Opinion 93-21A (available at www.dol.gov/ebsa).

The Form 5500 submitted for the master trust must comply with the Form 5500 Annual Return/Report instructions for a Large Pension Plan, unless otherwise specified in the forms and instructions. The master trust must file:

1. Form 5500, except lines C, D, 1c, 2d, and 6 through 10. Be certain to check the “master trust” box Part I, Line A, as the DFE type.

2. Schedule A (as many as needed) to report insurance, annuity and investment contracts held by the master trust.

3. Schedule C (as many as needed) to report information on service providers who received compensation at or above the applicable $1,000 and $5,000 thresholds.

4. Schedule D, to list all plans that participated in the master trust during its year.

5. Schedule G, to report loans or fixed income obligations in default or determined to be uncollectible as of the end of the master trust year, all leases in default or classified as uncollectible, and nonexempt transactions.

6. Schedule H, except Lines 1a(1), 1a(2), 1a(3), 1g, 1h, 1i, 2a, 2b, 2e, 2f, 2g, 4a, 4e, 4f, 4g, 4h, 4k, 4l, 4m, and 5, to report financial information. The opinion of an independent qualified public accountant (IQPA) is not required for a master trust.

7. Additional information required by the instructions to the above schedules, including, for example, the Schedules of Assets and the Schedule of Reportable Transactions. For purposes of the schedule of reportable transactions, the 5% figure shall be determined by comparing the current value of the transaction at the transaction date with the current value of the investment account assets at the beginning of the applicable fiscal year of the master trust. All attachments must be properly labeled.

Note. If the plan uses more than one master trust, a separate annual report for each master trust must be filed.

Common/Collective Trust (CCT) and Pooled Separate Account (PSA)

A Form 5500 Annual Return/Report is not required to be filed for a CCT or PSA. However, the administrator of a large plan or DFE that participates in a CCT or PSA that files as specified below is entitled to reporting relief that is not available to plans or DFEs participating in a CCT or PSA for which a Form 5500 Annual Return/Report is not filed.

For reporting purposes, “common/collective trust” and “pooled separate account” are, respectively: (1) a trust maintained by a bank, trust company, or similar institution or (2) an account maintained by an insurance carrier, which is regulated, supervised, and subject to periodic examination by a state or federal agency in the case of a CCT, or by a state agency in the case of a PSA, for the collective investment and reinvestment of assets contributed thereto from employee benefit plans maintained by more than one employer or controlled group of corporations as that term is used in Code section 1563. See 29 CFR 2520.103-3, 103-4, 103-5, and 103-9.

Note. For reporting purposes, a separate account that is not considered to be holding plan assets pursuant to 29 CFR 2510.3-101(h)(1)(iii) does not constitute a pooled separate account.

The Form 5500 Annual Return/Report submitted for a CCT or PSA must comply with the Form 5500 Annual Return/Report instructions for a Large Pension Plan, unless otherwise specified in the forms and instructions.

The CCT or PSA must file:

1. Form 5500, except lines C, D, 1c, 2d, and 6 through 10. Check “CCT” or “PSA,” as appropriate, in Part I, Line A, as the DFE type.

2. Schedule D, to list all plans that participated in the CCT or PSA during its year.

3. Schedule H, except Lines 1a(1), 1a(2), 1a(3), 1c, 1d, 1g, 1h, 1i, 2a, 2b, 2e, 2f, and 2g, to report financial information. CCTs and PSAs are not required to attach an IQPA report or complete Part IV, except Line 4(i)(1). CCTs and PSAs must attach the Line 4i(1) Schedule of Assets Held for Investment at End of Year.

[CAUTION] Different requirements apply to Schedule H attached to the Form 5500 filed by plans and DFEs participating in CCTs and PSAs, depending upon whether a DFE Form 5500 has been filed for the CCT or PSA. See the instructions for these schedules.

103-12 Investment Entity (103-12 IE)

DOL Regulation 2520.103-12 provides an alternative method of reporting for plans that invest in an entity (other than a master trust, CCT, or PSA), whose underlying assets include “plan assets” within the meaning of 29 CFR 2510.3-101 of two or more plans that are not members of a “related group” of employee benefit plans. Such an entity for which a Form 5500 is filed constitutes a “103-12 IE.” A Form 5500 is not required to be filed for such entities; however, filing a Form 5500 as a 103-12 IE provides certain reporting relief, including the limitation of the examination and report of the independent qualified public accountant (IQPA) provided by 29 CFR 2520.103-12(d), to participating plans and DFEs. For this reporting purpose, a “related group” of employee benefit plans consists of each group of two or more employee benefit plans (1) each of which receives 10% or more of its aggregate contributions from the same employer or from a member of the same controlled group of corporations (as determined under Code section 1563(a), without regard to Code section 1563(a)(4) thereof); or (2) each of which is either maintained by, or maintained pursuant to a collective-bargaining agreement negotiated by, the same employee organization or affiliated employee organizations. For purposes of this paragraph, an “affiliate” of an employee organization means any person controlling, controlled by, or under common control with such organization. See 29 CFR 2520.103-12.

The Form 5500 submitted for an entity holding plan assets that is permitted under 29 CFR 2520.103-12 to file a Form 5500 must comply with the Form 5500 instructions for a Large Pension Plan, unless otherwise specified in the forms and instructions.

The 103-12 IE must file:

1. Form 5500, except lines C, D, 1c, 2d, and 6 through 10. Check 103-12 IE in part I, Line A, as the DFE type.

2. Schedule A (as many as needed), to report insurance, annuity and investment contracts held by the 103-12 IE.

3. Schedule C (as many as needed) to report information on service providers who received compensation at or above the applicable $1,000 and $5,000 thresholds.

4. Schedule D, to list all plans that participated in the 103-12 IE during its year.

5. Schedule G, to report loans or fixed income obligations in default or determined to be uncollectible as of the end of the 103-12 IE year, leases in default or classified as uncollectible, and nonexempt transactions.

6. Schedule H, except lines 1a(1), 1a(2), 1a(3), 1c, 1d, 1g, 1h, 1i, 2a, 2b, 2e, 2f, 2g, 4a, 4e, 4f, 4g, 4h, 4j, 4k, 4l, 4m, and 5, to report financial information.

7. Additional information required by the instructions to the above schedules, including, for example, the report of the independent qualified public accountant (IQPA) identified on Schedule H, Line 3c, the Line 4i(1) Schedule of Assets Held for Investment at End of Year, and the Line 4i(2) Schedule of Assets Disposed of During the Plan Year. All attachments must be properly labeled.

Group Insurance Arrangement (GIA)

Each welfare benefit plan, regardless of whether it provides group health benefits, that is part of a group insurance arrangement is exempt from the requirement to file a Form 5500 Annual Return/Report if a consolidated report for all the plans in the arrangement was filed in accordance with 29 CFR 2520.104-43. For reporting purposes, a “group insurance arrangement” provides benefits to the employees of two or more unaffiliated employers (not in connection with a multiemployer plan or a collectively-bargained multiple-employer plan), fully insures one or more welfare plans of each participating employer, uses a trust or other entity as the holder of the insurance contracts, and uses a trust as the conduit for payment of premiums to the insurance company.

The GIA must file:

1. Form 5500, except lines C and 2d. Check “GIA” in Part I, Line A, as the DFE type.

2. Schedule A (as many as needed), to report insurance, annuity and investment contracts held by the GIA.

3. Schedule C (as many as needed) to report information on service providers who received compensation at or above the applicable $1,000 and $5,000 thresholds.

4. Schedule D, to list all plans that participated in the GIA during its year.

5. Schedule G, to report loans or fixed income obligations in default or determined to be uncollectible as of the end of the GIA year, leases in default or classified as uncollectible, and nonexempt transactions.

6. Schedule H, except lines 4a, 4e, 4f, 4g, 4h, 4l, 4m, and 5, to report financial information.

7. Separate Schedules J for each participating employer, if the GIA provides group health benefits.

8. Additional information required by the instructions to the above schedules, including, for example, the report of the independent qualified public accountant (IQPA) identified on Schedule H, Line 3c, the Schedules of Assets and the Schedule of Reportable Transactions. (All attachments must be properly labeled.)

Section 5: Line-by-Line Instructions for the 20XX Form 5500 and Schedules

Part I—Annual Return/Report Identification Information

File the 20XX Form 5500 Annual Return/Report for a plan year that began in 20XX or a DFE year that ended in 20XX. Enter the beginning and ending dates in Part I. The 20XX Form 5500 Annual Return/Report must be filed electronically.

One Form 5500 is generally filed for each plan or entity described in the instructions to the boxes in Line A. Do not check more than one box.

Line A(1)—Box for Single-Employer Plan. Check this box if the Form 5500 is filed for a single-employer plan. A single-employer plan for this Form 5500 reporting purpose is an employee benefit plan maintained by one employer or one employee organization.

Note. Do not check this box even if all of the employers maintaining the plan are members of the same controlled group or affiliated service group under Code sections 414(b), (c), or (m). Check Box A(3).

Line A(2)—Box for Multiple-Employer Plan. Check this box if Form 5500 is being filed for a multiple-employer plan. A multiple-employer plan is a plan that is maintained by more than one employer and is not one of the plans described in A(3) or A(4). A multiple-employer plan can be collectively bargained and collectively funded, but if covered by PBGC termination insurance, must have properly elected before September 27, 1981, not to be treated as a multiemployer plan under Code section 414(f)(5) or ERISA sections 3(37)(E) and 4001(a)(3), and have not revoked that election or made an election to be treated as a multiemployer plan under Code section 414(f)(6) or ERISA section 3(37)(G). Participating employers do not file individually for this type of plan.

Note. Do not check this box if all of the employers maintaining the plan are members of the same controlled group or affiliated service group under Code sections 414(b), (c), or (m).

“Multiple-Employer Plan Participating Employer Information.” If you checked box A(2) for “Multiple-Employer Plan,” you must complete the “Multiple-Employer Plan Participating Employer Information” attachment. Enter the name of the plan, EIN, and plan number (PN) as found on the plan's Form 5500. Complete as many entries as needed to report the required information for all participating employers.

Provide a good faith estimate of each employer's percentage of the total contributions (including employer and participant contributions) made by all participating employers during the year. Any employer who was obligated to make contributions to the plan for the plan year, made contributions to the plan for the plan year, or whose employees were covered under the plan is a “participating employer” for this purpose. If a participating employer made no contributions, enter “-0-” in element (c).

Multiple employer welfare plans that are exempt under 29 CFR 2520.104-20 or 29 CFR 2520.104-44 from the obligation to file financial statements with their annual report are required to include only a list of participating employers with the corresponding EIN/PN numbers in elements (a) and (b) of the “Multiple Employer Plan Participating Employer Information” attachment included with their Form 5500.

Line A(3)—Box for Controlled Group. Check this box for a “controlled group” of corporations that is filing a single Form 5500 for reporting purposes. A “controlled group” is a controlled group of corporations under Code section 414(b), a group of trades or businesses under common control under Code section 414(c), or an affiliated service group under Code section 414(m).

“Controlled Group Member Information.” If you checked box A(3) for “Controlled Group Plan,” you must complete the “Controlled Group Member Information” attachment. Complete as many entries as needed to report the required information for all employers that are participating members of the controlled group sponsoring the plan. Provide a good faith estimate of each employer's percentage of the total contributions (including employer and participant contributions) made by all employers made during the year. Any employer that was a member of the controlled group who was obligated to make contributions to the plan for the plan year, made contributions to the plan for the plan year, or whose employees were covered under the plan is a “participating employer” for this purpose. If a participating employer made no contributions, enter “-0-” in element (c).

Line A(4)—Multiemployer Plan. Check this box if the Form 5500 is filed for a multiemployer plan. A plan is a multiemployer plan if: (a) more than one employer is required to contribute, (b) the plan is maintained pursuant to one or more collective bargaining agreements between one or more employee organizations and more than one employer; (c) an election under Code section 414(f)(5) and ERISA section 3(37)(E) has not been made; and (d) the plan meets any other applicable conditions of 29 CFR 2510.3-37. A plan that has made a proper election under ERISA section 3(37)(G) and Code section 414(f)(6) on or before August 17, 2007, is also a multiemployer plan. Participating employers do not file individually for these plans.

Line A(5)—Direct Filing Entity (DFE). If filing as a DFE, check the box to indicate the correct entity type.

Line B(1)—First Return/Report. Check this box if an annual return/report has not been previously filed for this plan or DFE. For the purpose of completing this box, filings made for “one participant” plans for purposes of the Code and not Title I are not considered an annual return/report.

Line B(2)—Amended Return/Report. Check this box if you have already filed for the 20XX plan year and are now filing an amended return/report to correct errors and/or omissions on the previously filed return/report. See instructions on page xx.

Check the Line B box for an “amended return/report” if you filed a previous 20XX annual return/report that was given a “Filing_Received,” “Filing_Error,” or “Filing_Stopped” status by EFAST2. Do not check the Line B box for an “amended return/report” if your previous submission attempts were not successfully received by EFAST2 because of problems with the transmission of your return/report. For more information, go to the EFAST2 Web site at www.efast.dol.gov or call the EFAST2 Help Line at 1-866-GO-EFAST (1-866-463-3278).

Line B(3)—Final Return/Report. Check this box if this Form 5500 is the last annual return/report required to be submitted for this plan. (See Final Return/Report.)

Note. Do not check box B(3) (Final Return/Report) if in Line 9b(4), you check the box to indicate that the plan is an unfunded, fully insured, or combination unfunded/fully insured welfare plan (other than a group health plan) that will not file an annual report for next plan year pursuant to 29 CFR 2520.104-20. Only check the box on Line 9b(4) for a welfare plan that is not required to file a Form 5500 for the next plan year because the welfare plan that does not provide group health benefits has become eligible for an annual reporting exemption. For example, certain unfunded and insured life insurance or disability plans may be required to file the 20XX Form 5500 and be exempt from filing a Form 5500 for the plan year 20XX if the number of participants covered as of the beginning of the 20XX plan year drops below 100. See Who Must File. Should the number of participants covered by such a plan increase to 100 or more in a future year, the plan must resume filing Form 5500 and check the box on Line 9b(4) to indicate on that year's Form 5500 that the filer is an unfunded, fully insured, or combination unfunded/fully insured welfare plan that stopped filing annual reports in an earlier plan year pursuant to 29 CFR 2520.104-20. See 29 CFR 2520.104-20.

Line B(4)—Short Plan Year Return/Report. Check this box if this Form 5500 is being filed for a plan year period of less than 12 months. Provide the dates in Part I, Plan Year Beginning and Ending.

Line B(5)—Plan Trusteed by PBGC. All plans that, as of the due date of this return, have been trusteed by PBGC under section 4041(c) or 4042 of ERISA, must check this box and enter the date of trusteeship in the space provided. Plans with 500 or fewer participants as of the beginning of the plan year (see Part II, Line 6, asking for participant count) only complete all of Part I and lines 1, 2, 3, 6, 9a(3) and 9a(4) in Part II. Plans with more than 500 participants continue to file in accordance with the requirements for large defined benefit pension plans.

Line C—Collectively-Bargained Plan. Check this box when the contributions to the plan and/or the benefits paid by the plan are subject to the collective bargaining process (even if the plan is not established and administered by a joint board of trustees and even if only some of the employees covered by the plan are members of a collective bargaining unit that negotiates contributions and/or benefits). The contributions and/or benefits do not have to be identical for all employees under the plan.

Line D—Extension and DFVC Program. Check the appropriate box here if:

• You filed for an extension of time, using a completed Form 5558, Application for Extension of Time To File Certain Employee Plan Returns, and maintain a copy of the Form 5558 with the filer's records;

• You are filing using the automatic extension of time to file Form 5500 Annual Return/Report until the due date of the federal income tax return of the employer and maintain a copy of the employer's extension of time to file the income tax return with the plan's records;

• You are filing using a special extension of time to file the Form 5500 Annual Return/Report that has been announced by the IRS, DOL, and PBGC. If you checked that you are using a special extension of time, enter a description of the extension of time in the space provided; or

• You are filing under DOL's Delinquent Filer Voluntary Compliance (DFVC) Program.

Part II—Basic Plan Information

Line 1a. Enter the formal name of the plan or DFE. If an annual return/report has previously been filed on behalf of the plan, regardless of the type of Form that was filed (Form 5500, Form 5500-EZ, or Form 5500-SF), use the same name or abbreviation as was used on the prior filings. Once you use an abbreviation, continue to use it for that plan on all future annual return/report filings with the IRS, DOL, and PBGC. Do not use the same name or abbreviation for any other plan, even if the first plan is terminated.

Line 1b. Enter the three-digit plan or entity number (PN) that the employer or plan administrator assigned to the plan or DFE. This three-digit number, in conjunction with the employer identification number (EIN) entered on Line 2b, is used by the IRS, DOL, and PBGC as a unique 12-digit number to identify the plan or DFE.

Start at 001 for plans providing pension benefits, plans providing pension and welfare benefits, or DFEs (master trusts, CCTs, and PSAs) except GIAs, as illustrated in the table below.

Start at 501 for plans providing only welfare benefits and GIAs. Do not use 888 or 999.

Once you use a plan or DFE number, continue to use it for that plan or DFE on all future filings with the IRS, DOL, and PBGC. Failure to use the same three-digit plan/DFE number may result in correspondence from DOL or IRS. Do not use this unique three-digit number for any other plan or DFE, even if the first plan or DFE is terminated.

You Should Assign a Plan Number (PN) as Described Below for Each Form 5500 (and Form 5500-SF) With the Same EIN of Plan or DFE Sponsor Entered Into Line 2b
Pension benefit plans and Master trusts, CCTs, PSAs, and 103-12 IEs | 001 to the first plan or DFE. Consecutively number other plans providing pension benefits with the same plan sponsor or other master trusts, CCTs, PSAs, or 103-12 IEs with the same sponsor as 002, 003 . . .
Welfare benefit plans, including group health, and GIAs | 501 to the first plan or GIA. Consecutively number others as 502, 503 . . .

Exception. If Part II, Line 9a is completed and 333 (or a higher number in a sequence beginning with 333) was previously assigned to the plan, that number may be entered on Line 1b.

Line 1c. Enter the date the plan first became effective.

Line 2a. Limit your response to the information required in each row as specified below:

1. Enter the name of the plan sponsor or, in the case of a Form 5500 filed for a DFE, the name of the insurance company, financial institution, or other sponsor of the DFE (e.g., in the case of a GIA, the trust or other entity that holds the insurance contract, or in the case of a master trust, one of the sponsoring employers). If the plan covers only the employees of one employer, enter the employer's name.

The term “plan sponsor” means:

• The employer, for an employee benefit plan that a single employer established or maintains;

• The employee organization in the case of a plan of an employee organization; or

• The association, committee, joint board of trustees, or other similar group of representatives of the parties who establish or maintain the plan, if the plan is established or maintained jointly by one or more employers and one or more employee organizations, or by two or more employers.

Note. In the case of a multiple-employer plan, file only one annual return/report for the plan. If an association or other entity is not the sponsor, enter the name of a participating employer as sponsor. For a plan of a controlled group of corporations, the name of one of the sponsoring members should be entered. In either case, the same name must be used in all subsequent filings of the Form 5500 Annual Return/Report or Form 5500-SF for the multiple-employer plan or controlled group (see instructions for Line 5 concerning change in sponsorship).

2. Enter any “in care of” (C/O) name.

3. Enter the current street address. A post office box number may be entered in addition to the street address if the Post Office does not deliver mail to the sponsor's street address.

4. Enter the name of the city.

5. Enter the two-character abbreviation of the U.S. state or possession and zip code.

6. Enter the foreign routing code, if applicable. Leave U.S. state and zip code blank if entering a foreign routing code and country name.

7. Enter the foreign country, if applicable. Do not abbreviate the country name after “Enter the foreign country.”

8. Enter the D/B/A (the doing business as) or trade name of the sponsor if different from the plan sponsor's name.

9. Enter any second address. Use only a street address here, not a P.O. box.

Note. You can also use the IRS Form 8822-B, Change of Address—Business, to notify the IRS if the address provided here is a change in your business mailing address or your business location.

Line 2b(1). Enter the nine-digit employer identification number (EIN) assigned to the plan sponsor/employer, for example, 00-1234567. In the case of a DFE, enter the employer identification number (EIN) assigned to the CCT, PSA, master trust, 103-12 IE, or GIA.

[CAUTION] Do not use a social security number in lieu of an EIN. The Form 5500 Annual Return/Report is open to public inspection, and the contents are public information and are subject to publication on the Internet. Because of privacy concerns, the inclusion of a social security number or any portion thereof on this line may result in the rejection of the filing.

Employers without an EIN must apply for one as soon as possible. The EBSA does not issue EINs. To apply for an EIN from the IRS:

• Mail or fax Form SS-4, Application for Employer Identification Number, obtained at the IRS Web site at www.irs.gov.

• Call 1-800-829-4933 to receive your EIN by telephone.

• Select the Online EIN Application link at www.irs.gov. The EIN is issued immediately once the application information is validated. (The online application process is not yet available for corporations with addresses in foreign countries or Puerto Rico.)

A multiple-employer plan or plan of a controlled group of corporations should use the EIN of the sponsor identified in Line 2b(1). The EIN must be used in all subsequent filings of the Form 5500 for these plans (see instructions to Line 5 concerning change in EIN).

If the plan sponsor is a group of individuals, such as for the Board of Trustees for a multiemployer plan, get a single EIN for the group. When you apply for the EIN, provide the name of the group, such as “Joint Board of Trustees of the Local 187 Machinists' Retirement Plan.” (If filing IRS Form SS-4, enter the group name on Line 1.)

Note. Except in the case of certain DFEs, the EIN of the plan sponsor is not the EIN of the fund (trust or custodial account) associated with plan.

Line 2b(2). If available, enter the global legal entity identification number (LEI). With respect to any company, the LEI is the “legal entity identifier” assigned by or on behalf of an internationally recognized standards setting body and required for reporting purposes by the U.S. Department of the Treasury's Office of Financial Research or a financial regulator. In the case of a financial institution, if a “legal entity identifier” has not been assigned, then provide the RSSD ID assigned by the National Information Center of the Board of Governors of the Federal Reserve System, if any.

Line 2c. Enter the current telephone number for the plan sponsor. Use numbers only, including area code, and do not include any special characters.

Line 2d. Enter the six-digit business code that best describes the nature of the plan sponsor's business from the list of business codes on pages XX-XY. If more than one employer or employee organization is involved, enter the business code for the main business activity of the employers and/or employee organizations.

Line 3a. Limit your response to the information required in each row as specified below:

1. Enter the current name and address of the plan administrator unless the administrator is the sponsor identified in Line 2. If both the plan administrator name and address are the same as the plan sponsor name and address, check the “Same as Plan Sponsor” box and disregard items 2 through 6 below. If the Form 5500 is submitted for a DFE, check the appropriate box in Part I, Line A, and enter the appropriate DFE code.

The term “plan administrator” means:

• The person or group of persons specified as the administrator by the instrument under which the plan is operated;

• The plan sponsor/employer if an administrator is not so designated; or

• Any other person prescribed by regulations if an administrator is not designated and a plan sponsor cannot be identified.

2. Enter any “in care of” (C/O) name.

3. Enter the current street address. A post office box number may be entered, in addition to the street address, if the Post Office does not deliver mail to the administrator's street address.

4. Enter the name of the city.

5. Enter the two-character abbreviation of the U.S. state or possession and zip code.

6. Enter the foreign routing code and foreign country, if applicable. Leave U.S. state and zip code blank if entering foreign routing code and country information.

Line 3b. Enter the plan administrator's nine-digit EIN. A plan administrator must have an EIN for Form 5500 reporting purposes.

If the plan administrator does not have an EIN, apply for one as explained in the instructions for Line 2b. One EIN should be entered for a group of individuals who are, collectively, the plan administrator.

Do not use a social security number in lieu of an EIN. The Form 5500 and its schedules and attachments are open to public inspection, and the contents are public information and are subject to publication on the Internet. Because of privacy concerns, the inclusion of a social security number or any portion thereof on this Form 5500 or any of it schedules or attachments may result in the rejection of the filing.

Note. Employees of the plan sponsor who perform administrative functions for the plan are generally not the plan administrator unless specifically designated in the plan document. If an employee of the plan sponsor is designated as the plan administrator, that employee must get an EIN.

Line 3c. Enter the current telephone number for the plan administrator.

Line 4. A plan must have at least one fiduciary (a person or entity) named in the written plan document, or through a process described in the plan, as having control over the plan's operation. The named fiduciary can be identified by office or by name. For some plans, it may be an administrative committee or a company's board of directors.

Enter the name and current address of the “named fiduciary” unless the named fiduciary is the plan sponsor identified in Line 2. If both the fiduciary name and address are the same as the plan sponsor name and address, check the “Same as Plan Sponsor” box. If the named fiduciary is an entity such as a committee or board, include the name and contact information for a specific individual, as well as the name of the entity. If you are unable to determine who is the “named fiduciary,” enter the name and identifying information of the person who appointed the plan trustee.

Line 5. If the plan sponsor's or DFE's name, EIN, or LEI have changed since the last return/report was filed for this plan or DFE, enter the plan sponsor's or DFE's name, EIN, LEI, and the plan number as it appeared on the last return/report filed.

[CAUTION] The failure to indicate on Line 5 that a plan or plan sponsor was previously identified by a different name, employer identification number (EIN), LEI, or plan number could result in correspondence from the DOL and the IRS.

Line 5a. Enter the plan sponsor's name as it appeared on the last return/report filed.

Line 5b(1). Enter the plan sponsor's EIN as it appeared on the last return/report filed.

Line 5b(2). Enter the plan sponsor's LEI (if available) as it appeared on the last return/report filed.

Line 5c. Enter the plan sponsor's plan number as it appeared on the last return/report filed.

Lines 6 and 7. All filers must complete both lines 6 and 7 unless the Form 5500 is filed for an IRA Plan described in Limited Pension Plan Reporting or for a DFE.

The description of “participant” in the instructions below is only for purposes of these lines.

An individual becomes a participant covered under an employee welfare benefit plan on the earliest of:

• the date designated by the plan as the date on which the individual begins participation in the plan;

• the date on which the individual becomes eligible under the plan for a benefit subject only to occurrence of the contingency for which the benefit is provided; or

• the date on which the individual makes a contribution to the plan, whether voluntary or mandatory.

See 29 CFR 2510.3-3(d)(1). This includes former employees who are receiving group health continuation coverage benefits pursuant to Part 6 of ERISA and who are covered by the employee welfare benefit plan. Covered dependents are not counted as participants. A child who is an “alternate recipient” entitled to health benefits under a qualified medical child support order (QMCSO) should not be counted as a participant for lines 6 and 7. An individual is not a participant covered under an employee welfare plan on the earliest date on which the individual (a) is ineligible to receive any benefit under the plan even if the contingency for which such benefit is provided should occur, and (b) is not designated by the plan as a participant. See 29 CFR 2510.3-3(d)(2).

[TIP] Before counting the number of participants, especially in a welfare benefit plan, it is important to determine whether the plan sponsor has established one or more plans for Form 5500/Form 5500-SF reporting purposes. As a matter of plan design, plan sponsors can offer benefits through various structures and combinations. For example, a plan sponsor could create (i) one plan providing major medical benefits, dental benefits, and vision benefits, (ii) two plans with one providing major medical benefits and the other providing self-insured dental and vision benefits; or (iii) three separate plans. You must review the governing documents and actual operations to determine whether welfare benefits are being provided under a single plan or separate plans.

The fact that you have separate insurance policies for each different welfare benefit does not necessarily mean that you have separate plans. Some plan sponsors use a “wrap” document to incorporate various benefits and insurance policies into one comprehensive plan. In addition, whether a benefit arrangement is deemed to be a single plan may be different for purposes other than Form 5500/Form 5500-SF reporting. For example, special rules may apply for purposes of HIPAA, COBRA, and Internal Revenue Code compliance. If you need help determining whether you have a single welfare benefit plan for Form 5500/Form 5500-SF reporting purposes, you should consult a qualified benefits consultant or legal counsel.

For pension benefit plans, “alternate payees” entitled to benefits under a qualified domestic relations order (QDRO) are not to be counted as participants for this line.

For pension benefit plans, “participant” for this line means any individual who is included in one of the categories below:

1. Active participants (i.e., any individuals who are currently in employment covered by the plan and who are earning or retaining credited service under the plan). This includes any individuals who are eligible to elect to have the employer make payments under a Code section 401(k) qualified cash or deferred arrangement. Active participants also include any nonvested individuals who are earning or retaining credited service under the plan. This does not include (a) nonvested former employees who have incurred the break in service period specified in the plan or (b) former employees who have received a “cash-out” distribution or deemed distribution of their entire nonforfeitable accrued benefit.

2. Retired or separated participants receiving benefits (i.e., individuals who are retired or separated from employment covered by the plan and who are receiving benefits under the plan). This does not include any individual to whom an insurance company has made an irrevocable commitment to pay all the benefits to which the individual is entitled under the plan.

3. Other retired or separated participants entitled to future benefits (i.e., any individuals who are retired or separated from employment covered by the plan and who are entitled to begin receiving benefits under the plan in the future). This does not include any individual to whom an insurance company has made an irrevocable commitment to pay all the benefits to which the individual is entitled under the plan.

4. Deceased individuals who had one or more beneficiaries who are receiving or are entitled to receive benefits under the plan. This does not include any individual to whom an insurance company has made an irrevocable commitment to pay all the benefits to which the beneficiaries of that individual are entitled under the plan.

Line 7g. Enter in element (1) the number of participants who have account balances at the beginning of the year. Enter in element (2) the number of participants included on Line 7f (total participants at the end of the plan year) who have account balances at the end of the plan year. For example, for a Code section 401(k) plan the number entered on Line 7g should be the number of participants counted on line 7f who have made a contribution, or for whom a contribution has been made, to the plan for this plan year or any prior plan year. Enter in element (3) the number of participants that made contributions to the plan (regardless of whether the employer made contributions) during the plan year. Both defined contribution pension plans and welfare plans complete element (3). Enter in element (4) the number of participants that terminated employment during the plan year that had their entire account balance distributed during the plan year. Only defined contribution pension plans complete element (4).

Welfare plans should leave Line 7g(1), (2), and (4) blank. Defined benefit pension plans should also leave Line 7g blank.

Line 7h. Include any individual who terminated employment during this plan year, whether or not he or she (a) incurred a break in service, (b) received an irrevocable commitment from an insurance company to pay all the benefits to which he or she is entitled under the plan, and/or (c) received a cash distribution or deemed cash distribution of his or her nonforfeitable accrued benefit. Multiemployer plans and multiple-employer plans that are collectively bargained do not have to complete Line 7h.

Line 8. Only multiemployer plans should complete Line 8. Multiemployer plans must enter the total number of employers obligated to contribute to the plan. For purposes of Line 8 of the Form 5500, an employer obligated to contribute is defined as an employer who, during the 20XX plan year, is a party to the collective bargaining agreement(s) pursuant to which the plan is maintained or who may otherwise be subject to withdrawal liability pursuant to ERISA section 4203. Any two or more contributing entities (e.g., places of business with separate collective bargaining agreements) that have the same nine-digit employer identification number (EIN) must be aggregated and counted as one employer for this purpose.

Line 9. Benefits Provided Under the Plan. Answer all questions in Line 9a based on the reporting year of the plan or arrangement.

Line 9a(1). Defined Benefit Pension Features; How Benefits Are Calculated. If benefits are based primarily on pay, check the box “Benefits are primarily pay related.”

If benefits are primarily flat dollar, including dollars per year of service, check the box “Benefits are primarily flat dollar.”

Check the box for “Cash balance” if the plan has a “cash balance” formula under which the accumulated benefit provided under the formula is expressed as the current balance of a hypothetical account maintained for the participant. For this purpose, a “cash balance” formula is a lump sum based benefit formula in a defined benefit pension plan by whatever name (for example, personal account plan, life cycle plan, cash account plan, etc.)

Check the box for “Pension equity plan (PEP)” if the plan has a “pension equity plan formula under which the accumulated benefit provided under the formula is expressed as the current value of an accumulated percentage of the participant's final average compensation or is expressed as a current single-sum dollar amount equal to a percentage of the participant's highest average compensation (with a permitted lookback period for determining highest average compensation, such as highest 5 out of the last 10 years).

Check the box for “Other hybrid plan” if the plan provides a lump sum based benefit formula that is different from the cash balance or pension equity plan formula. Note that a benefit formula does not constitute a lump sum based benefit formula unless a distribution of the benefits under that formula in the form of a single-sum payment equals the accumulated benefit under that formula (except to the extent the single-sum payment is greater to satisfy the requirements of Code section 411(d)(6)).

Line 9a(2) Code Section Arrangements for Defined Benefit Pension Plans. Check the box for “Code section 401(h) arrangement” if the plan contains separate accounts under Code section 401(h) to provide employee health benefits.

Check the box for “Code section 414(k) arrangement” if benefits are based partly on the balance of the separate account of the participant (also include appropriate defined contribution pension feature codes).

Line 9a(3) Terminated Defined Benefit Pension Plan. Check “yes” if the plan is covered by PBGC and was terminated and closed out for PBGC purposes before the end of the plan year (or a prior plan year), and either (1) the plan terminated in a standard (or distress) termination and completed the distribution of plan assets in satisfaction of all benefit liabilities (or all ERISA Title IV benefits for distress termination); or (2) a trustee was appointed for a terminated plan pursuant to ERISA section 4042.

Line 9a(4) PBGC Covered Defined Benefit Pension Plan. If you are uncertain whether the plan is covered under the PBGC termination insurance program, check the box “Not determined” and contact the PBGC either by phone at 1-800-736-2444, by Email at standard@pbgc.gov, or in writing to Pension Benefit Guaranty Corporation, Standard Termination Compliance Division, Suite 930, Processing and Technical Assistance Branch, 1200 K Street, NW., Washington, DC 20005-4026. If you checked the box “Yes,” enter the My PAA generated confirmation number for the premium filing for this plan year (see filing receipt). If you amended your premium filing for this plan year, enter the confirmation number for that filing and not for the previous filing(s). Defined contribution pension plans and welfare plans need not complete this item.

Line 9a(5) Frozen Plans. Check “Yes”, if the plan is frozen. Both defined contribution and defined benefit pension plans must indicate whether the plan is frozen.

Line 9a(6) Offset Arrangement. Both defined benefit and contribution plans that are part of an offset arrangement must answer this question. Check “Yes” if plan benefits are subject to offset for retirement benefits provided in another plan or arrangement of the employer. If you have checked “Yes,” enter the name, EIN, and if available, LEI of sponsor, and PN of the other plan or arrangement.

Line 9a(7) Defined Contribution Pension Plan Type(s). If this is a defined contribution pension plan, check all the type(s) that apply.

Line 9a(8) Defined Contribution Pension Plan Arrangements. If this is a defined contribution pension plan, check all the type(s) of arrangements under which the plan operates.

Line 9a(9) Defined Contribution Pension Plan Features. If this is a defined contribution pension plan, check all that apply to indicate features of the plan.

Check automatic enrollment feature if the plan has elective contributions from payroll and provides for automatic enrollment in the plan.

A designated Roth account is a feature in new or existing 401(k), 403(b) or governmental 457(b) plans that permit such plans to accept designated Roth contributions and certain rollovers. If a plan adopts this feature, employees can designate some or all of their elective contributions (also referred to as elective deferrals) as designated Roth contributions (which are included in gross income), rather than traditional, pre-tax elective contributions.

Check the box for “Age/service weighted plan” if allocations are based on age, service, or age and service. New comparability or similar plan: Allocations are based on participant classifications and a classification(s) consists entirely or predominantly of highly compensated employees; or the plan provides an additional allocation rate on compensation above a specified threshold, and the threshold or additional rate exceeds the maximum threshold or rate allowed under the permitted disparity rules of Code section 401(l).

Check “Other” if the plan has any other particularized features for defined contribution pension plans that are not listed above and enter a short description in the space provided.

Line 9a(10) Participant-Directed Defined Contribution Pension Plan. If you check “Yes” to identify that the plan is a participant-directed defined contribution plan, check the box for ERISA section 404(c) plan if the plan, or any part of it, is intended to meet the conditions of 29 CFR 2550.404c-1.

Check the box for total participant-directed account plan if participants have the opportunity to direct the investment of all the assets allocated to their individual accounts, regardless of whether 29 CFR 2550.404c is intended to be met.

Check partial participant-directed account if participants have the opportunity to direct the investment of a portion of the assets allocated to their individual accounts, regardless of whether 29 CFR 2550.404c is intended to be met. Do not check both “total” and “partial” participant-directed account.

Check the box for participant-directed brokerage accounts (also referred to as “open brokerage windows”) if the plan provides such accounts as an investment option under the plan. If you check that the plan has participant-directed brokerage accounts, enter the number of participants that invested through such accounts during the plan year.

Line 9a(11) Qualified Default Investment Alternatives (QDIAs). Regardless of whether the plan is total or partial participant-directed, if the plan uses default investment alternatives that are intended to be QDIA(s) for participants who fail to direct assets in their account, also check the box to so indicate. If the plan uses a QDIA for participants who fail to direct assets in their account, indicate the type of default investment alternative: target date/life fund; fixed income; money market or equivalent; balanced fund; professionally managed account; or other. If other, specify the type of account. If you checked the box for “Other,” you may be using an investment alternative that does not satisfy the QDIA requirements in the Department of Labor's regulation at 29 CFR 2550.404c-5.

Line 9a(12) Eligible Combined Plan Under Code section 414(x). If the plan is an eligible combined plan under Code section 414(x), check “Yes.”

Note. In the case of an eligible combined plan under Code section 414(x) and ERISA section 210(e), you must answer all applicable line items for both the defined benefit pension features and the defined contribution pension features of the plan.

Line 9a(13). Check this box if a rollover from a plan was used to start up the business (ROBS) sponsoring this plan.

Line 9a(14). If the plan is an employee stock ownership plan (ESOP) or has ESOP features, check all applicable boxes. You must also attach a Schedule E if the plan is an ESOP or has ESOP features.

Line 9a(15) Other Pension Benefit Features. Check all that apply.

Notes: (1) If a plan sponsor or an employer adopted a pre-approved plan that includes a master & prototype plan or a volume submitter plan, enter the most recent adoption date and the IRS favorable opinion or advisory letter's serial number. (2) Sponsors of Puerto Rico plans, check the box to indicate that the plan is not intended to be qualified under Code sections 401, 403, or 408 only if:

1. only Puerto Rico residents participate;

2. the trust is exempt from income tax under the laws of Puerto Rico, and

3. the plan administrator has not made the election under ERISA section 1022(i)(2), and, therefore, the plan is not intended to qualify under section 401(a) of the Internal Revenue Code (U.S).

Line 9b Welfare Benefit Plan Characteristics. Plans that provide welfare benefits must answer all applicable questions in Line 9b. Plans that provide only pension benefits skip to question 10.

Line 9b(1) Group Health Benefits. If the plan provides health, dental, or vision coverage, answer “Yes” and check all that apply. If you answered “Yes” here, you must attach Schedule J—Group Health Plan Information. Plans that offer excepted benefits that consist of limited scope dental or vision benefits must still file a Schedule J.

Line 9b(2) Disability. If the plan provides disability benefits, answer “Yes” and check all that apply.

Line 9b(3) Other Welfare Benefits. If the plan provides welfare benefits other than group health or disability, answer “Yes” and check all that apply. If the type of benefits is not listed, check “other” and enter a description.

Line 9b(4) Welfare Plans That Do Not Provide Health Benefits That Relied on or Will Be Relying on 29 CFR 2520.104.20. Welfare plans that provide health benefits must file the Form 5500 annually and cannot rely on the exemption from reporting under 29 CFR 2520.104-20.

Line 10 Funding and Benefit Arrangements. Check all boxes that apply to indicate the funding and benefit arrangements used during the plan year. The “funding arrangement” is the method for the receipt, holding, investment, and transmittal of plan assets prior to the time the plan actually provides benefits. The “benefit arrangement” is the method by which the plan provides benefits to participants. For purposes of Line 10:

“Insurance” means the plan has an account, contract, or policy with an insurance company, insurance service, or other similar organization, or through a managed care organization or a health maintenance organization during the plan or DFE year. (This includes investments with insurance companies such as guaranteed investment contracts (GICs).) An annuity account arrangement under Code section 403(b)(1) that is required to complete the Form 5500 should check “insurance” for both the plan funding arrangement and plan benefit arrangement. Do not check “insurance” if the sole function of the insurance company was to provide administrative services.

“Code section 412(e)(3) insurance contracts” are contracts that provide retirement benefits under a plan that are guaranteed by an insurance carrier. In general, such contracts must provide for level premium payments over the individual's period of participation in the plan (to retirement age), premiums must be timely paid as currently required under the contract, no rights under the contract may be subject to a security interest, and no policy loans may be outstanding. If a plan is funded exclusively by the purchase of such contracts, the otherwise applicable minimum funding requirements of section 412 of the Code and section 302 of ERISA do not apply for the year and neither the Schedule MB nor the Schedule SB is required to be filed.

“Trust” includes any fund or account that receives, holds, transmits, or invests plan assets other than an account or policy of an insurance company. A custodial account arrangement under Code section 403(b)(7) that is required to complete the Form 5500 should check “trust” for both the plan funding arrangement and the plan benefit arrangement.

“General assets of the sponsor” means either the plan had no assets or some assets were commingled with the general assets of the plan sponsor prior to the time the plan actually provided the benefits promised.

Example. If the plan holds all its assets invested in registered investment companies and other non-insurance company investments until it purchases annuities to pay out the benefits promised under the plan, box 10a(3) should be checked as the funding arrangement and box 10b(1) should be checked as the benefit arrangement.

Note. An employee benefit plan that checks boxes on Lines 10a(1), 10a(2), 10b(1), and/or 10b(2) must attach Schedule A (Form 5500), Insurance Information, to provide information concerning each contract year ending with or within the plan year. See the instructions to the Schedule A and enter the number of Schedules A on Line 11b(2), if applicable.JY2.

Line 11. Check the boxes on Line 11 to indicate the schedules being filed and, where applicable, count the schedules and enter the number of attached schedules in the space provided.

20XX Instructions for Schedule A (Form 5500) Insurance Information

General Instructions

Who Must File

Schedule A (Form 5500) must be attached to the Form 5500 filed for every defined benefit pension plan, defined contribution pension plan, and welfare benefit plan required to file a Form 5500 Annual Return/Report if any benefits under the plan are provided by an insurance company, insurance service, or other similar organization, or through a managed care organization or a health maintenance organization. This includes investment and annuity contracts with insurance companies such as guaranteed investment contracts (GICs) and variable annuities. In addition, Schedules A must be attached to a Form 5500 filed for GIAs, master trusts, and 103-12 IEs for each insurance or annuity contract held in the master trust, or by the 103-12 IE or the GIA. Plans with fewer than 100 participants that provide group health benefits that are fully insured do not complete Schedule A.

TIP. If Form 5500 Line 10a(1), 10a(2), 10b(1), or 10b(2) is checked, indicating that either the plan funding arrangement or plan benefit arrangement includes an account, policy, or contract with an insurance company (or similar organization), at least one Schedule A would be required to be attached to the Form 5500 filed for a pension or welfare plan to provide information concerning the contract year ending with or within the plan year.

Do not file Schedule A for a contract that is an Administrative Services Only (ASO) contract, a fidelity bond or policy, or a fiduciary liability insurance policy. Also, if a Schedule A for a contract or policy is filed as part of a Form 5500 for a master trust or 103-12 IE that holds the contract, do not include a Schedule A for the contract or policy on the Form 5500s filed for the plans participating in the master trust or 103-12 IE. Schedule A is not required to be attached by a small, fully insured group health plan.

Check the Schedule A box on the Form 5500 (Part II, Line 11b(2)), and enter the number attached in the space provided if one or more Schedules A are attached to the Form 5500.

Specific Instructions

Information entered on Schedule A should pertain to the insurance contract or policy year ending with or within the plan year (for reporting purposes, a year cannot exceed 12 months).

Example. If an insurance contract year begins on July 1 and ends on June 30, and the plan year begins on January 1 and ends on December 31, the information on the Schedule A attached to the 20XX Form 5500 should be for the insurance contract year ending on June 30, 20XX.

Exception. If the insurance company maintains records on the basis of a plan year rather than a policy or contract year, the information entered on Schedule A may pertain to the plan year instead of the policy or contract year.

Include only the contracts issued to or held by the plan, GIA, master trust, or 103-12 IE for which the Form 5500 is being filed.

Lines A, B, C, and D. This information must be the same as reported in Part II of the Form 5500 to which this Schedule A is attached.

Do not use a social security number in lieu of an EIN. The Schedule A and its attachments are open to public inspection, and the contents are public information and are subject to publication on the Internet. Because of privacy concerns, the inclusion of a social security number or any portion thereof on this Schedule A or any of its attachments may result in the rejection of the filing.

You can apply for an EIN from the IRS online, by telephone, by fax, or by mail depending on how soon you need to use the EIN. For more information, see Section 3: Electronic Filing Requirement under General Instructions to Form 5500. The EBSA does not issue EINs.

Part I—Information Concerning Insurance Contract Coverage, Fees, and Commissions

Line 1a. Enter the name of the insurance carrier. If you are reporting the same insurance carrier on multiple Schedules A to report different contracts, use the same name on each Schedule A.

Line 1b. Enter the EIN of the insurance carrier. If you are reporting the same insurance carrier on multiple Schedules A to report different contracts, use the same EIN on each Schedule A.

Line 1c. Enter the five-digit “Company Code” number assigned by the National Association of Insurance Commissioners (NAIC) to the insurance company. Do not use the NAIC “group code” or a state-issued identity number for the insurance company.

Line 1d. If individual policies with the same carrier are grouped as a unit for purposes of this report, and the group does not have one identification number, you may use the contract or identification number of one of the individual contracts, provided this number is used consistently to report these contracts as a group and the plan administrator maintains the records necessary to disclose all the individual contract numbers in the group upon request. Use separate Schedules A to report individual contracts that cannot be grouped as a unit.

Line 1e. For contracts or policies providing group health benefits, enter the health plan identifier (HPID) required under the Health Insurance Portability and Accountability Act (HIPAA).

Line 1f. Enter the beginning and ending dates of the policy year for the contract identified in elements (1) and (2). Leave 1(f) blank if separate contracts covering individual employees are grouped.

Part II—Investment and Annuity Contract Information

Line 3. Enter the current value of the plan's interest at year end in the contract reported on Line 6 e.g., deposit administration (DA), immediate participation guarantee (IPG), guaranteed investment contracts (GIC), or variable annuity contract.

Exception. Contracts reported on Line 6 need not be included on Line 3 if: (1) the Schedule A is filed for a defined benefit pension plan and the contract was entered into before March 20, 1992; or (2) the Schedule A is filed for a defined contribution pension plan and the contract is a fully benefit-responsive contract, i.e., it provides a liquidity guarantee by a financially responsible third party of principal and previously accrued interest for liquidations, transfers, loans, or hardship withdrawals initiated by plan participants exercising their rights to withdraw, borrow, or transfer funds under the terms of a defined contribution pension plan that does not include substantial restrictions to participants' access to plan funds.

Important Reminder. Plans may treat multiple individual annuity contracts, including Code section 403(b)(1) annuity contracts, issued by the same insurance company as a single group contract for reporting purposes on Schedule A.

Line 4. Enter the current value of the plan's interest under this contract in separate accounts at contract year end. Check whether the separate account is a pooled separate account (PSA), other separate account, or variable annuity. If other, enter a description of the separate account.

Line 5 Contracts with Allocated Funds

Line 5a. Enter a description of the basis of the rates.

Line 5b. Enter the amount of premiums paid to the carrier.

Line 5c. Enter the amount, if any, of premiums due but unpaid at the end of year.

Line 5d. If the carrier, service, or other organization incurred any specific costs in connection with the acquisition or retention of the contract or policy, enter the amount and specify the nature of the costs.

Line 5e. Check the appropriate box to indicate whether this is for individual policies, a group deferred annuity or other. If you check “Other,” you must enter a description of the type of contract.

Line 5f. If the contract being reported here was purchased, in whole or in part, to distribute benefits from a terminating plan, you must check the box in Line 5f.

Line 6 Contracts with Unallocated Funds

Lines 6a-f. Report contracts with unallocated funds. Do not include portions of these contracts maintained in separate accounts. Show deposit fund amounts rather than experience credit records when both are maintained.

Part III—Welfare Benefit Contract Information

Line 7. Since plan coverage may fluctuate during the year, the administrator should estimate the number of persons that were covered for each benefit by the contract at the end of the policy or contract year.

Persons, for purposes of this line, includes participants, beneficiaries, and dependents of participants that are covered under the insurance contract (such as with family coverage). Where contracts covering individual employees are grouped, compute entries as of the end of the plan year.

Line 8a. Report a stop-loss insurance policy that is an asset of the plan on Schedule A.

Note. Employers sponsoring welfare plans may purchase a stop-loss insurance policy with the employer as the insured to help the employer manage its risk associated with its liabilities under the plan. These employer contracts with premiums paid exclusively out of the employer's general assets without any employee contributions generally are not plan assets and are not reportable on Schedule A, but may be required to be reported on Schedule J.

Line 11. Indicate whether there were any premium delinquencies during the reporting year. You must answer “Yes” or “No.” Do not leave Line 11a blank. If you answered “Yes,” you must indicate both the number of times delinquent for premiums due but unpaid during the year, and for each delinquency, the number of days delinquent. If you answered “no” to line 11a, check “N/A.” If any premium payments that were not made within the time required by the insurance carrier that resulted in a lapse of insurance coverage, you must answer “Yes” to Line 11a even if coverage was retroactively reinstated.

Part IV—Fee and Commission Information

Lines 12 and 13. Report on Line 12 the total of all insurance fees and commissions directly or indirectly attributable to the contract or policy placed with or retained by the plan.

Totals. Enter on Line 12 the total of all such commissions and fees paid to agents, brokers, and other persons listed on Line 13. Complete a separate Line 13 item (elements (a) through (f)) for each person listed.

For purposes of Lines 12 and 13, commissions and fees include sales and base commissions and all other monetary and non-monetary forms of compensation where the broker's, agent's, or other person's eligibility for the payment or the amount of the payment is based, in whole or in part, on the value (e.g., policy amounts, premiums) of contracts or policies (or classes thereof) placed with or retained by an ERISA plan, including, for example, persistency and profitability bonuses. The amount (or pro rata share of the total) of such commissions or fees attributable to the contract or policy placed with or retained by the plan must be reported in Lines 12a and b and in Lines 13c and d, as appropriate.

Insurers must provide plan administrators with an allocation of commissions and fees attributable to each contract. Any reasonable method of allocating commissions and fees to policies or contracts is acceptable, provided the method is disclosed to the plan administrator. A reasonable allocation method could, in the Department of Labor's view, allocate fees and commissions to a Schedule A based on a calendar year calculation even if the plan year or policy year was not a calendar year. For additional information on these Schedule A reporting requirements, see ERISA Advisory Opinion 2005-02A, available on the Internet at www.dol.gov/ebsa.

Where benefits under a plan are purchased from and guaranteed by an insurance company, insurance service, or other similar organization, and the contract or policy is reported on a Schedule A, payments of reasonable monetary compensation by the insurer out of its general assets to affiliates or third parties for performing administrative activities necessary for the insurer to fulfill its contractual obligation to provide benefits, where there is no direct or indirect charge to the plan for the administrative services other than the insurance premium, then the payments for administrative services by the insurer to the affiliates or third parties do not need to be reported on lines 12 and 13 of Schedule A. This would include compensation for services such as recordkeeping and claims processing services provided by a third party pursuant to a contract with the insurer to provide those services but would not include compensation provided by the insurer incidental to the sale or renewal of a policy, such as finder's fees, insurance brokerage commissions and fees, or similar fees.

Schedule A reporting also is not required for compensation paid by the insurer to a “general agent” or “manager” for that general agent's or manager's management of an agency or performance of administrative functions for the insurer. For this purpose, (1) a “general agent” or “manager” does not include brokers representing insureds, and (2) payments would not be treated as paid for managing an agency or performance of administrative functions where the recipient's eligibility for the payment or the amount of the payment is dependent or based on the value (e.g., policy amounts, premiums) of contracts or policies (or classes thereof) placed with or retained by ERISA plan(s).

Schedule A reporting is not required for occasional non-monetary gifts or meals of insubstantial value that are tax deductible for federal income tax purposes by the person providing the gift or meal and would not be taxable income to the recipient. For this exemption to be available, the gift or gratuity must be both occasional and insubstantial. For this exemption to apply, the gift must be valued at less than $50, the aggregate value of gifts from one source in a calendar year must be less than $250, but gifts with a value of less than $10 do not need to be counted toward the $250 annual limit. If the $250 aggregate value limit is exceeded, then the aggregate value of all the gifts will be reportable. For this purpose, non-monetary gifts of less than $10 also do not need to be included in calculating the aggregate value of all gifts required to be reported if the $250 limit is exceeded.

Gifts from multiple employees of one service provider should be treated as originating from a single source when calculating whether the $50 or $250 thresholds apply. On the other hand, in applying the threshold to an occasional gift received from one source by multiple employees of a single service provider, the amount received by each employee should be separately determined in applying the $50 and $250 thresholds. For example, if 11 employees of a broker attend a business conference put on by an insurer designed to educate and explain the insurer's products for employee benefit plans, and the insurer provides, at no cost to the attendees, refreshments valued at $25 per individual, the gratuities would not be reportable on lines 12 and 13 of the Schedule A even though the total cost of the refreshments for all the employees would be $275.

These thresholds are for purposes of Schedule A reporting. Filers are cautioned that the payment or receipt of gifts and gratuities of any amount by plan fiduciaries may violate ERISA and give rise to civil liabilities and criminal penalties.

Line 13. Identify agents, brokers, and other persons individually in descending order of the amount paid. Complete as many entries as necessary to report all required information. Complete 13a-f for each person as specified below.

13a. Enter the name and address of the agents, brokers, or other persons to whom commissions or fees were paid.

13b. Enter any relationship of the person identified in Line 13a to the plan sponsor, to the participating employer or employee organization, or to any person known to be a party-in-interest, for example, employer, plan sponsor, employee of employer, vice-president of employer, union officer, affiliate of plan recordkeeper/fiduciary/investment manager, etc.

13c. Report all sales and base commissions here. For purposes of this element, sales and/or base commissions are monetary amounts paid by an insurer that are charged directly to the contract or policy and that are paid to a licensed agent or broker for the sale or placement of the contract or policy. All other payments should be reported in Line 13d as fees.

13d. Fees to be reported here represent payments by an insurer attributable directly or indirectly to a contract or policy to agents, brokers, and other persons for items other than sales and/or base commissions (e.g., service fees, consulting fees, finders' fees, profitability and persistency bonuses, awards, prizes, and non-monetary forms of compensation). Fees paid to persons other than agents and brokers should be reported here, not in Parts II and III on Schedule A as acquisition costs, administrative charges, etc.

13e. Enter the purpose(s) for which fees were paid.

13f. Enter the most appropriate organization code for the broker, agent, or other person entered in Line 13a.

Code Type of Organization

1 Banking, Savings & Loan Association, Credit Union, or other similar financial institution

2 Trust Company

3 Insurance Agent or Broker

4 Agent or Broker other than insurance

5 Third party administrator

6 Investment Company/Mutual Fund

7 Investment Manager/Adviser

8 Labor Union

9 Foreign entity (e.g., an agent or broker, bank, insurance company, etc., not operating within the jurisdictional boundaries of the United States)

0 Other

For plans, GIAs, master trusts, and 103-12 IEs required to file Part I of Schedule C, commissions and fees listed on the Schedule A are not required to be reported again on Schedule C. The amount of the compensation that must be reported on Schedule A must, however, be taken into account in determining whether the agent's, broker's, or other person's direct or indirect compensation in relation to the plan or DFE is $1,000 or more indirect compensation or combined direct and indirect compensation or $5,000 or more in direct compensation and, thus, requiring the compensation not listed on the Schedule A to be reported on the Schedule C. See FAQs about the Schedule C available on the EBSA Web site at www.dol.gov/ebsa/faqs.

Part V—Provision of Information

The insurance company, insurance service, or other similar organization is required under ERISA section 103(a)(2) to provide the plan administrator with the information needed to complete this return/report. If you do not receive this information in a timely manner, contact the insurance company, insurance service, or other similar organization.

Line 14. If information is missing on Schedule A due to a refusal by the insurance company, insurance service, or other similar organization to provide information, check “Yes” on Line 14. If you answer “Yes” to Line 14, you must complete Line 14b. If you received all the information necessary to receive the Schedule A, check “No” and leave Line 14b blank.

TIP. The insurance company, insurance service, or other similar organization is statutorily required to provide you with all of the information necessary to complete the Schedule A, but need not provide the information on a Schedule A itself.

On Line 14b, check the box if the information not provided was “fee and commission information.” For all other types of information, check “Other,” and enter a description of the information not provided.

20XX Instructions for Schedule C (Form 5500) (Service Provider Information)

General Instructions

Who Must File

Schedule C (Form 5500) must be attached to a Form 5500 filed for pension or welfare benefit plans, master trusts, 103-12 IEs, or GIAs required to file the Form 5500 to report certain information concerning service providers, except as provided below. Remember to check the Schedule C box on the Form 5500 (Part II, Line 11b(3)) and enter the number attached in the space provided to indicate the number of Schedules C attached to the Form 5500.

All plans required to complete a Schedule C must complete a separate Schedule C, in accordance with the instructions, to report the information required for: (1) Each “covered service provider,” as defined below, who received $1,000 or more in total direct and indirect compensation (i.e., money or anything else of monetary value) in connection with services rendered to the plan or the person's position with the plan during the plan year, including payments from participants' accounts and (2) other persons who received $5,000 or more in direct compensation in connection with services rendered to the plan or the person's position with the plan during the plan year, including payments from participants' accounts.

A “covered service provider” for Schedule C reporting has the same meaning as “covered service provider” in 29 CFR 2550.408b-2(c)(1)(iii) and includes: (1) Persons who provide services as an ERISA fiduciary directly to the plan; (2) persons who provide services as an ERISA fiduciary to an investment contract, product, or entity that holds plan assets (as determined pursuant to section 3(42) and 401 of the Act and 29 CFR 2510.3-101) and in which the plan has a direct equity investment; (3) persons who provide services to the plan as investment advisers registered under Federal or State law; (4) persons who provide recordkeeping or brokerage services to a participant-directed individual account plan in connection with a designated investment alternative (DIA) (e.g., a “platform provider”); and (5) persons who provide of one or more of the following services to the plan who received indirect compensation from parties other than from the plan or plan sponsor in connection with such services: Accounting, auditing, actuarial, banking, consulting, custodial, insurance, investment advisory, legal, recordkeeping, securities or other investment brokerage, third party administration, or valuation services.

Welfare plans are not subject to the service provider disclosure regulation at 29 CFR 2550.408b-2, but all plans, including welfare plans, that are required to file the Schedule C should use the provisions and definitions 29 CFR 2550.408b-2 as a guide in completing the Schedule C.

Exceptions.

1. Employees of the plan whose only compensation in relation to the plan was less than $25,000 for the plan year. With regard to reporting plan employees' salaries, total salaries (before taxes and other deductions) paid to employees should be used to determine whether an employee has received less than $25,000 during the plan year. Do not include the employer portion of FICA and FUTA taxes as part of the total compensation of an employee. Include salary, bonuses, overtime. Also include indirect compensation from persons other than the plan received in connection with the person's position with the plan or services provided to the plan. Include expenses for travel, educational, conference, meals, etc., whether paid directly by the plan or reimbursed to the employee, only if such payments would be reportable as taxable income to the employee.

2. Employees of the plan sponsor or other business entity where the plan sponsor or business entity is reported on the Schedule C as a service provider, provided the employee did not separately receive reportable direct or indirect compensation in relation to the plan;

3. Persons whose only compensation in relation to the plan consists of insurance fees and commissions listed in a Schedule A filed for the plan;

4. Payments made directly by the plan sponsor that are not reimbursed by the plan. In the case of a multiemployer or multiple-employer plan, where the “plan sponsor” would be the joint board of trustees for the plan, payments by contributing employers, directly or through an employer association, or by participating employee organizations, should be treated the same as payments by a plan sponsor; and

5. Welfare plans, including group health plans, that are required to file the Form 5500 and that do not have to complete the Schedule H because they meet the conditions of the DOL's regulation at 29 CFR 2520.104-44 or Technical Release 92-01, also do not have to file the Schedule C.

Part II of the Schedule C must be completed to report service providers who fail or refuse to provide information necessary to complete Part I of this Schedule.

For plans, GIAs, master trusts, and 103-12 IEs required to file Part I of Schedule C, commissions and fees listed on the Schedule A are not required to be reported again on Schedule C. The amount of the compensation that must be reported on Schedule A must, however, be taken into account in determining whether the service provider's direct or indirect compensation in relation to the plan or DFE meets the Schedule C reporting threshold, thus, requiring the compensation not listed on the Schedule A to be reported on the Schedule C.

Lines A, B, C, and D. This information must be the same as reported in Part II of the Form 5500 to which this Schedule C is attached.

Do not use a social security number in Line D in lieu of an EIN. The Schedule C and its attachments are open to public inspection, and the contents are public information subject to publication on the Internet. Because of privacy concerns, the inclusion of a social security number or any portion thereof on this Schedule C or any of its attachments may result in the rejection of the filing.

You can apply for an EIN from the IRS online, by telephone, by fax, or by mail depending on how soon you need to use the EIN. For more information, see Section 3: Electronic Filing Requirement under General Instructions to Form 5500. The EBSA does not issue EINs.

Do not list the PBGC or the IRS on Schedule C as service providers.

Either the cash or accrual basis may be used for the recognition of transactions reported on the Schedule C as long as the filer uses one method consistently. The basis used by various service providers may be different from that of the filing plan or DFE, as long as each service provider is also using one method consistently from year to year and providing the information to the plan consistently.

If service provider compensation is reported on a Schedule C filed as a part of a Form 5500 Annual Return/Report filed for a master trust or a 103-12 IE, do not report the same compensation again on the Schedule C filed for the plans that participate in the master trust or 103-12 IE. If a service provider paid or retained by a master trust performs services only for certain of the participating plans, the service provider must be reported on the Schedule C(s) for the plan(s) for which the services were performed; only compensation received in connection with services provided to all plans participating in the master trust should be reported at the master trust level.

Schedule C Reportable Compensation

For Schedule C purposes, reportable compensation includes money and any other thing of value (for example, gifts, awards, trips) received by a person, directly or indirectly, from the plan (including fees charged as a percentage of assets and deducted from investment returns and payments from parties other than the plan) in connection with services rendered to the plan or the person's position with the plan. Amounts are considered to have been received in connection with services rendered to the plan if the person's eligibility for a payment is based, in whole or in part, on services that were rendered to the plan or on a transaction or series of transactions with the plan. This includes any compensation that the covered service provider, an affiliate, or a subcontractor received in connection with termination of the contract or arrangement. Reportable compensation would not include amounts that would have been received had the service not been rendered or the transaction had not taken place and that cannot be reasonably allocated to the services performed or transaction(s) with the plan. The term “person” for this purpose includes individuals, trades and businesses (whether incorporated or unincorporated). See ERISA section 3(9).

Since, in most cases, the “spread” earned by a broker-dealer in a principal transaction would not be commission compensation paid by the covered plan for “services,” but instead would be considered “profit” for a non-service transaction, such as a purchase or sale of securities (i.e., where the broker-dealer acts as principal, not as an agent), the “spread” received would not be “compensation” (direct or indirect) for Schedule C purposes. For this purpose, the Department will rely upon the definition of the term “commission” used by the SEC under Section 28(e) of the Securities Exchange Act of 1934, as amended, per SEC Release No. 34-45194.

Similarly, the broker-dealer's sale of IPO securities to the plan does not occur “in connection with” services to the plan, but occurs as a result of a separate, non-service transaction where the broker-dealer is acting as a principal (e.g., a dealer who buys and sells securities from its inventory, as an underwriter or otherwise, and receives a “mark-up” or “spread” on the price vis-a-vis its own separate purchase or sale activities as a dealer). Thus, the broker-dealer is not a service provider to the plan in its role as a securities dealer, and its affiliates who may receive fees for underwriting and/or managing an underwriting syndicate for an IPO would not be receiving such fees “in connection with” services provided to the covered plan.

The investment of plan assets and payment of premiums for insurance contracts are not in and of themselves payments for services rendered to the plan for purposes of Schedule C reporting and the investment and payment of premiums themselves are not reportable compensation for purposes of Part I of the Schedule C.

Direct Compensation—Payments Received from the Plan. Direct compensation for Schedule C purposes has the same meaning as “direct compensation” in 29 CFR 2550.408b-2(c)(1)(viii)(B)(1), and includes payments received directly from the plan by a service provider in connection with services rendered to the plan, or a covered service provider, its affiliate or subcontractor in connection with the services rendered to the plan. Direct compensation includes, for example, direct payments by the plan out of a plan account, charges to plan forfeiture accounts and plan fee recapture trust accounts, charges to a plan's trust account before allocations are made to individual participant accounts, and direct charges to plan participant individual accounts. For example, the plan sponsor may pay for certain plan administrative services by writing a check from the plan account. Alternatively, a covered service provider may be paid a fixed per capita fee from participants' accounts in the covered plan when participants take out plan loans. Payments made by the plan sponsor, which are not reimbursed by the plan, are not subject to Schedule C reporting requirements even if the sponsor is paying for services rendered to the plan. Payments by made by the plan sponsor that are reimbursed by the plan are treated as direct payments by the plan.

Indirect Compensation—Amounts Received from Parties Other Than the Plan or Plan Sponsor. Indirect compensation for Schedule C purposes has the same meaning as “indirect compensation” in 29 CFR 2550.408b-2(c)(1)(viii)(B)(2), and includes compensation received by the covered service provider, an affiliate or subcontractor in connection with the services rendered to the plan from any source other than directly from the plan, plan sponsor, by an affiliate or subcontractor from the covered service provider, or by the covered service provider from an affiliate. Compensation received from a subcontractor is indirect compensation unless it is received in connection with services performed under the subcontractor's contract or arrangement with the covered service provider or an affiliate for performing one or more services provided for by the contract or arrangement with the plan. Indirect compensation includes amounts received by the covered service provider, affiliate or subcontractor that are charged against the investments of the plan (e.g., mutual funds or other investment funds) and reflected in the plan's return on investment.

For example, indirect compensation would include payments that an independent recordkeeper receives from investment issuers to compensate the recordkeeper for administrative services it performs for the investment issuer when those payments are received in connection with investments that such plans make in the issuers' products. If a covered service provider, affiliate or subcontractor receives revenue sharing payments from an investment fund (e.g., mutual fund), investment provider or other plan service provider or person in connection with the services the covered service provider, affiliate or subcontractor rendered to a covered plan, that compensation would be “indirect compensation.” Amounts charged against the fund for other ordinary operating expenses of the fund, such as attorneys' fees, accountants' fees, printers' fees, are not reportable indirect compensation received by the attorneys, accountants, or printers for Schedule C purposes. Also, brokerage costs associated with a broker-dealer effecting securities transactions within the portfolio of a mutual fund or for the portfolio of an investment fund that holds “plan assets” for ERISA purposes are not reportable compensation paid to the broker as a plan service provider for Schedule C purposes.

If a service provider charges the plan a fee or commission, but agrees to offset the fee or commission with any revenue received from a party other than the plan or plan sponsor, for example, as part of a commission recapture or other offset arrangement, only the amount paid directly by the plan after any revenue sharing offset should be entered as direct compensation in Line 2. If the amount deposited into the plan's trust account by the record keeper is net of the record keeper's service fees, however, the amount the record keeper retains would be reportable indirect compensation for Schedule C purposes. Amounts paid to persons out of the plan's ERISA fee recapture trust account for services rendered to the plan are considered direct compensation to the receiving service provider reportable in Line 1g. If the record keeper retains the revenue sharing income but reflects some or all of it on the record keeper's accounts as a credit to the plan (as opposed to depositing in the plan's trust account), payments by the record keeper to itself or other persons for rendering services to the plan that reduce the plan's credit balance would be reportable indirect compensation to the persons receiving the payments reportable in Line 3.

Compensation paid among the covered service provider, an affiliate, or a subcontractor, in connection with the services provided to the plan is not reportable indirect compensation. Rather, those payments may be required to be reported as Related Party Compensation on Line 4.

Special rules for non-monetary compensation of insubstantial value, guaranteed benefit insurance policies, bundled service arrangements, and allocating compensation among multiple plans:

Excludable Non-Monetary Compensation: You may exclude non-monetary compensation of insubstantial value (such as gifts or meals of insubstantial value) that is tax deductible for federal income tax purposes by the person providing the gift or meal and would not be taxable income to the recipient. The gift or gratuity must be valued at less than $50, and the aggregate value of gifts from one source in a calendar year must be less than $250, but gifts with a value of less than $10 do not need to be counted toward the $250 limit. If the $250 aggregate value limit is exceeded, then the value of all the gifts over $10 will be reportable. Gifts received by one person from multiple employees of one entity must be treated as originating from a single source when calculating whether the $50 or $250 threshold applies. On the other hand, gifts received from one person by multiple employees of one entity can be treated as separate compensation when calculating the $50 and $250 thresholds.

These thresholds are for purposes of Schedule C reporting only. Filers are cautioned that gifts and gratuities of any amount paid to or received by plan fiduciaries may violate ERISA and give rise to civil liabilities and criminal penalties.

Fully Insured Group Health and Similarly Fully Insured Benefits: Where benefits under a plan are purchased from and guaranteed by an insurance company, insurance service, or other similar organization, and the contract or policy is reported on a Schedule A, payments of reasonable monetary compensation by the insurer out of its general assets to persons for performing administrative activities necessary for the insurer to fulfill its contractual obligation to provide benefits, where there is no direct or indirect charge to the plan for the administrative services other than the insurance premium, would not be treated as indirect compensation for services provided to the plan for Schedule C reporting purposes. This would include compensation for services such as recordkeeping and claims processing provided by a third party pursuant to a contract with the insurer to provide those services, but would not include compensation provided by the insurer incidental to the sale or renewal of a policy, such as finder's fees, insurance brokerage commissions and fees, or similar fees. Insurance investment contracts are not eligible for this exception.

[CAUTION] Allocating Compensation Among Multiple Plans: Where reportable compensation is received by a person in connection with several plans or DFEs, any reasonable method of allocating the compensation among the plans or DFEs may be used provided that the allocation method is disclosed to the plan administrator. If a such a reasonable method of allocation is used in determining the compensation attributable to the plan, then in calculating the $1,000 and $5,000 thresholds for purposes of determining whether a person must be identified in Part I, the amount of compensation received by the person that is determined to be attributable to the plan or DFE filing the Form 5500 should be used, not the aggregate amount of compensation received in connection with all the plans or DFEs.

Specific Instructions

Part I—Service Provider Information

Line 1a. As explained above, a separate Schedule C must be filed, in accordance with the instructions, to report the information for: (1) Each covered service provider who received $1,000 or more in total direct and indirect compensation (i.e., money or anything else of monetary value in connection with services rendered to the plan or the person's position with the plan during the plan year, including payments from participants' accounts and (2) other persons who received $5,000 or more in direct compensation in connection with services rendered to the plan or the person's position with the plan during the plan year, including payments from participants' accounts.

Enter in Line 1a the covered service provider or other person's name and complete Lines 1a(1)-(6). If the service provider identified is not an individual, provide the name and address for an individual or office at the service provider that the plan could contact for information about the service arrangement in Lines 1a(5)-(6). If the name of an individual is entered in Line 1a and the individual does not have an EIN, enter the EIN of the individual's employer. If the person is self-employed and does not have an EIN, you may enter the person's address and telephone number. Do not use a social security number in lieu of an EIN. The Schedule C and its attachments are open to public inspection and are subject to publication on the Internet. Because of privacy concerns, the inclusion of a social security number or any portion thereof on this Schedule C or any of its attachments may result in the rejection of the filing. Also enter the service provider's LEI, if available.

Line 1b. Check the appropriate box to indicate the relationship of the service provider identified in Line 1a to the plan. Check Line 1b(7) “Other” and enter a description, e.g., vice-president of employer, union officer, affiliate of the plan sponsor, recordkeeper, fiduciary, investment manager, etc., if the service provider has a relationship to the plan other than “service provider” that is not one of relationships listed in Line 1b(1)-(6). If the service provider has no relationship to the plan other than the service provider relationship being reported on the Schedule C, check the box in Line 1b(8) for “not applicable.”

Line 1c. Types of Services. Check all the appropriate box(es) to describe the types of services provided. The “plan administrator” for purposes of Line 1c is the person who has been designated as the administrator by the terms of the instrument under which the plan is operated; or if no plan administrator is designated, the plan sponsor. See ERISA section 3(16). The plan administrator should be identified in the plan's summary plan description. For most employee benefit plans, the plan administrator is the employer, a committee of employees, a company executive, or in some cases a person or organization hired to be the plan administration. The plan's “third party administrator” often is not the same as the “plan administrator” for this purpose.

Line 1d. Check the box if the person identified in Line 1a was a fiduciary within the meaning of section 3(21) of ERISA during the plan year. Every employee benefit plan must be established and maintained pursuant to a written instrument. The instrument must provide for one or more “named fiduciaries” who jointly or severally have authority to control and management the operation and administration of the plan. Under ERISA section 402(a), “the term named fiduciary means a fiduciary who is named in the plan instrument, or who, under a procedure specified in the plan, is identified as a fiduciary (a) by a person who is an employer or employee organization with respect to the plan or (b) by such an employer and such employee organization acting jointly.” Other persons may be functional fiduciaries because they exercise control over plan assets, have discretionary authority for administration or management of the plan, or provide investment advice for a fee.

Line 1e. Check “Yes” if the person identified in Line 1a also was identified on Schedule A as having received insurance fees and commissions.

Line 1f. Check “Yes,” if the arrangement with the service provider included the use of an ERISA recapture, ERISA budget or similar account during the plan year.

Line 1g. Check “Yes” in Line 1g(1) if the arrangement with the service provider identified in Line 1a included recordkeeping services to a pension plan without explicit compensation for some or all of such recordkeeping services or with compensation for such recordkeeping offset or rebated in whole or in part based on other compensation received by the service provider, or an affiliate or subcontractor. If “Yes,” use the same methodology to develop a dollar estimate of the cost to the plan of recordkeeping services provided in the service provider's 408-b(2) disclosure, enter in Line 1g(2), as a dollar figure, the amount of compensation the service provider received for recordkeeping services.

Line 2—Direct Compensation. Report the amount of direct compensation received by the person or covered service provider (including its affiliate or subcontractor) identified in Line 1a.

TIP. The total reported in Line 2 generally would be those payments that would be includable as administrative expenses on Schedule H, Line 2i. Do not leave Line 2 blank. If no direct compensation was received, enter “0”.

Line 3—Indirect Compensation. Complete Line 3 to report indirect compensation received by the covered service provider, affiliate or subcontractor from persons other than the plan or plan sponsor, including charges against the plan's investments.

Note: You must separately report in Line 4 certain related party compensation paid among the person identified in Line 1a and the affiliate or subcontractor.

Line 3a. Enter the total amount of indirect compensation plan from sources other than the plan or plan sponsor received by the covered service provider, affiliate or subcontractor in connection with services provided to the plan, including charges against the plan's investments. This should equal the total of the amounts or estimates reported on the Line 3b(4) entries.

Line 3b. Complete as many entries (Lines 3b(1)-(6)) as necessary to identify all sources of indirect compensation reported in Line 3a. If the name of an individual is entered in Line 3a and the individual does not have an EIN, enter the EIN of the individual's employer. If the person is self-employed and does not have an EIN, you may enter the person's address and telephone number. Do not use a social security number in lieu of an EIN. The Schedule C and its attachments are open to public inspection and are subject to publication on the Internet. Because of privacy concerns, the inclusion of a social security number or any portion thereof on this Schedule C or any of its attachments may result in the rejection of the filing. Also enter the service provider's LEI, if available.

Line 3b(4). Enter as a dollar figure the amount or estimate of compensation received from the source. If an estimate is reported, you must complete Line 3b(6).

Line 3b(5). Types of Compensation. Check all the appropriate box(es) to describe the types of compensation received from the source.

Line 4—Related Party Compensation. You must report on Line 4 as related party compensation any compensation that is paid among the service provider, affiliates and subcontractors in connection with the services rendered to the plan if the amount was set on a per transaction basis, (e.g., commissions, soft dollars, finder's fees or other similar incentive compensation based on business placed or retained) or is charged directly against the plan's investment and reflected in the net value of the investment (e.g., Rule 12b-1 fees, distribution fees, management fees shareholder servicing fees). This does not include compensation received by an employee from his or her employer on account of work performed by the employee. Other revenue sharing payments among the covered service provider, affiliate or subcontractor in connection with the services rendered to the plan do not need to be reported as related party compensation.

Part II—Service Providers Who Fail or Refuse To Provide Information

Line 5. Check the box in Line 5a to identify each covered service provider who you believe failed or refused to provide any of the information necessary to complete Part I of this schedule. In Line 5b describe the information that the service provider failed or refused to provide.

Important Reminder. Before identifying a service provider as a person who failed or refused to provide information, you should contact the service provider to request the necessary information and tell them that you will list them on the Schedule C as a service provider who failed or refused to provide information if they do not provide the necessary information.

On Line 5b, include in the description of the information that the service failed or refused to provide whether you are relying on the exemption at 29 CFR 2550.408b-2(c)(1)(ix) with respect to the failure of any fiduciary or service provider to provide information required to complete Part I of Schedule C.

[CAUTION]. The failure of certain service providers to provide information needed to complete the annual return/report, including Schedule C, may give rise to a prohibited transaction under section 408(b)(2) of ERISA, see 29 CFR 2550.408b-2(c)(1)(vi), that must be reported on Schedule H, Line 4d and, as applicable, attach a Schedule G.

20XX Instructions for Schedule D

(Form 5500 DFE/Participating Plan Information)

General Instructions

Who Must File

When the Form 5500 is filed for a Direct Filing Entity (DFE) that is a master trust (MT), 103-12 Investment Entity (103-12 IEs), common/collective trust (CCT), pooled separate account (PSA), or group insurance arrangement (GIA) the Schedule D (Form 5500) is required to provide information about plans participating in the DFE. A Form 5500 Annual Return/Report filed for a CCT, PSA, MT, 103-12 IE, or GIA should be identified as a “DFE” on Part I, Line A(5), of the Form 5500 and the Schedule D box should be checked on the Form 5500, Part II, Line 11b(4). For more information, see instructions for Direct Filing Entity (DFE) Filing Requirements.

Specific Instructions

Lines A, B, C, and D. The information must be the same as reported in Part II of the Form 5500 to which this Schedule D is attached.

Do not use a social security number in Line D in lieu of an EIN. The Schedule D and its attachments are open to public inspection, and the contents are public information and are subject to publication on the Internet. Because of privacy concerns, the inclusion of a social security number or any portion thereof on this Schedule D or any of its attachments may result in the rejection of the filing.

You can apply for an EIN from the IRS online, by telephone, by fax, or by mail depending on how soon you need to use the EIN. For more information, see Section 3: Electronic Filing Requirement under General Instructions to Form 5500. The EBSA does not issue EINs.

Information on Participating Plans

Complete as many repeating entries as necessary to enter the information specified below for all plans invested or participated in the DFE at any time during the DFE year.

[CAUTION] The administrator of each participating plan is required to provide the CCT, PSA, MT, and 103-12IE with the plan number, name of the plan sponsor and EIN of the plan sponsor being reported on the plan's Form 5500 so that the DFE can timely and accurately complete its Schedule D. Failure to provide that information to the DFE may result in the plan's Form 5500 Annual Return/Report being treated as incomplete and subject to rejection. See 29 CFR 2520.103-9(b).

Complete a separate Line 1 (elements (a) through (e)) for each plan investing or participating in the DFE.

Line 1a. Enter the name of each plan that invested or participated in the DFE at any time during the DFE year.

Line 1b. Enter the name of the sponsor of each plan investing or participating in the DFE.

Line 1c. Enter the nine-digit EIN and three-digit PN for each plan named in Line 1a. This is the EIN and PN entered on lines 2b and 1b of the plan's Form 5500 or Form 5500-SF. GIAs should enter the EIN of the sponsor of the participating plan listed in Line 1(b) of the Schedule D. Do not use a social security number in lieu of an EIN. The Schedule D and its attachments are open to public inspection, and the contents are public information and are subject to publication on the Internet. Because of privacy concerns, the inclusion of a social security number or any portion thereof on this Schedule D or any of its attachments may result in the rejection of the filing.

Line 1d. Enter the dollar value of each investing plan's interest in the DFE as of the end of the DFE year. GIAs do not complete Line 1d.

1e. If the DFE had investors other than plans that are required to file the Form 5500 or Form 5500-SF, such as governmental plans, “one-participant” plans, or non-plan investors, check the box in Line 1e.

20XX Instructions for Schedule E (Form 5500) ESOP Annual Information

General instructions

Who Must File

Every employer or plan administrator of a pension benefit plan that provides ESOP benefits must file a Schedule E (Form 5500).

Specific Instructions

Lines A, B, C, and D. This information should be the same as reported in Part II of the Form 5500 to which this Schedule E is attached. If necessary, you may abbreviate the plan name to fit the space provided.

Part I Employer Stock Acquired with a Securities Acquisition Loan. A “securities acquisition loan” is an exempt loan to an ESOP to the extent that the proceeds are used to acquire employer securities for the plan.

Line 1a. Enter the number of common shares of employer stock held in the ESOP at the end of the plan year.

Line 1b. Enter the percent of issued and outstanding common stock held in the ESOP at the end of the plan year.

Line 1c. A security is readily tradable on an established securities market if it is traded on a national securities exchange that is registered under section 6 of the Securities Exchange Act of 1934 or if it is traded on a foreign national exchange that is officially recognized, sanctioned, or supervised by a governmental authority and the security is deemed by the Securities Exchange Commission as having a “ready market”. Treasury Regulations 1.401(a)(35)-1(f)(5)(ii).

Line 1d. Enter the number of shares of common stock that were allocated at the end of the plan year.

Line 1e. Enter the number of shares of common stock that were unallocated at the end of the plan year.

Line 1f. If common stock was released from a loan suspense account, check the appropriate box(es) to indicate the method(s) used. If you check “Other” you must provide a description of the method used.

Line 1g. Check “Yes” if the ESOP holds preferred stock. Under section 409(l)(3) of the Code preferred stock is stock convertible at any time into stock that meets the requirements of sections 409(l)(1) for readily tradable stock or section 409(l)(2) for non-readily tradable stock. The stock must be convertible at a conversion price which (as of the date of acquisition) is reasonable.

If you answered “Yes” and the preferred stock was acquired by the ESOP in a securities acquisition loan, answer Lines 1h-i.

Lines 1h-i. Respond to these questions only if preferred stock was acquired by the ESOP in a securities acquisition loan.

Line 1i. If, for example, the conversion price is variable or incorporates the issuance of stock warrants, a description of the method used must be provided.

Part II Employer Stock Acquired.

Respond to these questions only if during the plan year any non-readily tradable employer securities were purchased by the ESOP, including employer securities acquired with the proceeds from a securities acquisition loan.

Line 2b. For purposes of this form, a party in interest is deemed to include a disqualified person. See Code section 4975(e)(2). See Instructions for Schedule G for the definition of party in interest.

Line 2e. Check the appropriate box and enter the applicable identifying information if a trustee, investment manager, or independent fiduciary directly or indirectly approved the transaction.

Line 2f. Section 401(a)(28(C) of the Code provides that, in order for an ESOP to be a qualified plan under the Code, all valuations of employer securities which are not readily tradable on an established securities market with respect to activities carried on by the plan must be by an independent appraiser.

Line 2g. Check the appropriate box(es) to indicate what valuation approach(es) were used to set the value of the stock acquired. If you check “Other,” enter a description.

Part III Securities Acquisition Loans.

Complete Part III only if the ESOP had outstanding securities acquisition loans within the meaning of Code section 4975(d)(3) and ERISA section 408(b)(3) during the plan year. Complete as many Line 3 (elements (a)-(h)) as needed to identify each such loan.

Part IV Other General Information

Line 4b. As described in Code section 409(p), a disqualified person, for purposes of this section, is generally, any person whose deemed-owned shares of the S corporation, as defined in section 409(p)(4)(C), including synthetic equity shares, as defined in Treasury Regulations section 1.409(p)-1(f)(2) are at least ten percent of the deemed-owned shares of the S corporation and that person's synthetic equity shares of the S corporation. In addition, disqualified persons include a person and each of such person's family members, as defined in section 409(p)(4)(D), if the aggregate number of deemed-owned shares of this family group, including synthetic equity, is at least twenty percent of the deemed owned shares of the S corporation and the synthetic equity shares of such persons.

Line 4d(3). Payments in redemption of stock held by an ESOP include reacquisition payments that are used to make benefit distributions to participants or beneficiaries.

20XX Instructions for Schedule G (Form 5500) Financial Transaction Schedules

Who Must File

Large plans, small pension plans that are not exempt from the annual IQPA audit under 29 CFR 104-46 (see instructions to Schedule H, Line 3h(4)), master trusts, 103-12 IEs, and GIAs, must attach Schedule G to their Form 5500 if they are required to file a Schedule H and they have the following to report:

• Loans and/or fixed income obligations in default or determined to be uncollectible as of the end of the plan year,

• Leases in default or classified as uncollectible, and

• Nonexempt transactions that occurred or remained uncorrected during the plan year.

Check the Schedule G box on the Form 5500 (Part II, Line 11b(5)) if you are attaching Schedule G. Complete as many entries as necessary to report the required information.

[CAUTION] The plans described below, although exempt from certain other financial reporting requirements, are still required to file Schedule G, Part III to report nonexempt transactions:

• An unfunded, fully insured, or combination unfunded/insured welfare plan, including group health plans, with 100 or more participants exempt under 29 CFR 2520.104-44 from completing Schedule H.

• A plan that is required to file a Form M-1, Report for Multiple Employer Welfare Arrangements (MEWAs) and Certain Entities Claiming Exception (ECEs).

The Schedule G consists of three parts:

• Part I to report any loans or fixed income obligations in default or determined to be uncollectible as of the end of the plan year.

• Part II to report any leases in default or classified as uncollectible.

• Part III to report nonexempt transactions.

Specific Instructions

Lines A, B, C, and D. This information must be the same as reported in Part II of the Form 5500 to which this Schedule G is attached.

Do not use a social security number in Line D in lieu of an EIN. The Schedule G and its attachments are open to public inspection, and the contents are public information and are subject to publication on the internet. Because of privacy concerns, the inclusion of a social security number or any portion thereof on this Schedule G or any of its attachments may result in the rejection of the filing.

You can apply for an EIN from the IRS online, by telephone, by fax, or by mail depending on how soon you need to use the EIN. For more information, see Section 3: Electronic Filing Requirement under General Instructions to Form 5500. The EBSA does not issue EINs.

Part I—Loans or Fixed Income Obligations in Default or Classified as Uncollectible

List all loans or fixed income obligations in default or determined to be uncollectible as of the end of the plan year or the fiscal year of the GIA, master trust, or 103-12 IE. Include:

• Obligations where the required payments have not been made by the due date;

• Fixed income obligations that have matured, but have not been paid, for which it has been determined that payment will not be made; and

• Loans that were in default even if renegotiated during the year.

The due date, payment amount, and conditions for determining default in the case of a note or a loan are usually contained in the documents establishing the note or loan. A loan is in default when the borrower is unable to pay the obligation upon maturity. Obligations that require periodic repayment can default at any time. Generally loans and fixed income obligations are considered uncollectible when payment has not been made and there is little probability that payment will be made. A fixed income obligation has a fixed maturity date at a specified interest rate.

Line 1. Schedule of Loans in Default or Classified as Uncollectible Complete as many entries as needed to report all loans in default or classified as uncollectible.

Do not report on Line 1 participant loans under an individual account plan with investment experience segregated for each account, that are made according to 29 CFR 2550.408b-1, and that are secured solely by a portion of the participant's vested accrued benefit. Report all other participant loans in default or classified as uncollectible on Part I, and list each loan individually.

CAUTION: You may not attach an amortization schedule in lieu of completing as many repeating Line 1 entries as necessary to identify loans in default or classified as uncollectible.

1a. Identity and address of obligor. Enter the name, street address, city, state, and zip code for the obligor. A post office box number may be entered in addition to the street address if the Post Office does not deliver mail to the obligor's street address.

1b. Relationship of Obligor to Plan. Check the appropriate boxes to indicate whether the obligor is a party-in-interest or a plan participant. Also enter a description of the relationship of the obligor to the plan, such as employer, employee organization, plan sponsor, fiduciary, service provider, or other party in or other party-in-interest, (if no relationship, enter “unrelated third party”).

1c. Status of Loan. Check to the appropriate box to indicate whether the loan is in default or has been determined to be uncollectible. Generally, loans are considered uncollectible when payment has not been made and there is little probability that payment will be made. The documents establishing the loan normally specify its terms, due date, payment amount, and conditions for determining default. A loan is in default when the borrower is unable to pay the obligation when due. Obligations that require periodic repayment can default at any time.

1d. Original Principal Amount of Loan. Enter original amount of loan.

1e. Original Interest Rate of Loan. Enter original interest rate of the loan. If the original interest rate of the loan was variable, enter in the space provided, a description of the terms of the variable interest rate.

1f. Origination Date. Enter the date the loan originated.

1g. Original Maturity Date. Enter the original maturity date of the loan. If the maturity date was extended to a different date, include the new maturity date in element (l) in the description of steps taken to collect the loan.

1h. Loan Collateral. In Line 1h, check the appropriate box to indicate whether the loan secured by collateral. If you answered “Yes,” complete Lines 1h(2) and (3). In Line 1h(2), indicate whether the security interest in the collateral was perfected. In Line 1h(3), enter a description of the collateral type and its value.

1i. Scheduled Payment Frequency. Enter the scheduled payment frequency (e.g., monthly, annually).

1j. Payments Received. Enter the amount of principal and interest payments received during the plan year.

1k. Amount Overdue. Enter separately the principal and interest amounts overdue as of the end of the plan year. Include the amount, of principal and interest that is overdue from previous plan years.

1l. Steps Taken to Collect. Describe what steps have been taken or will be taken to collect overdue amounts, including renegotiation of original terms of the loan.

Line 2—Schedule of Fixed Income Obligations in Default or Classified as Uncollectible.

Complete as many entries as needed to report all fixed income obligations in default or classified as uncollectible.

2a. Identity and address of obligor. Enter the name, street address, city, state, and zip code for the obligor. A post office box number may be entered in addition to the street address if the Post Office does not deliver mail to the obligor's street address.

2b. Relationship of Obligor to Plan. Check the box to indicate whether the obligor is a party-in-interest. Also enter a description of the relationship of the obligor to the plan, such as employer, employee organization, plan sponsor, fiduciary, service provider, or other party in or other party-in-interest (if no relationship, enter “unrelated third party”).

2c. Status of Fixed Income Obligation. Check the appropriate box to indicate whether the loan is in default or has been determined to be uncollectible. Generally, fixed income obligations are considered uncollectible when payment has not been made and there is little probability that payment will be made. The documents establishing the obligation normally specify its terms, due date, payment amount, and conditions for determining default. A fixed income obligation is in default when the obligee is unable to pay the obligation when due. Obligations that require periodic repayment can default at any time.

2d. Nature of Fixed Income Obligation. Check applicable boxes to indicate the nature of the fixed income obligation. See Schedule H, Line 1b instructions for more information on types of fixed income obligations.

2e. Date of issuance. Enter the date the fixed income obligation was issued.

2f. Maturity date. Enter the original maturity date of the obligation. If the maturity date was extended to a different date, include the new maturity date in the description of steps taken to collect the obligation in element (l).

2g. Yield/Interest Rate. Enter yield or interest rate for the obligation provided for in the note or contract establishing the obligation.

2h. Principal amount of fixed income obligation. Enter the principal amount of the obligation at the time the plan entered into the transaction.

2i. Amount Overdue. Enter separately the principal and interest amounts overdue as of the end of the plan year. Include the amount of principal and interest that is overdue from previous plan years.

2j. Steps Taken to Collect. Enter a description of what steps the plan administrator has taken or will be taking to collect overdue amounts for each loan.

Part II Leases in Default or Classified as Uncollectible.

List any leases in default or classified as uncollectible. A lease is an agreement conveying the right to use property, plant, or equipment for a stated period. A lease is in default when the required payment(s) has not been made. An uncollectible lease is one where the required payments have not been made and for which there is little probability that payment will be made.

3a. Identity and address of obligor. Enter the name, street address, city, state, and zip code for the obligor. A post office box number may be entered in addition to the street address if the Post Office does not deliver mail to the obligor's street address.

3b. Relationship of Obligor to Plan. Check the appropriate boxes to indicate whether the obligor is a party-in-interest or a plan participant. Also enter a description of the relationship of the obligor to the plan, such as employer, employee organization, plan sponsor, fiduciary, service provider, or other party-in-interest (if no relationship, enter “unrelated third party”).

3c. Status of Lease. Check to the appropriate box to indicate whether the lease is in default or has been determined to be uncollectible. Generally, leases are considered uncollectible when payment has not been made and there is little probability that payment will be made. The documents establishing the lease normally specify its terms, due date, payment amount, and conditions for determining default. A lease is in default when the lessee is unable to pay the obligation when due. Obligations that require periodic repayment can default at any time.

3d. Address of Leased Property. You must enter the name, street address, city, state, and zip code of the leased property. You may not use a post office box.

3e. Date of Lease Origination. Enter date of lease origination.

3f. Original Cost of Leased Property. Enter the cost to acquire the property.

3g. Current Value of Leased Property at Time of Lease. Enter the value of the leased property at time the plan entered into the lease.

3h. Annual Lease Payments Due. Enter the gross rental amounts due during the plan year.

3k. Scheduled Payment Frequency. Indicate the lease payment schedule, i.e., monthly, annually.

3l. Lease Expiration Date: Enter the lease expiration date.

3m. Amount In Arrears. Enter the amount of payments under the lease that are in arrears.

3n. Steps Taken to Collect. Enter an explanation of what steps the plan administrator has taken or will be taking to collect overdue amounts for each lease listed.

Part III Nonexempt Transactions

You must report all nonexempt party-in-interest transactions, regardless of whether they are disclosed in the accountant's report, unless the nonexempt transaction is:

1. Statutorily exempt under Part 4 of Title I of ERISA;

2. Administratively exempt under ERISA section 408(a);

3. Exempt under Code sections 4975(c) or 4975(d);

4. The holding of participant contributions in the employer's general assets for a welfare plan that meets the conditions of ERISA Technical Release 92-01;

5. A transaction of a 103-12 IE with parties other than the plan; or

6. A delinquent participant contribution or a delinquent participant loan repayment reported on Schedule H, Line 4a.

Nonexempt transactions with a party-in-interest include any direct or indirect:

A. Sale or exchange, or lease, of any property between the plan and a party-in-interest.

B. Lending of money or other extension of credit between the plan and a party-in-interest.

C. Furnishing of goods, services, or facilities between the plan and a party-in-interest.

D. Transfer to, or use by or for the benefit of, a party-in-interest, of any income or assets of the plan.

E. Acquisition, on behalf of the plan, of any employer security or employer real property in violation of ERISA section 407(a).

F. Dealing with the assets of the plan for a fiduciary's own interest or own account

G. Acting in a fiduciary's individual or any other capacity in any transaction involving the plan on behalf of a party (or represent a party) whose interests are adverse to the interests of the plan or the interests of its participants or beneficiaries.

H. A receipt of any consideration for his or her own personal account by a party-in-interest who is a fiduciary from any party dealing with the plan in connection with a transaction involving the income or assets of the plan.

For purposes of this form, party-in-interest is deemed to include a disqualified person. See Code Section 4975(e)(2). The term “party-in-interest” means, as to an employee benefit plan:

A. Any fiduciary (including, but not limited to, any administrator, officer, trustee or custodian), counsel, or employee of the plan;

B. A person providing services to the plan;

C. An employer, any of whose employees are covered by the plan;

D. An employee organization, any of whose members are covered by the plan;

E. An owner, direct or indirect, of 50% or more of:

(1) the combined voting power of all classes of stock entitled to vote or the total value of shares of all classes of stock of a corporation,

(2) the capital interest or the profits interest of a partnership, or

(3) the beneficial interest of a trust or unincorporated enterprise that is an employer or an employee organization described in C or D;

F. A relative of any individual described in A, B, C, or E;

G. A corporation, partnership, or trust or estate of which (or in which) 50% or more of:

(1) the combined voting power of all classes of stock entitled to vote or the total value of shares of all classes of stock of such corporation,

(2) the capital interest or profits interest of such partnership, or

(3) the beneficial interest of such trust or estate is owned directly or indirectly, or held by, persons described in A, B, C, D, or E;

H. An employee, officer, director (or individual having powers or responsibilities similar to those of officers or directors), or a 10% or more shareholder, directly or indirectly, of a person described in B, C, D, E, or G, or of the employee benefit plan; or

I. A 10% or more (directly or indirectly in capital or profits) partner or joint venture of a person described in B, C, D, E, or G.

If you are unsure whether a transaction is exempt or not, you should consult with either the plan's independent qualified public accountant or legal counsel or both.

You may indicate that an application for an administrative exemption is pending.

If the plan is a qualified pension plan and a nonexempt prohibited transaction occurred with respect to a disqualified person, the disqualified person must file an IRS Form 5330, Return of Excise Taxes Related to Employee Benefit Plans, to pay the excise tax on the transaction.

4a. Identity and Address of Party Involved in Non-exempt Transaction. Enter the name, street address, city, state, and zip code for the obligor. A post office box number may be entered in addition to the street address if the post office does not deliver mail to the obligor's street address.

4b. Relationship to Plan. Enter a description of the relationship of the party involved in the transaction to the plan, such as employer, employee organization, plan sponsor, fiduciary, service provider, or other party-in-interest.

4c. Type of Nonexempt Transaction. Check all of the boxes that apply to the nonexempt transaction.

4d. Nature of Transaction. Check the appropriate box to indicate the nature of the transaction. A transaction is a discrete transaction if it was a single occurrence that did not continue in time, for example, the sale of property between a plan and a party-in-interest is a discrete transaction. An ongoing transaction is one that is continuous over a period of time, such as a lease or other obligation that requires regular payments for a continuing time period.

4e. Date of Transaction. Enter the date the transaction occurred or was entered into. If ongoing, enter the date of the commencement or first instance.

4f. Principal Amount Of Nonexempt Transaction. Enter the principal amount of the transaction.

4g. Net Gain (Or Loss) On the Transaction. Enter the net gain (or loss) on the transaction.

4h-j. Correction of Transaction. Check the appropriate box to indicate whether the transaction has been corrected, and if so, when and how the transaction was corrected. The DOL Voluntary Fiduciary Correction Program (VFCP) describes how to apply the specific transactions covered (for example, delinquent participation contributions to pension and welfare plans) and acceptable methods for correcting violations. In addition, applicants that satisfy both the VFCP requirements and the conditions of Prohibited Transaction Exemption (PTE) 2002-51 are eligible for immediate relief from payment of certain prohibited excise taxes for certain corrected transactions, and are also relieved from the obligation to file the Form 5330 with the IRS. For more information, see 71 FR 20261 (Apr. 19, 2006) and 71 FR 20135 (Apr. 19, 2006). If conditions of PTE 2002-51 are satisfied, corrected transactions should be treated as exempt under Code section 4975(c) when answering Schedule G, Part III. Information about the VFCP is also available on the internet at www.dol.gov/ebsa.

4k. Filing of Form 5330 and Payment of Excise Taxes. Check the appropriate box to indicate whether a Form 5330 with payment of excise taxes to the IRS was required and if so, whether the Form 5330 was in fact filed.

20XX Instructions for Schedule H (Form 5500) (Financial Information)

General Instructions

Who Must File

Schedule H (Form 5500) must be attached to a Form 5500 filed for any pension or welfare benefit plan required to file the Form 5500, unless subject to one of the exceptions listed below or permitted to file the Form 5500-SF. Master trusts, CCTs, PSAs, 103-12 IEs, and GIAs also must complete as part of their Form 5500 Annual Return/Report filing some or all of the Schedule H, depending on type of entity filing. See the instructions to the Form 5500 in Section 4: Direct Filing Entity (DFE) Filing Requirements.

Exceptions: (1) Fully insured, unfunded, or a combination of unfunded/insured welfare plans, including plans that provide health benefits, and fully insured pension plans that meet the requirements of 29 CFR 2520.104-44, are exempt from completing the Schedule H.

(2) Plans that are eligible to file and in fact file a Form 5500-SF for the 20XX plan year are not required to file a Schedule H for that year. See What To File. and Instructions for Form 5500-SF.

Check the Schedule H box on the Form 5500 (Part II, Line 11b(1)) if a Schedule H is attached to the Form 5500.

Specific Instructions

Lines A, B, C, and D. This information must be the same as reported in Part II of the Form 5500 to which this Schedule H is attached.

Do not use a social security number in Line D in lieu of an EIN. The Schedule H and its attachments are open to public inspection, and the contents are public information and are subject to publication on the Internet. Because of privacy concerns, the inclusion of a social security number or any portion thereof on this Schedule H or any of its attachments may result in the rejection of the filing.

You can apply for an EIN from the IRS online, by telephone, by fax, or by mail depending on how soon you need to use the EIN. For more information, see Section 3: Electronic Filing Requirement under General Instructions to Form 5500. The EBSA does not issue EINs.

Part I—Asset and Liability Statement

Note. The cash, modified cash, or accrual basis may be used for recognition of transactions in Parts I and II, as long as you use one method consistently. Round off all amounts reported on the Schedule H to the nearest dollar. Any other amounts are subject to rejection. Check all subtotals and totals carefully.

If the assets of two or more plans are maintained in a fund or account that is not reported on lines 1b(6) through 1b(8), complete Parts I and II of the Schedule H by entering the plan's allocable part of each line item.

If assets of one plan are maintained in two or more trust funds, report the combined financial information in Parts I and II.

Current value means fair market value where available. Otherwise, it means the fair value as determined in good faith under the terms of the plan by a trustee or a named fiduciary, assuming an orderly liquidation at time of the determination. See ERISA section 3(26).

Note. Amounts reported in column (a) must be the same as reported for the end of the plan year for corresponding line items of the return/report for the preceding plan year. Do not include contributions designated for the 20XX plan year in column (a).

1a(1). Employer contributions. Noncash basis filers must include contributions due the plan by the employer but not yet paid. Do not include other amounts due from the employer such as the reimbursement of an expense or the repayment of a loan.

1a(2). Participant contributions. Noncash basis filers must include contributions withheld by the employer from participants and amounts due directly from participants that have not yet been received by the plan. Do not include the repayment of participant loans.

1a(3). Notes receivable from participants (participant loans). Enter the current value of all loans to participants, including residential mortgage loans that are subject to Code section 72(p). Include the sum of the value of the unpaid principal balances, plus accrued but unpaid interest, if any, for participant loans made under an individual account plan with investment experience segregated for each account, which are made in accordance with 29 CFR 2550.408b-1 and secured solely by a portion of the participant's vested accrued benefit. When applicable, combine this amount with the current value of any other participant loans. Do not include in column (b) a participant loan that has been deemed distributed during the plan year under the provisions of Code section 72(p) and Treasury Regulations section 1.72(p)-1, if both of the following circumstances apply:

1. Under the plan, the participant loan is treated as a directed investment solely of the participant's individual account; and

2. As of the end of the plan year, the participant is not continuing repayment under the loan.

If both of these circumstances apply, report the loan as a deemed distribution on Line 2g. However, if either of these circumstances does not apply, the current value of the participant loan (including interest accruing thereon after the deemed distribution) must be included in column (b) without regard to the occurrence of a deemed distribution.

Note. After a participant loan that has been deemed distributed is reported on Line 2g, it is no longer to be reported as an asset on Schedule H unless, in a later year, the participant resumes repayment under the loan. However, such a loan (including interest accruing thereon after the deemed distribution) that has not been repaid is still considered outstanding for purposes of applying Code section 72(p)(2)(A) to determine the maximum amount of subsequent loans. Also, the deemed distribution is not treated as an actual distribution for other purposes, such as the qualification requirements of Code section 401, including, for example, the determination of top-heavy status under Code section 416 and the vesting requirements of Treasury Regulations section 1.411(a)-7(d)(5). See Q&As 12 and 19 of Treasury Regulations section 1.72(p)-1.

The entry on Line 1a(3), column (b), of Schedule H (participant loans—end of year) must include the current value of any participant loan that was reported as a deemed distribution on Line 2h for any earlier year if the participant resumes repayment under the loan during the plan year. In addition, the amount to be entered on Line 2h must be reduced by the amount of the participant loan that was reported as a deemed distribution on Line 2h for the earlier year.

Line 1a(4). Other Receivables. Noncash basis filers must include amounts due to the plan that are not includable in Lines 1a(1), 1a(2), and 1a(3). These amounts may include investment income earned but not yet received by the plan and other amounts due to the plan such as amounts due from the employer or another plan for expense reimbursement or from a participant for the repayment of an overpayment of benefits.

Line 1b(1). Total noninterest-bearing cash. Total noninterest bearing cash includes, among other things, cash on hand or cash in a noninterest bearing checking account.

1b(2). Interest-bearing cash and cash equivalents. Include all assets that earn interest in a financial institution account, such as interest bearing checking accounts, passbook savings accounts in Line 1b(2)(A). Report certificates of deposit on Line 1b(2)(B). Report money market accounts on Line 1b(2)(C).

Line 1b(3). Debt Interests/Obligations. Enter in the appropriate categories any debt interests/obligations held directly by the plan.

Line 1b(3)(A). U.S. Government securities. Include securities issued or guaranteed by the U.S. Government or its designated agencies such as U.S. Savings Bonds, Treasury Bonds, Treasury Bills, Federal National Mortgage Association (FNMA), and Government National Mortgage Association (GNMA).

Line 1b(3)(B). Other government securities. Include here state and municipal bonds. Report bonds issued by foreign governments in Line 1b(13).

Line 1b(3)(C). Corporate debt instruments (other than employer securities). Include investment securities (other than employer securities defined below in Line 1c(1)) issued by a corporate entity at a stated interest rate repayable on a particular future date such as most bonds, debentures, convertible debentures, commercial paper and zero coupon bonds. Do not include debt securities of governmental units that should be reported on Line 1b(3)(A). For purposes of the breakouts on Line 1b(3)(C)(i) and (ii), investment-grade debt-instruments are those with an S&P rating of BBB—or higher, a Moody's rating of Baa3 or higher, or an equivalent rating from another rating agency. High-yield debt instruments are those that have ratings below these rating levels. If the debt does not have a rating, it should be included in the “high-yield” category if it does not have the backing of a government entity. Unrated debt with the backing of a government entity would generally be included in the “investment-grade” category unless it is generally accepted that the debt should be considered as “high-yield.” Use the ratings in effect as of the beginning of the plan year. See the instructions for Schedule R, Line 18.

Line 1b(3)(D). Exchange Traded Notes. Report here unsecured, unsubordinated debt securities that are traded on an exchange and that are not registered investment companies under the Investment Company Act of 1940.

Line 1b(3)(E). Asset backed securities (other than real estate). An asset-backed security generally is one that is collateralized by a discrete pool of assets (such as loans or receivables) and that makes payments based primarily on the performance of those assets. Do not include here securities backed by real estate or real estate-related loans.

Line 1b(3)(F). Other debt instruments. Include here, debt instruments not otherwise includable in Lines 1a(3) (participant loans), 1b(3)(A)-(E), 1b(9)(E) (mortgage-backed securities) or 1b(9)(G) (e.g., construction and mortgage loans).

Line 1b(4). Corporate Stocks (Other than Employer Securities, Private Equity, and Foreign Investments). Include here publicly traded and non-publicly traded domestic equities owned directly by the plan. Do not include employer securities, foreign stocks, or private equity here.

Line 1b(4)(A). Publicly Traded Corporate Stocks. Enter in element (i) the total value of all “preferred” corporate stock that is publicly traded. Include stock issued by corporations (other than employer securities defined in Line 1c(1) below) that is accompanied by preferential rights such as the right to share in distributions of earnings at a higher rate or which has general priority over the common stock of the same entity. Include the value of warrants convertible into preferred stock. Enter in element (ii) the total value of all “common” corporate stock that is publicly traded. This includes any stock (other than employer securities defined in Line 1c(1)) that represents regular ownership of the corporation and is not accompanied by preferential rights. Include the value of warrants convertible into common stock.

Line 1b(4)(B). Corporate Stocks That Are Not Publicly Traded. Enter in element (i) the total value of nonpublicly traded preferred stock and in element (ii) the total value of nonpublicly traded common stock. See instructions for Line 1b(4)(A) for a description of “preferred” and “common” stock.

Line 1b(5). Registered Investment Companies (Mutual funds, Unit Investment Trusts, Closed End Funds). A registered investment company is an investment company registered under the Investment Company Act of 1940. These are mutual funds (legally known as open-end companies), closed-end funds (legally known as closed-end companies), and unit investment trusts (UITs) (legally known as unit investment trusts).

Lines 1b(6)(A) and (B). Interests in CCTs and PSAs. Enter information, in the appropriate elements as of the beginning and end of the filing plan or DFE year, about interests in PSAs and CCTs, regardless of whether the CCT or PSA has filed its own Form 5500 Annual Return/Report.

CAUTION: The plan's or DFE's interest in common/collective trusts (CCTs) and pooled separate accounts (PSAs) must be allocated and reported in the appropriate categories on an investment by investment basis on the Line 4i Schedules, with the box checked to identify that the investment was held through a CCT or PSA, unless the CCT or PSA has filed its own Form 5500, including Schedule H, and the Line 4i(1) Schedule of Assets Held for Investment at End of Year. See instructions for Line 4i(1) Schedule of Assets Held for Investment at End of Year, element (a).

Note. For reporting purposes, a separate account that is not considered to be holding plan assets pursuant to 29 CFR 2510.3-101(h)(1)(iii) does not constitute a PSA.

Line 1b(6)(C). Interests in 103-12 investment entities (103-12 IEs). Enter the total value of the plan's interest in all 103-12 IEs on Line 1b(6)(C)(1)(a).

Line 1b(6)(D). Master Trust. Enter the total value of the plan's interest in all master trusts on Line 1b(6)(D)(1)(a).

CAUTION. If the plan participated in a master trust, it must separately list on the Line 4i(1) Schedule of Assets Held for Investment at End of Year all of the master trust assets in which the plan had a proportionate interest, indicating that the asset was held through the master trust. See instructions for Line 4i(1) Schedule of Assets Held for Investment at End of Year, element (a).

Line 1b(7). Value of Interest in Funds Held in Insurance General Account (Unallocated Contracts). Use the same method for determining the value of the insurance contracts reported here as you used for Line 3 of Schedule A, or, if Line 3 is not required, Line 6 of Schedule A.

Line 1b(8). Partnership and Joint Venture Interests. Enter in the appropriate element information about partnership and joint venture interests.

Line 1b(8)(A)(1). Value of Interest in Limited Partnerships. Include the value of the plan's participation in a partnership or joint venture regardless of whether the underlying assets of the partnership or joint venture are considered to be plan assets under 29 CFR 2510.3-101. Do not include here the value of a plan's interest in a partnership or joint venture that satisfies all of the requirements for being a 103-12 Investment Entity (103-12 IE), including the requirement that such an entity timely files its own Form 5500 Annual Return/Report and associated schedules and attachments. Report the value of a 103-12 IE on Line 1b(6)(C). Partnerships and joint ventures should be reported in one of the partnership/joint venture categories where it fits best, or in another category where it fits better. For example, a real estate partnership that does not fit into one of the other real estate reporting categories would be reported on proposed Line 1c(9)(G) and a joint venture that invests in foreign investments would be reported in the appropriate subcategory in Line 1b(13).

Line 1b(8)(A)(2). Value of Interest in Venture Capital Operating Companies (VCOC). A “venture capital operating company” is an operating company that meets the conditions of 29 CFR 2510.3-101(d).

Line 1b(8)(A)(3). Private Equity. Include on this line private equity stakes and interests in private equity funds. “Private equity fund” is commonly used to describe privately managed pools of capital that invest in companies that typically are not listed on a stock exchange. Report stock ownership of non-publicly traded corporate stocks that are not private equity investments on Line 1b(4)(B).

Line 1b(8)(A)(4). Hedge Funds. The term “hedge fund” is commonly used to describe pooled investment vehicles that are privately organized and administered by professional managers who engage in active trading of various types of securities, commodity futures, options contracts, and other investment vehicles, including relatively illiquid and hard-to-value investments.

Line 1b(8)(A)(5). Other Partnership/Joint Venture Interests. Report here any other partnership or joint venture interests in which the plan has invested that are not reported on lines 1b(8)(A)-(D).

Line 1b(8)(B). Plan Asset Status Under DOL Regulation 29 CFR 2510.3-101. Enter into Line 1b(8)(B)(i) the total of all partnerships/joint venture interests reported in Line 1b(8)(A) that do not hold plan assets under the DOL's plan asset regulation at 29 CFR 2510.3-101. In Line 1b8(B)(2) enter the total partnership/joint venture interests that hold plan assets under the DOL's plan asset regulation at 29 CFR 2510.3-101. To avoid double-counting, do not include amounts reported on Line 1b(8)(B)(1) and (2) in the total assets reported on Line 1f.

Line 1b(9). Real Estate Investments (Other Than Employer Real Property). Enter information about real estate and real estate based interests in the appropriate element.

Line 1b(9)(A)-(B). Real property (Other Than Employer Real Property). Report here direct ownership interest of the plan in real property other than employer real property in the appropriate category.

Line 1b(9)(C)-(D). Real Estate Investment Trusts (REITs). Report here entities that invest in real estate that are REITs as set forth in Code § 856.

Line 1b(9)(E). Mortgage-Backed Securities (Including Collateralized Mortgage Obligations). Report here all types of mortgage-backed securities, which generally are debt obligations that represent claims to the cash flows from pools of mortgage loans, most commonly on residential property. Collateralized mortgage obligations (CMOs) are one type of mortgage-backed security.

Line 1b(8)(F). Real Estate Operating Company (REOC). Report here investments in “real estate operating companies” (REOCs). A REOC is an operating company that meets the conditions of 29 CFR 2510.3-101(e).

Line 1b(9)(G). Other real estate related investments. Include here any residential mortgages that are not covered under IRC 72(p), commercial mortgages, construction loans, and any other real estate-related investments not includable on lines 1b(9)(A)-(F) that are not employer real property reportable on Line 1c(2) or buildings or other property used in plan operations reportable on Line 1d.

Line 1b(10). Commodities (Direct investments). Enter direct investments in commodities on Line 1b(10). Enter total value of precious metals in Line 1b(10)(A) and the total value of all other commodities in Line 1b(10)(B).

Line 1b(11). Derivatives. Enter information about direct investments in derivatives in the appropriate element in Line 1b(11). Derivatives include futures, forwards, options, and swaps. Enter a description for any derivatives reported in Line 1b(11)(E) “Other.”

Line 1b(12). Tangible personal property (including collectibles). Enter the total value of any collectibles or other personal property owned by the plan. Include all property that has concrete existence and is capable of being processed, such as goods, wares, merchandise, furniture, machines, equipment, animals, automobiles, etc. This includes collectibles, such as works of art, rugs, antiques, metals, gems, stamps, coins, alcoholic beverages, musical instruments, and historical objects (documents, clothes, etc.). Do not include any intangible property, such as patents, copyrights, goodwill, franchises, notes, mortgages, stocks, claims, interests, or other property that embodies intellectual or legal rights.

Line 1b(13). Foreign investments (Other than through U.S.-registered investment funds). Enter information about foreign investments in the appropriate element. Do not include the value of U.S.-based pooled investment vehicles that are designed to invest in foreign securities. Instead, report such pooled investment vehicles in the appropriate categories on Line 1b(5)-(7).

Line 1b(14). Participant-directed brokerage accounts. Report assets held through participant-directed brokerage accounts in the appropriate sub-elements on Line 1b(14). Report in the aggregate all other investments through participant-directed brokerage accounts, that are not reportable in the separate categories in Lines 1b(14)(A)-(F), including stocks, bonds, registered investment funds, etc., on Line 1b(14)(G).

Line 1c(1). Employer securities. An employer security is any security issued by an employer (including affiliates) of employees covered by the plan. These may include common stocks, preferred stocks, bonds, zero coupon bonds, debentures, convertible debentures, notes, and commercial paper. Report in the appropriate category any types of employer securities held by the plan.

Line 1c(2). Employer real property. The term “employer real property” means real property (and related personal property) that is leased to an employer of employees covered by the plan, or to an affiliate of such employer. For purposes of determining the time at which a plan acquires employer real property for purposes of this line, such property shall be deemed to be acquired by the plan on the date on which the plan acquires the property or on the date on which the lease to the employer (or affiliate) is entered into, whichever is later.

Line 1d. Buildings and other property used in plan operation. Include the current (not book) value of the buildings and other property used in the operation of the plan. Report in 1c(9) and 1c(2), as applicable, rather than Line 1d, buildings or other property held as plan investments that are not used in the operation of the plan.

Line 1e. Other. Include all other investments not includable in lines 1b through 1d and enter a description.

Line 1f. Total assets. Add all amounts in lines 1a through 1e.

Note. Do not include the value of future pension payments on lines 1g, h, i, j, or k.

Line 1g. Benefit claims payable. Noncash basis plans must include the total amount of benefit claims that have been processed and approved for payment by the plan. Include welfare plan “incurred but not reported” (IBNR) benefit claims on this line.

Line 1h. Operating payables. Noncash basis plans must include the total amount of obligations owed by the plan which were incurred in the normal operations of the plan and have been approved for payment by the plan but have not been paid.

Line 1i. Acquisition indebtedness. “Acquisition indebtedness,” for debt-financed property other than real property, means the outstanding amount of the principal debt incurred:

1. By the organization in acquiring or improving the property;

2. Before the acquisition or improvement of the property if the debt was incurred only to acquire or improve the property; or

3. After the acquisition or improvement of the property if the debt was incurred only to acquire or improve the property and was reasonably foreseeable at the time of such acquisition or improvement. For further explanation, see Code section 514(c).

Line 1j. Other liabilities. Noncash basis plans must include amounts owed for any liabilities that would not be classified as benefit claims payable, operating payables, or acquisition indebtedness and enter a description of such liabilities.

Line 1k. Total liabilities. Add all amounts in lines 1g through 1k.

Net Assets

Line 1l. Net assets. Enter the net assets as of the beginning and end of the plan year. (Subtract Line 1k from Line 1f.) The entry in column (b) must equal the sum of the entry in column (a) plus Lines 2k and 2l(1), minus 2l(2).

Part II Income and Expense Statement

Line 2. Plan income, expenses, and changes in net assets for the year. Include all income and expenses of the plan, including any trust(s) or separately maintained fund(s) and any payments/receipts to/from insurance carriers. Round off amounts to the nearest dollar. Master trusts, CCTs, PSAs, and 103-12 IEs do not complete lines 2a, 2b, 2e, 2f, and 2g.

Line 2a. Contributions. Include the total cash contributions received and/or (for accrual basis plans) due to be received.

Note. Plans using the accrual basis of accounting should not include contributions designated for years before the 20XX plan year on Line 2a.

Line 2a (1). Contributions Received or receivable. Enter contributions received, or for accrual basis filers receivable, from employers in element (A), from participants in element (B). In element (C) enter all other contributions received or receivable, including rollovers from other qualified retirement plans.

Line 2a(1)(B). For welfare plans, report all employee contributions, including all elective contributions under a cafeteria plan (Code section 125). For pension benefit plans, participant contributions, for purposes of this item, also include elective contributions under a qualified cash or deferred entities arrangement. (Code section 401(k)).

Line 2a(2). Noncash contributions. Use the current value, at date contributed, of securities or other noncash property.

Line 2a(3). Total contributions. Add Lines 2a(1)(A), (B), (C), and Line 2a(2).

Line 2b. Interest Income on Notes Receivable from Participants (Participant Loans). Enter interest income on participant loans. Also include here interest income on residential mortgage loans to participants under Code § 72(p).

Line 2c. Earnings on Investments. Report in Line 2c(1)(A)-(E) the total interest paid directly to the plan by the issuer . Report the total of all other earnings on debt interests or obligations in Line 2c(1)(F).

Report in Line 2c(2)(A) the total dividends on corporate stocks (other than employer securities) paid directly to the plan by the issuer of any corporate stocks. Report the total of all other earnings on corporate stocks in Line 2c(2)(B).

In Line 2c(1)-(6), report the total of all earnings by asset type, including interest, dividends, gain (loss) on sale of property, unrealized appreciation (depreciation), and, if the asset has been sold during the plan year, the net investment gain (loss), as appropriate for asset type.

Interest includes interest earned on interest-bearing cash, including earnings from sweep accounts, STIF accounts, money market accounts, certificates of deposit, government securities etc.

For accrual basis plans, include any dividends declared for stock held on the date of record, but not yet received as of the end of the plan year.

Generally, rents represent the income earned on the real property. Include “rent” reporting as part of earnings as a “Net” figure. Net rents are determined by taking the total rent received and subtracting all expenses directly associated with the property. If the real property is jointly used as income producing property and for the operation of the plan, net that portion of the expenses attributable to the income producing portion of the property against the total rents received.

Net gain (loss) on sale of assets equals the sum of the net realized gain (or loss) on each asset held at the beginning of the plan year which was sold or exchanged during the plan year, and on each asset that was both acquired and disposed of within the plan year.

Note. As current value reporting is required for the Form 5500 Annual Return/Report, assets are revalued to current value at the end of the plan year. For purposes of this form, the increase or decrease in the value of assets since the beginning of the plan year (if held on the first day of the plan year) or their acquisition date (if purchased during the plan year) is included as part of total earnings for particular assets.

The sum of the realized gain (or loss) of assets sold or exchanged during the plan year is to be calculated as follows:

1. Include for each category of asset in Line 2c, where applicable, the sum of the amount received for these former assets;

2. Include for each category of asset in Line 2c, the sum of the current value of these former assets as of the beginning of the plan year and the purchase price for assets both acquired and disposed of during the plan year.

If entering a negative number, enter a minus sign “-” to the left of the number.

Note. Bond write-offs should be reported as realized losses.

To calculate total unrealized appreciation of assets in each category subtract the current value of assets at the beginning of the year plus the cost of any assets acquired during the plan year from the current value of assets at the end of the year to obtain this figure. If entering a negative number, enter a minus sign “-” to the left of the number.

Line 2d. Total income. Add all income amounts (c) and enter total in the space provided.

Line 2e(1). Include the current value of all cash, securities, or other property at the date of distribution. Include all eligible rollover distributions as defined in Code section 401(a)(31)(D) paid at the participant's election to an eligible retirement plan (including an IRA within the meaning of section 401(a)(31)(E)).

2e(2). Include payments to insurance companies and similar organizations, managed care organizations, and health maintenance organizations for the provision of plan benefits (e.g., paid-up annuities, accident insurance, health insurance, vision care, dental coverage, stop-loss insurance whose claims are paid to the plan (or which is otherwise an asset of the plan)), etc.

2e(3). Include all payments made to other organizations or individuals providing benefits. Generally, these are individual providers of welfare benefits such as legal services, day care services, training, and apprenticeship services.

Line 2f. Corrective Distributions. Include on this line all distributions paid during the plan year of excess deferrals under Code section 402(g)(2)(A)(ii), excess contributions under Code section 401(k)(8), and excess aggregate contributions under Code section 401(m)(6). Include allocable income distributed. Also include on this line any elective deferrals and employee contributions distributed or returned to employees during the plan year, as well as any attributable income that was also distributed.

Line 2g. Certain Deemed Distributions of Participant Loans. Report on Line 2g a participant loan that has been deemed distributed during the plan year under the provisions of Code section 72(p) and Treasury Regulations section 1.72(p)-1 only if both of the following circumstances apply:

1. Under the plan, the participant loan is treated as a directed investment solely of the participant's individual account; and

2. As of the end of the plan year, the participant is not continuing repayment under the loan.

If either of these circumstances does not apply, a deemed distribution of a participant loan should not be reported on Line 2g. Instead, the current value of the participant loan (including interest accruing thereon after the deemed distribution) must be included on Line 1a(3), column (b) (participant loans—end of year), without regard to the occurrence of a deemed distribution.

Note. The amount to be reported on Line 2g of Schedule H must be reduced if, during the plan year, a participant resumes repayment under a participant loan reported as a deemed distribution on Line 2g for any earlier year. The amount of the required reduction is the amount of the participant loan reported as a deemed distribution on Line 2g for the earlier year. If entering a negative number, enter a minus sign “-” to the left of the number. The current value of the participant loan must then be included in Line 1a(3), column (b), of Schedule H (Notes receivable from participants)

Although certain participant loans deemed distributed are to be reported on Line 2g of the Schedule H and are not to be reported on the Schedule H as an asset thereafter (unless the participant resumes repayment under the loan in a later year), they are still considered outstanding loans and are not treated as actual distributions for certain purposes. See Q&As 12 and 19 of Treasury Regulations section 1.72(p)-1.

Lines 2h-2j Expenses. Report expenses on the appropriate line items below.

CAUTION. Master trust expenses that are not allocable to all plans investing in the master trust must be reported at the individual plan level. Only master trust expenses that are reasonably equally attributable to each participating plan may be reported at the master trust level. This includes administrative expenses associated with investments in which not all plans in the master trust have an interest.

Line 2h. Interest Expense. Interest expense is a monetary charge for the use of money borrowed by the plan. This amount should include the total of interest paid or to be paid (for accrual basis plans) during the plan year.

Line 2i. Administrative Expenses. Report all administrative expenses (by specified category) paid by or charged to the plan, including those that were not subtracted from the gross income of CCTs, PSAs, master trusts, and 103-12 IEs in determining their net investment gain(s) or loss(es). Expenses incurred in the general operations of the plan are classified as administrative expenses. Include, in the appropriate categories in lines 2i(1)-(11), the total fees paid (or in the case of accrual basis plans, costs incurred during the plan year but not paid as of the end of the plan year) by the plan for plan salaries and allowances, outside contract administrator, investment advisory and management fees, IQPA audit fees, recordkeeping and other accounting fees, bank or trust company trustee/custodial fees, actuarial fees, legal fees, and valuation/appraisal services.

Line 2i(1). Salaries and Allowances. Report total salaries and expenses for plan employees in Line 2i(1).

Line 2i(2). Contract administrator fees. Enter the total fees paid (or in the case of accrual basis plans, costs incurred during the plan year but not paid as of the end of the plan year) to a contract administrator for performing administrative services for the plan. For purposes of the return/report, a contract administrator is any individual, partnership, or corporation, responsible for managing the clerical operations (e.g., handling membership rosters, claims payments, maintaining books and records) of the plan on a contractual basis. Do not include salaried staff or employees of the plan or banks or insurance carriers.

Line 2i(3). Investment Advisory and Management Fees. Enter the total fees paid (or in the case of accrual basis plans, costs incurred during the plan year but not paid as of the end of the plan year) to an individual, partnership or corporation (or other person) for advice to the plan relating to its investment portfolio. These may include fees paid to manage the plan's investments, fees for specific advice on a particular investment, and fees for the evaluation for the plan's investment performance.

Line 2i(4). IQPA Audit Fees. Enter in Line 2j(4) fees for the annual audit of the plan by an independent qualified public accountant (IQPA); for payroll audits, and any other audit fees paid by the plan.

Line 2i(5). Recordkeeping and Other Accounting Fees. Include fees for accounting/bookkeeping services other than amounts paid for audit fees reportable in Line 2i(4).

Line 2i(6). Bank or Trust Company Trustee/Custodial Fees. Report here bank or trust company trustee/custodial fees.

Line 2i(7). Actuarial Fees. Include fees for actuarial services rendered to the plan, including preparation of Schedules MB or SB, as applicable.

Line 2i(8). Legal Fees. Include payments to a lawyer for rendering legal opinions, litigation, and advice (but not for providing legal services as a benefit to plan participants).

Line 2i(9). Valuation/appraisal Fees. Include the fee(s) for valuations or appraisals to determine the cost, quality, or value of an item such as real property, personal property (gemstones, coins, etc.), and for valuations of closely held securities for which there is no ready market.

Line 2i(10). Trustee Fees and Expenses. Include the total fees and expenses paid to or on behalf of plan trustees (or in the case of accrual basis plans, costs incurred during the plan year but not paid as of the end of the plan year). Include direct payment by the plan or reimbursement by the plan to trustees of expenses associated with trustees such as lost time, seminars, travel, meetings, educational conferences, etc. Do not include in Line 2i(10) amounts paid to plan employees to perform bookkeeping/accounting functions that should be included in Line 2i(5).

Line 2i(11). Other Expenses. Other expenses are those that cannot be included in Lines 2-(1) through 2-(10). These may include plan expenditures such as salaries and other compensation and allowances, expenses for office supplies and equipment, cars, telephone, postage, rent, expenses associated with the ownership of a building used in the operation of the plan, and all miscellaneous expenses. Include premium payments to the PBGC when paid from plan assets.

Line 2i(12)(C). Total Administrative Expenses. Add all administrative expense amounts in column (b) in lines 2i(1) through (11) and enter total (b).

Line 2j. Total expenses. Add all expense amounts in column (b) and enter total (b).

Line 2l. Include in these reconciliation figures the value of all transfers of assets or liabilities into or out of the plan resulting from, among other things, mergers and consolidations. A transfer of assets or liabilities occurs when there is a reduction of assets or liabilities with respect to one plan and the receipt of these assets or the assumption of these liabilities by another plan. A transfer is not a shifting of one plan's assets or liabilities from one investment to another. A transfer is not a distribution of all or part of an individual participant's account balance that is reportable on IRS Form 1099-R, Distributions From Pensions, Annuities, Retirement or Profit-Sharing Plans, IRAs, Insurance Contracts, etc. (See the instructions for Line 2f). Transfers out at the end of the year should be reported as occurring during the plan year.

Note. If this Schedule H is filed for a CCT, PSA, master trust, or 103-12 IE, report the value of all asset transfers to the CCT, PSA, master trust, or 103-12 IE, including those resulting from contributions to participating plans on Line 2l(1), and report the total value of all assets transferred out of the CCT, PSA, master trust, or 103-12 IE, including assets withdrawn for disbursement as benefit payments by participating plans, on Line 2l(2). Contributions and benefit payments are considered to be made to/by the plan (not to/by a CCT, PSA, master trust, or 103-12 IE).

Part III—Accountant's Opinion

Line 3. The administrator of an employee benefit plan who files a Schedule H generally must engage an Independent Qualified Public Accountant (IQPA) pursuant to ERISA section 103(a)(3)(A) and 29 CFR 2520.103-1(b). This requirement also applies to a Form 5500 Annual Return/Report filed for a 103-12 IE and for a GIA (see 29 CFR 2520.103-12 and 29 CFR 2520.103-2). The IQPA's report must be attached to the Form 5500 when a Schedule H is attached unless you checked Schedule H, Line 3h(1), (2), or (3) or (4).

[CAUTION] If you checked Schedule H, Line 3h(3) to indicate that the required IQPA's report is not attached to the Form 5500, the filing is subject to rejection as incomplete and penalties may be assessed.

Notes. (1) An IQPA Report generally consists of an Accountant's Opinion, Financial Statements, Notes to the Financial Statements, and Supplemental Schedules. 29 CFR 2520.103-1(b) requires that any separate financial statements prepared in order for the IQPA to form the opinion and notes to these financial statements must be attached to the Form 5500. Any separate statements must include the information required to be disclosed in Parts I and II of the Schedule H; however, they may be aggregated into categories in a manner other than that used on the Schedule H. The separate statements must consist of reproductions of Parts I and II or statements incorporating by reference Parts I and II. See ERISA section 103(a)(3)(A), and the DOL regulations 29 CFR 2520.103-1(a)(2) and (b), 2520.103-2, and 2520.104-50.

(2) Delinquent participant contributions reported on Line 4a must be treated as part of the separate schedules referenced in ERISA section 103(a)(3)(A) and 29 CFR 2520.103-1(b) and 2520.103-2(b) for purposes of preparing the IQPA's opinion described on Line 3 even though they are not required to be listed on Part III of the Schedule G. If the information contained on Line 4a is not presented in accordance with regulatory requirements, i.e., when the IQPA concludes that the scheduled information required by Line 4a does not contain all the required information or contains information that is inaccurate or is inconsistent with the plan's financial statements, the IQPA report must make the appropriate disclosures in accordance with generally accepted auditing standards. Delinquent participant contributions that are exempt because they satisfy the DOL Voluntary Fiduciary Correction Program (VFCP) requirements and the conditions of prohibited transaction exemption (PTE) 2002-51 do not need to be treated as part of the schedule of nonexempt party-in-interest transactions.

Lines 3a(1) through 3a(4). These boxes identify the type of opinion offered by the IQPA.

Line 3a(1). Check if an unqualified opinion was issued. Generally, an unqualified opinion is issued when the IQPA concludes that the plan's financial statements present fairly, in all material respects, the financial status of the plan as of the end of the period audited and the changes in its financial status for the period under audit in conformity with generally accepted accounting principles (GAAP) or another comprehensive basis of accounting (OCBOA), e.g., cash basis.

Line 3a(2). Check if a qualified opinion was issued. Generally, a qualified opinion is issued by an IQPA when the plan's financial statements present fairly, in all material respects, the financial status of the plan as of the end of the audit period and the changes in its financial status for the period under audit in conformity with GAAP or OCBOA, except for the effects of one or more matters described in the opinion.

Line 3a(3). Check if a disclaimer of opinion was issued. A disclaimer of opinion is issued when the IQPA does not express an opinion on the financial statements because he or she has not performed an audit sufficient in scope to enable him or her to form an opinion on the financial statements.

Line 3a(4). Check if the plan received an adverse accountant's opinion. Generally, an adverse opinion is issued by an IQPA when the plan's financial statements do not present fairly, in all material respects, the financial status of the plan as of the end of the audit period and the changes in its financial status for the period under audit in conformity with GAAP or OCBOA.

Line 3b. Limited Scope Audit and Certification of Assets. Check “Yes” if a box is checked on Line 3a, and the only limitation on the scope of the plan's audit was pursuant to DOL regulations 29 CFR 2520.103-8 and 2520.103-12(d) because the examination and report of an IQPA did not extend to: (1) statements or information regarding assets held by a bank, similar institution, or insurance carrier that is regulated and supervised and subject to periodic examination by a state or federal agency provided that the statements or information are prepared by and certified to by the bank or similar institution or an insurance carrier, or (2) information included with the Form 5500 filed for a 103-12 IE. The term “similar institution” as used here does not extend to securities brokerage firms (see DOL Advisory Opinion 93-21A). See 29 CFR 2520.103-8 and 2520.103-12(d).

[CAUTION] Check “No” if the scope of the plan's audit was limited for any reason in addition to that pursuant to DOL regulations 29 CFR 2520.103-8 and 2520.103-12.

You must attach a copy of the certification(s) if the audit opinion was limited in scope pursuant to DOL regulations 29 CFR 2520.103-8 and 2520.103-12(d) (regardless of whether you checked “yes” for Line 3b). Although you must attach a copy of the certification(s), you do not need to include any attachments to the certification itemizing the assets to which the certification(s) apply.

Note. These regulations do not exempt the plan administrator from engaging an IQPA or from attaching the IQPA's report to the Form 5500. If you check Line 3b, you must also check the appropriate box on Line 3a to identify the type of opinion offered by the IQPA.

Line 3c. Enter the name and EIN of the accountant (or accounting firm) in the space provided on Line 3c. Do not use a social security number or any portion thereof in lieu of an EIN. The Schedule H is open to public inspection, and the contents are public information and are subject to publication on the Internet. Because of privacy concerns, the inclusion of a social security number or any portion thereof on this Schedule H may result in the rejection of the filing. If the name of an accounting firm is entered in Line 3c(1), enter the name of the audit engagement partner in Line 1c(3).

Line 3d. Enter the state in which the accountant's opinion was issued.

Line 3e. Check “Yes” if you reviewed and discussed the IQPA report with the accountant preparing the report?

Line 3f. If you answered “Yes,” to Line 3e, check all that apply.

Line 3h(1). Check this box only if the Schedule H is being filed for a CCT, PSA, or master trust.

Line 3h(2). Check this box if the plan has elected to defer attaching the IQPA's opinion for the first of two (2) consecutive plan years, one of which is a short plan year of seven (7) months or fewer. The Form 5500 for the first of the two (2) years must be complete and accurate, with all required attachments, except for the IQPA's report, including an attachment explaining why one of the two (2) plan years is of seven (7) or fewer months duration and stating that the annual report for the immediately following plan year will include a report of an IQPA with respect to the financial statements and accompanying schedules for both of the two (2) plan years. The Form 5500 for the second year must include: (a) financial schedules and statements for both plan years; (2) a report of an IQPA with respect to the financial schedules and statements for each of the two (2) plan years (regardless of the number of participants covered at the beginning of each plan year); and (3) a statement identifying any material differences between the unaudited financial information submitted with the first Form 5500 and the audited financial information submitted with the second Form 5500. See 29 CFR 2520.104-50.

Note. Do not check the box on Line 3h(2) if the Form 5500 is filed for a 103-12 IE or a GIA. A deferral of the IQPA's opinion is not permitted for a 103-12 IE or a GIA. If the box for 103-12 IE or GIA is checked on Form 5500, Part I, Line A(5), an IQPA's opinion must be attached to the Form 5500 and the type of opinion must be reported on Schedule H, Line 3a.

Line 3h(4). Small Plan Audit Waiver. Check “Yes” if you are a small plan claiming a waiver of the annual examination and report of an independent qualified public accountant (IQPA) under 29 CFR 2520.104-46. Large plans are not eligible for the audit waiver under 29 CFR 2520.104-46. You are eligible to claim the waiver if this filing is for:

1. A small welfare plan, or

2. A small pension plan for a plan year that began on or after April 18, 2001, that complies with the conditions of 29 CFR 2520.104-46 summarized below.

Note. For plans that check “No,” the IQPA report must make the appropriate disclosures in accordance with generally accepted auditing standards if the information reported on Line 4a is not presented in accordance with regulatory requirements.

The following summarizes the conditions of 29 CFR 2520.104-46 that must be met for a small pension plan with a plan year beginning on or after April 18, 2001, to be eligible for the waiver. For more information regarding these requirements, see the EBSA's Frequently Asked Questions on the Small Pension Plan Audit Waiver Regulation and 29 CFR 2520.104-46, which are available at www.dol.gov/ebsa, or call the EFAST2 Help Line at 1-866-GO-EFAST (1-866-463-3278) (toll-free).

Condition 1: At least 95 percent of plan assets are “qualifying plan assets” as of the end of the preceding plan year, or any person who handles assets of the plan that do not constitute qualifying plan assets is bonded in accordance with the requirements of ERISA section 412 (see the instructions for Line 4e), except that the amount of the bond shall not be less than the value of such non-qualifying assets. The determination of the “percent of plan assets” as of the end of the preceding plan year and the amount of any required bond must be made at the beginning of the plan's reporting year for which the waiver is being claimed. For purposes of this line, you will have satisfied the requirement to make these determinations at the beginning of the plan reporting year for which the waiver is being claimed if they are made as soon after the date when such year begins as the necessary information from the preceding reporting year can practically be ascertained. See 29 CFR 2580.412-11, 14 and 19 for additional guidance on these determinations, and 29 CFR 2580.412-15 for procedures to be used for estimating these amounts if there is no preceding plan year.

The term “qualifying plan assets,” for purposes of this line means:

1. Any assets held by any of the following regulated financial institutions:

a. A bank or similar financial institution as defined in 29 CFR 2550.408b-4(c);

b. An insurance company qualified to do business under the laws of a state;

c. An organization registered as a broker-dealer under the Securities Exchange Act of 1934; or

d. Any other organization authorized to act as a trustee for individual retirement accounts under Code section 408.

2. Shares issued by an investment company registered under the Investment Company Act of 1940 (e.g., mutual funds);

3. Investment and annuity contracts issued by any insurance company qualified to do business under the laws of a state;

4. In the case of an individual account plan, any assets in the individual account of a participant or beneficiary over which the participant or beneficiary has the opportunity to exercise control and with respect to which the participant or beneficiary is furnished, at least annually, a statement from a regulated financial institution referred to above describing the assets held or issued by the institution and the amount of such assets;

5. Qualifying employer securities, as defined in ERISA section 407(d)(5); and

6. Participant loans meeting the requirements of ERISA section 408(b)(1).

Condition 2: The administrator must disclose the following information in the summary annual report (SAR) furnished to participants and beneficiaries, in accordance with 29 CFR 2520.104b-10. For defined benefit pension plans that are required pursuant to section 101(f) of ERISA to furnish an Annual Funding Notice (AFN), the administrator must instead either provide the information to participants and beneficiaries with the AFN or as a stand-alone notification at the time a SAR would have been due and in accordance with the rules for furnishing an SAR, although such plans do not have to furnish a SAR.

1. The name of each regulated financial institution holding or issuing qualifying plan assets and the amount of such assets reported by the institution as of the end of the plan year (this SAR disclosure requirement does not apply to qualifying employer securities, participant loans and individual account assets described in paragraphs 4,5 and 6 above);

2. The name of the surety company issuing the fidelity bond, if the plan has more than 5% of its assets in non-qualifying plan assets;

3. A notice that participants and beneficiaries may, upon request and without charge, examine or receive from the plan evidence of the required bond and copies of statements from the regulated financial institutions describing the qualifying plan assets; and

4. A notice that participants and beneficiaries should contact the EBSA Regional Office if they are unable to examine or obtain copies of the regulated financial institution statements or evidence of the required bond, if applicable.

A Model Notice that plans can use to satisfy the enhanced SAR (or Annual Funding Notice) disclosure requirements to be eligible for the audit waiver is available as an Appendix to 29 CFR 2520.104-46.

Condition 3: In addition, in response to a request from any participant or beneficiary, the administrator, without charge to the participant or beneficiary, must make available for examination, or upon request furnish copies of, each regulated financial institution statement and evidence of any required bond.

Examples. Plan A, which has a plan year that began on or after April 18, 2001, had total assets of $600,000 as of the end of the 20XX-1 plan year that included: investments in various bank, insurance company and mutual fund products of $520,000; investments in qualifying employer securities of $40,000; participant loans (meeting the requirements of ERISA section 408(b)(1)), totaling $20,000; and a $20,000 investment in a real estate limited partnership. Because the only asset of the plan that did not constitute a “qualifying plan asset” is the $20,000 real estate limited partnership investment and that investment represents less than 5% of the plan's total assets, no fidelity bond is required as a condition for the plan to be eligible for the waiver for the 20XX plan year.

Plan B is identical to Plan A except that of Plan B's total assets of $600,000 as of the end of the 20XX-1 plan year, $558,000 constitutes “qualifying plan assets” and $42,000 constitutes non-qualifying plan assets. Because 7%—more than 5%—of Plan B's assets do not constitute “qualifying plan assets,” Plan B, as a condition to be eligible for the waiver for the 20XX plan year, must ensure that it has a fidelity bond in an amount equal to at least $42,000 covering persons handling its non-qualifying plan assets. Inasmuch as compliance with ERISA section 412 generally requires the amount of the bond be not less than 10% of the amount of all the plan's funds or other property handled, the bond acquired for ERISA section 412 purposes may be adequate to cover the non-qualifying plan assets without an increase (i.e., if the amount of the bond determined to be needed for the relevant persons for ERISA section 412 purposes is at least $42,000). As demonstrated by the foregoing example, where a plan has more than 5% of its assets in non-qualifying plan assets, the required bond is for the total amount of the non-qualifying plan assets, not just the amount in excess of 5%.

If you need further information regarding these requirements, see 29 CFR 2520.104-46 which is available at www.dol.gov/ebsa or call the EFAST2 Help Line at 1-866-GO EFAST (1-866-463-3278) (toll-free).

Part IV—Compliance Questions

Lines 4a through 4z. Plans completing Schedule H must answer all these lines with either “Yes” or “No.” Do not leave any answer blank, unless otherwise directed. For Lines 4a through 4h and Line 4l, if the answer is “Yes,” an amount must be entered.

Report investments in CCTs, PSAs, master trusts, and 103-12 IEs, but not the investments made by these entities. Plans with all of their funds held in a master trust should check “No” on Line 4b and 4c. CCTs and PSAs complete only Line 4i(1). Master trusts and 103-12 IEs complete only Lines 4b, 4c, 4d, 4i(1) and (2), 4j, and 4s. GIAs complete only Lines 4b, 4c, 4d, 4i(1) and (2), 4j, and 4k. Except as otherwise provided, all plans and DFEs that have not checked on Form 5500 that this is the “final” return/report and have indicated that they have no assets (“-0-”) must check “Yes” on Line 4i(1) and complete the Line 4i(1) Schedule of Assets Held for Investment at End of Year. Where applicable, they must also check “Yes” on Line 4i(2) and complete the Line 4i(2) Schedule of Assets Disposed of During the Plan Year.

Small welfare plans that are required to complete the Schedule H, do not have to complete the attachments to Line 4(a), Line 4i(1) and (2), and Line 4j, even if the answer to any of those questions is “Yes.”

Line 4a. Amounts paid by a participant or beneficiary to an employer and/or withheld by an employer for contribution to the plan are participant contributions that become plan assets as of the earliest date on which such contributions can reasonably be segregated from the employer's general assets (see 29 CFR 2510.3-102). Plans that check “Yes” must enter the aggregate amount of all late contributions for the year. The total amount of the delinquent contributions should be included on Line 4a of the Schedule H for the year in which the contributions were delinquent and should be carried over and reported again on Line 4a of the Schedule H, for each subsequent year until the year after the violation has been fully corrected, which correction includes payment of the late contributions and reimbursement of the plan for lost earnings or profits. If no participant contributions were received or withheld by the employer during the plan year, answer “No.”

An employer holding these assets after that date commingled with its general assets will have engaged in a prohibited use of plan assets (see ERISA section 406). If such a nonexempt prohibited transaction occurred with respect to a disqualified person (see Code section 4975(e)(2)), file IRS Form 5330, Return of Excise Taxes Related to Employee Benefit Plans, with the IRS to pay any applicable excise tax on the transaction.

Participant loan repayments paid to and/or withheld by an employer for purposes of transmittal to the plan that were not transmitted to the plan in a timely fashion must be reported either on Line 4a in accordance with the reporting requirements that apply to delinquent participant contributions or on Line 4d. See Advisory Opinion 2002-02A, available at www.dol.gov/ebsa.

[CAUTION] Delinquent participant contributions reported on Line 4a should be treated as part of the separate schedules referenced in ERISA section 103(a)(3)(A) and 29 CFR 2520.103-1(b) and 2520.103-2(b) for purposes of preparing the IQPA's opinion described on Line 3 even though they are not required to be listed on Part III of the Schedule G. If the information contained on Line 4a is not presented in accordance with regulatory requirements, i.e., when the IQPA concludes that the scheduled information required by Line 4a does not contain all the required information or contains information that is inaccurate or is inconsistent with the plan's financial statements, the IQPA report must make the appropriate disclosures in accordance with generally accepted auditing standards. For more information, see EBSA's Frequently Asked Questions About Reporting Delinquent Contributions on the Form 5500, available on the Internet at www.dol.gov/ebsa. These Frequently Asked Questions clarify that plans have an obligation to include delinquent participant contributions on their financial statements and supplemental schedules and that the IQPA's report covers such delinquent contributions even though they are not required to be included on Part III of the Schedule G. Although all delinquent participant contributions must be reported on Line 4a, delinquent contributions for which the DOL VFCP requirements and the conditions of PTE 2002-51 have been satisfied do not need to be treated as nonexempt party-in-interest transactions.

[TIP] The VFCP describes how to apply, the specific transactions covered (which transactions include delinquent participant contributions to pension and welfare plans), and acceptable methods for correcting violations. In addition, applicants that satisfy both the VFCP requirements and the conditions of PTE 2002-51 are eligible for immediate relief from payment of certain prohibited transaction excise taxes for certain corrected transactions, and are also relieved from the obligation to file the IRS Form 5330 with the IRS. For more information, see 71 FR 20261 (Apr. 19, 2006) and 71 FR 20135 (Apr. 19, 2006). Information about the VFCP is also available on the Internet at www.dol.gov/ebsa.

All participant contributions that were delinquent during the plan year must be reported on Line 4a even if violations have been corrected.

Line 4a Schedule of Delinquent Participant Contributions. Complete the “Line 4a Schedule of Delinquent Participant Contributions” if you entered “Yes.”

Element (a). Enter the total amount of delinquent contributions from this and previous years that were remitted during the plan year. Include contributions due in previous years that were remitted during this plan year. If you include participant loan repayments on Line 4a, you must apply the same supplemental schedule and IQPA disclosure requirements to the loan repayments as applied to delinquent transmittals of participant contributions. If you include participant loan repayments, check the box in element (g).

Element (b). Enter the total amount of delinquent contributions due, but unremitted during the plan year. You must carry these over and report them for each subsequent year until they are fully correct. Include contributions due in previous plan years, but still unremitted.

Element (c). Enter the number of payrolls for which the contributions were delinquent and uncorrected.

Element (d). Enter in element d(1) the total amount of delinquent contributions that were corrected under VFCP. See 71 FR 20261 (Apr. 19, 2006). Information about the VFCP is also available on the Internet at www.dol.gov/ebsa. Enter in element d(2) any amount that were corrected under the VFCP, but not under PTE 2002-51. See 71 FR 20135 (Apr. 19, 2006). For all amount reported in element (d), complete element (h) to indicate whether you filed Form 5330 with the IRS and paid any applicable excise taxes.

Element (e). Enter the amount of delinquent contributions pending correction in VFCP as of the date of the Form 5500 Annual Return/Report filing.

Element (f). Enter the total amount of delinquent contributions for which the contributions were paid and the plan reimbursed fully for lost earnings or profits outside of the VFCP. See the VFCP for more information on how to fully correct delinquent participant contributions.

Element (g). Check the box in element (g) if you included delinquent participant loan repayments on Line 4a and in element (a).

Element (h). Check “Yes” for any amount reported in element (h) if you filed your Form 5330 with the IRS and paid all applicable excise taxes associated with the delinquent contributions and/or delinquent participant loan repayments. For more information on Form 5330, see http://www.irs.gov/Retirement-Plans/Form-5330-Corner.

Element (i). Only multiemployer plans complete this item. In element (i)(1), enter the amount of participant contributions from participating employers in the multiemployer plan that has been determined during the plan year to be uncollectible (including contributions due in previous plan years but still unremitted). In element (i)(2), explain what steps were taken to collect overdue amounts (including whether claims were submitted on performance bonds) before determining the amount that is uncollectible.

Line 4b. Plans that check “Yes” must enter the amount and complete Part I of Schedule G. The due date, payment amount and conditions for determining default of a note or loan are usually contained in the documents establishing the note or loan. A loan by the plan is in default when the borrower is unable to pay the obligation upon maturity. Obligations that require periodic repayment can default at any time. Generally, loans and fixed income obligations are considered uncollectible when payment has not been made and there is little probability that payment will be made. A fixed income obligation has a fixed maturity date at a specified interest rate. Do not include participant loans made under an individual account plan with investment experience segregated for each account that were made in accordance with 29 CFR 2550.408b-1 and secured solely by a portion of the participant's vested accrued benefit. Small plans that were eligible for and claimed the small plan audit waiver do not need to attach Schedule G.

Line 4c. Plans that check “Yes” must enter the amount and complete Part II of Schedule G. A lease is an agreement conveying the right to use property, plant, or equipment for a stated period. A lease is in default when the required payment(s) has not been made. An uncollectible lease is one where the required payments have not been made and for which there is little probability that payment will be made. Small plans that were eligible for and claimed the small plan audit waiver do not need to attach Schedule G.

Line 4d. Plans that check “Yes” must enter the amount and complete Part III of Schedule G. Small plans that were eligible for and claimed the small plan audit waiver do not need to attach Schedule G. Check “Yes” if any nonexempt transaction with a party-in-interest occurred regardless of whether the transaction is disclosed in the IQPA's report. Do not check “Yes” or complete Schedule G, Part III, with respect to transactions that are:

(1) Statutorily exempt under Part 4 of Title I of ERISA;

(2) Administratively exempt under ERISA section 408(a);

(3) Exempt under Code sections 4975(c) or 4975(d);

(4) The holding of participant contributions in the employer's general assets for a welfare plan that meets the conditions of ERISA Technical Release 92-01;

(5) A transaction of a 103-12 IE with parties other than the plan; or

(6) Delinquent participant contributions or delinquent participant loan repayments reported on Line 4a.

Note. See the instructions for Part III of the Schedule G (Form 5500) concerning nonexempt transactions and party-in-interest.

You may indicate that an application for an administrative exemption is pending. If you are unsure as to whether a transaction is exempt or not, you should consult with either the plan's IQPA or legal counsel or both.

[TIP] Applicants that satisfy the VFCP requirements and the conditions of PTE 2002-51 (see the instructions for Line 4a) are eligible for immediate relief from payment of certain prohibited transaction excise taxes for certain corrected transactions, and are also relieved from the obligation to file the IRS Form 5330 with the IRS. For more information, see 71 FR 20261 (Apr. 19, 2006) and 71 FR 20135 (Apr. 19, 2006). When the conditions of PTE 2002-51 have been satisfied, the corrected transactions should be treated as exempt under Code section 4975(c) for the purposes of answering Line 4d.

Line 4e. Plans that check “Yes” must enter the aggregate amount of fidelity bond coverage for all claims. Check “Yes” only if the plan itself (as opposed to the plan sponsor or administrator) is a named insured under a fidelity bond from an approved surety covering plan officials and that protects the plan from losses due to fraud or dishonesty as described in 29 CFR part 2580. Generally, every plan official of an employee benefit plan who “handles” funds or other property of such plan must be bonded. Generally, a person shall be deemed to be “handling” funds or other property of a plan, so as to require bonding, whenever his or her duties or activities with respect to given funds are such that there is a risk that such funds could be lost in the event of fraud or dishonesty on the part of such person, acting either alone or in collusion with others. Section 412 of ERISA and 29 CFR part 2580 describe the bonding requirements, including the definition of “handling” (29 CFR 2580.412-6), the permissible forms of bonds (29 CFR 2580.412-10), the amount of the bond (29 CFR part 2580, subpart C), and certain exemptions such as the exemption for unfunded plans, certain banks and insurance companies (ERISA section 412), and the exemption allowing plan officials to purchase bonds from surety companies authorized by the Secretary of the Treasury as acceptable reinsurers on federal bonds (29 CFR 2580.412-23).

Information concerning the list of approved sureties and reinsures is available on the Internet at www.fms.treas.gov/c570. For more information on the fidelity bonding requirements, see Field Assistance Bulletin 2008-04, available on the Internet at www.dol.gov/ebsa.

Note. Plans are permitted under certain conditions to purchase fiduciary liability insurance. These fiduciary liability insurance policies are not written specifically to protect the plan from losses due to dishonest acts and cannot be reported as fidelity bonds on Line 4e.

Line 4f. Check “Yes,” if the plan suffered or discovered any loss as a result of any dishonest or fraudulent act(s) even if the loss was reimbursed by the plan's fidelity bond or from any other source. If the plan suffered such a loss, enter the full amount of the loss. If the full amount of the loss has not yet been determined, provide an estimate and disclose that the figure is an estimate as determined in good faith by a plan fiduciary. You must keep, in accordance with ERISA section 107, records showing how the estimate was determined.

CAUTION: Willful failure to report is a criminal offense. See ERISA section 501.

Line 4g. Check “Yes” if the plan had assets of which the current value was neither readily determinable on an established market nor set by an independent third party appraiser. Enter in the amount column the fair market value of the assets referred to on Line 4g whose value was not readily determinable on an established market and which were not valued by an independent third-party appraiser in the plan year. Generally, as it relates to these questions, an appraisal by an independent third party is an evaluation of the value of an asset prepared by an individual or firm who knows how to judge the value of such assets and does not have an ongoing relationship with the plan or plan fiduciaries except for preparing the appraisals.

TIP: Do not check “Yes” on Line 4g for mutual fund shares or insurance company investment contracts for which the plan receives valuation information at least annually. Also, do not check “Yes” on Line 4g if the plan is a defined contribution pension plan and the only assets the plan holds, that do not have a readily determinable value on an established market, are: (1) participant loans not in default, or (2) assets over which the participant exercises control within the meaning of section 404(c) of ERISA.

Current value means fair market value where available. Otherwise, it means the fair value as determined in good faith under the terms of the plan by a trustee or a named fiduciary, assuming an orderly liquidation at the time of the determination. See ERISA section 3(26). An accurate assessment of fair market value is essential to a pension plan's ability to comply with the requirements set forth in the Code (e.g., the exclusive benefit rule of Code section 401(a)(2), the limitations on benefits and contributions under Code section 415, and the minimum funding requirements under Code section 412) and must be determined annually.

Examples of assets that may not have a readily determinable value on an established market (e.g., NYSE, AMEX, over the counter, etc.) include real estate, nonpublicly traded securities, shares in a limited partnership, derivatives, notes and stock not traded on an exchange, private equity, and collectibles.

Although the current value of plan assets must be determined each year, there is no requirement that the assets (other than certain nonpublicly traded employer securities held in ESOPs) be valued every year by independent third-party appraisers.

Line 4h. Check “Yes” if the plan received during the plan year noncash contributions of which the current value was neither readily determinable on an established market nor set by an independent third party appraiser. Enter in the amount column the fair market value of the assets referred to on Line 4g whose value was not readily determinable on an established market and which were not valued by an independent third-party appraiser in the plan year. See instructions for Line 4g.

Line 4i. Schedules of Assets. Check “Yes” in elements (1) and/or (2) and complete, as appropriate, the “Line 4i(1) Schedule of Assets Held for Investment at End of Year” and the “Line 4i(2) Schedule of Assets Disposed of During the Plan Year.” You may not create your own schedules of assets in the form of an attachment or otherwise. You must complete the schedule through IFile or using EFAST-approved third-party software. If the plan both disposed of assets during the plan year and held assets for investment at end of year, you must complete both the Line 4i(1) and 4i(2) schedules. Generally, all plans that are ongoing must answer “Yes” to Line 4i(1) and complete the “Line 4i(1) Schedule of Assets Held for Investment at End of Year.”

Notes: (1) Participant loans under an individual account plan with investment experience segregated for each account, that are made in accordance with 29 CFR 2550.408b-1 and that are secured solely by a portion of the participant's vested accrued benefit, may be aggregated for reporting purposes in Line 4i. Under identity of borrower enter “Participant loans,” under rate of interest enter the lowest rate and the highest rate charged during the plan year (e.g., 8%-10%), under the cost and proceeds columns enter zero, and under current value enter the total amount of these loans. (2) Column (d) cost information for the Line 4i(1) Schedule of Assets Held for Investment at End of Year and the column (c) cost of acquisitions information for the Line 4i(2) Schedule of Assets Disposed of During the Plan Year may be omitted when reporting investments of an individual account plan that a participant or beneficiary directed with respect to assets allocated to his or her account (including a negative election authorized under the terms of the plan). Likewise, cost information for investments in Code sections 403(b)(1) annuity contracts and 403(b)(7) custodial accounts may also be omitted. (3) Investments in Code section 403(b)(1) annuity contracts and Code section 403(b)(7) custodial accounts generally may also be treated as one asset held for investment for purposes on the Line 4i schedules. For 403(b)(7) accounts, show the corresponding Line 1b(5)(A) categories to show the types of investment accounts.

Line 4i(1). Schedule of Assets Held for Investment at End of Year. Assets held for investment purposes for purposes of the Line 4i(1) Schedule of Assets Held for Investment at End of Year includes all investment assets held by the plan on the last day of the plan year other than cash and cash equivalents reported on Line 1b(1) and (2) that are held at end of year. You must complete the Schedule of Assets Held for Investment at End of Year if you answered “Yes” to Line 4(i)(1).

Line 4i(1) Schedule of Assets Held for Investment at End of Year (Complete as many entries in each element as needed to identify all assets held for investment at end of year)

(a) Assets Held directly by the plan (including assets held through an participant-directed brokerage window) For each asset which the plan holds for investment purposes that is not a type of assets required to be listed in (b) through (e) below, complete elements (i)-(vii).
(i) Check if issuer, borrower, lessor or similar party is party-in- interest ☐ | (ii) Name of issuer, borrower, lessor, or similar party | (iii) Check if asset is hard-to-value asset | (iv) CUSIP, CIK, LEI, NAIC Company Code, other registration number: | (v) Cost | (vi) Indicate Sch. H, Line 1b asset category | (vii) Description of investment, including, as applicable share class, maturity date, rate of interest, par or maturity value, including whether asset/investment is subject to surrender charge. See instructions for reporting assets held through a participant-directed brokerage account.

(b) Investments in Master Trust (repeat as many entries as needed to identify holdings in master trusts) For each master trust in which the plan invested, break out plan's proportionate interest in each asset in the master trust(s) in elements (i)-(viii). Do not include master trust holdings in which the plan has no interest.
(i) Enter name, EIN/PN of sponsor of master trust used on master trust's Form 5500.
(ii) Check if issuer, borrower, lessor or similar party is party-in- interest ☐ | (iii) Name of issuer, borrower, lessor, or similar party (See instructions) | (iv) Check if asset is hard-to-value asset ☐ | (v) Enter all that apply: EIN, CUSIP, CIK, LEI, NAIC Company Code, other registration number: | (vi) Cost | (vii) Indicate Sch. H, Line 1b asset category | (viii) Description of investment, including, as applicable share class, maturity date, rate of interest, par or maturity value, including whether asset/investment is subject to surrender charge.

(c) Investments in PSAs and CCTs (repeat as many entries as needed to identify holdings in PSAs and CCTs) If the PSA filed a Form 5500, complete elements (i)-(vii) indicating the value of the plan's shares in the PSA or CCT. For PSAs or CCTs that have not filed a Form 5500, break out plan's proportionate interest in each asset in the PSA of CCT in elements (i)-(ix) and include the name and identifying numbers for the non-filing CCT or PSA, as well a description of the asset held through the non-filing CCT or PSA.
(i) Enter name, EIN/PN of sponsor of CCT/PSA.
(ii) Check if issuer, borrower, lessor or similar party is party-in- interest ☐ | (iii) Check here if PSA or CCT filed a Form 5500 ☐ | (iv) Name of issuer, borrower, lessor, or similar party (see Instructions). | (v) Check if asset is hard-to-value asset ☐ | (vi) Enter all that apply: EIN, CUSIP, CIK, LEI, NAIC Company Code: Other registration number: | (vii) Cost | (viii) Indicate Sch. H, Line 1b asset category | (ix) Description of investment, including, as applicable share class, maturity date, rate of interest, par or maturity value, and whether asset/investment is subject to surrender charge.

(d) Investments in 102-12 Investment Entities (repeat as many entries as needed to identify holdings in 103-12 IEs)
(i) Enter name, EIN of provider of the 103-12 IE.
(ii) Check if issuer, borrower, lessor or similar party is party-in- interest ☐ | (iii) Name of issuer, borrower, lessor, or similar party (See instructions) | (iv) Check if asset is hard-to-value asset ☐ | (v) Enter all that apply: EIN, CUSIP, CIK, LEI, NAIC Company Code: Other registration number: | (vi) Cost | (vii) Indicate Line 1b asset category | (viii) Description of investment, including, as applicable share class, maturity date, rate of interest, par or maturity value, including whether asset/investment is subject to surrender charge.

Element (a). Assets Held Directly By the Plan. Investments held by the plan are all assets held by the plan except interests in master trusts; interests in pooled separate accounts (PSAs) and common collective trusts (CCTs), regardless of whether the PSA or CCT files a Form 5500; and interests in 103-12 Investment Entities (103-12 IEs). For each asset held directly by the plan, complete elements (i)-(vii).

Participant-directed brokerage account assets reported in the aggregate on Line 1b(14) generally may be treated as one asset held for investment for purposes here, except investments in tangible personal property, loans, partnership or joint venture interests, real property, employer securities, and investments that could result in a loss in excess of the account balance of the participant or beneficiary who directed the transaction must be reported as separate aggregations of assets on Line 4i(1)(a), with an indication of which of the Line 1b(14) breakouts that the asset was reported as being held through a participant-directed brokerage account.

Element a(ii). Check the box in element a(i) if the issuer of the investment is a person known to be a party-in-interest to the plan. This includes when the seller, issuer, lender, or similar party is the employer, employee organization, a service provider to the plan, or other party interest, including a subcontractor or affiliate.

Element a(iii). Enter the name of the seller, issuer, lender, or similar party. If the person is a plan sponsor, service provider, or direct filing entity also identified on the Form 5500, Schedule C or any other of the Schedule H Line 4 schedules, or is a DFE that files its own Form 5500, use the same name in all places.

Element a(iv). Check here if the asset is a “hard-to-value” asset. Assets that are not listed on any national exchanges or over-the-counter markets, or for which quoted market prices are not available from sources such as financial publications, the exchanges, or the National Association of Securities Dealers Automated Quotations System (NASDAQ), are required to be identified as hard-to-value assets on the Schedule of Assets Held for Investment at End of Year. Bank collective investment funds or insurance company pooled separate accounts that are primarily invested in assets that are listed on national exchanges or over-the-counter markets and are valued at least annually need not be identified as hard-to-value assets. CCTs or PSAs invested primarily in hard-to-value assets must also be identified as a hard-to-value asset. A non-exhaustive list of examples of assets that would be required to be identified as hard-to-value on the proposed schedules of assets is: non-publicly traded securities, real estate, private equity funds; hedge funds; and real estate investment trusts (REITs).

Element a(v). If the person is a plan sponsor, service provider, or direct filing entity also identified on the Form 5500, Schedule C, or Schedule D, or any other of the Schedule H Line 4 schedules, or is a DFE that files its own Form 5500, use the same identification numbers in all places. If the person identified in element (c), has a CUSIP, CIK number, LEI, NAIC Company Code, or other government or market exchange registration or identity number, you must include all that apply here.

Element a(vi). Enter the acquisition cost of the asset.

Element a(vii). Enter in element a(vii) in which category the asset was part of the total on Line 1b.

Element a(viii). Enter a description of the investment, including, as applicable maturity date, rate of interest, par, or maturity value, including whether asset/investment is subject to surrender charge. Include any restriction on transferability of corporate securities. (Include lending of securities permitted under Prohibited Transactions Exemption 81-6.)

Element (b)—Investments in Master Trusts. For each master trust in which the plan invested, complete elements (b)(ii)-(vi) for each asset in which the plan had an interest. Do not include assets held by the master trust in which the plan does not hold an interest.

Example. A master trust in which Plan A, Plan B, and Plan C invest, has various assets, including a parcel of real estate. Only Plan A and Plan B are invested in the parcel of real estate. The remaining assets of the master trust are held proportionately by all three plans. Plans A and B should report information on their holding in all of the assets of the plan, including the parcel of real estate. Plan C should report only its proportionate interest in the assets other than the parcel of real estate.

Element (c)—Investments in PSAs and CCTs. For all investments in PSAs and CCTs, enter the name, EIN/PN of the sponsor of the PSA or CCT, regardless of whether the PSA or CCT filed a Form 5500 in element (c)(i).

Check the box in element (c)(iii) to indicate whether the CCT or PSA filed a Form 5500. If the CCT or PSA did not file a Form 5500, leave element (c)(iii) blank.

If the CCT or PSA filed a Form 5500, make sure to report in element (c)(i) the same name, EIN/PN as reported on the CCT or PSA's Form 5500. If the CCT or PSA filed a Form 5500, enter “same name” in element (c)(iv).

If the CCT or PSA did not file a Form 5500, you must provide the name of the issuer, borrower, lessor, or similar party of each individual asset in the CCT or PSA in element c(iv). Complete as many entries in elements (c)(ii)-(ix) as needed to identify the assets held by each CCT or PSA that did not file a Form 5500.

For an investment in a CCT or PSA that filed a Form 5500, check the box in element c(v) to indicate if the CCT or PSA is primarily invested in hard-to-value assets.

Element (d). Investments in 103-12 Investment Entities. Complete as many entries as need to identify holdings in 103-12 IEs. Do not report in element (d) investments in any entities other than in an entity that filed a Form 5500 for itself as a 103-12 IE.

Line 4i(2) Assets Disposed of During Plan Year.

You must identify on the Line 4i(2) Schedule each investment asset sold during the plan year except:

1. Debt obligations of the U.S. or any U.S. agency.

2. Interests issued by a company registered under the Investment Company Act of 1940 (e.g., a mutual fund).

3. Bank certificates of deposit with a maturity of one year or less.

4. Commercial paper with a maturity of 9 months or less if it is valued in the highest rating category by at least two nationally recognized statistical rating services and is issued by a company required to file reports with the Securities and Exchange Commission under section 13 of the Securities Exchange Act of 1934.

5. Participations in a bank common or collective trust.

6. Participations in an insurance company pooled separate account.

7. Securities purchased from a broker-dealer registered under the Securities Exchange Act of 1934 and either: (1) listed on a national securities exchange and registered under section 6 of the Securities Exchange Act of 1934 or (2) quoted on NASDAQ.

Assets disposed of during the plan year shall not include any investment that was not held by the plan on the last day of the plan year if that investment is reported in the annual report for that plan year in any of the following:

1. The schedule of loans or fixed income obligations in default required by Schedule G, Part I;

2. The schedule of leases in default or classified as uncollectible required by Schedule G, Part II;

3. The schedule of nonexempt transactions required by Schedule G, Part III; or

4. The schedule of reportable transactions required by Schedule H, Line 4j.

Line 4i(2). Schedule of Assets Disposed of During the Plan Year. You must complete the “Schedule of Assets Disposed of During the Plan Year” if you answered “Yes” to Line 4(i)(2).

Element (a). Enter the name of the seller, issuer, lender, or similar party. If the person is a plan sponsor, service provider, or direct filing entity also identified on the Form 5500, Schedule C, or Schedule D, or any other of the Schedule H Line 4 schedules, use the same name in all places. If the asset was held through a master trust, 103-12 IE, CCT, or PSA provide the name, EIN and PN of the entity. For DFEs use the same identifying information used on the entity's own Form 5500. For CCTs and PSAs, check the appropriate box to indicate whether or not the CCT or PSA filed a Form 5500.

Element (b). Indicate in element (b) whether the seller, issuer, lender, or similar party is the employer, employee organization, or other party interest, including a subcontractor or affiliate.

Element (c). Check if the asset was acquired during the plan year.

Element (d). In element (e) enter the employer identification number (EIN) of issuer, borrower, lessor, similar party. If the person is a plan sponsor, service provider, or direct filing entity also identified on the Form 5500, Schedule C, or Schedule D, or any other of the Schedule H, Line 4 schedules, use the same name in all places.

Element (e). Enter in element (c) in which category the asset was part of the total on Line 1(b).

Element (a).

Element (f). Enter the acquisition cost here.

Element (g). Enter the sale price.

Element (h). Enter the total expenses incurred with disposal of asset, including any termination or surrender charges.

Element (i). Enter the net gain (loss) on the asset.

Element (j). Enter a description of the investment, including maturity date, rate of interest, collateral, par, or maturity value.

Line 4j. Check “Yes” and attach to the Form 5500 the following schedule if the plan had any reportable transactions (see 29 CFR 2520.103-6 and the examples provided in the regulation). You may not create your own schedules of assets, but must complete the schedules through IFile or using EFAST-approved third-party software.

A reportable transaction includes:

1. A single transaction within the plan year in excess of 5% of the current value of the plan assets;

2. Any series of transactions with or in conjunction with the same person, involving property other than securities, which amount in the aggregate within the plan year (regardless of the category of asset and the gain or loss on any transaction) to more than 5% of the current value of plan assets;

3. Any transaction within the plan year involving securities of the same issue if within the plan year any series of transactions with respect to such securities amount in the aggregate to more than 5% of the current value of the plan assets; and

4. Any transaction within the plan year with respect to securities with, or in conjunction with, a person if any prior or subsequent single transaction within the plan year with such person, with respect to securities, exceeds 5% of the current value of plan assets.

The 5% figure is determined by comparing the current value of the transaction at the transaction date with the current value of the plan assets at the beginning of the plan year. If this is the initial plan year, you may use the current value of the plan assets at the end of the plan year to determine the 5% figure.

If the assets of two or more plans are maintained in one trust, except as provided below, the plan's allocable portion of the transactions of the trust shall be combined with the other transactions of the plan, if any, to determine which transactions (or series of transactions) are reportable (5%) transactions.

For investments in common/collective trusts (CCTs), pooled separate accounts (PSAs), 103-12 IEs, and registered investment companies determine the 5% figure by comparing the transaction date value of the acquisition and/or disposition of units of participation or shares in the entity with the current value of the plan assets at the beginning of the plan year. If the Schedule H is attached to a Form 5500 filed for a plan with all plan funds held in a master trust, check “No” on Line 4j. Plans with assets in a master trust that have other transactions should determine the 5% figure by subtracting the current value of plan assets held in the master trust from the current value of all plan assets at the beginning of the plan year and check “Yes” or “No,” as appropriate. Do not include individual transactions of CCTs, PSAs, master trusts, 103-12 IEs, and registered investment companies in which this plan or DFE invests.

In the case of a purchase or sale of a security on the market, do not identify the person from whom purchased or to whom sold.

Special rule for certain participant-directed transactions. Transactions under an individual account plan that a participant or beneficiary directed with respect to assets allocated to his or her account (including a negative election authorized under the terms of the plan) should not be treated for purposes of Line 4j as reportable transactions. The current value of all assets of the plan, including these participant-directed transactions, should be included in determining the 5% figure for all other transactions.

Line 4j. Schedule of Reportable Transactions. You must complete the “Schedule of Reportable Transactions” if you answered “Yes” to Line 4(j).

Element (a). Check the box in element (a) if the seller, issuer, lender, or similar party is the employer, employee organization, service provider, or other party interest, including a subcontractor or affiliate.

Element (b). Enter the name and EIN of the seller, issuer, lender, or similar party. If the person is a plan sponsor, service provider, or direct filing entity also identified on the Form 5500, Schedule C, or Schedule D, or any other of the Schedule H Line 4 schedules, use the same name in all places.

Element (c). Enter a description of the asset, including interest rate and maturity date in the case of the loan.

Element (d). Enter the purchase price, regardless of whether the transaction being reported here is the acquisition or disposal of an asset.

Element (e). If the transaction was the disposal of an asset, enter the sale price.

Element (f). If the transaction involved a lease, enter a description of the lease terms including annual rental and duration of lease.

Element (g). Enter the total expenses incurred in connection with the transaction, including fees and commissions.

Element (h). Enter the cost of the asset.

Element (i). Enter the current value of the asset on transaction date.

Line 4k. You must check “Yes” if any benefits due under the plan were not timely paid or not paid in full. This would include minimum required distributions to 5% owners who have attained 70½ whether or not retired and/or non-5% owners who have attained 70½ and have retired or separated from service, see section 401(a)(9) of the Code. Include in this amount the total of any outstanding amounts that were not paid when due in previous years that have continued to remain unpaid.

Do not enter “Yes” if the only benefits not paid are those owed to “missing” or “lost” participants, and the plan fiduciaries have acted in compliance with the Department of Labor's Field Assistance Bulletin 2014-01 to attempt to locate the participants.

Line 4l “Blackout Period.” Check “Yes” if there was a “blackout period.” A blackout period is a temporary suspension of more than three (3) consecutive business days during which participants or beneficiaries of a 401(k) or other individual account pension plan were unable to, or were limited or restricted in their ability to, direct or diversify assets credited to their accounts, obtain loans from the plan, or obtain distributions from the plan. A “blackout period” generally does not include a temporary suspension of the right of participants and beneficiaries to direct or diversity assets credited to their accounts, obtain loans from the plan, or obtain distributions from the plan if the temporary suspension is: (1) part of the regularly scheduled operations of the plan that has been disclosed to participants and beneficiaries; (2) due to a qualified domestic relations order (QDRO) or because of a pending determination as to whether a domestic relations order is a QDRO; (3) due to an action or a failure to take action by an individual participant or because of an action or claim by someone other than the plan regarding a participant's individual account; or (4) by application of federal securities laws. For more information, see 29 CFR 2520.101-3 (available at www.dol.gov/ebsa).

Line 4m. If there was a blackout period, did you provide the required notice not less than 30 days nor more than 60 days in advance of restricting the rights of participants and beneficiaries to change their plan investments, obtain loans from the plan, or obtain distributions from the plan? If so, check “Yes.” See 29 CFR 2520.101-3 for specific notice requirements and for exceptions from the notice requirement. Also, answer “Yes” if one of the exceptions to the notice requirement under 29 CFR 2520.101-3 applies.

Line 4n. Disclosures for Participant-Directed Accounts. All individual account plans that provide for participant-direction must provide specified disclosures under 29 CFR 2550.404a-5 with respect to each participant or beneficiary that, pursuant to the terms of the plan, has the right to direct the investment of assets held in, or contributed to, his or her individual account. Included in the required disclosures is a comparison chart.

4o. If you answered “Yes” to Line 4n, check the box to indicate whether the plan provided participants and beneficiaries the plan and investment disclosures required under 29 CFR 2550.404a-5(d)(2). If you answered “Yes,” attach the comparison chart(s) provided to participants and beneficiaries.

4p. If you answered “Yes,” to Line 4n, enter the number of designated investment alternatives (DIAs) available under the plan, indicate the number of DIAs that are index funds, and check the appropriate box(es) to indicate the types of DIAs available.

4q. If you answered “Yes,” to Line 4n, check the appropriate box to indicate whether the plan made available to participants and beneficiaries a designated investment manager (DIM). If you answered “Yes,” enter the name of the DIM.

4r. Check “Yes,” if the plan made available to participants and beneficiaries any brokerage window, self-directed brokerage account or similar plan arrangements that enabled participants to select investments beyond those designated by the plan. If you answered “Yes” to Line 4r, enter the number of participants that utilized the account or arrangement.

Line 4s. Unrelated business taxable income generally means the gross income derived from any unrelated trade or business (as defined in Code section 513) regularly conducted and not substantially related to the plan's exempt purpose under Code section 512, less the deductions directly connected with carrying on the trade or business. See IRS Publication 598 for more information. Check “N/A” if this plan does not have a trust, such as 412(e)(3) fully insured plans or certain 403(b) annuity plans.

Plans that check “Yes” must enter any amount of unrelated business taxable income. Form 990-T, Exempt Organization Business Income Tax Return, is required for any gross income of $1000 or more generated by an employer's trust by the 15th day of the 4th month following the end of the trust's tax year. See Instructions to Form 990-T for more details.

Note. You are required to complete Line 4s if you are required to file at least 250 returns of any type with the IRS during the calendar year. However, if you are a small filer (file fewer than 250 returns of any type with the IRS during the calendar year), and you do not voluntarily complete this Line 4s, then you must file the Form 5500-SUP with the IRS on paper.

Line 4t. Under the Code, all defined contribution pension plans must provide for a valuation of investments held by the trust at least once a year in a manner consistently followed and uniformly applied. Fair market value on the valuation date specified in the plan is to be used for this purpose and the respective accounts of participants are to be adjusted accordingly. See Rev. Rul. 80-155. Plans that check “No” may result in disqualification of the plan under Treasury Regulations section 1.401-1(a)(2).

Line 4u. Check “Yes” if the employer sponsoring the plan paid any of the administrative expenses of the plan that were not reimbursed by the plan.

Line 4v. Check “Yes” if any person who is disqualified under ERISA Section 411, served or was permitted to serve the plan in any capacity. Section 411 of ERISA establishes a bar against certain persons serving as employee benefit plan fiduciaries or service providers because they have been convicted of any of a broad range of specified crimes. Prohibited positions and activities include consultants and advisers to plans and any entity whose activities are in whole or substantial part devoted to providing goods or services to employee benefit plans. As amended by the Comprehensive Crime Control Act of 1984, section 411 of ERISA prohibits such persons from serving plans for a period of thirteen years after such judgment or the end of imprisonment resulting from a disqualifying conviction, whichever is later, unless the sentencing court, under appropriate circumstances, has reduced the period of prohibition to not less than three years or has determined that service in any of the prohibited capacities would not be contrary to the purposes of ERISA. The prohibition takes effect upon the date of conviction (the date of entry of judgment by the trial court) or the end of imprisonment, whichever is later.

Line 4w. If the plan has investment acquisitions that are leveraged, including assets subject to collateralized lending activities (e.g., securities lending arrangements, repurchase agreements (repos), etc.), check “Yes.” If you check “Yes,” check the appropriate box to indicate whether securities lending, including repurchase agreements or sell/buy-backs or “Other,” including transactions that subjected plan assets to a mortgage, lien, or other security interest. If you check “Other,” enter a description. Then separately enter in Line 4w(2) the total amount of cash obligated, the total value of securities obligated, and the total value of other assets obligated in connection with collateralized lending activities at the end of the plan year. In Line 4w(3) enter the approximate ratio of collateralized/leveraged investments (including cash that is obligated) to total plan assets at the end of the year list total amount and approximate ratio of leveraged investments to total plan assets.

Line 4x. Check “Yes” if the plan sponsor or its affiliates provide any services to the plan in exchange for direct or indirect compensation.

Line 4y. See 29 CFR 2520.102-2 and 2520.102-3 for style, format, and content requirements for summary plan descriptions. For distribution requirements see 29 CFR 2520.104b.

Line 4z. Defined contribution pension plans must complete Line 4z. For purposes of Line 4z, an uncashed check is one that is no longer negotiable or is subject to limited payability. Check “Yes,” if there were any uncashed checks as of the end of the plan year. If “Yes,” indicate the number of checks that were uncashed at the end of the plan year and the total value of the checks. Briefly describe the procedures followed by the plan to verify a participant's or beneficiary's address before a check was mailed. Plans must ensure that they use measures reasonably calculated to ensure actual receipt of materials by plan participants and beneficiaries, which would include procedures to keep track of participants' and beneficiaries' current mailing addresses so that information is less likely to be mailed to a bad address. See CFR 2520.104b-1(b). Also, briefly describe the procedures followed by the plan to address the uncashed checks, including steps to locate “missing participants.”

Plans should have procedures to keep track of uncashed checks. The procedures for ongoing plans should include procedures for locating “missing” participants. Plans may use the steps described in FAB 2014-01 to search for lost participants or beneficiaries, which may be helpful in particular where a check was returned as “undeliverable.” The procedures should also include a method by which plan fiduciaries keep track or are made aware of the number of uncashed checks and the amount involved. Such procedures could include contractually requiring any third party administrators to keep the plan administrator regularly informed of uncashed checks. For missing participant and beneficiary searches and distributions from terminating defined contribution pension plans, see 29 CFR 2550.404a-3; DOL Field Assistance Bulletin 2014-01 (Aug. 14, 2014).

Part V—Termination Information on Service Providers

Complete Part V if there was a termination in the appointment of an accountant or enrolled actuary during the 20XX plan year regardless of the reason or to identify any service providers, other than accountants or actuaries identified above, that have been terminated for a material failure to meet the terms of a service arrangement or failure to comply with Title I of ERISA, including the failure to provide required disclosures under 29 CFR 2550.408b-2.

Line 5. Termination Information on Accountants and Actuaries. Information on the termination of an accountant or actuary must be provided on the Form 5500 Annual Return/Report for the plan year during which the termination occurred. For example, if an accountant was terminated in the 20XX plan year after completing work on an audit for the 20XX-1 plan year, the termination should be reported on the Schedule H filed with the 20XX plan year Form 5500 Annual Return/Report. If the accountant is a firm (such as a corporation, partnership, etc.), report when the service provider (not an individual within the firm) was terminated.

An enrolled actuary is by definition an individual and not a firm, and you must report when the individual is terminated.

Provide an explanation of the reasons for the termination of an accountant or enrolled actuary. Include a description of any material disputes or matters of disagreement concerning the termination, even if resolved prior to the termination. If an individual is listed, and the individual does not have an EIN, the EIN to be entered should be the EIN of the individual's employer.

[TIP] If the only reason for change of appointment was a temporary leave of absence due to non-work circumstances of the enrolled actuary, so indicate in the “explanation” field.

Do not use a social security number in lieu of an EIN. The Schedule C and its attachments are open to public inspection, and the contents are public information and are subject to publication on the Internet. Because of privacy concerns, the inclusion of a social security number or any portion thereof on this Schedule C or any of its attachments may result in the rejection of the filing.

The plan administrator must also provide the terminated accountant or enrolled actuary with a copy of the explanation for the termination provided in Line 5f, along with a completed copy of the notice below.

Notice to Terminated Accountant or Enrolled Actuary

I, as plan administrator, verify that the explanation that is reproduced below or attached to this notice is the explanation concerning your termination reported on the Schedule C (Form 5500) attached to the 20XX Form 5500, Annual Return/Report of Employee Benefit Plan, for the ________ (enter name of plan).

This Form 5500 is identified in Line 2b by the nine-digit EIN__-__(enter sponsor's EIN), and in Line 1b by the three-digit PN___ (enter plan number).

You have the opportunity to comment to the Department of Labor concerning any aspect of this explanation. Comments should include the name, EIN, and PN of the plan and be submitted to: Office of Enforcement, Employee Benefits Security Administration, U.S. Department of Labor, 200 Constitution Avenue, NW., Washington, DC 20210. [INSERT EMAIL ADDRESS]

Signed

Dated

Line 6. Information on Service Providers Terminated for Material Failure. Provide information for any service providers, other than accountants or actuaries identified above, that have been terminated for a material failure to meet the terms of a service arrangement or failure to comply with Title I of ERISA, including the failure to provide required disclosures under 29 CFR 2550.408b-2.

Lines 6a-d. Provide identifying information in the appropriate lines.

Lines 6e-f. If the reason for termination was the failure to provide required disclosures under 29 CFR 2550.408b-2, in addition to providing an explanation in Line 6e, check the box in Line 6f.

Part VI—Plan Termination Information

Line 7a. Check “Yes” if a resolution to terminate the plan was adopted during this or any prior plan year, unless the termination was revoked and no assets reverted to the employer. If “Yes” is checked, enter in Line 7a(1) the effective date of plan termination, enter in Line 7a(2) the plan year in which assets were distributed to participants and beneficiaries (including insurance/annuity contracts) and enter in Line 7a(3) the amount of plan assets that reverted to the employer during the plan year in connection with the implementation of such termination. Enter “0” if no reversion occurred during the current plan year.

Line 7b. Transfer to other plans. If the plan transferred assets or liabilities to another plan since the date of the most recent filing, report the EIN and PN of the plan to which the assets and liabilities were transferred (i.e., the “transferee plan”). In addition, report the date of the transfer and check the box that best describes the type of transfer (see Definitions below). Do not use a social security number in lieu of an EIN or include an attachment that contains visible social security numbers. The Schedule H is open to public inspection, and the contents are public information and are subject to publication on the Internet. Because of privacy concerns, the inclusion of a social security number or any portion thereof on this Schedule H or the inclusion of a visible social security number or any portion thereof on an attachment may result in the rejection of the filing.

Note. A distribution of all or part of an individual participant's account balance that is reportable on Form 1099-R should not be included on Line 7b. Do not submit Form 1099-R with the Form 5500 Annual Return/Report.

IRS Form 5310-A, Notice of Plan Merger or Consolidation, Spinoff, or Transfer of Plan Assets or Liabilities; Notice of Qualified Separate Lines of Business, may be required to be filed at least 30 days before any plan merger or consolidation or any transfer of plan assets or liabilities to another plan. There is a penalty for not filing IRS Form 5310-A on time. In addition, a transfer of benefit liabilities involving a plan covered by PBGC insurance may be reportable to the PBGC. See PBGC Form 10, Post-Event Notice of Reportable Events, and PBGC Form 10-Advance, Advance Notice of Reportable Events.

Line 7c. Transfers from other plans. If another plan transferred assets or liabilities to this plan since the date of the most recent filing, report the EIN and PN of the plan from which the assets and liabilities were transferred (i.e., the “transferor plan”), the date of the transfer, and the box that best describes the type of transfer.

“Consolidation” means a transaction in which two or more plans transfer all of their assets and liabilities to a new plan and, as a result, cease to exist (because the transferor plans become part of the new transferee plan). It differs from a Merger because in a Merger, the transferee plan existed before the transaction. In a consolidation, the transferee plan is a new plan that is created in the Consolidation. Thus, the plan that exists after the Consolidation follows the PBGC premium filing rules for new plans.

“Merger” means a transaction in which one or more plans transfer all of their assets and liabilities to an existing plan and, as a result, cease to exist (because the transferor plan(s) become part of the transferee plan). It differs from a Consolidation because in a Consolidation, the transferee plan did not exist before the transaction. In a Merger, the transferee plan is an existing plan and follows the rules for a preexisting, ongoing plan.

“Spinoff” means a transaction in which the transferor plan transfers only part of its assets and/or liabilities to the transferee plan. The transferee plan may be a new plan that is created in the Spinoff, or it may be a preexisting plan that simply receives part of the assets or liabilities of the transferor plan.

Note: If Final Return/Report is checked on the Form 5500 of Form 5500-SF, information should be entered an at least one of lines 7a or 7b. Participant-directed transfers do not need to be reported on Line 7c. If you reported transfers of assets and liabilities to this plan on Line 2l(1), information should be entered in Line 7c.

Line 7d. Terminated Defined Contribution Pension Plans: Transfers to Financial Institutions. If the filer is a defined contribution pension plan, indicate whether, as part of the procedures for terminating the plan, transferred plan assets to a financial institution(s), establishing interest bearing federally insured bank accounts in the name of missing participants in connection with terminating the plan. If “Yes,” complete elements (1)-(5). List each financial institution where plan assets were transferred and continue reporting until the plan terminates and the final return/report is filed. For more information on making provisions for lost or missing participants, see DOL Field Assistance Bulletin 2014-01.

Part VII—Trust Information

Line 8a. Enter the “Name of trust.” If a plan uses more than one trust or custodial account for its fund, you should enter the primary trust or custodial account in which the greatest dollar amount or largest percentage of the plan assets as of the end of the plan year is held on this Line. For example, if a plan uses three different trusts, X, Y, Z, with the percentages of plan assets, 35%, 45%, and 20%, respectively, trust Y that held the 45% of plan assets would be entered in Line 6a.

Line 8b. You may use this line to enter the “Trust's Employer Identification Number (EIN)” assigned to the employee benefit trust or custodial account, if one has been issued to you. The trust EIN should be used for transactions conducted for the trust. If you do not have a trust EIN, enter the EIN you would use on Form 1099-R, Distributions From Pensions, Annuities, Retirement or Profit-Sharing Plans, IRAs, Insurance Contracts, etc., to report distributions from employee benefit plans and on Form 945, Annual Return of Withheld Federal Income Tax, to report withheld amounts of income tax from those payments.

Do not use a social security number in lieu of an EIN. Form 5500 and its attachments are open to public inspection, and the contents are public information and are subject to publication on the Internet. Because of privacy concerns, the inclusion of a social security number or any portion thereof may result in the rejection of the filing.

Trust EIN can be obtained from the IRS by applying for one on Form SS-4, Application for Employer Identification Number. See Instructions to Line 2b (Form 5500) for applying for an EIN. Also see the online IRS EIN application page at https://federal-ein-online.com/ for further information.

Line 8c. Enter the name and other identifying information of the plan trustee or custodian. Enter the telephone number for the plan trustee or custodian.

Note. You must enter trust information from Lines 8a through 8c if you are required to file at least 250 returns of any type with the IRS during the calendar year. However, if you are a small filer (files fewer than 250 returns of any type with the IRS during the calendar year), and you do not enter trust information here, then you must file the paper Form 5500-SUP with the IRS. See the Treasury regulations on “Employee Retirement Benefit Plan Returns Required on Magnetic Media.” (See 79 FR 58256 at http://federalregister.gov/a/2014-23161) and Instructions for Form 5500-SUP for more information.

Trustee/Custodian Signature

The plan trustee or custodian may electronically sign this schedule or attach to the Form 5500 an electronic reproduction of the Schedule H signed by the plan's trustee. This electronic reproduction must be labeled “Trustee Signature” and must be included as a Portable Document Format (PDF) attachment or any alternative electronic attachment allowable under EFAST2 if this is not electronically signed. If there is more than one trustee or custodian, the trustee or custodian authorized by the others may sign. If the plan trustee or custodian is an entity, the signature must be the name of a person authorized to sign on behalf of the plan trustee or custodian.

Note. Trust information reported in this Schedule is for the purpose of satisfying the requirements under Code section 6033(a) for an annual information return from every section 401(a) organization exempt from tax under section 501(a). The statute of limitations under Code section 6501(a) for any trust described in section 401(a), which is exempt from tax under section 501(a), will not start to run until you timely file with the appropriate trust information on this Schedule.

Schedule J (Form 5500) Group Health Plan Information

General Instructions

Who Must File

Schedule J (Form 5500) must be attached to a Form 5500 filed for group health plans, except as provided below. The term “group health plan” means an employee welfare benefit plan to the extent that the plan provides medical care (as defined in ERISA § 733(a)(2) and including items and services paid for as medical care) to employees or their dependents (as defined under the terms of the plan) directly or through insurance, reimbursement, or otherwise. This includes group health plans that are funded through a trust, unfunded, fully-insured, or a combination of more than one of these funding arrangements. This also includes plans that claim “grandfathered” status under 29 CFR 2950.715-1251, and plans that are exempt from certain market reform requirements under ERISA § 732(a) (exemption for certain small group health plans that have less than two participants who are current employees) or ERISA § 733(c) (group health plans consisting solely of excepted benefits). See the Form 5500 Annual Return/Report Instructions “Who Must File” section for more information. It also includes retirement plans that provide retiree health benefits and welfare plans that provide a variety of benefits, including medical benefits.

Small (fewer than 100 participants at the beginning of the plan year), fully-insured group health plans only need to complete Part I, Lines 1-8 of Schedule J, except they must complete the entire Schedule J where the only policy is a “stop loss” policy, including stop loss policies with the employer/plan sponsor as the insured.

If a plan provides multiple types of benefits such as group health, life, and disability, only report information about group health benefit participation, claims, benefit types, compliance, etc., on Schedule J.

Plans must complete one Schedule J for all the health benefit coverages they provide. GIAs must complete a separate Schedule J for each participating plan.

Check the Schedule J box on the Form 5500 (Part II, Line 11b(6)) if a Schedule J is attached to the Form 5500.

Part I of the Schedule J must be completed to report certain characteristics of the group health plan.

Part II of the Schedule J must be completed to report service providers providing services to the group health plan. You must include information on third party administrators and claims processors; mental health benefits managers, substance use disorder benefits managers, pharmacy benefit managers (PBM), independent review organizations (IRO), and wellness program managers. Multiple entries for each may be entered. Service providers that render services in relation to the group health plan that are reported on the Schedule C or the Schedule A do not need to be reported on Schedule J.

Part III of the Schedule J must be completed by plans that do not file Schedule H to report financial information.

Part IV of the Schedule J must be completed to report claims processing and payment information.

Part V of the Schedule J must be completed to report compliance information for plans that do not file the Form M-1. Plans that file the Form M-1, skip questions 24-30.

For more information and guidance for group health plans, visit EBSA's Web site at www.dol.gov/ebsa. For information on state regulation of health insurance, contact your State Insurance Department. For information on HHS regulation of health insurance, go to the Web site of the Center for Consumer Information and Insurance Oversight at https://www.cms.gov/cciio/.

Specific Instructions

Part I—Group Health Plan Characteristics

You must enter information related to certain characteristics of the group health plan.

Line 1. Report the number of persons covered by the plan at the end of the plan year. Persons, for purposes of this line, include participants, beneficiaries, and dependents of participants covered under the plan.

Line 2. Check all that apply to indicate who is eligible for coverage under the plan.

Line 3. Check all that apply to indicate the type of benefits and design characteristics included under the plan.

Line 4. Check all that apply to indicate the funding and benefit arrangement(s) for the plan. If the plan offers benefit package options that are fully insured (i.e. benefits are provided under a group policy purchased from a health insurance issuer to fund the benefits), in Line 4a(1)(a), check “Health Insurance Issuer” and enter the name(s), EIN and National Insurance Product Registry Number of insurance carriers providing benefits under the plan. If the health funding or benefit arrangement is through a health insurance issuer, and the product is an “off-the-shelf” or “prototype” policy, product, or arrangement, enter in Line 4a(1)(b) any unique identification information for the product or policy (e.g., a state assigned product identification number). Check all that apply under 4a(1)(c).

If the plan offers benefit package options that are self-insured (i.e., provide benefits from the general assets of the employer or through a trust), check all that apply under 4a(2) and/or 4a(3).

A Health Insurance Issuer means an insurance company, insurance service, or insurance organization (including a health maintenance organization, as defined in ERISA § 733(b)(3)), that is licensed to engage in the business of insurance in a State and that is subject to State laws regulating insurance (within the meaning of ERISA § 514(b)(2)).

Line 5. Check all characteristics that apply to the plan. With regard to plans that claim grandfathered status, certain changes may cause the plan to relinquish its grandfathered status such as elimination of benefits, certain increases in cost-sharing requirements, and certain decreases in contribution rates by employers or employee organizations. For more information about grandfathered group health plans, see 29 CFR 2590.715-1251.

In general, a health flexible spending account (FSA) is a benefit designed to reimburse employees for medical care expenses (as defined in Code section 213(d), other than premiums) incurred by the employee, or the employee's spouse, dependents, and any children who, as of the end of the taxable year, have not attained age 27. See Code section 106(c)(2) and 26 CFR 1.125-5. A health reimbursement arrangement (HRA) typically consists of a promise by an employer to reimburse medical expenses, including insurance premiums, for the year up to a certain amount, with unused amounts available to reimburse medical expenses in future years. See IRS Notice 2002-45. A high deductible health plan (HDHP) is a group health plan subject to specific cost-sharing requirements as defined in section 223(c)(2) of the Code.

Line 6a. Indicate the total number of persons offered COBRA continuation coverage under the plan during the plan year.

Line 6b. From the universe of persons listed in line 6a, indicate the number of persons who subsequently elected COBRA coverage. Include any persons who elected coverage after the end of the plan year.

Line 6c. Indicate the number of persons covered under the plan through COBRA continuation coverage at any time during the plan year.

Line 7. Indicate on Line 7a whether the plan received a rebate, reimbursement, or refund from a service provider such as a health insurance issuer, third-party administrator, or pharmacy benefit manager. Include multiple entries if necessary. Include all distributions from service providers including refunds, dividends, demutualization payments, rebates, and excess surplus distributions. Any medical loss ratio (MLR) rebates received pursuant to Section 2718 of the Public Health Service Act must be reported here. Also, include refunds returned to the plan based on low claims experience or termination of a service contract. Do not include dividends or retroactive rate refunds reported on Schedule A, Line 9. If you answer “Yes” to Line 7a, you must complete Line 7b. Complete a separate entry for Lines 7b(1)-(3) for each rebate, reimbursement, or refund, entering in Line 7b(1) the amount(s) and date(s) the rebate(s), reimbursement(s), or refund(s) were received. Check the appropriate box in b(2) to indicate the source and the appropriate box in b(3) to specify how the funds were used or allocated.

Line 8. Indicate whether there were any premium delinquencies during the reporting year. You must answer “Yes” or “No.” Do not leave Line 8a blank. If you answered “Yes,” you must indicate both the number of times delinquent for premiums due but unpaid during the year, and for each delinquency, the number of days delinquent. If you answered “No” to line 8a, check “N/A” on line 8b. If any premium payments that were not made within the time required by the insurance carrier resulted in a lapse of health insurance coverage, you must answer “Yes” to Line 8b even if coverage was retroactively reinstated.

Part II—Service Provider and Stop Loss Insurance Information

Lines 9-13. Enter identifying information for third party administrator/claims processor, including insurance issuers subject to an “administrative services only” (ASO) contract or other agreement that are not reported on Schedule A or Schedule C, mental health benefits managers, substance use disorder benefits managers, pharmacy benefit manager/drug providers, and independent review organizations on the appropriate line. Repeat as many line entries as necessary to report all service providers under each category.

Element (c). If applicable, enter the National Producer Number (NPN) of the service provider in element (c) for each type of service provider. The NPN is a unique NAIC identifier assigned through the licensing application process or the NAIC reporting systems to individuals and business entities (including, but not limited to producers, adjusters, and navigators) engaged in insurance related activities regulated by a state insurance department. The NPN is used to track those individuals and business entities on a national basis.

Line 14. Wellness Program Manager. If there was a wellness program associated with the plan, enter the contact information for the wellness program manager. A “wellness program” is defined in 29 CFR 2590.702(f) to include “any program designed to promote health or prevent disease” and includes programs that condition benefits (including cost-sharing mechanisms) or the premium or employer contribution amounts on an individual satisfying a standard that is related to a health factor as well as those programs that do not include conditions for obtaining a reward that are based on an individual satisfying a standard that is related to a health factor.

Line 15. “Stop Loss” Insurance. If there was stop loss insurance associated with the plan, enter the name and identifying information for the insurance carrier providing the coverage in elements (a)-(c). This includes policies entered into by the plan sponsor for obligations of the plan sponsor to pay benefits under the plan.

Line 15d. Enter the total premium paid to the stop loss provider.

Line 15e. Enter the applicable attachment points for individual claims and aggregate claims. For this purpose, attachment points are the threshold dollar amounts which, when reached, the stop loss coverage begins to pay benefit claims.

Line 15f. Enter any applicable individual and aggregate claim limits at which the stop loss ceases coverage. For example, stop loss coverage may only cover individual claims up to a certain dollar amount or cease paying claims after an aggregate dollar amount is met.

Line 15g. Enter the policy or contract year beginning and end dates for the policy ending with or within the plan year.

Line 15h. Check the box if the employer or plan sponsor is the insured party under the stop-loss policy.

Part III—Financial Information

Note: Form 5500 filers that file Schedule H can skip this section and proceed to Part IV Claims Processing and Payment.

Line 16a. Report the total cash contributions received from employer(s). In the absence of a trust (e.g., where a cafeteria plan elects not to establish a trust in reliance on Technical Release No. 92-01), include employer contributions applied directly to the payment of benefits or expenses attendant to the provision of health benefits.

Line 16b. For accrual basis plans, report the total cash contributions receivable from employer(s).

Line 16c. Report the total cash contributions received from employees, including all elective contributions under a cafeteria plan (Code section 125 arrangement) attendant to the provision of health benefits.

Line 16d. For accrual basis plans, report the total cash contributions receivable from employees, including all receivable elective contributions under a cafeteria plan (Code section 125 arrangement) attendant to the provision of health benefits.

Line 16e. Report other contributions received or receivable, including non-cash contributions, which should be reported at the current value at the date contributed.

Line 16f. Enter the total contributions. Add lines 16a-e.

Line 17. Amounts paid by a participant or beneficiary to an employer and/or withheld by an employer for contribution to the plan are participant contributions that become plan assets as of the earliest date on which such contributions can reasonably be segregated from the employer's general assets (see 29 CFR 2510.3-102). For Schedule J purposes, participant contributions include all elective contributions under a cafeteria plan (Code section 125 arrangement). Indicate whether there was a failure to timely transmit participant contributions to the plan during the filing period. Continue to answer “Yes” for any prior year failures until fully corrected.

Part IV—Health Benefit Claims Processing and Payment

Every employee benefit plan shall establish and maintain reasonable procedures governing the filing of benefit claims, notification of benefit determinations, and appeal of adverse benefit determinations. See 29 CFR 2560.503-1 and 2590.715-2719(a). These questions ask you to quantify the number of benefit claims processed during the year. Unless otherwise instructed, do not provide dollar amounts instead of number of benefit claims processed.

A pre-service benefit claim means any claim for a benefit under a group health plan with respect to which the terms of the plan condition receipt of the benefit, in whole or in part, on approval of the benefit in advance of obtaining medical care and includes urgent care and concurrent care claims.

A post-service benefit claim means any claim for a benefit under a group health plan that is not a pre-service claim and is typically a request for payment that you or your health care provider submits to your health insurer when you get items or services you think are covered.

“Claims Adjudication” is a term used in the insurance industry to refer to the process of paying claims submitted or denying them after comparing claims to the benefit or coverage requirements.

Line 18a(1)-(3). Enter the number of post-service benefit claims submitted during the plan year regardless of whether the claim was approved or denied. Do not include duplicate claims, i.e., claims denied as previously considered. Enter the number of post-service benefit claims paid during the plan year. Enter the number of post-service benefit claims denied during the plan year. Do not include duplicate claims, i.e., denied as previously considered.

Line 18b(1)-(2). Enter the number of post-service benefit claims appealed during the plan year. Then, enter the number of post-service claim denials upheld upon appeal and the number that were payable after appeal.

Line 18c(1)-(2). Enter the number of pre-service benefit claims appealed. Then, enter the number of pre-service claim denials upheld upon appeal and the number that were payable after appeal.

Line 19. Indicate whether there were any pre-service or post-service benefit claims that were not adjudicated within the required time frames. In accordance with 29 CFR 2560.503-1(f)(2)(iii)(A), the plan administrator shall notify the claimant of the plan's benefit determination (whether adverse or not) within a reasonable period of time appropriate to the medical circumstances, but not later than 15 days after the receipt of the claim. In accordance with 29 CFR 2560.503-1(f)(2)(iii)(B) the plan administrator shall notify the claimant of the plan's adverse benefit determination on a post-service claim within a reasonable period of time, but not later than 30 days after receipt of the claim. This period may be extended one time for up to 15 days in circumstances where the delay is beyond the plan's control and the plan notifies the claimant of the extension prior to the expiration of the initial review period of why the extension is needed and the date by which the plan expects to render a decision.

Line 20. Indicate whether, at any time during the year, the group health plan failed to pay benefit claims within one month of being approved for payment. If you answer “Yes,” indicate the number of claims the plan failed to pay, total dollar amount of claims not paid within one (1) month, and the number of claims not paid within three (3) months or longer.

Example. A plan sponsor of an unfunded plan experienced financial difficulty in February and was unable to pay health benefit claims until May. In May, the plan sponsor's revenues increased and claims were paid. The plan must report the number of claims the plan was unable to pay from February to May even though the claims were subsequently paid in May.

Line 21. Enter the total dollar amount of health benefit claims paid during the year. Do not include administrative expenses in the amount of claims paid.

Part V—Compliance Information

Line 22. Trust compliance. Indicate whether all plan assets are maintained consistent with ERISA § 403 and 29 CFR 2550.403a-1 and 2550.403b-1. Pursuant to Technical Release 92-01, the DOL has opted to take a non-enforcement policy with respect to violations resulting solely because of a failure to hold participant contributions in trust in the case of a cafeteria plan described in section 125 of the Internal Revenue Code.

Line 23. General Disclosure Compliance. Indicate whether the following disclosure documents are in compliance with the applicable content requirements:

• Summary plan description (SPD)—See 29 CFR 2520.104b-2.

• Summary of Benefits and Coverage (SBC)—See 29 CFR 2590.715-2715.

• Summary of material modification (SMM)—See 29 CFR 2520.104b-3.

• Summary annual reports (SAR)—See 29 CFR 2520.104b-10(d).

A Reporting and Disclosure Guide for Employee Benefit Plans describing basic reporting and disclosure requirements under ERISA can be found at http://www.dol.gov/ebsa/pdf/rdguide.pdf.

Health Benefit Compliance

Plans that file the Form M-1, skip questions 24-30. Guidance material and additional compliance assistance information that may be helpful in understanding the requirements listed below is available in publications, fact sheets, and frequently asked questions available on EBSA's Web site at www.dol.gov/ebsa. Interested persons may also call and speak to a benefits advisor about these laws, by calling the EBSA toll-free hotline at 1-866-444-3272. A self-auditing tool to determine compliance with Part 7 of Title I of ERISA is available at http://www.dol.gov/ebsa/pdf/cagappa.pdf.

Line 24. HIPAA Compliance. The Health Insurance Portability and Accountability Act of 1996 (Pub. L. 104-191) (HIPAA) amended ERISA to provide for, among other things, improved portability and continuity of health insurance coverage.

Line 25. GINA Compliance. The Genetic Information Nondiscrimination Act of 2008 (Pub. L. 110-233) (GINA) amended ERISA to prohibit the use of genetic information to adjust group premiums or contributions, prohibit the collection of genetic information, and prohibit requesting individuals to undergo genetic testing.

Line 26. Mental Health Parity Compliance. The Mental Health Parity Act of 1996 (Pub. L. 104-204, as amended by Pub. L. 107-116 and Pub. L. 107-147) (MHPA) amended ERISA to provide parity in the application of aggregate lifetime and annual dollar limits for certain mental health benefits with such dollar limits on medical and surgical benefits. The Paul Wellstone and Pete Domenici Mental Health Parity and Addiction Equity Act of 2008 (Pub. L. 110-343) (MHPAEA) amended ERISA by expanding the MHPA rules to cover benefits for substance use disorders, and adding new rules for parity in financial requirements and treatment limitations.

Line 27. Newborns' and Mothers' Health Protection Compliance. The Newborns' and Mothers' Health Protection Act of 1996 (Pub. L. 104-204) (Newborns' Act) amended ERISA to provide new protections for mothers and their newborn children with regard to group health plan coverage of the length of hospital stays in connection with childbirth.

Line 28. Women's Health and Cancer Rights Compliance. The Women's Health and Cancer Rights Act of 1998 (Pub. L. 105-277) (WHCRA) amended ERISA to provide new rights under group health plans for coverage of reconstructive surgery in connection with a mastectomy.

Line 29. Michelle's Law Compliance. Michelle's Law (Pub. L. 110-381) amended ERISA to provide dependent children with protections against termination of group health plan coverage while on a medically necessary leave of absence from a postsecondary educational institution.

Line 30. Affordable Care Act Compliance. The Affordable Care Act amended ERISA to provide a wide range of protections for participants of group health plans. For more information on the Affordable Care Act, see www.dol.gov/ebsa/healthreform.

Form M-1 Compliance Information.

Line 31a. You must answer either “Yes” or “No” to Line 31a. Do not leave the answer blank. If the plan is a multiple employer welfare arrangement or an Entity Claiming Exception (ECE) subject to the Form M-1, Report for Multiple Employer Welfare Arrangements (MEWAs) and Certain Entities Claiming Exception (ECEs) filing requirements, check “Yes” and complete elements 31b and 31c. If the answer is “No,” skip elements 31b and 31c.

Generally, a Form M-1 must be filed each year by March 1st following the calendar year in which a plan operates subject to the Form M-1 filing requirement. (For example, a plan MEWA that was operating in 20XX must file the 20XX Form M-1 annual report by March 1, 20XX+1.) In addition, Form M-1 filings are necessary in the case of certain registration, origination, or special events. See the instructions for Form M-1 at http://www.askebsa.dol.gov/mewa, and 29 CFR 2520.101-2 for more information regarding the Form M-1 filing requirements for plan MEWAs and ECEs.

Line 31b. All plans that answered “Yes” in Line 31a must complete Line 31b by answering either “Yes” or “No.” Do not leave the answer blank if you answered “Yes” in Line 31a.

Line 31c. All plans that answered “Yes” in Line 31a must enter a Receipt Confirmation Code for the 20XX Form M-1 annual report that was required to be filed with the Department of Labor under the Form M-1 filing requirements. The Receipt Confirmation Code is a unique code generated by the Form M-1 electronic filing system. You can find this code under the “completed filings” area when you log into your Form M-1 electronic filing system at http://www.askebsa.dol.gov/mewa. If a plan was not required to file a 20XX Form M-1 annual report, enter the Receipt Confirmation Code for the most recent Form M-1 that was required to be filed under the Form M-1 filing requirements on or before the date of filing the 20XX Form 5500. (For example, if a plan was not required to file a 20XX Form M-1 annual report by March 1, 20XX+1 for the 20XX calendar year because it experienced a registration event between October 1 and December 31, 20XX, and made a timely Form M-1 registration filing, the plan must enter on Line 31c of the 20XX Form 5500 the Receipt Confirmation Code issued for the Form M-1 registration filing.)

If a plan that is subject to the Form M-1 filing requirements was not required to file a 20XX Form M-1 annual report, enter the Receipt Confirmation Code for the most recent Form M-1 that was required to be filed under the Form M-1 filing requirements on or before the date of filing the 20XX Form 5500. (For example, if a plan was not required to file a 20XX Form M-1 annual report by March 1, 20XX for the 20XX calendar year because it experienced a registration event between October 1 and December 31, 20XX, and made a timely Form M-1 registration filing, the plan must provide the Receipt Confirmation Code for the Form M-1 registration filing.)

The failure of a plan required to complete Schedule J to answer Line 31a, and if applicable, lines 31b and 31c, or enter a valid Receipt Confirmation Code in Line 31c, will subject the Form 5500 filing to rejection as incomplete and civil penalties may be assessed pursuant to ERISA Section 502(c)(2) and 29 CFR 2560.502c-2.

20XX Instructions for Schedule MB (Form 5500)—Multiemployer Defined Benefit Plan and Certain Money Purchase Plan Actuarial Information

General Instructions

Who Must File

As the first step, the plan administrator of any multiemployer defined benefit pension plan that is subject to the minimum funding standards (see Code sections 412 and 431 and Part 3 of Title I of ERISA) must obtain a completed Schedule MB (Form 5500) that is prepared and signed by the plan's enrolled actuary as discussed below in the Statement by Enrolled Actuary section. The plan administrator must retain with the plan records the Schedule MB that is prepared and electronically signed by the plan's actuary. The electronic-signature by the plan actuary is acceptable. The plan actuary can access the EFAST2 Web site at www.efast.dol.gov to register for electronic credentials to sign.

The plan administrator of a multiemployer defined benefit pension plan must ensure that the information from the actuary's Schedule MB is entered electronically into the annual return/report being submitted. When entering the information, whether using EFAST2-approved software or EFAST2's web-based filing system, all the fields required for the type of plan must be completed (see instructions for fields that need to be completed).

Further, if a plan actuary chooses not to sign electronically, then the actuary must manually sign the Schedule MB and an electronic reproduction must be filed with the Form 5500. The plan administrator of a multiemployer defined benefit pension plan must attach to the Form 5500 an electronic reproduction of the Schedule MB prepared and signed by the plan's enrolled actuary. This electronic reproduction must be labeled “MB Actuary Signature” and must be included as a Portable Document Format (PDF) attachment or any alternative electronic attachment allowable under EFAST2.

If a money purchase defined contribution pension plan (including a target benefit plan) has received a waiver of the minimum funding standard, and the waiver is currently being amortized, lines 3, 9, and 10 of Schedule MB must be completed but it need not be signed by an enrolled actuary. In such a case, the Form 5500 or the Form 5500-SF that is submitted under EFAST2 must include the Schedule MB with lines 3, 9, and 10 completed, but is not required to include a signed Schedule MB.

Note. Schedule MB does not have to be filed with the Form 5500-EZ, but, if required, it must be retained (in accordance with the instructions for Form 5500-EZ under the What to File section). Similarly, if a plan is a one-participant plan that meets the requirements for filing a Form 5500-EZ, but a Form 5500-SF is instead filed for the plan, the Schedule MB, if required, does not have to be filed with the Form 5500-SF, but it must be retained (in accordance with the instructions for the Form 5500-SF under Schedule MB in the Specific Instructions Only for “One-Participant Plans and Certain Foreign Plans” section). Also, the funding standard account for the plan must continue to be maintained, even if the Schedule MB is not filed.

Check the Schedule MB box on the Form 5500 (Part II, Line 10a(2)) if a Schedule MB is attached to the Form 5500.

Lines A through E must be completed for ALL plans. If the Schedule MB is attached to a Form 5500 or Form 5500-SF, Lines A, B, C, and D should include the same information as reported in Part II of the Form 5500 or Form 5500-SF. You may abbreviate the plan name.

Do not use a social security number in Line D in lieu of an EIN. The Schedule MB and its attachments are open to public inspection if filed with a Form 5500 or Form 5500-SF, and the contents are public information and are subject to publication on the Internet. Because of privacy concerns, the inclusion of a social security number or any portion thereof on this Schedule MB or any of its attachments may result in the rejection of the filing.

You can apply for an EIN from the IRS online, by telephone, by fax, or by mail depending on how soon you need to use the EIN. For more information, see Section 3: Electronic Filing Requirement under the General Instructions to Form 5500 and How to File—Electronic Filing Requirement under the General Instructions to Form 5500-SF. The EBSA does not issue EINs.

Note. (1) For split-funded plans, the costs and contributions reported on Schedule MB must include those relating to both trust funds and insurance carriers. (2) For plans with funding standard account amortization charges and credits, see the instructions for lines 9c and 9h. (3) For terminating multiemployer plans, Code section 412(e)(4) and ERISA section 301(c) provide that minimum funding standards apply until the last day of the plan year in which the plan terminates within the meaning of section 4041A(a)(2) of ERISA. Accordingly, the Schedule MB is not required to be filed for any later plan year.

Statement by Enrolled Actuary

An enrolled actuary must sign Schedule MB with either an electronic signature or a handwritten signature unless, as described above, the plan is a money purchase defined contribution pension plan that has received a waiver of the minimum funding standard. The signature of the enrolled actuary may be qualified to state that it is subject to attached qualifications. See Treasury Regulations section 301.6059-1(d) for permitted qualifications. Except as otherwise provided in these instructions, a stamped or machine produced signature is not acceptable. If the actuary has not fully reflected any final or temporary regulation, revenue ruling, or notice promulgated under the statute in completing the Schedule MB, check the box on the last line of page 1. If this box is checked, indicate on this line whether an accumulated funding deficiency or a contribution that is not wholly deductible would result if the actuary had fully reflected such regulation, revenue ruling, or notice. In addition, the actuary may offer any other comments related to the information contained in Schedule MB.

The actuary must provide the completed and signed Schedule MB and transmit it to the plan administrator to be retained with the plan records and included (in accordance with these instructions) with the Form 5500 Annual Return/Report that is submitted under EFAST2. The plan's actuary is permitted to electronically sign the Schedule MB or sign on page one using the actuary's signature or by inserting the actuary's typed name in the signature line followed by the actuary's handwritten initials. The actuary's most recent enrollment number must be entered on the Schedule MB that is prepared and signed by the plan's actuary.

Attachments

All attachments to the Schedule MB must be properly identified, and must include the name of the plan, the plan sponsor's EIN, and the plan number. Put “Schedule MB” and the line number to which the attachment relates at the top of each attachment. Do not include attachments that contain a visible social security number. The Schedule MB and its attachments are open to public inspection, and the contents are public information and are subject to publication on the Internet. Because of privacy concerns, the inclusion of a visible social security number or any portion thereof on an attachment may result in the rejection of the filing.

Specific Instructions

Line 1. All entries must be reported as of the valuation date.

Line 1a. Actuarial Valuation Date. The valuation for a plan year may be as of any date in the plan year, including the first or last day of the plan year. Valuations must be performed within the period specified by Code section 431(c)(7) and ERISA section 304(c)(7).

Line 1b(1). Current Value of Assets. Enter the current value of assets as of the valuation date. The current value is the same as the fair market value. Do not adjust for items such as the existing credit balance or the outstanding balances of certain amortization bases. Contributions designated for 20XX should not be included in this amount. Note that this entry may be different from the entry in Line 2a. Such a difference may result, for example, if the valuation date is not the first day of the plan year, or if insurance contracts are excluded from assets reported on Line 1b(1) but not on Line 2a.

Rollover amounts or other assets held in individual accounts that are not available to provide defined benefits under the plan should not be included on Line 1b(1), regardless of whether they are reported on the 20XX Schedule H (Form 5500) (Line 1I, column (a)). Additionally, asset and liability amounts must be determined in a consistent manner. Therefore, if the value of any insurance contracts have been excluded from the amount reported on Line 1b(1), liabilities satisfied by such contracts should also be excluded from the liability values reported on Lines 1c(1), 1c(2), and 1d(2) of the Schedule MB.

Line 1b(2). Actuarial Value of Assets. Enter the value of assets determined in accordance with Code section 431(c)(2) and ERISA section 304(c)(2). Do not adjust for items such as the existing credit balance or the outstanding balances of certain amortization bases, and do not include contributions designated for 20XX in this amount.

Line 1c(1). Accrued Liability for Immediate Gain Methods. Complete this line only if you use an immediate gain method (see Rev. Rul. 81-213, 1981-2 C.B. 101, for a definition of immediate gain method).

Lines 1c(2)(a), (b), and (c). Information for Plans Using Spread Gain Methods. Complete these lines only if you use a spread gain method (see Rev. Rul. 81-213 for a definition of spread gain method).

Line 1c(2)(a). Unfunded Liability for Methods with Bases. Complete this line only if you use the frozen initial liability or attained age normal cost method.

Lines 1c(2)(b) and (c). Entry Age Normal Accrued Liability and Normal Cost. For spread gain methods, these calculations are used for purposes of the full funding limitation (see Rev. Rul. 81-13, 1981-1 C.B. 229).

Line 1d(1). Amount Excluded from Current Liability. Leave Line 1(d)(1) blank.

Line 1d(2)(a). Current Liability. All multiemployer plans, regardless of the number of participants, must provide the information indicated in accordance with these instructions. The interest rate used to compute the current liability must be in accordance with guidelines issued by the IRS and, pursuant to the Pension Protection Act of 2006 (PPA), must not be more than 5 percent above and must not be more than 10 percent below the weighted average of the rates of interest, as set forth by the Treasury Department, on 30-year Treasury securities during the 4-year period ending on the last day before the beginning of the 20XX plan year.

The current liability must be computed using the mortality tables referenced in section 1.431(c)(6)-1 of the Treasury Regulations.

Each other actuarial assumption used in calculating the current liability must be the same assumption used for calculating other costs for the funding standard account. See Notice 90-11, 1990-1 C.B. 319. The actuary must take into account rates of early retirement and the plan's early retirement and turnover provisions as they relate to benefits, where these would significantly affect the results. Regardless of the valuation date, current liability is computed taking into account only credited service through the end of the prior plan year. No salary scale projections should be used in these computations. Do not include the expected increase in current liability due to benefits accruing during the plan year reported on Line 1d(2)(b) in these computations.

Line 1d(2)(b). Expected Increase in Current Liability. Enter the amount by which the current liability is expected to increase due to benefits accruing during the plan year on account of credited service and/or salary changes for the current year. One year's salary scale may be reflected.

Line 1d(2)(c). Expected Release From Current Liability for the Plan Year. Enter the expected release from current liability on account of disbursements (including single-sum distributions) from the plan expected to be paid after the valuation date but prior to the end of the plan year (see also Q&A-7 of Rev. Rul. 96-21, 1996-1 C.B. 64).

Line 1d(3). Expected Plan Disbursements. Enter the amount of plan disbursements expected to be paid for the plan year.

Line 2. All entries must be reported as of the beginning of the 20XX plan year. Lines 2a and 2b should include all assets and liabilities under the plan except for assets and liabilities attributable to: (1) rollover amounts or other amounts in individual accounts that are not available to provide defined benefits, or (2) benefits for which an insurer has made an irrevocable commitment as defined in 29 CFR 4001.2.

Line 2a. Current Value of Assets. Enter the current value of net assets as of the first day of the plan year. Except for plans with excluded assets as described above, this entry should be the same as reported on the 20XX Schedule H (Form 5500) (line 1l, column (a)). Note that contributions designated for the 20XX plan year are not included on those lines.

Line 2b. Current Liability (beginning of plan year). Enter the current liability as of the first day of the plan year. Do not include the expected increase in current liability due to benefits accruing during the plan year. See the instructions for Line 1d(2)(a) for actuarial assumptions used in determining current liability.

Column (1)—Enter the number of participants and beneficiaries as of the beginning of the plan year. If the current liability figures are derived from a valuation that follows the first day of the plan year, the participant and beneficiary count entries should be derived from the counts used in that valuation in a manner consistent with the derivation of the current liability reported in column (2).

Column (2)—Include the current liability attributable to all benefits, with subtotals for vested and nonvested benefits in the case of active participants.

Line 2c. This calculation is required under ERISA section 103(d)(11). Do not complete if Line 2a divided by Line 2b(4), column (2), is 70% or greater.

Line 3. Contributions Made to Plan. Show all employer contribution amounts (column b), withdrawal liability payments (column c) and employee contribution amounts (column d) for the plan year. Employer contribution amounts should not include withdrawal liability payments which should be reported separately. Include employer contribution amounts and withdrawal liability payments made not later than 2½ months (or the later date allowed under Code section 431(c)(8) and ERISA section 304(c)(8)) after the end of the plan year. Show only contribution amounts and withdrawal liability payments actually made to the plan by the date this Schedule MB is signed.

Add the amounts in columns (b), (c) and (d) and enter the results on the total line. All contribution amounts and withdrawal liability payments must be credited toward a particular plan year.

Line 4. Information on Plan Status. All multiemployer plans regardless of the number of participants must provide the information indicated in accordance with these instructions.

Line 4a. All plans enter the funded percentage for monitoring the plan's status. This is Line 1b(2) divided by Line 1c(3).

Line 4b. Enter the code for the status of the multiemployer plan for the plan year, as certified by the plan actuary (or as elected by the plan sponsor in accordance with Code section 432(b)(4)(A) and ERISA section 305(b)(4)(A)), using one of the following codes:

Code Plan Status

E Endangered Status

S Seriously Endangered Status

C Critical Status

D Critical and Declining Status

N Not in Endangered or Critical Status

If the plan is certified to be in endangered status, seriously endangered status, critical status, or critical and declining status, attach a copy of the actuarial certification of such status to this Schedule MB. Also attach an illustration showing the details (including year-by-year cash flow projections demonstrating the solvency of the plan over the relevant period if the plan is certified as being in critical and declining status) providing support for the actuarial certification of status and label the illustration “Schedule MB, Line 4b—Illustration Supporting Actuarial Certification of Status.” For example, if a plan is certified as being in critical status based on Code section 432(b)(2)(B), show the funded percentage (if applicable) and the projection of the funding standard account for the year in which the accumulated funding deficiency occurs. All supporting documentation should include descriptions of the assumptions used.

Line 4c. If, in the plan year in which the Schedule MB is filed, a certification was required to be made under Code section 432(b)(3)(A)(ii) and ERISA section 305(b)(3)(A)(ii) with respect to scheduled progress during the plan year for which the Schedule MB is filed, check “Yes” or “No” to reflect the certification. Attach documentation comparing the current status of the plan to the scheduled progress under the applicable funding improvement or rehabilitation plan to this Schedule MB. Label the documentation “Schedule MB, Line 4c—Documentation Regarding Progress Under Funding Improvement or Rehabilitation Plan.”

Lines 4d and 4e. If Code C (Critical Status) or Code D (Critical and Declining Status) was entered on Line 4b, an entry on line 4d is required. For purposes of Lines 4d and 4e, in determining whether benefits have been reduced, only adjustable benefits that would otherwise be protected under Code section 411(d)(6) and ERISA section 204(g) are taken into account if the plan is certified as in critical status. Plans that are certified as being in critical and declining status should determine whether benefits have been reduced, including all benefits that were adjusted (only adjustable benefits that would otherwise be protected under Code section 411(d)(6) and ERISA section 204(g) are taken into account), any benefits that have been suspended under Code section 432(e)(9), and any benefit reductions due to partition under ERISA section 4233. For a plan that has benefits suspended under Code section 432(e)(9) and/or partitioned under ERISA section 4233, attach a full description of the transaction and label the attachment “Schedule MB, Lines 4d and 4e—Description of Benefit Reductions Due to Suspension or Partition.” In addition, only benefit reductions that are first reflected in Line 1c(3) for the current year's Schedule MB should be reported, and this amount should not include any amounts previously reported on any prior year's Schedule MB.

Line 4f. If Code C (Critical Status) or Code D (Critical and Declining Status) was entered on Line 4b you must complete Line 4f. If the rehabilitation plan projects emergence from critical status or critical and declining status, enter the plan year in which the plan is projected to emerge. If the rehabilitation plan is based on forestalling possible insolvency, check the box provided and enter the plan year in which the insolvency is expected.

Line 5. Actuarial Cost Method. Enter the primary method used. If the plan uses one actuarial cost method in one year as the basis of establishing an accrued liability for use under the frozen initial liability method in subsequent years, answer as if the frozen initial liability method was used in all years. The projected unit credit method is included in the “Accrued benefit (unit credit)” category of Line 5c. If a method other than a method listed on Lines 5a through 5g is used, check the box for Line 5i and specify the method. For example, if a modified individual level premium method for which actuarial gains and losses are spread as a part of future normal cost is used, check the box for 5i and describe the cost method.

Check the appropriate box for the underlying actuarial cost method used as the basis for this plan year's funding standard account computation. If box 5h is checked, enter the period of use of the shortfall method in Line 5j. For this purpose, enter the calendar year (YY) which includes the first day of the plan year in which the shortfall method was first used.

Changes in funding methods include changes in actuarial cost method, changes in asset valuation method, and changes in the valuation date of plan costs and liabilities or of plan assets. Changes in the funding method of a plan include not only changes to the overall funding method used by the plan, but also changes to each specific method of computation used in applying the overall method. Generally, these changes require IRS approval. If the change was made pursuant to Rev. Proc. 2000-40, 2000-2 C.B. 357, or pursuant to other automatic approval (such as the Preservation of Access to Care for Medicare Beneficiaries and Pension Relief Act of 2010 (PRA 2010), Pub. L. 111-192), check “Yes” for Line 5l. If approval was granted for this plan by either an individual ruling letter or a class ruling letter, enter the date of the applicable ruling letter in Line 5m. Note that the plan sponsor's agreement to certain changes in funding methods should be reported on Line 9 of Schedule R (Form 5500).

Shortfall Method: Only certain plans may elect the shortfall funding method (see Treasury Regulations section 1.412(c)(1)-2). Advance approval from the IRS for the election of the shortfall method of funding is NOT required if it is first adopted for the first plan year to which Code section 412 applies. In addition, pursuant to PPA section 201(b), a plan does NOT need advance approval from the IRS to adopt or cease using the shortfall method if the plan (1) has not adopted or ceased using the shortfall method during the 5-year period ending on the day before the date the plan is to use the method, and (2) is not operating under an amortization period extension and did not operate under such an extension during such 5-year period. In such a case, check “Yes” for Line 5l. If a plan utilizes this automatic approval to apply the shortfall method, the benefit increase limitations of Code section 412(c)(7) apply.

If a plan is not eligible for automatic approval as set forth in the preceding paragraph, advance approval from the IRS is required if the shortfall funding method is adopted at a later time, if a specific computation method is changed, or if the shortfall method is discontinued. In such a case there is no automatic limitation on benefit increases.

Line 6. Actuarial Assumptions. If gender-based assumptions are used in developing plan costs, enter those rates where appropriate in Line 6. Note that requests for gender-based cost information do not suggest that gender-based benefits are legal. If unisex tables are used, enter the values in both “Male” and “Female” lines. Check “N/A” for Line 6b if the question is not applicable.

Attach a statement of actuarial assumptions (if not fully described by Line 6) and actuarial methods used to calculate the figures shown in Lines 1 and 9 (if not fully described by Line 5), and label the statement “Schedule MB, Line 6—Statement of Actuarial Assumptions/Methods.” The statement must describe all actuarial assumptions used to determine the liabilities. For example, the statement for non-traditional plans (e.g., cash balance plans) must include the assumptions used to convert balances to annuities.

Also attach a summary of the principal eligibility and benefit provisions on which the valuation was based, including the status of the plan (e.g., eligibility frozen, service/pay frozen, benefits frozen), optional forms of benefits, special plan provisions, including those that apply only to a subgroup of employees (e.g., those with imputed service), supplemental benefits, an identification of benefits not included in the valuation (e.g., shutdown benefits), a description of any significant events that occurred during the year, a summary of any changes in principal eligibility or benefit provisions since the last valuation, a description (or reasonably representative sample) of plan early retirement factors, and any change in actuarial assumptions or cost methods and justifications for any such change (see section 103(d) of ERISA). Label the summary “Schedule MB, Line 6—Summary of Plan Provisions.”

Line 6a. Current Liability Interest Rate. Enter the interest rate used to determine current liability. The interest rate used must be in accordance with the guidelines issued by the IRS and, pursuant to PPA, must not be more than 5 percent above and must not be more than 10 percent below the weighted average of the rates of interest, as set forth by the Treasury Department, on 30-year Treasury securities during the 4-year period ending on the last day before the beginning of the 20XX plan year. Enter the rate to the nearest .01 percent.

Line 6b. Check “Yes,” if the rates in the contract were used (e.g., purchase rates at retirement).

Line 6c. Mortality Table. The mortality table published in section 1.431(c)(6)-1 of the Treasury Regulations must be used in the calculation of current liability for non-disabled lives. Enter the mortality table code for non-disabled lives used for valuation purposes as follows:

Mortality Table | Code
1951 Group Annuity | 1
1971 Group Annuity Mortality (G.A.M.) | 2
1971 Individual Annuity Mortality (I.A.M.) | 3
UP-1984 | 4
1983 I.A.M | 5
1983 G.A.M | 6
1983 G.A.M. (solely per Rev. Rul. 95-28) | 7
UP-1994 | 8
Mortality table applicable to current plan year under section 1.431(c)(6)-1 of the Income Tax Regulations | 9
RP-2000 | 10
RP-2000 (with Blue Collar Adjustment) | 11
Other | A
None | 0

Code 6 includes all sex-distinct versions of the 1983 G.A.M. table other than the table published in Rev. Rul. 95-28, 1995-1 C.B. 74. Thus, for example, Code 6 also would include the 1983 G.A.M. male-only table used for males, where the 1983 G.A.M. male-only table with a 6-year setback is used for females. Code A includes mortality tables other than those listed in Codes 1 through 9, including any unisex version of the 1983 G.A.M. table.

Where an indicated table consists of separate tables for males and females, add F to the female table (e.g., 1F). When a projection is used with a table, follow the code with “P” and the year of projection (omit the year if the projection is unrelated to a single calendar year); the identity of the projection scale should be omitted. When an age setback or set forward is used, indicate with “−” or “+” and the number of years. For example, if for females the 1951 Group Annuity Table with Projection C to 1971 is used with a 5-year setback, enter “1P71-5.” If the table is not one of those listed, enter “A” with no further notation. If the valuation assumes a maturity value to provide the post-retirement income without separately identifying the mortality, interest and expense elements, enter on Line 6c, under “Post-retirement,” the value of $1.00 of monthly pension beginning at the plan's weighted average retirement age, assuming the normal form of annuity for an unmarried person. In such a case, leave Lines 6d and 6e blank.

Line 6d. Valuation Liability Interest Rate. Enter the assumption as to the expected interest rate (investment return) used to determine all the calculated values except for current liability. If the assumed rate varies with the year, enter the weighted average of the assumed rate for 20 years following the valuation date. Enter rates to the nearest .01 percent.

Line 6e. Expense Loading. If there is no expense loading, check the “N/A” boxes under “Pre-retirement” and “Post-retirement”. For instance, there would be no expense loading attributable to investments if the rate of investment return on assets is adjusted to take investment expenses into account. If there is a single expense loading not separately identified as pre-retirement or post-retirement, enter it under “Pre-retirement” and check the “N/A” box under “Post-Retirement.” Where expenses are assumed other than as a percentage of plan costs or liabilities, enter the assumed pre-retirement expense as a percentage of the plan's normal cost, and enter the post-retirement expense as a percentage of plan liabilities. If the normal cost of the plan is zero, enter the assumed pre-retirement expense as a percentage of the sum of Lines 9c(1), 9c(2), and 9c(3), minus Line 9h. Enter rates to the nearest .1 percent.

Line 6f. Salary Scale. If a uniform level annual rate of salary increase is used, enter that annual rate. Otherwise, enter the level annual rate of salary increase that is equivalent to the rate(s) of salary increase used. Enter the annual rate as a percentage to the nearest .01 percent, used for a participant from age 25 to assumed retirement age. If the plan's benefit formula is not related to compensation, check the “N/A” box.

Line 6g. Estimated Investment Return—Actuarial Value. Enter on Line 6g(1) the estimated rate of return on the actuarial value of plan assets for the 1-year period ending on the valuation date. For this purpose, the rate of return is determined by using the formula 2I/(A + B−I), where I is the dollar amount of the investment return under the asset valuation method used for the plan, A is the actuarial value of the assets one year ago, and B is the actuarial value of the assets on the current valuation date. Enter rates to the nearest .1 percent. If entering a negative number, enter a minus sign (“−”) to the left of the number.

Note. Use the above formula even if the actuary feels that the result of using the formula does not represent the true estimated rate of return on the actuarial value of plan assets for the 1-year period ending on the valuation date. The actuary may attach a statement showing both the actuary's estimate of the rate of return and the actuary's calculations of that rate, and label the statement “Schedule MB, Line 6g—Estimated Rate of Investment Return (Actuarial Value).” Check the box on Line 6g(2) if a statement is attached.

Line 6h. Estimated Investment Return—Current (Market) Value. Enter on Line 6h(1) the estimated rate of return on the current value of plan assets for the 1-year period ending on the valuation date. (The current value is the same as the fair market value—see Line 1b(1) instructions.) For this purpose, the rate of return is determined by using the formula 2I/(A + B−I), where I is the dollar amount of the investment return, A is the current value of the assets one year ago, and B is the current value of the assets on the current valuation date. Enter rates to the nearest .1 percent. If entering a negative number, enter a minus sign (“−”) to the left of the number.

Note. Use the above formula even if the actuary feels that the result of using the formula does not represent the true estimated rate of return on the current value of plan assets for the 1-year period ending on the valuation date. The actuary may attach a statement showing both the actuary's estimate of the rate of return and the actuary's calculations of that rate, and label the statement “Schedule MB, Line 6h—Estimated Rate of Investment Return (Current Value).” Check the box on Line 6h(2) if a statement is attached.

Line 7. Schedule of Amortization Bases Established. List all amortization bases established in the current or prior plan years that have an outstanding balance as of the valuation date for the current plan year. Use the following table to indicate the type of base established and enter the appropriate code under “Type of base.” List amortization bases and charges and/or credits as of the valuation date. Bases that are considered fully amortized because there is a credit for the plan year on Line 9j(3) should be listed. If entering a negative number, enter a minus sign (“−”) to the left of the number.

Code Type of Amortization Base

1 Experience gain or loss

2 Shortfall gain or loss

3 Change in unfunded liability due to plan amendment

4 Change in unfunded liability due to change in actuarial assumptions

5 Change in unfunded liability due to change in actuarial cost method

6 Waiver of the minimum funding standard

7 Initial unfunded liability (for new plan)

Line 8a and 8d. Funding Waivers or Extensions. If a funding waiver or extension request is approved after the Schedule MB is filed, an amended Schedule MB must be filed with Form 5500 to report the waiver or extension approval (also see instructions for Line 9k(1)).

Line 8b(1)(a). Schedule of Projection of Expected Benefit Payments. Check “Yes” only if this is a multiemployer plan covered by Title IV of ERISA that has 500 or more total participants as of the valuation date.

Line 8b(1)(b). If Line 8b(1)(a) is “Yes,” on Line 8b(1)(b), provide a projection of benefits expected to be paid for the entire plan (not to include expected expenses) in each of the next ten years starting with the current plan year of this filing assuming (1) no additional accruals, (2) experience (e.g., termination, mortality, and retirement) are in line with valuation assumptions, and (3) no new entrants are covered by the plan.

Line 8b(2)(a). Schedule of Active Participant Data. Check “Yes” on Line 8b(2)(a) only if this is a multiemployer plan covered by Title IV of ERISA that has active participants. If Line 8(2)(a) is “Yes,” complete the schedule in Line 8b(2)(b) with the active plan participant data used in the valuation for this plan year and enter the average age and average credited service of the active participants as of the valuation date on Lines 8b(2)(c) and 8b(2)(d), respectively.

Include all active participants in the averages, even ones that are not required to be shown in the schedule under the instructions below.

For each column, enter the number of active participants with the specified number of years of credited service divided according to age group. For participants with partial years of credited service, round the total number of years of credited service to the next lower whole number. Years of credited service are the years credited under the plan's benefit formula.

Plans reporting 1,000 or more active participants on Line 2b(3)(c), column (1), and using compensation to determine benefits, must also provide average compensation data. For each grouping, enter the average compensation of the active participants in that group. For this purpose, compensation is the compensation taken into account for each participant under the plan's benefit formula, limited to the amount defined under section 401(a)(17) of the Code. Do not enter the average compensation in any grouping that contains fewer than 20 participants.

Cash balance plans (or any similar plans) reporting 1,000 or more active participants on Line 2b(3)(c), column (1), must also provide average cash balance account data, regardless of whether all active participants have cash balance accounts. For each age/service bin, enter the average cash balance account of the active participants in that bin. Do not enter the average cash balance account in any age/service bin that contains fewer than 20 active participants.

General Rule. In general, data to be shown in each age/service bin includes:

1. the number of active participants in the age/service bin,

2. the average compensation of the active participants in the age/service bin, and

3. the average cash balance account of the active participants in the age/service bin, using $0 for anyone who has no cash balance account-based benefit.

If the accrued benefit is the greater of a cash balance benefit or some other benefit, average in only the cash balance account. If the accrued benefit is the sum of a cash balance account benefit and some other benefit, average in only the cash balance account. For both the average compensation and the average cash balance account, do not enter an amount for age/service bins with fewer than 20 active participants.

In lieu of the above, two alternatives are provided for showing compensation and cash balance accounts. Each alternative provides for two age/service scatters (one showing compensation and one showing cash balance accounts) as follows:

Alternative A:

• Scatter 1—Provide participant count and average compensation for all active participants, whether or not participants have account-based benefits.

• Scatter 2—Provide participant count and average cash balance account for all active participants, whether or not participants have account-based benefits.

Alternative B:

• Scatter 1—Provide participant count and average compensation for all active participants, whether or not participants have account-based benefits (i.e., identical to Scatter 1 in Alternative A).

• Scatter 2—Provide participant count and average cash balance account for only those active participants with account based benefits. If the number of participants with account-based benefits in a bin is fewer than 20, the average account should not be shown even if there are more than 20 active participants in this bin on Scatter 1.

In general, information should be determined as of the valuation date. Average cash balance accounts may be determined as of either:

1. the valuation date or

2. the day immediately preceding the valuation date.

Average cash balance accounts that are offset by amounts from another plan may be reported either as amounts prior to taking into account the offset or as amounts after taking into account the offset. Do not report the offset amount. For this or any other unusual or unique situation, the attachment should include an explanation of what is being provided.

Line 8b(3)(a). Schedule of Retired Participants and Beneficiaries Receiving Payment Data. Check “Yes” only if this is a multiemployer plan covered by Title IV of ERISA that has retired participants and beneficiaries. If Line 8b(3)(a) is “Yes,” complete the schedule in Line 8b(3)(b) with the retired plan participant and beneficiaries receiving payment data used in the valuation for this plan year and enter the average age and average in-pay annual benefit as of the valuation date of the retired participants and beneficiaries on Lines 8b(3)(c) and 8b(3)(d), respectively. Do not report average annual in-pay benefit information for age brackets where there are 10 or less retired participants and beneficiaries receiving payment in the average.

Line 8b(4)(a). Schedule of Terminated Vested Participant Data. Check “Yes” only if this is a multiemployer plan covered by Title IV of ERISA that has terminated vested participants. If Line 8b(4)(a) is “Yes,” complete the schedule in Line 8b(4)(b) with the terminated vested participant data used in the valuation for this plan year and enter the average age and average annual benefit as of the valuation date of the terminated vested participants in Line 8b(4)(c) and 8b(4)(d), respectively. Do not report average annual benefit information for age brackets where there are 10 or less terminated vested participants in the average. Include the assumed form of payment and the assumed first age of payment in Lines 8b(4)(e) and 8b(4)(f), respectively, for the benefit amounts shown in the schedule.

Line 9. Shortfall Method. Under the shortfall method of funding, the normal cost in the funding standard account is the charge per unit of production (or per unit of service) multiplied by the actual number of units of production (or units of service) that occurred during the plan year. Each amortization installment in the funding standard account is similarly calculated.

Line 9c. Amortization Charges. The outstanding balance and amortization charges and credits must be calculated as of the valuation date for the plan year. Line 9c(3) should only include information related to the amortization bases extended and amortized using the interest rate under section 6621(b) of the Code.

Line 9d. Interest as Applicable. Interest as applicable should be charged to the last day of the plan year.

Line 9f. Note that the credit balance or funding deficiency at the end of “Year X” should be equal to the credit balance or funding deficiency at the beginning of “Year X+1.” If such credit balances or funding deficiencies are not equal, check the box on Line 9f(2), attach an explanation and label the attachment “Schedule MB, Line 9f—Explanation of Prior Year Credit Balance/Funding Deficiency Discrepancy.” For example, if the difference is because contributions for a prior year that were not previously reported are received this plan year, attach a listing of the amounts and dates of such contributions. As another example, if the difference is due to the application of funding relief under the Preservation of Access to Care for Medicare Beneficiaries and Pension Relief Act of 2010 (PRA 2010), Pub. L. 111-192, the attachment should show how the information on the Schedule MB filed for any previous plan year would have differed if it had reflected application of the special funding relief in accordance with published guidance (to the extent that the plan sponsor has applied the special funding relief).

Line 9h. Amortization Credits. The outstanding balance and amortization credits must be calculated as of the valuation date.

Line 9j(1). ERISA Full Funding Limitation. Instructions for this line are reserved pending published guidance.

Line 9j(2). “RPA '94” Override. Instructions for this line are reserved pending published guidance.

Line 9j(3). Full Funding Credit. Enter the excess of (1) the accumulated funding deficiency, disregarding the credit balance and contributions for the current year, if any, over (2) the greater of Lines 9j(1) or 9j(2).

Line 9k(1). Waived Funding Deficiency Credit. Enter a credit for a waived funding deficiency for the current plan year (Code section 431(b)(3)(C)). If a waiver of a funding deficiency is pending, report a funding deficiency. If the waiver is granted after Form 5500 or Form 5500-SF is filed, file an amended Form 5500 or Form 5500-SF, as applicable, with an amended Schedule MB to report the funding waiver (see Amended Return/Report in the instructions for Form 5500 or Line B—Box for Amended Return/Report in the instructions for Form 5500-SF, as applicable).

Line 9k(2). Other Credits. Enter a credit in the case of a plan for which the accumulated funding deficiency is determined under the funding standard account if such plan year follows a plan year for which such deficiency was determined under the alternative minimum funding standard.

Line 9o. Reconciliation Account. The reconciliation account is made up of those components that upset the balance equation of Treasury Regulations section 1.412(c)(3)-1(b). Valuation assets must not be adjusted by the reconciliation account balance when computing the required minimum funding.

Line 9o(1). This amount is equal to the prior year's accumulated reconciliation amount due to prior waived funding deficiencies, increased with interest at the valuation rate to the current valuation date.

Line 9o(2)(a). If an amortization extension is being amortized at an interest rate that differs from the valuation rate, enter the prior year's “reconciliation amortization extension outstanding balance,” increased with interest at the valuation interest rate to the current valuation date, and decreased by the year end amortization amount based on the amortization interest rate from the prior plan year.

Line 9o(3). Enter the sum of Lines 9o(1) and 9o(2)(b) (each adjusted with interest at the valuation rate to the current valuation date, if necessary).

Note. The net outstanding balance of amortization charges and credits minus the prior year's credit balance minus the amount on Line 9o(3) (each adjusted with interest at the valuation rate, if necessary) must equal the unfunded liability.

Line 10. Contribution Necessary to Avoid Deficiency. Enter the amount from Line 9n. If applicable, file IRS Form 5330, Return of Excise Taxes Related to Employee Benefit Plans, with the IRS to pay the excise tax on the funding deficiency. There is a penalty for not filing the Form 5330 on time.

Line 11. In accordance with ERISA section 103(d)(3), attach a justification for any change in actuarial assumptions for the current plan year and label the attachment—“Schedule MB, Line 11—Justification for Change in Actuarial Assumptions.”

20XX Instructions for Schedule R (Form 5500) (Retirement Plan Information)

General Instructions

Purpose of Schedule

Schedule R (Form 5500) reports certain information on retirement plan distributions, funding, nondiscrimination, coverage, and the adoption of amendments, as well as certain information on single-employer and multiemployer defined benefit pension plans.

Electronic Attachments. All attachments to Schedule R must be properly identified, must include the name of the plan, plan sponsor's EIN, and plan number. Place “Schedule R” and the Schedule R line number at the top of each attachment to identify the information to which the attachment relates. Do not include attachments that contain a visible social security number. The Schedule R and its attachments are open to public inspection, and the contents are subject to publication on the Internet. Because of privacy concerns, the inclusion of a visible social security number or any portion thereof on an attachment may result in the rejection of the filing.

Who Must File

Schedule R must be attached to a Form 5500 filed for both tax-qualified and nonqualified pension benefit plans. The parts of Schedule R that must be completed depend on whether the plan is subject to the minimum funding standards of Code section 412 or ERISA section 302 and the type of plan. See line item requirements under Specific Instructions for more details.

Exceptions: Schedule R should not be completed when the Form 5500 Annual Return/Report is filed for a pension plan that uses, as the sole funding vehicle for providing benefits, individual retirement accounts or annuities (as described in Code section 408). See the Form 5500 Annual Return/Report instructions for Limited Pension Plan Reporting for more information.

Check the Schedule R box on the Form 5500 (Part II, Line 10a(1)) if a Schedule R is attached to the Form 5500.

Specific Instructions

Lines A, B, C, and D. This information must be the same as reported in Part II of the Form 5500 to which this Schedule R is attached.

Do not use a social security number in Line D instead of an EIN. Schedule R and its attachments are open to public inspection, and the contents are public information and are subject to publication on the Internet. Because of privacy concerns, the inclusion of a social security number or any portion thereof on Schedule R or any of its attachments may result in the rejection of the filing.

You can apply for an EIN from the IRS online, by telephone, by fax, or by mail depending on how soon you need to use the EIN. For more information, see Section 3: Electronic Filing Requirement. The EBSA does not issue EINs.

“Participant” for purposes of Schedule R, means any present or former employee who at any time during the plan year had an accrued benefit in the plan (account balance in a defined contribution pension plan).

Part I—Distributions

“Distribution” includes only payments of benefits during the plan year, in cash, in kind, by purchase for the distributee of an annuity contract from an insurance company, or by distribution of life insurance contracts. It does not include:

1. Corrective distributions of excess deferrals, excess contributions, or excess aggregate contributions, or the income allocable to any of these amounts;

2. Distributions of automatic contributions pursuant to Code section 414(w);

3. The distribution of elective deferrals or the return of employee contributions to correct excess annual additions under Code section 415, or the gains attributable to these amounts; and

4. A loan deemed as a distribution under Code section 72(p).

Note. It does, however, include a distribution of a plan loan offset amount as defined in Treasury Regulations section 1.402(c)-2, Q&A 9(b).

Line 1. Enter the total value of all distributions made during the year (regardless of when the distribution began) in any form other than cash, annuity contracts issued by an insurance company, distribution of life insurance contracts, marketable securities within the meaning of Code section 731(c)(2), or plan loan offset amounts. Do not include eligible rollover distributions paid directly to eligible retirement plans in a direct rollover under Code section 401(a)(31) unless such direct rollovers include property other than that enumerated in the preceding sentence.

Line 2. Enter the EIN(s) of any payor(s) (other than the plan sponsor or plan administrator on Line 2b or 3b of the Form 5500) who paid benefits reportable on IRS Form 1099-R on behalf of the plan to participants or beneficiaries during the plan year. This is the EIN that appears on the IRS Forms 1099-R that are issued to report the payments. Include the EIN of the trust if different than that of the sponsor or plan administrator. If more than two payors made such payments during the year, enter the EINs of the two payors who paid the greatest dollar amounts during the year. For purposes of this Line 2, take into account all payments made during the plan year, in cash or in kind, that are reportable on IRS Form 1099-R, regardless of when the payments began, but take into account payments from an insurance company under an annuity only in the year the contract was purchased.

Line 3. Enter in the appropriate location, broken out by active, terminated vested, and retired, the number of living or deceased participants whose benefits under the plan were distributed during the plan year in the form of a single-sum distribution, either as an annuity or a lump sum. For this purpose, a distribution of a participant's benefits will not fail to be a single-sum distribution merely because, after the date of the distribution, the plan makes a supplemental distribution as a result of earnings or other adjustments made after the date of the single-sum distribution. Also include any participants whose benefits were distributed in the form of a direct rollover to the trustee or custodian of a qualified plan or individual retirement account. Profit-sharing plans, ESOPs, and stock bonus plans skip Line 3.

Line 4. Check “Yes” if the required minimum distributions were made to 5% owners who attained age 70½ and older. Required Minimum Distributions (RMDs) generally are minimum amounts that a retirement plan account owner must withdraw annually starting with the year that he or she reaches 70½ years of age or, if later, the year in which he or she retires. However, if the account owner is a 5% owner of the business sponsoring the retirement plan, the RMDs must begin once the account holder is age 70½, regardless of whether he or she is retired.

Note. You must complete Line 4 if you are required to file at least 250 returns of any type with the IRS during the calendar year. However, if you are a small filer (files fewer than 250 returns of any type with the IRS including information returns (for example, Forms W-2 and Forms 1099), income tax returns, employment tax returns, and excise tax returns during the calendar year), and you do not complete this line, then you must file the paper Form 5500-SUP with the IRS. See Instructions for Form 5500-SUP for more information.

Part II—Funding Information

Complete Part II only if the plan is subject to the minimum funding requirements of Code section 412 or ERISA section 302.

All qualified defined benefit and defined contribution pension plans are subject to the minimum funding requirements of Code section 412 unless they are described in the exceptions listed under Code section 412(e)(2). These exceptions include profit- sharing or stock bonus plans, insurance contract plans described in Code section 412(e)(3), and certain plans to which no employer contributions are made.

Nonqualified employee pension benefit plans are subject to the minimum funding requirements of ERISA section 302 unless specifically exempted under ERISA sections 4(a) or 301(a). The employer or plan administrator of a single-employer or multiple-employer defined benefit pension plan that is subject to the minimum funding requirements must file Schedule SB as an attachment to Form 5500. Schedule MB is filed for multiemployer defined benefit pension plans and certain money purchase defined contribution pension plans (whether they are single-employer or multiemployer plans). However, Schedule MB is not required to be filed for a money purchase defined contribution pension plan that is subject to the minimum funding requirements unless the plan is currently amortizing a waiver of the minimum funding requirements.

Line 5. Check “Yes” if, for purposes of computing the minimum funding requirements for the plan year, the plan administrator is making an election intended to satisfy the requirements of Code section 412(d)(2) or ERISA section 302(d)(2). Under Code section 412(d)(2) and ERISA section 302(d)(2), a plan administrator may elect to have any amendment, adopted after the close of the plan year for which it applies, treated as having been made on the first day of the plan year if all of the following requirements are met:

1. The amendment is adopted no later than two and one-half months (two years for a multiemployer plan) after the close of such plan year;

2. The amendment does not reduce the accrued benefit of any participant determined as of the beginning of such plan year; and

3. The amendment does not reduce the accrued benefit of any participant determined as of the adoption of the amendment unless the plan administrator notified the Secretary of the Treasury of the amendment and the Secretary either approved the amendment or failed to disapprove the amendment within 90 days after the date the notice was filed. See Treasury Temporary Regulations section 11.412(c)-7(b) for details on when and how to make the election and what information to include on the statement of election, which must be filed with the Form 5500 Annual Return/Report.

Line 6. If a money purchase defined contribution pension plan (including a target benefit plan) has received a waiver of the minimum funding standard, and the waiver is currently being amortized, complete Lines 3, 9, and 10 of Schedule MB. See instructions for Schedule MB. Attach Schedule MB to Form 5500. The Schedule MB for a money purchase defined contribution pension plan does not need to be signed by an enrolled actuary.

Line 7a. The minimum required contribution for a money purchase defined contribution pension plan (including a target benefit plan) for a plan year is the amount required to be contributed for the year under the formula set forth in the plan document. If there is an accumulated funding deficiency for a prior year that has not been waived, that amount should also be included as part of the contribution required for the current year.

Line 7b. Include all contributions for the plan year made not later than 8½ months after the end of the plan year. Show only contributions actually made to the plan by the date the form is filed. For example, do not include receivable contributions for this purpose.

Line 7c. If the minimum required contribution exceeds the contributions for the plan year made not later than 8½ months after the end of the plan year, the excess is an accumulated funding deficiency for the plan year. File IRS Form 5330, Return of Excise Taxes Related to Employee Benefit Plans, with the IRS to pay the excise tax on the deficiency. There is a penalty for not filing IRS Form 5330 on time.

Line 8. Check “Yes” if the minimum required contribution remaining in Line 7c will be made not later than 8½ months after the end of the plan year. If “Yes,” and contributions are actually made by this date, then there will be no reportable deficiency and IRS Form 5330 will not need to be filed.

Line 9. Revenue Procedure 2000-40, 2000-2 C.B. 357, providing for automatic approval for a change in funding method for a plan year, generally does not apply unless the plan administrator or an authorized representative of the plan sponsor explicitly agrees to the change. If a change in funding method made pursuant to such a revenue procedure (or a class ruling letter) is to be applicable for the current plan year, this line generally must be checked “Yes.” In certain situations, however, the requirement that the plan administrator or an authorized representative of the plan sponsor agree to the change in funding method will be satisfied if the plan administrator or an authorized representative of the plan sponsor is made aware of the change.

In these situations, this line must be checked “N/A.” See section 6.01(2) of Rev. Proc. 2000-40. If the plan's change in funding method is not made pursuant to a revenue procedure or other authority providing automatic approval which requires plan sponsor agreement, or to a class ruling letter (e.g., it is pursuant to a regulation or the Preservation of Access to Care for Medicare Beneficiaries and Pension Relief Act of 2010 (PRA 2010), Pub. L. 111-192), then this line should be checked “N/A.”

Part III—Determination and Amendments

Line 10. If this is a defined benefit pension plan, indicate as follows whether there were any amendments adopted during this plan year that increased or decreased the value of benefits:

• Check “No” if no amendments were adopted during this plan year that increased or decreased the value of benefits.

• Check “Increase” if an amendment was adopted during the plan year that increased the value of benefits in any way. This includes an amendment providing for an increase in the amount of benefits or rate of accrual, more generous lump sum factors, COLAs, more rapid vesting, additional payment forms, or earlier eligibility for some benefits.

• Check “Decrease” if an amendment was adopted during the plan year that decreased the value of benefits in any way. This includes a decrease in future accruals, closure of the plan to new employees, or accruals being frozen for some or all participants.

• If the amendments that were adopted increased the value of some benefits but decreased the value of others, check “Both.”

Line 11a. If a plan sponsor or an employer adopted a pre-approved plan that includes a master & prototype plan (a standardized or nonstandardized M&P) or a volume submitter plan, enter the date of the most recent favorable opinion or advisory letter issued by the IRS and the serial number listed on that favorable letter.

Line 11b. If it is an individually-designed plan and received a favorable determination letter from the IRS, enter the date of the most recent determination letter. Leave it blank if this individual-designed plan has never received a favorable determination letter.

Part IV—Additional Employer Information for Multiemployer Defined Benefit Pension Plans

If this is not a multiemployer plan, skip this Part.

Required attachments. Multiemployer defined benefit pension plans that are in Endangered Status or Critical Status must attach a summary of their Funding Improvement Plan or Rehabilitation Plan (as updated, if applicable) and also any update to a Funding Improvement Plan or Rehabilitation Plan.

The summary of any Funding Improvement Plan or Rehabilitation Plan must reflect such plan in effect at the end of the plan year (whether the original Funding Improvement Plan or Rehabilitation Plan or as updated) and must include a description of the various contribution and benefit schedules that are being provided to the bargaining parties and any other actions taken in connection with the Funding Improvement Plan or Rehabilitation Plan, such as use of the shortfall funding method or extension of an amortization period. The summary must also identify the first year and the last year of the Funding Improvement Period or the Rehabilitation Period. If an extended Funding Improvement Period (of 13 or 18 years) or Rehabilitation Period (of 13 years) applies because of an election under section 205 of the Worker, Retiree, and Employer Recovery Act of 2008 (“WRERA”), the summary must include a statement to that effect and the date that the election was filed with the IRS.

The summary must also include a schedule of the expected annual progress for the funded percentage or other relevant factors under the Funding Improvement Plan or Rehabilitation Plan. If the sponsor of a multiemployer plan in Critical Status has determined that, based on reasonable actuarial assumptions and upon exhaustion of all reasonable measures, the plan cannot emerge from Critical Status by the end of the Rehabilitation Period as described in Code section 432(e)(3)(A)(ii), the summary must include an explanation of the alternatives considered, why the plan is not reasonably expected to emerge from Critical Status by the end of the Rehabilitation Period, and when, if ever, it is expected to emerge from Critical Status under the Rehabilitation Plan.

The plan sponsor is required to annually update a Funding Improvement Plan or Rehabilitation Plan that was adopted in a prior year. The update must be filed as an attachment to the Schedule R. The update attachment must identify the modifications made to the Funding Improvement Plan or Rehabilitation Plan during the plan year, including contribution increases, benefit reductions, or other actions.

The attachment described above must be labeled “Schedule R, Summary of Funding Improvement Plan,” or “Schedule R, Summary of Rehabilitation Plan” as appropriate, and if applicable, “Schedule R, Update of Funding Improvement Plan or Rehabilitation Plan.” Each attachment must also include the plan name, the plan sponsor's name and EIN, and the plan number.

Line 12. This line should be completed only by multiemployer defined benefit pension plans that are subject to the minimum funding standards (see Code section 412 and Part 3 of Title I of ERISA). Enter the information on Lines 13a through 13e for any employer that contributed more than five (5) percent of the plan's total contributions for the 20XX plan year. List employers in descending order according to the dollar amount of their contributions to the plan. Complete as many entries as are necessary to list all employers that contributed more than five (5) percent of the plan's contributions.

Line 12a. Enter the name of the employer contributing to the plan.

Line 12b. Enter the EIN of the employer contributing to the plan. Do not enter a social security number in lieu of an EIN; therefore, ensure that you have the employer's EIN and not a social security number. The Form 5500 Annual Return/Report is open to public inspection, and the contents are public information and are subject to publication on the Internet. Because of privacy concerns, the inclusion of a social security number or any portion thereof on this line may result in the rejection of the filing.

EINs can be obtained from the IRS online, by telephone, by fax, or by mail depending on when you need to use the EIN. For more information, see Section 3: Electronic Filing Requirement. The EBSA does not issue EINs.

Line 12c. Dollar Amount Contributed. Enter the total dollar amount contributed to the plan by the employer for all covered workers in all locations for the plan year. Do not include the portion of an aggregated contribution that is for another plan, such as a welfare benefit plan, a defined contribution pension plan or another defined benefit pension plan.

Line 12d. Collective Bargaining Agreement Expiration Date. Enter the date on which the employer's collective bargaining agreement expires. If the employer has more than one collective bargaining agreement requiring contributions to the plan, check the box and include, as an attachment, the expiration date of each collective bargaining agreement (regardless of the amount of contributions arising from such agreement). Label the attachment: “Schedule R, line 12d—Collective Bargaining Agreement Expiration Date.” Include the plan name and the sponsor's name and EIN.

Line 12e. Contribution Rate Information. Enter the contribution rate (in dollars and cents) per contribution base unit in Line 12e(1) and the base unit measure in Line 12e(2). Indicate whether the base unit is measured on an hourly, weekly, unit-of-production, or other basis. If “Other,” specify the base unit measure used. If the contribution rate changed during the plan year, enter the last contribution rate in effect for the plan year.

If the employer has different contribution rates for different classifications of employees or different places of business, check the box in the first line of Line 12e and list in an attachment each contribution rate and corresponding base unit measure under which the employer made contributions (regardless of the amount of contributions resulting from each rate). Label the attachment: “Schedule R, Line 12e—Information on Contribution Rates and Base Units.” Include the plan name and the sponsor's name and EIN.

Line 13. Enter the number of participants on whose behalf no contributions were made by an employer as an employer of the participant. For purposes of Line 13, count only those participants whose last contributing employer had withdrawn from the plan by the beginning of the relevant plan year. Disregard any participants whose employers had not withdrawn from the plan, even if, in the relevant year, no contributions were made by the employer on behalf of those participants. Thus, for the limited purposes of Line 13 and notwithstanding any contrary definition of such participants applicable elsewhere, the deferred vested and retired participants of employers who have not withdrawn from the plan should not be included in these numbers.

Note. Withdrawal liability payments are not to be treated as contributions for the purpose of determining the number of participants for Line 13.

Line 13a. Enter the number of participants for the 20XX plan year described in the Line 13 instructions.

Line 13b. Enter the number of participants for the 20XX-1 plan year described in the Line 13 instructions.

Line 13c. Enter the number of participants for the 20XX-2 plan year described in the Line 13 instructions.

Line 14. Enter the ratio of number of participants on whose behalf no employer had an obligation to make a contribution for the 20XX plan year to the corresponding number for each of the two preceding plan years. For the purpose of these ratios, count all participants whose employers have withdrawn from the plan as well as all deferred vested and retired participants of employers still active in the plan (unless the collective bargaining agreement specifically requires the employer to make contributions for such participants).

Line 14a. Enter the ratio of the number of participants as described in the Line 14 instructions for the 20XX plan year to the number for the 20XX-1 plan year.

Line 14b. Enter the ratio of the number of participants as described on the Line 14 instructions for the 20XX plan year to the number for the 20XX-2 plan year.

Note. Withdrawal liability payments are not to be treated as contributions for determining the number of participants on Line 14.

Line 15a. Enter the number of employers that withdrew from the plan during the 20XX-1 plan year.

Line 15b. If Line 15a is greater than zero, enter the aggregate amount of withdrawal liability assessed against these employers. If the withdrawal liability for one or more withdrawing employers has not yet been determined, include the amounts estimated to be assessed against them in the aggregate amount.

The definitions of withdrawal are those contained in Section 4203 of ERISA. If the plan is in the building and construction, entertainment, or another industry that has special withdrawal rules, withdrawing employers should only be counted if the withdrawal adheres to the special rules applying to its specific industry.

Line 16. If assets and liabilities from another plan were transferred to or merged with the assets and liabilities of this plan during the 20XX plan year, check the box and provide the following information as an attachment. The attachment should include the names and employer identification numbers of all plans that transferred assets and liabilities to, or merged with, this plan. For each plan, including this plan, the attachment should also include the actuarial valuation of the total assets and total liabilities for the year preceding the transfer or merger, based on the most recent data available as of the day before the first day of the 20XX plan year. Label the attachment “Schedule R, Line 16—Information on Assets and Liabilities Transferred to or Merged with This Plan” and include the plan name and the plan sponsor's name and EIN.

Part V—Additional Information for Single-Employer and Multiemployer Defined Benefit Pension Plans

Line 17. If any liabilities to participants or their beneficiaries under the plan at the end of the plan year consist of liabilities under two (2) or more plans as of the last day of the plan year immediately before the 20XX plan year, check the box and provide the following information as an attachment. The attachment should include the names, employer identification numbers, and plan numbers of all plans, including the current plan, that provided a portion of liabilities of the participants and beneficiaries in question. The attachment should also include the funding percentage of each plan as of the last day of the 20XX-1 plan year. For single-employer plans, the funding percentage is the funding target attainment percentage, where the numerator is the value of plan assets reduced by the sum of the amount of the prefunding balance and the funding standard carryover balance, and the denominator is the funding target for the plan (for this purpose, if the plan is in at risk status, then the funding target is determined as if the plan were not in at risk status). For multiemployer plans, the funding percentage is the ratio where the numerator is the actuarial value of the plan's assets and the denominator is the accrued liability of the plan. For a terminated plan for which the funding percentage is required to be reported, write “Terminated” in the space where the plan's funding percentage would otherwise have been reported. Label the attachment “Schedule R, Line 17—Funded Percentage of Plans Contributing to the Liabilities of Plan Participants” and include the plan name and the plan sponsor's name and EIN.

Line 18. This line must be completed for all defined benefit pension plans (except DFEs) with 1,000 or more participants at the beginning of the plan year. To determine if the plan has 1,000 or more participants, use the participant count shown on Line 3d(1) of the Schedule SB for single-employer plans or on Line 2b(4)(1) of the Schedule MB for multiemployer plans.

Line 18a. Show the beginning-of-year distribution of assets for the categories shown. Use the market value of assets and do not include the value of any receivables. These percentages, expressed to the nearest whole percent, should reflect the total assets held in stocks, investment-grade debt instruments, high-yield debt instruments, real estate, or other asset classes, regardless of how they are listed on the Schedule H. The percentages in the five categories should sum to 100 percent. Assets held in trusts, accounts, mutual funds, and other investment arrangements should be disaggregated and properly distributed among the five asset components. The assets in these trusts, accounts, mutual funds, and investment arrangements should not be included in the “Other” component unless these investments contain no stocks, bonds, or real estate holdings. The same methodology should be used in disaggregating trust assets as is used when disclosing the allocation of plan assets on the sponsor's 10-K filings to the Securities and Exchange Commission. Real estate investment trusts (REITs) should be listed with stocks, while real estate limited partnerships should be included in the Real Estate category.

Investment-grade debt-instruments are those with an S&P rating of BBB—or higher, a Moody's rating of Baa3 or higher, or an equivalent rating from another rating agency. High-yield debt instruments are those that have ratings below these rating levels. If the debt does not have a rating, it should be included in the “high-yield” category if it does not have the backing of a government entity. Unrated debt with the backing of a government entity would generally be included in the “investment-grade” category unless it is generally accepted that the debt should be considered as “high-yield.” Use the ratings in effect as of the beginning of the plan year.

Line 18b. Check the box that shows the average duration of the plan's combined investment-grade and high-yield debt portfolio. If the average duration falls exactly on the boundary of two boxes, check the box with the lower duration. To determine the average duration, use the “effective duration” or any other generally accepted measure of duration. Report the duration measure used in Line 19c. If debt instruments are held in multiple debt portfolios, report the weighted average of the average durations of the various portfolios where the weights are the dollar values of the individual portfolio.

Part VI Nondiscrimination and Coverage

Note. You must complete this part from Lines 19 through 21 if you are required to file at least 250 returns of any type with the IRS, including information returns (for example, Forms W-2 and Forms 1099), income tax returns, employment tax returns, and excise tax returns, during the calendar year. However, if you are a small filer (files fewer than 250 returns of any type with the IRS during the calendar year), and you do not complete these lines, you must file Form 5500-SUP with the IRS on paper. See the Treasury regulations on “Employee Retirement Benefit Plan Returns Required on Magnetic Media” (See 79 FR 58256 at http://federalregister.gov/a/2014-23161) and Instructions for Form 5500-SUP for more information.

19a. Check “Yes” if the plan includes a cash or deferred arrangement (CODA), under which a covered employee may elect to have the employer either contribute an amount to the plan's trust on behalf of the employee or to pay the employee directly in cash or some other taxable benefit. The contributions go into an individual account, with the employee often choosing the investments based on options provided under the plan. In some plans, the employer also makes contributions, such as contributions that match the employee's contributions up to a certain percentage.

Line 19b. If Line 19a is “Yes,” check the applicable method used to satisfy the nondiscrimination requirements of Code section 401(k). A safe harbor 401(k) plan is similar to a traditional 401(k) plan but, among other things, it must provide for employer contributions. These contributions may be employer matching contributions, limited to employees who defer, or employer contributions made on behalf of all eligible employees, regardless of whether they make elective deferrals. The safe harbor 401(k) plan is not subject to the complex annual nondiscrimination tests that apply to traditional 401(k) plans. Check “Design-based safe harbor method” if this is a safe harbor 401(k) plan that is a SIMPLE 401(k) plan under Code section 401(k)(11), a safe harbor 401(k) plan under Code section 401(k)(12), or a qualified automatic contribution arrangement under Code section 401(k)(13).

If the plan, by its terms, does not satisfy the safe harbor method, it generally must satisfy the regular nondiscrimination test, known as the actual deferral percentage (ADP) test. Check the appropriate box to indicate if the plan uses the “current year” ADP test or the “prior year” ADP test. Check “current year” ADP test if the plan uses the current year testing method under which the ADP test is performed by comparing the current plan year's ADP for HCEs with the current plan year's (rather than the prior plan year's) ADP for NHCEs. Check all boxes that apply for a plan that tests different groups of employees on a disaggregated basis. Check “N/A” if the plan is not required to test for nondiscrimination under Code section 401(k)(3), such as a plan in which no HCE is benefiting.

Line 20a. Check the applicable testing method used to satisfy the minimum coverage requirements under Code section 410(b). Check “N/A” if the plan is deemed to satisfy section 410(b) automatically, such as a plan in which no HCE is benefitting. Check all boxes that apply for a plan that tests different groups of employees on a disaggregated basis.

Line 20b. Check “Yes” if this plan was permissively aggregated with another plan to satisfy requirements under Code sections 410(b) and 401(a)(4). Generally, each single plan must separately satisfy the coverage and nondiscrimination requirements. However, an employer may designate two or more separate plans as a single plan for purposes of applying the ratio percentage test of Treasury Regulations section 1.410(b)-2(b)(2) or the nondiscretionary classification test of Treasury Regulations section 1.401(b)-4. Two or more plans that are permissively aggregated and treated as a single plan for purposes of the minimum coverage test of Code section 410(b) must also be treated as a single plan for purpose of the nondiscrimination test under Code section 401(a)(4). See Treasury Regulations sections 1.410(b)-7 and 1.401(a)(4)-(9) for more information.

Line 21. Check “Yes” if the plan does not satisfy any exceptions under Treasury Regulation section 1.401(a)26)-1(b) if it benefitted at least the lesser of: 50 employees of the employer, or the greater of: 40 percent of all employees of the employer, or 2 employees (or if there is only 1 employee, such employer). The definition of employer includes all related employers under Code sections 414(b), (c) or (m). In performing the participation tests, the employees who are excludable are generally the same as those who are excludable for purposes of performing coverage tests under Code section 410(b), see Treasury Regulation section 1.401(a)(26)-6. In addition, for most plans the definition of who is benefiting under the plan for the purposes of the participation tests is the same as the definition of benefiting employees for purposes of coverage tests under Code section 410(b), see Treasury Regulation section 1.401(a)(26)-5.

Part VII Participation Information in Defined Contribution Pension Plans

Line 22. Employer Contributions. Check “Yes” in Line 22a if the employer provided contributions to the participant's defined contribution pension account regardless of whether the participant made any contributions. If “Yes” is checked in Line 22a, enter in Line 22b the appropriate line the formula describing how the amount of such employer contributions was determined. See formula examples below.

Example 1: The employer provided 1.5% of compensation for each participant. Check the “% of a participant's compensation” formula and enter “1.5” in the corresponding amount line.

Example 2: The employer provided one flat dollar amount ($500) to each participant. Check the “$ per participant” formula and enter “500” in the corresponding amount line.

Example 3: The employer used a different kind of formula or method. Check “Other” and enter a description in the text field.

Line 23. Employer Matching Contributions. If the plan offers employer matching contributions, check “Yes” in Line 23a. If you checked “Yes” in Line 23a, check the appropriate box in Line 23b to identify the formula used to determine the amount of the employer matching contribution for each participant. If the employer matches participant contributions at a certain rate up to a limit, check “% of a participant's contribution up to a limit” and enter the percentage. In Line 23c, enter the maximum employer contribution by checking the applicable box and providing either the percentage of a participant's compensation or the dollar amount that corresponds to the maximum. If the plan uses a different type of formula, check “Other” and describe the formula in the open text field. See formula examples below.

Example 1: The employer provides a 50% match on participant contributions of up to 6% of the participant's compensation. When the participant is contributing at or above the maximum, the employer contributes 3% of the participant's compensation. Check the “% of a participant's contribution up to a limit” formula and enter “50”. The maximum match that the employer will contribute is “3”.

Example 2: The employer provides a 50% match on a participant's contributions up to $3,000 contribution by the employee. At that maximum level the employer would be contributing $1,500. Check the “$ per participant” formula and enter “1500” in the corresponding amount line.

Example 3: The employer provides 100% match up to the first 3% of employee's salary deferrals and 50% for the next 2%. Check the “Other” box and describe the formula in the open text field.

Line 24. Automatic Enrollment. Answer “Yes” in Line 24a if the plan has automatic enrollment. If you answer “Yes,” enter the default elective deferral as a percentage of a participant's compensation in the first year after a participant is automatically enrolled. In Line 24b, indicate whether the plan has automatic escalation, assuming a participant has made no active elections. If the plan has automatic escalation, indicate the maximum elective deferral as a percentage of a participant's compensation. In Line 24c enter the number of participants that remain in the plan's default investment account(s) and have not directed any assets into other plan investments.

Line 25. Catch-up Contributions. Enter the number of participants making catch-up contributions.

20XX Instructions for Schedule SB (Form 5500)—Single-Employer Defined Benefit Plan Actuarial Information

General Instructions

Note. Final regulations under certain portions of Code section 430 (sections 430(d), 430(f), 430(g), 430(h), and 430(i)) and Code section 436 (and the corresponding provisions of ERISA (sections 206(g) and 303)) were published in the Federal Register July 31, 2008, and October 15, 2009, and apply for plan years beginning on or after January 1, 2010. Proposed regulations providing additional rules under Code sections 430(a), 430(j) and 4971 (and the corresponding provisions of ERISA (section 303)) were published in the Federal Register on April 15, 2008. The final regulations that relate to those proposed regulations have a later effective date than the final regulations published October 15, 2009. With respect to provisions for which the final regulations do not apply to a plan for the plan year, plan sponsors must follow a reasonable interpretation of the statute, taking into account the provisions of the Worker, Retiree, and Employer Recovery Act of 2008 (“WRERA”), Public Law 110-458, the Preservation of Access to Care for Medicare Beneficiaries and Pension Relief Act of 2010 (“PRA 2010”), Public Law 111-192, Moving Ahead for Progress in the 21st Century Act (“MAP-21”), Public Law 112-141, and any other amendments to the funding rules that are enacted. For this purpose, plan sponsors may rely on the provisions of the proposed regulations or the final regulations, as applicable, but must take into account the provisions of WRERA, PRA 2010, MAP-21, any other amendments to the funding rules that are enacted, and any applicable published guidance.

Who Must File

As the first step, the plan administrator of any single-employer defined benefit pension plan (including a multiple-employer defined benefit pension plan) that is subject to the minimum funding standards (see Code section 412 and Part 3 of Title I of ERISA) must obtain a completed Schedule SB (including attachments) that is prepared and signed by the plan's enrolled actuary as discussed below in the Statement by Enrolled Actuary section. The plan administrator must retain with the plan records the Schedule SB that is prepared and signed by the plan's actuary. The electronic-signature by the plan actuary is acceptable. The plan actuary can access the EFAST2 Web site at www.efast.dol.gov to register for electronic credentials to sign.

The plan administrator must ensure that the information from the actuary's Schedule SB is entered electronically into the annual return/report being submitted. When entering the information, whether using EFAST2-approved software or EFAST2's web-based filing system, all the fields required for the type of plan must be completed (see instructions for fields that need to be completed).

Further, if a plan actuary chooses not to sign electronically, then the actuary must manually sign the Schedule SB and an electronic reproduction must be filed with the Form 5500. The plan administrator of a single-employer defined benefit pension plan must attach to the Form 5500 or Form 5500-SF an electronic reproduction of the Schedule SB (including attachments) prepared and signed by the plan's enrolled actuary. This electronic reproduction must be labeled “SB Actuary Signature” and must be included as a Portable Document Format (PDF) attachment or any alternative electronic attachment allowable under EFAST2.

Note. The Schedule SB (Form 5500) does not have to be filed with the Form 5500-EZ, but it must be retained (in accordance with the Instructions for Form 5500-EZ under the What To File section). Similarly, the Schedule SB does not have to be filed with the Form 5500-SF for a one-participant plan (as defined in the Form 5500-EZ instructions) that is eligible for the Form 5500-SF and elects to file such form instead of the Form 5500-EZ. However, the Schedule SB must be retained in accordance with the Instructions for Form 5500-SF under the section headed Specific Instructions Only for “One-Participant Plans.” The enrolled actuary must complete and sign the Schedule SB and forward it to the person responsible for filing the Form 5500-EZ or Form 5500-SF, even if the Schedule SB is not filed.

Check the Schedule SB box on the Form 5500 (Part II, Line 10a(3)) if a Schedule SB is attached to Form 5500. Check “Yes” on Line 11 in Part VI of the Form 5500-SF if a Schedule SB is required to be prepared for the plan, even if Schedule SB is not required to be attached to Form 5500-SF (see instructions in the Note above, pertaining to “one-participant plans”).

Note. This schedule is not filed for a multiemployer plan nor for a money purchase defined contribution pension plan (including a target benefit plan) for which a waiver of the minimum funding requirements is currently being amortized. Information for these plans must be filed using Schedule MB (Form 5500).

Specific Instructions

Lines A through F. Identifying Information. Lines A-F must be completed for all plans. Lines A through D should include the same information as reported in corresponding lines in Part II of the Form 5500, Form 5500-SF, or Form 5500-EZ filed for the plan. You may abbreviate the plan name (if necessary) to fit in the space provided.

Do not use a social security number in line D instead of an EIN. The Schedule SB and its attachments are open to public inspection if filed with a Form 5500 or Form 5500-SF, and the contents are public information and are generally subject to publication on the Internet. Because of privacy concerns, the inclusion of a social security number or any portion thereof on the Schedule SB or any of its attachments may result in the rejection of the filing.

You can apply for an EIN from the IRS online, by telephone, by fax, or by mail depending on how soon you need to use the EIN. For more information, see Section 3: Electronic Filing Requirement under General Instructions to Form 5500. The EBSA does not issue EINs.

Line E. Type of Plan. Check the applicable box to indicate the type of plan. A single-employer plan for this reporting purpose is an employee benefit plan maintained by one employer or one employee organization. A multiple-employer plan is a plan that is maintained by more than one employer, but is not a multiemployer plan. (See the Instructions for Form 5500, box A for additional information on the definition of a multiemployer plan.)

1. Check “Single” if the Form 5500, Form 5500-SF, or Form 5500-EZ is filed for a single-employer plan (including a plan maintained by more than one member of the same controlled group).

2. Check “Multiple-A” if the Form 5500 or Form 5500-SF is being filed for a multiple-employer plan and the plan is subject to the rules of Code section 413(c)(4)(A) (i.e., it is funded as if each employer were maintaining a separate plan). This includes plans established before January 1, 1989, for which an election was made to fund in accordance with Code section 413(c)(4)(A).

3. Check “Multiple-B” if the Form 5500 or Form 5500-SF is being filed for a multiple-employer plan and the plan is subject to the rules of Code section 413(c)(4)(B) (i.e., it is funded as if all participants were employed by a single employer).

If “Multiple-A” is checked, with the exception of Part III, the data entered on Schedule SB should be the sum of the individual amounts computed for each employer. The percentages reported in Part III should be calculated based on the reported aggregate numbers rather than by summing up the individual percentages. The Schedule SB data for each employer's portion of the plan must be submitted as an attachment. This is accomplished by completing and attaching a Schedule SB for each employer or by attaching a document containing that information (e.g., a table showing a row for each Schedule SB data item and a column for each employer). Label the attachment “Schedule SB—Information for Each Individual Employer.”

Line F. Prior Year Plan Size. Check the applicable box based on the highest number of participants (both active and inactive) on any day of the preceding plan year, taking into account participants in all defined benefit pension plans maintained by the same employer (or any member of such employer's controlled group) who are or were also employees of that employer or member. For this purpose, participants whose only defined benefit pension plan is a multiemployer plan (as defined in Code section 414(f)) are not counted, and participants who are covered in more than one of the defined benefit pension plans described above are counted only once. Inactive participants include vested terminated and retired employees as well as beneficiaries of deceased participants. If this is the first plan year that a plan described in this paragraph exists, complete this line based on the highest number of participants that the plan was reasonably expected to have on any day during the first plan year.

General Instructions, Parts I through IX, Statement by Enrolled Actuary, and Attachments

Except as noted below, Parts I through VIII must be completed for all single and multiple-employer defined benefit pension plans, regardless of size or type. See instructions for Line 31 for additional information to be provided for certain plans with special circumstances. Part IX is completed only for those plans for which an alternative amortization schedule was elected under section 430(c)(2)(D) of the Code or section 303(c)(2)(D) of ERISA, as amended by PRA 2010, and for those plans for which funding relief was elected under section 107 of Pension Protection Act of 2006, as added by PRA 2010.

The Pension Protection Act of 2006, as amended (PPA), provides delayed effective dates for the funding rules under Code section 430 for plans meeting certain criteria (certain multiple-employer plans maintained by eligible cooperative plans, and eligible charity plans, as described in PPA section 104). Eligible plans to which these delayed effective dates apply do not need to complete the entire Schedule SB, but will have to file information relating to pre-PPA calculations in an attachment using the 2007 Schedule B form. See the instructions for Line 31 for more information about which lines of Schedule SB need to be completed and what additional attachments are required.

PPA provides funding relief for certain defined benefit pension plans (other than multiemployer plans) maintained by a commercial passenger airline or by an employer whose principal business is providing catering services to a commercial passenger airline, based on an alternative 17-year funding schedule. Plans using this funding relief do not need to complete the entire Schedule SB, but are required to provide supplemental information as an attachment to Schedule SB. Alternatively, these plans can elect to apply the funding rules generally applicable to single-employer defined benefit pension plans, but amortize the funding shortfall over 10 years instead of the standard 7-year period and use a special interest rate to determine the funding target. Plans using this 10-year funding option must complete the entire Schedule SB and provide additional information. See the instructions for Line 31 for more information about which lines of Schedule SB need to be completed and what additional attachments are required.

MAP-21 amended Code section 430(h)(2)(C) and ERISA section 302(h)(2)(C) to provide that, for certain purposes, each of the three segment rates described in those sections is adjusted as necessary to fall within a specified range that is determined based on an average of the corresponding segment rates for the 25-year period ending on September 30 of the calendar year preceding the first day of the plan year. Accordingly, if the funding target and target normal cost for a plan are determined using these segment rates, the segment rates used to determine the minimum required contribution and the adjusted funding target attainment percentage (“AFTAP”) used to apply funding-based benefit restrictions under Code section 436 and ERISA section 206(g) may be different from those used for other purposes (such as the segment rates used to determine the deductible limit under Code section 404(o)). In such cases, report all information on Schedule SB reflecting the assumptions used to determine the minimum required contribution and the AFTAP used to apply funding-based benefit restrictions.

Note. (1) For a plan funded with insurance (other than a plan described in Code section 412(e)(3) or ERISA section 301(b)), refer to section 1.430(d)-1(c)(2) of the Income Tax Regulations regarding whether to include the liabilities for benefits covered under insurance contracts held by the plan and whether to include the value of the insurance contracts in plan assets. (2) For terminating plans, Rev. Rul. 79-237, 1979-2 C.B. 190, provides that minimum funding standards apply until the end of the plan year that includes the termination date. Accordingly, the Schedule SB is not required to be filed for any later plan year. However, if a termination fails to occur—whether because assets remain in the plan's related trust (see Rev. Rul. 89-87, 1989-2 C.B. 81) or for any other reason (e.g., the PBGC issues a notice of noncompliance pursuant to 29 CFR 4041.31 for a standard termination)—there is no termination date, and therefore, minimum funding standards continue to apply and a Schedule SB continues to be required.

Statement by Enrolled Actuary

An enrolled actuary must sign Schedule SB with either an electronic signature or a handwritten signature. The electronic signature of the enrolled actuary may be qualified to state that it is subject to attached qualifications. See Treasury Regulations section 301.6059-1(d) for permitted qualifications. If the actuary has not fully reflected any final or temporary regulation, revenue ruling, or notice promulgated under the statute in completing the Schedule SB, check the box on the last line of page 1. If this box is checked, indicate on this line whether any unpaid required contribution or a contribution that is not wholly deductible would result if the actuary had fully reflected such regulation, revenue ruling, or notice. In addition, the actuary may offer any other comments related to the information contained in Schedule SB. Except as otherwise provided in these instructions, a stamped or machine produced signature is not acceptable.

The actuary must provide the completed and signed Schedule SB to the plan administrator to be retained with the plan records and included (in accordance with these instructions) with the Form 5500 or Form 5500-SF that is submitted under EFAST2. The plan's actuary is permitted to electronically sign the Schedule SB, or sign on page one using the actuary's signature or by inserting the actuary's typed name in the signature line followed by the actuary's handwritten initials. The actuary's most recent enrollment number must be entered on the Schedule SB that is prepared and signed by the plan's actuary.

Attachments

All attachments to the Schedule SB must be properly identified as attachments to the Schedule SB, and must include the name of the plan, plan sponsor's EIN, plan number, and line number to which the schedule relates.

Do not include attachments that contain a visible social security number. Except for certain one-participant plans, the Schedule SB and its attachments are open to public inspection, and the contents are public information and are subject to publication on the Internet. Because of privacy concerns, the inclusion of a visible social security number or any portion thereof on an attachment may result in the rejection of the filing.

Part I—Basic Information

Note. All entries in Part I must be reported as of the valuation date, reflecting the assumptions and amounts generally used to determine the minimum required contribution. In the case of a plan described in section 104 of PPA, the information should be reported as if PPA provisions were effective for all plan years beginning after December 31, 2007.

Line 1. Valuation Date. The valuation date for a plan year must be the first day of the plan year unless the plan meets the small-plan exception of Code section 430(g)(2)(B) and ERISA section 303(g)(2)(B). For plans that qualify for the exception, the valuation date may be any date in the plan year, including the first or last day of the plan year. A plan qualifies for this small-plan exception if there were 100 or fewer participants on each day of the prior plan year. For the definition of participant as it applies in this case, see the instructions for Line F.

Line 2a. Market Value of Assets. Enter the fair market value of assets as of the valuation date. Include contributions designated for any previous plan year that are made after the valuation date (but within the 8½-month period after the end of the immediately preceding plan year), adjusted for interest for the period between the date of payment and the valuation date as provided in the applicable regulations.

Contributions made for the current plan year must be excluded from the amount reported in Line 2a. If these contributions were made prior to the valuation date (which can only occur for small plans with a valuation date other than the first day of the plan year), the asset value must be adjusted to exclude not only the contribution amounts, but interest on the contributions from the date of payment to the valuation date, using the current-year effective interest rate.

Do not adjust for items such as the funding standard carryover balance, prefunding balance, any unpaid minimum required contributions, or the present value of remaining shortfall or waiver amortization installments. Rollover amounts or other assets held in individual accounts that are not available to provide defined benefits under the plan should not be included on Line 2a regardless of whether they are reported on the Schedule H (Form 5500) (line 1l, column (a)) or Form 5500-SF (Line 7c, column (a)). Additionally, asset and liability amounts must be determined in a consistent manner. Therefore, if the value of any insurance contracts has been excluded from the amount reported in Line 2a, liabilities satisfied by such contracts should also be excluded from the funding target values reported in Lines 3 and 4.

Line 2b. Actuarial Value of Assets. Do not adjust the actuarial value of assets for items such as the funding standard carryover balance, the prefunding balance, any unpaid minimum required contributions, or the present value of any remaining shortfall or waiver amortization installments. Treat contributions designated for a current or prior plan year, rollover amounts, insurance contracts, and other items in the same manner as for Line 2a. If an averaging method is used to value plan assets (as permitted under Code section 430(g)(3)(B) and ERISA section 303(g)(3)(B), as amended by WRERA), enter the value as of the valuation date taking into account the requirement that such value must be within 90% to 110% of the fair market value of assets.

Note. Under Code section 430(g)(3)(B), the use of averaging methods in determining the value of plan assets is permitted only in accordance with methods prescribed in Treasury regulations. Accordingly, taxpayers cannot use asset valuation methods other than fair market value (as described in Code section 430(g)(3)(A)), except as provided under Notice 2009-22, 2009-14 I.R.B. 741, or Treasury regulations.

Line 3. Funding Target/Participant Count Breakdown. All amounts should be reported as of the valuation date.

• Column (1)—Enter the number of participants, including beneficiaries of deceased participants, who are or who will be entitled to benefits under the plan.

• Column (2)—Enter the portion of the funding target attributable to vested benefits. For this purpose benefits considered to be vested for PBGC premium purposes must be included.

• Column (3)—Enter the funding target attributable to all benefits, both vested and nonvested.

For columns (2) and (3), the funding target must be calculated using the methods and assumptions provided in Code sections 430(h) and (i), ERISA sections 303(h) and (i), and other related guidance.

Unless the plan sponsor has received approval to use substitute mortality tables in accordance with Code section 430(h)(3)(C) and ERISA section 303(h)(3)(C), the funding target must be computed using the mortality tables for non-disabled lives, as described in section 1.430(h)(3)-1 of the regulations. If substitute mortality tables have been approved (or deemed to have been approved) by the IRS, such tables must be used instead of the mortality tables described in the previous sentence, subject to the rules of Code section 430(h)(3) and ERISA section 303(h)(3). The funding target may be computed taking into account the mortality tables for disabled lives published in Rev. Rul. 96-7, 1996-1 C.B. 59, and as provided in Notice 2008-29, 2008-12 I.R.B. 637.

Special rules for plans that are in at-risk status. If a plan is in at-risk status, report the amount reflecting the additional assumptions required in Code section 430(i)(1)(B) and ERISA section 303(i)(1)(B).

If the plan has been in at-risk status for any two or more of the preceding four plan years, also include the loading factor required in Code section 430(i)(1)(C) and ERISA section 303(i)(1)(C). If the plan is in at-risk status and has been in at-risk status for fewer than five consecutive years, report the funding target amounts after reflecting the transition rule provided in Code section 430(i)(5) and ERISA section 303(i)(5). For example, the funding target for a plan that is in at-risk status for 20XX and was in at-risk status for the 20XX-3, 20XX-2 and 20XX-1 plan years (but not the 20XX-4 plan year) will reflect 80% of the funding target using the special at-risk assumptions and 20% of the funding target determined without regard to the at-risk assumptions.

Determining whether a plan is in at-risk status. Refer to Code section 430(i)(4) and ERISA section 303(i)(4) to determine whether the plan is in at-risk status. Generally, a plan is in at-risk status for a plan year if it had more than 500 participants on any day during the preceding plan year (see instructions for Line F for the definition of participants) and the plan's funding target attainment percentage (“FTAP”) for the preceding plan year fell below specified thresholds.

A plan with over 500 participants is in at-risk status for 20XX if both:

1. the FTAP for 20XX-1 (Line 17 of the for 20XX-1 Schedule SB) is less than 80%, and

2. the at-risk funding target attainment percentage for 20XX-1 is less than 70%.

In general, the at-risk funding target attainment percentage is determined in the same manner as the FTAP (as described in the instructions for Line 17), except that the funding target is determined using the additional assumptions for plans in at-risk status. For this purpose, the at-risk funding target is determined by disregarding the transition rule of Code section 430(i)(5) and ERISA section 303(i)(5) for plans that have been in at-risk status for fewer than five consecutive years, and disregarding the loading factor in Code section 430(i)(1)(C) and ERISA section 303(i)(1)(C). For plans that were in at-risk status for the 20XX-1 plan year, the at-risk funding target used to determine whether the plan is in at-risk status for the 20XX plan year is the amount reported in Line 4b of the 20XX-1 Schedule SB.

Refer to the regulations under section 430(i) of the Code for rules pertaining to new plans and other special situations.

Line 4. Additional Information for Plans in At-Risk Status. If the plan is in at-risk status as provided under Code section 430(i)(4) and ERISA section 303(i)(4), check the box, complete Lines 4a through 4d, and include as an attachment the information described below. Do not complete Line 4 if the plan is not in at-risk status for the current plan year for purposes of determining the minimum required contribution.

• Column 1—Enter the amount of the funding target determined as if the plan were not in at-risk status.

• Column 2—Report the funding target disregarding the transition rule of Code section 430(i)(5) and ERISA section 303(i)(5), and disregarding the loading factor in Code section 430(i)(1)(C) and ERISA section 303(i)(1)(C).

If the plan is in at-risk status for the current plan year, include a description of the at-risk assumptions for the assumed form of payment (e.g., specify the optional form resulting in the highest present value) in the attachment for Part V regarding the actuarial assumptions. Label this information in the attachment “Schedule SB, Line 4—Additional Information for Plans in At-Risk Status.”

Line 5. Effective Interest Rate. Enter the single rate of interest which, if used instead of the interest rate(s) reported in Line 24 to determine the present value of the benefits that are taken into account in determining the plan's funding target for a plan year, would result in an amount equal to the plan's funding target determined for the plan year, without regard to calculations for plans in at-risk status. (This is the funding target reported in Line 3d, column (3) for plans not in at-risk status, or in Line 4a for plans in at-risk status.) However, if the funding target for the plan year is zero, the effective interest rate is determined as the single rate that would result in an amount equal to the plan's target normal cost determined for the plan year, without regard to calculations for plans in at-risk status. See the provisions of Code section 430(h)(2)(A), ERISA section 303(h)(2)(A), and the applicable regulations. Enter rate to the nearest .01% (e.g., 5.26%).

Line 6a. Target Normal Cost. (Without Plan-Related Expenses). Report the present value of all benefits which have been accrued or have been earned (or that are expected to accrue or to be earned) under the plan during the plan year . Include any increase in benefits during the plan year that is a result of any actual or projected increase in compensation during the current plan year, even if that increase in benefits is with respect to benefits attributable to services performed in a preceding plan year. This amount must be calculated as of the valuation date and must generally be based on the same assumptions used to determine the funding target reported in Line 3c, column (3), reflecting the special assumptions and the loading factor for at-risk plans, if applicable. If the plan is in at-risk status for the current plan year and has been in at-risk status for fewer than five consecutive years, report the target normal cost after reflecting the transition rule provided in Code section 430(i)(5) and ERISA section 303(i)(5). Do not increase the amount by plan expenses and do not reduce the amount by mandatory employee contributions.

Line 6b. Plan-Related Expenses. Report any plan-related expenses expected to be paid from plan assets during the plan year.

Line 6c. Total Target Normal Cost. Report the total target normal cost (sum of Lines 6a and 6b minus mandatory employee contributions expected to be made during the plan year, but not less than zero).

Special rule for airlines using 10-year amortization period under section 402(a)(2) of PPA. Section 402(a)(2) of PPA (as amended by section 6615 of the U.S. Troop Readiness, Veterans' Care, Katrina Recovery, and Iraq Accountability Appropriations Act, 2007, Pub. L. 110-28 (121 Stat.112)) states that for plans electing the 10-year amortization period, the funding target during that period is determined using an interest rate of 8.25% rather than the interest rates or segment rates calculated on the basis of the corporate bond yield curve. However, this special 8.25% interest rate does not apply for other purposes, including the calculation of target normal cost or the amortization of the funding shortfall. Report the target normal cost using the interest rates or segment rates otherwise applicable under 430(h)(2) and ERISA section 303(h)(2).

Part II—Beginning of Year Carryover Prefunding Balances

Line 7. Balance at Beginning of Prior Plan Year After Applicable Adjustments. In general, report the amount in the corresponding columns of Line 13 of the prior-year Schedule SB. See instructions for Line 14 if the balance from the prior year has been adjusted so that it does not match the corresponding amount in Line 13 of the prior-year Schedule SB. Note that elections to add excess contributions or reduce balances have specific deadlines, and generally cannot be changed once they have been made.

If this is the first year for which the plan is subject to the minimum funding rules of Code section 430 or ERISA section 303, leave both columns blank.

Line 8. Portion Elected for Use To Offset Prior Year's Funding Requirement. Report the amount for each column from the corresponding column of Line 39 of the prior-year Schedule SB. If the valuation date is not the first day of the plan year, report the amounts from Line 39 of the prior-year Schedule SB, discounted to the beginning of the prior plan year using the effective interest rate for the prior plan year.

Reflect the full amount reported in Line 39 of the prior-year Schedule SB even if the amount is larger than the minimum required contribution reported for that year on Line 38 of the prior-year Schedule SB. This can occur under the special rule for elections to use balances in excess of the minimum required contribution under section 1.430(f)-1(f)(1)(ii) of the regulations, if no timely election is made to revoke the excess amount.

If this is the first year for which the plan is subject to the minimum funding rules of Code section 430 or ERISA section 303, leave both columns blank.

Special rule for late election to apply balances to quarterly installments. If an election was made to use the funding standard carryover balance or the prefunding balance to offset the amount of a required quarterly installment, but the election was made after the due date of the installment, the amount reported on Line 8 may not be the same as the amount reported on Line 39 for the prior year. Refer to the regulations under section 430 of the Code for additional information. See instructions for Line 15 if a late election to apply the balances to quarterly installments was made.

Line 9. Amount Remaining. Enter the amount equal to Line 7 minus Line 8 in each column. If this is the first year that the plan is subject to the minimum funding requirements of Code section 430 or ERISA section 303, enter the amount of any credit balance at the end of the prior year (the “pre-effective plan year”) on Line 9, column (a) and leave Line 9, column (b) blank. The amount entered on Line 9, column (a) is generally the amount reported for the pre-effective plan year on Line 9o of the 2007 version of the Schedule B form that was submitted as an attachment to the Schedule SB for that pre-effective plan year. See instructions for Line 16 if there has been any adjustment to this amount so that it does not match the amount so reported for the pre-effective plan year.

Line 10. Interest on Line 9. Enter the actual rate of return on plan assets during the preceding plan year in the space provided. Enter the rate to the nearest .01% (e.g., 6.53%). If entering a negative number, enter a minus sign (“-”) to the left of the number. In each column, enter the product of this interest rate and the amount reported in the corresponding column of Line 9. If this is the first year for which the plan is subject to the minimum funding rules of Code section 430 or ERISA section 303, leave both columns blank.

Line 11. Prior Year's Excess Contributions to be Added to Prefunding Balance.

Line 11a. Enter the amount reported in Line 42a on the Schedule SB for the prior plan year.

Line 11b(1). Enter the effective interest rate for the prior plan year, as reported on Line 5 of the Schedule SB for the prior plan year, in the space provided. Enter the rate to the nearest .01% (e.g., 6.35%).

In column (b), enter the product of the prior year's effective interest rate in Line 11b(1) and the excess (if any) of the amount reported on Line 42a for the prior year over the amount reported on Line 42b for the prior year.

However, if the valuation date for the prior plan year was not the first day of the plan year (permitted for small plans only), enter the result of the following calculation:

Step 1: Determine the excess (if any) of the amount reported on Line 42a for the prior year over the amount reported on Line 42b for the prior year,

Step 2: Adjust the result in Step 1 to the first day of the prior year using the effective interest rate for the prior year,

Step 3: Multiply the result in Step 2 by the prior year's effective interest rate in Line 11(b)(1), and

Step 4: Reduce the result in Step 3 by interest on the result in Step 2 of this paragraph for the period between the first day of the prior plan year and the prior-year valuation date using the effective interest rate for the prior year.

The amount reported in Line 11(b)(1) is zero if the prior year's valuation date was the last day of the prior plan year.

Line 11(b)(2). In column (b), enter the product of the prior year's actual rate of return (from Line 10) and the present value of excess contributions reported on Line 42b for the prior year. However, if the valuation date for the prior plan year was not the first day of the plan year (permitted for small plans only), enter the result of the following calculation:

Step 1: Adjust the prior-year amount reported in Line 42b to the first day of the prior year, using the effective interest rate for the prior year,

Step 2: Multiply the result in Step 1 by the prior year's actual rate of return (from Line 10), and

Step 3: Reduce the result in Step 2 by interest on the result in Step 1 for the period between the first day of the prior plan year and the prior-year valuation date using the effective interest rate for the prior year.

Line 11c. Enter the sum of Lines 11a, 11b(1) and 11(b)(2).

Line 11d. Enter the amount of the excess contributions for the prior year (with interest) that the plan sponsor elected to use to increase the prefunding balance. This amount cannot be greater than the amount reported on Line 11c. If this is the first year for which the plan is subject to the minimum funding rules of Code section 430 or ERISA section 303, leave Lines 11a-d blank.

Line 12. Other Reductions in Balances Due to Elections or Deemed Elections. In each column, enter the amount by which the employer elects to reduce (or is deemed to elect to reduce, per Code section 436(f)(3) and ERISA section 206(g)(5)(C)) the funding standard carryover balance or prefunding balance, as applicable, under Code section 430(f) and ERISA section 303(f), other than any amount reported in Line 8 that is treated as a reduction in these balances under the special rule in section 1.430(f)-1(f)(3)(ii) (relating to amounts elected for use to offset the minimum required contribution that exceed the minimum required contribution for the plan for the plan year, and which are not revoked by the plan sponsor). This amount cannot be greater than the sum of the amounts reported in the corresponding column of Lines 9, 10 and, if applicable, 11d. Note that an election (or deemed election) cannot be made to reduce the prefunding balance in column (b) until the funding standard carryover balance in column (a) has been reduced to zero.

If the valuation date is not the first day of the plan year, adjust the amounts reported in Line 12 to the first day of the plan year, using the effective interest rate for the current plan year. If the plan did not exist in the prior year and is not a successor plan, leave both columns blank. If this is the first year for which the plan is subject to the minimum funding rules of Code section 430 or ERISA section 303, leave column (b) blank.

Line 13. Balance at Beginning of Current Year.

Column (a)—Enter the sum of the amounts reported on Lines 9 and 10 of column (a), minus the amount reported on Line 12 of column (a).

Column (b)—Enter the sum of the amounts reported on Lines 9, 10 and 11d of column (b), minus the amount reported on Line 12 of column (b).

If this is the first year for which the plan is subject to the minimum funding rules of Code section 430 or ERISA section 303, leave column (b) blank.

Line 14. Discrepancy in Prior Year Funding Standard Carryover Balance or Prefunding Balance. If the funding standard carryover balance or prefunding balance from the prior year reported on Line 7 has been adjusted so that it does not match the corresponding amount in Line 13 of the prior-year Schedule SB, check the box in Line 14 and provide an explanation. Note that elections to add excess contributions or reduce balances have specific deadlines, and generally cannot be changed once they have been made.

Line 15. Late Election to Apply the Funding Standard Carryover Balance or Prefunding Balance to Quarterly Installments. If an election was made to use the funding standard carryover balance or the prefunding balance to offset the amount of a required quarterly installment, and the election was made after the due date of the installment, so that the amount reported on Line 8 is not the same as the amount reported on Line 39 for the prior year, check the box on Line 15 and provide an explanation.

Line 16. Credit Balance Discrepancy. If there has been any adjustment to the credit balance amount reported in Line 9 so that it does not match the amount so reported for the pre-effective plan year, check the box on Line 16 and provide an explanation.

Part III—Funding Percentages

Enter all percentages in this section by truncating at .01% (e.g., report 82.649% as 82.64%).

Line 17. Funding Target Attainment Percentage. Enter the funding target attainment percentage (FTAP) determined in accordance with Code section 430(d)(2) and ERISA section 303(d)(2). The FTAP is the ratio (expressed as a percentage) which the actuarial value of plan assets (reduced by the funding standard carryover balance and prefunding balance) bears to the funding target determined without regard to the additional rules for plans in at-risk status. This percentage is determined by subtracting the sum of the amounts reported in Line 13 from Line 2b and dividing the result by the funding target. The funding target used for this purpose is the number reported in Line 3d, column (3) for plans that are not in at-risk status and Line 4a for plans that are in at-risk status. If the plan's valuation date is not the first day of the plan year, subtract the sum of the amounts reported in Line 13, adjusted for interest between the beginning of the plan year and the valuation date using the effective interest rate for the current plan year, from the amount reported in Line 2b; and divide by the funding target.

Line 18. Adjusted Funding Target Attainment Percentage. Enter the adjusted funding target attainment percentage (AFTAP) determined in accordance with Code section 436(j)(2) and ERISA section 206(g)(9)(B). The AFTAP is calculated in the same manner as the FTAP reported in Line 17, except that both the assets and the funding target used to calculate the AFTAP are increased by the aggregate amount of purchases of annuities for employees other than highly compensated employees (as defined in Code section 414(q)) which were made by the plan during the preceding two plan years.

See Code section 436(j)(3) and ERISA section 206(g)(9)(C) for rules regarding circumstances in which the actuarial value of plan assets is not reduced by the funding standard carryover balance and prefunding balance for certain fully-funded plans when determining the AFTAP. Note that this special rule applies only to the calculation of the AFTAP and not to the FTAP reported in Line 17.

Report the final certified AFTAP for the plan year, even if it does not correspond to the valuation results reported on this Schedule SB (for instance, if any adjustments pertaining to the plan year were made subsequent to the valuation or the AFTAP). If no AFTAP was certified for the plan year, check the box and attach an explanation and (1) report 100%, if the plan's adjusted funding target for the plan year is zero, as described in section 1.436-1(j)(1)(iv) of the Treasury regulations, or (2) leave Line 18 blank if the plan's adjusted funding target for the plan year is not equal to zero. Label the attachment, “Line 18, Reconciliation of differences between valuation results and amounts used to calculate AFTAP.” For plans with valuation dates other than the first day of the plan year, report the AFTAP that is the final certified AFTAP based on the valuation results for the current plan year at the time that the Schedule SB is filed (reflecting contributions for the current plan year and reflecting other adjustments as described in applicable guidance), even if that AFTAP is not used to apply the restrictions under Code section 436 and ERISA section 206(g) until the following plan year.

If the AFTAP reported on Line 18 does not correspond to the valuation results reported on this Schedule SB (for instance, if any adjustments pertaining to the plan year were made subsequent to the valuation), check the box and attach a schedule showing each AFTAP that was certified or recertified for the plan year, the date of the certification (or recertification), and a description and the amount of each adjustment to the funding target, actuarial value of assets, funding standard carryover balance and prefunding balance used to determine the corresponding AFTAP. Label the attachment, “Line 18, Reconciliation of differences between valuation results and amounts used to calculate AFTAP.” It is not necessary to include any information pertaining to a range certification in this attachment.

Special rules for airlines using 10-year amortization period under section 402(a)(2) of PPA. Section 402(a)(2) of PPA (as amended) states that for plans electing the 10-year funding amortization period, the funding target during that period is determined using an interest rate of 8.25% rather than the interest rates or segment rates calculated on the basis of the corporate bond yield curve. Report the AFTAP for these plans based on the funding target determined using the special 8.25% interest rate.

Line 19. Prior Year's Funding Percentage for Purposes of Determining Whether Carryover/Prefunding Balances May Be Used To Offset Current Year's Funding Requirement. Under Code section 430(f)(3) and ERISA section 303(f)(3), the funding standard carryover balance and prefunding balance may not be applied toward minimum contribution requirements unless the ratio of plan assets for the preceding plan year to the funding target for the preceding plan year (as described in Code section 430(f)(3)(C) and ERISA section 303(f)(3)(C)) is 80% or more.

Enter the applicable percentage as described below, truncated at .01% (e.g., report 81.239% as 81.23%). In general, the percentage is the ratio that the prior-year actuarial value of plan assets (reduced by the amount of any prefunding balance, but not the funding standard carryover balance) bears to the prior-year funding target determined without regard to the additional rules for plans in at-risk status. This percentage is determined as follows, with all amounts taken from the prior year's Schedule SB:

1. For plans that are not in at-risk status, subtract the amount reported on Line 13, column (b) (adjusted for interest as described below, if the valuation date is not the first day of the plan year) from the amount reported on Line 2b, and divide the result by the funding target reported on Line 3d, column (3).

2. For plans that are in at-risk status, subtract the amount reported on Line 13, column (b) (adjusted for interest as described below, if the valuation date is not the first day of the plan year) from the amount reported on Line 2b, and divide the result by the funding target reported on Line 4a.

If the valuation date for the prior plan year was not the first day of that plan year, the amount subtracted from the assets for the purpose of the above calculations is the amount reported on Line 13, column(b), adjusted for interest between the beginning of the prior plan year and the prior year's valuation date, using the effective interest rate for the prior plan year.

Line 20. Ratio of Current Value of Assets to Funding Target if Below 70%. This calculation is required under ERISA section 103(d)(11). If Line 2a divided by the funding target reported in Line 3d, column (3), is less than 70%, enter such percentage. Otherwise, leave this line blank.

Part IV—Contributions and Liquidity Shortfalls

Line 21. Contributions Made to the Plan. Show all employer and employee contributions either designated for this plan year or those allocated to unpaid minimum required contributions for a prior plan year. Do not adjust contributions to reflect interest in column (b). Show only employer contributions actually made to the plan within 8½ months after the end of the plan year for which this Schedule SB is filed (or actually made before the Schedule SB is signed, if earlier).

Certain employer contributions must be made in quarterly installments. See Code section 430(j) and ERISA section 303(j). Contributions made to meet the liquidity requirement of Code section 430(j)(4) and ERISA section 303(j)(4) should be reported. Include contributions made to avoid benefit restrictions under Code section 436 and ERISA section 206(g).

Add the amounts in both columns 21(b) and 21(h) separately and enter each result in the corresponding column on the total line. All contributions except those made to avoid benefit restrictions under Code section 436 and ERISA section 206(g) must be credited toward minimum funding requirements for a particular plan year.

Employer contributions reported in Line 21 that were made on a date other than the valuation date must be adjusted to reflect interest for the time period between the valuation date for the plan year to which the contribution is allocated and the date the contribution was made. In general, adjust each contribution using the effective interest rate reported on Line 5 for the plan year to which the contribution is allocated.

Show the dates and amounts of individual contributions, the year to which the contributions (or the portion of individual contributions) are applied, the interest rate(s) used to adjust the contributions (i.e., the effective interest rate for timely contributions and the applicable effective interest rate plus 5% for late quarterly installments) and the periods during which each rate applies, and the interest-adjusted contribution. In Line 21(g), allocate the interest-adjusted employer contributions to Lines 22a, 22b, and 22c to report the purpose for which they were made (as described below).

Special note for small plans with valuation dates after the beginning of the plan year. If the valuation date is after the beginning of the plan year and contributions for the current year were made during the plan year but before the valuation date, such contributions are increased with interest to the valuation date using the effective interest rate for the current plan year. These contributions and the interest calculated as described in the preceding sentence are excluded from the value of assets reported in Lines 2a and 2b.

Interest adjustment for contributions representing late required quarterly installments—installments due after the valuation date. If the full amount of a required installment due after the valuation date for the current plan year is not paid by the due date for that installment, increase the effective interest rate used to discount the contribution by 5 percentage points for the period between the due date for the required installment and the date on which the payment is made. If all or a portion of the late required quarterly installment is due to a liquidity shortfall, the increased interest rate is used for a period of time corresponding to the period between the due date for the installment and the end of that quarter, regardless of when the contribution is actually paid.

Interest adjustment for contributions representing late required quarterly installments—small plans with valuation dates after the beginning of the plan year—installments due prior to the valuation date. See the regulations under section 430 for rules regarding interest adjustments for late quarterly contributions for quarterly contributions due before the valuation date.

Line 22. Discounted Employer Contributions.

Line 22a. Contributions Allocated Toward Unpaid Minimum Required Contributions from Prior Plan Years. Code section 4971(c)(4)(B) provides that any payment to or under a plan for any plan year shall be allocated first to unpaid minimum required contributions for all preceding plan years on a first-in, first-out basis and then to the minimum required contribution for the current plan year. Report any contributions from Line 21 that are allocated toward unpaid minimum required contributions from prior plan years, discounted for interest from the date the contribution was made to the valuation date for the plan year for which the contribution was originally required as described above. Increase the effective interest rate for the applicable plan year by 5 percentage points for any portion of the unpaid minimum required contribution that represents a late quarterly installment, for the period between the due date for the installment and the date of payment. Reflect the increased interest rate for any portion of the unpaid minimum required contribution that represents a late liquidity shortfall installment, for the period corresponding to the time between the date the installment was due and the end of the quarter during which it was due. The amount reported in Line 22a cannot be larger than the amount reported in Line 32.

For the purpose of allocating contribution amounts to unpaid minimum required contributions, any unpaid minimum required contribution attributable to an accumulated funding deficiency at the end of the last plan year before Code section 430 or ERISA section 303 applied to the plan (the “pre-effective plan year”) is treated as a single contribution due on the last day of the pre-effective plan year (without separately identifying any portion of the accumulated funding deficiency attributable to late quarterly installments or late liquidity shortfall installments), and the associated effective interest rate is deemed to be the valuation interest rate for the pre-effective plan year.

Line 22b. Contributions Made To Avoid Benefit Restrictions. Include in this category current year contributions made to avoid or terminate benefit restrictions under Code section 436 and ERISA section 206(g). Adjust each contribution for interest from the date the contribution was made to the valuation date as described above.

Line 22c. Contributions Allocated Toward Minimum Required Contribution for Current Year. Include in this category contributions (including any contributions made in excess of the minimum required contribution) that are not included in Line 22a or 22b. Adjust each contribution for interest from the date the contribution was made to the valuation date as described above.

Line 23. Quarterly Contributions and Liquidity Shortfalls.

Line 23a. Did the Plan Have a Funding Shortfall for the Prior Plan Year? In accordance with Code section 430(j)(3) and ERISA section 303(j)(3), only plans that have a funding shortfall for the preceding plan year are subject to an accelerated quarterly contribution schedule. For this purpose, a plan is considered to have a funding shortfall for the prior year if the funding target reported on Line 3d, column (3) is greater than the actuarial value of assets reported on Line 2b, reduced by the sum of the funding standard carryover balance and prefunding balance reported on Line 13, columns (a) and (b), with all figures taken from the prior year's Schedule SB.

If the valuation date for the prior plan year was not the first day of that plan year, the amount subtracted from the actuarial value of assets for the above calculation is the sum of the amounts reported on Line 13, columns (a) and (b) of the prior-year Schedule SB, but adjusted for interest between the beginning of the prior plan year and the prior year's valuation date using the effective interest rate for the plan for the prior plan year.

However, see Code section 430(f)(4)(B)(ii) and ERISA section 303(f)(4)(B)(ii) for special rules in the case of a binding agreement with the PBGC providing that all or a portion of the funding standard carryover balance and/or prefunding balance is not available to offset the minimum required contribution for the prior plan year.

Please note that a plan may be considered to have a funding shortfall for this purpose even if it is exempt from establishing a shortfall amortization base under the provisions of Code section 430(c)(5) and ERISA section 303(c)(5).

Line 23b. If Line 23a is “No” (i.e., if the plan did not have a funding shortfall in the prior plan year), the plan is not subject to the quarterly contribution rules, and this line should not be completed. If Line 23a is “Yes,” check the “Yes” box on Line 23b if required installments for the current plan year were made in a timely manner; otherwise, check “No.”

Line 23c. If Line 23a is “No,” or the plan had 100 or fewer participants on every day of the preceding plan year (as defined for line F), the plan is not subject to the liquidity requirement of Code section 430(j)(4) and ERISA section 303(j)(4) and this line should not be completed. Check the box and attach a certification by the enrolled actuary if the special rule for nonrecurring circumstances is used, and label the certification “Schedule SB, Line 23c—Liquidity Requirement Certification.” See Code section 430(j)(4)(E)(ii)(II) and ERISA section 303(j)(4)(E)(ii)(II).

If the plan is subject to the liquidity requirement and has a liquidity shortfall for any quarter of the plan year (see Code section 430(j)(4)(E) and ERISA section 303(j)(4)(E)), enter the amount of the liquidity shortfall for each such quarter. If the plan was subject to the liquidity requirement but did not have a liquidity shortfall, enter zero. File IRS Form 5330, Return of Excise Taxes Related to Employee Benefit Plans, with the IRS to pay the 10% excise tax(es) if there is a failure to pay any liquidity shortfall by the required due date, unless a waiver of the 10% tax has been granted under Code section 4971(f)(4).

Part V—Assumptions Used To Determine Funding Target and Target Normal Cost

Attach a statement of actuarial assumptions and funding methods used to calculate the Schedule SB entries and label the statement “Schedule SB, Part V—Statement of Actuarial Assumptions/Methods.” The statement must describe all non-prescribed actuarial assumptions (e.g., retirement, withdrawal rates) used to determine the funding target and target normal cost, including the assumption as to the frequency with which participants are assumed to elect each optional form of benefit (including lump sum distributions), whether mortality tables are applied on a static or generational basis, whether combined mortality tables are used instead of separate annuitant and nonannuitant mortality tables (for plans with 500 or fewer participants as of the valuation date), and (for target normal cost) expected plan-related expenses and increases in compensation. For applicable defined benefit pension plans under Code section 411(a)(13)(C) and ERISA section 203(f)(3) (e.g., cash balance plans) the statement must include the assumptions used to convert balances to annuities. In addition, the statement must describe the method for determining the actuarial value of assets and any other aspects of the funding method for determining the Schedule SB entries that are not prescribed by law.

Also attach a summary of the principal eligibility and benefit provisions on which the valuation was based, including the status of the plan (e.g., frozen eligibility, service/pay, or benefits), optional forms of benefits, special plan provisions, including those that apply only to a subgroup of employees (e.g., those with imputed service), supplemental benefits, and identification of benefits not included in the valuation, a description of any significant events that occurred during the year, a summary of any changes in principal eligibility or benefit provisions since the last valuation, and a description (or reasonably representative sample) of plan early retirement reduction factors and optional form conversion factors. Label the summary “Schedule SB, Part V—Summary of Plan Provisions.”

Also, include any other information needed to disclose the actuarial position of the plan fully and fairly.

Line 24. Discount Rate. All discount rates are to be reported and used as published by the IRS, and are to be applied as annual rates without adjustment.

Line 24a. Enter the three segment rates used to calculate the funding target and target normal cost as provided under Code section 430(h)(2)(C) and ERISA section 303(h)(2)(C) and as published by the IRS, unless the plan sponsor has elected to use the full yield curve. If the sponsor has elected to use the full yield curve, check the “N/A, full yield curve used” box. Special rules for airlines using 10-year amortization period under section 402(a)(2) of PPA (as amended). Enter the information described above to reflect the discount rates used to determine the target normal cost in accordance with Code section 430(h)(2) and ERISA section 303(h)(2). Do not enter the special 8.25% interest rate used to determine the funding target under section 402(a)(2) of PPA.

Line 24b. Code section 430(h)(2)(E) and ERISA section 303(h)(2)(E) provide that the segment rate(s) used to measure the funding target and target normal cost are those published by Treasury for the month that includes the valuation date (based on the average of the monthly corporate bond yield curves for the 24-month period ending with the month preceding that month). Alternatively, at the election of the plan sponsor, the segment rate(s) used to measure the funding target and target normal cost may be those published by Treasury for any of the four months that precede the month that includes the valuation date.

Enter the applicable month to indicate which segment rates were used to determine the funding target and target normal cost. Enter “0” if the rates used to determine the funding target and target normal cost were published for the month that includes the valuation date. Enter “1” if the rates were published for the month immediately preceding the month that includes the valuation date, “2” for the second preceding month, and “3” or “4,” respectively, for the third or fourth preceding months. For example, if the valuation date is January 1 and the funding target and target normal cost were determined based on rates published for November, enter “2.”

Note. The plan sponsor's interest rate election under Code section 430(h)(2) or ERISA section 303(h)(2) (an election to use the yield curve or an election to use an applicable month other than the default month) generally may not be changed unless the plan sponsor obtains approval from the IRS. However, see the regulations under section 430(h)(2) for circumstances in which a change in interest rate may be made without obtaining approval from the IRS.

Line 25. Weighted Average Retirement Age. Enter the weighted average retirement age for active participants. If the plan is in at-risk status, enter the weighted average retirement age as if the plan were not in at-risk status. If each participant is assumed to retire at his/her normal retirement age, enter the age specified in the plan as normal retirement age. If the normal retirement age differs for individual participants, enter the age that is the weighted average normal retirement age; do not enter “NRA.” Otherwise, enter the assumed retirement age. If the valuation uses rates of retirement at various ages, enter the nearest whole age that is the weighted average retirement age.

On an attachment to Schedule SB, list the rate of retirement at each age and describe the methodology used to compute the weighted average retirement age, including a description of the weight applied at each potential retirement age, and label the attachment “Schedule SB, Line 25—Description of Weighted Average Retirement Age.”

Line 26. Mortality Tables. Mortality tables described in Code section 430(h)(3), ERISA section 303(h)(3), and section 1.430(h)(3)-1 of the regulations as published by the IRS must be used to determine the funding target and target normal cost for non-disabled participants and may be used to determine the funding target and target normal cost for disabled participants, unless the IRS has approved (or was deemed to have approved) the use of a substitute mortality table for the plan. Standard mortality tables must be either applied on a generational basis, or the tables must be updated to reflect the static tables published for the year in which the valuation date occurs. Substitute mortality tables must be applied in accordance with the terms of the IRS ruling letter.

Separate standard mortality tables were published by the IRS for annuitants (rates applying for periods when a participant is assumed to receive a benefit under the plan) and nonannuitants (rates applying to periods before a participant is assumed to receive a benefit under the plan). If a plan has 500 or fewer participants as of the valuation date for the current plan year as reported in Line 3d, column (1), the plan sponsor can elect to use the combined mortality tables published by the IRS, which reflect combined rates for both annuitants and nonannuitants.

Line 26a. Mortality Tables Used. Check the applicable box to indicate which mortality table was used to determine the funding target and target normal cost. If one mortality table was used for certain populations within the plan and a different mortality table was used for other populations, check the box for the table that applied to the largest population.

1. Check “Prescribed—combined” if the funding target and target normal cost are based on the prescribed tables with combined annuitant/nonannuitant mortality rates.

2. Check “Prescribed—separate” if the funding target and target normal cost are based on the prescribed tables with separate mortality rates for nonannuitants and annuitants.

3. Check “Substitute” if the funding target and target normal cost are based on substitute mortality tables.

Line 26b. Use of More Than One Mortality Table. If more than one mortality table was used, check the box and provide an explanation describing the mortality table used for each population and the size of that population.

Line 26c. Substitute Mortality Tables. If substitute mortality tables are used, check the box and provide a summary of plan populations for which substitute mortality tables are used, plan populations for which the prescribed tables are used, and the last plan year for which the IRS approval of the substitute mortality tables applies.

Part VI—Miscellaneous Items

Line 27. Change in Non-Prescribed Actuarial Assumptions. Check the box if a change has been made in the non-prescribed actuarial assumptions for the current plan year. Provide a description of any change in non-prescribed actuarial assumptions and justifications for any such change. If the only assumption changes are statutorily required changes in the discount or mortality rates, or changes required for plans in at-risk status, do not check the box and do not provide a description of the changes. (See section 103(d) of ERISA.) If the non-prescribed assumptions have been changed in a way that decreases the funding shortfall for the current plan year, approval for such a change may be required.

Line 28. Change in Method. Check the box if a change in the method has been made for the current plan year. For this purpose, a change in funding method refers to not only a change in the overall method used by the plan, but also each specific method of computation used in applying the overall method. Accordingly, funding method changes include modifications such as a change in the method for calculating the actuarial value of assets or a change in the valuation date (not an exclusive list). Also check the box if there has been a change in the method for determining the discount rates reported in Line 24. In general, any changes in a plan's method must be approved by the IRS. However, see the regulations under Code section 430 and Announcement 2010-3, 2010-4 I.R.B. 333, for circumstances in which a change in method may be made without obtaining approval from the IRS. Provide a description of the change.

Note. The plan sponsor's agreement to certain changes in funding method should be reported on Line 9 of Schedule R (Form 5500).

Line 29a. Schedule of Active Participant Data. Check “Yes” on Line 29a(i) only if (a) the plan is covered by Title IV of ERISA and (b) the plan has active participants. If Line 29a(i) is “Yes,” complete the schedule in Line 29a(ii) with the active plan participant data used in the valuation for this plan year and enter the average age and average credited service of the active participants on Lines 29a(iii) and 29a(iv), respectively. Include all active participants in the averages, even ones that are not required to be shown in the schedule under the instructions below. For each column, enter the number of active participants with the specified number of years of credited service divided according to age group. For participants with partial years of credited service, round the total number of years of credited service to the next lower whole number. Years of credited service are the years credited under the plan's benefit formula.

Plans reporting 1,000 or more active participants on Line 3d, column (1), must also provide average compensation data. For each grouping, enter the average compensation of the active participants in that group. For this purpose, compensation is the compensation taken into account for each participant under the plan's benefit formula, limited to the amount defined under section 401(a)(17) of the Code. Do not enter the average compensation in any grouping that contains fewer than 20 participants.

In the case of a plan under which benefits are primarily pay-related and under which no future accruals are granted (i.e., a “frozen” plan as defined in the instructions for Line 9a(4) of the Form 5500), check the box and report the average annual accrued benefit in lieu of average compensation.

Cash balance plans (or any similar plans that check the box on Line 9a(1) of Form 5500) reporting 1,000 or more active participants on Line 3d, column (1), must also provide average cash balance account data, regardless of whether all active participants have cash balance accounts. For each age/service bin, enter the average cash balance account of the active participants in that bin. Do not enter the average cash balance account in any age/service bin that contains fewer than 20 active participants.

General Rule. When all active participants in the plan have a cash balance account, data to be shown in each age/service bin includes:

1. The number of active participants in the age/service bin,

2. The average compensation of the active participants in the age/service bin, and

3. The average cash balance account of the active participants in the age/service bin.

If the accrued benefit is the greater of a cash balance benefit or some other benefit, average in only the cash balance account. If the accrued benefit is the sum of a cash balance account benefit and some other benefit, average in only the cash balance account. For both the average compensation and the average cash balance account, do not enter an amount for age/service bins with fewer than 20 active participants.

When some active participants do not have cash balance accounts, an alternative is provided for showing compensation and cash balance accounts, requiring two age/service scatters as follows:

• Scatter 1—Provide participant count and average compensation for all active participants, without account-based benefits.

• Scatter 2—Provide participant count and average cash balance account for only those active participants with account-based benefits. If the number of participants with account-based benefits in a bin is fewer than 20, the average account should not be shown even if there are 20 or more active participants in this bin on Scatter 1.

In general, information should be determined as of the valuation date. Average cash balance accounts may be determined as of either:

1. The valuation date or

2. The day immediately preceding the valuation date.

Average cash balance accounts that are offset by amounts from another plan may be reported either as amounts prior to taking into account the offset or as amounts after taking into account the offset. Do not report the offset amount. For this or any other unusual or unique situation, the attachment should include an explanation of what is being provided.

If the plan is a multiple-employer plan, complete one or more schedules of active participants in a manner consistent with the computations for the funding requirements reported in Part VIII. For example, if the funding requirements are computed as if each participating employer maintained a separate plan, complete a separate Schedule of Active Participant Data for each participating employer in the multiple-employer plan on the separate Schedule SB attached in accordance with the instructions for Line E.

Line 29b. Schedule of Retired Participants and Beneficiaries Receiving Payment Data. Check “Yes” on Line 29b(i) only if (a) the plan is covered by Title IV of ERISA and (b) the plan has retired participants and beneficiaries receiving payment at the valuation date. If Line 29b(i) is “Yes,” complete the schedule in Line 29b(ii) with the retired participant and beneficiary data used in the valuation for this plan year and enter the average age and average in-pay annual benefit of the retired participants and beneficiaries on Lines 29b(iii) and 29b(iv), respectively. Do not report average annual benefit information for age bins where there are 10 or less retired participants and beneficiaries receiving payment in the average.

If the plan is a multiple-employer plan, complete one or more schedules of retired participant and beneficiary data in a manner consistent with the computations for the funding requirements reported in Part VIII. For example, if the funding requirements are computed as if each participating employer maintained a separate plan, complete a separate Schedule of Retired Participants and Beneficiaries Receiving Payment Data for each participating employer in the multiple-employer plan on the separate Schedule SB attached in accordance with the instructions for Line E.

Line 29c. Schedule of Terminated Vested Participant Data. Check “Yes” on Line 29c(i) only if (a) the plan is covered by Title IV of ERISA and (b) the plan has terminated vested participants at the valuation date. If Line 29c(i) is “Yes,” complete the schedule in Line 29c(ii) with the terminated vested participant data used in the valuation for this plan year and enter the average age and average annual benefit of the terminated vested participants on Lines 29c(iii) and 29c(iv), respectively. Do not report average annual benefit information for age bins where there are 10 or less terminated vested participants in the average. Include the assumed form of payment and the assumed first age of payment in Lines 29c(v) and 29c(vi), respectively, for the benefit amounts shown in the schedule.

If the plan is a multiple-employer plan, complete one or more schedules of terminated vested participant data in a manner consistent with the computations for the funding requirements reported in Part VIII. For example, if the funding requirements are computed as if each participating employer maintained a separate plan, complete a separate Schedule of Terminated Vested Participant Data for each participating employer in the multiple-employer plan on the separate Schedule SB attached in accordance with the instructions for Line E.

Line 30. Projection of Expected Benefit Payments. Check “Yes” on Line 30a if this is a single-employer plan covered by Title IV of ERISA and is required to provide a projection of expected benefit payments. Do not report information if the plan has less than 500 participants as of the valuation date.

If Line 30a is “Yes,” in Line 30b provide a projection of benefits expected to be paid (not to include expected expenses) in each of the next ten years starting with the current plan year of this filing assuming (1) no additional accruals, (2) experience (e.g., termination, mortality, and retirement) are in line with valuation assumptions, and (3) no new entrants are covered by the plan.

Line 31. Alternative Funding Rules. If one of the alternative funding rules was used for this plan year, enter the appropriate code from the table below and follow the special instructions applicable to that code, including completion of any required attachments.

Code Alternative Funding Rule

1 A CSEC Act plan that is described in Code section 414(v). This includes certain multiple-employer plans maintained by rural cooperatives and other specified cooperative organizations and certain plans maintained by more than 1 employer (determined after application of Code section 414(b) and (c)), all of which are described in Code section 501(c (3). Do not use Code 1 for a plan that satisfies the definition of CSEC plan that has made the election not to be treated as a CSEC plan.

2 This code, formerly used by certain plans maintained by PBGC settlements as described in section 105 of PPA, is no longer applicable and should not be used.

3 Reserved.

4 Plans with binding agreements with PBGC to maintain prefunding and/or funding standard carryover balances described in Code section 430(f)(4)(B)(ii) and ERISA section 303(f)(4)(B)(ii).

5 Airlines using 10-year amortization period for initial post-PPA shortfall amortization base under section 402(a)(2) of PPA (as amended).

6 Airlines with frozen plans using alternative 17-year funding schedule under section 402(a)(1) of PPA.

7 Interstate transit company described in section 115 of PPA.

8 A plan subject to 104 of PPA as amended that is not a CSEC plan. This includes plans that fit into the definition of a CSEC plan that elect out of CSEC plan status and become subject to section 104 of PPA as amended, and certain plans maintained by more than 1 employer (determined without regard to section 414(c)) where all of the employers are described in section 501(c)(3). Do not use Code 8 for a PPA section 104 plan that has made an election to not be treated as an eligible charity plan.

Special Instructions for Codes 1 through 8

CSEC Plans, as described in Code section 414(y) and subject to Code section 433 (code 1).

Reserved

Plans with binding agreements with the PBGC to maintain prefunding and/or carryover balances (code 4). Complete entire Schedule SB and attachments as outlined in these instructions. In addition, report on an attachment the amount subject to the binding agreement with the PBGC, reported separately for the funding standard carryover balance and prefunding balance. Label the attachment “Schedule SB, Line 31—Balances Subject to Binding Agreement with PBGC.”

Airlines using 10-year amortization period for initial post-PPA shortfall amortization base (code 5). Complete the entire Schedule SB and attachments as outlined in these instructions. Under section 402(a)(2) of PPA (as amended), the funding target for plans funded using this alternative is determined using an interest rate of 8.25% for each of the 10 years during the amortization period instead of the interest rates otherwise required under Code section 430(h)(2) and ERISA section 303(h)(2). However, this special 8.25% interest rate does not apply for other purposes, including the calculation of target normal cost or the amortization of the funding shortfall.

Airlines with frozen plans using alternative 17-year funding schedule (code 6). Complete the following lines on Schedule SB and provide associated attachments:

• Lines A through F.

• Part I (including signature of enrolled actuary)—complete all lines.

• Parts III through VII—complete all lines.

For this purpose, disregard the special funding rules under section 402(e) of PPA except for the information reported on the following lines:

• Lines 21 and 22—Discount contributions to the applicable valuation date using the 8.85% discount rate provided under section 402(e)(4)(B) of PPA.

• Line 23—Reflect required quarterly installments based on the minimum required contribution determined under section 402(e) of PPA to the extent applicable (i.e., for purposes of calculating the required annual payment under Code section 430(j)(3)(D)(ii)(l) and ERISA section 303(j)(3)(D)(ii)(l)).

• Line 33—Reflect the minimum required contribution determined under section 402(e) of PPA when determining the unpaid minimum required contribution.

Also, attach a worksheet showing the information below, determined in accordance with section 402(e) of PPA. Label this worksheet “Schedule SB, Line 31—Alternative 17-Year Funding Schedule for Airlines.”

• Date as of which plan benefits were frozen as required under section 402(b)(2) of PPA.

• Date on which the first applicable plan year began.

• Accrued liability under the unit credit method calculated as of the first day of the plan year, using an interest rate of 8.85%.

• A summary of all other assumptions used to calculate the unit credit accrued liability.

• Fair market value of assets as of the first day of the plan year.

• Unfunded liability under section 402(e)(3)(A) of PPA.

• Alternative funding schedule:

1. Contribution necessary to amortize the unfunded liability over the remaining number of years, assuming payments at the valuation date for each plan year and using an interest rate of 8.85%;

2. Employer contributions for the plan year, discounted for interest to the valuation date for the plan year, and using a rate of 8.85%; and

3. Contribution shortfall, if any ((1)-(2) but not less than zero).

Interstate transit company (code 7). Complete the entire Schedule SB, reflecting the modifications to the otherwise-required funding rules under section 115(b) of PPA, and disregarding the attachment required for plans reporting the use of the substitute mortality table in Line 26.

Plans entitled to delayed effective dates for PPA funding rules (code 8).

For plan years before Code section 430 and ERISA section 303 apply to the plan, complete only the following lines on Schedule SB:

Lines A through F.

1. Part I (including signature of enrolled actuary), determined as if PPA provisions were effective for all plan years beginning after December 31, 2007.

2. Part III, Line 17, determined as if PPA provisions were effective for all plan years beginning after December 31, 2007.

3. Part V, determined as if PPA provisions were effective for all plan years beginning after December 31, 2007.

4. If the minimum required contribution for any year was determined using pension funding relief under section 107 of PPA '06, as added by PRA 2010, complete Part IX, Lines 45a and 45b.

Also, report other information for the current plan year using a 2007 Schedule B (Form 5500). Label this attachment “20XX Schedule SB, Line 31—Actuarial Information Based on Pre-PPA Funding Rules.” Complete all items, and attach the form and all applicable attachments to the Schedule SB. Note that under PPA, the third segment rate determined under Code section 430(h)(2)(C)(iii) and ERISA section 303(h)(2)(C)(iii) is substituted for the current liability interest rate under Code section 412(b)(5)(B) and ERISA section 302(b)(5)(B) (as in effect before PPA).

Part VII—Reconciliation of Unpaid Minimum Required Contributions for Prior Years

Line 32. Unpaid Minimum Required Contributions for Prior Years. Enter the total amount of any unpaid minimum required contributions for all years from Line 44 of the Schedule SB for the prior plan year.

If this is the first year that the plan is subject to the minimum funding requirements of Code section 430 or ERISA section 303, enter the amount of any accumulated funding deficiency at the end of the prior year (the pre-effective plan year). This is the amount reported on Line 9p of the 2007 Schedule B form that was submitted as an attachment to the Schedule SB for the pre-effective plan year.

Line 33. Discounted Employer Contributions Allocated Toward Unpaid Minimum Required Contributions from Prior Years. Enter the total amount of discounted contributions made for the current plan year allocated toward unpaid minimum required contributions from prior years as reported in Line 22a.

Line 34. Remaining Unpaid Minimum Required Contributions. Enter the amount in Line 32 minus the amount in Line 33.

Part VIII—Minimum Required Contribution for Current Year

Line 35. Target Normal Cost and Excess Assets.

Line 35a. Target Normal Cost (Line 6c). Enter the target normal cost as reported in Line 6c.

Line 35b. Excess Assets. Enter the excess, if any, of the value of assets reported on Line 2b reduced by any funding standard carryover balance and prefunding balance on Line 13, columns (a) and (b), over the funding target reported on Line 3d, column (3). If the valuation date is not the first day of the plan year, excess assets are determined as the value of assets reported on Line 2b reduced by any funding standard carryover balance and prefunding balance reported on Line 13, columns (a) and (b), adjusted for interest at the effective interest rate for the period between the beginning of the plan year and the valuation date, minus the funding target reported on Line 3d, column (3) (but not less than zero). Limit the amount reported in Line 35b so that it is not greater than the target normal cost reported in Line 35a.

Line 36. Amortization Installments.

Line 36a. Shortfall Amortization Bases and Amortization Installments.

Outstanding balance. If the plan's funding shortfall (determined under Code section 430(c)(4) and ERISA section 303(c)(4)) is zero, all amortization bases and related installments are considered fully amortized. In this case, enter zero. Otherwise, enter the sum (but not less than zero) of the outstanding balances of all shortfall amortization bases (including any new shortfall amortization base established for the current plan year). The outstanding balance for each amortization base established in past years is equal to the present value as of the valuation date of any remaining amortization installments for each base (including the amortization installment for the current plan year), using the interest rates reported on Line 24.

A plan is generally exempt from the requirement to establish a new shortfall amortization base for the current plan year if the funding target reported on Line 3d, column (3), is less than or equal to the reduced value of assets as described below.

For the purpose of determining whether a plan is exempt from the requirement to establish a new shortfall amortization base for the current plan year, the reduced value of assets is the amount reported on Line 2b, reduced by the full value of the prefunding balance reported on Line 13, column (b), adjusted for interest for the period between the beginning of the plan year and the valuation date using the effective interest rate for the current plan year, if the valuation date is not the first day of the plan year. However, the assets are reduced by the prefunding balance if and only if the plan sponsor has elected to use any portion of the prefunding balance to offset the minimum required contribution for the current plan year, as reported on Line 39. The assets are not reduced by the amount of any funding standard carryover balance for this calculation regardless of whether any portion of the funding standard carryover balance is used to offset the minimum required contribution for the plan year.

If the plan is not exempt from the requirement to establish a new shortfall amortization base for the current plan year, the amount of that base is generally equal to the difference between the funding shortfall as of the valuation date (determined under Code section 430(c)(4) and ERISA section 303(c)(4)) and the sum of any outstanding balances of any previously established shortfall and waiver amortization bases. The new shortfall amortization base may be either greater than or less than zero.

For the purpose of determining the amount of any new shortfall amortization base, the funding shortfall is equal to the amount of the funding target reported on Line 3d, column (3), minus the reduced value of assets, but not less than zero.

If the plan's valuation date is the first day of the plan year, then the reduced value of assets for the purpose of determining the amount of any new shortfall amortization base is the amount reported on Line 2b, reduced by the sum of the funding standard carryover balance and the prefunding balance reported on Line 13, columns (a) and (b). However, if the plan's valuation date is not the first day of the plan year, then the reduced value of assets for the purpose of determining the amount of any new shortfall amortization base is the amount reported on Line 2b, reduced by the sum of the funding standard carryover balance and the prefunding balance reported on Line 13, columns (a) and (b), adjusted for interest for the period between the beginning of the plan year and the valuation date (using the effective interest rate for the current plan year). See Code section 430(f)(4)(B)(ii) and ERISA section 303(f)(4)(B)(ii) for special rules in the case of a binding agreement with the PBGC providing that all or a portion of the funding standard carryover balance and/or prefunding balance is not available to offset the minimum required contribution for the plan year.

Shortfall amortization installment—Enter the sum (but not less than zero) of:

1. Any shortfall amortization installments that were established to amortize shortfall amortization bases established in prior years, excluding amortization installments for bases that have been or are deemed to be fully amortized, and

2. The shortfall amortization installment that corresponds to any new shortfall amortization base established for the current plan year. This amount is the level amortization payment that will amortize the new shortfall amortization base over 7 annual payments, using the interest rates reported in Line 21 for the current plan year.

Note. (1) Shortfall amortization installments for a given shortfall amortization base are not re-determined from year to year regardless of any changes in interest rates or valuation dates. (2) If an election was made to use an alternative shortfall amortization schedule under Code section 430(c)(2)(D) and ERISA section 303(c)(2)(D) added by PRA 2010, the shortfall amortization installment is the amount determined in accordance with the shortfall amortization schedule chosen and guidance issued by Treasury and the IRS. Include any increase to the shortfall amortization installment for this year due to the installment acceleration amount, as provided in Code section 430(c)(7) and ERISA section 303(c)(7).

Line 36b. Waiver Amortization Bases and Amortization Installments.

Outstanding balance—If the plan's funding shortfall (determined under Code section 430(c)(4) and ERISA section 303(c)(4)) is zero, all waiver amortization bases and related installments are considered fully amortized. In this case, enter zero. Otherwise, enter the present value as of the valuation date of all remaining waiver amortization installments (including any installment for the current plan year), using the interest rates reported on Line 24. Do not include any new waiver amortization base established for a waiver of minimum funding requirements for the current plan year.

Waiver amortization installments—Enter the sum of any remaining waiver amortization installments that were established to amortize any waiver amortization bases for prior plan years, unless such bases have been or are deemed to be fully amortized. Do not include an amortization installment for any new waiver amortization base established for a waiver of minimum funding requirements for the current plan year.

Note. If a waiver of minimum funding requirements has been granted for the current plan year, a waiver amortization base is established as of the valuation date for the current plan year equal to the amount of the funding waiver reported in Line 37. The waiver amortization installment that corresponds to any waiver amortization base established for the current year is the level amortization payment that will amortize the new waiver amortization base over 5 annual payments, using the same segment interest rates or rates from the full yield curve reported on Line 24 for the current plan year, but with the first payment due on the valuation date for the following plan year. The amount of the waiver amortization base and the waiver amortization installments for this base are not reported in Line 36b for the year in which they are established. Rather, these are included in the entries for Line 36b on the Schedule SB for the following plan year.

Note. Waiver amortization installments (including the waiver amortization installments of any waiver amortization base established for the prior plan year) are not re-determined from year to year regardless of any changes in interest rates or valuation dates.

Required Schedule of Amortization Bases. If there are any shortfall or waiver amortization bases, complete the schedule listing all bases (other than a base established for a funding waiver for the current plan year) showing for each base:

1. The type of base (shortfall or waiver),

2. The present value of any remaining installments (including the installment for the current plan year),

3. The valuation date as of which the base was established,

4. The number of years remaining in the amortization period, and

5. The amortization installment.

If a base is negative (i.e., a “gain base”), show amounts in parentheses or with a negative sign in front of them. All amounts must be calculated as of the valuation date for the plan year.

If any of the shortfall amortization bases shown on this schedule are being amortized using an alternative amortization schedule in accordance with Code section 430(c)(2)(D) or ERISA section 303(c)(2)(D), identify the amortization schedule being used and show separately the amount of any installment acceleration amount added to the shortfall amortization installment for the current plan year under Code section 430(c)(7) or ERISA section 303(c)(7).

Line 37. Funding Waiver. If a waiver of minimum funding requirements has been approved for the current plan year, enter the date of the ruling letter granting the approval and the waived amount (reported as of the valuation date) in the spaces provided. If a waiver is pending, do not complete this line. If a pending waiver is granted after Form 5500 Annual Return/Report is filed, file an amended Form 5500 with an amended Schedule SB.

Line 38. Total Funding Requirement Before Reflecting Carryover/Prefunding Balances. Enter the target normal cost in Line 35a, minus the excess assets in Line 35b, plus the amortization installments reported in Lines 36a and 36b, reduced by any waived amounts reported in Line 37.

Line 39. Balances Elected for Use to Offset Funding Requirement. If the percentage reported on Line 19 is at least 80%, and the plan has a funding standard carryover balance and/or prefunding balance (as reported on Line 13, columns (a) and (b)), the plan sponsor may elect to credit all or a portion of such balances against the minimum required contribution. Enter the amount of any balance elected for use for this purpose in the applicable column of Line 39, and enter the total in the column headed “Total Balance.” No portion of the prefunding balance can be used for this purpose unless the full amount of any remaining funding standard carryover balance (Line 13, column (a)) is used. The amounts entered on Line 39 cannot be larger than the corresponding amounts on Line 13 (unless the plan's valuation date is not the first day of the plan year, as discussed below).

If the plan's valuation date is not the first day of the plan year, adjust the portion of the funding standard carryover balance and prefunding balance used to offset the minimum required contribution for interest between the beginning of the plan year and the valuation date using the effective interest rate for the current plan year.

Special rule for late election to apply balances to quarterly installments. If an election was made to use the funding standard carryover balance or the prefunding balance to offset the amount of a required quarterly installment, but the election was made after the due date of the installment, the amount reported on Line 39 may not be the same amount that is subtracted from the plan's balances in the following plan year (to be reported in Line 8 of Schedule SB for the following plan year). Refer to the regulations under Section 430 of the Code for additional information.

Special rule for elections to use balances in excess of the minimum required contribution. Section 1.430(f)-1(f)(3)(ii) of the regulations provides an exception to the general rule requiring that any elections to use the funding standard carryover balance and/or prefunding balance to offset the minimum required contribution are irrevocable. Under this exception, such an election may be revoked to the extent that the amount of the election exceeds the minimum required contribution for the plan year as reported in Line 38. If a timely election is made to revoke the excess amount, report only the amount of the election used to offset the minimum required contribution on Line 39. If the excess amount is not revoked by means of a timely election, report the full amount of the election on Line 39 even if it exceeds the minimum required contribution reported on Line 38.

Line 40. Additional Cash Requirement. Enter the amount in Line 38 minus the amount in the “Total Balance” column in Line 39. (The result cannot be less than zero.) This represents the contribution needed to satisfy the minimum funding requirement for the current year, adjusted for interest to the valuation date.

Line 41. Contributions Allocated Toward Minimum Required Contribution for Current Year, Adjusted to Valuation Date. Enter the amount reported in Line 22c.

Line 42. Present Value of Excess Contributions for Current Year.

Line 42a. If Line 41 is greater than Line 40, enter the amount by which Line 41 exceeds line 40. Otherwise, enter “0.” This amount (plus interest, if applicable) is the maximum amount by which the plan sponsor may elect to increase the prefunding balance.

Line 42b. Enter the amount of any portion of the amount shown on Line 42a that results solely from the use of the funding standard carryover balance and/or prefunding balance to offset the minimum required contribution.

Line 43. Unpaid Minimum Required Contribution for Current Year. If Line 41 is less than Line 40, enter the amount by which Line 40 exceeds Line 41. Otherwise, enter “0”.

Line 44. Unpaid Minimum Required Contributions for All Years. Enter the sum of the remaining unpaid minimum required contributions from Line 34 and the unpaid minimum required contribution for the current year from Line 43. If this amount is greater than zero, file Form 5330, Return of Excise Taxes Related to Employee Benefit Plans and pay the 10% excise tax on the unpaid minimum required contributions.

Part IX—Election to Use Pension Funding Relief under PRA 2010

Note. This section is completed only if:

(1) an election was made to use an alternative shortfall amortization schedule for any election year under Code section 430(c)(2)(D) or ERISA section 303(c)(2)(D), or

(2) in the case of a plan subject to a delayed effective date for PPA funding rules under section 104 of PPA, an election was made to determine the minimum required contribution for any election year using the extended amortization periods under section 107 of PPA '06, as added by PRA 2010 (complete Lines 45a and 45b only).

Line 45a. Schedule elected. Check the applicable box to indicate which alternative shortfall amortization schedule is being used, the 2 plus 7-year schedule or the 15-year being used, the 2 plus 7-year schedule or the 15-year schedule.

Line 45b. Eligible plan year(s) for which the election in Line 45a was made. Check the box(es) to indicate the eligible plan years for which the election was made to use an alternative amortization schedule under Code section 430(c)(2)(D) or ERISA section 303(c)(2)(D) or the relief under section 107 of PPA '06 as added by PRA 2010. Note that an election to use an alternative amortization schedule may only be made with respect to one or two eligible plan years. Refer to Code section 430(c)(2)(D)(v) or ERISA section 303(c)(2)(D)(v) for the definition of eligible plan years.

Line 46. Amount of acceleration adjustment. Enter the total amount included in the shortfall amortization installments reported for the current year on Line 36a as a result of increases due to any installment acceleration amount under Code section 430(c)(7) or ERISA section 303(c)(7), taking into account any amounts carried over from previous years and the annual limitation in Code section 430(c)(7)(C)(ii) or ERISA section 303(c)(7)(C)(ii).

Line 47. Excess installment acceleration amount to be carried over to future plan years. Enter the amount of any excess installment acceleration amount for the current year (including any amounts carried to the current year from prior years) that will be carried over to future plan years in accordance with Code section 430(c)(7)(C)(iii) or ERISA section 303(c)(7)(C)(iii).

Quick Reference Charts

Note. The following series of quick reference charts set forth a general summary of filing requirements for pension plans, welfare plans that provide group health benefits, welfare plans other than group health, and direct filing entities. Not all rules and requirements are reflected for the various types of filers.

CAUTION: Refer to specific Form 5500 Annual Return/Report instructions for complete information on filing requirements (e.g., Who Must File and What To File). These charts do not include filing requirements for small plans eligible to file the Form 5500-SF or the new registration alternative for small fully insured group health plans.

Make sure you are reading the right chart for your type of plan or filing entity:

1. Pension Plans Required to File the Form 5500

2. Direct Filing Entities Other Than Group Insurance Arrangements (GIAs)

3. Welfare Plans and GIAs That Provide Group Health Benefits

4. Welfare Plans Other Than Group Health

Pension Plans Required to File the Form 5500

(Does not include filing requirements for small plans eligible to file the Form 5500-SF). This chart provides only general guidance. Not all rules and requirements are reflected. Refer to specific Form 5500 Annual Return/Report instructions for complete information on filing requirements (e.g., Who Must File and What To File).

| Large Pension Plan | Small Pension Plan
Form 5500 | Must complete | Must complete unless eligible to File Form 5500-SF. Pension plans and welfare plans with fewer than 100 participants at the beginning of the plan year that are not exempt from filing an annual return/report may be eligible to file the Form 5500-SF, a simplified report. In addition to the limitation on the number of participants, a Form 5500-SF may only be filed for a plan that is exempt from the requirement that the plan's books and records be audited by an independent qualified public accountant (but not by reason of enhanced bonding), has 100 percent of its assets invested in certain secure investments with a readily determinable fair market value, holds no employer securities, and is not a multiemployer plan. See Who Must File. Defined contribution pension plans (other than those that check the “first plan year” box, which use Line 6) that otherwise meet the conditions for filing the Form 5500-SF use the count on Line 7g(1)—number of participants with account balances at the beginning of the year—to determine whether they are a small plan.
Schedule A (Insurance Information) | Must complete if plan has insurance contracts | Must complete if plan has insurance contracts.
Schedule C (Service Provider Information) | Must complete Part I if (1) each covered service provider who received $1,000 or more in total direct and indirect compensation (i.e., money or anything else of monetary value in connection with services rendered to the plan or the person's position with the plan during the plan year, including payments from participants' accounts and (2) other persons who received $5,000 or more in direct compensation in connection with services rendered to the plan or the person's position with the plan during the plan year, including payments from participants' accounts; and Part II if a service provider failed to provide information necessary for the completion of Part I | Must complete Part I if (1) each covered service provider who received $1,000 or more in total direct and indirect compensation (i.e., money or anything else of monetary value in connection with services rendered to the plan or the person's position with the plan during the plan year, including payments from participants' accounts and (2) other persons who received $5,000 or more in direct compensation in connection with services rendered to the plan or the person's position with the plan during the plan year, including payments from participants' accounts; and Part II if a service provider failed to provide information necessary for the completion of Part I.
Schedule D (DFE/Participating Plan Information) | Not required | Not required
Schedule G (Financial Schedules) | Must complete if Schedule H, Lines 4b, 4c, or 4d are answered “Yes.” | Must complete if Schedule H, Lines 4b, 4c, or 4d are answered “Yes” and plan is not eligible for the audit waiver under 29 CFR 2520.104-46.
Schedule H (Financial Information) | Must complete | Must complete
Line 4a Schedule of Delinquent Participant Contributions | Must check “yes” to Schedule H, Line 4a and complete if plan had delinquent contributions (see instructions) | Must check “yes” to Schedule H, Line 4a and complete if plan had delinquent contributions (see instructions).
Line 4i(1) Schedule of Assets Held for Investment at EOY | Must check “yes” to Schedule H, Line 4i(1) and complete if plan held assets at end of year (all plans except those that are filing final return/report with -0- assets at year end)). If invested in a CCT or PSA that has not filed a Form 5500, must break out the underlying investments of the CCT and PSA, indicating assets held through a CCT or PSA. If invested in a CCT or PSA that has filed the Form 5500, may report individual CCTs and PSAs at the CCT/PSA level, indicating the Line 1b category for type of CCT/PSA investment | Must check “yes” to Schedule H, Line 4i(1) and complete if plan held assets at end of year (all plans except those that are filing final return/report with -0- assets at year end)). If invested in a CCT or PSA that has not filed a Form 5500, must break out the underlying investments of the CCT and PSA, indicating assets held through a CCT or PSA. If invested in a CCT or PSA that has filed the Form 5500, may report individual CCTs and PSAs at the CCT/PSA level, indicating the Line 1b category for type of CCT/PSA investment.
Line 4i(2) Schedule of Assets Disposed of During the Plan Year | Must check “yes” to Schedule H, Line 4i(2) and complete if plan disposed of assets during the plan year. Certain readily tradable assets not required to be reported (see instructions) | Must check “yes” to Schedule H, Line 4i(2) and complete if plan disposed of assets during the plan year. Certain readily tradable assets not required to be reported (see instructions).
Line 4j Schedule of Reportable Transactions | Must check “yes” to Schedule H, Line 4j and complete if plan had transactions involving 5% or more of plan assets | Must check “yes” to Schedule H, Line 4j and complete if plan had transactions involving 5% or more of plan assets.
Schedule J | Pension plans do NOT need to complete unless providing retiree health benefits or otherwise providing “group health benefits” | Pension plans do NOT need to complete unless providing retiree health benefits or otherwise providing “group health benefits”.
Schedule MB (Actuarial Information) | Must complete if multiemployer defined benefit pension plan or money purchase plan subject to minimum funding standards | Must complete if multiemployer defined benefit pension plan or money purchase plan subject to minimum funding standards.
Schedule R (Pension Plan Information) | Must complete. Money purchase defined contribution pension plans that are amortizing a funding waiver are required to complete Lines 3, 9, and 10 of the Schedule MB in accordance with the instructions. Also see instructions for Line 6 and 7a of Schedule R Schedule R should not be completed when the Form 5500 Annual Return/Report is filed for a pension plan that uses, as the sole funding vehicle for providing benefits, individual retirement accounts or annuities (as described in Code section 408). See the Form 5500 instructions for Limited Pension Plan Reporting for more information | Must complete. Money purchase defined contribution pension plans that are amortizing a funding waiver are required to complete Lines 3, 9, and 10 of the Schedule MB in accordance with the instructions. Also see instructions for Line 6 and 7a of Schedule R. Schedule R should not be completed when the Form 5500 Annual Return/Report is filed for a pension plan that uses, as the sole funding vehicle for providing benefits, individual retirement accounts or annuities (as described in Code section 408). See the Form 5500 instructions for Limited Pension Plan Reporting for more information.
Schedule SB (Actuarial Information) | Must complete if single-employer or multiple-employer defined benefit pension plan, including an eligible combined plan and subject to minimum funding standards | Must complete if single-employer or multiple-employer defined benefit pension plan, including an eligible combined plan and subject to minimum funding standards.
Accountant's Opinion (IQPA Report) | Must attach | Required unless Schedule H, Line 3h(4) is checked to indicate that the plan is a small plan that meets the requirements of 29 CFR 2520.104-46.

Direct Filing Entities Other Than Group Insurance Arrangements (GIAs)). This chart provides only general guidance. Not all rules and requirements are reflected. Refer to specific Form 5500 Annual Return/Report instructions for complete information on filing requirements (e.g., Who Must File and What To File).

| Master Trusts | CCTs/PSAs | 103-12 IEs
Form 5500 | Must complete | CCTs and PSAs are not required to file a Form 5500, but filing by the CCT/PSA relieves investing plans of certain reporting obligations | Certain collective investment vehicles that hold plan assets are permitted to elect to file a Form 5500, which filing relieves investing plans of certain reporting obligations.
Schedule of Participating Employers | Not required | Not required | Not required
Schedule A (Insurance Information) | Must complete if plan has insurance contracts | Not required | Must complete if plan has insurance contracts.
Schedule C (Service Provider Information) | Must complete Part I if (1) each covered service provider who received $1,000 or more in total direct and indirect compensation (i.e., money or anything else of monetary value in connection with services rendered to the plan or the person's position with the plan during the plan year, including payments from participants' accounts and (2) other persons who received $5,000 or more in direct compensation in connection with services rendered to the plan or the person's position with the plan during the plan year, including payments from participants' accounts; and Part II if a service provider failed to provide information necessary for the completion of Part I | Not required | Must complete Part I if (1) each covered service provider who received $1,000 or more in total direct and indirect compensation (i.e., money or anything else of monetary value in connection with services rendered to the plan or the person's position with the plan during the plan year, including payments from participants' accounts and (2) other persons who received $5,000 or more in direct compensation in connection with services rendered to the plan or the person's position with the plan during the plan year , including payments from participants' accounts; and Part II if a service provider failed to provide information necessary for the completion of Part I.
Schedule D (DFE/Participating Plan Information) | Must complete | Must complete | Must complete
Schedule G (Financial Schedules) | Must complete if Schedule H, Lines 4b, 4c, or 4d are answered “Yes.” | Not required | Must complete if Schedule H, Lines 4b, 4c, or 4d are answered “Yes.”.
Schedule H (Financial Information) | Must complete | Must complete | Must complete
Line 4a Schedule of Delinquent Participant Contributions | Not required | Not required | Not required
Line 4i(1) Schedule of Assets Held for Investment at EOY | Must check “yes” to Schedule H, Line 4i(1) and complete if master trust held assets at end of year (all plans except those that are filing final return/report with -0- assets at year end) | Must check “yes” to Schedule H, Line 4i(1) and complete if plan held assets at end of year (all plans except those that are filing final return/report with -0- assets at year end) | Must check “yes” to Schedule H, Line 4i(1) and complete if 103-12 IE held assets at end of year (all plans except those that are filing final return/report with -0- assets at year end)
Line 4i(2) Schedule of Assets Disposed of During the Plan Year | Must check “yes” to Schedule H, Line 4i(2) and complete if master trust disposed of assets during the plan year. Certain readily tradable assets not required to be reported (see instructions) | Not required | Must check “yes” to Schedule H, Line 4i(2) and complete if 103-12 IE disposed of assets during the plan year. Certain readily tradable assets not required to be reported (see instructions)
Line 4j Schedule of Reportable Transactions | Must check “yes” to Schedule H, Line 4j and complete if master trust had transactions involving 5% or more of assets | Not required | Not required
Schedule J | Not required | Not required | Not required
Schedule MB (Actuarial Information) | Not required | Not required | Not required
Schedule R (Pension Plan Information) | Not required | Not required | Not required
Schedule SB (Actuarial Information) | Not required | Not required | Not required
Accountant's Opinion (IQPA Report) | Not required | Not required | Must attach

Welfare Plans and Group Insurance Arrangements (GIAs) That Provide Health Benefits ⁴⁴ This chart provides only general guidance. Not all rules and requirements are reflected. Refer to specific Form 5500 Annual Return/Report instructions for complete information on filing requirements (e.g., Who Must File and What To File).

| Large welfare plans providing health benefits | Small welfare plans providing health benefits | Group insurance arrangements that provide health benefits (GIAs)
Form 5500 | Must complete | Must complete. Exception: Small fully insured group health plans complete only certain questions | Must complete.
Schedule of Participating Employers | Multiple employer plans and plans covering members of a controlled group must complete | Multiple employer plans and plans covering members of a controlled group must complete | Must complete
Schedule A (Insurance Information) | Must complete if plan has insurance contracts | Must complete if plan has insurance contracts. Exception: Small fully insured group health plans do not complete | Must complete
Schedule C (Service Provider Information) | Must complete Part I for (1) each covered service provider who received $1,000 or more in total direct and indirect compensation (i.e., money or anything else of monetary value in connection with services rendered to the plan or the person's position with the plan during the plan year, including payments from participants' accounts) and (2) other persons who received $5,000 or more in direct compensation in connection with services rendered to the plan or the person's position with the plan during the plan year, including payments from participants' accounts; and Part II if a service provider failed to provide information necessary for the completion of Part I. Exception: Unfunded, fully insured, or combination unfunded/fully insured group health plans are exempt under 29 CFR 2520.104-44 from completing Schedule C | Must complete Part I for (1) each covered service provider who received $1,000 or more in total direct and indirect compensation (i.e., money or anything else of monetary value in connection with services rendered to the plan or the person's position with the plan during the plan year, including payments from participants' accounts) and (2) other persons who received $5,000 or more in direct compensation in connection with services rendered to the plan or the person's position with the plan during the plan year, including payments from participants' accounts; and Part II if a service provider failed to provide information necessary for the completion of Part I. Exception: Unfunded, fully insured, or combination unfunded/fully insured group health plans are exempt under 29 CFR 2520.104-44 from completing Schedule C | Must complete Part I for (1) each covered service provider who received $1,000 or more in total direct and indirect compensation (i.e., money or anything else of monetary value in connection with services rendered to the plan or the person's position with the plan during the plan year, including payments from participants' accounts and (2) other persons who received $5,000 or more in direct compensation in connection with services rendered to the plan or the person's position with the plan during the plan year, including payments from participants' accounts; and Part II if a service provider failed to provide information necessary for the completion of Part I.
Schedule D (DFE/Participating Plan Information) | Not required for plans | Not required for plans | Must complete to report participating plans.
Schedule G (Financial Schedules) | Must complete if Schedule H, Lines 4b, 4c, or 4d are answered “Yes.” Unfunded, fully insured, or combination unfunded/fully insured welfare plans are exempt under 29 CFR 2520.104-44 from completing Parts I and II but must still complete Schedule G, Part III to report nonexempt transactions | Not required | Must complete if Schedule H, Lines 4b, 4c, or 4d for a GIA, are answered “Yes.” Unfunded, fully insured, or combination unfunded/fully insured welfare plans are exempt under 29 CFR 2520.104-44 from completing Parts I and II but GIA's must still complete Schedule G, Part III to report nonexempt transactions for participating plans.
Schedule H (Financial Information) | Must complete if plan is partly or fully funded with a trust (including a VEBA). Unfunded, fully insured, or combination unfunded/fully insured group health plans are exempt under 29 CFR 2520.104-44 from completing Schedule H | Must complete if plan is partly or fully funded with a trust (including a VEBA). Unfunded, fully insured, or combination unfunded/fully insured group health plans are exempt under 29 CFR 2520.104-44 from completing Schedule H | Must complete
Line 4a Schedule of Delinquent Participant Contributions | Must complete if required to complete Schedule H | Not required | Not required
Line 4i(1) Schedule of Assets Held for Investment at EOY | If required to complete Schedule H, must check “yes” to Schedule H, Line 4i(1) and complete if plan held assets at end of year (all plans except those that are filing final return/report with -0- assets at year end) | Not required | Must complete
Line 4i(2) Schedule of Assets Disposed of During the Plan Year | If required to complete Schedule H, must check “yes” to Schedule H, Line 4i(2) and complete if plan disposed of assets during the plan year. Certain readily tradable assets not required to be reported (see instructions) | Not required | Must complete
Line 4j Schedule of Reportable Transactions | If required to complete Schedule H, must check “yes” to Schedule H, Line 4j and complete if plan had transactions involving 5% or more of plan assets | Not required | Must complete
Schedule J | Must complete | Must complete entire Schedule J if not fully insured. If fully insured, must complete Lines 1-8 | Must complete a separate Schedule J for each participating employer.
Schedule MB (Actuarial Information) | Not required | Not required | Not required
Schedule R (Pension Plan Information) | Not required | Not required | Not required
Schedule SB (Actuarial Information) | Not required | Not required | Not required
Accountant's Opinion (IQPA Report) | Must complete if plan is partly or fully funded with a trust (including a VEBA). Unfunded, fully insured, or combination unfunded/fully insured group health plans are exempt under 29 CFR 2520.104-44 from the IQPA report | Not required | Must attach.

Welfare Plans Other Than Group Health This chart provides only general guidance. Not all rules and requirements are reflected. Refer to specific Form 5500 Annual Return/Report instructions for complete information on filing requirements (e.g., Who Must File and What To File).

⁴⁴ Pension plans that also provide health benefits must follow the rules for pension plan filings and must also attach a Schedule J to report on health benefits.

| Large welfare plans NOT providing health plan benefits | Small welfare plans NOT providing health plan benefits | Group insurance arrangements (GIAs) NOT providing health benefits
Form 5500 | Must complete | Must complete, except (1) unfunded, fully insured, or combination unfunded/fully insured welfare plans covering fewer than 100 participants at the beginning of the plan year that meet the requirements of 29 CFR 2520.104-20 are exempt from filing an annual report | Must complete
|  | (2) Welfare plans with fewer than 100 participants at the beginning of the plan year that are not exempt from filing an annual return/report may be eligible to file the Form 5500-SF, a simplified report
|  | Note: If plan provides group health benefits, follow the filing instructions for group health plans
Schedule of Participating Employers | Multiple employer plans and plans covering members of a controlled group must complete | Multiple employer plans and plans covering members of a controlled group must complete | Must complete
Schedule A (Insurance Information) | Must complete if plan has insurance contracts | Must complete if plan has insurance contracts | Must complete
Schedule C (Service Provider Information) | Must complete Part I for (1) each covered service provider who received $1,000 or more in total direct and indirect compensation (i.e., money or anything else of monetary value in connection with services rendered to the plan or the person's position with the plan during the plan year, including payments from participants' accounts) and (2) other persons who received $5,000 or more in direct compensation in connection with services rendered to the plan or the person's position with the plan during the plan year, including payments from participants' accounts; and Part II if a service provider failed to provide information necessary for the completion of Part I. Unfunded, fully insured, or combination unfunded/fully insured welfare plans are exempt under 29 CFR 2520.104-44 from completing Schedule C | Must complete Part I for (1) each covered service provider who received $1,000 or more in total direct and indirect compensation (i.e., money or anything else of monetary value in connection with services rendered to the plan or the person's position with the plan during the plan year, including payments from participants' accounts) and (2) other persons who received $5,000 or more in direct compensation in connection with services rendered to the plan or the person's position with the plan during the plan year, including payments from participants' accounts; and Part II if a service provider failed to provide information necessary for the completion of Part I. Exception: Unfunded, fully insured, or combination unfunded/fully insured welfare benefit plans are exempt under 29 CFR 2520.104-44 from completing Schedule C | Must complete Part I for (1) each covered service provider who received $1,000 or more in total direct and indirect compensation (i.e., money or anything else of monetary value in connection with services rendered to the plan or the person's position with the plan during the plan year, including payments from participants' accounts and (2) other persons who received $5,000 or more in direct compensation in connection with services rendered to the plan or the person's position with the plan during the plan year, including payments from participants' accounts; and Part II if a service provider failed to provide information necessary for the completion of Part I.
Schedule D (DFE/Participating Plan Information) | Not required | Not required | Must complete to report participating plans.
Schedule G (Financial Schedules) | Must complete if Schedule H, Lines 4b, 4c, or 4d are “Yes.” Unfunded, fully insured, or combination unfunded/fully insured welfare plans are exempt under 29 CFR 2520.104-44 from completing Parts I and II but must still complete Schedule G, Part III to report nonexempt transactions | Not required | Must complete if Schedule H, Lines 4b, 4c, or 4d are answered “Yes.”
Schedule H (Financial Information) | Must complete if plan is partly or fully funded with a trust (including a VEBA). Unfunded, fully insured, or combination unfunded/fully insured welfare plans are exempt under 29 CFR 2520.104-44 from completing Schedule H | Not required | Must complete
Line 4a Schedule of Delinquent Participant Contributions | Must complete if required to complete Schedule H | Not required | Not required
Line 4i(1) Schedule of Assets Held for Investment at EOY | Must check “Yes” to Schedule H, Line 4i(1) and complete if plan held assets at end of year (all plans except those that are filing final return/report with -0- assets at year end) | Not required | Must complete
Line 4i(2) Schedule of Assets Disposed of During the Plan Year | Must check “Yes” to Schedule H, Line 4i(2) and complete if plan disposed of assets during the plan year. Certain readily tradable assets not required to be reported (see instructions) | Not required | Must complete
Line 4j Schedule of Reportable Transactions | Must check “Yes” to Schedule H, Line 4j and complete if plan had transactions involving 5% or more of plan assets | Not required | Must complete
Schedule J | Not required | Not required | Not required
Schedule MB (Actuarial Information) | Not required | Not required | Not required
Schedule R (Pension Plan Information) | Not required | Not required | Not required
Schedule SB (Actuarial Information) | Not required | Not required | Not required
Accountant's Opinion (IQPA Report) | Large welfare plans must complete if plan is partly or fully funded with a trust (including a VEBA). Unfunded, fully insured, or combination unfunded/fully insured welfare plans are exempt under 29 CFR 2520.104-44 from the IQPA report | Not required | Must attach.

ERISA Compliance Quick Checklist

Compliance with the Employee Retirement Income Security Act (ERISA) begins with knowing the rules. Plan administrators and other plan officials can use this checklist as a quick diagnostic tool for assessing a plan's compliance with certain important ERISA rules; it is not a complete description of all ERISA's rules and it is not a substitute for a comprehensive compliance review. Use of this checklist is voluntary. Do not file it with your Form 5500.

If you answer “No” to any of the questions below, you should review your plan's operations because you may not be in full compliance with ERISA's requirements.

1. Have you provided plan participants with a summary plan description, summaries of any material modifications of the plan, and annual summary financial reports or annual pension funding reports?

2. Do you maintain copies of plan documents at the principal office of the plan administrator for examination by participants and beneficiaries?

3. Do you respond to written participant inquires for copies of plan documents and information within 30 days?

4. Does your plan include written procedures for making benefit claims and appealing denied claims, and are you complying with those procedures?

5. Is your plan covered by fidelity bonds protecting the plan against losses due to fraud or dishonesty by persons who handle plan funds or other property?

6. Are the plan's investments diversified so as to minimize the risk of large losses?

7. If the plan permits participants to select the investments in their plan accounts, has the plan provided them with enough information to make informed decisions?

8. Has a plan official determined that the investments are prudent and solely in the interest of the plan's participants and beneficiaries, and evaluated the risks associated with plan investments before making the investments?

9. Did the employer or other plan sponsor send participant contributions to the plan on a timely basis?

10. Did the plan pay participant benefits on time and in the correct amounts?

11. Did the plan give participants and beneficiaries 30 days advance notice before imposing a “blackout period” of at least three consecutive business days during which participants or beneficiaries of a 401(k) or other individual account pension plan were unable to change their plan investments, obtain loans from the plan, or obtain distributions from the plan?

If you answer “Yes” to any of the questions below, you should review your plan's operations because you may not be in full compliance with ERISA's requirements.

1. Has the plan engaged in any financial transactions with persons related to the plan or any plan official? (For example, has the plan made a loan to or participated in an investment with the employer?)

2. Has the plan official used the assets of the plan for his/her own interest?

3. Have plan assets been used to pay expenses that were not authorized in the plan document, were not necessary to the proper administration of the plan, or were more than reasonable in amount?

If you need help answering these questions or want additional guidance about ERISA requirements, a plan official should contact the U.S. Department of Labor Employee Benefits Security Administration office in your region or consult with the plan's legal counsel or professional employee benefit advisor.

APPENDIX C

Form 5500-SF Instructions

20XX Instructions for Form 5500-SF (Short Form Annual Return/Report of Small Employee Benefit Plan)

Code section references are to the Internal Revenue Code unless otherwise noted. ERISA refers to the Employee Retirement Income Security Act of 1974.

Changes to Note [The instructions for the year in which the revisions are implemented will include such items in the “Changes to Note” section.]

Table of Contents [The final version of the Instructions for 20XX will include a Table of Contents in substantially the same format as the existing Table of Contents]

EFAST2 Processing System

Under the computerized ERISA Filing Acceptance System (EFAST), you must electronically file your 20XX Form 5500-SF, Short Form Annual Return/Report of Small Employee Benefit Plan. You may file your 20XX Form 5500-SF online using EFAST2's web-based filing system or you may file through an EFAST2-approved vendor. You cannot file a paper Form 5500-SF by mail or other delivery service. For more information, see the instructions for How To File—Electronic Filing Requirement on page xx and the EFAST2 Web site at www.efast.dol.gov.

How To Get Assistance

If you need help completing this form, or have other questions, call the EFAST2 Help Line at 1-866-GO-EFAST (1-866-463-3278) (toll free) or access the EFAST2 or IRS Web sites. The EFAST2 Help Line is available Monday through Friday from 8:00 a.m. to 8:00 p.m., Eastern Time.

You can access the EFAST2 Web site 24 hours a day, 7 days a week at www.efast.dol.gov to:

• File the Form 5500-SF or 5500 and any needed schedules or attachments.

• Check on the status of a filing you submitted.

• View filings posted by EFAST2.

• Register for electronic credentials to sign or submit filings.

• View forms and related instructions.

• Get information regarding EFAST2, including approved software vendors.

• See answers to frequently asked questions about the Form 5500-SF, the Form 5500 and its schedules, and EFAST2.

• Access the main Employee Benefits Security Administration (EBSA) and DOL Web sites for news, regulations, and publications.

You can access the IRS Web site 24 hours a day, 7 days a week at www.irs.gov to:

• View forms, instructions, and publications.

• See answers to frequently asked tax questions.

• Search publications online by topic or keyword.

• Send comments or request help by email.

• Sign up to receive local and national tax news by email.

You can order other IRS forms and publications at the IRS Web site at www.irs.gov/orderforms. You can order EBSA publications by calling 1-866-444-EBSA (3272).

General Instructions

The Form 5500-SF, Short Form Annual Return/Report of Small Employee Benefit Plan, is a simplified annual reporting form for use by certain small pension and welfare benefit plans. To be eligible to use the Form 5500-SF, the plan must:

• Be a small plan (i.e., generally have fewer than 100 participants at the beginning of the plan year);

• Meet the conditions for being exempt from the requirement that the plan's books and records be audited by an independent qualified public accountant (IQPA);

• Have 100% of its assets invested in certain secure investments with a readily determinable fair value;

• Hold no employer securities;

• Not be a multiemployer plan; and

• Not provide health benefits.

Plans required to file an annual return/report that are not eligible to file the Form 5500-SF, must file a Form 5500, Annual Return/Report of Employee Benefit Plan, with all required schedules and attachments (Form 5500), or Form 5500-EZ, Annual Return of One-Participant (Owners and Their Spouses) Retirement Plan.

To reduce the possibility of correspondence and penalties, we remind filers that the Internal Revenue Service (IRS), Department of Labor (DOL), and Pension Benefit Guaranty Corporation (PBGC) have consolidated their annual return/report forms to minimize the filing burden for employee benefit plans. Administrators and sponsors of employee benefit plans generally will satisfy their IRS and DOL annual reporting requirements for the plan under ERISA sections 104 and 4065 and Code sections 6058 and 6059 by filing either the Form 5500, Form 5500-SF, or Form 5500-EZ. Defined contribution and defined benefit pension plans may have to file additional information with the IRS including: Form 8955-SSA, Annual Registration Statement Identifying Separated Participants with Deferred Vested Benefits.; Form 5330, Return of Excise Taxes Related to Employee Benefit Plans; Form 5310-A, Notice of Plan Merger or Consolidation, Spinoff, or Transfer of Plan Assets or Liabilities; Notice of Qualified Separate Lines of Business. See www.irs.gov for more information. Defined benefit pension plans covered by the PBGC have special additional requirements, including filing premiums and reporting certain transactions directly with that agency. See the PBGC's Web site at www.pbgc.gov/practitioners for information on premium filings and reporting and disclosure requirements.

Note. The Form 5500-EZ generally is used by “one-participant plans or certain foreign plans” (as defined under Specific Instructions Only for “One-Participant Plans and certain foreign plans”) that are not subject to the requirements of section 104(a) of ERISA to satisfy certain annual reporting and filing obligations imposed by the Code. A “one-participant plan and certain foreign plan” may also be eligible to file Form 5500-SF. See Specific Instructions Only for “One-Participant Plans and certain foreign plans.” A “one-participant plan or certain foreign plan” that is eligible to file Form 5500-SF may elect to file Form 5500-SF electronically with EFAST2 rather than filing a Form 5500-EZ on paper with the IRS. A “one-participant plan or certain foreign plan” that is not eligible to file Form 5500-SF must file Form 5500-EZ on paper with the IRS. For more information on filing with the IRS, go to www.irs.gov or call 1-877-829-5500.

[CAUTION] Abbreviated filing requirements apply for one-participant plan filers who are eligible to file Form 5500-SF. See Specific Instructions Only for “One-Participant Plans” on page XX.

The Form 5500-SF must be filed electronically. See How To File—Electronic Filing Requirement instructions and the EFAST2 Web site at www.efast.dol.gov. Your Form 5500-SF entries will be initially screened electronically. Your entries must satisfy this screening for your filing to be received. Once received, your form may be subject to further detailed review, and your filing may be rejected based upon this further review.

ERISA and the Code provide for the assessment or imposition of penalties for not submitting the required information when due. See Penalties.

Annual returns/reports filed under Title I of ERISA must be made available by plan administrators to plan participants and beneficiaries and by the DOL to the public pursuant to ERISA sections 104 and 106. Pursuant to Section 504 of the Pension Protection Act of 2006 (PPA), this availability for defined benefit pension plans must include the posting of identification and basic plan information and actuarial information (Form 5500-SF, Schedule SB or MB, and all of the Schedule SB or MB attachments) on any plan sponsor intranet Web site (or Web site maintained by the plan administrator on behalf of the plan sponsor) that is used for the purpose of communicating with employees and not the public. Section 504 also requires DOL to display such information on DOL's Web site within 90 days after the filing of the plan's annual return/report. To see 2009 and later Forms 5500-SF, including actuarial information, see www.dol.gov/ebsa. See www.dol.gov/ebsa/actuarialsearch.html for 2008 and short plan year 2009 actuarial information filed under the previous paper-based system.

Pension and Welfare Plans Required To File Annual Return/Report

All pension benefit plans and welfare benefit plans covered by ERISA must file a Form 5500 or Form 5500-SF for a plan year unless they are eligible for a filing exemption. (See Code sections 6058 and 6059 and ERISA sections 104 and 4065). An annual return/report must be filed even if the plan is not “tax qualified,” benefits no longer accrue, contributions were not made during this plan year, or contributions are no longer made. Pension benefit plans required to file include both defined benefit pension plans and defined contribution pension plans. Profit-sharing plans, stock bonus plans, money purchase plans, 401(k) plans, Code section 403(b) plans covered by Title I of ERISA, and IRA plans established by an employer are among the pension benefit plans for which an annual return/report must be filed. Welfare benefit plans provide benefits such as medical, dental, life insurance, apprenticeship and training, scholarship funds, severance pay, disability, etc. Plans that cover residents of Puerto Rico, the U.S. Virgin Islands, Guam, Wake Island, or American Samoa also must file unless they are eligible for a filing exemption. This includes a plan that elects to have the provisions of section 1022(i)(2) of ERISA apply.

For more information about annual return/report filings for Code section 403(b) plans covered by Title I of ERISA, see Field Assistance Bulletins 2009-02 and 2010-01, available on the DOL Web site at www.dol.gov.

Plans Exempt From Filing

Under regulations and applicable guidance, some pension benefit plans and many welfare benefit plans with fewer than 100 participants are exempt from filing an annual return/report. Do not file a Form 5500-SF for an employee benefit plan that is any of the following:

1. An unfunded excess benefit plan. See ERISA section 4(b)(5).

2. A pension benefit plan maintained outside the United States primarily for the benefit of persons substantially all of whom are nonresident aliens. However, certain foreign plans are required to file the Form 5500-EZ with the IRS. See the instructions to the Form 5500-EZ for the filing requirements. For more information, go to www.irs.gov/ep or call 1-877-829-5500.

3. An annuity or custodial account arrangement under Code section 403(b)(1) or (7) not established or maintained by an employer as described in DOL Regulations 29 CFR 2510.3-2(f).

4. A simplified employee pension (SEP) described in Code section 408(k) that conforms to the alternative method of compliance described in 29 CFR 2520.104-48 or 29 CFR 104-49. A SEP is a pension plan that meets certain minimum qualifications regarding eligibility and employer contributions.

5. A Savings Incentive Match Plan for Employees of Small Employers (SIMPLE) that involves SIMPLE IRAs under Code section 408(p).

6. A church pension benefit plan not electing coverage under Code section 410(d).

7. An unfunded dues financed pension benefit plan that meets the alternative method of compliance provided by 29 CFR 2520.104-27.

8. An individual retirement account or annuity not considered a pension plan under 29 CFR 2510.3-2(d).

9. A “one-participant plan,” as defined on page 7. However, certain one-participant plans are required to file the Form 5500-EZ, Annual Return of One-Participant (Owners and Their Spouses) Retirement Plan, with the IRS or, if eligible, may file the Form 5500-SF, Short Form Annual Return/Report of Employee Benefit Plan, electronically with EFAST2. See page 7.

10. A governmental plan.

11. An unfunded pension benefit plan or an unfunded or insured welfare benefit plan: (a) whose benefits go only to a select group of management or highly compensated employees, and (b) which meets the terms of 29 CFR 2520.104-23 (including the requirement that a registration statement be timely filed with DOL) or 29 CFR 2520.104-24.

12. A welfare benefit plan that covers fewer than 100 participants as of the beginning of the plan year and is unfunded, fully insured, or a combination of insured and unfunded, and does not provide group health benefits. Plans that provide group health benefits, regardless of size or funding method must file the Form 5500 and the Schedule J (Group Health Plan Information) and other schedules as applicable and cannot file the Form 5500-SF. See Form 5500 Annual Return/Report Instructions. For this purpose:

a. An unfunded welfare benefit plan has its benefits paid as needed directly from the general assets of the employer or the employee organization that sponsors the plan.

Note. Plans that are NOT unfunded include those plans that received employee (or former employee) contributions during the plan year and/or used a trust or separately maintained fund (including a Code section 501(c)(9) trust) to hold plan assets or act as a conduit for the transfer of plan assets during the plan year. A welfare benefit plan with employee contributions that is associated with a cafeteria plan under Code section 125 may be treated for annual reporting purposes as an unfunded welfare benefit plan if it meets the requirements of DOL Technical Release 92-01, 57 FR 23272 (June 2, 1992) and 58 FR 45359 (Aug. 27, 1993). The mere receipt of COBRA contributions or other after-tax participant contributions (e.g., retiree contributions) by a cafeteria plan would not by itself affect the availability of the relief provided for cafeteria plans that otherwise meet the requirements of DOL Technical Release 92-01. See 61 FR 41220, 41222-23 (Aug. 7, 1996).

b. A fully insured welfare benefit plan has its benefits provided exclusively through insurance contracts or policies, the premiums of which must be paid directly to the insurance carrier by the employer or employee organization from its general assets or partly from its general assets and partly from contributions by its employees or members (which the employer or employee organization forwards within 3 months of receipt). The insurance contracts or policies discussed above must be issued by an insurance company or similar organization that is qualified to do business in any state.

c. A combination unfunded/insured welfare benefit plan has its benefits provided partially as an unfunded plan and partially as a fully insured plan. An example of such a plan is a welfare benefit plan that provides medical benefits as in “a” above and life insurance benefits as in “b” above. See 29 CFR 2520.104-20.

Note. A voluntary employees' beneficiary association, as used in Code section 501(c)(9) (VEBA), should not be confused with the employer or employee organization that sponsors the plan. See ERISA section 3(4).

13. Plans maintained only to comply with workers' compensation, unemployment compensation, or disability insurance laws.

14. A welfare benefit plan maintained outside the United States primarily for persons substantially all of whom are nonresident aliens.

15. A church welfare benefit plan under ERISA section 3(33).

16. An unfunded dues financed welfare benefit plan that meets the alternative method of compliance provided by 29 CFR 2520.104-26.

17. A welfare benefit plan that participates in a group insurance arrangement that files a return/report on its behalf under 29 CFR 2520.104-43. A group insurance arrangement generally is an arrangement that provides benefits to the employees of two or more unaffiliated employers (not in connection with a multiemployer plan or a collectively bargained multiple-employer plan), fully insures one or more welfare benefit plans of each participating employer, uses a trust (or other entity such as a trade association) as the holder of the insurance contracts, and uses a trust as the conduit for payment of premiums to the insurance company.

18. An apprenticeship or training plan meeting all of the conditions specified in 29 CFR 2520.104-22.

For more information on plans that are exempt from filing an annual return/report, call the EFAST2 Help Line at 1-866-GO-EFAST (1-866-463-3278). For one-participant plan filers, see the Instructions for Form 5500-EZ or call the IRS Help Line at 1-877-829-5500.

Who May File Form 5500-SF

If your plan is required to file an annual return/report, you may file the Form 5500-SF instead of the Form 5500 only if you meet all of the eligibility conditions listed below.

1. The plan (a) covered fewer than 100 participants at the beginning of the plan year 20XX, or (b) under 29 CFR 2520.103-1(d) was eligible to and filed as a small plan for plan year 20XX-1 and did not cover more than 120 participants at the beginning of plan year 20XX. (See instructions for Lines 6 and 7, on counting the number of participants.);

2. The plan did not hold any employer securities at any time during the plan year;

3. At all times during the plan year, the plan was 100% invested in certain secure, easy to value assets that meet the definition of “eligible plan assets” (see the instructions for Line 8a), such as mutual fund shares, investment contracts with insurance companies and banks valued at least annually, publicly traded securities held by a registered broker dealer, cash and cash equivalents, and plan loans to participants;

4. The plan is eligible for the waiver of the annual examination and report of an independent qualified public accountant (IQPA) under 29 CFR 2520.104-46 (but not by reason of enhanced bonding), which requirement includes, among others, giving certain disclosures and supporting documents to participants and beneficiaries regarding the plan's investments (see instructions for Line 8b);

5. The plan is not a multiemployer plan; and

6. The plan does not provide group health benefits.

Notes. (1) Employee Stock Ownership Plans (ESOPs) and Direct Filing Entities (DFEs) may not file the Form 5500-SF. (2) One-participant plans and certain foreign plans should follow the Specific Instructions Only for “One-Participant Plans and Certain Foreign Plans” in place of the instructions 1-5 above to see if Form 5500-SF may be filed instead of Form 5500-EZ.

What To File

Plans required to file an annual return/report that meet all of the conditions for filing the Form 5500-SF may complete and file the Form 5500-SF in accordance with its instructions. Single-employer defined benefit pension plans using the Form 5500-SF must also file the Schedule SB (Form 5500), Single-Employer Defined Benefit Plan Actuarial Information, and its required attachments. Money purchase plans amortizing a funding waiver using the Form 5500-SF must also file the Schedule MB (Form 5500), Multiemployer Defined Benefit Plan and Certain Money Purchase Plan Actuarial Information, and its required attachments. For information about Schedule SB and Schedule MB, see the 20XX Instructions for Form 5500, Annual Return/Report of Employee Benefit Plan. One-participant plans see Specific Instructions Only for “One-Participant Plans and Certain Foreign Plans.”

Eligible Combined Plans. The Pension Protection Act of 2006 (PPA) established rules for a new type of pension plan, an “eligible combined plan,” effective for plan years beginning after December 31, 2009. See Code section 414(x) and ERISA section 210(e). An eligible combined plan consists of a defined benefit pension plan and a defined contribution pension plan that includes a qualified cash or deferred arrangement under Code section 401(k), with the assets of the two plans held in a single trust, but clearly identified and allocated between the plans. The eligible combined plan design is available only to employers that employed an average of at least two, but not more than 500 employees, on business days during the calendar year preceding the plan year as of which the eligible combined plan is established and that employs at least two employees on the first day of the plan year that the plan is established. Because an eligible combined plan includes both a defined benefit pension plan and a defined contribution pension plan, the Form 5500-SF filed for the plan must include all the information, schedules, and attachments that would be required for either a defined benefit pension plan (such as a Schedule SB) or a defined contribution pension plan.

When to File

File the 20XX Form 5500-SF for plan years that began in 20XX. The form, and any required schedules and attachments, must be filed by the last day of the 7th calendar month after the end of the plan year (not to exceed 12 months in length) that began in 20XX.

Short Years. For a plan year of less than 12 months (short plan year), file the form and applicable schedules by the last day of the 7th calendar month after the short plan year ends or by the extended due date, if filing under an authorized extension of time. Fill in the short plan year beginning and ending dates in the space provided and check the appropriate box in Part I, Line B, of the Form 5500-SF. For purposes of this return/report, a short plan year ends on the date of the change in accounting period or upon the complete distribution of assets of the plan. Also see the instructions for Final Return/Report to determine if “the final return/report” box in Line B should be checked.

Extension of Time To File

Using Form 5558

If filing under an extension of time based on the filing of an IRS Form 5558, Application for Extension of Time To File Certain Employee Plan Returns, check the appropriate box on the Form 5500-SF, Part I, Line C. A one-time extension of time to file the Form 5500-SF (up to 2½ months) may be obtained by filing Form 5558 on or before the normal due date (not including any extensions) of the return/report. [The language on how to file the Form 5558 will be changed if filers will be able, as proposed, to file the Form 5558 through EFAST2]. You must file the Form 5558 with the Department of Treasury, Internal Revenue Service Center, Ogden, UT 84201-0045. Approved copies of the Form 5558 will not be returned to the filer. A copy of the completed extension request must be retained with the plan's records.

Using Extension of Time To File Federal Income Tax Return

An automatic extension of time to file Form 5500-SF until the due date of the federal income tax return of the employer will be granted if all of the following conditions are met: (1) the plan year and the employer's tax year are the same; (2) the employer has been granted an extension of time to file its federal income tax return to a date later than the normal due date for filing the Form 5500-SF; and (3) a copy of the application for extension of time to file the federal income tax return is maintained with the filer's records. An extension of time granted by using this automatic extension procedure CANNOT be extended further by filing an IRS Form 5558, nor can it be extended beyond a total of 9 ½ months beyond the close of the plan year.

Notes. (1) If the filing due date falls on a Saturday, Sunday, or Federal holiday, the return/report may be filed on the next day that is not a Saturday, Sunday, or Federal holiday. (2) If the 20XX Form 5500 is not available before the plan filing, use the 20XX-1 Form 5500 and enter the 20XX fiscal year beginning and ending dates on the line provided at the top of the form.

Other Extensions of Time

The IRS, DOL, and PBGC may announce special extensions of time under certain circumstances, such as extensions for Presidentially-declared disasters or for service in, or in support of, the Armed Forces of the United States in a combat zone. See www.irs.gov, www.efast.dol.gov, and www.pbgc.gov/practitioners for announcements regarding such special extensions. If you are relying on one of these announced special extensions, check the appropriate box on the Form 5500-SF, Part I, line C, and enter a description of the announced authority for the extension.

Delinquent Filer Voluntary Compliance (DFVC) Program

The DFVC Program facilitates voluntary compliance by plan administrators who are delinquent in filing annual return/report forms under Title I of ERISA by permitting administrators to pay reduced civil penalties for voluntarily complying with their DOL annual reporting obligations. If the Form 5500-SF is being filed under the DFVC Program, check the appropriate box on Form 5500-SF, Part I, line C to indicate that the Form 5500-SF is being filed under the DFVC Program. See www.efast.dol.gov for additional information.

Plan administrators are reminded that they can use the online calculator available at www.dol.gov/ebsa/calculator/dfvcpmain.html to compute the penalties due under the program. Payments under the DFVC Program also may be submitted electronically. For information on how to pay DFVC Program payments online, go to www.dol.gov/ebsa.

Change in Plan Year

Generally, only defined benefit pension plans need to get approval for a change in plan year. See Code section 412(d)(1). However, under Rev. Proc. 87-27, 1987-1 C.B. 769, these pension plans may be eligible for automatic approval of a change in plan year.

If a change in plan year for a pension or a welfare benefit plan creates a short plan year, file the form and applicable schedules by the last day of the 7th calendar month after the short plan year ends or by the extended due date, if filing under an authorized extension of time. Fill in the short plan year beginning and ending dates in the space provided in Part I and check the appropriate box in Part I, line B of the Form 5500-SF. For purposes of this return/report, the short plan year ends on the date of the change in accounting period or upon the complete distribution of assets of the plan. Also, see the instructions for Final Return/Report to determine if “final return/report” in line B should be checked.

Penalties

Plan administrators and plan sponsors must provide complete and accurate information and must otherwise comply fully with the filing requirements. ERISA and the Code provide for the DOL and the IRS, respectively, to assess or impose penalties for not giving complete and accurate information and for not filing complete and accurate statements and returns/reports. Certain penalties are administrative (that is, they may be imposed or assessed in an administrative proceeding by one of the governmental agencies delegated to administer the collection of the Form 5500-SF data). Others require a legal conviction.

Administrative Penalties

Listed below are various penalties under ERISA and the Code that may be assessed or imposed for not meeting the annual return/report filing requirements. Generally, whether the penalty is under ERISA or the Code, or both, depends upon the agency for which the information is required to be filed. One or more of the following administrative penalties may be assessed or imposed in the event of incomplete filings or filings received after the due date unless it is determined that your failure to file properly is for reasonable cause.

1. A penalty of up to $1,100 a day (or higher amount if adjusted pursuant to the Federal Civil Penalties Inflation Adjustment Act of 1990, as amended) for each day a plan administrator fails or refuses to file a complete and accurate annual return/report. See ERISA section 502(c)(2) and 29 CFR 2560.502c-2.

2. A penalty of $25 a day (up to $15,000) for not filing the annual return/report for certain plans of deferred compensation, trusts and annuities, and bond purchase plans by the due date(s). See Code section 6652(e).

3. A penalty of $1,000 for not filing an actuarial statement (Schedule MB (Form 5500) or Schedule SB (Form 5500)) required by the applicable instructions. See Code section 6692.

Other Penalties

1. Any individual who willfully violates any provision of Part 1 of Title I of ERISA shall on conviction be fined not more than $100,000 or imprisoned not more than 10 years, or both. See ERISA section 501.

2. A penalty up to $10,000, five (5) years imprisonment, or both, may be imposed for making any false statement or representation of fact, knowing it to be false, or for knowingly concealing or not disclosing any fact required by ERISA. See section 1027, Title 18, U.S. Code, as amended by section 111 of ERISA.

How to File—Electronic Filing Requirement

Under the computerized ERISA Filing Acceptance System (EFAST2), you must file your 20XX Form 5500-SF electronically. You may file your 20XX Form 5500-SF online using EFAST2's web-based filing system or you may file through an EFAST2-approved vendor. Detailed information on electronic filing is available at www.efast.dol.gov. For telephone assistance, call the EFAST2 Help Line at 1-866-GO-EFAST (1-866-463-3278). The EFAST2 Help Line is available Monday through Friday from 8:00 a.m. to 8:00 p.m., Eastern Time.

[CAUTION] Annual returns/reports filed under Title I of ERISA, including those filed using the Form 5500-SF, must be made available by the plan administrators to plan participants and beneficiaries and by the DOL to the public pursuant to ERISA sections 104 and 106. Even though the Form 5500-SF must be filed electronically, the plan administrator must keep a copy of the Form 5500-SF, including schedules and attachments, with all required signatures on file as part of the plan's records, and must make a paper copy available on request to participants, beneficiaries, and the DOL as required by section 104 of ERISA and 29 CFR 2520.103-1. Filers may use electronic media for record maintenance and retention, so long as they meet the applicable requirements.

Generally, questions on the Form 5500-SF relate to the plan year entered at the top of the first page of the form. Therefore, answer all questions on the 20XX Form 5500-SF with respect to the 20XX plan year unless otherwise explicitly stated in the instructions or on the form itself.

Your entries must be in the proper format in order for the EFAST2 system to process your filing. For example, if a question requires you to enter a dollar amount, you cannot enter a word. Your software will not let you submit your return/report unless all entries are in the proper format. To reduce the possibility of correspondence and penalties:

• Complete all lines on the Form 5500-SF unless otherwise specified. Also complete and electronically attach, as required, any applicable schedules and attachments.

• Do not enter “N/A” or “Not Applicable” on the Form 5500-SF or Schedules SB (Form 5500) and MB (Form 5500) unless specifically permitted. “Yes” or “No” questions on the form and schedules cannot be left blank, unless specifically permitted. Answer “Yes” or “No,” but not both.

• Use the correct employer identification number (EIN) and plan number (PN) for the plan.

You should check your return/report for errors before signing or submitting it to EFAST2. Your filing software or, if you are using it, the EFAST2 web-based filing system will allow you to check your return/report for errors. If, after reasonable attempts to correct your filing to eliminate any identified problem or problems, you are unable to address them, or you believe that you are receiving the message in error, call the EFAST2 Help Line at 1-866-GO-EFAST (1-866-463-3278) or contact the service provider you used to help prepare and file your annual return/report.

Once you complete the return/report and finish the electronic signature process, you can electronically submit it to EFAST2. When you electronically submit your return/report, EFAST2 is designed to immediately notify you if your submission was received and whether the return/report is ready to be processed by EFAST2. If EFAST2 does not notify you that your submission was successfully received and is ready to be processed, you will need to take steps to correct the problem or you may be deemed a non-filer subject to penalties from DOL, IRS, and/or PBGC.

Once EFAST2 receives your return/report, the EFAST2 system should be able to provide a filing status within 20 minutes. Check back into the EFAST2 system to determine the filing status of your return/report. The filing status message will include a list of any filing errors or warnings that EFAST2 may have identified in your filing. If EFAST2 did not identify any filing errors or warnings, EFAST2 will show the filing status of your return/report as “Filing_Received.” Persons other than the submitter can check whether the filing was received by the system by calling the EFAST2 Help Line at 1-866-GO-EFAST (1-866-463-3278) and using the automated telephone system.

To reduce the possibility of correspondence and penalties from the DOL, IRS, and/or PBGC, you should do the following: (1) Before submitting your return/report to EFAST2, check it for errors, and (2) after you have submitted it to EFAST2, verify that you have received a filing status of “Filing_Received” and attempt to correct and resolve any errors or warnings listed in the status report.

Note. Even after being received by the EFAST2 system, your return/report filing may be subject to further detailed review by DOL, IRS, and/or PBGC, and your filing may be deemed deficient based upon this further review. See Penalties on page 5.

The Form 5500-SF, Schedules SB (Form 5500) and MB (Form 5500), and any attachments that are filed under ERISA are open to public inspection, and the contents are public information subject to publication on the Internet.

[CAUTION] Do not enter social security numbers in response to questions asking for an employer identification number (EIN). Because of privacy concerns, the inclusion of a social security number or any portion thereof on the Form 5500-SF or on a schedule or attachment that is open to public inspection may result in the rejection of the filing. If you discover a filing disclosed on the EFAST2 Web site that contains a social security number, immediately call the EFAST2 Help Line at 1-866-GO-EFAST (1-866-463-3278).

Do not attach a copy of the annual registration statement identifying separated participants with deferred vested benefits or a previous year's Schedule SSA (Form 5500) to your 20XX Form 5500-SF annual return/report. The annual registration statement must be filed directly with the IRS and cannot be attached to a Form 5500-SF submission with EFAST2.

Employers without an employer identification number (EIN) must apply to the IRS for one as soon as possible. The EBSA does not issue EINs. To apply for an EIN from the IRS:

• Mail or fax Form SS-4, Application for Employer Identification Number, obtained at the IRS Web site at www.irs.gov.

• Call 1-800-829-4933 to receive your EIN by telephone.

• Select the Online EIN Application link at www.irs.gov.

The EIN is issued immediately once the application information is validated. (The online application process is not yet available for corporations with addresses in foreign countries or Puerto Rico.)

Signature and Date

For purposes of Title I of ERISA, the plan administrator is required to file the Form 5500 or 5500-SF. The plan administrator must electronically sign the Form 5500 or 5500-SF submitted to EFAST2.

[CAUTION] After submitting your filing, you must check the Filing Status. If the filing status is “Processing Stopped”, it is possible your submission was not sent with a valid electronic signature as required, and depending on the error, may be considered not to have been filed. By looking closer at the Filing Status, you can see specific error messages applicable to the transmitted filing and determine whether it was sent with a valid electronic signature and what other errors may need to be corrected.

Note. If the plan administrator is an entity, the electronic signature must be in the name of a person authorized to sign on behalf of the plan administrator.

If the plan administrator does not sign a filing, the filing status will indicate that there is an error with your filing, and your filing will be subject to further review, correspondence, rejection, and civil penalties.

Authorized Service Provider Signatures. If the plan administrator elects to have a service provider who manages the filing process for the plan get EFAST2 signing credentials and submit the electronic Form 5500-SF for the plan:

(1) the service provider must receive specific written authorization from the plan administrator to submit the plan's electronic filing;

(2) the plan administrator must manually sign a paper copy of the electronically completed Form 5500-SF, and the service provider must include a PDF copy of the entire three-page Form 5500-SF, excluding any attachments and associated schedules, submitted to EFAST2;

(3) the service provider must communicate to the plan administrator any inquiries received from EFAST2, DOL, IRS or PBGC regarding the filing;

(4) the service provider must communicate to the plan administrator that, by electing to use this option, the image of the plan administrator's manual signature will be included with the rest of the return/report posted by the Labor Department on the Internet for public disclosure; and

(5) the plan administrator must keep the manually signed copy of the Form 5500-SF, with all required schedules, as part of the plan's records. For more information on the electronic signature option, see EFAST2 All-Electronic Filing System FAQs at www.dol.gov/ebsa/faqs/faq-EFAST2.html.

[CAUTION] Service providers should consider implications of IRS tax return preparer rules.

Note. The Code permits either the plan sponsor/employer or the administrator to sign the filing. Therefore, in the case of a Form 5500-SF filed for a “one-participant plan” not subject to Title I of ERISA that is filing a Form 5500-SF with EFAST2 in lieu of filing a Form 5500-EZ on paper with the IRS (see Specific Instructions Only for “One-Participant Plans and certain foreign plans”), either may sign. However, any other Form 5500-SF that is not electronically signed by the plan administrator will be subject to rejection and civil penalties under Title I of ERISA.

The Form 5500-SF annual return/report must be filed electronically and signed. To obtain an electronic signature, go to www.efast.dol.gov and register in EFAST2 as a signer. You will be provided with a UserID and a PIN. Both the UserID and PIN are needed to sign the Form 5500-SF. The plan administrator must keep a copy of the Form 5500-SF, including schedules and attachments, with all required signatures on file as part of the plan's records. See 29 CFR 2520.103-1. Electronic signatures on annual returns/reports filed under EFAST2 are governed by the applicable statutory and regulatory requirements.

Trustee/Custodian Signature

The plan trustee or custodian may electronically sign this schedule or attach to the Form 5500 an electronic reproduction of the Schedule H signed by the plan's trustee. This electronic reproduction must be labeled “Trustee Signature” and must be included as a Portable Document Format (PDF) attachment or any alternative electronic attachment allowable under EFAST2 if this is not electronically signed. If there is more than one trustee or custodian, the trustee or custodian authorized by the others may sign. If the plan trustee or custodian is an entity, the signature must be the name of a person authorized to sign on behalf of the plan trustee or custodian.

Note. Trust information reported in this Form is for purpose of satisfying the requirements under Code section 6033(a) for an annual information return from every section 401(a) organization exempt from tax under section 501(a). The statute of limitations under Code section 6501(a) for any trust described in section 401(a), which is exempt from tax under section 501(a), will not start to run until you timely file with the appropriate trust information on this Form.

Preparer Information

Enter the “Preparer's name (including firm's name, if applicable), address, and telephone number” at the bottom of the first page of Form 5500-SF. A preparer is any person who prepares an annual return/report for compensation, or who employs one or more persons to prepare for compensation. If the person who prepared the annual return/report is not the employer named in line 2a or the plan administrator named in line 3a, you must name the person on this line. If there are several people who prepare Form 5500-SF and applicable schedules, please name the person who is primarily responsible for the preparation of the annual return/report.

Note. You must complete preparer information if you are required to file at least 250 returns of any type with the IRS during the calendar year. However, if you are a small filer (files fewer than 250 returns of any type with the IRS during the calendar year), and you do not enter preparer information on the Form 5500, then you must file the paper Form 5500-SUP with the IRS. See the Treasury regulations on “Employee Retirement Benefit Plan Returns Required on Magnetic Media” (See 79 FR 58256 at http://federalregister.gov/a/2014-23161) and Instructions for Form 5500-SUP for more information.

Specific Instructions Only for “One-Participant Plans and Certain Foreign Plans”

A “one-participant plan” is: (1) A pension benefit plan that covers only an individual or an individual and his or her spouse who wholly own a trade or business, whether incorporated or unincorporated; or (2) a pension benefit plan for a partnership that covers only the partners or the partners and the partners' spouses. Thus, a “one-participant plan” can cover more than one participant. On the other hand, merely covering only one participant does not make you eligible to file as a “one-participant plan” unless you are one of the types of plans described above.

A foreign plan is maintained outside the United States primarily for nonresident aliens, if (1) a plan is maintained by a domestic employer; or (2) a plan is maintained by a foreign employer with income derived from sources within the United States (including foreign subsidiaries of domestic employers) if contributions to the plan are deducted on its U.S. income tax return.

The Form 5500-EZ generally is used by one-participant plans and certain foreign plans that are not subject to the requirements of section 104(a) of ERISA to satisfy certain annual reporting and filing obligations imposed by the Code. One-participant plans and certain foreign plans may file the Form 5500-SF electronically in place of a Form 5500-EZ (on paper) to satisfy the filing obligations under the Code. One-participant plans and foreign plans that file the Form 5500-SF electronically complete only certain questions on the Form 5500-SF. These are the questions that would be completed if the filer filed Form 5500-EZ on paper. For more information on filing with the IRS, go to www.irs.gov or call 1-877-829-5500.

Notes. (1) A Form 5500-SF may be filed for one-participant plans and certain foreign plans that are either defined contribution pension plans (which include profit-sharing and money purchase pension plans, but not an ESOP or stock bonus plan) or defined benefit pension plans. (2) The filer of a one-participant plan or a foreign plan that is required by the Code or regulations to file at least 250 returns of any type, including information returns (for example, Forms W-2 and Forms 1099), income tax returns, employment tax returns, and excise tax returns, with the IRS during the calendar year, must use the Form 5500-SF to file the information required on the Form 5500-EZ, but will not be required to attach to the filing a Schedules SB or MB. For more information, see IRS regulations on “Employee Retirement Benefit Plan Returns Required on Magnetic Media” (See T.D. 9695, 79 FR 58256 at http://federalregister.gov/a/2014-23161). (3) Information filed on Form 5500-EZ is required to be made available to the public. Form 5500-SF is open to public inspection and the contents are public information subject to publication on the Internet. However, the information on Form 5500-SF will not be subject to publication on the internet for a “one-participant plan or a foreign plan” that is electronically filed using a Form 5500-SF with EFAST2 in lieu of filing a Form 5500-EZ on paper with the IRS.

Eligible one-participant plans and certain foreign plans need complete only the following questions on the Form 5500-SF:

1. Part I, Lines A, B, and C;

2. Part II, Lines 1a-5b; 5d(1), 5d(2), and 5(e);

3. Part III, Lines 7a-c, and 8a;

4. Part IV, Line 9a;

5. Part V, Lines 10g; and 10l

6. Part VI, Lines 11-12e.

7. Part VIII, Lines 14a-14d; and

8. Part IX, Lines 18 a, b, c, d, Line 19, and Line 20.

Note. For Lines 7a through 7c, an eligible one-participant plan or certain foreign plan need complete only for total plan assets, total plan liabilities, and net plan assets for beginning of year and end of year, and is not required to complete Line 7a(1) through 7a(8).

Schedule MB (Form 5500). If a money purchase defined contribution pension plan (including a target benefit plan) has received a waiver of the minimum funding standard, and the waiver is currently being amortized, complete Lines 3, 9, and 10 of Schedule MB (Form 5500). See the Instructions for Schedule MB in the Instructions for Form 5500 Annual Return/Report. One-participant plans and foreign plans, however, do not attach Schedule MB to the Form 5500-SF. Instead, these plans must keep the completed Schedule MB in accordance with the applicable records retention requirements.

Schedule SB (Form 5500). One-participant plans and foreign plans do not attach Schedule SB (Form 5500) to the Form 5500-SF. Instead, these plans must keep the completed Schedule SB that is signed by the plan actuary in accordance with the applicable records retention requirements. Actuaries of one-participant plans and foreign plans that are defined benefit pension plans subject to the minimum funding standards for this plan year, must complete Schedule SB (Form 5500) and forward the completed and signed Schedule SB to the plan administrator no later than the filing due date. See the Instructions for Schedule SB in the Instructions for Form 5500.

Filing Form 5500-EZ with the IRS. If you are filing a paper form, you must file the Form 5500-EZ with the IRS using the following address: Department of the Treasury, Internal Revenue Service Center, Ogden, UT 84201-0027. You may order the paper Form 5500-EZ and its instructions by visiting the IRS Web site at www.irs.gov/formspubs/.

Filing an amendment. If you are filing an amendment for a “one-participant plan” or a “foreign plan” that filed a Form 5500-SF electronically, you may submit the amendment either electronically using the Form 5500-SF with EFAST2 or on paper using the Form 5500-EZ with the IRS. If you are filing an amendment for a “one-participant plan” that previously filed on a paper Form 5500-EZ, you must submit the amendment using the paper Form 5500-EZ with the IRS. However, if you are filing an amendment for a one-participant plan or a foreign plan that is required by the Treasury regulations (See T.D. 9695, 79 FR 58256 at http://federalregister.gov/a/2014-23161 to file electronically using the Form 5500-SF, you must submit the amendment electronically using the Form 5500-SF with EFAST2.

Specific Line-by-Line Instructions (Form 5500-SF)

Part I—Annual Report Identification Information

File the 20XX Form 5500-SF annual report for a plan year that began in 20XX. Enter the beginning and ending dates in Part I. The 20 XX Form 5500-SF annual report must be filed electronically.

Check only one of the Line A box choices.

Line A(1)—Box for Single-Employer Plan. Check this box if the Form 5500-SF is filed for a single-employer plan. A single-employer plan for purposes of the Form 5500-SF is an employee benefit plan maintained by one employer or one employee organization.

Note. Do not check this box even if all of the employers maintaining the plan are members of the same controlled group or affiliated service group under Code sections 414(b), (c), or (m). Check Box A(3).

Line A(2)—Box for Multiple-Employer Plan. Check this box if the Form 5500-SF is being filed for a multiple-employer plan. A multiple-employer plan is a plan that is maintained by more than one employer and is not the type of plan described in A(3). For purposes of the Form 5500-SF, a multiple-employer plan is a plan that is maintained by more than one employer and is not a single-employer plan or a multiemployer plan. Multiple-employer plans can be collectively bargained and collectively funded, but if covered by PBGC termination insurance, they must have properly elected before September 27, 1981, not to be treated as a multiemployer plan under Code section 414(f)(5) or ERISA sections 3(37)(E) and 4001(a)(3), and have not revoked that election or made an election to be treated as a multiemployer plan under Code section 414(f)(6) or ERISA section 3(37)(G). Participating employers do not file individually for multiple-employer plans.

Note. Do not check this box if all of the employers maintaining the plan are members of the same controlled group or affiliated service group under Code sections 414(b), (c), or (m).

Except as provided below, multiple-employer pension plans required to file a Form 5500-SF must include an attachment using the format below that (1) lists each participating employer in the plan during the plan year, identified by name and employer identification number (EIN), and (2) includes a good faith estimate of each employer's percentage of the total contributions (including employer and participant contributions) made by all participating employers during the year. Any employer who was obligated to make contributions to the plan for the plan year, made contributions to the plan for the plan year, or whose employees were covered under the plan is a “participating employer” for this purpose. If a participating employer made no contributions, enter “-0-” in element (c).

The attachment must be properly identified at the top with the label “Multiple-employer Plan Participating Employer Information,” and the name of the plan, EIN, and plan number (PN) as found on the plan's Form 5500-SF.

Complete as many entries as needed to report the required information for all participating employers.

Multiple-Employer Plan Participating Employer Information
(Insert Name of Plan, and EIN/PN as shown on the Form 5500-SF)
(a) Name of participating employer | (b) EIN | (c) Percent of Total Contributions

[CAUTION]Multiemployer plans cannot use the Form 5500-SF to satisfy their annual reporting obligations. They must file the Form 5500. For these purposes, a plan is a multiemployer plan if: (a) More than one employer is required to contribute; (b) the plan is maintained pursuant to one or more collective bargaining agreements between one or more employee organizations and more than one employer; (c) an election under Code section 414(f)(5) and ERISA section 3(37)(E) has not been made; and (d) the plan meets any other applicable conditions of 29 CFR 2510.3-37. A plan that made a proper election under ERISA section 3(37)(G) and Code section 414(f)(6) on or before Aug. 17, 2007, is also a multiemployer plan.

Line A(3)—Box for Controlled Group. Check this box for a “controlled group” of corporations that is filing a single Form 5500-SF for reporting purposes. A “controlled group” is a controlled group of corporations under Code section 414(b), a group of trades or businesses under common control under Code section 414(c), or an affiliated service group under Code section 414(m).

Plans sponsored by controlled groups required to file a Form 5500-SF must include an attachment using the format below that (1) lists each controlled group member in the plan during the plan year, identified by name and employer identification number (EIN), and (2) includes a good faith estimate of each employer's percentage of the total contributions (including employer and participant contributions) made by all members during the year. Any employer who was obligated to make contributions to the plan for the plan year, made contributions to the plan for the plan year, or whose employees were covered under the plan is a “controlled group member” for this purpose. If a controlled group member made no contributions, enter “-0-” in element (c).

“Controlled Group Plan Member Information” Attachment. If you checked box A(3) for “Controlled Group Plan,” you must complete the “Controlled Group Member Information” attachment. Enter the name of the plan, EIN, and plan number (PN) as found on the plan's Form 5500-SF. Complete as many entries as needed to report the required information for all participating employers.

Controlled Group Member Information
(Heading for this chart must include Insert Name of Plan, and EIN/PN as shown on the Form 5500-SF)(Complete elements (a), (b), and (c) to provide the name, EIN, and percent of total contributions of each controlled group member.)
(a) Name of controlled group member | (b) EIN | (c) Percent of Total Contributions

Line A(4)—Box for One-Participant Plan. Check this box if the Form 5500-SF is being filed for a plan that is a “one-participant plan” (see page 7). Check the one-participant plan box only for those plans that are submitting the Form 5500-SF in place of a Form 5500-EZ (on paper) to satisfy the annual return/report filing obligations under the Code. Plans checking the box for one-participant plan should not check either the box for single-employer plan or the box for multiple-employer plan. See Specific Instructions Only for “One-Participant Plans and Certain Foreign Plans.”

Line A(5)—Box for Foreign Plans. Check this box if the Form 5500-SF is being filed for a plan that is a “foreign plan”(see page XX). Check the foreign plan box only for those plans that are submitting the Form 5500-SF in place of a Form 5500-EZ (on paper) to satisfy the annual return/report filing obligations under the Code. Plans checking the box for foreign plan should not check either the box for single-employer plan or the box for multiple-employer plan. See Specific Instructions Only for “One-Participant Plans and Certain Foreign Plans.”

Line B(1)—Box for First Return/Report. Check this box if an annual return/report has not been previously filed for this plan. For the purpose of completing this box, the Form 5500-EZ is not considered an annual return/report.

Line B(2)—Box for Final Return/Report. Check this box if this is the final report for the plan. Only check this box if all assets under the plan (including insurance/annuity contracts) have been distributed to the participants and beneficiaries or legally transferred to the control of another plan, and when all liabilities for which benefits may be paid under a welfare benefit plan have been satisfied. Do not mark the final return/report box if you are reporting participants and/or assets at the end of the plan year. If a trustee is appointed for a terminated defined benefit pension plan pursuant to ERISA section 4042, the last plan year for which a return/report must be filed is the year in which the trustee is appointed. See Box B(5) for the simplified filing requirements for PBGC-trusteed plans.

Examples:

Mergers/Consolidations. A final return/report should be filed for the plan year (12 months or less) that ends when all plan assets were legally transferred to the control of another plan.

Pension and Welfare Plans That Terminated Without Distributing All Assets. If the plan was terminated but all plan assets were not distributed, a return/report must be filed for each year the plan has assets. The return/report must be filed by the plan administrator, if designated, or by the person or persons who actually control the plan's assets/property.

Welfare Plans Still Liable To Pay Benefits. A welfare plan cannot file a final return/report if the plan is still liable to pay benefits for claims that were incurred prior to the termination date, but not yet paid. See 29 CFR 2520.104b-2(g)(2)(ii).

Line B(3)—Box for Amended Return/Report. Check this box if you have already filed for the 20XX plan year and are now filing an amended return/report to correct errors and/or omissions on the previously filed return/report.

[TIP] Check the Line B box for an “amended return/report” if you filed a previous 20XX annual return/report that was given a “Filing_Received,” “Filing_Error,” or “Filing_Stopped” status by EFAST2. Do not check the Line B box for an “amended return/report” if your previous submission attempts were not successfully received by EFAST2 because of problems with the transmission of your return/report. For more information, go to the EFAST2 Web site at www.efast.dol.gov or call the EFAST2 Help line at 1-866-GO-EFAST (1-866-463-3278).

If you need to file an amended return/report to correct errors and/or omissions in a previously filed annual return/report for the 20XX plan year AND you are eligible to file the Form 5500-SF, you may use the Form 5500-SF even if the original filing was a Form 5500. If you filed a Form 5500-SF, but determine that you were not eligible to file the Form 5500-SF, you must use the Form 5500 or Form 5500-EZ to amend your return/report.

Line B(4)—Box for Short Plan Year Return/Report. Check this box if this Form 5500-SF is being filed for a plan year period of less than 12 months. Provide the dates in Part I, Plan Year Beginning and Ending.

Line B(5)—Box for Plan Trusteed by PBGC. Plans that, as of the due date of this return, have been trusteed by PBGC under section 4041(c) or 4042 of ERISA, must check this box and enter the date of trusteeship in the space provided. Plans that check this box must complete all of Part I, Lines 1, 2, 3, 5 of Part II, and Lines 11a(3) and 11a(4) of Part IV.

Line C—Box for Extensions and DFVC Program. Check the appropriate box here if:

1. You filed for an extension of time to file this form with the IRS using Form 5558, Application for Extension of Time To File Certain Employee Plan Returns, and maintain a copy of the Form 5558 with the filer's records;

2. You are filing using the automatic extension of time to file the Form 5500-SF return/report until the due date of the federal income tax return of the employer and maintain a copy of the employer's extension of time to file the income tax return with the plan's records;

3. You are filing using a special extension of time to file the Form 5500-SF annual return/report that has been announced by the IRS, DOL, or PBGC. If you checked that you are using a special extension of time, enter a description of the extension of time in the space provided.; or

4. You are filing under the DFVC Program.

Part II—Basic Plan Information

Line 1a. Enter the formal name of the plan or enough information to identify the plan. Abbreviate if necessary. If an annual return/report has previously been filed on behalf of the plan, regardless of the type of Form that was filed (Form 5500, Form 5500-EZ, or Form 5500-SF), use the same name or abbreviations that were used on the prior filings. Once you use an abbreviation, continue to use it for that plan on all future annual return/report filings with the IRS, DOL, and PBGC. Do not use the same name or abbreviation for any other plan, even if the first plan is terminated.

Line 1b. Enter the three-digit plan or entity number (PN) that the employer or plan administrator assigned to the plan. This three-digit number, in conjunction with the employer identification number (EIN) entered on Line 2b, is used by the IRS, DOL, and PBGC as a unique 12-digit number to identify the plan.

Start at 001 for plans providing pension benefits. Start at 501 for welfare plans. Do not use 888 or 999.

Once you use a plan number, continue to use it for that plan on all future filings with the IRS, DOL, and PBGC. Failure to use the same three-digit plan/DFE number may result in correspondence from DOL or IRS. Do not use this unique three-digit number for any other plan, even if the first plan is terminated.

You should assign a plan number (PN) as described below for each Form 5500 (and Form 5500-SF) with the same EIN of plan or DFE sponsor entered into Line 2b
Pension benefit plans | 001 to the first plan. Consecutively number other plans providing pension benefits with the same plan sponsor as 002, 003 . . .
Welfare benefit plans | 501 to the first plan or GIA. Consecutively number others as 502, 503 . . .

Exception. If Part II, elements of Line 11a are completed and 333 (or a higher number in a sequence beginning with 333) was previously assigned to the plan, that number may be entered on Line 1b.

Line 1c. Enter the date the plan first became effective.

Line 2a. Limit your response to the information required in each row as specified below:

1. Enter the plan sponsor's (employer, if for a single-employer plan) name, current postal address (only use a P.O. Box number if the Post Office does not deliver mail to the employer's street address), foreign routing code where applicable, and “D/B/A” (doing business as) or trade name of the employer if different from the employer's name.

2. Enter any “in care of” (C/O) name.

3. Enter the current street address. A post office box number may be entered, in addition to the street address, if the Post Office does not deliver mail to the sponsor's street address.

4. Enter the name of the city.

5. Enter the two-character abbreviation of the U.S. state or possession and zip code.

6. Enter the foreign routing code, if applicable. Leave U.S. state and zip code blank if entering a foreign routing code and country name.

7. Enter the foreign country, if applicable. Do not abbreviate the country name after “Enter foreign country.”

8. Enter the D/B/A (the doing business as) or trade name of the sponsor if different from the plan sponsor's name.

9. Enter any second address. Use only a street address here, not a P.O. box.

Notes. (1) In the case of a multiple-employer plan, file only one annual return/report for the plan. If an association or other entity is not the sponsor, enter the name of a participating employer as sponsor. For a plan of a controlled group of corporations, the name of one of the sponsoring members should be entered. In either case, the same name must be used in all subsequent filings of the Form 5500 return/report or Form 5500-SF for the multiple-employer plan or controlled group. (See instructions for Line 5 concerning change in sponsorship). (2) You can also use the IRS Form 8822-B to notify the IRS if the address provided here is a change in your business mailing address or your business location.

Line 2b. Enter the employer's nine-digit employer identification number (EIN).

[CAUTION] Do not use a social security number in lieu of an EIN. The Form 5500-SF is open to public inspection, and the contents are public information and are subject to publication on the Internet. Because of privacy concerns, the inclusion of a social security number or any portion thereof on this line may result in the rejection of the filing.

Employers without an EIN number must apply to the IRS for one as soon as possible. The EBSA does not issue EINs. To apply for an EIN from the IRS:

• Mail or fax Form SS-4, Application for Employer Identification Number, obtained at the IRS Web site at www.irs.gov.

• Call 1-800-829-4933 to receive your EIN by telephone.

• Select the Online EIN Application link at www.irs.gov.

The EIN is issued immediately once the application information is validated. (The online application process is not yet available for corporations with addresses in foreign countries).

A multiple-employer plan or plan of a controlled group of corporations should use the EIN number of the sponsor identified in Line 2b(1). The EIN must be used in all subsequent filings of the Form 5500-SF (or any subsequent Form 5500 or Form 5500-EZ in a year where the plan is not eligible to file the Form 5500-SF) for these plans. (See instructions to Line 4 concerning change in EIN).

Note. EINs for funds (trusts or custodial accounts) associated with plans are generally not required to be furnished on the Form 5500-SF. The IRS, however, will issue EINs for such funds for other reporting purposes. EINs may be obtained as explained above. Plan sponsors should use the trust EIN described above when opening a bank account or conducting other transactions for a trust that requires an EIN.

Line 2b(2). If available, enter the global legal entity identification number (LEI). With respect to any company, the LEI is the “legal entity identifier” assigned by or on behalf of an internationally recognized standards setting body and required for reporting purposes by the U.S. Department of the Treasury's Office of Financial Research or a financial regulator. In the case of a financial institution, if a “legal entity identifier” has not been assigned, then provide the RSSD ID assigned by the National Information Center of the Board of Governors of the Federal Reserve System, if any.

Line 2c. Enter the telephone number for the plan sponsor. Use numbers only, including area code, and do not include any special characters.

Line 2d. Enter the six-digit business code that best describes the nature of the plan sponsor's business from the list of business codes on pages XX-XY. If more than one employer or employee organization is involved, enter the business code for the main business activity of the employers and/or employee organizations.

Line 3a. Limit your response to the information required in each row as specified below:

1. Enter the name and address of the plan administrator unless the administrator is the sponsor identified in Line 2. If both the plan administrator name and address are the same as the plan sponsor name and address, check the “Same as Plan Sponsor” box and disregard items 2 through 6 below.

2. Enter any “in care of” (C/O) name.

3. Enter the current street address. A post office box number may be entered, in addition to the street address, if the Post Office does not deliver mail to the administrator's street address.

4. Enter the name of the city.

5. Enter the two-character abbreviation of the U.S. state or possession and zip code.

6. Enter the foreign routing code and foreign country, if applicable. Leave U.S. state and zip code blank if entering foreign routing code and country information.

Plan administrator for this purpose means:

• The person or group of persons specified as the administrator by the instrument under which the plan is operated;

• The plan sponsor/employer if an administrator is not so designated; or

• Any other person prescribed by applicable regulations if an administrator is not designated and a plan sponsor cannot be identified.

Line 3b. Enter the plan administrator's nine-digit EIN. A plan administrator must have an EIN for Form 5500-SF reporting. If the plan administrator does not have an EIN, it must apply to the IRS for one as explained in the instructions for Line 2b. One EIN should be entered for a group of individuals who are, collectively, the plan administrator.

Note. Employees of the plan sponsor who perform administrative functions for the plan are generally not the plan administrator unless specifically designated in the plan document. If an employee of the plan sponsor is designated as the plan administrator, that employee must obtain an EIN.

Do not use a social security number in lieu of an EIN. The Form 5500-SF and its schedules and attachments are open to public inspection, and the contents are public information and are subject to publication on the Internet. Because of privacy concerns, the inclusion of a social security number or any portion thereof on this Form 5500-SF or any of it schedules or attachments may result in the rejection of the filing.

Line 3c. Enter the telephone number for the plan administrator.

Line 4. Enter the name and identifying information of the “named fiduciary.” A plan must have at least one fiduciary (a person or entity) named in the written plan, or through a process described in the plan, as having control over the plan's operation. The named fiduciary can be identified by office or by name. For some plans, it may be an administrative committee or a company's board of directors. If the named fiduciary is an entity such as a committee or board, include the name and contact information for a specific individual, as well as the name of the entity. If you are unable to determine who is the “named fiduciary,” enter the name and identifying information of the person who appointed the plan trustee.

Line 5. If the plan sponsor's name, EIN, or LEI have changed since the last annual return/report was filed for this plan, enter the plan sponsor's name, EIN, LEI, and the plan number as it appeared on the last annual return/report filed.

[CAUTION] Failure to indicate on Line 5 that a plan or plan sponsor was previously identified by a different name, employer identification number (EIN), LEI, or plan number could result in correspondence from the DOL and the IRS.

Line 5a. Enter the plan sponsor's name as it appeared on the last return/report filed.

Line 5b(1). Enter the plan sponsor's EIN as it appeared on the last return/report filed.

Line 5b(2). Enter the plan sponsor's LEI (if available) as it appeared on the last return/report filed.

Line 5c. Enter the plan sponsor's plan number as it appeared on the last return/report filed.

Line 6. Enter in element (a) the total number of participants at the beginning of the plan year. Enter in element (b) the total number of participants at the end of the plan year.

Line 7. Enter in element (a) the total number of participants with account balances as of the end of the plan year. Welfare benefit plans and defined benefit pension plans do not complete element (c). Enter in element (a)(1) the total number of active participants at the beginning of the plan year. Enter in element (a)(2) the total number of active participants at the end of the plan year.

The description of “participant” in the following instructions is only for purposes of these lines.

An individual becomes a participant covered under an employee welfare benefit plan on the earliest of:

• The date designated by the plan as the date on which the individual begins participation in the plan;

• The date on which the individual becomes eligible under the plan for a benefit subject only to occurrence of the contingency for which the benefit is provided; or

• The date on which the individual makes a contribution to the plan, whether voluntary or mandatory.

See 29 CFR 2510.3-3(d)(1). Covered dependents are not counted as participants. A child who is an “alternate recipient” entitled to health benefits under a qualified medical child support order (QMCSO) should not be counted as a participant for Line 6. An individual is not a participant covered under an employee welfare plan on the earliest date on which the individual (a) is ineligible to receive any benefit under the plan even if the contingency for which such benefit is provided should occur, and (b) is not designated by the plan as a participant. See 29 CFR 2510.3-3(d)(2).

[TIP] Before counting the number of participants, especially in a welfare benefit plan, it is important to determine whether the plan sponsor has established one or more plans for Form 5500/Form 5500-SF reporting purposes. As a matter of plan design, plan sponsors can offer benefits through various structures or combinations.

The fact that you have separate insurance policies for each different welfare benefit does not necessarily mean that you have separate plans. Some plan sponsors use a “wrap” document to incorporate various benefits and insurance policies into one comprehensive plan. In addition, whether a benefit arrangement is deemed to be a single plan may be different for purposes other than Form 5500/Form 5500-SF reporting. For example, special rules may apply for purposes of Internal Revenue Code compliance. If you need help determining whether you have a single welfare benefit plan for Form 5500/Form 5500-SF reporting purposes, you should consult a qualified benefits consultant or legal counsel.

[CAUTION] Plans that provide health benefits cannot file the Form 5500-SF regardless of size and must file the Form 5500.

For pension benefit plans, “alternate payees” entitled to benefits under a qualified domestic relations order (QDRO) are not to be counted as participants for this line.

For pension benefit plans, “participant” for this line means any individual who is included in one of the categories below.

1. Active participants (i.e., any individuals who are currently in employment covered by the plan and who are earning or retaining credited service under the plan). This includes any individuals who are eligible to elect to have the employer make payments under a Code section 401(k) qualified cash or deferred arrangement. Active participants also include any nonvested individuals who are earning or retaining credited service under the plan. This does not include (a) nonvested former employees who have incurred the break in service period specified in the plan or (b) former employees who have received a “cash-out” distribution or deemed distribution of their entire nonforfeitable accrued benefit.

2. Retired or separated participants receiving benefits (i.e., individuals who are retired or separated from employment covered by the plan and who are receiving benefits under the plan). This does not include any individual to whom an insurance company has made an irrevocable commitment to pay all the benefits to which the individual is entitled under the plan.

3. Other retired or separated participants entitled to future benefits (i.e., any individuals who are retired or separated from employment covered by the plan and who are entitled to begin receiving benefits under the plan in the future). This does not include any individual to whom an insurance company has made an irrevocable commitment to pay all the benefits to which the individual is entitled under the plan.

4. Deceased individuals who had one or more beneficiaries who are receiving or are entitled to receive benefits under the plan. This does not include any individual to whom an insurance company has made an irrevocable commitment to pay all the benefits to which the beneficiaries of that individual are entitled under the plan.

Line 7g. Enter in element (1) the number of participants who have an account balances at the beginning of the year. Enter in element (2) the number of participants included on Line 7f (total participants at the end of the plan year) who have account balances at the end of the plan year. For example, for a Code section 401(k) plan the number entered on Line 7g should be the number of participants counted on Line 7f who have made a contribution, or for whom a contribution has been made, to the plan for this plan year or any prior plan year. Enter in element (3) the number of participants that made contributions to the plan (regardless of whether the employer made contributions) during the plan year. Both defined contribution pension plans and welfare plans complete element (3). Enter in element (4) the number of participants that terminated employment during the plan year that had their entire account balance distributed as of the end of the plan year. Only defined contribution pension plans complete element (4).

Defined contribution plans must complete all of Lines 7g(1)-(4). Welfare plans must complete Line 7g(3) and should leave Line 7g(1), (2), and (4) blank. Defined benefit pension plans should skip Line 7g and should leave it blank.

Line 7h. Include any individual who terminated employment during this plan year, whether or not he or she (a) incurred a break in service, (b) received an irrevocable commitment from an insurance company to pay all the benefits to which he or she is entitled under the plan, and/or (c) received a cash distribution or deemed cash distribution of his or her nonforfeitable accrued benefit.

Part III—Form 5500-SF Eligibility Information.

If your plan is required to file an annual return/report, you may file the Form 5500-SF instead of the Form 5500 only if you meet all of the eligibility conditions listed below.

1. The plan (a) covered fewer than 100 participants at the beginning of the plan year 20XX, or (b) under 29 CFR 2520.103-1(d) was eligible to and filed as a small plan for plan year 20XX-1and covered 120 or fewer participants at the beginning of plan year 20XX (see instructions; defined benefit pension plans, welfare plans, and defined contribution pension plans that check the “first plan year” box use the number on Line 6; defined contribution pension plans use the number on Line 7g(1);

2. The plan did not hold any employer securities at any time during the plan year;

3. At all times during the plan year, the plan was 100% invested in certain secure, easy to value assets such as mutual fund shares, investment contracts with insurance companies and banks valued at least annually and that are not invested in “hard-to-value” assets, publicly traded securities held by a registered broker dealer, cash and cash equivalents, and plan loans to participants that meet the definition of “eligible plan assets” (see the instructions for Line 8a);

4. The plan is eligible for the waiver of the annual examination and report of an independent qualified public accountant (IQPA) under 29 CFR 2520.104-46 (but not by reason of enhanced bonding), which requirement includes, among others, giving certain disclosures and supporting documents to participants and beneficiaries regarding the plan's investments (see instructions for Line 8b);

5. The plan is not a multiemployer plan; and

6. The plan did not provide group health benefits.

Special conditions for filing the Form 5500-SF apply to “one-participant plans.” See Specific Instructions for “One-Participant Plans” on page 7.

Line 8a. Eligible Plan Assets. To be eligible to file the Form 5500-SF, all of the plan's assets must be “eligible plan assets.” Answer Line 8a “Yes” or “No.” Do not leave this question blank. If the answer to Line 8a is “No” you CANNOT file the Form 5500-SF and must file the Form 5500. See discussion under Who May File Form 5500-SF.

For the purposes of this line, “eligible plan assets” are assets that have a readily determinable fair market value for purposes of this annual reporting requirement as described in 29 CFR 2520.103-1(c)(2)(ii)(C), are not employer securities, and are held or issued by one of the following regulated financial institutions: a bank or similar financial institution as defined in 29 CFR 2550.408b-4(c) (for example, banks, trust companies, savings and loan associations, domestic building and loan associations, and credit unions); an insurance company qualified to do business under the laws of a state; organizations registered as broker-dealers under the Securities Exchange Act of 1934; investment companies registered under the Investment Company Act of 1940; or any other organization authorized to act as a trustee for individual retirement accounts under Code section 408. Examples of assets that would qualify as eligible plan assets for this annual reporting purpose are mutual fund shares, investment contracts with insurance companies or banks that provide the plan with valuation information at least annually, publicly traded stock held by a registered broker dealer, cash and cash equivalents held by a bank. Participant loans meeting the requirements of ERISA section 408(b)(1) are also “eligible plan assets” for this purpose whether or not they have been deemed distributed. “Eligible plan assets” do not include leveraged investments. Small plans that have such investments must file the Form 5500.

Line 8b. In addition to all of the plan's assets being eligible plan assets as defined in Line 8a, to be eligible to file the Form 5500-SF the plan also must meet the conditions for the exemption from the requirement to be audited annually by an independent qualified public accountant (IQPA) in 29 CFR 2520.104-46 and covered fewer than 100 participants as of the beginning of 20XX or, under 29 CFR 2520.103-1(d), was eligible to and filed as a small plan for plan year 20XX-1 and did not cover more than 120 participants at the beginning of plan year 20XX. For these purposes, defined benefit pension plans, welfare plans, and defined contribution pension plans that check the “first plan” year box use the participant count on Line 6, and defined contribution pension plans can use the participant count on Line 7g(1).

To be able to file the Form 5500-SF, the filer must meet the following three requirements for the audit waiver under 29 CFR 2520.104-46:

(1) as the last day of the preceding plan year, at least 95% of a small pension plan's assets were “qualifying plan assets;”

(2) the plan includes the required audit waiver disclosure in the Summary Annual Report (SAR) furnished to participants and beneficiaries, in accordance with 29 CFR 2520.104b-10. For defined benefit pension plans that are required pursuant to section 101(f) of ERISA to furnish an Annual Funding Notice (AFN), the administrator must instead either provide the information to participants and beneficiaries with the AFN or as a stand-alone notification at the time an SAR would have been due and in accordance with the rules for furnishing an SAR, although such plans do not have to furnish an SAR; and

(3) in response to a request from any participant or beneficiary, the plan administrator must furnish without charge copies of statements from the regulated financial institutions holding or issuing the plan's “qualifying plan assets.”

[CAUTION] In order to be eligible to file the Form 5500-SF, a small pension plan must meet the audit waiver conditions by virtue of having 95% or more of its assets as “qualifying plan assets” in accordance with 29 CFR 2520.104-46(b)(1)(i)(A)(1). If the small plan satisfies the conditions of the audit waiver by virtue of having an enhanced fidelity bond under 29 CFR 2520.104-46(b)(1)(i)(A)(2), the plan does not satisfy the conditions for filing the Form 5500-SF and must file the Form 5500, along with the appropriate schedules and attachments. Also, although many “qualifying plan assets” for audit waiver purposes will also be “eligible plan assets” as described in the instructions for Line 6a, the definitions are not the same. If, as of the last day of the preceding plan year, the plan was 100% invested in “eligible plan assets,” the plan would satisfy the “qualifying plan asset” prong of the audit waiver conditions. Holding all the plan's investments in “qualifying plan assets,” however, would not necessarily satisfy the conditions for filing the Form 5500-SF. For example, real estate held by a bank as trustee for a plan could be a qualifying plan asset for purposes of the small pension plan audit waiver conditions but it would not be an “eligible plan asset” for purposes of the plan being eligible to file the Form 5500-SF because real estate would not have a readily determinable fair market value as described in 29 CFR 2520.103-1(c)(2)(ii)(C).

Line 8c. If you answer “yes” because the plan provided health benefits, whether through insurance or otherwise, you must file the Form 5500 and cannot file the Form 5500-SF regardless of plan size or, if any, investment type.

Part IV—Financial Information

Note. The cash, modified cash, or accrual basis may be used for recognition of transactions in Parts I and II, as long as you use one method consistently. Round off all amounts reported on the Form 5500-SF to the nearest dollar. Any other amounts are subject to rejection. Check all subtotals and totals carefully.

Current value means fair market value where available. Otherwise, it means the fair value as determined in good faith under the terms of the plan by a trustee or named fiduciary, assuming an orderly liquidation at the time of the determination. See ERISA section 3(26).

Line 9. Plan Assets and Liabilities. Amounts reported on the Form 5500-SF for the beginning of the plan year must be the same as reported for the end of the plan year for the corresponding lines on the return/report for the preceding plan year.

Line 9a. Enter the total amount of plan assets at the beginning of the plan year in column (a). Do not include contributions designated for the 20XX plan year in column (a).

Enter the total amount of plan assets at the end of the plan year in column (b). Do not include in column (b) a participant loan that has been deemed distributed during the plan year under the provisions of Code section 72(p) and Treasury Regulations section 1.72(p)-1 if both the following circumstances apply: (1) Under the plan, the participant loan is treated as a directed investment solely of the participant's individual account; and (2) As of the end of the plan year, the participant is not continuing repayment under the loan.

If the deemed distributed participant loan is included in column (a) and both of these circumstances apply, include the value of the loan as a deemed distribution on Line 8e. However, if either of these two circumstances does not apply, the current value of the participant loan (including interest accruing thereon after the deemed distribution) should be included in column (b) without regard to the occurrence of a deemed distribution.

After a participant loan that has been deemed distributed it is included in the amount reported on Line 10e, it is no longer to be reported as an asset on Line 9a unless, in a later year, the participant resumes repayment under the loan. However, such a loan (including interest accruing thereon after the deemed distribution) that has not been repaid is still considered outstanding for purposes of applying Code section 72(p)(2)(A) to determine the maximum amount of subsequent loans. Also, the deemed distribution is not treated as an actual distribution for other purposes, such as the qualification requirements of Code section 401, including, for example, the determination of top-heavy status under Code section 416 and the vesting requirements of Treasury Regulations section 1.411(a)-7(d)(5). See Q&As 12 and 19 of Treasury Regulations section 1.72(p)-1.

The entry on Line 9a, column (b) (plan assets at end of year) must include the current value of any participant loan included as a deemed distribution in the amount reported for any earlier year if, during the plan year, the participant resumes repayment under the loan. In addition, the amount to be entered on Line 10e must be reduced by the amount of the participant loan reported as a deemed distribution for the earlier year.

Line 9b. Enter the total liabilities at the beginning and end of the plan year. Liabilities to be entered here do not include the value of future pension payments to participants. The amount to be entered in Line 9b for accrual basis filers includes, among other things:

1. Benefit claims that have been processed and approved for payment by the plan but have not been paid (including all incurred but not reported (IBNR) welfare benefit claims);

2. Accounts payable obligations owed by the plan that were incurred in the normal operations of the plan but have not been paid; and

3. Other liabilities such as acquisition indebtedness and any other amount owed by the plan.

Line 9c. Enter the net assets as of the beginning and end of the plan year. (Subtract Line 9b from Line 9a). Line 9c, column (b), must equal the sum of Line 9c, column (a), plus Line 10j (net income (loss)) and Line 10k (transfers to (from) the plan).

Line 10—Income, Expenses, and Transfers for this Plan Year.

Line 10a. Receivables. Include the total cash contributions received and/or (for accrual basis plans) due to be received.

Line 10a(1). Contributions—Employer and Employee. Plans using the accrual basis of accounting must not include contributions designated for years before the 20XX plan year on Line 10a(1). For welfare plans, report all employee contributions, including all elective contributions under a cafeteria plan (Code section 125). For pension plans, participant contributions, for purposes of this line item, also include elective contributions under a qualified cash or deferred arrangement (Code section 401(k)).

Line 10a(2). Enter the current value, at date contributed, of all other contributions, including rollovers from other plans.

Line 10b. Enter all other plan income for the plan year. Do not include transfers from other plans that are reported on Line 10k. Examples of other income received and/or receivable include:

1. Interest on investments (including money market accounts, sweep accounts, etc.)

2. Dividends. (Accrual basis plans should include dividends declared for all stock held by the plan even if the dividends have not been received as of the end of the plan year.)

3. Net gain or loss from the sale of assets.

4. Other income such as unrealized appreciation (depreciation) in plan assets.

To compute this amount, subtract the current value of all assets at the beginning of the year plus the cost of any assets acquired during the plan year from the current value of all assets at the end of the year minus assets disposed of during the plan year.

Line 10c. Enter the total of all cash contributions (Line 10a(1) through Line 10a(3)) and other plan income (Line 10b) during the plan year. If entering a negative number, enter a minus sign (“−”) to the left of the number.

Line 10d. Include: (1) payments made (and, for accrual basis filers, payments due) to or on behalf of participants or beneficiaries in cash, securities, or other property (including rollovers of an individual's accrued benefit or account balance). Include all eligible rollover distributions as defined in Code section 401(a)(31)(D) paid at the participant's election to an eligible retirement plan (including an IRA within the meaning of Code section 401(a)(31)(E)); (2) payments to insurance companies and similar organizations for the provision of plan benefits (e.g., paid-up annuities, accident insurance, etc.); and (3) payments made to other organizations or individuals providing benefits. Generally, these payments discussed in (3) are made to individual providers of welfare benefits such as legal services, day care services, and training and apprenticeship services. If securities or other property are distributed to plan participants or beneficiaries, include the current value as of the date of distribution.

Line 10e. Include on this line all distributions paid during the plan year of excess deferrals under Code section 402(g)(2)(A)(ii), excess contributions under Code section 401(k)(8), and excess aggregate contributions under Code section 401(m)(6). Include allocable income distributed. Also include on this line any elective deferrals and employee contributions distributed or returned to employees during the plan year as well as any attributable income that was also distributed.

For Line 10e, also include in the total amount a participant loan included in Line 10b, column (a) that has been deemed distributed during the plan year under the provisions of Code section 72(p) and Treasury Regulations section 1.72(p)-1 only if both of the following circumstances apply:

1. Under the plan, the participant loan is treated as a directed investment solely of the participant's individual account; and

2. As of the end of the plan year, the participant is not continuing repayment under the loan.

If either of these circumstances does not apply, a deemed distribution of a participant loan should not be included in the total on Line 10e. Instead, the current value of the participant loan (including interest accruing thereon after the deemed distribution) should be included on Lines 9a, column (b) (plan assets—end of year), and 10b (participant loans—end of year), without regard to the occurrence of a deemed distribution.

Note. The amount to be reported on Line 10d must be reduced if, during the plan year, a participant resumes repayment under a participant loan reported as a deemed distribution on Line 2g of Schedule H of a prior Form 5500 Annual Return/Report or Line 10e of a prior Form 5500-SF for any earlier year. The amount of the required reduction is the amount of the participant loan that was reported as a deemed distribution on such line for any earlier year. If entering a negative number, enter a minus sign (“−”) to the left of the number. The current value of the participant loan must then be included on line 9a, column (b) (plan assets—end of year).

Although certain participant loans deemed distributed are to be reported on Line 10e, and are not to be reported on the Form 5500-SF or on the Schedule H of the Form 5500 Annual Return/Report as an asset thereafter (unless the participant resumes repayment under the loan in a later year), they are still considered outstanding loans and are not treated as actual distributions for certain purposes. See Q&As 12 and 19 of Treasury Regulations section 1.72(p)-1.

Line 10f. The amount to be reported for expenses involving administrative service providers (salaries, fees, and commissions) includes the total fees paid (or in the case of accrual basis plans, costs incurred during the plan year but not paid as of the end of the plan year) by the plan for, among others:

1. Salaries to employees of the plan;

2. Fees and expenses for accounting, actuarial, legal, investment management, investment advice, and securities brokerage services;

3. Contract administrator fees; and

4. Fees and expenses for individual plan trustees, including reimbursement for travel, seminars, and meeting expenses.

Line 10g. Other expenses (paid and/or payable) include other administrative and miscellaneous expenses paid by or charged to the plan, including among others office supplies and equipment, telephone, and postage.

Line 10h. Enter the total of all benefits paid or due reported on Lines 10d and 10e and all other plan expenses reported on Lines 10f and 10g during the year.

Line 10i. Subtract Line 10i from Line 10b.

Line 10j. Enter the net value of all assets transferred to and from the plan during the plan year including those resulting from mergers and spinoffs. A transfer of assets or liabilities occurs when there is a reduction of assets or liabilities with respect to one plan and the receipt of these assets or the assumption of these liabilities by another plan. Transfers out at the end of the year should be reported as occurring during the plan year.

Note. A distribution of all or part of an individual participant's account balance that is reportable on Form 1099-R, Distributions From Pensions, Annuities, Retirement or Profit-Sharing Plans, IRAs, Insurance Contracts, etc., should not be included on Line 8j but must be included in benefit payments reported on Line 10d. Do not submit IRS Form 1099-R with the Form 5500-SF.

Lines 11(a)-(i). Enter the totals for the various categories as appropriate.

[CAUTION] Filers that have assets that do not fit into any of these breakout categories must file the Form 5500. If, the plan is invested in any assets other than eligible plan assets, which includes the requirement of being readily marketable, you must file the Form 5500 and required schedules. For example, if the plan holds real estate, nonpublicly traded securities, shares in a limited partnership, derivatives, notes and stock not traded on an exchange, private equity, and collectibles, or other alternative or hard-to-value assets, then the plan is required to file a Form 5500.

For reporting purposes, “common/collective trust” and “pooled separate account” are, respectively: (1) a trust maintained by a bank, trust company, or similar institution; or (2) an account maintained by an insurance carrier, which is regulated, supervised, and subject to periodic examination by a state or federal agency in the case of a CCT, or by a state agency in the case of a PSA, for the collective investment and reinvestment of assets contributed thereto from employee benefit plans maintained by more than one employer or controlled group of corporations as that term is used in Code section 1563. See 29 CFR 2520.103-3, 103-4, 103-5, and 103-9. To be eligible plan assets for Form 5500-SF reporting purposes, a bank or insurance company contract, including a CCT or PSA must not only be valued at least annually, but must itself be invested primarily in readily marketable assets.

Note. For reporting purposes, a separate account that is not considered to be holding plan assets pursuant to 29 CFR 2510.3-101(h)(1)(iii) does not constitute a pooled separate account.

Part IV—Plan Characteristics

Line 12. Benefits Provided Under the Plan. Pension plans must answer all applicable questions in Line 11a that applied during the reporting year of the plan or arrangement. Defined benefit pension plans must complete Lines 12(1)-(3), 12a(4) and 12a(9)-(11). Defined contribution pension plans must complete Lines 12a(4)-12a(11). Welfare benefit plans must complete Lines 11b(1)-(3).

Line 12a(1). Defined Benefit Pension Plans; How Benefits Are Calculated. If benefits are based primarily on pay, check the box “Benefits are primarily pay related.” If benefits are primarily flat dollar, including dollars per year of service, check the box “Benefits are primarily flat dollar.”

Check the box for “Cash balance plan” if the plan has a “cash balance” formula under which the accumulated benefit provided under the formula is expressed as the current balance of a hypothetical account maintained for the participant. For this purpose, a “cash balance” formula is a lump sum based benefit formula in a defined benefit pension plan by whatever name (for example, personal account plan, life cycle plan, cash account plan, etc.).

Check the box for “Pension equity plan (PEP)” if the plan has a “pension equity plan formula under which the accumulated benefit provided under the formula is expressed as the current value of an accumulated percentage of the participant's final average compensation or is expressed as a current single-sum dollar amount equal to a percentage of the participant's highest average compensation (with a permitted lookback period for determining highest average compensation, such as highest 5 out of the last 10 years).

Check the box for “Other hybrid plan” if the plan provides a lump sum based benefit formula that is different from the cash balance or pension equity plan formula.

Note that a benefit formula does not constitute a lump sum based benefit formula unless a distribution of the benefits under that formula in the form of a single-sum payment equals the accumulated benefit under that formula (except to the extent the single-sum payment is greater to satisfy the requirements of Code section 411(d)(6)).

Line 12a(2). Code Section Arrangements for Defined Benefit Pension Plans. Check the box for “Code section 414(k) arrangement” if benefits are based partly on the balance of the separate account of the participant (also include appropriate defined contribution pension feature codes).

Line 12a(3). Terminated Defined Benefit Pension Plan. Check “Yes” if the plan is covered by PBGC and was terminated and closed out for PBGC purposes before the end of the plan year (or a prior plan year), and either (1) the plan terminated in a standard (or distress) termination and completed the distribution of plan assets in satisfaction of all benefit liabilities (or all ERISA Title IV benefits for distress termination); or (2) a trustee was appointed for a terminated plan pursuant to ERISA section 4042.

Line 12a(4). PBGC Covered Defined Benefit Pension Plan. If you are uncertain whether the plan is covered under the PBGC termination insurance program, check the box “Not determined” and contact the PBGC either by phone at 1-800-736-2444, by Email at standard@pbgc.gov, or in writing to Pension Benefit Guaranty Corporation, Standard Termination Compliance Division, Suite 930, Processing and Technical Assistance Branch, 1200 K Street, NW., Washington, DC 20005-4026. If you checked the box “Yes,” enter the My PAA generated confirmation number for the premium filing for this plan year (see filing receipt). If you amended your premium filing for this plan year, enter the confirmation number for that filing and not for the previous filing(s). Defined contribution pension plans and welfare plans do not need to complete this item.

Line 12a(5). Frozen Plans. Check “Yes” if the plan is frozen.

Line 12a(6). Offset Arrangement. Both defined benefit and contribution plans that are part of an offset arrangement must answer this question. Check “Yes” if plan benefits are subject to offset for retirement benefits provided in another plan or arrangement of the employer. If you have checked “Yes,” enter the name, EIN of sponsor, and PN of the other plan or arrangement.

Line 12a(7). Defined Contribution Pension Plan Type(s). Defined contribution pension plans only complete this line. Check all type(s) that apply.

Line 12a(8). Defined Contribution Pension Plan Arrangements. If this is a defined contribution pension plan, check the type(s) of arrangements under which the plan operates. (Check all that apply.)

Line 12a(9). Defined Contribution Pension Plan Features. If this is a defined contribution pension plan, check all that apply to indicate features of the plan.

Check automatic enrollment feature if the plan has elective contributions from payroll and provides for automatic enrollment in the plan.

A designated Roth account is a feature in new or existing 401(k), 403(b), or governmental 457(b) plans that permit such plans to accept designated Roth contributions and certain rollovers. If a plan adopts this feature, employees can designate some or all of their elective contributions (also referred to as elective deferrals) as designated Roth contributions (which are included in gross income), rather than traditional, pre-tax elective contributions.

Check the box for “Age/service weighted plan” if allocations are based on age, service, or age and service.

New comparability or similar plan: Allocations are based on participant classifications and a classification(s) consists entirely or predominantly of highly compensated employees; or the plan provides an additional allocation rate on compensation above a specified threshold, and the threshold or additional rate exceeds the maximum threshold or rate allowed under the permitted disparity rules of Code section 401(l).

Check “other” if the plan has any other particularized features for defined contribution pension plans that are not listed above and enter a short description in the space provided.

Line 12a(10). Participant-Directed Defined Contribution Pension Plan. Check the box for ERISA section 404(c) plan if the plan, or any part of it, is intended to meet the conditions of 29 CFR 2550.404c-1.

Check the box for total participant-directed account plan if participants have the opportunity to direct the investment of all the assets allocated to their individual accounts, regardless of whether 29 CFR is intended to be met.

Check partial participant-directed account if participants have the opportunity to direct the investment of a portion of the assets allocated to their individual accounts, regardless of whether 29 CFR is intended to be met. Do not check both “total” and “partial” participant-directed account.

Check the box for participant-directed brokerage accounts if the plan provides such accounts as an investment option under the plan. If you check this box, enter the number of participants using the participant-directed brokerage account(s).

Line 12a(11). Qualified Default Investment Alternatives (QDIAs). Regardless of whether the plan is total or partial participant-directed, if the plan uses default investment alternative(s) (DIA) that are intended to be QDIA(s) for participants who fail to direct assets in their account, also check the box to so indicate. If the plan uses a QDIA for participants who fail to direct assets in their account, indicate type of default investment alternative: target date/life fund; fixed income; money market or equivalent; balanced fund; professionally managed account; or other. If other, specify the type of account. If you checked the box for “Other,” you may be using an investment alternative that does not satisfy the QDIA requirements in the Department of Labor's regulation at 29 CFR 2550.404c-5.

Line 12a(12) Eligible Combined Plan Under Code section 414(x). If the plan is an eligible combined plan under Code section 414(x), check “Yes.”

Note. In the case of an eligible combined plan under Code section 414(x) and ERISA section 210(e), you must answer all applicable for both the defined benefit pension features and the defined contribution pension features of the plan.

Line 12a(13). Check this box if a rollover from a plan was used to start up the business (ROBS) sponsoring this plan.

Line 12a(14). Other Pension Benefit Features. Check all that apply.

Notes: (1) If a plan sponsor or an employer adopted a pre-approved plan that includes a master & prototype plan or a volume submitter plan, enter the most recent adoption date and the IRS favorable opinion or advisory letter's serial number. (2) Sponsors of Puerto Rico plans, check the box to indicate that the plan is not intended to be qualified under Code sections 401, 403, or 408 only if:

i. only Puerto Rico residents participate,

ii. the trust is exempt from income tax under the laws of Puerto Rico, and

iii. the plan administrator has not made the election under ERISA section 1022(i)(2), and, therefore, the plan is not intended to qualify under section 401(a) of the Internal Revenue Code (U.S).

Line. 12b Welfare Benefit Plan Characteristics. Welfare plans must answer all applicable questions in Line 12b. Plans that provide group health benefits cannot file the Form 5500-SF; they must file the Form 5500. Pension plans skip to Line 13.

Line 12b(1). Disability Benefits. If the plan provides disability benefits, answer “Yes” and check all that apply.

Line 12b(2). Other Welfare Benefits. If the plan provides welfare benefits other than disability, answer “Yes” and check all that apply. If the type of benefits is not listed, check “other” and enter a description.

Line 13. Funding and Benefit Arrangements. Check all boxes that apply to indicate the funding and benefit arrangements used during the plan year. The “funding arrangement” is the method for the receipt, holding, investment, and transmittal of plan assets prior to the time the plan actually provides benefits. “The benefit arrangement” is the method by which the plan provides benefits to participants. For purposes of Line 13:

“Insurance” means the plan has an account, contract, or policy with an insurance company, insurance service, or other similar organization during the plan or DFE year. (This includes investments with insurance companies such as guaranteed investment contracts (GICs).) An annuity account arrangement under Code section 403(b)(1) that is required to complete the Form 5500 should mark “insurance” for both the plan funding arrangement and plan benefit arrangement. Do not check “insurance” if the sole function of the insurance company was to provide administrative services.

“Code section 412(e)(3) insurance contract” are contracts that provide retirement benefits under a plan that are guaranteed by an insurance carrier. In general, such contracts must provide for level premium payments over the individual's period of participation in the plan (to retirement age), premiums must be timely paid as currently required under the contract, no rights under the contract may be subject to a security interest, and no policy loans may be outstanding. If a plan is funded exclusively by the purchase of such contracts, the otherwise applicable minimum funding requirements of section 412 of the Code and section 302 of ERISA do not apply for the year and neither the Schedule MB nor the Schedule SB is required to be filed.

“Trust” includes any fund or account that receives, holds, transmits, or invests plan assets other than an account or policy of an insurance company. A custodial account arrangement under Code section 403(b)(7) that is required to complete the Form 5500 should mark “trust” for both the plan funding arrangement and the plan benefit arrangement.

“General assets of the sponsor” means either the plan had no assets or some assets were commingled with the general assets of the plan sponsor prior to the time the plan actually provided the benefits promised.

Example. If the plan holds all its assets invested in registered investment companies and other non-insurance company investments until it purchases annuities to pay out the benefits promised under the plan, box 13a(3) should be checked as the funding arrangement and box 12b(1) should be checked as the benefit arrangement.

Note. An employee benefit plan that checks boxes 13a(1), 13a(2), 13b(1), and/or 13b(2) must answer line 14e to report insurance fee and commission information.

Part VI—Plan Operations Compliance Questions

Line 14. Answer all lines either “Yes” or “No.” Do not leave any answer blank unless otherwise directed. For Lines 14a, b, c, d, e, f, and n, if the answer is “Yes,” an amount must be entered.

Note. “One-participant plans” should complete only Line 14g.

Line 14a. Amounts paid by a participant or beneficiary to an employer and/or withheld by an employer for contribution to the plan are participant contributions that become plan assets as of the earliest date on which such contributions can reasonably be segregated from the employer's general assets. See 29 CFR 2510.3-102. In the case of a plan with fewer than 100 participants at the beginning of the plan year, any amount deposited with such plan not later than the 7th business day following the day on which such amount is received by the employer (in the case of amounts that a participant or beneficiary pays to an employer), or the 7th business day following the day on which such amount would otherwise have been payable to the participant in cash (in the case of amounts withheld by an employer from a participant's wages), shall be deemed to be contributed or repaid to such plan on the earliest date on which such contributions or participant loan repayments can reasonably be segregated from the employer's general assets. See 29 CFR 2510.3-102(a)(2). Plans that check “Yes,” must enter the aggregate amount of all late contributions for the year. The total amount of the delinquent contributions must be included on Line 14a for the year in which the contributions were delinquent and must be carried over and reported again on Line 14a for each subsequent year (or on Line 4a of Schedule H of the Form 5500 if not eligible to file the Form 5500-SF in the subsequent year) until the year after the violation has been fully corrected by payment of the late contributions and reimbursement of the plan for lost earnings or profits. If no participant contributions were received or withheld by the employer during the plan year, answer “No.”

An employer holding participant contributions commingled with its general assets after the earliest date on which such contributions can reasonably be segregated from the employer's general assets will have engaged in a prohibited use of plan assets (see ERISA section 406). If such a nonexempt prohibited transaction occurred with respect to a disqualified person (see Code section 4975(e)(2)), file IRS Form 5330, Return of Excise Taxes Related to Employee Benefit Plans, with the IRS to pay any applicable excise tax on the transaction.

Participant loan repayments paid to and/or withheld by an employer for purposes of transmittal to the plan that were not transmitted to the plan in a timely fashion must be reported either on Line 14a in accordance with the reporting requirements that apply to delinquent participant contributions or on Line 14b. See Advisory Opinion 2002-02A, available at www.dol.gov/ebsa.

Applicants that satisfy both the DOL Voluntary Fiduciary Correction Program (VFCP) and the conditions of Prohibited Transaction Exemption (PTE) 2002-51 are eligible for immediate relief from payment of certain prohibited transaction excise taxes for certain corrected transactions, and are also relieved from the requirement to file the IRS Form 5330 with the IRS. For more information on how to apply under the VFCP, the specific transactions covered (which transactions include delinquent participant contributions to pension and welfare plans), and acceptable methods for correcting violations. See 71 FR 20261 (Apr. 19, 2006) and 71 FR 20135 (Apr. 19, 2006). All delinquent participant contributions must be reported on Line 14a at least for the year in which they were delinquent even if violations have been fully corrected by the close of the plan year. Information about the VFCP is also available on the Internet at www.dol.gov/ebsa.

Line 14b. Plans that check “Yes” must enter the amount. Check “Yes” if any nonexempt transaction with a party-in-interest occurred. Do not check “Yes” with respect to transactions that are: (1) statutorily exempt under Part 4 of Title I of ERISA; (2) administratively exempt under ERISA section 408(a); (3) exempt under Code sections 4975(c) or 4975(d); (4) the holding of participant contributions in the employer's general assets for a welfare plan that meets the conditions of ERISA Technical Release 92-01; or (5) delinquent participant contributions or delinquent loan repayments reported on Line 14a. You may indicate that an application for an administrative exemption is pending. If you are unsure whether a transaction is exempt or not, you should consult either with a qualified public accountant, legal counsel, or both. If the plan is a qualified pension plan and a nonexempt prohibited transaction occurred with respect to a disqualified person, an IRS Form 5330 is required to be filed with the IRS to pay the excise tax on the transaction.

Nonexempt transactions. Nonexempt transactions with a party-in-interest include any direct or indirect:

A. Sale or exchange, or lease, of any property between the plan and a party-in-interest.

B. Lending of money or other extension of credit between the plan and a party-in-interest.

C. Furnishing of goods, services, or facilities between the plan and a party-in-interest.

D. Transfer to, or use by or for the benefit of, a party-in-interest, of any income or assets of the plan.

E. Acquisition, on behalf of the plan, of any employer security or employer real property in violation of ERISA section 407(a).

F. Dealing with the assets of the plan for a fiduciary's own interest or own account.

G. Acting in a fiduciary's individual or any other capacity in any transaction involving the plan on behalf of a party (or represent a party) whose interests are adverse to the interests of the plan or the interests of its participants or beneficiaries.

H. Receipt of any consideration for his or her own personal account by a party-in-interest who is a fiduciary from any party dealing with the plan in connection with a transaction involving the income or assets of the plan.

Party-in-Interest. For purposes of this form, party-in-interest is deemed to include a disqualified person. See Code section 4975(e)(2). The term “party-in-interest” means, as to an employee benefit plan:

A. Any fiduciary (including, but not limited to, any administrator, officer, trustee, or custodian), counsel, or employee of the plan;

B. A person providing services to the plan;

C. An employer, any of whose employees are covered by the plan;

D. An employee organization, any of whose members are covered by the plan;

E. An owner, direct or indirect, of 50% or more of:

1. the combined voting power of all classes of stock entitled to vote or the total value of shares of all classes of stock of a corporation;

2. the capital interest or the profits interest of a partnership; or

3. the beneficial interest of a trust or unincorporated enterprise which is an employer or an employee organization described in C or D;

F. A relative of any individual described in A, B, C, or E;

G. A corporation, partnership, or trust or estate of which (or in which) 50% or more of:

1. the combined voting power of all classes of stock entitled to vote or the total value of shares of all classes of stock of such corporation,

2. the capital interest or profits interest of such partnership, or

3. the beneficial interest of such trust or estate, is owned directly or indirectly, or held by persons described in A, B, C, D, or E;

H. An employee, officer, director (or an individual having powers or responsibilities similar to those of officers or directors), or a 10% or more shareholder directly or indirectly, of a person described in B, C, D, E, or G, or of the employee benefit plan; or

I. A 10% or more (directly or indirectly in capital or profits) partner or joint venturer of a person described in B, C, D, E, or G.

[TIP] Applicants that satisfy the VFCP requirements and the conditions of PTE 2002-51 (see the instructions for Line 12a) are eligible for immediate relief from payment of certain prohibited transaction excise taxes for certain corrected transactions and the requirement to file the Form 5330 with the IRS. For more information, see 71 FR 20261 (Apr. 19, 2006) and 71 FR 20135 (Apr. 19, 2006). When the conditions of PTE 2002-51 have been satisfied, the corrected transactions should be treated as exempt under Code section 4975(c) for the purposes of answering Line 14b.

Line 14c. Plans that check “Yes” must enter the aggregate amount of fidelity bond coverage for all claims. Check “Yes” only if the plan itself (as opposed to the plan sponsor or administrator) is a named insured under a fidelity bond that is from an approved surety covering plan officials and that protects the plan from losses due to fraud or dishonesty as described in 29 CFR part 2580. Generally, every plan official of an employee benefit plan who “handles” funds or other property of such plan must be bonded. Generally, a person shall be deemed to be “handling” funds or other property of a plan, so as to require bonding, whenever his or her duties or activities with respect to given funds are such that there is a risk that such funds could be lost in the event of fraud or dishonesty on the part of such person, acting either alone or in collusion with others. Section 412 of ERISA and 29 CFR part 2580 describe the bonding requirements, including the definition of “handling” (29 CFR 2580.412-6), the permissible forms of bonds (29 CFR 2580.412-10), the amount of the bond (29 CFR part 2580, subpart C), and certain exemptions such as the exemption for unfunded plans, certain banks and insurance companies (ERISA section 412), and the exemption allowing plan officials to purchase bonds from surety companies authorized by the Secretary of the Treasury as acceptable reinsurers on federal bonds (29 CFR 2580.412-23). Information concerning the list of approved sureties and reinsurers is available on the Internet at www.fms.treas.gov/c570. For more information on the fidelity bonding requirements, see Field Assistance Bulletin 2008-04, available at www.dol.gov/ebsa.

Note. Plans are permitted under certain conditions to purchase fiduciary liability insurance. These fiduciary liability insurance policies are not written specifically to protect the plan from losses due to dishonest acts and cannot be reported as fidelity bonds on Line 13c.

Line 14d. Check “Yes” if the plan had suffered or discovered any loss as a result of any dishonest or fraudulent act(s) even if the loss was reimbursed by the plan's fidelity bond or from any other source. If “Yes” is checked enter the full amount of the loss. If the full amount of the loss has not yet been determined, provide an estimate as determined in good faith by a plan fiduciary. You must keep, in accordance with ERISA section 107, records showing how the estimate was determined.

[CAUTION] Willful failure to report is a criminal offense. See ERISA section 501.

Line 14e. If any benefits under the plan are provided by an insurance company, insurance service, or other similar organization or if the plan has investments with insurance companies such as guaranteed investment contracts (GICs), report the total of all insurance fees and commissions paid to agents, brokers and/or other persons directly or indirectly attributable to the contract(s) placed with or retained by the plan.

For purposes of Line 14e, commissions and fees include sales or base commissions and all other monetary and non-monetary forms of compensation where the broker's, agent's, or other person's eligibility for the payment or the amount of the payment is based, in whole or in part, on the value (e.g., policy amounts, premiums) of contracts or policies (or classes thereof) placed with or retained by an ERISA plan, including, for example, persistency and profitability bonuses. The amount (or pro rata share of the total) of such commissions or fees attributable to the contract or policy placed with or retained by the plan must be reported. Insurers must provide plan administrators with a proportionate allocation of commissions and fees attributable to each contract. Any reasonable method of allocating commissions and fees to policies or contracts is acceptable, provided the method is disclosed to the plan administrator. A reasonable allocation method could allocate fees and commissions based on a calendar year calculation even if the plan year or policy year was not a calendar year. For additional information on these reporting requirements, see ERISA Advisory opinion 2005-02A, available on the Internet at www.dol.gov/ebsa.

Where benefits under a plan are purchased from and guaranteed by an insurance company, insurance service, or other similar organization, and the total fees and commissions are reported on the Form 5500-SF, payments of reasonable monetary compensation by the insurer out of its general assets to affiliates or third parties for performing administrative activities necessary for the insurer to fulfill its contractual obligation to provide benefits, where there is no direct or indirect charge to the plan for administrative services other than the insurance premium, then the payments for administrative services by the insurer to the affiliates or third parties do not need to be reported on Line 14e. This would include compensation for services such as recordkeeping and claims processing services provided by a third party pursuant to a contract with the insurer to provide those services but would not include compensation provided by the insurer incidental to the sale or renewal of a policy, such as finders' fees, insurance brokerage commissions and fees, or similar fees.

Reporting also is not required for compensation paid by the insurer to a “general agent” or “manager” for that general agent's or manager's management of an agency or performance of administrative functions for the insurer. For this purpose, (1) a “general agent” or “manager” does not include brokers representing insureds, and (2) payments would not be treated as paid for managing an agency or performance of administrative functions where the recipient's eligibility for the payment or the amount of the payment is dependent or based on the value (e.g., policy amounts, premiums) of contracts or policies (or classes thereof) placed with or retained by ERISA plan(s).

Reporting is not required for occasional gifts or meals of insubstantial value which are tax deductible for federal income tax purposes by the person providing the gift or meal and would not be taxable income to the recipient. For this exemption to be available, the gift or gratuity must be both occasional and insubstantial. For this exemption to apply, the gift must be valued at less than $50, the aggregate value of gifts from one source in a calendar year must be less than $250, but gifts with a value of less than $10 do not need to be counted toward the $250 annual limit. If the $250 aggregate value limit is exceeded, then the aggregate value of all the gifts will be reportable. For this purpose, non-monetary gifts of less than $10 also do not need to be included in calculating the aggregate value of all gifts required to be reported if the $250 limit is exceeded.

Gifts from multiple employees of one service provider should be treated as originating from a single source when calculating whether the $50 or $250 thresholds apply. On the other hand, in applying the threshold to an occasional gift received from one source by multiple employees of a single service provider, the amount received by each employee should be separately determined in applying the $50 and $250 thresholds. For example, if 11 employees of a broker attend a business conference put on by an insurer designed to educate and explain the insurer's products for employee benefit plans, and the insurer provides, at no cost to the attendees, refreshments valued at $25 per individual, the gratuities would not be reportable on this line even though the total cost of the refreshments for all the employees would be $275.

These thresholds are for purposes of Line 13e reporting. Filers are cautioned that the payment or receipt of gifts and gratuities of any amount by plan fiduciaries may violate ERISA and give rise to civil liabilities and criminal penalties.

Important Reminder. The insurance company, insurance service, or other similar organization is required under ERISA section 103(a)(2) to provide the plan administrator with the information needed to complete this return/report. Your insurance company must provide you with the information you need to answer this question. If your insurance company, insurance service, or other similar organization does not automatically send you this information, you should make a written request for the information. If you have difficulty getting the information from your insurance company, contact the nearest office of the DOL's Employee Benefits Security Administration.

Line 14f. You must check “Yes” if any benefits due under the plan were not timely paid or not paid in full. Include in this amount the total of any outstanding amounts that were not paid when due in previous years that have continued to remain unpaid.

Line 14g. Code section 401(k) and other individual account pension plans must complete Line 10h. Other filers should leave Line 10h blank. Check “Yes” if there was a “blackout period.” A blackout period is a temporary suspension of more than three consecutive business days during which participants or beneficiaries of a 401(k) or other individual account pension plan were unable, or were limited or restricted in their ability, to direct or diversify assets credited to their accounts, obtain loans from the plan, or obtain distributions from the plan. A “blackout period” generally does not include a temporary suspension of the right of participants and beneficiaries to direct or diversify assets credited to their accounts, obtain loans from the plan, or obtain distributions from the plan if the temporary suspension is: (1) part of the regularly scheduled operations of the plan that has been disclosed to participants and beneficiaries; (2) due to a qualified domestic relations order (QDRO) or because of a pending determination as to whether a domestic relations order is a QDRO; (3) due to an action or a failure to take action by an individual participant or because of an action or claim by someone other than the plan regarding a participant's individual account; or (4) by application of federal securities laws. For more information, see the DOL's regulation at 29 CFR 2520.101-3 (available at www.dol.gov/ebsa).

Line 14h. Code section 401(k) and other individual account pension plans who answered “Yes” to Line 14h must complete Line 14i. Other filers should leave Line 14i blank. If there was a blackout period, did you provide the required notice not less than 30 days nor more than 60 days in advance of restricting the rights of participants and beneficiaries to change their plan investments, obtain loans from the plan, or obtain distributions from the plan? If so, check “Yes.” See 29 CFR 2520.101-3 for specific notice requirements and for exceptions from the notice requirement. Also, answer “Yes” if one of the exceptions to the notice requirement under 29 CFR 2520.101-3 applies.

Line 14i. Disclosures for Participant-Directed Accounts. All individual account plans that provide for participant-direction must provide specified disclosures under 29 CFR 2550.404a-5 with respect to each participant or beneficiary that, pursuant to the terms of the plan, has the right to direct the investment of assets held in, or contributed to, his or her individual account. Included in the required disclosures is a comparison chart. If subject to the disclosure requirements under 29 CFR 2550.404a-5, answer “Yes” and attach to your Form 5500-SF, a copy of the comparison chart for the plan year.

Line 14j. If you answered “Yes” to Line 14j, check the box to indicate whether the plan provide participants and beneficiaries the plan and investment disclosures required under 29 CFR 2550.404a-5(d)(2) and, if you answered “Yes,” attach the comparison chart(s) provided to participants and beneficiaries.

Line 14k. If you answered “Yes,” to Line 14j, enter the number of designated investment alternatives (DIAs) available under the plan and indicate the number of DIAs that are index funds.

Line 14l. If you answered “Yes,” to Line 14j, check the appropriate box to indicate whether the plan made available to participants and beneficiaries a designated investment manager (DIM). If you answered “Yes,” enter name of DIM.

Line 14m. Check “Yes,” if the plan make available to participants and beneficiaries any brokerage window, self-directed brokerage account or similar plan arrangements that enabled participants to select investments beyond those designated by the plan. If you answered “Yes” to Line 14n, enter the number of participants that utilized the account or arrangement.

Line 14n. Unrelated Business Taxable Income. Unrelated business taxable income generally means the gross income derived from any unrelated trade or business (as defined in Code section 513) regularly conducted and not substantially related to the plan's exempt purpose under Code section 512, less the deductions directly connected with carrying on the trade or business. See IRS Publication 598 for more information. Check “N/A” if this plan does not have a trust, such as 412(e)(3) fully insured plans or certain 403(b) annuity plans.

Plans that check “Yes” must enter any amount of unrelated business taxable income. Form 990-T, Exempt Organization Business Income Tax Return, is required to be filed for any gross income of $1000 or more generated by an employer's trust by the 15th day of the 4th month following the end of the trust's tax year. See Instructions to Form 990-T for more details.

Line 14o. Check “Yes” if an employer sponsoring the plan pays any of the administrative expenses of the plan that were not reported on Line 10g.

Line 14p. Check “Yes” if any person who is disqualified under ERISA Section 411, served or was permitted to serve the plan in any capacity. Section 411 of ERISA establishes a bar against certain persons serving as employee benefit plan fiduciaries or service providers because they have been convicted of any of a broad range of specified crimes. Prohibited positions and activities include consultants and advisers to plans and any entity whose activities are in whole or substantial part devoted to providing goods or services to employee benefit plans. As amended by the Comprehensive Crime Control Act of 1984, section 411 of ERISA prohibits such persons from serving plans for a period of thirteen years after such judgment or the end of imprisonment resulting from a disqualifying conviction, whichever is later, unless the sentencing court, under appropriate circumstances, has reduced the period of prohibition to not less than three years or has determined that service in any of the prohibited capacities would not be contrary to the purposes of ERISA. The prohibition takes effect upon the date of conviction (the date of entry of judgment by the trial court) or the end of imprisonment, whichever is later.

Line 14q. Check “Yes” if the plan sponsor or its affiliates provide any services to the plan in exchange for direct or indirect compensation.

Line 14r. Termination of Service Providers. Identify any service providers that have been terminated for a material failure to meet the terms of a service arrangement or failure to comply with Title I of ERISA, including the failure to provide required disclosures under 29 CFR 2550.408b-2. If the reason for termination was the failure to provide required disclosures under 29 CFR 2550.408b-2, in addition to providing an explanation in (6), check the box in element (7).

Line 14s. See 29 CFR 2520.102-2 and 2520.102-3 for style, format, and content requirements for summary plan descriptions. For distribution requirements see 29 CFR 2520.104b.

Line 14t. Defined contribution pension plans must complete Line 14t. For purposes of Line 14t, an uncashed check is one that is no longer negotiable or is subject to limited payability. Check “Yes,” if there were any uncashed checks as of the end of the plan year. If “Yes,” indicate the number of checks that were uncashed at the end of the plan year and the total value of the checks. Briefly describe the procedures followed by the plan to verify a participant's or beneficiary's address before a check was mailed. Plans must ensure that they use measures reasonably calculated to ensure actual receipt of materials by plan participants and beneficiaries, which would include procedures to keep track of participants' and beneficiaries' current mailing addresses so that information is less likely to be mailed to a bad address. See CFR 2520.104b-1(b). Also, briefly describe the procedures followed by the plan to address the uncashed checks, including steps to locate “lost participants.”

Plans should have procedures to keep track of uncashed checks. The procedures for ongoing plans should include procedures for locating “missing” participants. Plans may use the steps described in FAB 2014-01 to search for missing participants or beneficiaries, which may be helpful in particular where a check was returned as “undeliverable.” The procedures should also include a method by which plan fiduciaries keep track or are made aware of the number of uncashed checks and the amount involved. Such procedures could include contractually requiring any third party administrators to keep the plan administrator regularly informed of uncashed checks. For missing participant and beneficiary searches and distributions from terminating defined contribution pension plans, see 29 CFR 2550.404a-3; DOL Field Assistance Bulletin 2014-01 (Aug. 14, 2014).

Part VI—Pension Funding Compliance

Complete Part VI only if the plan is subject to the minimum funding requirements of Code section 412 or ERISA section 302.

All qualified defined benefit and defined contribution pension plans are subject to the minimum funding requirements of Code section 412 unless they are described in the exceptions listed under Code section 412(e)(2). These exceptions include profit-sharing or stock bonus plans, insurance contract plans described in Code section 412(e)(3), and certain plans to which no employer contributions are made.

Nonqualified employee pension benefit plans are subject to the minimum funding requirements of ERISA section 302 unless specifically exempted under ERISA sections 4(a) or 301(a).

The employer or plan administrator of a single-employer or multiple-employer defined benefit pension plan that is subject to the minimum funding requirements must file the Schedule SB (Form 5500) as an attachment to the Form 5500-SF. The employer or plan administrator of a money purchase plan that is currently amortizing a waiver of the minimum funding requirements must complete Lines 3, 9, and 10 of the Schedule MB (Form 5500) and file it as an attachment to the Form 5500-SF.

Line 15. If “Yes” is checked, attach a completed and signed Schedule SB (Form 5500), and complete Line 15a. See the instructions for the Schedule SB in the Instructions for Form 5500. If this is a defined contribution pension plan, leave blank.

Line 15a. Enter the amount from Line 40 of Schedule SB (Form 5500).

Line 16. Check the “Yes” box if the plan is a defined contribution pension plan subject to the minimum funding requirements of Code section 412 and ERISA section 302. Those money purchase plans (including target benefit plans) that are amortizing a waiver of the minimum funding standard for a prior year should fill out Line 16a and then skip to Line 17. Those defined contribution pension plans answering “Yes” to the Line 15 question that do not fill out Line 16a should fill out Lines 16b-16e.

Line 16a. If a money purchase defined contribution pension plan (including a target benefit plan) has received a waiver of the minimum funding standard, and the waiver is currently being amortized, complete Lines 3, 9, and 10 of Schedule MB (Form 5500). See instructions for Schedule MB in the Instructions for Form 5500 Annual Return/Report. The Schedule MB for a money purchase defined contribution pension plan does not need to be signed by an enrolled actuary.

Line 16b. The minimum required contribution for a money purchase defined contribution pension plan (including a target benefit plan) for a plan year is the amount required to be contributed for the year under the formula set forth in the plan document. If there is an accumulated funding deficiency for a prior year that has not been waived, that amount should also be included as part of the contribution required for the current year.

Line 16c. Include all contributions for the plan year made not later than 8½ months after the end of the plan year. Show only contributions actually made to the plan by the date the form is filed. For example, do not include receivable contributions for this purpose

Line 16d. If the minimum required contribution exceeds the contributions for the plan year made not later than 8½ months after the end of the plan year, the excess is an accumulated funding deficiency for the plan year. File IRS Form 5330, Return of Excise Taxes Related to Employee Benefit Plans, with the IRS to pay the excise tax on the deficiency. There is a penalty for not filing Form 5330 on time.

Line 16e. Check “Yes” if the minimum required contribution remaining in Line 15d will be made not later than 8½ months after the end of the plan year. If “Yes,” and contributions are actually made by this date, then there will be no reportable deficiency and IRS Form 5330 will not need to be filed.

Part VII—Plan Terminations and Transfers of Assets

Line 17a. Check “Yes” if a resolution to terminate the plan was adopted during this or any prior plan year, unless the termination was revoked and no assets reverted to the employer. If “Yes” is checked, enter in Line 17a(1) the effective date of plan termination, enter in Line 18a(2) the plan year in which assets were distributed to participants and beneficiaries (including insurance/annuity contracts) and enter in Line 17a(3) the amount of plan assets that reverted to the employer during the plan year in connection with the implementation of such termination. Enter “0” if no reversion occurred during the current plan year.

Line 17b. Transfer to other plans. If the plan transferred assets or liabilities to another plan since the date of the most recent filing, report the EIN and PN of the plan to which the assets and liabilities were transferred (i.e., the “transferee plan”). In addition, report the date of the transfer and check the box that best describes the type of transfer (see Definitions below). Do not use a social security number in lieu of an EIN or include an attachment that contains visible social security numbers. The Form 5500-SF is open to public inspection, and the contents are public information and are subject to publication on the Internet. Because of privacy concerns, the inclusion of a social security number or any portion thereof on this Schedule H or the inclusion of a visible social security number or any portion thereof on an attachment may result in the rejection of the filing.

Note. A distribution of all or part of an individual participant's account balance that is reportable on Form 1099-R should not be included on Line 17b. Do not submit Form 1099-R with the Form 5500 Annual Return/Report.

IRS Form 5310-A, Notice of Plan Merger or Consolidation, Spinoff, or Transfer of Plan Assets or Liabilities; Notice of Qualified Separate Lines of Business, may be required to be filed at least 30 days before any plan merger or consolidation or any transfer of plan assets or liabilities to another plan. There is a penalty for not filing IRS Form 5310-A on time. In addition, a transfer of benefit liabilities involving a plan covered by PBGC insurance may be reportable to the PBGC. See PBGC Form 10, Post-Event Notice of Reportable Events, and PBGC Form 10-Advance, Advance Notice of Reportable Events.

Line 17c. Transfer from other plans. If another plan transferred assets or liabilities to this plan since the date of the most recent filing, report the EIN and PN of sponsor of the plan from which the assets and liabilities were transferred (i.e., the “transferor plan”), the date of the transfer, and the box that best describes tot type of transfer.

“Consolidation” means a transaction in which two or more plans transfer all of their assets and liabilities to a new plan and, as a result, cease to exist (because the transferor plans become part of the new transferee plan). It differs from a Merger because in a Merger, the transferee plan existed before the transaction. In a consolidation, the transferee plan is a new plan that is created in the Consolidation. Thus, the plan that exists after the Consolidation follows the PBGC premium filing rules for new plans.

“Merger” means a transaction I which one or more plans transfer all of their assets and liabilities to an existing plan and, as a result, cease to exist (because the transferor plan(s) become part of the transferee plan). It differs from a Consolidation because in a Consolidation, the transferee plan did not exist before the transaction. In a Merger, the transferee plan is an existing plan and follows the rules for a preexisting, ongoing plan.

“Spinoff” means a transaction in which the transferor plan transfers only part of its assets and/or liabilities to the transferee plan. The transferee plan may be a new plan that is created in the Spinoff, or it may be a preexisting plan that simply receives part of the assets or liabilities of the transferor plan.

Note: If Final Return/Report is checked on the Form 5500 or Form 5500-SF, information should be entered an at least one of Lines 17a, 17b, or 17c. Participant-directed transfers do not need to be reported on Line 17c. If you reported transfers of assets and liabilities to this plan on Line 10k, information should be entered in Line 17d.

Line 17d. Defined Contribution Pension Plan—Transfers to financial institution. If the filer is a defined contribution pension plan, indicate whether, as part of the procedures for terminating the plan, transferred plan assets to a financial institution(s), establishing interest bearing federally insured bank accounts in the name of missing participants in connection with terminating the plan. If “Yes,” complete elements (1)-(5). List each financial institution where plan assets were transferred and continue reporting until the plan terminates and the final return/report is filed. For more information on making provisions for lost or missing participants, see DOL Field Assistance Bulletin 2014-01.

Part VIII—Trust Information

Line 18a. Enter the “Name of trust.” If a plan uses more than one trust or custodial account for its fund, you should enter the primary trust or custodial account in which the greatest dollar amount or largest percentage of the plan assets as of the end of the plan year is held on this line. For example, if a plan uses three different trusts, X, Y, Z, with the percentages of plan assets, 35%, 45%, and 20%, respectively, trust Y that held the 45% of plan assets would be entered in Line 18a.

Line 18b. Enter the “Trust's Employer Identification Number (EIN)” assigned to the employee benefit trust or custodial account, if one has been issued to you. The trust EIN should be used for transactions conducted for the trust. If you do not have a trust EIN, enter the EIN you would use on Form 1099-R, Distributions From Pensions, Annuities, Retirement or Profit-Sharing Plans, IRAs, Insurance Contracts, etc., to report distributions from employee benefit plans and on Form 945, Annual Return of Withheld Federal Income Tax, to report withheld amounts of income tax from those payments.

Do not use a social security number in lieu of an EIN. Form 5500 and its attachments are open to public inspection, and the contents are public information and are subject to publication on the Internet. Because of privacy concerns, the inclusion of a social security number or any portion thereof may result in the rejection of the filing.

Trust EINs can be obtained from the IRS by applying for one on Form SS-4, Application for Employer Identification Number. See Instructions to Line 2b (Form 5500) for applying for an EIN. Also see IRS EIN application link page for further information.

Line 18c. Enter the name of the plan trustee or custodian.

Line 18d. Enter the telephone number for the plan trustee or custodian.

Part IX—IRS Compliance Questions [New]

Note. If you are required to file an annual return of employee benefit plans under Code section 6058, you must complete this part from Lines 18 through 24, unless you are required to file fewer than 250 returns of any type with the IRS, including information returns (for example, Forms W-2 and Forms 1099), income tax returns, employment tax returns, and excise tax returns during the calendar year, then you can alternatively file Form 5500-SUP with the IRS on paper. See the Treasury regulations on “Employee Retirement Benefit Plan Returns Required on Magnetic Media” (See T.D. 9695, 79 FR 58256 at http://federalregister.gov/a/2014-23161) and Instructions for Form 5500-SUP for more information.

Line 19a. Check “Yes” if the plan includes a cash or deferred arrangement (CODA), under which a covered employee may elect to have the employer either contribute an amount to the plan's trust on behalf of the employee or to pay the employee directly in cash or some other taxable benefit. The contributions go into an individual account, with the employee often choosing the investments based on options provided under the plan. In some plans, the employer also makes contributions, such as contributions that match the employee's contributions up to a certain percentage.

Line 19b.

If Line 19a is “Yes,” check the applicable method used to satisfy the nondiscrimination requirements of Code section 401(k). A safe harbor 401(k) plan is similar to a traditional 401(k) plan but, among other things, it must provide for employer contributions. These contributions may be employer matching contributions, limited to employees who defer, or employer contributions made on behalf of all eligible employees, regardless of whether they make elective deferrals. The safe harbor 401(k) plan is not subject to the complex annual nondiscrimination tests that apply to traditional 401(k) plans. Check “Design-based safe harbor method” if this is a safe harbor 401(k) plan that is a SIMPLE 401(k) plan under Code section 401(k)(11), a safe harbor 401(k) plan under Code section 401(k)(12), or a qualified automatic contribution arrangement under Code section 401(k)(13).

If the plan, by its terms, does not satisfy the safe harbor method, it generally must satisfy the regular nondiscrimination test, known as the actual deferral percentage (ADP) test. Check the appropriate box to indicate if the plan uses the “current year” ADP test or the “prior year” ADP test. Check “current year” ADP test if the plan uses the current year testing method under which the ADP test is performed by comparing the current plan year's ADP for HCEs with the current plan year's (rather than the prior plan year's) ADP for NHCEs. Check all boxes that apply for a plan that tests different groups of employees on a disaggregated basis. Check “N/A” if the plan is not required to test for nondiscrimination under Code section 401(k)(3), such as a plan in which no HCE is benefitting.

Line 20a. Check the applicable testing method used to satisfy the minimum coverage requirements under Code section 410(b). Check “N/A” if the plan is deemed to satisfy section 410(b) automatically, such as a plan in which no HCE is benefitting. Check all boxes that apply for a plan that tests different groups of employees on a disaggregated basis.

Line 20b. Check “Yes” if this plan was permissively aggregated with another plan to satisfy requirements under Code sections 410(b) and 401(a)(4). Generally, each single plan must separately satisfy the coverage and nondiscrimination requirements. However, an employer may designate two or more separate plans as a single plan for purposes of applying the ratio percentage test of Treasury Regulations section 1.410(b)-2(b)(2) or the nondiscretionary classification test of Treasury Regulations section 1.401(b)-4. Two or more plans that are permissively aggregated and treated as a single plan for purposes of the minimum coverage test of Code section 410(b) must also be treated as a single plan for purpose of the nondiscrimination test under Code section 401(a)(4). See Treasury Regulations sections 1.410(b)-7 and 1.401(a)(4)-(9) for more information.

Line 21. Check “Yes” if the plan does not satisfy any exceptions under Treasury Regulation section 1.401(a)26)-1(b) if it benefitted at least the lesser of: 50 employees of the employer, or the greater of: 40 percent of all employees of the employer, or 2 employees (or if there is only 1 employee, such employer). The definition of employer includes all related employers under Code sections 414(b), (c) or (m). In performing the participation tests, the employees who are excludable are generally the same as those who are excludable for purposes of performing coverage tests under Code section 410(b), see Treasury Regulation section 1.401(a)(26)-6. In addition, for most plans the definition of who is benefiting under the plan for the purposes of the participation tests is the same as the definition of benefiting employees for purposes of coverage tests under Code section 410(b), see Treasury Regulation section 1.401(a)(26)-5.

Line 22a. If a plan sponsor or an employer adopted a pre-approved plan that includes a master & prototype plan (a standardized or nonstandardized M&P) or a volume submitter plan, enter the date of the most recent favorable opinion or advisory letter issued by the IRS and the serial number listed on that favorable letter.

Line 22b. If it is an individually-designed plan and received a favorable determination letter from the IRS, enter the date of the most recent determination letter. Leave it blank if this individually-designed plan has never received a favorable determination letter.

Line 23a. A section 401(k) plan may (in accordance with the plan document) allow participants to receive hardship distributions under Code section 401(k)(2)(B)(i)(IV). A distribution from a participant's elective deferral account can only be made if the distribution is because of an immediate and heavy financial need, and the amount should be limited to what is necessary to satisfy that financial need. Hardship withdrawals are subject to income taxes and a 10% additional tax on distributions before age 59½”. Employees who take a hardship distribution cannot repay it to the plan.

Line 23b. This is for a defined benefit plan or a money purchase pension plan only. Check “Yes” if the plan made any distributions during the plan year to employees who have attained age 62 and who were not separated from service when the distributions were made, as permitted under Code section 401(a)(36).

Note. Any distribution above made prior to age 59½ would be subject to an additional 10% tax under Code section 72(t).

Line 24. Check “Yes” if required minimum distributions were made to 5% owners who attained age 70½ and older. Required Minimum Distributions (RMDs) generally are minimum amounts that a retirement plan account owner must withdraw annually starting with the year that he or she reaches 70½ years of age or, if later, the year in which he or she retires. However, if the account owner is a 5% owner of the business sponsoring the retirement plan, the RMDs must begin once the account holder is age 70½, regardless of whether he or she is retired.

Line 25. Check “Yes” if the plan has ceased employer and/or employee contributions and prohibited entry by new participants.

ERISA Compliance Quick Checklist

Compliance with the Employee Retirement Income Security Act (ERISA) begins with knowing the rules. Plan administrators and other plan officials can use this checklist as a quick diagnostic tool for assessing a plan's compliance with certain important ERISA rules; it is not a complete description of all ERISA's rules and it is not a substitute for a comprehensive compliance review. Use of this checklist is voluntary, and it is not be filed with your Form 5500-SF.

If you answer “No” to any of the questions below, you should review your plan's operations because you may not be in full compliance with ERISA's requirements.

1. Have you provided plan participants with a summary plan description, summaries of any material modifications of the plan, and annual summary financial reports or annual pension funding reports?

2. Do you maintain copies of plan documents at the principal office of the plan administrator for examination by participants and beneficiaries?

3. Do you respond to written participant inquires for copies of plan documents and information within 30 days?

4. Does your plan include written procedures for making benefit claims and appealing denied claims, and are you complying with those procedures?

5. Is your plan covered by fidelity bonds protecting the plan against losses due to fraud or dishonesty by persons who handle plan funds or other property?

6. Are the plan's investments diversified so as to minimize the risk of large losses?

7. I f the plan permits participants to select the investments in their plan accounts, has the plan provided them with enough information to make informed decisions?

8. Has a plan official determined that the investments are prudent and solely in the interest of the plan's participants and beneficiaries, and evaluated the risks associated with plan investments before making the investments?

9. Did the employer or other plan sponsor send participant contributions to the plan on a timely basis?

10. Did the plan pay participant benefits on time and in the correct amounts?

11. Did the plan give participants and beneficiaries 30 days advance notice before imposing a “blackout period” of at least three consecutive business days during which participants or beneficiaries of a 401(k) or other individual account pension plan were unable to change their plan investments, obtain loans from the plan, or obtain distributions from the plan?

If you answer “Yes” to any of the questions below, you should review your plan's operations because you may not be in full compliance with ERISA's requirements.

1. Has the plan engaged in any financial transactions with persons related to the plan or any plan official? (For example, has the plan made a loan to or participated in an investment with the employer?)

2. Has the plan official used the assets of the plan for his/her own interest?

3. Have plan assets been used to pay expenses that were not authorized in the plan document, were not necessary to the proper administration of the plan, or were more than reasonable in amount?

If you need help answering these questions or want additional guidance about ERISA requirements, a plan official should contact the U.S. Department of Labor Employee Benefits Security Administration office in your region or consult with the plan's legal counsel or professional employee benefit advisor.

Statutory Authority

Accordingly, pursuant to the authority in sections 101, 103, 104, 109, 110 and 4065 of ERISA and sections 6058 and 6059 of the Code, the Form 5500 Annual Return/Report and the instructions thereto are proposed to be amended as set forth herein.

Signed at Washington, DC, this 20th day of June 2016.
Phyllis C. Borzi,
Assistant Secretary, Employee Benefits Security Administration, U.S. Department of Labor.

Signed at Washington, DC, this 20th day of June 2016.

Robert S. Choi, Director,
Employee Plans, Tax Exempt and Government Entities Division, Internal Revenue Service.
Signed at Washington, DC, this 20th day of June 2016.
W. Thomas Reeder,
Director, Pension Benefit Guaranty Corporation.

[FR Doc. 2016-14893 Filed 7-11-16; 4:15 pm]

BILLING CODE 4510-29-P